DEPARTMENT OF HOUSING AND URBAN DEVELOPMENT

[Docket No. FR-6200-FA-19, FR-6200-FA-25, FR-6200-FA-34, & FR-6200-FA-39]

Announcement of Funding Awards

AGENCY: Office of Business Transformation, HUD.

ACTION: Notice.

SUMMARY: In accordance with the Department of Housing and Urban Development (HUD) Reform Act of 1989, this announcement notifies the public of funding decisions made by the Department in competitions for funding under the Notices of Funding Availability (NOFAs) for the following programs: FY 2018 Self-Help Homeownership Opportunity Program (SHOP) Competition, FY 2018 Continuum of Care Program Competition, FY 2018 Choice Neighborhoods Implementation; and The FY 2018 Veterans Housing Rehabilitation Modification Pilot Program.

FOR FURTHER INFORMATION CONTACT: Office of Business Transformation, Grants Management and Oversight Division at AskGMO@hud.gov or the contact person listed in each appendix.

SUPPLEMENTARY INFORMATION: The FY 2018 Self-Help Homeownership Opportunity Program (SHOP) competition was announced in the NOFA published on grants.gov on September 12, 2018, FR-6200-N-19 and which closed on November 12, 2018. Applications were rated and selected for funding based on selection criteria contained in the NOFA. HUD awarded 4 recipients $10,000,000 for eligible national and regional non-profit organizations and consortia to purchase home sites and develop or improve the infrastructure needed to set the stage for sweat equity and volunteer-based homeownership programs for low-income persons and families. Through this NOFA, HUD is making $10,000,000 of FY2018 Self-Help Homeownership Opportunity Program (SHOP) grant funds available to national and regional non-profit organizations and consortia. SHOP funds must be used for eligible expenses to develop decent, safe and sanitary non-luxury housing for low-income persons and families who otherwise would not be able to afford to become homeowners.

The FY 2018 Continuum of Care Program competition was announced in the NOFA published on grants.gov on June 20, 2018, FR-6200-N-25 and which closed on September 18, 2018. Applications were rated and selected for funding based on selection criteria contained in the NOFA. HUD awarded to 6,791 recipients $2,167,075,776 to house persons experiencing homelessness throughout the country. This NOFA also included up to $50 million for Domestic Violence (DV) Bonus projects.

The FY 2018 Choice Neighborhoods Implementation Grants competition was announced in the NOFA published on grants.gov on May 18, 2018, FR-6200-N-34 and which closed on September 18, 2018. Applications were rated and selected for funding based on selection criteria contained in the NOFA. HUD awarded 3 recipients $85,000,000 to leverage significant public and private dollars to support locally driven strategies that address struggling neighborhoods with distressed public or HUD-assisted housing through a comprehensive approach to neighborhood transformation. Local leaders, residents, and stakeholders, such as public housing authorities, cities, schools, police, business owners, nonprofits, and private developers, come together to create and implement a plan that revitalizes distressed HUD housing and addresses the challenges in the surrounding neighborhood. The program helps communities transform neighborhoods by revitalizing severely distressed public and/or assisted housing and catalyzing critical improvements in the neighborhood, including vacant property, housing, businesses, services and schools.

The FY2018 Veterans Housing Rehabilitation Modification Pilot Program competition was announced in the NOFA published on grants.gov on April 19, 2018, FR-6200-N-39 and which closed on June 25, 2018. Applications were rated and selected for funding based on selection criteria contained in the NOFA. HUD awarded 8 recipients $7,430,000 to explore the potential benefits of awarding grants to nonprofit organizations to rehabilitate and modify the primary residence of veterans who are low-income and living with disabilities.

In accordance with section 102(a)(4)(C) of the Department of Housing and Urban Development Reform Act of 1989 (103 Stat. 1987, 42 U.S.C. 3545(a)(4)(C)), the Department is publishing the awardees and the amounts of the awards in Appendix A to this document.

Dated: August 20, 2019.
Dorthera Yorkshire,
Acting Director, Grants Management and Oversight.

Appendix A

FY2018 Self-Help Homeownership Opportunity Program (SHOP)

Contact: Jackie L. Williams (202) 402-4611.

Organization | Address | City | County | Zip code | Amount
Habitat for Humanity International | 322 West Lamar Street | Americus | GA | 31709-3423 | $5,321,723
Tierra del Sol Housing Corporation | P.O. Box 2626 | Anthony | NM | 88021-9346 | 2,138,174
Community Frameworks | 907 West Riverside Avenue | Spokane | WA | 98337-1902 | 1,338,071
Housing Assistance Council | 1025 Vermont Avenue NW, Suite 606 | Washington | DC | 20005-3516 | 1,202,032
|  |  |  |  | 10,000,000

Appendix B

FY2018 Continuum of Care Program Competition

Contact: Ebony Rankin (202) 402-2505.

Recipient/project name | Address | City | ZIP | Amount
Abused Women's Aid in Crisis, Inc./AWAIC Rapid ReHousing Program | 100 W 13th Avenue | Anchorage | 99501 | $158,313
Abused Women's Aid in Crisis, Inc./Rapid Re-Housing for Domestic Violence Victims with Substance Use Issues | 100 W 13th Avenue | Anchorage | 99501 | 133,166
Alaska Housing Finance Corporation/2018 CoC ANC SRA | P.O. Box 101020 | Anchorage | 99510 | 705,406
Anchorage Coalition to End Homelessness/Anchorage Coordinated Entry System Project | P.O. Box 243041 | Anchorage | 99524 | 77,600
Anchorage Coalition to End Homelessness/Anchorage Dedicated HMIS Project | P.O. Box 243041 | Anchorage | 99524 | 175,994
Anchorage Coalition to End Homelessness/CoC Planning Project Application FY2018 | P.O. Box 243041 | Anchorage | 99524 | 85,413
Anchorage Housing Initiatives, Inc./Coming Home I | 315 Barrow Street | Anchorage | 99501 | 129,811
Anchorage Neighborhood Housing Services, Inc. dba NeighborWorks Alaska/Resources and Initiatives to Support and Empower | 2515 A Street | Anchorage | 99503 | 863,363
Covenant House Alaska/Rights of Passage | 755 “A” Street | Anchorage | 99501 | 241,062
Rural Alaska Community Action Program, Inc./325 East 3rd Avenue | 731 East 8th Ave | Anchorage | 99501 | 542,530
Alaska Coalition on Housing and Homelessness/AK Balance of State Dedicated HMIS Project | P.O. Box 200862 | Anchorage | 99520 | 30,206
Alaska Housing Finance Corporation/2018 CoC KPH SRA | P.O. Box 101020 | Anchorage | 99510 | 23,272
Alaska Housing Finance Corporation/2018 CoC SVP SRA | P.O. Box 101020 | Anchorage | 99510 | 61,440
Alaska Housing Finance Corporation/2018 CoC TCC HsgFst PSH—CH | P.O. Box 101020 | Anchorage | 99510 | 98,545
Alaska Housing Finance Corporation/2018 CoC VRS SRA | P.O. Box 101020 | Anchorage | 99510 | 73,279
Alaska Housing Finance Corporation/AK-501 CoC Planning Application FY2018 | P.O. Box 101020 | Anchorage | 99510 | 23,295
Interior Alaska Center for Non-Violent Living/Burch Supportive Housing | 726 26th Avenue, Suite 1 | Fairbanks | 99701 | 91,918
Interior Alaska Center for Non-Violent Living/Our House—PSH | 726 26th Avenue, Suite 1 | Fairbanks | 99701 | 68,551
Juneau Housing First Collaborative/Juneau Housing First Collaborative | 1944 Allen Court | Juneau | 99801 | 67,956
No Limits Incorporated/Home Free PSH new project | 253 Romans Way | Fairbanks | 99701 | 49,086
Nome Community Center/AK 501 NCC—NEST PSH | P.O. Box 98 505 W 3rd St | Nome | 99762 | 55,732
St. Vincent De Paul Society Diocesan Council Southeast Alaska/Paul's Place SHP | 8617 Teal St | Juneau | 99801 | 34,714
The LeeShore Center/Supportive Housing Program | 325 S Spruce St | Kenai | 99611 | 67,313
Valley Charities, Inc./Neighbor to Neighbor: A Community Solution to Homelessness | 400 N Yenlo St | Wasilla | 99654 | 67,364
AIDS Alabama, Inc./Ascension Project Consolidated FY2018 | 3529 7th Avenue South | Birmingham | 35222 | 982,136
AIDS Alabama, Inc./Le Transclusive Project Consolidated FY2018 | 3529 7th Avenue South | Birmingham | 35222 | 446,360
AIDS Alabama, Inc./Way Station TH/RRH FY2018 | 3529 7th Avenue South | Birmingham | 35222 | 295,921
First Light, Inc./Fourth floor 2018 Renewal | 2230 4th Avenue North | Birmingham | 35203 | 103,515
First Light, Inc./Rapid Rehousing for families and individuals 2018 | 2230 4th Avenue North | Birmingham | 35203 | 472,535
First Light, Inc./TRIO-PSH 2018 | 2230 4th Avenue North | Birmingham | 35203 | 389,302
Jefferson County Housing Authority/AL0013L4C001710 | 3700 Industrial Parkway | Birmingham | 35217 | 3,463,615
Jefferson-Blount-St Clair Mental Health Authority/Expansion of Supportive Hsg Program FY18 | 940 Montclair Road Suite 200 | Birmingham | 35213 | 214,895
Jefferson-Blount-St. Clair Mental Health Authority/REACT Supportive Housing FY18 | 940 Montclair Road Suite 200 | Birmingham | 35213 | 596,024
Jefferson-Blount-St. Clair Mental Health Authority/Supportive Housing Program FY18 | 940 Montclair Road Suite 200 | Birmingham | 35213 | 269,662
One Roof/AL-500 CoC Planning Application FY2018 | 1515 6th Avenue South | Birmingham | 35233 | 259,416
One Roof/Coordinated Assessment | 1515 6th Avenue South | Birmingham | 35233 | 377,643
One Roof/HMIS Consolidated Grant | 1515 6th Avenue South | Birmingham | 35233 | 282,480
Pathways Inc./Safe Haven Shelter for Women | Pathways 409 North Richard Arrington Jr. Blvd | Birmingham | 35203 | 142,468
The Cooperative Downtown Ministries, Inc./FY2018 Nashamah | P.O. Box 11722 | Birmingham | 35202 | 223,262
The Cooperative Downtown Ministries, Inc./PY18 Safe Haven Renewal | P.O. Box 11722 | Birmingham | 35202 | 128,834
The Cooperative Downtown Ministries, Inc./PY2018 Consolidated PSH Expansion | P.O. Box 11722 | Birmingham | 35202 | 249,192
The Cooperative Downtown Ministries, Inc./PY2018 PSH | P.O. Box 11722 | Birmingham | 35202 | 473,144
Youth Towers Inc./TH/RRH Hybrid | 601 19th Street North | Birmingham | 35203 | 112,110
Housing First, Inc./CoC Planning Activities 2018 | 3929 Airport Blvd. Building 3, Suite 110 | Mobile | 36609 | 112,248
Housing First, Inc./Community Connections Network | 3929 Airport Blvd. Building 3, Suite 110 | Mobile | 36609 | 752,973
Housing First, Inc./Community Housing Program | 3929 Airport Blvd. Building 3, Suite 110 | Mobile | 36609 | 1,008,672
Housing First, Inc./Disabled Homeless Program PH | 3929 Airport Blvd. Building 3, Suite 110 | Mobile | 36609 | 562,261
Housing First, Inc./Homeless Management Information System | 3929 Airport Blvd. Building 3, Suite 110 | Mobile | 36609 | 173,723
Housing First, Inc./Permanent Housing Chronic Homeless | 3929 Airport Blvd. Building 3, Suite 110 | Mobile | 36609 | 457,641
Housing First, Inc./RRH for Families and Youth | 3929 Airport Blvd. Building 3, Suite 110 | Mobile | 36609 | 252,849
Housing First, Inc./RRH for Families and Youth Expansion | 3929 Airport Blvd. Building 3, Suite 110 | Mobile | 36609 | 224,495
State of Alabama/ADMH MI-Rental Assistance Mobile based project | 100 North Union Street RSA Union Building Suite 420 | Montgomery | 36130 | 266,939
Community Action Agency of Northwest Alabama, Inc./PH & Supportive Services 2018 | 745 Thompson Street | Florence | 35630 | 407,578
Homeless Care Council of Northwest Alabama/CoC Planning Grant FY 2018 | 118 E Mobile St, Suite 309 | Florence | 35630 | 17,104
United Way of Northwest Alabama/HMIS | 118 E Mobile Street, Suite 300 P.O. Box 1228 | Florence | 35631 | 38,375
Huntsville Housing Authority/Shelter Plus Care 2018 | 200 Washington Street | Huntsville | 35801 | 400,402
North Alabama Coalition for the Homeless, Inc./2018 CoC Planning | 1580 Sparkman Drive Suite 111 | Huntsville | 35816 | 27,551
North Alabama Coalition for the Homeless, Inc./2018 Consolidated Coordinated Entry | 1580 Sparkman Drive Suite 111 | Huntsville | 35816 | 80,087
North Alabama Coalition for the Homeless, Inc./2018 HMIS Expanded | 1580 Sparkman Drive Suite 111 | Huntsville | 35816 | 39,000
North Alabama Coalition for the Homeless, Inc./2018 HMIS Renewal | 1580 Sparkman Drive Suite 111 | Huntsville | 35816 | 117,498
HandsOn River Region/HMIS Project | 101 Coliseum Boulevard | Montgomery | 36109 | 71,667
Montgomery Area Coalition for the Homeless, Inc./AL-504 CoC Planning Application FY2018 | 101 Coliseum Blvd. | Montgomery | 36109 | 47,531
Montgomery Area Coalition for the Homeless, Inc./MACH Coordinated Assessment Network (MACH C.A.N)—SSO-CE | 101 Coliseum Blvd | Montgomery | 36109 | 59,424
Montgomery Area Mental Health Authority, Inc./525—Supportive Housing for Person with Dual Diagnosis | 2140 Upper Wetumpka Rd | Montgomery | 36107 | 890,680
The Montgomery Area Family Violence Program, Inc./Joint Rapid Rehousing and Transitional Housing (Phase II) for Victims of Domestic Violence | P.O. Box 5160 | Montgomery | 36103 | 124,733
The Montgomery Area Family Violence Program, Inc./Joint RRH & TH Phase II for DV Victims—Expansion | P.O. Box 5160 | Montgomery | 36103 | 58,194
The Montgomery Area Family Violence Program, Inc./Phase I Transitional Housing Program for Family Violence Victims | P.O. Box 5160 | Montgomery | 36103 | 167,788
City of Tuscaloosa/City of Tuscaloosa FY 2018 HMIS Renewal Project | 2201 University Boulevard | Tuscaloosa | 35401 | 42,000
The Salvation Army, A Georgia Corporation/2018 Veterans Transitional Living Program | 2902 Greensboro Ave N/A | Tuscaloosa | 35401 | 15,559
The Tuscaloosa Housing Authority/FY2018CoC76Renewal | 2117 Jack Warner Parkway | Tuscaloosa | 35401 | 50,700
The Tuscaloosa Housing Authority/FY2018CoC87Renewal | 2117 Jack Warner Parkway | Tuscaloosa | 35401 | 95,040
State of Alabama/ADMH MI-Rental Assistance Rural based project | 100 North Union Street RSA Union Building Suite 420 | Montgomery | 36130 | 96,624
The Alabama Rural Coalition for the Homeless/AL-507 CoC Planning Application FY2018 | Post Office Box 451 | Montgomery | 36101 | 118,565
The Alabama Rural Coalition for the Homeless/ARCH CONNECT 2018 | Post Office Box 451 | Montgomery | 36101 | 493,244
The Alabama Rural Coalition for the Homeless/ARCH PROJECT CHANGING LIVES 2018 | Post Office Box 451 | Montgomery | 36101 | 196,849
The Alabama Rural Coalition for the Homeless/HMIS Project | Post Office Box 451 | Montgomery | 36101 | 131,211
The Alabama Rural Coalition for the Homeless/Rural Housing Stability Assistance Program (RH-SAP) 2018 | Post Office Box 451 | Montgomery | 36101 | 148,758
Better Community Development, Inc./Beyond Shelter 2018 AR0004L6F001609 | 3805 West 12th Street Suite 203 | Little Rock | 72204 | 43,890
City of Little Rock/AR-500 CoC Planning Application FY2018 | 500 West Markham, Suite 120 W | Little Rock | 72201 | 65,700
Little Rock Community Mental Health Center, Inc./Arkansas Management Information System | 1100 North University Avenue | Little Rock | 72207 | 99,210
Little Rock Community Mental Health Center, Inc./LRCMHC Joseph Project | 1100 North University Avenue | Little Rock | 72207 | 397,978
Little Rock Community Mental Health Center, Inc./LRCMHC Outreach Assessment and Treatment Program | 1100 North University Avenue | Little Rock | 72207 | 36,311
Little Rock Community Mental Health Center, Inc./LRCMHC Portage House Grant Program | 1100 North University Avenue | Little Rock | 72207 | 35,100
Little Rock Community Mental Health Center, Inc./LRCMHC Shelter Plus Care Program #43 | 1100 North University Avenue | Little Rock | 72207 | 1,133,992
Little Rock Community Mental Health Center, Inc./LRCMHC Shelter Plus Care Program #44 | 1100 North University Avenue | Little Rock | 72207 | 980,133
Little Rock Community Mental Health Center, Inc./LRCMHC Step 2 Project | 1100 North University Avenue | Little Rock | 72207 | 146,411
Our House, Inc./FY2018 Family Housing Program—Our House | 302 E Roosevelt Road | Little Rock | 72206 | 162,568
Pulaski County Government/PCHA Jericho | 201 S Broadway Ste 220 | Little Rock | 72201 | 41,348
City of Fayetteville/Hearth PSH—2018 | 113 West Mountain St | Fayetteville | 72701 | 175,577
City of Fayetteville/Hearth PSH bonus (1)—2018 | 113 West Mountain St | Fayetteville | 72701 | 32,788
City of Fayetteville/Hearth PSH bonus (2)—2018 | 113 West Mountain St | Fayetteville | 72701 | 36,092
City of Fayetteville/Hearth TH—2018 | 113 West Mountain St | Fayetteville | 72701 | 39,519
Community Development Corporation of Bentonnville/Bella VIsta, Inc./Havenwood—PHS Bonus 2018 Renewal | 808 North Main #1 | Bentonville | 72712 | 39,462
Northwest Arkansas Continuum of Care/NWA Continuum of Care 2018 Planning Grant | 68 W Sunbridge Dr | Fayetteville | 72703 | 33,187
Bethlehem House, Inc./BH Transitional Housing Combined | 1115 Parkway St | Conway | 72034 | 199,114
City of West Memphis/AR0035L6F031809 Shelter Plus Care Renewal Project | 205 South Redding Street | West Memphis | 72301 | 35,376
City of West Memphis/AR-503-New-City of West Memphis Shelter Plus Care #2 | 205 South Redding Street | West Memphis | 72301 | 67,680
Little Rock Community Mental Health Center, Inc./Arkansas Management Information System Balance of State Expansion | 1100 North University Avenue | Little Rock | 72207 | 52,221
Ouachita Children's Center, Inc./AR 503 CoC Planning Application FY 2018 | 339 Charteroak | Hot Springs | 71901 | 69,140
City of Pine Bluff/City of Pine Bluff Supportive Housing | 716 Georgia Street | Pine Bluff | 71601 | 227,699
Committee Against Spouse Abuse/transitional housing for victims of domestic violence | 1113 State Street | Pine Bluff | 71601 | 31,307
Arizona Department of Housing/Arizona Veterans In Progress TH-PH/RRH | 1110 West Washington, Suite 280 | Phoenix | 85007 | 352,371
Arizona Department of Housing/AZ BOSCOC Planning 2018 | 1110 West Washington, Suite 280 | Phoenix | 85007 | 116,411
Arizona Department of Housing/Casas Primeras | 1110 West Washington, Suite 280 | Phoenix | 85007 | 172,722
Arizona Department of Housing/Catholic Charities Skypointe Consolidated | 1110 West Washington, Suite 280 | Phoenix | 85007 | 120,938
Arizona Department of Housing/Cochise County RRH | 1110 West Washington, Suite 280 | Phoenix | 85007 | 129,191
Arizona Department of Housing/Coordinated Entry Hotline | 1110 West Washington, Suite 280 | Phoenix | 85007 | 28,622
Arizona Department of Housing/Dreamcatcher RRH | 1110 West Washington, Suite 280 | Phoenix | 85007 | 188,626
Arizona Department of Housing/Good Shepherd Support Housing | 1110 West Washington, Suite 280 | Phoenix | 85007 | 42,636
Arizona Department of Housing/HMIS Project | 1110 West Washington, Suite 280 | Phoenix | 85007 | 213,140
Arizona Department of Housing/Little Colorado Housing Program | 1110 West Washington, Suite 280 | Phoenix | 85007 | 82,964
Arizona Department of Housing/Mohave County Permanent Housing (Bridging Northern Arizona) | 1110 West Washington, Suite 280 | Phoenix | 85007 | 201,896
Arizona Department of Housing/Mohave County PSH 2011 Fresh Start | 1110 West Washington, Suite 280 | Phoenix | 85007 | 166,701
Arizona Department of Housing/New Start Housing Project PSH | 1110 West Washington, Suite 280 | Phoenix | 85007 | 199,573
Arizona Department of Housing/Northern Sky Consolidated | 1110 West Washington, Suite 280 | Phoenix | 85007 | 438,496
Arizona Department of Housing/Permanent Housing Yuma | 1110 West Washington, Suite 280 | Phoenix | 85007 | 253,651
Arizona Department of Housing/SPC Rural | 1110 West Washington, Suite 280 | Phoenix | 85007 | 398,441
Arizona Department of Housing/SPC Yuma and La Paz | 1110 West Washington, Suite 280 | Phoenix | 85007 | 447,315
Arizona Department of Housing/Sycamore Canyon Consolidated | 1110 West Washington, Suite 280 | Phoenix | 85007 | 328,488
Arizona Department of Housing/Victory Place Consolidated | 1110 West Washington, Suite 280 | Phoenix | 85007 | 146,289
Arizona Department of Housing/Shelter Plus Care TRA Pima | 1110 West Washington, Suite 280 | Phoenix | 85007 | 952,528
City of Tucson/ECHO Permanent Supportive Housing Program | 310 N Commerce Park Loop Santa Rita Building, First Floor | Tucson | 85726 | 660,631
City of Tucson/Emerge! Center Against Domestic Abuse-Rapid Re-Housing for Survivors of Domestic Abuse | 310 N Commerce Park Loop Santa Rita Building, First Floor | Tucson | 85726 | 61,535
City of Tucson/Pathways | 310 N Commerce Park Loop Santa Rita Building, First Floor | Tucson | 85726 | 129,177
City of Tucson/Shelter Plus Care IV—Operation Safe At Home | 310 N Commerce Park Loop Santa Rita Building, First Floor | Tucson | 85726 | 682,239
City of Tucson/Shelter Plus Care Partnership | 310 N Commerce Park Loop Santa Rita Building, First Floor | Tucson | 85726 | 761,300
CODAC Behavioral Health Services/Enhanced Supported Housing 2018 Renewal | 1650 E Ft. Lowell Rd #202 | Tucson | 85719 | 229,449
CODAC Behavioral Health Services/Solitude 2018 Renewal | 1650 E Ft. Lowell Rd #202 | Tucson | 85719 | 255,816
Community Partnership of Southern Arizona (CPSA), Inc./CoC Planning Project Application FY2018 | 44 E Broadway Blvd., Suite 100 | Tucson | 85701 | 245,382
Community Partnership of Southern Arizona (CPSA), Inc./Frontiers | 44 E Broadway Blvd., Suite 100 | Tucson | 85701 | 199,313
Community Partnership of Southern Arizona (CPSA), Inc./Medical Respite TH-RRH | 44 E Broadway Blvd., Suite 100 | Tucson | 85701 | 244,854
Community Partnership of Southern Arizona (CPSA), Inc./Project Bienestar | 44 E Broadway Blvd., Suite 100 | Tucson | 85701 | 334,774
COPE Community Services, Inc./LifeWorks Supportive Housing Project FY2018 | 82 S Stone | Tucson, AZ | 85701 | 238,201
La Frontera Center, Inc./Sonora House Safe Haven | 504 W 29th St | Tucson | 85713 | 433,245
Old Pueblo Community Services/Agave | 4501 E 5th. St | Tucson | 85711 | 64,735
Old Pueblo Community Services/Oasis Project | 4501 E 5th. St | Tucson | 85711 | 196,391
Old Pueblo Community Services/Old Pueblo My Home Project | 4501 E 5th. St | Tucson | 85711 | 81,478
Our Family Services, Inc./Home Again RRH 19-20 | 2590 N Alvernon Way | Tucson | 85712 | 459,392
Our Family Services, Inc./Homes First PSH 19-20 | 2590 N Alvernon Way | Tucson | 85712 | 214,167
Our Family Services, Inc./Secure Futures RRH for Youth 19-20 | 2590 N Alvernon Way | Tucson | 85712 | 247,026
Our Family Services, Inc./Your Place RRH | 2590 N Alvernon Way | Tucson | 85712 | 60,459
Pima County/CASA Renewal Grant FY' 2018 | 2797 E Ajo Way 400 East 26th Street | Tucson | 85713 | 443,961
Pima County/La Casita Renewal Grant FY' 2018 | 2797 E Ajo Way 400 East 26th Street | Tucson | 85713 | 200,199
Pima County/One-Stop RRH Grant FY' 2018 | 2797 E Ajo Way 400 East 26th Street | Tucson | 85713 | 201,545
Pima County/Pima County HMIS | 2797 E Ajo Way | Tucson | 85713 | 221,492
Pima County/Pima County HMIS Expansion | 2797 E Ajo Way | Tucson | 85713 | 200,000
Pima County/Project Advent RRH Renewal Grant FY' 2018 | 2797 E Ajo Way 400 East 26th Street | Tucson | 85713 | 418,241
Southern Arizona AIDS Foundation/Long Term Housing Savoy | 375 S Euclid Ave | Tucson | 85719 | 94,086
Southern Arizona AIDS Foundation/P.O.S II | 375 S Euclid Ave | Tucson | 85719 | 48,065
A New Leaf, Inc./A New Leaf Transitional Housing & Rapid Rehousing Program | 868 E University Dr | Mesa | 85203 | 366,710
Arizona Behavioral Health Corporation/Another Chance | 501 E Thomas Rd | Phoenix | 85012 | 1,328,959
Arizona Behavioral Health Corporation/Casa de Luz | 501 E Thomas Rd | Phoenix | 85012 | 599,527
Arizona Behavioral Health Corporation/Casa Mia de Paz | 501 E Thomas Rd | Phoenix | 85012 | 1,982,443
Arizona Behavioral Health Corporation/HUD 6108 | 501 E Thomas Rd | Phoenix | 85012 | 1,649,280
Arizona Behavioral Health Corporation/PSH 2009 | 501 E Thomas Rd | Phoenix | 85012 | 493,091
Arizona Behavioral Health Corporation/PSH 2016 | 501 E Thomas Rd | Phoenix | 85012 | 1,078,226
Arizona Behavioral Health Corporation/PSH 3109 | 501 E Thomas Rd | Phoenix | 85012 | 784,391
Arizona Behavioral Health Corporation/SPC 151 | 501 E Thomas Rd | Phoenix | 85012 | 1,736,090
Arizona Behavioral Health Corporation/SPC 189 | 501 E Thomas Rd | Phoenix | 85012 | 2,191,496
Arizona Behavioral Health Corporation/SPC 293 | 501 E Thomas Rd | Phoenix | 85012 | 3,379,834
Arizona Behavioral Health Corporation/Village | 501 E Thomas Rd | Phoenix | 85012 | 2,044,572
ARM of Save the Family Foundation of Arizona/209 West Jackson-PSH | 125 E University Drive | Mesa | 85201 | 652,456
Chicanos Por La Causa, Inc./De Colores FY2018 | 1112 East Buckeye Road | Phoenix | 85034 | 269,882
City of Mesa Housing Authority/2018 Shelter + Care | 20 E Main Street, Suite 250, P.O. Box 1466 | Mesa | 85211 | 94,280
Community Bridges, Inc./CBI PSH 37 | 1855 West Baseline Road, Ste 101 | Mesa | 85202 | 564,413
Community Bridges, Inc./CBI PSH 54 | 1855 West Baseline Road, Ste 101 | Mesa | 85202 | 845,299
Community Bridges, Inc./CBI PSH 75 | 1855 West Baseline Road, Ste 101 | Mesa | 85202 | 1,139,371
Community Information and Referral Services/Maricopa HMIS Project | 1275 W Washington St. Suite 108 | Tempe | 85281 | 400,921
Lodestar Day Resource Center/Regional Coordinated Entry MC LDRC | 204 S 12th Ave | Phoenix | 85007 | 552,600
Maricopa Association of Governments/AZ-502 CoC Planning Application FY2018 | 302 N 1st Avenue, Ste. 300 | Phoenix | 85003 | 760,405
Native American Connections, Inc./Camelback Pointe | 4520 N Central Avenue, Ste. 600 | Phoenix | 85012 | 880,523
Native American Connections, Inc./Catherine Arms | 4520 N Central Avenue, Ste. 600 | Phoenix | 85012 | 176,892
Native American Connections, Inc./SteppingStone | 4520 N Central Avenue, Ste. 600 | Phoenix | 85012 | 91,043
Native American Connections, Inc./Stepping Stones II | 4520 N Central Avenue, Ste. 600 | Phoenix | 85012 | 545,611
Native American Connections, Inc./Stepping Stones III | 4520 N Central Avenue, Ste. 600 | Phoenix | 85012 | 361,170
Native American Connections, Inc./Sunrise Circle | 4520 N Central Avenue, Ste. 600 | Phoenix | 85012 | 35,717
Phoenix Shanti Group/Shanti | 2345 W Glendale Ave | Phoenix | 85021 | 75,038
Save the Family Foundation of Arizona/Homeless Families Intervention Project Rapid Re-housing | 125 E University | Mesa | 85201 | 222,510
UMOM New Day Centers, Inc./Next Step Housing | 3333 E Van Buren Street | Phoenix | 85008 | 743,712
UMOM New Day Centers, Inc./Next Step Housing 2 consolidated | 3333 E Van Buren Street | Phoenix | 85008 | 417,858
UMOM New Day Centers, Inc./Next Step Housing 3 | 3333 E Van Buren Street | Phoenix | 85008 | 226,983
UMOM New Day Centers, Inc./Next Step Housing 4 | 3333 E Van Buren Street | Phoenix | 85008 | 751,084
UMOM New Day Centers, Inc./PSH for Youth Too | 3333 E Van Buren Street | Phoenix | 85008 | 271,584
UMOM New Day Centers, Inc./Regional Coordinated Entry MC | 3333 E Van Buren Street | Phoenix | 85008 | 302,558
Abode Services/Mission Rebuild | 40849 Fremont Blvd | Fremont | 94538 | 504,265
Abode Services/Sunset Leasing Project | 40849 Fremont Blvd | Fremont | 94538 | 265,406
Bill Wilson Center/Peacock Commons 2018 | 3490 The Alameda | Santa Clara | 95050 | 296,887
Bill Wilson Center/Rapid Rehousing Youth 2018 | 3490 The Alameda | Santa Clara | 95050 | 507,148
Bill Wilson Center/TH-RRH Youth 2018 | 3490 The Alameda | Santa Clara | 95050 | 287,476
Bill Wilson Center/Transitional Housing Program Youth and Young Families 2018 | 3490 The Alameda | Santa Clara | 95050 | 558,923
Bill Wilson Center/Transitional Housing Program Youth and Young Families North 2018 | 3490 The Alameda | Santa Clara | 95050 | 309,348
Community Working Group/Opportunity Center of the Midpeninsula | 2507-A Alma Street N/A | Palo Alto | 94301 | 43,936
County of Santa Clara by and through Office of Supportive Housing/CA-500 CoC Planning Project FY2018 | 3180 Newberry Drive, Suite 150 | San Jose | 95118 | 656,500
County of Santa Clara by and through Office of Supportive Housing/CASA 80 | 3180 Newberry Drive, Suite 150 | San Jose | 95118 | 676,379
County of Santa Clara by and through Office of Supportive Housing/CASA 80 Expansion | 3180 Newberry Drive, Suite 150 | San Jose | 95118 | 632,491
County of Santa Clara by and through Office of Supportive Housing/CCP Placement Project | 3180 Newberry Drive, Suite 150 | San Jose | 95118 | 5,446,783
County of Santa Clara by and through Office of Supportive Housing/CoC GRANT 5022 | 3180 Newberry Drive, Suite 150 | San Jose | 95118 | 3,968,535
County of Santa Clara by and through Office of Supportive Housing/CoC GRANT 5320 | 3180 Newberry Drive, Suite 150 | San Jose | 95118 | 432,345
County of Santa Clara by and through Office of Supportive Housing/CoC PSH GRANT | 3180 Newberry Drive, Suite 150 | San Jose | 95118 | 720,695
County of Santa Clara by and through Office of Supportive Housing/DV Collaborative | 3180 Newberry Drive, Suite 150 | San Jose | 95118 | 1,000,650
County of Santa Clara by and through Office of Supportive Housing/Family Housing | 3180 Newberry Drive, Suite 150 | San Jose | 95118 | 747,770
County of Santa Clara by and through Office of Supportive Housing/HHS Rental Assistance Program #2 | 3180 Newberry Drive, Suite 150 | San Jose | 95118 | 160,057
County of Santa Clara by and through Office of Supportive Housing/Housing Case Management for Medical Respite | 3180 Newberry Drive, Suite 150 | San Jose | 95118 | 639,067
County of Santa Clara by and through Office of Supportive Housing/Housing Case Management for the Homeless | 3180 Newberry Drive, Suite 150 | San Jose | 95118 | 702,807
County of Santa Clara by and through Office of Supportive Housing/Renascent Place | 3180 Newberry Drive, Suite 150 | San Jose | 95118 | 670,911
County of Santa Clara by and through Office of Supportive Housing/RRH for Domestic Violence & Human Trafficking | 3180 Newberry Drive, Suite 150 | San Jose | 95118 | 468,688
County of Santa Clara by and through Office of Supportive Housing/Samaritan Inns | 3180 Newberry Drive, Suite 150 | San Jose | 95118 | 591,178
County of Santa Clara by and through Office of Supportive Housing/SCC Coordinated Assessment System | 3180 Newberry Drive, Suite 150 | San Jose | 95118 | 130,241
County of Santa Clara by and through Office of Supportive Housing/SCC HMIS Consolidation | 3180 Newberry Drive, Suite 150 | San Jose | 95118 | 964,321
County of Santa Clara by and through Office of Supportive Housing/SCC RRH for Families & Youth | 3180 Newberry Drive, Suite 150 | San Jose | 95118 | 2,133,592
County of Santa Clara by and through Office of Supportive Housing/Second Street Studios | 3180 Newberry Drive, Suite 150 | San Jose | 95118 | 577,827
St. Joseph's Family Center/Gilroy Place | 7950 Church St. Suite A | Gilroy | 95020 | 390,268
St. Joseph's Family Center/Our New Place | 7950 Church St. Suite A | Gilroy | 95020 | 417,042
West Valley Community Services of Santa Clara County, Inc./Haven to Home | 10104 Vista Drive | Cupertino | 95014 | 737,323
YWCA of Silicon Valley/Sexual Assault & Human Trafficking-Rehousing Intervention Solutions Efforts (SA & HT-RISE) | 375 S Third Street | San Jose | 95112 | 423,078
Catholic Charities CYO/Leland House | 990 Eddy Street | San Francisco | 94109 | 168,503
City and County of San Francisco Project Applicant/1036 Mission | 1360 Mission St | San Francisco | 94103 | 957,115
City and County of San Francisco Project Applicant/1296 Shotwell | 1360 Mission St | San Francisco | 94103 | 368,386
City and County of San Francisco Project Applicant/1300 Fourth | 1360 Mission St | San Francisco | 94103 | 465,120
City and County of San Francisco Project Applicant/95 Laguna Senior Housing | 1360 Mission St | San Francisco | 94103 | 477,100
City and County of San Francisco Project Applicant/Allen Hotel | 1360 Mission St | San Francisco | 94103 | 631,195
City and County of San Francisco Project Applicant/Bayview Hill Gardens | 1360 Mission St | San Francisco | 94103 | 437,614
City and County of San Francisco Project Applicant/Bishop Swing Community House | 1360 Mission St | San Francisco | 94103 | 427,863
City and County of San Francisco Project Applicant/Cadillac/William Penn | 1360 Mission St | San Francisco | 94103 | 1,505,664
City and County of San Francisco Project Applicant/Canon Barcus Community House | 1360 Mission St | San Francisco | 94103 | 683,562
City and County of San Francisco Project Applicant/Canon Kip | 1360 Mission St | San Francisco | 94103 | 1,751,128
City and County of San Francisco Project Applicant/CCCYO Scattered Sites | 1360 Mission St | San Francisco | 94103 | 1,546,820
City and County of San Francisco Project Applicant/CHP Scattered Sites | 1360 Mission St | San Francisco | 94103 | 924,534
City and County of San Francisco Project Applicant/CoC Planning 2018 | 1360 Mission St | San Francisco | 94103 | 1,215,971
City and County of San Francisco Project Applicant/Compass Rapid Rehousing | 1360 Mission St | San Francisco | 94103 | 871,453
City and County of San Francisco Project Applicant/Direct Access to Housing Chronic Alcoholics | 1360 Mission St | San Francisco | 94103 | 1,375,591
City and County of San Francisco Project Applicant/Direct Access to Housing Empress/Folsom Dore | 1360 Mission St | San Francisco | 94103 | 1,159,951
City and County of San Francisco Project Applicant/DV Coordinated Entry | 1360 Mission St | San Francisco | 94103 | 882,911
City and County of San Francisco Project Applicant/Eddy and Taylor | 1360 Mission St | San Francisco | 94103 | 281,400
City and County of San Francisco Project Applicant/El Dorado/Midori | 1360 Mission St | San Francisco | 94103 | 338,774
City and County of San Francisco Project Applicant/Folsom/Dore | 1360 Mission St | San Francisco | 94103 | 550,500
City and County of San Francisco Project Applicant/Franciscan Towers | 1360 Mission St | San Francisco | 94103 | 993,861
City and County of San Francisco Project Applicant/Glide Cecil Williams Community House | 1360 Mission St | San Francisco | 94103 | 551,895
City and County of San Francisco Project Applicant/Hamilton Families Rapid Re-Housing | 1360 Mission St | San Francisco | 94103 | 1,076,792
City and County of San Francisco Project Applicant/Hazel Betsey | 1360 Mission St | San Francisco | 94103 | 244,067
City and County of San Francisco Project Applicant/Henry Hotel | 1360 Mission St | San Francisco | 94103 | 1,040,917
City and County of San Francisco Project Applicant/Hope House (Consolidated) | 1360 Mission St | San Francisco | 94103 | 1,865,707
City and County of San Francisco Project Applicant/Hotel Isabel | 1360 Mission St | San Francisco | 94103 | 188,208
City and County of San Francisco Project Applicant/HPP Housing Plus | 1360 Mission St | San Francisco | 94103 | 524,244
City and County of San Francisco Project Applicant/Integrated Services Network | 1360 Mission St | San Francisco | 94103 | 1,186,929
City and County of San Francisco Project Applicant/Juan Pifarre Plaza | 1360 Mission St | San Francisco | 94103 | 140,736
City and County of San Francisco Project Applicant/Knox | 1360 Mission St | San Francisco | 94103 | 338,774
City and County of San Francisco Project Applicant/Lyric | 1360 Mission St | San Francisco | 94103 | 1,091,606
City and County of San Francisco Project Applicant/Mary Helen Rogers Senior Community | 1360 Mission St | San Francisco | 94103 | 318,727
City and County of San Francisco Project Applicant/Mission Bay | 1360 Mission St | San Francisco | 94103 | 256,014
City and County of San Francisco Project Applicant/Mission Housing South Park Residences | 1360 Mission St | San Francisco | 94103 | 282,312
City and County of San Francisco Project Applicant/Rapid Re-Housing for TAY | 1360 Mission St | San Francisco | 94103 | 264,240
City and County of San Francisco Project Applicant/Rental Assistance for Homeless Veterans I | 1360 Mission St | San Francisco | 94103 | 603,591
City and County of San Francisco Project Applicant/Rental Assistance for Homeless Veterans II | 1360 Mission St | San Francisco | 94103 | 482,386
City and County of San Francisco Project Applicant/Richardson Hall/55 Laguna | 1360 Mission St | San Francisco | 94103 | 251,985
City and County of San Francisco Project Applicant/Rita da Cascia Positive Match | 1360 Mission St | San Francisco | 94103 | 187,040
City and County of San Francisco Project Applicant/San Francisco Coordinated Entry | 1360 Mission St | San Francisco | 94103 | 132,364
City and County of San Francisco Project Applicant/San Francisco Coordinated Entry Expansion | 1360 Mission St | San Francisco | 94103 | 865,206
City and County of San Francisco Project Applicant/San Francisco HMIS 2015 | 1360 Mission St | San Francisco | 94103 | 396,000
City and County of San Francisco Project Applicant/San Francisco HMIS 2016 | 1360 Mission St | San Francisco | 94103 | 33,909
City and County of San Francisco Project Applicant/SF HMIS | 1360 Mission St | San Francisco | 94103 | 110,712
City and County of San Francisco Project Applicant/SF HMIS Expansion | 1360 Mission St | San Francisco | 94103 | 210,000
City and County of San Francisco Project Applicant/THC—Baldwin House | 1360 Mission St | San Francisco | 94103 | 2,939,256
City and County of San Francisco Project Applicant/THC—National, Crown, Winton | 1360 Mission St | San Francisco | 94103 | 3,316,465
City and County of San Francisco Project Applicant/TNDC Ambassador Hotel | 1360 Mission St | San Francisco | 94103 | 941,040
City and County of San Francisco Project Applicant/TNDC Franciscan Towers 2 | 1360 Mission St | San Francisco | 94103 | 993,861
City and County of San Francisco Project Applicant/TNDC Scattered Sites | 1360 Mission St | San Francisco | 94103 | 916,134
City and County of San Francisco Project Applicant/Treasure Island (Consolidated) | 1360 Mission St | San Francisco | 94103 | 2,513,192
City and County of San Francisco Project Applicant/Veterans Academy | 1360 Mission St | San Francisco | 94103 | 358,694
City and County of San Francisco Project Applicant/Veterans Commons | 1360 Mission St | San Francisco | 94103 | 380,311
City and County of San Francisco Project Applicant/Veterans' Hope House I | 1360 Mission St | San Francisco | 94103 | 225,694
City and County of San Francisco Project Applicant/Veterans' Hope House II | 1360 Mission St | San Francisco | 94103 | 689,154
Community Housing Partnership/Iroquois Residence | 20 Jones Street, Suite 200 | San Francisco | 94102 | 158,804
Larkin Street Youth Services/Geary House | 134 Golden Gate Ave | San Francisco | 94102 | 445,538
Abode Services/Impact | 40849 Fremont Blvd | Fremont | 94538 | 1,330,870
Abode Services/Oakland PATH Re-Housing Initiative | 40849 Fremont Blvd | Fremont | 94538 | 657,935
Abode Services/STAY Well Housing | 40849 Fremont Blvd | Fremont | 94538 | 829,063
Alameda County/Alameda County CES | 224 W Winton Ave. Room 108 | Hayward | 94544 | 1,038,171
Alameda County/Alameda County CoC Planning Project FY2018 | 224 W Winton Ave. Room 108 | Hayward | 94544 | 1,027,901
Alameda County/Alameda County Shelter Plus Care—PRA | 224 W Winton Ave. Room 108 | Hayward | 94544 | 505,432
Alameda County/Alameda County Shelter Plus Care—SRA | 224 W Winton Ave. Room 108 | Hayward | 94544 | 1,403,732
Alameda County/Alameda County Shelter Plus Care—SRO | 224 W Winton Ave. Room 108 | Hayward | 94544 | 670,716
Alameda County/Alameda County Shelter Plus Care—TRA | 224 W Winton Ave. Room 108 | Hayward | 94544 | 7,253,459
Alameda County/APC Consolidated PSH | 224 W Winton Ave. Room 108 | Hayward | 94544 | 388,651
Alameda County/APC Multi-Service Center | 224 W Winton Ave. Room 108 | Hayward | 94544 | 1,111,092
Alameda County/Banyan House Transitional Housing | 224 W Winton Ave. Room 108 | Hayward | 94544 | 81,320
Alameda County/Homes for Wellness | 224 W Winton Ave. Room 108 | Hayward | 94544 | 978,092
Alameda County/InHOUSE | 224 W Winton Ave. Room 108 | Hayward | 94544 | 391,907
Alameda County/Lorenzo Creek Consolidated | 224 W Winton Ave. Room 108 | Hayward | 94544 | 315,501
Alameda County/Reciprocal Integrated Services for Empowerment (RISE) Project | 224 W Winton Ave. Room 108 | Hayward | 94544 | 160,183
Alameda County/Southern Alameda County Housing/Jobs Linkages Program | 224 W Winton Ave. Room 108 | Hayward | 94544 | 1,580,130
Alameda County/Tri-City FESCO Bridgeway Apartments | 224 W Winton Ave. Room 108 | Hayward | 94544 | 42,973
Alameda County/Welcome Home Combined | 224 W Winton Ave. Room 108 | Hayward | 94544 | 2,707,400
Alameda County/Welcome Home Expansion | 224 W Winton Ave. Room 108 | Hayward | 94544 | 636,432
Alameda County/Welcome Home San Leandro | 224 W Winton Ave. Room 108 | Hayward | 94544 | 723,228
Alameda County Allied Housing Program/Carmen Avenue Apartments | 40849 Fremont Blvd | Fremont | 94538 | 36,166
Alameda County Behavioral Health Care Services/Laguna Commons Rental Assistance Program (RAP) | 1404 Franklin Street, STE 200 | Oakland | 94612 | 184,456
Bonita House, Inc./Channing Way Apartments | 6333 Telegraph Avenue, Suite #102 | Oakland | 94609 | 40,897
City of Berkeley/COACH Project | 2180 Milvia Street | Berkeley | 94704 | 749,062
City of Berkeley/COACH Project Expansion | 2180 Milvia Street | Berkeley | 94704 | 1,583,136
City of Berkeley/Pathways Project | 2180 Milvia Street | Berkeley | 94704 | 202,376
City of Berkeley/Supportive Housing Network | 2180 Milvia Street | Berkeley | 94704 | 208,051
City of Berkeley/Tenant Based Rental Assistance | 2180 Milvia Street | Berkeley | 94704 | 3,594,226
Cornerstone Community Development/Alameda County Domestic Violence SSO CES Project | 1395 Bancroft Ave | San Leandro | 94577 | 160,137
Cornerstone Community Development/Bessie Coleman Court Permanent Supportive Housing | 1395 Bancroft Ave | San Leandro | 94577 | 270,586
Fred Finch Youth Center/Turning Point Transitional Housing for TAY | 3800 Coolidge Avenue | Oakland | 94602 | 422,579
LifeLong Medical Care/Health, Housing and Integrated Services Network | 2344 6th Street | Berkeley | 94710 | 549,672
Resources for Community Development/Concord House | 2220 Oxford St | Berkeley | 94704 | 96,362
Resources for Community Development/Regent Street | 2220 Oxford St | Berkeley | 94704 | 70,516
Satellite Affordable Housing Associates/Peter Babcock House | 1835 Alcatraz Ave | Berkeley | 94703 | 28,321
Satellite Affordable Housing Associates/Peter Babcock House & Redwood Hill | 1835 Alcatraz Ave | Berkeley | 94703 | 61,626
The City of Oakland/Families in Transition—TH/RRH | 150 Frank H. Ogawa Plaza, Suite 4340 | Oakland | 94612 | 267,167
The City of Oakland/Housing Fast Support Network TH/RRH | 150 Frank H. Ogawa Plaza, Suite 4340 | Oakland | 94612 | 1,864,465
The City of Oakland/Matilda Cleveland—TH/RRH | 150 Frank H. Ogawa Plaza, Suite 4340 | Oakland | 94612 | 279,813
The City of Oakland/North County Family Rapid Rehousing Collaborative | 150 Frank H. Ogawa Plaza, Suite 4340 | Oakland | 94612 | 861,551
The City of Oakland/North County Homeless Youth Rapid Rehousing | 150 Frank H. Ogawa Plaza, Suite 4340 | Oakland | 94612 | 983,781
The City of Oakland/Oakland Homeless Youth Housing Collaborative | 150 Frank H. Ogawa Plaza, Suite 4340 | Oakland | 94612 | 713,095
The City of Oakland/The Grand TH/RRH | 150 Frank H. Ogawa Plaza, Suite 4340 | Oakland | 94612 | 584,000
Mercy Housing California/Mather Veterans Village | 2512 River Plaza Drive Suite 200 | Sacramento | 95833 | 159,508
Sacramento Housing and Redevelopment Agency/Boulevard Court | 801 12th St | Sacramento | 95814 | 143,714
Sacramento Housing and Redevelopment Agency/Shasta Hotel | 801 12th St | Sacramento | 95814 | 141,531
Sacramento Housing and Redevelopment Agency/Shelter Plus Care TRA | 801 12th St | Sacramento | 95814 | 4,530,711
Sacramento Steps Forward/Achieving Change Together (ACT) | 1331 Garden Highway, Suite 100 | Sacramento | 95833 | 361,547
Sacramento Steps Forward/Building Bridges Program | 1331 Garden Highway, Suite 100 | Sacramento | 95833 | 369,558
Sacramento Steps Forward/Building Community | 1331 Garden Highway, Suite 100 | Sacramento | 95833 | 611,753
Sacramento Steps Forward/CA-503 CoC Planning Project FY2018 | 1331 Garden Highway, Suite 100 | Sacramento | 95833 | 587,971
Sacramento Steps Forward/Casas de Esperanza | 1331 Garden Highway, Suite 100 | Sacramento | 95833 | 361,542
Sacramento Steps Forward/Connections | 1331 Garden Highway, Suite 100 | Sacramento | 95833 | 476,742
Sacramento Steps Forward/Friendship Housing Expansion #2 | 1331 Garden Highway, Suite 100 | Sacramento | 95833 | 1,406,802
Sacramento Steps Forward/Home at Last | 1331 Garden Highway, Suite 100 | Sacramento | 95833 | 333,883
Sacramento Steps Forward/Mutual Housing at the Highlands | 1331 Garden Highway, Suite 100 | Sacramento | 95833 | 349,053
Sacramento Steps Forward/New Community | 1331 Garden Highway, Suite 100 | Sacramento | 95833 | 722,454
Sacramento Steps Forward/Omega Permanent Supportive Housing Project | 1331 Garden Highway, Suite 100 | Sacramento | 95833 | 452,641
Sacramento Steps Forward/Quinn Cottages | 1331 Garden Highway, Suite 100 | Sacramento | 95833 | 318,083
Sacramento Steps Forward/reSTART | 1331 Garden Highway, Suite 100 | Sacramento | 95833 | 2,718,161
Sacramento Steps Forward/Sacramento HMIS | 1331 Garden Highway, Suite 100 | Sacramento | 95833 | 273,194
Sacramento Steps Forward/Saybrook Permanent Supportive Housing Project | 1331 Garden Highway, Suite 100 | Sacramento | 95833 | 522,545
Sacramento Steps Forward/Shared Community | 1331 Garden Highway, Suite 100 | Sacramento | 95833 | 699,973
Sacramento Steps Forward/Step Up Sacramento | 1331 Garden Highway, Suite 100 | Sacramento | 95833 | 2,554,517
TLCS, Inc./PACT Permanent Housing Program (PPHP) 2016 | 650 Howe Ave, Bldg 400-A | Sacramento | 95825 | 611,464
TLCS, Inc./Possibilities | 650 Howe Ave, Bldg 400-A | Sacramento | 95825 | 818,246
TLCS, Inc./PPHP Expansion II | 650 Howe Ave, Bldg 400-A | Sacramento | 95825 | 222,163
TLCS, Inc./RA Consolidation | 650 Howe Ave, Bldg 400-A | Sacramento | 95825 | 1,167,434
Buckelew Programs/Samaritan FACT 02.01.19-01.31.20 | 555 Northgate Drive Ste. 100 | San Rafael | 94903 | 101,166
Buckelew Programs/Sonoma SCIL 02.01.19-01.31.20 | 555 Northgate Drive Ste. 100 | San Rafael | 94903 | 248,672
Catholic Charities of the Diocese of Santa Rosa/Catholic Charities Permanent Supportive Housing Project 3 | 987 Airway Court | Santa Rosa | 95403 | 288,302
Catholic Charities of the Diocese of Santa Rosa/Catholic Charities Permanent Supportive Housing Santa Rosa 2 | 987 Airway Court | Santa Rosa | 95403 | 311,636
Committee on the Shelterless/Community Based Permanent Supportive Housing | 900 Hopper Street | Petaluma | 94952 | 271,381
Community Support Network/Sanctuary Villas | 1410 Guerneville Road Suite 14 | Santa Rosa | 95403 | 61,557
Community Support Network/Stony Point Commons | 1410 Guerneville Road Suite 14 | Santa Rosa | 95403 | 55,981
Individuals Now dba Social Advocates for Youth/SAY Sponsor-Based Rental Assistance Expansion | 2447 Summerfield Road | Santa Rosa | 95405 | 236,552
Sonoma County Community Development Commission/CA-504 Planning Application FY2018 | 1440 Guerneville Road | Santa Rosa | 95403 | 96,683
Sonoma County Community Development Commission/Coordinated Intake Expansion Project | 1440 Guerneville Road | Santa Rosa | 95403 | 349,991
Sonoma County Community Development Commission/Homeless Management Information System (HMIS) Expansion | 1440 Guerneville Road | Santa Rosa | 95403 | 187,907
Sonoma County Community Development Commission/Renewal Rental Assistance—Chronically Homeless Persons with Mental Illness | 1440 Guerneville Road | Santa Rosa | 95403 | 108,993
Sonoma County Community Development Commission/Renewal Rental Assistance—Homeless with Chronic Health Problems | 1440 Guerneville Road | Santa Rosa | 95403 | 240,014
Sonoma County Community Development Commission/Renewal Rental Assistance—Persons with HIV/AIDS | 1440 Guerneville Road | Santa Rosa | 95403 | 853,874
Sonoma County Community Development Commission/Renewal Rental Assistance—Youth with Disabilities | 1440 Guerneville Road | Santa Rosa | 95403 | 74,186
West County Community Services/Mill Street Supportive Housing | 16390 Main St | Guerneville | 95446 | 90,953
Young Women's Christian Association of Sonoma County/YWCA RRH for Vulnerable Survivors of DV | 811 Third Street P.O. Box 3506 | Santa Rosa | 95404 | 143,656
Contra Costa Health Services/CA-505 CoC Planning Application FY2018 | 2400 Bisso Ln. #D2 | Concord | 94520 | 427,033
Contra Costa Health Services/Contra Costa Coordinated Entry | 2400 Bisso Ln. #D2 | Concord | 94520 | 550,344
Contra Costa Health Services/Contra Costa Coordinated Entry Expansion | 2400 Bisso Ln. #D2 | Concord | 94520 | 666,691
Contra Costa Health Services/Contra Costa HMIS | 2400 Bisso Ln. #D2 | Concord | 94520 | 175,596
Contra Costa Health Services/Destination Home | 2400 Bisso Ln. #D2 | Concord | 94520 | 408,620
Contra Costa Health Services/High Utilizers of Multiple Systems | 2400 Bisso Ln. #D2 | Concord | 94520 | 1,017,763
Contra Costa Health Services/Permanent Connections | 2400 Bisso Ln. #D2 | Concord | 94520 | 274,726
Contra Costa Interfaith Transitional Housing, Inc/ACCESS | 399 Taylor Blvd., Suite 115 | Pleasant Hill | 94523 | 1,015,124
Contra Costa Interfaith Transitional Housing, Inc/Families in Supportive Housing (FISH) | 399 Taylor Blvd., Suite 115 | Pleasant Hill | 94523 | 1,041,924
Garden Park Apartments Community (GPAC)/Garden Park Apartments Community (GPAC) | 2387 Lisa Lane | Pleasant Hill | 94523 | 346,372
Housing Authority of Contra Costa County/Contra Costa Project-Based Rental Assistance | 3133 Estudillo St. P.O. Box 2759 | Martinez | 94553 | 161,312
Housing Authority of Contra Costa County/Contra Costa Tenant-Based Rental Assistance | 3133 Estudillo St. P.O. Box 2759 | Martinez | 94553 | 6,962,943
Housing Authority of Contra Costa County/Shelter Plus Care—Lakeside | 3133 Estudillo St. P.O. Box 2759 | Martinez | 94553 | 92,676
Housing Authority of Contra Costa County/Villa Vasconcellos | 3133 Estudillo St. P.O. Box 2759 | Martinez | 94553 | 115,731
Resources for Community Development/Idaho Apartments | 2220 Oxford St | Berkeley | 94704 | 194,836
Satellite Affordable Housing Associates/Tabora Gardens Senior Apartments | 1835 Alcatraz Ave | Berkeley | 94703 | 299,595
SHELTER, Inc./Esperanza RRH | 1333 Willow Pass Road, Suite 206 | Concord | 94520 | 415,248
SHELTER, Inc./Permanent Step Project | 1333 Willow Pass Road, Suite 206 | Concord | 94520 | 197,399
SHELTER, Inc./Project Thrive | 1333 Willow Pass Road, Suite 206 | Concord | 94520 | 567,415
SHELTER, Inc./Reach Plus RRH | 1333 Willow Pass Road, Suite 206 | Concord | 94520 | 495,127
SHELTER, Inc./Turningpoint Housing Program | 1333 Willow Pass Road, Suite 206 | Concord | 94520 | 431,129
Coalition of Homeless Services Providers/CA-506 CoC Planning Application 2018 | 220 12th St | Marina | 93933 | 54,082
Community Homeless Solutions/Homeward Bound | P.O. Box 1340 | Marina | 93933 | 118,209
Community Homeless Solutions/Men In Transition | P.O. Box 1340 | Marina | 93933 | 169,772
Community Homeless Solutions/MOST/Lexington Court | P.O. Box 1340 | Marina | 93933 | 101,336
Community Human Services/Safe Passage Renewal Application FY2018 | 2560 Garden Road Suite 201-B | Monterey | 93940 | 130,574
Housing Authority of the County of Monterey/Pueblo Del Mar | 123 Rico Street | Salinas | 93907 | 374,874
Interim, Inc./MCHOPE | 604 Pearl St | Monterey | 93940 | 112,191
Interim, Inc./Sandy Shores | 604 Pearl St | Monterey | 93940 | 107,062
Interim, Inc./Shelter Plus Care #2 | 604 Pearl St | Monterey | 93940 | 144,533
MidPen Housing Corporation/Moon Gate Plaza (FKA 21 Soledad Street Housing Community) Consolidated Application | 303 Vintage Park Drive, Suite 250 | Foster City | 94404 | 203,800
San Benito, County of/Helping Hands | 1111 San Felipe Road, Suite 107 | Hollister | 95023 | 241,673
Veterans Transition Center/The Coming Home Program | 220 12th Street | Marina | 93933 | 82,555
Buckelew Programs/Marin SHP+2 01.01.20-12.31.20 | 555 Northgate Drive Ste. 100 | San Rafael | 94903 | 385,097
Center for Domestic Peace/Domestic Violence Housing First DV Bonus | 734 A Street | San Rafael | 94901 | 51,236
County of Marin/CA-507 CoC Planning Application FY2018 | 1177 Francisco Blvd. E Suite B | San Rafael | 94901 | 125,866
County of Marin/Marin County CoC Coordinated Entry | 1177 Francisco Blvd. E Suite B | San Rafael | 94901 | 113,493
County of Marin/Marin County CoC Coordinated Entry Expansion | 1177 Francisco Blvd. E Suite B | San Rafael | 94901 | 135,000
Homeward Bound of Marin/Family Place | 1385 North Hamilton Parkway | Novato | 94949 | 455,396
Homeward Bound of Marin/Housing at Last | 1385 North Hamilton Parkway | Novato | 94949 | 696,128
Homeward Bound of Marin/Palm Court Consolidated | 1385 North Hamilton Parkway | Novato | 94949 | 413,665
Housing Authority of the County of Marin/Shelter Plus Care 1 FY2018 | 4020 Civic Center Dr | San Rafael | 94903 | 1,617,753
Housing Authority of the County of Marin/Shelter Plus Care 3 FY2018 | 4020 Civic Center Dr | San Rafael | 94903 | 93,550
Housing Authority of the County of Marin/Shelter Plus Care Expansion FY2018 | 4020 Civic Center Dr | San Rafael | 94903 | 214,500
Ritter Center/Housing First Expansion | 16 Ritter St | San Rafael | 94901 | 194,838
Community Technology Alliance/County of Santa Cruz Homeless Management Information System | 1080 Minnesota Suite 1 | San Jose | 95125 | 91,699
County of Santa Cruz/CA-508 CoC Planning Project Application FY2018 | 701 Ocean St. Room 418 | Santa Cruz | 95060 | 76,682
County of Santa Cruz/Coordinated Entry Expansion | 701 Ocean St. Room 418 | Santa Cruz | 95060 | 153,362
County of Santa Cruz/Coordinated Entry System | 701 Ocean St. Room 418 | Santa Cruz | 95060 | 75,000
County of Santa Cruz Health Services Agency/MATCH Housing | 115-A Coral Street | Santa Cruz | 95060 | 614,132
Encompass Community Services/Freedom Cottages | 380 Encinal St. Suite 200 | Santa Cruz | 95060 | 15,645
Encompass Community Services/Housing for Health 2 | 380 Encinal St. Suite 200 | Santa Cruz | 95060 | 44,108
Encompass Community Services/Housing for Health 3 | 380 Encinal St. Suite 200 | Santa Cruz | 95060 | 90,429
Families In Transition of Santa Cruz County, Inc./First Step-Scattered Site Housing for Families with Children expansion from reallocation | 406 Main Street #326 | Watsonville | 95076 | 410,804
Homeless Services Center/Bonus Permanent Supportive Housing 1 | 115B Coral Street | Santa Cruz | 95060 | 105,236
Homeless Services Center/Page Smith Transitional and Rapid Rehousing | 115B Coral Street | Santa Cruz | 95060 | 147,683
Housing Authority of the County of Santa Cruz/Brommer Street Transition Grant Year | 2160 41st Avenue | Capitola | 95010 | 57,067
Housing Authority of the County of Santa Cruz/Shelter+Care Consolidate | 2160 41st Avenue | Capitola | 95010 | 747,994
Community Development Commission of Mendocino County/Coordinated Entry 2018 | 1076 N State Street | Ukiah | 95482 | 93,312
Community Development Commission of Mendocino County/TRA Renewal 2018 | 1076 N State Street | Ukiah | 95482 | 1,479,283
Mendocino County Health and Human Services Agency/CoC Planning Project Application 2018 | 747 S State St | Ukiah | 95482 | 47,107
Center for Human Services/Pathways | 2000 W Briggsmore Ave. Suite. I | Modesto | 95350 | 78,976
Center for Human Services/Pathways-Support Services Only | 2000 W Briggsmore Ave. Suite. I | Modesto | 95350 | 43,241
City of Modesto/CA-510 CoC Planning Application FY2018 | 1010 10th Street, Suite 3100 | Modesto | 95353 | 102,947
City of Modesto/Stanislaus HMIS 1&2 | 1010 10th Street, Suite 3100 | Modesto | 95353 | 173,533
Community Housing and Shelter Services/Households in Recovery | 708 H. Street | Modesto | 95354 | 200,233
Community Housing and Shelter Services/Permanent Supportive Housing for Families with Children | 708 H. Street | Modesto | 95354 | 62,627
Community Housing and Shelter Services/Permanent Supportive Housing for Families with Children #2 | 708 H. Street | Modesto | 95354 | 100,718
Community Impact Central Valley (SCAP)/Halo 3 Application FY2018 | 817 10th Street n/a | Modesto | 95354 | 216,173
Community Impact Central Valley (SCAP)/Halo 7 (14) Application FY2018 | 817 10th Street n/a | Modesto | 95354 | 99,657
Community Impact Central Valley (SCAP)/Halo Apatments (5) Application FY2018 | 817 10th Street n/a | Modesto | 95354 | 246,929
Community Impact Central Valley (SCAP)/Halo Housing (1) Application FY2018 | 817 10th Street n/a | Modesto | 95354 | 133,187
Community Impact Central Valley (SCAP)/Halo RCC Vet Application FY2018 | 817 10th Street n/a | Modesto | 95354 | 104,424
Community Impact Central Valley (SCAP)/Hope Housing Application FY2018 | 817 10th Street n/a | Modesto | 95354 | 196,710
Community Impact Central Valley (SCAP)/New Halo Vet Application FY2018 | 817 10th Street n/a | Modesto | 95354 | 95,691
Housing Authority of the County of Stanislaus/Shelter plus Care 1-4,6,7,8 FY2018 Renewal | 1701 Robertson Road | Modesto | 95358 | 1,126,004
Housing Authority of the County of Stanislaus/Shelter plus Care 5 MP FY2018 Renewal | 1701 Robertson Road | Modesto | 95358 | 154,566
Stanislaus County Affordable Housing Corp/Permanent Housing #1 | 1207 13th Street, Suite 2 | Modesto | 95354 | 104,673
Stanislaus County Affordable Housing Corp/Supportive Housing Outreach Project | 1207 13th Street, Suite 2 | Modesto | 95354 | 74,468
We Care Program—Turlock/We Care Turlock Permanent Housing | 221 S Broadway | Turlock | 95380 | 49,535
We Care Program—Turlock/We Care Turlock Permanent Housing Expansion | 221 S Broadway | Turlock | 95380 | 35,464
San Joaquin County/CA-511 CoC Planning Application FY2018 | 1810 E Hazelton Avenue | Stockton | 95205 | 138,000
San Joaquin County/CARE (Coordinated Area Response Effort) | 1810 E Hazelton Avenue | Stockton | 95205 | 420,483
San Joaquin County/CHARM | 1810 E Hazelton Avenue | Stockton | 95205 | 98,540
San Joaquin County/From Homelessness to Homes II | 1810 E Hazelton Avenue | Stockton | 95205 | 302,390
San Joaquin County/Hermanas I | 1810 E Hazelton Avenue | Stockton | 95205 | 153,214
San Joaquin County/Hermanas II | 1810 E Hazelton Avenue | Stockton | 95205 | 152,820
San Joaquin County/HOPE | 1810 E Hazelton Avenue | Stockton | 95205 | 412,206
San Joaquin County/Horizons | 1810 E Hazelton Avenue | Stockton | 95205 | 211,599
San Joaquin County/Shelter Plus Care—combined | 1810 E Hazelton Avenue | Stockton | 95205 | 2,194,755
San Joaquin County/Shelter Plus Care 5 | 1810 E Hazelton Avenue | Stockton | 95205 | 248,416
San Joaquin County/SPICE | 1810 E Hazelton Avenue | Stockton | 95205 | 157,581
CORA (Community Overcoming Relationship Abuse)/Casa de Sor Juana Ines | 2211 Palm Avenue | San Mateo | 94403 | 229,668
CORA (Community Overcoming Relationship Abuse)/DV RRH | 2211 Palm Avenue | San Mateo | 94403 | 270,461
Housing Authority of the County of San Mateo/Permanent Supportive Housing (SP16 Expansion 2) | 264 Harbor Blvd., #A | Belmont | 94002 | 717,248
Housing Authority of the County of San Mateo/Permanent Supportive Housing (SP16 Expansion) | 264 Harbor Blvd., #A | Belmont | 94002 | 2,007,598
Housing Authority of the County of San Mateo/Permanent Supportive Housing (SP17) | 264 Harbor Blvd., #A | Belmont | 94002 | 758,300
Housing Authority of the County of San Mateo/Permanent Supportive housing (SP18) | 264 Harbor Blvd., #A | Belmont | 94002 | 523,111
Housing Authority of the County of San Mateo/Permanent Supportive Housing Consolidated (SP19) | 264 Harbor Blvd., #A | Belmont | 94002 | 4,440,931
Housing Authority of the County of San Mateo/Shelter Plus Care Belmont Apartments | 264 Harbor Blvd., #A | Belmont | 94002 | 275,947
Housing Authority of the County of San Mateo/Shelter Plus Care Sponsor Based (SP15) | 264 Harbor Blvd., #A | Belmont | 94002 | 301,033
Housing Authority of the County of San Mateo/Shelter Plus Care Sponsor Based (SP2) | 264 Harbor Blvd., #A | Belmont | 94002 | 1,537,446
LifeMoves/Family Crossroads 2018 | 181 Constitution Drive | Menlo Park | 94025 | 133,750
LifeMoves/Rapid Re-housing 2018 | 181 Constitution Drive | Menlo Park | 94025 | 501,528
LifeMoves/Redwood Family House 2018 | 181 Constitution Drive | Menlo Park | 94025 | 133,750
LifeMoves/SAFE (Savings & Financial Education) 2018 | 181 Constitution Drive | Menlo Park | 94025 | 180,555
LifeMoves/Vendome 2018 | 181 Constitution Drive | Menlo Park | 94025 | 243,461
Mental Health Association of San Mateo County/SAYAT | 2686 Spring Street | Redwood City | 94063 | 74,666
San Mateo County Human Services Agency/CA-512 CoC Planning Application FY 2018 | 1 Davis Drive | Belmont | 94002 | 347,008
San Mateo County Human Services Agency/San Mateo County HMIS Project 2018 | 1 Davis Drive | Belmont | 94002 | 80,110
Central California Family Crisis Center/Ridge Connections 2 | 211 N Main | Porterville | 93257 | 157,166
Champions Recovery Alternative Programs, Inc./Grace Homes | 311 North Douty Street | Hanford | 93230 | 215,581
City of Tulare/Tulare Housing First | 411 East Kern Avenue | Tulare | 93274 | 59,248
City of Tulare/Tulare Housing First II | 411 East Kern Avenue | Tulare | 93274 | 131,915
City of Tulare/Tulare Housing First II Bonus | 411 East Kern Avenue | Tulare | 93274 | 40,433
Community Services & Employment Training, Inc./Permanent Supportive Housing—Visalia | 312 Northwest 3rd Avenue | Visalia | 93291 | 149,282
Community Services & Employment Training, Inc./Tulare County Permanent Supportive Housing Program | 312 Northwest 3rd Avenue | Visalia | 93291 | 331,939
Family Services of Tulare County/Permanent Supportive Housing Program | 815 W Oak | Visalia | 93291 | 103,409
Family Services of Tulare County/Tulare County PSH II | 815 W Oak | Visalia | 93291 | 63,380
Kings Community Action Organization/Anchors II | 1130 N 11th Avenue | Hanford | 93230 | 84,523
Kings Community Action Organization/Anchors IV | 1130 N 11th Avenue | Hanford | 93230 | 81,364
Kings Community Action Organization/Hope Survives | 1130 N 11th Avenue | Hanford | 93230 | 108,220
Kings United Way/Kings Tulare HMIS | 125 West 7th Street | Hanford | 93230 | 157,533
Kings/Tulare Continuum of Care on Homelessness/CA-513 Planning Application FY2018 | 1900 N Dinuba Boulevard Suite G | Visalia | 93291 | 67,723
Kings/Tulare Continuum of Care on Homelessness/Coordinated Entry | 1900 N Dinuba Boulevard Suite G | Visalia | 93291 | 169,590
Turning Point of Central California, Inc./Casa de Robles 2 Permanent Supportive Housing | 615 S Atwood St | Visalia | 93277 | 79,991
Turning Point of Central California, Inc./Casa de Robles 3 Permanent Supportive Housing | 615 S Atwood St | Visalia | 93277 | 165,240
Turning Point of Central California, Inc./Kings Permanent Supportive Housing | 615 S Atwood St | Visalia | 93277 | 188,404
Community Action Partnership of Madera County, Inc./Shunammite Place | 1225 Gill Avenue | Madera | 93637 | 298,836
Fresno County Economic Opportunities Commission/Bridge to Home 1 | 1920 Mariposa Mall, Suite 300 | Fresno | 93721 | 465,677
Fresno County Economic Opportunities Commission/Bridge to Home 2 | 1920 Mariposa Mall, Suite 300 | Fresno | 93721 | 116,747
Fresno County Economic Opportunities Commission/HERO Team 2 expansion | 1920 Mariposa Mall, Suite 300 | Fresno | 93721 | 525,000
Fresno County Economic Opportunities Commission/Project Hearth | 1920 Mariposa Mall, Suite 300 | Fresno | 93721 | 280,322
Fresno County Economic Opportunities Commission/Project Home Plate | 1920 Mariposa Mall, Suite 300 | Fresno | 93721 | 344,126
Fresno County Economic Opportunities Commission/Project Homestead | 1920 Mariposa Mall, Suite 300 | Fresno | 93721 | 260,976
Fresno County Economic Opportunities Commission/Project PHoenix | 1920 Mariposa Mall, Suite 300 | Fresno | 93721 | 396,523
Fresno County Economic Opportunities Commission/Project Rise | 1920 Mariposa Mall, Suite 300 | Fresno | 93721 | 306,142
Housing Authority City of Fresno/A Rapid Way Home | 1331 Fulton Street | Fresno | 93721 | 186,802
Housing Authority City of Fresno/CoC Planning 2018 | 1331 Fulton Street | Fresno | 93721 | 273,500
Housing Authority City of Fresno/HMIS | 1331 Fulton Street | Fresno | 93721 | 137,700
Housing Authority City of Fresno/HMIS Expansion | 1331 Fulton Street | Fresno | 93721 | 76,500
Housing Authority City of Fresno/HMIS II Expansion | 1331 Fulton Street | Fresno | 93721 | 108,070
Housing Authority City of Fresno/Permanent Supportive Housing Trinity | 1331 Fulton Street | Fresno | 93721 | 64,783
Housing Authority City of Fresno/Permanent Supportive Housing, Blackstone | 1331 Fulton Street | Fresno | 93721 | 44,130
Housing Authority City of Fresno/Rapid Rehousing Project | 1331 Fulton Street | Fresno | 93721 | 233,801
Housing Authority City of Fresno/Renaissance at Santa Clara | 1331 Fulton Street | Fresno | 93721 | 81,587
Housing Authority City of Fresno/Shelter Plus Care 1 | 1331 Fulton Street | Fresno | 93721 | 1,096,757
Housing Authority City of Fresno/Shelter Plus Care 4 | 1331 Fulton Street | Fresno | 93721 | 366,547
Marjaree Mason Center, Inc./DV Coordinated Entry System | 1600 M Street | Fresno | 93721 | 516,358
Marjaree Mason Center, Inc./MMC Clovis Transitional Project | 1600 M Street | Fresno | 93721 | 222,501
Marjaree Mason Center, Inc./MMC Welcome Home 2 | 1600 M Street | Fresno | 93721 | 201,350
Marjaree Mason Center, Inc./MMC Welcome Home 2a | 1600 M Street | Fresno | 93721 | 34,094
Marjaree Mason Center, Inc./MMC Welcome Home 3 | 1600 M Street | Fresno | 93721 | 279,249
Marjaree Mason Center, Inc./Safe and Sound | 1600 M Street | Fresno | 93721 | 327,312
Marjaree Mason Center, Inc./Welcome Home | 1600 M Street | Fresno | 93721 | 169,659
Mental Health Systems Inc./2018 Hacienda Housing Program RENEWAL | 9465 Farnham Street | San Diego | 92123 | 257,261
Turning Point of Central California, Inc./Falcon Court Permanent Supportive Housing | 615 S Atwood St | Visalia | 93277 | 866,656
Turning Point of Central California, Inc./Family Villa Permanent Supportive Housing | 615 S Atwood St | Visalia | 93277 | 663,060
Turning Point of Central California, Inc./Serenity Village | 615 S Atwood St | Visalia | 93277 | 185,984
Turning Point of Central California, Inc./Stasis Permanent Supportive Housing | 615 S Atwood St | Visalia | 93277 | 462,809
Valley Teen Ranch/Transitional Living Home | 2610 W Shaw Ave #105 | Fresno | 93711 | 30,620
WestCare California, Inc./Coordinated Entry 2018 | 1900 N Gateway Blvd. | FRESNO | 93727 | 534,169
WestCare California, Inc./Project LiftOFF 2018 | 1900 N Gateway Blvd. | FRESNO | 93727 | 317,653
Advocates for Mentally Ill Housing, Inc/AMIH PSH | 11768 Atwood Road Suite 6 | Auburn | 95603 | 81,427
County of Nevada/Consolidated Home Anew and Summers Haven FY 18 | 950 Maidu Avenue NA | Nevada City | 95959 | 137,746
County of Nevada/Winters' Haven Renewal 4 | 950 Maidu Avenue NA | Nevada City | 95959 | 37,280
Homeless Resource Council of the Sierras/FY2018 Planning Project Application | 11768 Atwood Road Suite 6 | Auburn | 95603 | 36,814
Homeless Resource Council of the Sierras/HMIS Renewal 2018 | 11768 Atwood Road Suite 6 | Auburn | 95603 | 51,266
Placer County Health and Human Services Adult System of Care/ASOC Permanent Supportive Housing FY 2018 | 11512 B Avenue | Auburn | 95603 | 386,399
Placer County Health and Human Services Adult System of Care/Placer St 2011 FY 2018 | 11512 B Avenue | Auburn | 95603 | 13,894
Placer County Health and Human Services Adult System of Care/Shelter Plus Care Renewal FY2018 | 11512 B Avenue | Auburn | 95603 | 296,420
Placer County Health and Human Services Adult System of Care/Timberline Shelter Plus Care FY 2018 | 11512 B Avenue | Auburn | 95603 | 21,726
Stand Up Placer, Inc./Stand Up Placer Permanent Housing 2018 | P.O. Box 5462 | Auburn | 95604 | 228,579
County of Shasta/Coordinated Entry | 1450 Court St, Suite 108 | Redding | 96001 | 61,809
County of Shasta/HMIS | 1450 Court St, Suite 108 | Redding | 96001 | 30,000
Northern Valley Catholic Social Service, Inc/Partners in Housing II | 2400 Washington Avenue | Redding | 96001 | 231,794
Shasta County/NorCal Planning Application | 1450 Court Street, Suite 108 | Redding | 96001 | 30,905
Buckelew Programs/Napa PSH 01.01.20-12.31.20 | 555 Northgate Drive Ste. 100 | San Rafael | 94903 | 254,438
County of Napa Health and Human Services Agency/CA-517 CoC Planning Grant 2018 | 2751 Napa Valley Corporate Drive South Campus, Building B, 2nd Floor | Napa | 94558 | 21,751
County of Napa Health and Human Services Agency/Coordinated Assessment | 2751 Napa Valley Corporate Drive South Campus, Building B, 2nd Floor | Napa | 94558 | 19,054
County of Napa Health and Human Services Agency/HMIS | 2751 Napa Valley Corporate Drive South Campus, Building B, 2nd Floor | Napa | 94558 | 35,887
County of Napa Health and Human Services Agency/Home to Stay | 2751 Napa Valley Corporate Drive South Campus, Building B, 2nd Floor | Napa | 94558 | 161,611
County of Napa Health and Human Services Agency/Permanent Supportive Housing I | 2751 Napa Valley Corporate Drive South Campus, Building B, 2nd Floor | Napa | 94558 | 93,438
County of Napa Health and Human Services Agency/Permanent Supportive Housing II | 2751 Napa Valley Corporate Drive South Campus, Building B, 2nd Floor | Napa | 94558 | 29,464
Housing Authority of the City of Napa/2018 Shelter Plus Care | 1115 Seminary Street P.O. Box 660 | Napa | 94559 | 124,183
Anka Behavioral Health/STOP Plus | 3480 Buskirk Ave Suite 300 | Pleasant Hill | 94523 | 169,973
Caminar/Bonus Grant | 908 Tuolumne Street | Vallejo | 94590 | 33,321
Caminar/Laurel Gardens | 908 Tuolumne Street | Vallejo | 94590 | 48,824
Caminar/Sereno Village Consolidated | 908 Tuolumne Street | Vallejo | 94590 | 117,185
City of Fairfield, CA/Restoration Project | Office of the City Manager 1000 Webster Street | Fairfield | 94533 | 62,999
Community Action North Bay/Fairfield VETS | 416 Union Avenue | Fairfield | 94533 | 38,195
Community Action North Bay/Healthy Living Your Way | 416 Union Avenue | Fairfield | 94533 | 126,238
Community Action North Bay/Housing Express | 416 Union Avenue | Fairfield | 94533 | 116,295
Community Action North Bay/Housing Express Expansion | 416 Union Avenue | Fairfield | 94533 | 114,360
Community Action North Bay/Living Self-Reliantly | 416 Union Avenue | Fairfield | 94533 | 109,826
Community Action Partnership of Solano, Joint Powers Authority/CoC Planning Project FY2018 | 701 Civic Center Boulevard | Suisun City | 94585 | 38,668
Community Action Partnership of Solano, Joint Powers Authority/Coordinated Entry System Expansion | 701 Civic Center Boulevard | Suisun City | 94585 | 219,614
Community Action Partnership of Solano, Joint Powers Authority/DV Bonus Coordinated Entry System | 701 Civic Center Boulevard | Suisun City | 94585 | 84,718
Edge Community Church of Suisun/Restoration Project 2018 | 1101 Horizon Drive Suite 112 | Fairfield | 94533 | 102,210
Orphan Relief Network DBA as Solano Dream Center/Solano Dream Center | 310 Beck Ave Suite 112 | Fairfield | 94533 | 81,798
Butte County Department of Behavioral Health/LINK Permanent Housing Bonus | 3217 Cohasset Road | Chico | 95973 | 29,607
Butte County Department of Behavioral Health/Permanent Housing Bonus SEARCH II | 3217 Cohasset Road | Chico | 95973 | 29,806
Butte County Department of Behavioral Health/SEARCH III Supportive Housing Program | 3217 Cohasset Road | Chico | 95973 | 29,888
Butte County Department of Behavioral Health/SEARCH Samaritan Bonus | 3217 Cohasset Road | Chico | 95973 | 39,305
Caminar/Renewal Project Application FY2018 | 376 Rio Lindo Ave | Chico | 95926 | 71,007
Catalyst Domestic Violence Services/DV SSO-CE | 330 Wall Street Ste 50 | Chico | 95928 | 60,401
Catalyst Domestic Violence Services/Rapid Re-Housing | 330 Wall Street Ste 50 | Chico | 95928 | 86,465
Community Action Agency of Butte County, Inc/FY18 CoC Planning Grant | 181 East Shasta Ave | Chico | 95973 | 18,120
Community Action Agency of Butte County, Inc./Butte County 2018 Coordinated Entry Project | 181 E Shasta Avenue | Chico | 95973 | 36,241
Community Action Agency of Butte County, Inc./Butte County CoC HMIS Project 2018 | 181 E Shasta Avenue | Chico | 95973 | 107,000
Housing Authority of the County of Butte/Search South SPC PH | 2039 Forest Avenue | Chico | 95928 | 44,878
Housing Authority of the County of Merced/Continuum of Care Application Renewal FY2018 | 405 U Street | Merced | 95341 | 55,506
Merced County Behavioral Health and Recovery Services/Project Home Start 2018 | P.O. Box 2087 | Merced | 95344 | 137,311
Merced County Behavioral Health and Recovery Services/Project Hope Westside 2018 | P.O. Box 2087 | Merced | 95344 | 153,562
Merced County Community Action Board/HMIS Renewal 2018 | P.O. Box 2085 1235 W Main Street | Merced | 95344 | 82,709
Merced, County of/CA-520 CoC Planning Application FY2018 | 2115 West Wardrobe Ave | Merced | 95341 | 28,304
Merced, County of/CA-520 Renewal Application | 2115 West Wardrobe Ave | Merced | 95341 | 36,385
Sierra Saving Grace Homeless Project/Sierra Saving Grace Homeless Project | 710 W 18th Street Suite 18 | Merced | 95340 | 39,909
Sierra Saving Grace Homeless Project/Sierra Saving Grace Homeless Project 2 | 710 W 18th Street Suite 18 | Merced | 95340 | 81,215
Turning Point Community Programs/_TPCP Merced Bonus Renewal 2018 | 10850 Gold Center Dr Suite 325 | Rancho Cordova | 95670 | 41,567
Turning Point Community Programs/_TPCP Merced Renewal 2018 | 10850 Gold Center Dr Suite 325 | Rancho Cordova | 95670 | 93,424
City of Davis/Transitional Housing Program for Homeless Single Men and Women | 23 Russell Boulevard | Davis | 95616 | 66,282
City of Woodland/Bonus Project (2016) PSH for CH 2018 | 300 First Street | Woodland | 95695 | 24,761
City of Woodland/Consolidated PSH for CH 2018 | 300 First Street | Woodland | 95695 | 91,191
City of Woodland/Reallocation (2015) PSH for CH 2018 | 300 First Street | Woodland | 95695 | 152,936
Yolo Community Care Continuum/Supported Housing 2018 | 285 West Court Street suite 207 | Woodland | 95695 | 146,527
2-1-1 HUMBOLDT INFORMATION AND RESOURCE CENTER/CoC Coordinated Entry 2018 | 730 K Street | Eureka | 95501 | 31,549
Arcata House Partnership/Apartments First 3 | 1005 11th Street | Arcata | 95521 | 50,062
Arcata House Partnership/PSH Consolidated | 1005 11th Street | Arcata | 95521 | 389,718
Humboldt, County of, DBA-Dept. of Health and Human Services/Best Chance PSH | 507 F Street | Eureka | 95501 | 114,402
Humboldt, County of, DBA-Dept. of Health and Human Services/CA-522 CoC Planning Application FY2018 | 507 F Street | Eureka | 95501 | 25,031
Humboldt, County of, DBA-Dept. of Health and Human Services/Humboldt County HMIS | 507 F Street | Eureka | 95501 | 69,500
Humboldt, County of, DBA-Dept. of Health and Human Services/Humboldt Housing Consolidated | 507 F Street | Eureka | 95501 | 98,665
Humboldt, County of, DBA-Dept. of Health and Human Services/Projects HART | 507 F Street | Eureka | 95501 | 82,388
Glenn County Health & Human Services/CoC Planning Project FY 2018 | 420 E Laurel Street | Willows | 95988 | 6,888
Sutter Yuba Homeless Consortium/FY2018 Planning Project Application | 1521 Butte House Road Suite C | Yuba City | 95993 | 15,455
The Center for Violence-Free Relationships/2018 Planning Grant Project | 344 Placerville Dr. Suite 11 | Placerville | 95667 | 10,200
The Center for Violence-Free Relationships/HMIS Renewal 2018 | 344 Placerville Dr. Suite 11 | Placerville | 95667 | 9,817
Alliance for Community Transformations/DV Bonus Project | P.O. Box 2075 | Mariposa | 95338 | 49,868
Amador Tuolumne Community Action Agency/Amhsg2018 | 935 S Highway 49 | Jackson | 95642 | 17,400
Amador-Tuolumne Community Action Agency/HMIS FY2018 | 935 S Highway 49 | Jackson | 95642 | 50,000
Amador-Tuolumne Community Action Agency/PSH TUOLUMNE CONSOLIDATED 2018 | 935 S Highway 49 | Jackson | 95642 | 34,305
Amador-Tuolumne Community Action Agency/TRC RRH FY 2018 | 935 S Highway 49 | Jackson | 95642 | 59,504
County of Mariposa/Mariposa PSH—CoC 2018 | P.O. Box 99 5362 Lemee Lane | Mariposa | 95338 | 62,813
Sierra HOPE/Calaveras Rapid Re-Housing Project | 1168 Booster Way | Angels Camp | 95222 | 115,557
Sierra HOPE/Sierra HOPE PSH-1 | 1168 Booster Way | Angels Camp | 95222 | 65,562
Empower Tehama/CA-527 CoC Planning Application FY2018 | 1805 Walnut Street | Red Bluff | 96080 | 5,902
Inyo Mono Advocates for Community Action, Inc./CA-530 CoC Planning Application FY2018 | 137 E South Street | Bishop | 93514 | 3,134
1736 Family Crisis Center/CA0485 1736 Family Crisis Center SHP | 2116 Arlington Avenue, Suite 200 | Los Angeles | 90018 | 531,763
A Community of Friends/CA0331-C 39 West Apartments—Consolidated | 3701 Wilshire Boulevard, Suite 700 | Los Angeles | 90010 | 192,130
Alliance for Housing and Healing dba The Serra Project/CA0356 CHOISS SPA 2—Individual | 825 Colorado Blvd., Suite 100 | Los Angeles | 90041 | 349,763
Alliance for Housing and Healing dba The Serra Project/CA0357 CHOISS SPA 8—Individual | 825 Colorado Blvd., Suite 100 | Los Angeles | 90041 | 377,581
City of Burbank/CA1499-Homes, Equality and Links to Programs—Individual | 150 N Third Street | Burbank | 91502 | 486,416
City of Pomona Housing Authority/CA0462 Pomona PHA CoC-PSH Program | 505 S Garey Avenue | Pomona | 91766 | 1,158,655
City of Pomona Housing Authority/Pomona PHA CoC-PSH Expansion Program | 505 S Garey Avenue | Pomona | 91766 | 589,470
City of Santa Monica Housing Authority/CA0359-C SIP—Consolidated | 1901 Main Street Suite A | Santa Monica | 90405 | 3,640,550
County of Los Angeles, Housing Authority/CA0339 Antelope Valley Domestic Violence Council | 700 W Main Street | Alhambra | 91801 | 512,228
County of Los Angeles, Housing Authority/CA0365 LAC Dept of Mental Health 1 Consolidated | 700 W Main Street | Alhambra | 91801 | 3,277,050
County of Los Angeles, Housing Authority/CA0421 New Directions Consolidated | 700 W Main Street | Alhambra | 91801 | 964,103
County of Los Angeles, Housing Authority/CA0465 The Whole Child 1 | 700 W Main Street | Alhambra | 91801 | 3,069,068
County of Los Angeles, Housing Authority/CA0742 Mental Health America Consolidated | 700 W Main Street | Alhambra | 91801 | 857,972
County of Los Angeles, Housing Authority/CA0792 Pacific Clinics | 700 W Main Street | Alhambra | 91801 | 447,258
County of Los Angeles, Housing Authority/CA0800 Tri-City Mental Health Authority | 700 W Main Street | Alhambra | 91801 | 212,130
County of Los Angeles, Housing Authority/CA0860 City of West Hollywood | 700 W Main Street | Alhambra | 91801 | 299,054
County of Los Angeles, Housing Authority/CA0913 Southern California Health and Rehabilitation Program | 700 W Main Street | Alhambra | 91801 | 1,502,900
County of Los Angeles, Housing Authority/CA0914 SSG 1—Asian Pacific Counseling and Treatment Center | 700 W Main Street | Alhambra | 91801 | 291,484
County of Los Angeles, Housing Authority/CA0915 A Community Of Friends 1 | 700 W Main Street | Alhambra | 91801 | 346,636
County of Los Angeles, Housing Authority/CA0998 Ocean Park Community Center 1 | 700 W Main Street | Alhambra | 91801 | 572,640
County of Los Angeles, Housing Authority/CA1046 LAC Dept of Mental Health 8 | 700 W Main Street | Alhambra | 91801 | 3,056,748
County of Los Angeles, Housing Authority/CA1047 Homeless Health Care Los Angeles Consolidated | 700 W Main Street | Alhambra | 91801 | 199,972
County of Los Angeles, Housing Authority/CA1104 A Community Of Friends 5 | 700 W Main Street | Alhambra | 91801 | 409,041
County of Los Angeles, Housing Authority/CA1109 Ocean Park Community Center 2 | 700 W Main Street | Alhambra | 91801 | 409,434
County of Los Angeles, Housing Authority/CA1109 Ocean Park Community Center 2 Expansion | 700 W Main Street | Alhambra | 91801 | 589,470
County of Los Angeles, Housing Authority/CA1157 A Community Of Friends 2 | 700 W Main Street | Alhambra | 91801 | 243,851
County of Los Angeles, Housing Authority/CA1158 LAC Dept of Mental Health 9 | 700 W Main Street | Alhambra | 91801 | 375,085
County of Los Angeles, Housing Authority/CA1218 Homes For Life Foundation | 700 W Main Street | Alhambra | 91801 | 110,577
County of Los Angeles, Housing Authority/CA1219 The Whole Child 2 | 700 W Main Street | Alhambra | 91801 | 349,949
County of Los Angeles, Housing Authority/CA1342 LAC Dept of Mental Health 11 | 700 W Main Street | Alhambra | 91801 | 1,191,643
County of Los Angeles, Housing Authority/CA1343 People Assisting The Homeless | 700 W Main Street | Alhambra | 91801 | 478,195
County of Los Angeles, Housing Authority/CA1344 Ocean Park Community Center Integrated Housing Program | 700 W Main Street | Alhambra | 91801 | 1,182,458
County of Los Angeles, Housing Authority/CA1502 Ocean Park Community Center Wellness Housing Program | 700 W Main Street | Alhambra | 91801 | 1,180,582
County of Los Angeles, Housing Authority/CA1503 Special Service for Groups 2—SPA 6 CES | 700 W Main Street | Alhambra | 91801 | 404,180
County of Los Angeles, Housing Authority/CA1504 St Joseph Center 1 | 700 W Main Street | Alhambra | 91801 | 443,989
County of Los Angeles, Housing Authority/CA1505 Union Station Homeless Services 1 | 700 W Main Street | Alhambra | 91801 | 910,376
County of Los Angeles, Housing Authority/CA1596 LAC Dept of Mental Health 12 | 700 W Main Street | Alhambra | 91801 | 1,097,283
County of Los Angeles, Housing Authority/CA1597 Union Station Homeless Services 2 | 700 W Main Street | Alhambra | 91801 | 867,728
County of Los Angeles, Housing Authority/CA1687 St Joseph Center 2 | 700 W Main Street | Alhambra | 91801 | 1,127,549
County of Los Angeles, Housing Authority/CA1688 DMH/DHS—LAC Health Agency | 700 W Main Street | Alhambra | 91801 | 3,275,472
Homes for Life Foundation/CA0387 Harvest House | 8939 S Sepulveda Boulevard Suite 460 | Los Angeles | 90045 | 77,963
Housing Authority of the City of Los Angeles (HACLA)/CA0324-C Samaritan Bonus CA0324—Consolidated | 2600 Wilshire Blvd., 3rd Floor | Los Angeles | 90057 | 1,701,486
Housing Authority of the City of Los Angeles (HACLA)/CA0328 Special Service for Groups-TRA—Scattered Sites (CA0328L9D001805) | 2600 Wilshire Blvd., 3Rd Floor | Los Angeles | 90057 | 76,160
Housing Authority of the City of Los Angeles (HACLA)/CA0329-C SJC TRA Scattered CA0329—Consolidated | 2600 Wilshire Blvd., 3rd Floor | Los Angeles | 90057 | 734,685
Housing Authority of the City of Los Angeles (HACLA)/CA0335 Fox Normandie Project | 2600 Wilshire Blvd., 3rd Floor | Los Angeles | 90057 | 146,570
Housing Authority of the City of Los Angeles (HACLA)/CA0336 Vista Nueva, 39 West, Fig. Ct., Parker Project | 2600 Wilshire Blvd., 3rd Floor | Los Angeles | 90057 | 1,687,782
Housing Authority of the City of Los Angeles (HACLA)/CA0391 Hillview Village Project | 2600 Wilshire Blvd., 3rd Floor | Los Angeles | 90057 | 295,575
Housing Authority of the City of Los Angeles (HACLA)/CA0392 Hillview Village Project | 2600 Wilshire Blvd., 3rd Floor | Los Angeles | 90057 | 161,553
Housing Authority of the City of Los Angeles (HACLA)/CA0393 Scattered Sites Project | 2600 Wilshire Blvd., 3rd Floor | Los Angeles | 90057 | 225,164
Housing Authority of the City of Los Angeles (HACLA)/CA0395-C Hollywood Scattered Sites CA0395—Consolidated | 2600 Wilshire Blvd., 3rd Floor | Los Angeles | 90057 | 1,635,319
Housing Authority of the City of Los Angeles (HACLA)/CA0405 Los Angeles County DMH Scattered Sites | 2600 Wilshire Blvd., 3rd Floor | Los Angeles | 90057 | 4,739,765
Housing Authority of the City of Los Angeles (HACLA)/CA0407 Lamp, Inc., Lamp Lodge | 2600 Wilshire Blvd., 3rd Floor | Los Angeles | 90057 | 167,820
Housing Authority of the City of Los Angeles (HACLA)/CA0408 Lamp, Inc., Scattered Sites | 2600 Wilshire Blvd., 3rd Floor | Los Angeles | 90057 | 240,502
Housing Authority of the City of Los Angeles (HACLA)/CA0420 National Mental Health—Mental Health Association (CA0420L9D001811) | 2600 Wilshire Blvd., 3rd Floor | Los Angeles | 90057 | 237,209
Housing Authority of the City of Los Angeles (HACLA)/CA0438 Portals/Pacific Clinics—Various Locations (CA0438L9D001811) | 2600 Wilshire Blvd., 3rd Floor | Los Angeles | 90057 | 319,628
Housing Authority of the City of Los Angeles (HACLA)/CA0444-C PNH Hoover & Nyumba CA0444—Consolidated | 2600 Wilshire Blvd., 3rd Floor | Los Angeles | 90057 | 549,072
Housing Authority of the City of Los Angeles (HACLA)/CA0445 Project New Hope | 2600 Wilshire Blvd., 3rd Floor | Los Angeles | 90057 | 346,725
Housing Authority of the City of Los Angeles (HACLA)/CA0464 Skid Row Housing Trust—Scattered Sites (CA0464L9D001811) | 2600 Wilshire Blvd., 3rd Floor | Los Angeles | 90057 | 2,479,290
Housing Authority of the City of Los Angeles (HACLA)/CA0473 Scattered Sites Project | 2600 Wilshire Blvd., 3rd Floor | Los Angeles | 90057 | 1,959,384
Housing Authority of the City of Los Angeles (HACLA)/CA0474 Scattered Sites Project | 2600 Wilshire Blvd., 3rd Floor | Los Angeles | 90057 | 977,329
Housing Authority of the City of Los Angeles (HACLA)/CA0519-C Venice Scattered Sites CA0519—Consolidated | 2600 Wilshire Blvd., 3rd Floor | Los Angeles | 90057 | 667,738
Housing Authority of the City of Los Angeles (HACLA)/CA0783 Gateway Hotel Project | 2600 Wilshire Blvd., 3rd Floor | Los Angeles | 90057 | 348,372
Housing Authority of the City of Los Angeles (HACLA)/CA0797 Skid Row Housing Trust—Skid Row Collaborative (CA0797L9D001810) | 2600 Wilshire Blvd., 3rd Floor | Los Angeles | 90057 | 2,350,520
Housing Authority of the City of Los Angeles (HACLA)/CA0798 Special Service for Groups—TRA (CA0798L9D001810) | 2600 Wilshire Blvd., 3rd Floor | Los Angeles | 90057 | 850,701
Housing Authority of the City of Los Angeles (HACLA)/CA0799 Eugene Hotel Project | 2600 Wilshire Blvd., 3rd Floor | Los Angeles | 90057 | 517,078
Housing Authority of the City of Los Angeles (HACLA)/CA0859 OPCC Various Locations CA0859—Expansion | 2600 Wilshire Blvd., 3rd Floor | Los Angeles | 90057 | 1,006,476
Housing Authority of the City of Los Angeles (HACLA)/CA0862 Los Angeles County DMH—TRA | 2600 Wilshire Blvd., 3rd Floor | Los Angeles | 90057 | 1,009,359
Housing Authority of the City of Los Angeles (HACLA)/CA0916 Woodland Terrace Project | 2600 Wilshire Blvd., 3rd Floor | Los Angeles | 90057 | 618,879
Housing Authority of the City of Los Angeles (HACLA)/CA0917 Brandon Apts. Project | 2600 Wilshire Blvd., 3rd Floor | Los Angeles | 90057 | 428,801
Housing Authority of the City of Los Angeles (HACLA)/CA0920-C OPCC Various Locations 0920—Consolidated | 2600 Wilshire Blvd., 3rd Floor | Los Angeles | 90057 | 1,706,469
Housing Authority of the City of Los Angeles (HACLA)/CA0923 Watts Labor CAC—McCoy Plaza (CA0923L9D001809) | 2600 Wilshire Blvd., 3rd Floor | Los Angeles | 90057 | 383,900
Housing Authority of the City of Los Angeles (HACLA)/CA0995-C SJC Scattered Site—TRA CA0995—Consolidated | 2600 Wilshire Blvd., 3rd Floor | Los Angeles | 90057 | 811,474
Housing Authority of the City of Los Angeles (HACLA)/CA0996 Gateway Apts Project | 2600 Wilshire Blvd., 3rd Floor | Los Angeles | 90057 | 638,722
Housing Authority of the City of Los Angeles (HACLA)/CA0997 Epworth Apts Project | 2600 Wilshire Blvd., 3rd Floor | Los Angeles | 90057 | 305,614
Housing Authority of the City of Los Angeles (HACLA)/CA1049 Brownstone Hotel Project | 2600 Wilshire Blvd., 3rd Floor | Los Angeles | 90057 | 565,179
Housing Authority of the City of Los Angeles (HACLA)/CA1050 Lyndon House Project | 2600 Wilshire Blvd., 3rd Floor | Los Angeles | 90057 | 697,288
Housing Authority of the City of Los Angeles (HACLA)/CA1051 Skid Row Housing Trust—Abbey Apartments (CA1051L9D001808) | 2600 Wilshire Blvd., 3rd Floor | Los Angeles | 90057 | 541,129
Housing Authority of the City of Los Angeles (HACLA)/CA1106 L.A. Family Housing—Day Street Apartments (CA1106L9D001803) | 2600 Wilshire Blvd., 3rd Floor | Los Angeles | 90057 | 217,592
Housing Authority of the City of Los Angeles (HACLA)/CA1110 San Fernando Valley Community Mental Health Center | 2600 Wilshire Blvd., 3rd Floor | Los Angeles | 90057 | 339,987
Housing Authority of the City of Los Angeles (HACLA)/CA1112 Step Up on Second—Michael's Village (CA1112L9D001803) | 2600 Wilshire Blvd., 3rd Floor | Los Angeles | 90057 | 312,788
Housing Authority of the City of Los Angeles (HACLA)/CA1216 Skid Row Housing Trust—St George Hotel 1 (CA1216L9D001806) | 2600 Wilshire Blvd., 3rd Floor | Los Angeles | 90057 | 621,058
Housing Authority of the City of Los Angeles (HACLA)/CA1217 Skid Row Housing Trust—Samaritan Grant (CA1217L9D001806) | 2600 Wilshire Blvd., 3rd Floor | Los Angeles | 90057 | 1,408,524
Housing Authority of the City of Los Angeles (HACLA)/CA1220 Vendome Apartments Project | 2600 Wilshire Blvd., 3rd Floor | Los Angeles | 90057 | 469,604
Housing Authority of the City of Los Angeles (HACLA)/CA1224 Skid Row Housing Trust—St. George Hotel 2 (CA1224L9D001806) | 2600 Wilshire Blvd., 3rd Floor | Los Angeles | 90057 | 180,000
Housing Authority of the City of Los Angeles (HACLA)/CA1337-C L.A. County Department of Mental Health Multidisciplinary Integrated Teams CA1337—Consolidated | 2600 Wilshire Blvd., 3rd Floor | Los Angeles | 90057 | 1,856,464
Housing Authority of the City of Los Angeles (HACLA)/CA1339 Special Service for Groups—SPA 6 CES (CA1339L9D001804) | 2600 Wilshire Blvd., 3rd Floor | Los Angeles | 90057 | 940,906
Housing Authority of the City of Los Angeles (HACLA)/CA1340 L.A. Family Housing—SPA 2 Welcome Home Project (CA1340L9D001804) | 2600 Wilshire Blvd., 3rd Floor | Los Angeles | 90057 | 381,674
Housing Authority of the City of Los Angeles (HACLA)/CA1341 HACLA Permanent Supportive Housing Bonus | 2600 Wilshire Blvd., 3rd Floor | Los Angeles | 90057 | 11,565,305
Housing Authority of the City of Los Angeles (HACLA)/CA1490 Permanent Supportive Housing Project | 2600 Wilshire Blvd., 3rd Floor | Los Angeles | 90057 | 1,153,052
Housing Authority of the City of Los Angeles (HACLA)/CA1491 Harbor Interfaith Services Inc.—SPA 8 CES PSH (CA1491L9D001803) | 2600 Wilshire Blvd., 3rd Floor | Los Angeles | 90057 | 850,998
Housing Authority of the City of Los Angeles (HACLA)/CA1492 L.A. Family Housing—2015 SPA 2 Welcome Home Project (CA1492L9D001803) | 2600 Wilshire Blvd., 3rd Floor | Los Angeles | 90057 | 1,550,062
Housing Authority of the City of Los Angeles (HACLA)/CA1500-LA House of Ruth—Ruth's PSH Program | 2600 Wilshire Blvd., 3rd Floor | Los Angeles | 90057 | 197,912
Housing Authority of the City of Los Angeles (HACLA)/CA1594 Permanent Supportive Housing Project | 2600 Wilshire Blvd., 3rd Floor | Los Angeles | 90057 | 340,913
Housing Authority of the City of Los Angeles (HACLA)/CA1595 HACLA PSH for SPA 5 and 6 CH Clients Project | 2600 Wilshire Blvd., 3rd Floor | Los Angeles | 90057 | 590,081
Housing Authority of the City of Los Angeles (HACLA)/CA1689 LAMP—Downtown—CoC | 2600 Wilshire Blvd., 3rd Floor | Los Angeles | 90057 | 1,292,945
Los Angeles Homeless Services Authority/CA0325 Los Angeles County HMIS Expansion | 811 Wilshire Boulevard, 6th Floor | Los Angeles | 90017 | 407,620
Los Angeles Homeless Services Authority/CA0340 Antelope Valley Assistance Program | 811 Wilshire Boulevard, 6th Floor | Los Angeles | 90017 | 233,625
Los Angeles Homeless Services Authority/CA0341-C CPAF Transitional Housing Program—Consolidated | 811 Wilshire Boulevard, 6th Floor | Los Angeles | 90017 | 276,862
Los Angeles Homeless Services Authority/CA0345-C Birch Grove Homes—Consolidated | 811 Wilshire Boulevard, 6th Floor | Los Angeles | 90017 | 343,623
Los Angeles Homeless Services Authority/CA0347-C California Hotel Apartments—C—Consolidated | 811 Wilshire Boulevard, 6th Floor | Los Angeles | 90017 | 460,356
Los Angeles Homeless Services Authority/CA0348 Carriage House | 811 Wilshire Boulevard, 6th Floor | Los Angeles | 90017 | 60,021
Los Angeles Homeless Services Authority/CA0352 Center for Women and Children, Sites A and B—C | 811 Wilshire Boulevard, 6th Floor | Los Angeles | 90017 | 120,600
Los Angeles Homeless Services Authority/CA0353-C CHOISS Program—SPA 5—Consolidated | 811 Wilshire Boulevard, 6th Floor | Los Angeles | 90017 | 586,118
Los Angeles Homeless Services Authority/CA0358-C Pomona Operation Porchlight Program—Consolidated | 811 Wilshire Boulevard, 6th Floor | Los Angeles | 90017 | 865,913
Los Angeles Homeless Services Authority/CA0364 Denker House Consolidated Application—C | 811 Wilshire Boulevard, 6th Floor | Los Angeles | 90017 | 160,790
Los Angeles Homeless Services Authority/CA0370 Targeted Supportive Housing Program—Project 1 | 811 Wilshire Boulevard, 6th Floor | Los Angeles | 90017 | 140,104
Los Angeles Homeless Services Authority/CA0372 Family Violence Project—Hope Cottage | 811 Wilshire Boulevard, 6th Floor | Los Angeles | 90017 | 292,583
Los Angeles Homeless Services Authority/CA0373 Far East Building | 811 Wilshire Boulevard, 6th Floor | Los Angeles | 90017 | 35,666
Los Angeles Homeless Services Authority/CA0374-C Fedora Apartments—Consolidated | 811 Wilshire Boulevard, 6th Floor | Los Angeles | 90017 | 148,510
Los Angeles Homeless Services Authority/CA0383-C Gower Street Apartments—Consolidated | 811 Wilshire Boulevard, 6th Floor | Los Angeles | 90017 | 779,189
Los Angeles Homeless Services Authority/CA0386 Harbor Gateway Homes | 811 Wilshire Boulevard, 6th Floor | Los Angeles | 90017 | 114,239
Los Angeles Homeless Services Authority/CA0409 Lamp Lodge | 811 Wilshire Boulevard, 6th Floor | Los Angeles | 90017 | 285,646
Los Angeles Homeless Services Authority/CA0413 Lincoln Hotel | 811 Wilshire Boulevard, 6th Floor | Los Angeles | 90017 | 60,177
Los Angeles Homeless Services Authority/CA0414-C Los Angeles County HMIS Project—Consolidated | 811 Wilshire Boulevard, 6th Floor | Los Angeles | 90017 | 1,141,640
Los Angeles Homeless Services Authority/CA0419 House of Dignity 1 | 811 Wilshire Boulevard, 6th Floor | Los Angeles | 90017 | 190,171
Los Angeles Homeless Services Authority/CA0430 Golden West Hotel | 811 Wilshire Boulevard, 6th Floor | Los Angeles | 90017 | 444,463
Los Angeles Homeless Services Authority/CA0433 Penny Lane Permanent Housing Center Program | 811 Wilshire Boulevard, 6th Floor | Los Angeles | 90017 | 217,380
Los Angeles Homeless Services Authority/CA0435 Permanent Housing Project for Disabled Women | 811 Wilshire Boulevard, 6th Floor | Los Angeles | 90017 | 112,935
Los Angeles Homeless Services Authority/CA0442 Project Hotel Alert | 811 Wilshire Boulevard, 6th Floor | Los Angeles | 90017 | 292,466
Los Angeles Homeless Services Authority/CA0450 Ready, Willing, and Able Program | 811 Wilshire Boulevard, 6th Floor | Los Angeles | 90017 | 175,734
Los Angeles Homeless Services Authority/CA0457 Kosumosu Transitional Housing—C | 811 Wilshire Boulevard, 6th Floor | Los Angeles | 90017 | 116,142
Los Angeles Homeless Services Authority/CA0466 South Central Access Center | 811 Wilshire Boulevard, 6th Floor | Los Angeles | 90017 | 264,648
Los Angeles Homeless Services Authority/CA0479 Steppin Into the Light | 811 Wilshire Boulevard, 6th Floor | Los Angeles | 90017 | 178,205
Los Angeles Homeless Services Authority/CA0494 Rainbow Apartments | 811 Wilshire Boulevard, 6th Floor | Los Angeles | 90017 | 143,106
Los Angeles Homeless Services Authority/CA0515 Transitional Services Project | 811 Wilshire Boulevard, 6th Floor | Los Angeles | 90017 | 253,721
Los Angeles Homeless Services Authority/CA0523-C Vista Nueva Apartments—Consolidated | 811 Wilshire Boulevard, 6th Floor | Los Angeles | 90017 | 354,546
Los Angeles Homeless Services Authority/CA0526 Westside Residence Hall and Employment Center | 811 Wilshire Boulevard, 6th Floor | Los Angeles | 90017 | 485,775
Los Angeles Homeless Services Authority/CA0527 Westside Safe Haven | 811 Wilshire Boulevard, 6th Floor | Los Angeles | 90017 | 584,327
Los Angeles Homeless Services Authority/CA0861 CHOISS Program—SPA 3 | 811 Wilshire Boulevard, 6th Floor | Los Angeles | 90017 | 442,399
Los Angeles Homeless Services Authority/CA0993 Downtown Women's Center—Women's Center Residence | 811 Wilshire Boulevard, 6th Floor | Los Angeles | 90017 | 395,880
Los Angeles Homeless Services Authority/CA0994 Housing Works Home First—Expansion | 811 Wilshire Boulevard, 6th Floor | Los Angeles | 90017 | 956,836
Los Angeles Homeless Services Authority/CA1048-C Vanowen Apartments—Consolidated | 811 Wilshire Boulevard, 6th Floor | Los Angeles | 90017 | 311,287
Los Angeles Homeless Services Authority/CA1195 LA CoC Coordinated Assessment | 811 Wilshire Boulevard, 6th Floor | Los Angeles | 90017 | 479,058
Los Angeles Homeless Services Authority/CA1335-C South Los Angeles Rapid Rehousing Program—Consolidated | 811 Wilshire Boulevard, 6th Floor | Los Angeles | 90017 | 1,756,827
Los Angeles Homeless Services Authority/CA1336 Road Home | 811 Wilshire Boulevard, 6th Floor | Los Angeles | 90017 | 430,683
Los Angeles Homeless Services Authority/CA1487 The Way Home | 811 Wilshire Boulevard, 6th Floor | Los Angeles | 90017 | 2,251,351
Los Angeles Homeless Services Authority/CA1684 The Salvation Army CIS PSH (DedicatedPLUS) for TAY | 811 Wilshire Boulevard, 6th Floor | Los Angeles | 90017 | 1,113,660
Los Angeles Homeless Services Authority/CA1685 The Salvation Army CIS PSH | 811 Wilshire Boulevard, 6th Floor | Los Angeles | 90017 | 1,239,795
Los Angeles Homeless Services Authority/CA1686—Step Up Los Angeles County 2017 | 811 Wilshire Boulevard, 6th Floor | Los Angeles | 90017 | 1,609,957
Los Angeles Homeless Services Authority/CA-600 CoC Planning Application FY2018 | 811 Wilshire Boulevard, 6th Floor | Los Angeles | 90017 | 1,250,000
Los Angeles Homeless Services Authority/Los Angeles CoC DV SSO-CE | 811 Wilshire Boulevard, 6th Floor | Los Angeles | 90017 | 1,000,000
Los Angeles Homeless Services Authority/Los Angeles CoC DV TH-RRH | 811 Wilshire Boulevard, 6th Floor | Los Angeles | 90017 | 4,131,700
Los Angeles Homeless Services Authority/SJWCFC Permanent Supportive Housing Program | 811 Wilshire Boulevard, 6th Floor | Los Angeles | 90017 | 1,071,844
Ocean Park Community Center/CA0460 Santa Monica Dual Diagnosis Project | 1453 16th Street | Santa Monica | 90404 | 108,838
Step Up on Second Street, Inc./CA0401 Stepping Up Renewal 2018 | 1328 Second St | Santa Monica | 90401 | 135,505
Su Casa ~ Ending Domestic Violence/CA0489 Su Casa Supportive Housing Program | 3840 Woodruff Avenue—Suite 203 | Long Beach | 90808 | 53,462
United States Veterans Initiative/CA0520 Veterans In Progress | 733 South Hindry Avenue | Inglewood | 90301 | 295,315
Upward Bound House/CA—0518—Upward Bound House Family Place | 1104 Washington Avenue | Santa Monica | 90403 | 286,785
Alpha Project for the Homeless/Alpha Square | 3737 5th Ave. #203 | San Diego | 92103 | 525,598
Alpha Project for the Homeless/Rapid Rehousing Programs—Consolidated | 3737 5th Ave. #203 | San Diego | 92103 | 1,254,398
Alpha Project for the Homeless/The Lofts 2018 | 3737 5th Ave. #203 | San Diego | 92103 | 366,897
Catholic Charities, Diocese of San Diego/Ninth and F Street Apts | 3888 Paducah Drive | San Diego | 92117 | 33,167
Catholic Charities, Diocese of San Diego/Rachel's Rapid Rehousing Project | 3888 Paducah Drive | San Diego | 92117 | 139,495
City of Oceanside/Women's Resource Center Transitional Housing | 300 North Coast Highway | Oceanside | 92054 | 145,091
Community HousingWorks/El Norte Permanent Supportive Housing | 2815 Camino del Rio South Suite 350 | San Diego | 92108 | 68,468
Community HousingWorks/Las Casitas Permanent Supportive Housing | 2815 Camino del Rio South Suite 350 | San Diego | 92108 | 56,144
Community HousingWorks/Pine View Permanent Supportive Housing | 2815 Camino del Rio South Suite 350 | San Diego | 92108 | 80,049
Community Resource Center/CRC Rapid Re-Housing | 650 Second Street | Encinitas | 92024 | 256,221
Community Resource Center/DV Bonus | 650 Second Street | Encinitas | 92024 | 351,462
County of San Diego/County S+C SRA | 3989 Ruffin Road | San Diego | 92123 | 375,620
County of San Diego/County S+C TRA | 3989 Ruffin Road | San Diego | 92123 | 430,253
County of San Diego/MHS Merge | 3989 Ruffin Road | San Diego | 92123 | 374,689
Crisis House, Inc./Journey Home | 1034 N Magnolia Ave | El Cajon | 92020 | 486,459
Crisis House, Inc./New Journey | 1034 N Magnolia Ave | El Cajon | 92020 | 384,630
Home Start, Inc./Maternity Shelter Program | 5005 Texas Street, Suite 203 | San Diego | 92108 | 269,166
Interfaith Community Services, Inc./Home Now | 550 W Washington Ave | Escondido | 92025 | 540,625
Interfaith Community Services, Inc./Path to Permanence | 550 W Washington Ave | Escondido | 92025 | 220,240
Interfaith Community Services, Inc./Raymond's Refuge | 550 W Washington Ave | Escondido | 92025 | 97,984
Interfaith Community Services, Inc./Rental Assistance Program | 550 W Washington Ave | Escondido | 92025 | 260,880
Mental Health Systems Inc/MHS—Next Steps PSH Renewal | 9465 Farnham Street | San Diego | 92123 | 170,324
Mental Health Systems Inc/North County Safehaven Renewal | 9465 Farnham Street | San Diego | 92123 | 282,511
PATH (People Assisting the Homeless)/PATH Connections Housing | 340 North Madison Avenue | Los Angeles | 90004 | 807,441
Regional Task Force on the Homeless Inc./CoC Planning Grant 2018 | 4699 Murphy Canyon Road Suite 104 | San Diego | 92123 | 585,129
Regional Task Force on the Homeless Inc./COC Regional CAHP 2018 | 4699 Murphy Canyon Road Suite 104 | San Diego | 92123 | 707,000
Regional Task Force on the Homeless Inc./HMIS San Diego County Expansion 2018 | 4699 Murphy Canyon Road Suite 104 | San Diego | 92123 | 734,003
San Diego Housing Commission/San Diego Rapid Re Housing Program | 1122 Broadway, Suite 300 | San Diego | 92101 | 239,372
San Diego Housing Commission/SDHC Merged Grant | 1122 Broadway, Suite 300 | San Diego | 92101 | 3,566,596
San Diego Housing Commission/TAY Rapid Rehousing | 1122 Broadway, Suite 300 | San Diego | 92101 | 707,520
San Diego Housing Commission/YWCA of San Diego Rapid Re Housing Program | 1122 Broadway, Suite 300 | San Diego | 92101 | 386,730
South Bay Community Services, Inc./Casas de Luz | 430 F Street | Chula Vista | 91910 | 270,176
St. Vincent de Paul Village, Inc./Boulevard Apartments | 3350 E Street | San Diego | 92102 | 51,230
St. Vincent de Paul Village, Inc./St. Vincent de Paul Village 2015 Bonus Project | 3350 E Street | San Diego | 92102 | 1,723,829
St. Vincent de Paul Village, Inc./Village Rapid Rehousing for Families | 3350 E Street | San Diego | 92102 | 806,622
St. Vincent de Paul Village, Inc./Village Rapid Rehousing Program | 3350 E Street | San Diego | 92102 | 737,121
The Association For Community Housing Solutions, dba Housing Innovation Partners/TACHS PRIZM | 5151 Murphy Canyon Road Suite #120 | San Diego | 92123 | 469,340
The Association For Community Housing Solutions, dba Housing Innovation Partners/TACHS Unity | 5151 Murphy Canyon Road Suite #120 | San Diego | 92123 | 165,507
The Association For Community Housing Solutions, dba Housing Innovation Partners/TACHS/HIP Operations Expansion | 5151 Murphy Canyon Road Suite #120 | San Diego | 92123 | 169,161
The Salvation Army, a California Corporation/Door of Hope Rapid Rehousing Program | 2799 Health Center Drive | San Diego | 92123 | 390,637
The Salvation Army, a California Corporation/Salvation Army TH-RRH | 2799 Health Center Drive | San Diego | 92123 | 443,230
Vietnam Veterans of San Diego/Escondido Veteran Apartments | 4141 Pacific Highway | San Diego | 92110 | 242,621
Vietnam Veterans of San Diego/Joint TH & RRH for Homeless Veterans | 4141 Pacific Highway | San Diego | 92110 | 205,208
Volunteers of America Southwest CA/Focus on Housing | 3530 Camino Del Rio North Suite 300 | San Diego | 92108 | 314,390
Volunteers of America Southwest CA/Housing First | 3530 Camino Del Rio North Suite 300 | San Diego | 92108 | 324,361
YMCA of San Diego County/Turning Point | 3708 Ruffin Rd | San Diego | 92123 | 177,096
1736 Family Crisis Center/Rapid Re-housing for Homeless Veterans | 2116 Arlington Avenue, Suite 200 | Los Angeles | 90018 | 371,609
American Family Housing/Permanent Housing 2 | 15161 Jackson St | Midway City | 92655 | 518,276
American Family Housing/Permanent Housing Collaborative | 15161 Jackson St | Midway City | 92655 | 342,087
Anaheim Supportive Housing, Inc./Tyrol Plaza Senior Apartments | 891 S State College Blvd #A | Anaheim | 92806 | 148,578
Colette's Children Home, Inc./Colette's Children's Home Housing First | 7372 Prince Drive Suite 106 | Huntington Beach | 92647 | 189,238
Colette's Children Home, Inc./Colette's Children's Home-Olinda Lane | 7372 Prince Drive Suite 106 | Huntington Beach | 92647 | 107,934
Families Forward/Families Forward Rapid Re-Housing | 8 Thomas | Irvine | 92618 | 393,565
Families Forward/Families Forward Rapid Re-Housing Expansion | 8 Thomas | Irvine | 92618 | 101,512
Friendship Shelter, Inc./Henderson House Permanent Supportive Housing | 1335 South Coast Highway | Laguna Beach | 92651 | 550,552
Fullerton Interfaith Emergency Service/Rapid Re-Housing for Families | 514 W Amerige Ave | Fullerton | 92832 | 285,875
Illumination Foundation/Stanton Multi-Service Center | 1091 N Batavia St | Orange | 92867 | 406,749
Illumination Foundation/Street2Home OC Expansion | 1091 N Batavia St | Orange | 92867 | 1,727,704
Interval House/Rapid Rehousing Program | P.O. Box 3356 | Seal Beach | 90740 | 89,879
Interval House/Rapid Rehousing Program Expansion | P.O. Box 3356 | Seal Beach | 90740 | 102,016
Mercy House Living Centers/Mercy House—CoC Leasing—Renewal | P.O. Box 1905 | Santa Ana | 92702 | 451,971
Mercy House Living Centers/Mercy House—CoC-Rapid Re-Housing (JRHR) | P.O. Box 1905 | Santa Ana | 92702 | 260,018
Mercy House Living Centers/Mills End and PSH Leasing Consolidation | P.O. Box 1905 | Santa Ana | 92702 | 482,906
Mercy House Living Centers/OC PSH Collaboration Project | P.O. Box 1905 | Santa Ana | 92702 | 2,815,993
Mercy House Living Centers/OC PSH Collaboration Project II—Expansion | P.O. Box 1905 | Santa Ana | 92702 | 1,931,611
Orange County/CoC 2018 Planning Grant | 1300 S Grand | Santa Ana | 92705 | 684,222
Orange County/Coordinated Entry System SSO Grant NOFA 2018 | 1300 S Grand | Santa Ana | 92705 | 907,239
Orange County Housing Authority/#1 Consolidated Shelter Plus Care TRA 2018 Renewal Project | 1770 North Broadway | Santa Ana | 92706 | 3,589,979
Orange County Housing Authority/#2 Consolidated Continuum of Care TRA 2018 Project | 1770 North Broadway | Santa Ana | 92706 | 1,554,632
Orange County Housing Authority/#3 Consolidated Continuum of Care TRA 2018 Project | 1770 North Broadway | Santa Ana | 92706 | 2,372,281
Orange County Housing Authority/#4 Consolidated Continuum of Care TRA 2018 Project | 1770 North Broadway | Santa Ana | 92706 | 1,851,486
Orange County Housing Authority/Colette's Children's Home Shelter Plus Care TRA 2018 Renewal Project | 1770 North Broadway | Santa Ana | 92706 | 66,861
Orange County Housing Authority/Jackson Aisle Shelter Plus Care PRA 2018 Renewal Project | 1770 North Broadway | Santa Ana | 92706 | 316,318
Orange County Housing Authority/Mercy House Permanent Bonus Shelter Plus Care TRA 2018 Renewal Project | 1770 North Broadway | Santa Ana | 92706 | 257,139
People for Irvine Community Health dba 2-1-1 Orange County/HMIS Consolidated Community Support NOFA 2018 | 1505 E 17th St, Suite 108 | Santa Ana | 92705 | 650,575
Serving People In Need, Inc./CoC Rapid Re-Housing 2018 | 151 Kalmus Drive, Suite H-2 | Costa Mesa | 92626 | 437,242
Serving People In Need, Inc./CoC Rapid Re-Housing 2018 Expansion | 151 Kalmus Drive, Suite H-2 | Costa Mesa | 92626 | 107,104
County of Santa Barbara/HMIS Consolidation Renewal 2018 | 123 E Anapamu St, 2nd Floor | Santa Barbara | 93101 | 169,050
County of Santa Barbara/Santa Barbara County Coordinated Entry | 123 E Anapamu St, 2nd Floor | Santa Barbara | 93101 | 130,675
County of Santa Barbara/Santa Barbara County Planning 2018 | 123 E Anapamu St, 2nd Floor | Santa Barbara | 93101 | 50,583
Good Samaritan Shelter/Casa de Familia | 245 E, Inger Drive, Suite 103B | Santa Maria | 93456 | 76,556
Good Samaritan Shelter/Marks House Transitional Housing & RRH Project | 245 E, Inger Drive, Suite 103B | Santa Maria | 93456 | 114,197
Good Samaritan Shelter/Northern SB County Rapid Rehousing | 245 E, Inger Drive, Suite 103B | Santa Maria | 93456 | 91,836
Housing Authority of the City of Santa Barbara/2017-Shelter Plus Care, A Santa Barbara Partnership Serving the Homeless | 808 Laguna Street | Santa Barbara | 93101 | 846,288
Housing Authority of the City of Santa Barbara/Artisan Bradley Consolidated Application | 808 Laguna Street | Santa Barbara | 93101 | 105,655
NBCC/New Beginnings RRH | 324 E Carrillo Street Suite C | Santa Barbara | 93101 | 103,787
PATH (People Assisting the Homeless)/PATH Santa Barbara PH-RRH | 340 North Madison Avenue | Los Angeles | 90004 | 112,433
Santa Barbara Community Housing Corp./Hotel de Riviera Permanent Supportive Housing FY2018 | 11 E Haley Street | Santa Barbara | 93101 | 79,444
Santa Barbara County Department of Behavioral Wellness/Casa del Mural | 300 N San Antonio Rd N/A | Santa Barbara | 93110 | 115,315
Alliance Against Family Violence and Sexual Assault/Alliance Transitional Housing Project | 1921 19th Street | Bakersfield | 93301 | 133,139
Bethany Services, Inc. dba Bakersfield Homeless Center/A Way Home | 1600 East Truxtun Ave | Bakersfield | 93305 | 386,810
Bethany Services, Inc. dba Bakersfield Homeless Center/BHC Rapid Rehousing Project | 1600 East Truxtun Ave | Bakersfield | 93305 | 100,924
Bethany Services, Inc. dba Bakersfield Homeless Center/Casa Nueva II Placement and Supportive Services | 1600 East Truxtun Ave | Bakersfield | 93305 | 48,500
Bethany Services, Inc. dba Bakersfield Homeless Center/Casa Nueva III Placement and Supportive Services | 1600 East Truxtun Ave | Bakersfield | 93305 | 66,463
Bethany Services, Inc. dba Bakersfield Homeless Center/Casa Nueva Placement and Supportive Services | 1600 East Truxtun Ave | Bakersfield | 93305 | 45,858
Bethany Services, Inc. dba Bakersfield Homeless Center/Rapid Rehousing Project I | 1600 East Truxtun Ave | Bakersfield | 93305 | 121,805
Clinca Sierra Vista, Inc./Homeless Most Vulnerable Project | P.O. Box 1559 | Bakersfield | 93302 | 136,468
Clinca Sierra Vista, Inc./Sebastian House HIV/AIDS Homeless Project | P.O. Box 1559 | Bakersfield | 93302 | 99,098
Community Action Partnership of Kern/Coordinated Entry System | 5005 Business Park North | Bakersfield | 93309 | 236,838
Flood Bakersfield Ministries, Inc./Project Home | 601 24th Street, Suite #C | Bakersfield | 93301 | 94,263
Greater Bakersfield Legal Assistance, Inc. (GBLA)/Community Homeless Law Center Project | 615 California Ave | Bakersfield | 93304 | 117,643
Housing Authority of the County of Kern/Casa Bella | 601 24th Street | Bakersfield | 93301 | 413,480
Housing Authority of the County of Kern/El Programa Dulce Hogar | 601 24th Street | Bakersfield | 93301 | 2,499,622
Housing Authority of the County of Kern/PSB Consolidated | 601 24th Street | Bakersfield | 93301 | 1,164,563
Kern Behavioral Health & Recovery Services/KCMH-HMIS | 2001 28th Street | Bakersfield | 93301 | 80,409
United Way of Kern County/FY 18 Planning Project | 5405 Stockdale Highway Suite 200 | Bakersfield | 93309 | 175,575
City of Long Beach CA 606/Advance | 1301 W 12th Street | Long Beach | 90813 | 224,843
City of Long Beach CA 606/Cabrillo Plaza PHD | 1301 W 12th Street | Long Beach | 90813 | 397,668
City of Long Beach CA 606/CH Healthy Homes | 1301 W 12th Street | Long Beach | 90813 | 380,948
City of Long Beach CA 606/CHAMPS | 1301 W 12th Street | Long Beach | 90813 | 299,503
City of Long Beach CA 606/Domestic Violence | 1301 W 12th Street | Long Beach | 90813 | 489,879
City of Long Beach CA 606/Domestic Violence Shelter | 1301 W 12th Street | Long Beach | 90813 | 168,270
City of Long Beach CA 606/Family Commons | 1301 W 12th Street | Long Beach | 90813 | 725,807
City of Long Beach CA 606/Harbor PSH | 1301 W 12th Street | Long Beach | 90813 | 385,333
City of Long Beach CA 606/Homeless Assistance Program | 1301 W 12th Street | Long Beach | 90813 | 226,963
City of Long Beach CA 606/Homeless Management Information System HMIS | 1301 W 12th Street | Long Beach | 90813 | 332,030
City of Long Beach CA 606/It's a New Day | 1301 W 12th Street | Long Beach | 90813 | 358,691
City of Long Beach CA 606/Long Beach CoC Planning | 1301 W 12th Street | Long Beach | 90813 | 234,059
City of Long Beach CA 606/Long Beach CoC UFA | 1301 W 12th Street | Long Beach | 90813 | 156,039
City of Long Beach CA 606/MSC | 1301 W 12th Street | Long Beach | 90813 | 842,737
City of Long Beach CA 606/Rapid Rehousing | 1301 W 12th Street | Long Beach | 90813 | 298,380
City of Long Beach CA 606/SPC 05 CH | 1301 W 12th Street | Long Beach | 90813 | 122,010
City of Long Beach CA 606/SPC 95/00 | 1301 W 12th Street | Long Beach | 90813 | 619,808
City of Long Beach CA 606/SPC 96/99 | 1301 W 12th Street | Long Beach | 90813 | 227,320
City of Long Beach CA 606/Street to Home | 1301 W 12th Street | Long Beach | 90813 | 1,275,875
City of Long Beach CA 606/Transition in Place—Families | 1301 W 12th Street | Long Beach | 90813 | 230,137
City of Long Beach CA 606/Transition in Place—Youth | 1301 W 12th Street | Long Beach | 90813 | 221,888
City of Long Beach CA 606/Veterans in Progress VIP | 1301 W 12th Street | Long Beach | 90813 | 249,665
City of Pasadena/2018 CES | 649 N Fair Oaks Ave, Suite 202 | Pasadena | 91103 | 124,423
City of Pasadena/2018 CHOISS | 649 N Fair Oaks Ave, Suite 202 | Pasadena | 91103 | 175,355
City of Pasadena/2018 Euclid Villa | 649 N Fair Oaks Ave, Suite 202 | Pasadena | 91103 | 183,407
City of Pasadena/2018 Hestia House | 649 N Fair Oaks Ave, Suite 202 | Pasadena | 91103 | 262,516
City of Pasadena/2018 HMIS | 649 N Fair Oaks Ave, Suite 202 | Pasadena | 91103 | 140,378
City of Pasadena/2018 HMIS Expansion | 649 N Fair Oaks Ave, Suite 202 | Pasadena | 91103 | 85,000
City of Pasadena/2018 Holly Street Housing | 649 N Fair Oaks Ave, Suite 202 | Pasadena | 91103 | 940,997
City of Pasadena/2018 Navarro House | 649 N Fair Oaks Ave, Suite 202 | Pasadena | 91103 | 46,226
City of Pasadena/2018 Shelter Plus Care | 649 N Fair Oaks Ave, Suite 202 | Pasadena | 91103 | 857,170
City of Pasadena/2018 Shelter Plus Care Consolidated | 649 N Fair Oaks Ave, Suite 202 | Pasadena | 91103 | 356,585
City of Pasadena/2018 Step Up | 649 N Fair Oaks Ave, Suite 202 | Pasadena | 91103 | 150,221
City of Pasadena/2018 Union Station DV-SSO | 649 N Fair Oaks Ave, Suite 202 | Pasadena | 91103 | 144,511
City of Pasadena/CA-607 CoC Planning Application FY2018 | 649 N Fair Oaks Ave, Suite 202 | Pasadena | 91103 | 94,898
County of Riverside/Behavioral Health Coachella Valley Permanent Housing | 4060 County Circle Drive | Riverside | 92503 | 499,496
County of Riverside/Behavioral Health HHOPE Consolidated Permanent Housing | 4060 County Circle Drive | Riverside | 92503 | 485,130
County of Riverside/Behavioral Health Men's Permanent Housing | 4060 County Circle Drive | Riverside | 92503 | 128,286
County of Riverside/Behavioral Health Riverside Permanent Housing | 4060 County Circle Drive | Riverside | 92503 | 360,127
County of Riverside/City of Riverside PSH Chronically Homeless | 4060 County Circle Drive | Riverside | 92503 | 126,264
County of Riverside/City of Riverside PSH for Disabled | 4060 County Circle Drive | Riverside | 92503 | 124,285
County of Riverside/County of Riverside CES Project | 4060 County Circle Drive | Riverside | 92503 | 500,000
County of Riverside/County of Riverside Planning FY2018 | 4060 County Circle Drive | Riverside | 92503 | 352,157
County of Riverside/DV Bonus CES | 4060 County Circle Drive | Riverside | 92503 | 250,000
County of Riverside/HMIS Consolidated | 4060 County Circle Drive | Riverside | 92503 | 344,072
County of Riverside/Housing Authority PSH Consolidation | 4060 County Circle Drive | Riverside | 92503 | 995,913
County of Riverside/JFSSD PSH Consolidation | 4060 County Circle Drive | Riverside | 92503 | 1,647,760
County of Riverside/LightHouse Riverside PSH | 4060 County Circle Drive | Riverside | 92503 | 328,302
County of Riverside/Lighthouse SSC Permanent Housing for Disabled Women with Children | 4060 County Circle Drive | Riverside | 92503 | 233,891
County of Riverside/Lighthouse SSC Rapid Rehousing | 4060 County Circle Drive | Riverside | 92503 | 258,690
County of Riverside/Path of Life PSH | 4060 County Circle Drive | Riverside | 92503 | 1,297,890
County of Riverside/Path of Life Rapid Rehousing | 4060 County Circle Drive | Riverside | 92503 | 338,913
County of Riverside/POLM RRH East County | 4060 County Circle Drive | Riverside | 92503 | 371,386
County of Riverside/Shelter Plus Care Project Based w/OSH | 4060 County Circle Drive | Riverside | 92503 | 71,435
County of Riverside/Stepping Up in Riverside | 4060 County Circle Drive | Riverside | 92503 | 874,885
County of Riverside/Stepping Up in Riverside Bonus | 4060 County Circle Drive | Riverside | 92503 | 517,921
County of San Bernardino/FY 2018—HMIS-Renewal | 303 E Vanderbilt Way | San Bernardino | 92415 | 250,158
County of San Bernardino/FY 2018—Planning Grant | 303 E Vanderbilt Way | San Bernardino | 92415 | 373,831
Housing Authority of the County of San Bernardino/Cornerstone | 715 E Brier Drive | San Bernardino | 92408 | 392,891
Housing Authority of the County of San Bernardino/Lantern Woods | 715 E Brier Drive | San Bernardino | 92408 | 220,126
Housing Authority of the County of San Bernardino/Laurelbrook Estates | 715 E Brier Drive | San Bernardino | 92408 | 361,188
Housing Authority of the County of San Bernardino/New Horizon | 715 E Brier Drive | San Bernardino | 92408 | 1,882,272
Housing Authority of the County of San Bernardino/Project Gateway | 715 E Brier Drive | San Bernardino | 92408 | 178,086
Housing Authority of the County of San Bernardino/Stepping Stones | 715 E Brier Drive | San Bernardino | 92408 | 334,799
Housing Authority of the County of San Bernardino/Whispering Pines | 715 E Brier Drive | San Bernardino | 92408 | 190,493
Inland Empire United Way/Pathways Home—Coordinated Entry System 2018 | 9644 Hermosa Avenue | Rancho Cucamonga | 91730 | 403,136
Inland Temporary Homes dba Inland Housing Solutions/Infinite Horizons—RRH FY 2018 | P.O. Box 239 | Loma Linda | 92354 | 511,366
Inland Valley Council of Churches/Hope Partners' Family Stabilization Program | 1753 N Park Ave | Pomona | 91768 | 138,533
Knowledge, Education for Your Success, Inc./KEYS for Life | 680 S Waterman Avenue | San Bernardino | 92408 | 236,425
Knowledge, Education for Your Success, Inc./KEYS for Success | 680 S Waterman Avenue | San Bernardino | 92408 | 279,624
LightHouse Social Service Centers/Hope For Heroes 2 FY 2018 | 1003 E Cooley Drive, Suite #205 | Colton | 92324 | 330,835
LightHouse Social Service Centers/Hope For Heroes FY 2018 | 1003 E Cooley Drive, Suite #205 | Colton | 92324 | 490,878
Lutheran Social Services of Southern California/Permanent Housing for Homeless with HIV/AIDS | 435 W Orange Show Lane Suite 104 | San Bernardino | 92408 | 76,700
New Hope Village, Inc./New Hope, Too! 2018 | 100 West Fredricks | Barstow | 92311 | 39,344
Step Up on Second Street, Inc./Step Up San Bernardino Consolidated Project | 1328 Second St | Santa Monica | 90401 | 2,059,332
Time for Change Foundation/Homes of Hope | 2164 N Mountain View | San Bernardino | 92405 | 363,162
United States Veterans Initiative/U.S.VETS SB PH Renewal Project Application FY2018 | 15105 6th Street | Riverside | 92518 | 1,028,277
County of Ventura/LSS It's A New Day RRH 2018 | 800 South Victoria Avenue L#1940 | Ventura | 93009 | 180,863
County of Ventura/Oxnard/East County and Santa Paula CoC Consolidated | 1911 Williams Drive, Suite 200 | Oxnard | 93036 | 334,865
County of Ventura/SVDPLA CoC RRH 2018 | 800 South Victoria Avenue L#1940 | Ventura | 93009 | 42,990
County of Ventura/VC CoC FY18 Planning Grant | 800 South Victoria Avenue L#1940 | Ventura | 93009 | 109,871
County of Ventura Human Services Agency/Choices Permanent Supportive Housing | 855 Partridge Drive | Ventura | 93003 | 359,979
County of Ventura Human Services Agency/HMIS Expansion-Coordinated Entry System Implementation | 855 Partridge Drive | Ventura | 93003 | 150,000
County of Ventura Human Services Agency/Ventura County Homeless Management Information System Program | 855 Partridge Drive | Ventura | 93003 | 90,778
County of Ventura Human Services Agency/Ventura County Rapid Re-Housing Program | 855 Partridge Drive | Ventura | 93003 | 81,829
Housing Authority of the City of San Buenaventura/Housing Authority of the San Buenaventura | 995 Riverside Street | Ventura | 93001 | 98,169
Many Mansions, a California nonprofit corporation/MM Supportive Housing—Simi Valley | 1259 E Thousand Oaks Blvd | Thousand Oaks | 91362 | 128,714
Many Mansions, a California nonprofit corporation/MM Supportive Housing—Thousand Oaks/Oxnard | 1259 E Thousand Oaks Blvd | Thousand Oaks | 91362 | 166,945
The Salvation Army, a California corporation/The Salvation Army CAS Division Ventura PSH | 180 East Ocean Boulevard, Suite 500 | Long Beach | 90802 | 132,374
Turning Point Foundation/Our Place Safe Haven 2018 | 557 East Thompson Blvd | Ventura | 93001 | 168,977
Turning Point Foundation/Rapid Re-Housing 2018 | 557 East Thompson Blvd | Ventura | 93001 | 140,044
Turning Point Foundation/Stephenson Place Permanent Housing 2018 | 557 East Thompson Blvd | Ventura | 93001 | 30,280
Turning Point Foundation/Wooley House Permanent Housing I 2018 | 557 East Thompson Blvd | Ventura | 93001 | 39,566
Turning Point Foundation/Wooley House Permanent Housing II 2018 | 557 East Thompson Blvd | Ventura | 93001 | 34,234
City of Glendale/Glendale Housing Authority/1998 and 1999 Shelter Plus Care Project | 613 East Broadway Room 120 | Glendale | 91206 | 347,485
City of Glendale/Glendale Housing Authority/2001 Shelter Plus Care Project | 613 East Broadway Room 120 | Glendale | 91206 | 182,500
City of Glendale/Glendale Housing Authority/2005 Shelter Plus Care Project | 613 East Broadway Room 120 | Glendale | 91206 | 127,781
City of Glendale/Glendale Housing Authority/2011 Shelter Plus Care Project | 613 East Broadway Room 120 | Glendale | 91206 | 59,954
City of Glendale/Glendale Housing Authority/Ascencia Housing Now Program | 613 East Broadway Room 120 | Glendale | 91206 | 374,856
City of Glendale/Glendale Housing Authority/Ascencia Scattered Site Permanent Supportive Housing Program | 613 East Broadway Room 120 | Glendale | 91206 | 211,929
City of Glendale/Glendale Housing Authority/CES Reallocation 2018 | 613 East Broadway Room 120 | Glendale | 91206 | 620,951
City of Glendale/Glendale Housing Authority/Chester Street Permanent Supportive Housing Program | 613 East Broadway Room 120 | Glendale | 91206 | 81,187
City of Glendale/Glendale Housing Authority/CoC Planning Project Application FY 2018 | 613 East Broadway Room 120 | Glendale | 91206 | 70,422
City of Glendale/Glendale Housing Authority/Family Promise of the Verdugos Rapid Re Housing Program | 613 East Broadway Room 120 | Glendale | 91206 | 109,440
City of Glendale/Glendale Housing Authority/Glendale HMIS Project | 613 East Broadway Room 120 | Glendale | 91206 | 88,577
City of Glendale/Glendale Housing Authority/Next Step Permanent Supportive Housing Project | 613 East Broadway Room 120 | Glendale | 91206 | 174,318
Catholic Charities, Diocese of San Diego/IV CAP II 2018 | 3888 Paducah Drive | San Diego | 92117 | 44,000
Catholic Charities, Diocese of San Diego/IV Planning Grant 2018 | 3888 Paducah Drive | San Diego | 92117 | 18,102
WomanHaven/WomanHaven Rapid Rehousing 2019-2020 | 510 W Main Street, Suite 106 | El Centro | 92243 | 121,691
San Luis Obispo County/Bordeaux North County Expansion | 976 Osos Street, Room 300 | San Luis Obispo | 93408 | 59,126
San Luis Obispo County/CA-614 CoC Planning Application FY2018 | 976 Osos Street, Room 300 | San Luis Obispo | 93408 | 40,304
San Luis Obispo County/Coordinated Entry Program | 976 Osos Street, Room 300 | San Luis Obispo | 93408 | 220,554
San Luis Obispo County/HMIS | 976 Osos Street, Room 300 | San Luis Obispo | 93408 | 61,160
San Luis Obispo County/North Coastal Permanent Supportive Housing | 976 Osos Street, Room 300 | San Luis Obispo | 93408 | 335,832
San Luis Obispo County/SLO City Permanent Housing | 976 Osos Street, Room 300 | San Luis Obispo | 93408 | 263,021
Colorado Coalition for the Homeless/Balance of State HMIS Implementation Project | 2111 Champa Street | Denver | 80205 | 60,622
Colorado Coalition for the Homeless/Balance of State HMIS Project 2018 | 2111 Champa Street | Denver | 80205 | 82,507
Colorado Coalition for the Homeless/CO-500 CoC Planning Application FY2018 | 2111 Champa Street | Denver | 80205 | 98,389
Colorado Coalition for the Homeless/Eagle Rapid Rehousing Program | 2111 Champa Street | Denver | 80205 | 133,068
Colorado Coalition for the Homeless/Fremont/Custer/Chaffee Rapid Rehousing Program | 2111 Champa Street | Denver | 80205 | 187,925
Colorado Coalition for the Homeless/Garfield Rapid Rehousing Program | 2111 Champa Street | Denver | 80205 | 137,617
Colorado Coalition for the Homeless/Morgan/Logan Rapid Rehousing Program | 2111 Champa Street | Denver | 80205 | 145,845
Colorado Coalition for the Homeless/Northern Front Range Rapid Rehousing Program | 2111 Champa Street | Denver | 80205 | 279,558
Colorado Coalition for the Homeless/Pueblo Permanent Supportive Housing Program | 2111 Champa Street | Denver | 80205 | 101,765
Colorado Coalition for the Homeless/Pueblo Rapid Rehousing Program | 2111 Champa Street | Denver | 80205 | 112,146
Colorado Coalition for the Homeless/Southwest Colorado Rapid Rehousing Program | 2111 Champa Street | Denver | 80205 | 139,878
Colorado Coalition for the Homeless/Trinidad Transitional Housing Program | 2111 Champa Street | Denver | 80205 | 47,989
Divison of Housing/DOH—Balance of State PSH | 1313 Sherman St, Room 500 | Denver | 80203 | 617,354
Fort Collins Housing Authority/Renewal Project Application FY2018 | 1715 West Mountain Avenue | Fort Collins | 80521 | 302,193
Grand Valley Catholic Outreach.Inc./Catholic Outreach Rapid Rehousing | 245 S 1st Street | Grand Junction | 81501 | 100,362
Grand Valley Catholic Outreach.Inc./St Benedict Permanent Housing | 245 S 1st Street | Grand Junction | 81501 | 222,279
Grand Valley Catholic Outreach.Inc./St Martin Permanent Housing | 245 S 1st Street | Grand Junction | 81501 | 95,275
Greeley Center for Independence, Inc./Stephens Brain Injury Campus | 2780 28th Avenue | Greeley | 80634 | 35,998
North Range Behavioral Health/Harmony Way Permanent Housing Project | 1300 N 17th Ave | Greeley | 80631 | 120,550
SummitStone Health Partners (formerly Touchstone Health Partners and Larimer Center for Mental Health)/Permanent Supportive Housing in Loveland FY 2018 | 125 Crestridge | Fort Collins | 80526 | 61,064
Aurora Comprehensive Community Mental Health Center/Aurora@Home Rapid Rehousing | 11059 E Bethany Drive, Suite 200 | Aurora | 80014 | 392,572
Boulder County Housing Authority/Boulder County CoC Rapid-Rehousing Program | P.O. Box 471 | Boulder | 80306 | 701,834
City and County of Denver—Department of Human Services/Anchor FY2018 | 1200 Federal Blvd | Denver | 80204 | 275,154
City and County of Denver—Department of Human Services/Back Home Rapid Re-Housing FY2018 | 1200 Federal Blvd | Denver | 80204 | 208,104
City and County of Denver—Department of Human Services/Bedrock FY2018 | 1200 Federal Blvd | Denver | 80204 | 629,750
City and County of Denver—Department of Human Services/Spectrum FY2018 | 1200 Federal Blvd | Denver | 80204 | 885,958
Colorado Coalition for the Homeless/CCH Combined Permanent Supportive Housing Project | 2111 Champa Street | Denver | 80205 | 1,938,532
Colorado Coalition for the Homeless/Consolidated Rapid Rehousing Project | 2111 Champa Street | Denver | 80205 | 4,514,774
Colorado Coalition for the Homeless/Lowry Permanent Supportive Housing Project | 2111 Champa Street | Denver | 80205 | 125,045
Colorado Coalition for the Homeless/MDCHC Housing First Combined | 2111 Champa Street | Denver | 80205 | 5,350,748
Colorado Coalition for the Homeless/Ruth Goebel House | 2111 Champa Street | Denver | 80205 | 106,365
Del Norte Neighborhood Development Corporation/HAWCCO0099L8T031704 | 3275 west 14th avenue, #202 | Denver | 80204 | 261,306
Del Norte Neighborhood Development Corporation/Juan Diego CO0094L8T031708 | 3275 west 14th avenue, #202 | Denver | 80204 | 158,446
Divison of Housing/DOH Consolidated PSH MDHI | 1313 Sherman St, Room 500 | Denver | 80203 | 6,674,506
Family Tree, Inc./Brookview/PCH | 3805 Marshall Street | Wheat Ridge | 80033 | 667,289
Family Tree, Inc./Home at Last | 3805 Marshall Street | Wheat Ridge | 80033 | 581,374
Metro Denver Homeless Initiative/CO-503 CoC Planning Application FY2018 | 711 Park Avenue West, Suite 320 | Denver | 80205 | 737,245
Metro Denver Homeless Initiative/HMIS Metro Denver | 711 Park Avenue West, Suite 320 | Denver | 80205 | 200,032
Metro Denver Homeless Initiative/HMIS Metro Denver 2 | 711 Park Avenue West, Suite 320 | Denver | 80205 | 554,778
St Francis Center/Cornerstone | 2323 Curtis St | Denver | 80205 | 146,622
The Housing Authority City Boulder dba Boulder Housing Partn/PSH Consolidated Projects | 4800 Broadway | Boulder | 80304 | 578,070
Volunteers of America Colorado Branch/Irving Street Women's Residence | 2660 Larimer Street | Denver | 80205 | 292,544
Volunteers of America Colorado Branch/Survivors Housing Program | 2660 Larimer Street | Denver | 80205 | 354,041
Volunteers of America Colorado Branch/Youth Transitions Project | 2660 Larimer Street | Denver | 80205 | 860,762
Ascending to Health Respite Care, Inc./ATH Permanent Housing—CO0121 2018 | 723 North Weber St | Colorado Springs | 80903 | 41,851
Ascending to Health Respite Care, Inc./ATH Permanent Housing—CO0149-2018 | 723 North Weber St | Colorado Springs | 80903 | 39,666
Colorado Springs Housing Authority/CO 504 REN PH TRA 2018 | 831 South Nevada Avenue | Colorado Springs | 80901 | 109,961
Community Health Partnership/CO-504 Planning Project Application FY18 | 6005 Delmonico Dr | Colorado Springs | 80919 | 72,038
Community Health Partnership/Coordinated Entry | 6005 Delmonico Dr | Colorado Springs | 80919 | 90,000
Community Health Partnership/Dedicated HMIS Project 2018 | 6005 Delmonico Dr | Colorado Springs | 80919 | 239,943
Divison of Housing/DOH—Pikes Peak Youth Bonus Project | 1313 Sherman St., Room 500 | Denver | 80203 | 142,552
Divison of Housing/DOH Consolidated PSH Colorado Springs | 1313 Sherman St., Room 500 | Denver | 80203 | 679,180
Homeward Pikes Peak/hf consolidated fy2018 | 606 S Tejon St | Colorado Springs | 80903 | 460,727
Homeward Pikes Peak/vsh FY2018 | 606 S Tejon St | Colorado Springs | 80903 | 199,134
Partners in Housing, Inc./CoC Family Rapid ReHousing Project | 455 Gold Pass Heights N/A | Colorado Springs | 80906 | 67,747
Urban Peak Colorado Springs/PSH 1 2018 Application | 423 E Cucharras Street | Colorado Springs | 80903 | 120,631
Urban Peak Colorado Springs/PSH 2 2018 Application | 423 E Cucharras Street | Colorado Springs | 80903 | 79,642
Urban Peak Colorado Springs/RRH 2018 Application | 423 E Cucharras Street | Colorado Springs | 80903 | 23,240
Urban Peak Colorado Springs/TH 2018 | 423 E Cucharras Street | Colorado Springs | 80903 | 41,389
Alpha Home Inc/CT0239 Alpha Home Inc. (Jessica Tandy Apartments) | 387 Clinton Avenue | Bridgeport | 06605 | 124,843
Applied Behavioral Rehabilitation Institute, Inc./CT0050 Waldorf House Supportive Housing Program | 655 Park Avenue | Bridgeport | 06604 | 94,207
Catholic Charities of Fairfield County, Inc./CT0044 PHD Supportive Housing Renewal 2018 | 238 Jewett Avenue | Bridgeport | 06606 | 401,198
Connecticut Department of Housing/CT0288ODFC CAN-SSO 2017 | 505 Hudson Street 2nd Floor | Hartford | 06106 | 70,000
Connecticut Department of Housing/CT0288ODFC CAN-SSO 2017 | 505 Hudson Street 2nd Floor | Hartford | 06106 | 293,006
Connecticut Department of Housing/CT0301 Expansion ODFC RRH 2018 Bonus Project | 505 Hudson Street 2nd Floor | Hartford | 06106 | 437,134
Connecticut Department of Housing/CT0301 ODFC RRH | 505 Hudson Street 2nd Floor | Hartford | 06106 | 614,167
Connecticut Department of Housing/DOH CCADV ODFC RRH project | 505 Hudson Street 2nd Floor | Hartford | 06106 | 372,258
Connecticut Department of Housing/ODFC Permanent Housing and Services Bonus 2018 | 505 Hudson Street 2nd Floor | Hartford | 06106 | 187,773
CT Department of Mental Health and Addiction Services/CT0034 Bridgeport Crescent and Fairfield Apartments | 410 Capitol Avenue MS# 14 HOU P.O. Box 341431 | Hartford | 06134 | 356,983
CT Department of Mental Health and Addiction Services/CT0035 Fairfield County Rental Assistance | 410 Capitol Avenue MS# 14 HOU P.O. Box 341431 | Hartford | 06134 | 2,379,738
CT Department of Mental Health and Addiction Services/CT0104 Stamford Atlantic and Colony Apartments | 410 Capitol Avenue MS# 14 HOU P.O. Box 341431 | Hartford | 06134 | 411,209
CT Department of Mental Health and Addiction Services/CT0285 ODFC PSH | 410 Capitol Avenue MS# 14 HOU P.O. Box 341431 | Hartford | 06134 | 1,727,551
Emerge, Inc./CT0244 Emerge 1 | P.O. Box 1190 | Stratford | 06615 | 46,701
Family and Children's Agency/CT0254 Consolidated Supportive Housing Program | 9 Mott Ave | Norwalk | 06850 | 356,616
Inspirica, Inc./CT0099 Family Transitional Living Program | 141 Franklin Street | Stamford | 06901 | 392,895
Inspirica, Inc./CT0166 Rose Park Apartments Consolidated | 141 Franklin Street | Stamford | 06901 | 65,978
Laurel House, Inc./CT0101 Consolidated Partners 2/3 | 1616 Washington Blvd | Stamford | 06902 | 149,062
Micah Housing, Inc./CT0047 Hope Supportive Housing | 636 Old Post Road | Fairfield | 06824 | 166,133
Mid Fairfield AIDS Project, Inc./CT0084 MFAP Ind Liv #1 and #2 Consolidated 2018 | 618 West Avenue | Norwalk | 06850 | 195,061
Open Door Shelter/CT0079 129 South Main St | 4 Merritt | Norwalk | 06854 | 51,261
Operation Hope of Fairfield, Inc. /PSH Reallocation Seaview Hope 4 | 636 Old Post Road | Fairfield | 06824 | 344,720
Shelter for the Homeless, Inc./CT0096 Berkeley House FY19-20 Consolidation | 137 Henry Street Suite 205 | Stamford | 06902 | 210,576
St. Vincent's Medical Center/CT0041_SVMC_Bridgeport SHP_2018 | 47 Long Lots Road | Westport | 06880 | 1,017,162
St. Vincent's Medical Center/CT0083_SVMC_Norwalk SHP_2018 | 47 Long Lots Road | Westport | 06880 | 332,829
The Connection, Inc/CT0048 Supportive Housing Fairfield County | 100 Roscommon Drive Suite 203 | Middletown | 06457 | 150,641
United Way of Coastal Fairfield County/CoC Planning Project FY2018 | 855 Main Street, 10th FL | Bridgeport | 06604 | 307,503
United Way of Coastal Fairfield County/CT0082—CT-503 HMIS FY 2018 | 855 Main Street, 10th FL | Bridgeport | 06604 | 163,791
United Way of Coastal Fairfield County/CT0226 Fairfield County Rapid Rehousing 2018 | 855 Main Street, 10th FL | Bridgeport | 06604 | 46,366
Alliance for Living/Alliance for Living—Supportive Housing Program FY 2018 | 154 Broad Street | New London | 06320 | 149,964
Bethsaida Community, Inc./Flora O'Neil Apartments | 120 Cliff Street | Norwich | 06360 | 90,978
Chrysalis Center, Inc./Family Matters CT0064 | 255 Homestead Avenue | Hartford | 06112 | 217,012
Chrysalis Center, Inc./St. Philip House Permanent Housing Program CT0191 | 255 Homestead Ave | Hartford | 06112 | 169,532
Columbus House, Inc/CHI Consolidated SHP FY 2018 | 586 Ella Grasso Boulevard | New Haven | 06519 | 853,397
Community Renewal Team, Inc./CRT PSH Consolidated | 555 Windsor Street | Hartford | 06120 | 821,800
Community Renewal Team, Inc./H-PASS RRH 2019-2020 | 555 Windsor Street | Hartford | 06120 | 592,412
Community Renewal Team, Inc./Project Teach 2019-2020 | 555 Windsor Street | Hartford | 06120 | 482,584
Connecticut Coalition to End Homelessness/CT HMIS-BOS 2018 (CT0063) | 257 Lawrence Street | Hartford | 06106 | 145,891
Connecticut Coalition to End Homelessness/Greater Hartford HMIS 2018 (CT0293) | 257 Lawrence Street | Hartford | 06106 | 122,740
Connecticut Department of Housing/Coordinated Access Network DOH 211 | 505 Hudson Street 2nd Floor | Hartford | 06106 | 289,304
Connecticut Department of Housing/Coordinated Access Network SSO | 505 Hudson Street 2nd Floor | Hartford | 06106 | 98,171
Connecticut Department of Housing/CT BOS RRH bonus 2016 | 505 Hudson Street 2nd Floor | Hartford | 06106 | 839,742
Connecticut Department of Housing/CT BOS RRH bonus 2018 | 505 Hudson Street 2nd Floor | Hartford | 06106 | 712,425
Connecticut Department of Housing/DOH CCADV BOS RRH project | 505 Hudson Street 2nd Floor | Hartford | 06106 | 1,373,318
Connecticut Department of Housing/Mercy RRH Reallocation | 505 Hudson Street 2nd Floor | Hartford | 06106 | 82,775
Connecticut Department of Housing/New Reach Rapid Rehousing DOH | 505 Hudson Street 2nd Floor | Hartford | 06106 | 105,670
Connecticut Department of Housing/Permanent Supportive Housing 1 | 505 Hudson Street 2nd Floor | Hartford | 06106 | 809,427
Connecticut Department of Housing/Youth Continuum Supportive Housing Project | 505 Hudson Street 2nd Floor | Hartford | 06106 | 223,388
CREDO Housing Development Corp. Inc./1569 Thomaston Avenue | 1569 Thomaston Avenue | Waterbury | 06704 | 60,889
CT Department of Mental Health and Addiction Services/BOS Planning Grant | 410 Capitol Avenue MS# 14 HOU P.O. Box 341431 | Hartford | 06134 | 1,028,111
CT Department of Mental Health and Addiction Services/CT0011 New Haven Columbus House Sojourners | 410 Capitol Avenue MS# 14 HOU P.O. Box 341431 | Hartford | 06134 | 220,101
CT Department of Mental Health and Addiction Services/CT0012 New Haven Lucht Hall | 410 Capitol Avenue MS# 14 HOU P.O. Box 341431 | Hartford | 06134 | 132,923
CT Department of Mental Health and Addiction Services/CT0013 New Haven Cedar Hill | 410 Capitol Avenue MS# 14 HOU P.O. Box 341431 | Hartford | 06134 | 159,407
CT Department of Mental Health and Addiction Services/CT0022 Greater Hartford Rental Assistance Consolidated | 410 Capitol Avenue MS# 14 HOU P.O. Box 341431 | Hartford | 06134 | 2,282,383
CT Department of Mental Health and Addiction Services/CT0023 Hartford Mary Seymour Place | 410 Capitol Avenue MS# 14 HOU P.O. Box 341431 | Hartford | 06134 | 177,917
CT Department of Mental Health and Addiction Services/CT0052 Middletown Liberty Commons | 410 Capitol Avenue MS# 14 HOU P.O. Box 341431 | Hartford | 06134 | 183,153
CT Department of Mental Health and Addiction Services/CT0053 Middletown The Connection | 410 Capitol Avenue MS# 14 HOU P.O. Box 341431 | Hartford | 06134 | 159,533
CT Department of Mental Health and Addiction Services/CT0054 Middletown Rental Assistance | 410 Capitol Avenue MS# 14 HOU P.O. Box 341431 | Hartford | 06134 | 255,464
CT Department of Mental Health and Addiction Services/CT0061 Intercommunity Casa Hope | 410 Capitol Avenue MS# 14 HOU P.O. Box 341431 | Hartford | 06134 | 273,403
CT Department of Mental Health and Addiction Services/CT0062 BHCare Rental Assistance | 410 Capitol Avenue MS# 14 HOU P.O. Box 341431 | Hartford | 06134 | 469,527
CT Department of Mental Health and Addiction Services/CT0066 Greater Hartford Chrysalis Rental Assistance | 410 Capitol Avenue MS# 14 HOU P.O. Box 341431 | Hartford | 06134 | 1,034,839
CT Department of Mental Health and Addiction Services/CT0070 Meriden Wallingford Rushford Rental Assistance | 410 Capitol Avenue MS# 14 HOU P.O. Box 341431 | Hartford | 06134 | 529,304
CT Department of Mental Health and Addiction Services/CT0073 Manchester CHR Rental Assistance | 410 Capitol Avenue MS# 14 HOU P.O. Box 341431 | Hartford | 06134 | 311,478
CT Department of Mental Health and Addiction Services/CT0076 Windham United Services Rental Assistance | 410 Capitol Avenue MS# 14 HOU P.O. Box 341431 | Hartford | 06134 | 109,766
CT Department of Mental Health and Addiction Services/CT0077 Windham United Services Brick Row | 410 Capitol Avenue MS# 14 HOU P.O. Box 341431 | Hartford | 06134 | 132,063
CT Department of Mental Health and Addiction Services/CT0089 Norwich New London Rental Assistance | 410 Capitol Avenue MS# 14 HOU P.O. Box 341431 | Hartford | 06134 | 502,792
CT Department of Mental Health and Addiction Services/CT0129 New Haven Safe Haven | 410 Capitol Avenue MS# 14 HOU P.O. Box 341431 | Hartford | 06134 | 162,305
CT Department of Mental Health and Addiction Services/CT0131 Hartford Hudson View Commons | 410 Capitol Avenue MS# 14 HOU P.O. Box 341431 | Hartford | 06134 | 129,527
CT Department of Mental Health and Addiction Services/CT0135 Hartford Chrysalis Soromundi Commons | 410 Capitol Avenue MS# 14 HOU P.O. Box 341431 | Hartford | 06134 | 189,779
CT Department of Mental Health and Addiction Services/CT0139 Hartford Chrysalis Supportive Housing for Veterans | 410 Capitol Avenue MS# 14 HOU P.O. Box 341431 | Hartford | 06134 | 314,364
CT Department of Mental Health and Addiction Services/CT0142 Torrington Mental Health CT Rental Assistance | 410 Capitol Avenue MS# 14 HOU P.O. Box 341431 | Hartford | 06134 | 145,847
CT Department of Mental Health and Addiction Services/CT0154 Greater Hartford Mercy Rental Assistance | 410 Capitol Avenue MS# 14 HOU P.O. Box 341431 | Hartford | 06134 | 105,193
CT Department of Mental Health and Addiction Services/CT0161 New Britain CMHA Rental Assistance | 410 Capitol Avenue MS# 14 HOU P.O. Box 341431 | Hartford | 06134 | 834,141
CT Department of Mental Health and Addiction Services/CT0164 New Haven Rental Assistance | 410 Capitol Avenue MS# 14 HOU P.O. Box 341431 | Hartford | 06134 | 2,778,385
CT Department of Mental Health and Addiction Services/CT0172 Hartford Sue Ann Shay Place | 410 Capitol Avenue MS# 14 HOU P.O. Box 341431 | Hartford | 06134 | 105,501
CT Department of Mental Health and Addiction Services/CT0176 Norwich New London Rental Assistance Boswell | 410 Capitol Avenue MS# 14 HOU P.O. Box 341431 | Hartford | 06134 | 35,960
CT Department of Mental Health and Addiction Services/CT0185 Manchester Rental Assistance | 410 Capitol Avenue MS# 14 HOU P.O. Box 341431 | Hartford | 06134 | 230,751
CT Department of Mental Health and Addiction Services/CT0200 Torrington Rental Assistance WHO | 410 Capitol Avenue MS# 14 HOU P.O. Box 341431 | Hartford | 06134 | 288,158
CT Department of Mental Health and Addiction Services/CT0204 Waterbury Rental Assistance | 410 Capitol Avenue MS# 14 HOU P.O. Box 341431 | Hartford | 06134 | 217,614
CT Department of Mental Health and Addiction Services/CT0210 Danbury Rental Assistance | 410 Capitol Avenue MS# 14 HOU P.O. Box 341431 | Hartford | 06134 | 646,033
CT Department of Mental Health and Addiction Services/CT0220 New Haven Columbus House Rapid Rehousing | 410 Capitol Avenue MS# 14 HOU P.O. Box 341431 | Hartford | 06134 | 40,166
CT Department of Mental Health and Addiction Services/CT0237 Waterbury East Main Street | 410 Capitol Avenue MS# 14 HOU P.O. Box 341431 | Hartford | 06134 | 76,938
CT Department of Mental Health and Addiction Services/CT0242 Middlesex Columbus House Rapid Rehousing | 410 Capitol Avenue MS# 14 HOU P.O. Box 341431 | Hartford | 06134 | 153,614
CT Department of Mental Health and Addiction Services/CT0243 New Haven New Reach Rapid Rehousing | 410 Capitol Avenue MS# 14 HOU P.O. Box 341431 | Hartford | 06134 | 174,221
CT Department of Mental Health and Addiction Services/CT0246 Greater Middletown Mercy Rental Assistance | 410 Capitol Avenue MS# 14 HOU P.O. Box 341431 | Hartford | 06134 | 253,382
CT Department of Mental Health and Addiction Services/CT0265 BOS DMHAS 2014 | 410 Capitol Avenue MS# 14 HOU P.O. Box 341431 | Hartford | 06134 | 2,652,481
CT Department of Mental Health and Addiction Services/CT0286 BOS DMHAS 2015 | 410 Capitol Avenue MS# 14 HOU P.O. Box 341431 | Hartford | 06134 | 1,859,197
CT Department of Mental Health and Addiction Services/CT0297 Pendleton PSH | 410 Capitol Avenue MS# 14 HOU P.O. Box 341431 | Hartford | 06134 | 192,344
CT Department of Mental Health and Addiction Services/Danbury Rental Assistance 2 | 410 Capitol Avenue MS# 14 HOU P.O. Box 341431 | Hartford | 06134 | 443,636
CT Department of Mental Health and Addiction Services/Danbury Supportive Services Project | 410 Capitol Avenue MS# 14 HOU P.O. Box 341431 | Hartford | 06134 | 102,704
Friendship Service Center, Inc./Arch Street Housing | P.O. Box 1896 85 Arch Street | New Britain | 06050 | 125,132
Friendship Service Center, Inc./PEAK | P.O. Box 1896 85 Arch Street | New Britain | 06050 | 548,776
Friendship Service Center, Inc./TLP | P.O. Box 1896 85 Arch Street | New Britain | 06050 | 210,007
Holy Family Home and Shelter, Inc/Homes Plus | P.O. Box 884 88 Jackson St | Willimantic | 06226 | 130,349
Housing Authority of City of Torrington/Pilots I 2018 | 110 Prospect Street | Torrington | 06790 | 72,924
Housing Authority of City of Torrington/Pilots II 2018 | 110 Prospect Street | Torrington | 06790 | 156,264
Housing Authority of the City of Danbury/HACD/CHD PILOT 2018 Renewal | 2 Mill Ridge Road | Danbury | 06811 | 233,767
Housing Authority of the City of Danbury/HACD/WCMHN 2018 Renewal | 2 Mill Ridge Road | Danbury | 06811 | 155,845
Housing Authority of the City of Waterbury/Brooklyn Hope | 2 Lakewood Road | Waterbury | 06704 | 142,790
Housing Authority of the City of Waterbury/Housing Plus | 2 Lakewood Road | Waterbury | 06704 | 181,544
Housing Authority of the City of Waterbury/New Hope | 2 Lakewood Road | Waterbury | 06704 | 25,581
Housing Authority of the City of Waterbury/Pilots I | 2 Lakewood Road | Waterbury | 06704 | 265,466
Housing Authority of the City of Waterbury/Pilots II | 2 Lakewood Road | Waterbury | 06704 | 232,084
Housing Authority of the City of Waterbury/Step Up | 2 Lakewood Road | Waterbury | 06704 | 80,928
Housing Authority of the City of Waterbury/Walking Into Wall Street | 2 Lakewood Road | Waterbury | 06704 | 325,654
ImmaCare Inc./CDF Combo 1-4 FY2018 | 168 Hungerford Street | Hartford | 06106 | 796,327
Killingly Housing Authority/Killingly Wrap Around Housing Program | 620 Upper Maple Street | Danielson | 06239 | 54,962
Killingly Housing Authority/Putnam Wrap Around Housing Program | 620 Upper Maple Street | Danielson | 06239 | 65,954
Liberty Community Services, Inc./Housing First | 129 Church Street Mezzanine | New Haven | 06510 | 110,143
Liberty Community Services, Inc./Rapid Rehousing | 129 Church Street Mezzanine | New Haven | 06510 | 186,004
Liberty Community Services, Inc./Rapid Rehousing II | 129 Church Street Mezzanine | New Haven | 06510 | 108,136
Liberty Community Services, Inc./Safe Haven | 129 Church Street Mezzanine | New Haven | 06510 | 771,748
Liberty Community Services, Inc./Safe Haven Scattered Site | 129 Church Street Mezzanine | New Haven | 06510 | 99,032
Liberty Community Services, Inc./Safe Haven Scattered Site II | 129 Church Street Mezzanine | New Haven | 06510 | 178,280
Liberty Community Services, Inc./Safe Haven Scattered Site III | 129 Church Street Mezzanine | New Haven | 06510 | 126,420
My Sisters' Place, Inc./Permanent Supportive Housing at MSP | 102 Pliny Street | Hartford | 06120 | 242,294
New London Homeless Hospitality Center, Inc./NLHHC Renewal Project Application FY 2018 | 730 State Pier Road P.O. Box 1651 | New London | 06320 | 38,157
New Opportunities Inc./Freedom Walk | 232 North Elm Street | Waterbury | 06702 | 402,235
New Opportunities Inc./Meriden SHP | 232 North Elm Street | Waterbury | 06702 | 41,604
Prudence Crandall Center, Inc. /Permanent Supportive Housing for Persons with Disabilities | 594 Burritt Street | New Britain | 06050 | 152,831
Prudence Crandall Center, Inc. /Rose Hill Supportive Housing | 594 Burritt Street | New Britain | 06050 | 196,961
Prudence Crandall Center, Inc. /Rose Hill Transitional Living | 594 Burritt Street | New Britain | 06050 | 184,897
Safe Futures, Inc./Phoenix House Transitional Housing Program | 16 Jay Street | New London | 06320 | 51,596
St Vincent DePaul Mission of Bristol, Inc./St Vincent DePaul Rapid ReHousing | 19 Jacobs St | Bristol | 06010 | 362,252
St Vincent DePaul Mission of Waterbury, Inc./Society of Support (SOS) | 34 Willow Street | Waterbury | 06710 | 315,197
St Vincent DePaul Place, Middletown, Inc./SVD Middletown SHP | 617 Main St, P.O. Box 398 | Middletown, CT 06457 | 06457 | 153,726
Thames River Community Service Inc./Thames River Family Program | One Thames River Place | Norwich | 06360 | 195,983
Thames Valley Council for Community Action, Inc./Homeless Collaborative Network | 1 Sylvandale Rd | Jewett City | 06351 | 696,464
Torrington Community Housing Corporation/Hope I & II 2018 | 110 Prospect Street | Torrington | 06790 | 96,969
Windham Regional Community Council/Haven | 872 Main Street | Willimantic | 06226 | 145,879
Windham Regional Community Council/Project Home | 872 Main Street | Willimantic | 06226 | 287,225
Young Women's Christian Association of the Hartford Region/Soromundi Commons Supportive Housing | 135 Broad Street | Hartford | 06105 | 181,707
Youth Continuum, Inc./Youth Continuum-Youth Rapid Rehousing 2018 | 141 Valley Street | New Haven | 06515 | 87,360
Catholic Charities of The Archdiocese of Washington, Inc/Tenants Empowerment Network | 924 G Street, NW | Washington | 20001 | 490,223
Community Connections, Inc./Permanent Living Community | 801 Pennsylvania Ave, SE Suite 201 | Washington | 20003 | 113,653
Department of Human Services/DHS Shelter Plus Care Consolidated TRA 1 and 2 | 64 New York Avenue, NE | Washington | 20002 | 5,280,788
House of Ruth/House of Ruth Families First | 5 Thomas Circle, NW | Washington | 20005 | 345,594
House of Ruth/New Horizons Rapid Rehousing | 5 Thomas Circle, NW | Washington | 20005 | 143,409
Housing Up/Partner Arms 1 | 5101 16th Street, NW | Washington | 20011 | 164,721
Pathways to Housing DC/Serial Inebriates | 101 Q Street NE, Suite G | Washington | 20002 | 657,305
Sasha Bruce Youthwork, Inc./Consolidated Independent Living Program | 741 8th Street, SE | Washington | 20003 | 200,977
Sasha Bruce Youthwork, Inc./Olaiya's Cradle | 741 8th Street, SE | Washington | 20003 | 192,658
The Community Partnership for the Prevention of Homelessness/Calvary Women's Service—Sister Circle | 801 Pennsylvania Ave SE, Suite 360 | Washington | 20003 | 248,311
The Community Partnership for the Prevention of Homelessness/Catholic Charities—Chronic Homeless Initiative 5 | 801 Pennsylvania Ave SE, Suite 360 | Washington | 20003 | 583,960
The Community Partnership for the Prevention of Homelessness/Catholic Charities—Families in Transition | 801 Pennsylvania Ave SE, Suite 360 | Washington | 20003 | 233,144
The Community Partnership for the Prevention of Homelessness/Catholic Charities—Mt. Carmel | 801 Pennsylvania Ave SE, Suite 360 | Washington | 20003 | 219,363
The Community Partnership for the Prevention of Homelessness/Catholic Charities—Mulumba House | 801 Pennsylvania Ave SE, Suite 360 | Washington | 20003 | 281,657
The Community Partnership for the Prevention of Homelessness/Christ House—Kairos House | 801 Pennsylvania Ave SE, Suite 360 | Washington | 20003 | 998,976
The Community Partnership for the Prevention of Homelessness/CoC Planning Project | 801 Pennsylvania Ave SE, Suite 360 | Washington | 20003 | 624,295
The Community Partnership for the Prevention of Homelessness/Community Connections—Family Connections | 801 Pennsylvania Ave SE, Suite 360 | Washington | 20003 | 563,425
The Community Partnership for the Prevention of Homelessness/Community Connections—Launch Initiative Forwarding Transition-Age-Youth (LIFT) | 801 Pennsylvania Ave SE, Suite 360 | Washington | 20003 | 549,764
The Community Partnership for the Prevention of Homelessness/Community Connections—LIFT-PLUS | 801 Pennsylvania Ave SE, Suite 360 | Washington | 20003 | 1,238,181
The Community Partnership for the Prevention of Homelessness/Community Connections—Permanent Singles | 801 Pennsylvania Ave SE, Suite 360 | Washington | 20003 | 437,386
The Community Partnership for the Prevention of Homelessness/Community Connections—Veterans Connections Consolidated | 801 Pennsylvania Ave SE, Suite 360 | Washington | 20003 | 1,012,008
The Community Partnership for the Prevention of Homelessness/Community Connections—Youth Families Consolidated | 801 Pennsylvania Ave SE, Suite 360 | Washington | 20003 | 746,034
The Community Partnership for the Prevention of Homelessness/Community of Hope—Housing Families First | 801 Pennsylvania Ave SE, Suite 360 | Washington | 20003 | 662,193
The Community Partnership for the Prevention of Homelessness/Domestic Violence Rapid Rehousing Program (DV Bonus—RRH) | 801 Pennsylvania Ave SE, Suite 360 | Washington | 20003 | 498,739
The Community Partnership for the Prevention of Homelessness/Friendship Place—Bridges 1 Consolidated | 801 Pennsylvania Ave SE, Suite 360 | Washington | 20003 | 305,169
The Community Partnership for the Prevention of Homelessness/Friendship Place—Bridges 3 | 801 Pennsylvania Ave SE, Suite 360 | Washington | 20003 | 271,957
The Community Partnership for the Prevention of Homelessness/House of Ruth—Hope Rising | 801 Pennsylvania Ave SE, Suite 360 | Washington | 20003 | 283,937
The Community Partnership for the Prevention of Homelessness/House of Ruth—New Foundations | 801 Pennsylvania Ave SE, Suite 360 | Washington | 20003 | 504,122
The Community Partnership for the Prevention of Homelessness/House of Ruth—Rising Place (DV Bonus—Joint TH-RRH) | 801 Pennsylvania Ave SE, Suite 360 | Washington | 20003 | 625,468
The Community Partnership for the Prevention of Homelessness/Housing Up—Housing with Care | 801 Pennsylvania Ave SE, Suite 360 | Washington | 20003 | 531,052
The Community Partnership for the Prevention of Homelessness/Housing Up—Partner Arms 2 | 801 Pennsylvania Ave SE, Suite 360 | Washington | 20003 | 165,738
The Community Partnership for the Prevention of Homelessness/Miriam's House | 801 Pennsylvania Ave SE, Suite 360 | Washington | 20003 | 143,904
The Community Partnership for the Prevention of Homelessness/New Endeavors by Women—New Hope | 801 Pennsylvania Ave SE, Suite 360 | Washington | 20003 | 242,928
The Community Partnership for the Prevention of Homelessness/New Endeavors by Women—New Horizons | 801 Pennsylvania Ave SE, Suite 360 | Washington | 20003 | 504,948
The Community Partnership for the Prevention of Homelessness/New Endeavors by Women—New Journeys 2 | 801 Pennsylvania Ave SE, Suite 360 | Washington | 20003 | 198,382
The Community Partnership for the Prevention of Homelessness/New Endeavors by Women—Rachael's House | 801 Pennsylvania Ave SE, Suite 360 | Washington | 20003 | 200,205
The Community Partnership for the Prevention of Homelessness/Pathways to Housing DC—Streets to Homes | 801 Pennsylvania Ave SE, Suite 360 | Washington | 20003 | 546,816
The Community Partnership for the Prevention of Homelessness/The Community Partnership—Chronic Homeless Initiative 6 | 801 Pennsylvania Ave SE, Suite 360 | Washington | 20003 | 921,092
The Community Partnership for the Prevention of Homelessness/The Community Partnership—Chronic Homeless Initiative 7 | 801 Pennsylvania Ave SE, Suite 360 | Washington | 20003 | 202,501
The Community Partnership for the Prevention of Homelessness/The Community Partnership—FOCUS | 801 Pennsylvania Ave SE, Suite 360 | Washington | 20003 | 159,313
The Community Partnership for the Prevention of Homelessness/US Vets—Ignatia House | 801 Pennsylvania Ave SE, Suite 360 | Washington | 20003 | 122,902
The Community Partnership for the Prevention of Homelessness/Youth PSH (Formerly My Place) | 801 Pennsylvania Ave SE, Suite 360 | Washington | 20003 | 303,338
CHILD, Inc./DV Specific Rapid Rehousing | 507 Philadelphia Pike | Wilmington | 19809 | 153,036
Connections Community Support Programs, Inc./Easy Access | 3821 Lancaster Pike | Wilmington | 19805 | 505,422
Connections Community Support Programs, Inc./Enterprise | 3821 Lancaster Pike | Wilmington | 19805 | 312,926
Connections Community Support Programs, Inc./Judy's House | 3821 Lancaster Pike | Wilmington | 19805 | 188,539
Connections Community Support Programs, Inc./New Century | 3821 Lancaster Pike | Wilmington | 19805 | 1,315,449
Connections Community Support Programs, Inc./New Hope 2 | 3821 Lancaster Pike | Wilmington | 19805 | 968,014
Connections Community Support Programs, Inc./Next Step | 3821 Lancaster Pike | Wilmington | 19805 | 269,769
Connections Community Support Programs, Inc./Next Step 2 | 3821 Lancaster Pike | Wilmington | 19805 | 184,396
Connections Community Support Programs, Inc./Next Step 3 | 3821 Lancaster Pike | Wilmington | 19805 | 176,572
Connections Community Support Programs, Inc./Next Step 4 | 3821 Lancaster Pike | Wilmington | 19805 | 380,646
Connections Community Support Programs, Inc./PH for 20 consolidated | 3821 Lancaster Pike | Wilmington | 19805 | 378,335
Connections Community Support Programs, Inc./Positive Progress | 3821 Lancaster Pike | Wilmington | 19805 | 298,500
Family Promise of Northern New Castle County, Inc./Transitional-Rapid Rehousing | 2104 St James Church Rd | Wilmington | 19808 | 201,512
Housing Alliance Delaware, Inc./Centralized Intake Delaware | 100 West 10th Street Suite 611 | Wilmington | 19801 | 261,888
Housing Alliance Delaware, Inc./CoC Planning 2018 | 100 West 10th Street Suite 611 | Wilmington | 19801 | 231,708
Housing Alliance Delaware, Inc./Delaware HMIS | 100 West 10th Street Suite 611 | Wilmington | 19801 | 96,900
Peoples Place II Inc/Rapid Re-Housing For Domestic Violence Survivors at People's Place | 1129 Airport Road | Milford | 19963 | 78,672
Peoples Place II Inc/Rapid Re-Housing For Domestic Violence Survivors at People's Place | 1129 Airport Road | Milford | 19963 | 47,628
The Ministry of Caring Inc./Bethany House | 115 E 14th Street | Wilmington | 19801 | 52,604
The Ministry of Caring Inc./Bethany House II | 115 E 14th Street | Wilmington | 19801 | 43,692
The Ministry of Caring Inc./House of Joseph II | 115 E 14th Street | Wilmington | 19801 | 402,492
The Ministry of Caring Inc./House of Joseph Residence | 115 E 14th Street | Wilmington | 19801 | 72,206
The Ministry of Caring Inc./Mary Mother of Hope Permanent Housing | 115 E 14th Street | Wilmington | 19801 | 69,774
The Ministry of Caring Inc./Nazareth Permanent Housing | 115 E 14th Street | Wilmington | 19801 | 164,735
The Ministry of Caring Inc./Rapid Rehousing Consolidated | 115 E 14th Street | Wilmington | 19801 | 169,147
The Ministry of Caring Inc./St Francis Transitional Residence | 115 E 14th Street | Wilmington | 19801 | 204,225
West End Neighborhood House Inc./Life Lines Permanent Housing Program | 710 North Lincoln Street | Wilmington | 19805 | 214,596
Young Men's Christian Association of Delaware/Central Y Residence Supportive Housing Program | 100 West 10th St, Suite 1100 | Wilmington | 19801 | 264,181
YWCA Delaware Inc./Home-Life Management Center II | 100 W 10th Street, Suite 515 | Wilmington | 19801 | 330,235
YWCA Delaware Inc./YWCA Rapid Rehousing Project | 100 W 10th Street, Suite 515 | Wilmington | 19801 | 211,706
Agency for Community Treatment Services, Inc. (ACTS)/Hillsborough HEART Project | 4612 N 56th Street | Tampa | 33610 | 1,852,491
Agency for Community Treatment Services, Inc. (ACTS)/Hillsborough Permanent Housing | 4612 N 56th Street | Tampa | 33610 | 124,839
Catholic Charities Diocese of St Petersburg/Pathways Rapid Rehousing Program | 1213 16th Street North | St. Petersburg | 33705 | 991,353
Housing Authority of the City of Tampa/TRA Collaborative | 5301 West Cypress Street | Tampa | 33607 | 323,268
Housing Authority of the City of Tampa/TRA Collaborative 2004 | 5301 West Cypress Street | Tampa | 33607 | 174,893
Tampa Hillsborough Homeless Initiative/Alpha House—A Path for Families | 601 E Kennedy Blvd. County Center, 24th Floor | Tampa | 33602 | 342,046
Tampa Hillsborough Homeless Initiative/FL-501 CoC Planning Application FY2018 | 601 E Kennedy Blvd. County Center, 24th Floor | Tampa | 33602 | 210,604
Tampa Hillsborough Homeless Initiative/Hillsborough Pathways for Youth | 601 E Kennedy Blvd. County Center, 24th Floor | Tampa | 33602 | 240,351
Tampa Hillsborough Homeless Initiative/Hillsborough Pathways to Housing | 601 E Kennedy Blvd. County Center, 24th Floor | Tampa | 33602 | 84,789
Tampa Hillsborough Homeless Initiative/Home 3—PHAME | 601 E Kennedy Blvd. County Center, 24th Floor | Tampa | 33602 | 1,244,697
Tampa Hillsborough Homeless Initiative/More HEART | 601 E Kennedy Blvd. County Center, 24th Floor | Tampa | 33602 | 441,066
Tampa Hillsborough Homeless Initiative/Tampa-Hillsborough County Coordinated Entry | 601 E Kennedy Blvd. County Center, 24th Floor | Tampa | 33602 | 78,160
Tampa Hillsborough Homeless Initiative/UNITY Information Network | 601 E Kennedy Blvd. County Center, 24th Floor | Tampa | 33602 | 238,843
Boley Centers, Inc./Burlington/Grove Park/Twin I+II/Broadwater II,iii,IV/Clam Bayou | 445 31st Street N | St. Petersburg | 33713 | 534,233
Boley Centers, Inc./Mid County and Pinellas County Safe Havens | 445 31st Street N | St. Petersburg | 33713 | 926,753
Boley Centers, Inc./Preserves at Clam Bayou | 445 31st Street N | St. Petersburg | 33713 | 707,960
Boley Centers, Inc./S+C 62 | 445 31st Street N | St. Petersburg | 33713 | 277,632
Boley Centers, Inc./Shelter Plus Care 7 | 445 31st Street N | St. Petersburg | 33713 | 64,428
Brookwood Florida, Inc./Brookwood Transitional Housing Project | 901 Seventh Avenue South | St. Petersburg | 33705 | 79,085
Catholic Charities Diocese of St Petersburg/Pinellas Pathways to Housing | 1213 16th Street North | St. Petersburg | 33705 | 156,947
Catholic Charities Diocese of St Petersburg/Pinellas Pathways to Housing Financial Assistance | 1213 16th Street North | St Petersburg | 33705 | 7,881
Community Action Stops Abuse, Inc./CASA Gateway Housing | P.O. Box 414 | St Petersburg | 33731 | 237,931
Homeless Emergency Project, Inc./Baty Villas and Carlton Home FY2018 | 1120 North Betty Lane | Clearwater | 33755 | 94,046
Homeless Emergency Project, Inc./Independence Sq. North FY2018 | 1120 North Betty Lane | Clearwater | 33755 | 52,565
Pinellas County Homeless Leadership Board, Inc./Coordinated Intake | 647 1st Avenue North | St. Petersburg | 33701 | 168,211
Pinellas County Homeless Leadership Board, Inc./Pinellas HMIS Renewal 2018 | 647 1st Avenue North | St. Petersburg | 33701 | 240,372
Pinellas County Homeless Leadership Board, Inc./Planning Grant | 647 1st Avenue North | St. Petersburg | 33701 | 118,722
Religious Community Services, Inc./The Haven of RCS Housing | 503 S Martin Luther King Jr. Avenue | Clearwater | 33756 | 88,520
Society of St. Vincent de Paul South Pinellas, Inc./Returning Home—Pinellas | 384 15th Street North | St. Petersburg | 33705 | 248,109
Society of St. Vincent de Paul South Pinellas, Inc./Returning Home—Pinellas Financial Assistance | 384 15th Street North | St. Petersburg | 33705 | 40,079
WestCare GulfCoast-Florida, Inc./WestCare MSI Rapid Re-Housing FY18 CoC | 1735 Dr Martin Luther King, Jr. St S | St. Petersburg | 33705 | 85,953
Agency for Community Treatment Services, Inc. (ACTS)/ACTS Moonlite Drive Permanent Housing Program | 4612 N 56th Street | Tampa | 33610 | 56,644
Agency for Community Treatment Services, Inc. (ACTS)/ACTS Polk/Winterhaven Scatted Site Leasing | 4612 N 56th Street | Tampa | 33610 | 209,015
Agency for Community Treatment Services, Inc. (ACTS)/Polk HEART | 4612 N 56th Street | Tampa | 33610 | 249,252
Agency for Community Treatment Services, Inc. (ACTS)/Polk Scattered Site Leasing | 4612 N 56th Street | Tampa | 33610 | 107,495
Homeless Coalition of Polk County, Inc./Coordinated Entry | 328 W Highland Drive | Lakeland | 33813 | 138,223
Homeless Coalition of Polk County, Inc./FL-503 CoC Planning Project | 328 W Highland Drive | Lakeland | 33813 | 81,084
Homeless Coalition of Polk County, Inc./Homeless Management Information System | 328 W Highland Drive | Lakeland | 33813 | 118,751
Talbot House Ministries of Lakeland, Inc./Housing Stabilization | 814 N Kentucky Ave | Lakeland | 33801 | 294,235
Talbot House Ministries of Lakeland, Inc./Polk Rapid Rehousing | 814 N Kentucky Ave | Lakeland | 33801 | 165,303
Talbot House Ministries of Lakeland, Inc./Rapid Rehousing For Polk County | 814 N Kentucky Ave | Lakeland | 33801 | 81,837
The Wilson House, Inc./Wilson House PSH Program | P.O. Box 2461 | Lakeland | 33806 | 125,572
The Wilson House, Inc./Wilson House PSH Program II | P.O. Box 2461 | Lakeland | 33806 | 154,714
Tri-County Human Services, Inc./Permanent Housing Services Group A | 1815 Crystal Lake Drive | Lakeland | 33801 | 107,706
Tri-County Human Services, Inc./Scattered Site Leasing for Homeless Women with Children | 1815 Crystal Lake Drive | Lakeland | 33801 | 84,824
Halifax Urban Ministries/Permanent Supportive Housing for Individuals 2018 | 1340 Wright Street | Daytona Beach | 32117 | 100,418
Halifax Urban Ministries/PSH for Homeless Families With Dep Children 2018 | 1340 Wright Street | Daytona Beach | 32117 | 51,034
Halifax Urban Ministries/Rapid Rehousing Families 2018 | 1340 Wright Street | Daytona Beach | 32117 | 159,727
Halifax Urban Ministries/Rapid Rehousing Ind and Unaccomp Youth 2018 | 1340 Wright Street | Daytona Beach | 32117 | 92,019
The Neighborhood Center of West Volusia/PH-13EU2 2018 | 434 S Woodland Blvd | Deland | 32720 | 49,366
The Neighborhood Center of West Volusia/PH-16WS 2018 | 434 S Woodland Blvd | Deland | 32720 | 133,749
The Neighborhood Center of West Volusia/PH-18W 2018 | 434 S Woodland Blvd | Deland | 32720 | 130,248
The Neighborhood Center of West Volusia/PH-29 2018 | 434 S Woodland Blvd | Deland | 32720 | 73,614
The Neighborhood Center of West Volusia/PH-HYP 2018 | 434 S Woodland Blvd | Deland | 32720 | 84,980
Volusia/Flagler County Coalition for the Homeless/FL 504 2018 Planning Grant | 324 North Street | Daytona Beach | 32114 | 58,228
Volusia/Flagler County Coalition for the Homeless/FL 504 Coordinated Entry | 324 North Street | Daytona Beach | 32114 | 58,250
Volusia/Flagler County Coalition for the Homeless/FL 504 Coordinated Entry DV Housing Navigator | 324 North Street | Daytona Beach | 32114 | 57,285
Volusia/Flagler County Coalition for the Homeless/FL 504 Coordinated Entry SSO Housing Locator | 324 North Street | Daytona Beach | 32114 | 56,218
Volusia/Flagler County Coalition for the Homeless/FL 504 HMIS Consolidated | 324 North Street | Daytona Beach | 32114 | 122,134
Volusia/Flagler County Coalition for the Homeless/My Place Apartments | 324 North Street | Daytona Beach | 32114 | 193,170
Catholic Charities of Northwest Florida/Bonus Application 2018 | 11 First Street SE | Fort Walton Beach | 32548 | 37,346
Catholic Charities of Northwest Florida/Consolidated Renewal 2018 | 11 First Street SE | Fort Walton Beach | 32548 | 568,518
Okaloosa Walton Homeless Continuum of Care/Opportunity Inc/CoC Planning Application 2018 | 183 Eglin Pkwy | Fort Walton Beach | 32548 | 18,171
Okaloosa Walton Homeless Continuum of Care/Opportunity Inc/HMIS Renewal 2018 | 183 Eglin Pkwy | Fort Walton Beach | 32548 | 52,552
Apalachee Regional Planning Council/2018 CoC Planning Grant | 2507 Callaway Road Suite 200 | Tallahassee | 32303 | 65,997
Apalachee Regional Planning Council/2018 HMIS Renewal | 2507 Callaway Road Suite 200 | Tallahassee | 32303 | 130,292
Big Bend Homeless Coalition, Inc./A Place Called Home | 325 John Knox Rd, Bldg A | Tallahassee | 32303 | 433,567
Big Bend Homeless Coalition, Inc./Home Plate | 325 John Knox Rd, Bldg A | Tallahassee | 32303 | 615,743
Capital City Youth Services, Inc./CCYS Rapid Rehousing for Youth | 2407 Roberts Avenue | Tallahassee | 32310 | 47,612
The Center for Independent Living of N.F., dba Ability1st/APCH for Families | 1823 Buford Court | Tallahassee | 32308 | 158,549
Homeless Services Network of Central Florida, Inc./2018 CES | 4065-D L.B McLeod Rd | Orlando | 32811 | 439,995
Homeless Services Network of Central Florida, Inc./2018 CI—Beacon on Light | 4065-D L.B McLeod Rd | Orlando | 32811 | 97,173
Homeless Services Network of Central Florida, Inc./2018 Covenant House CMO | 4065-D L.B McLeod Rd | Orlando | 32811 | 91,003
Homeless Services Network of Central Florida, Inc./2018 Covenant House ROPAL | 4065-D L.B McLeod Rd | Orlando | 32811 | 154,449
Homeless Services Network of Central Florida, Inc./2018 DV CES | 4065-D L.B McLeod Rd | Orlando | 32811 | 16,129
Homeless Services Network of Central Florida, Inc./2018 GAECDC—Homes for New Beginnings | 4065-D L.B McLeod Rd | Orlando | 32811 | 55,236
Homeless Services Network of Central Florida, Inc./2018 HMIS | 4065-D L.B McLeod Rd | Orlando | 32811 | 337,565
Homeless Services Network of Central Florida, Inc./2018 HSN Rapid Rehousing 1 | 4065-D L.B McLeod Rd | Orlando | 32811 | 440,584
Homeless Services Network of Central Florida, Inc./2018 Leasing | 4065-D L.B McLeod Rd | Orlando | 32811 | 1,263,131
Homeless Services Network of Central Florida, Inc./2018 Planning | 4065-D L.B McLeod Rd | Orlando | 32811 | 239,702
Homeless Services Network of Central Florida, Inc./2018 PSH Operating and Services | 4065-D L.B McLeod Rd | Orlando | 32811 | 413,136
Homeless Services Network of Central Florida, Inc./2018 PSH Rental Assistance | 4065-D L.B McLeod Rd | Orlando | 32811 | 1,877,937
Homeless Services Network of Central Florida, Inc./2018 Rapid Rehousing 2 | 4065-D L.B McLeod Rd | Orlando | 32811 | 1,160,283
Orange County Housing and Community Development Division/2018 Orange Co SPC | 525 E South Street | Orlando | 32801 | 738,105
Osceola County Government/2018 Osceola Co S+C | 1 Courthouse Square Suite 4700 | Kissimmee | 34741 | 224,983
Seminole County Government/2018 Seminole Co S+C | 534 W Lake Mary Boulevard | Sanford | 32773 | 519,635
Alachua County Coalition for the Homeless and Hungry, Inc. /2018 CE Renewal | 3055 NE 28th Drive | Gainesville | 32609 | 32,012
Alachua County Coalition for the Homeless and Hungry, Inc. /2018 HMIS Renewal | 3055 NE 28th Drive | Gainesville | 32609 | 87,361
Alachua County Coalition for the Homeless and Hungry, Inc. /2018 PSH Renewal | 3055 NE 28th Drive | Gainesville | 32609 | 195,873
Alachua County Coalition for the Homeless and Hungry, Inc. /2018 RRH CH Renewal | 3055 NE 28th Drive | Gainesville | 32609 | 44,031
Alachua County Coalition for the Homeless and Hungry, Inc. /FL-508 CoC Planning Application FY 2018 | 3055 NE 28th Drive | Gainesville | 32609 | 32,814
Family Promise of Gainesville, Florida, Inc./Family Promise CoC—RRH | 229 SW 5 Street | Gainesviille | 32601 | 51,459
Meridian Behavioral Healthcare, Inc./HOPE PSH | 4300 SW 13th St | Gainesville | 32608 | 152,448
Peaceful Paths Domestic Abuse Network, Inc./2018 Consolidated Renewal Project | 2100 NW 53rd Ave, Suite A | Gainesville | 32653 | 107,179
Indian River County Board of County Commissioners/2018 coc TRA2 | 1801 27th Street | Vero Beach | 32960 | 74,976
Indian River County Board of County Commissioners/2018 CoCWideTRA Renewal | 1801 27th Street | Vero Beach | 32960 | 95,256
Indian River County Board of County Commissioners/2018 HMIS Coordinated Entry | 1801 27th Street | Vero Beach | 32960 | 35,400
Indian River County Board of County Commissioners/2018ALCOHOPE renewal | 1801 27th Street | Vero Beach | 32960 | 74,976
Indian River County Board of County Commissioners/2018DATAQUALITY | 1801 27th Street | Vero Beach | 32960 | 27,840
Indian River County Board of County Commissioners/2018FAMILYRENTAL assistance | 1801 27th Street | Vero Beach | 32960 | 94,608
Indian River County Board of County Commissioners/2018IndianRiver Chronics Renewal | 1801 27th Street | Vero Beach | 32960 | 98,208
Indian River County Board of County Commissioners/2018NewCHRONICS | 1801 27th Street | Vero Beach | 32960 | 285,696
Indian River County Board of County Commissioners/2018NewHorizons TWO | 1801 27th Street | Vero Beach | 32960 | 115,188
Martin County Board of County Commissioners/2018martincountyCHRONICS | 2401 SE Monterey Road | Stuart | 34996 | 108,900
Martin County Board of County Commissioners/2018martincountyNEW FOCUS | 2401 SE Monterey Road | Stuart | 34996 | 99,000
Martin County Board of County Commissioners/2018martincountyRENTAL | 2401 SE Monterey Road | Stuart | 34996 | 116,352
St Lucie County Board of County Commissioners/2018 st.luciecounty TRA | 437 North 7th Street | Ft. Pierce | 34950 | 158,400
St Lucie County Board of County Commissioners/2018SLC rental assistance beds | 437 North 7th Street | Ft. Pierce | 34950 | 93,600
St Lucie County Board of County Commissioners/2018St Lucie County VETS | 437 North 7th Street | Ft. Pierce | 34950 | 157,968
Treasure Coast Homeless Services Council, Inc./2018CoCPlanningProject | 2525 St Lucie Avenue | Vero Beach | 32960 | 48,690
Treasure Coast Homeless Services Council, Inc./2018RENEWALSystemsPerformance | 2525 St Lucie Avenue | Vero Beach | 32960 | 24,821
Ability Housing, Inc/Housing Link PSH | 3740 Beach Blvd., Suite 304 | Jacksonville | 32207 | 1,158,680
Ability Housing, Inc/Villages PSH 2018 | 3740 Beach Blvd., Suite 304 | Jacksonville | 32207 | 365,440
Changing Homelessness Inc./FL 510 CoC Planning Application FY2018 | 660 Park Street | Jacksonville | 32204 | 150,943
Changing Homelessness Inc./Homesafe | 660 Park Street | Jacksonville | 32204 | 538,408
Changing Homelessness Inc./NEFIN HMIS Training and Analysis Program | 660 Park Street | Jacksonville | 32204 | 76,471
Changing Homelessness Inc./Northeast Florida Information Network | 660 Park Street | Jacksonville | 32204 | 65,600
Changing Homelessness Inc./Safe Spaces | 660 Park Street | Jacksonville | 32204 | 68,730
Changing Homelessness Inc./Universal Linkage System | 660 Park Street | Jacksonville | 32204 | 58,269
Hubbard House, Inc./DV Bonus Project—Hubbard House HOPE (Housing Options Promoting Empowerment) Project | P.O. Box 4909 | Jacksonville | 32201 | 496,014
I.M. Sulzbacher Center for the Homeless, Inc./First Coast Rapid Rehousing Program | 611 East Adams Street | Jacksonville | 32202 | 66,474
I.M. Sulzbacher Center for the Homeless, Inc./Homeward Bound | 611 East Adams Street | Jacksonville | 32202 | 261,104
I.M. Sulzbacher Center for the Homeless, Inc./Homeward Bound Project Expansion | 611 East Adams Street | Jacksonville | 32202 | 181,121
I.M. Sulzbacher Center for the Homeless, Inc./North Florida SHP Rapid Rehousing Program | 611 East Adams Street | Jacksonville | 32202 | 726,185
Mental Health Resource Center, Inc./Community Outreach Program (QUEST) | 10550 Deerwood Park Boulevard, Suite 600 | Jacksonville | 32256 | 254,553
Mental Health Resource Center, Inc./Coordinated Intake Expansion | 10550 Deerwood Park Boulevard, Suite 600 | Jacksonville | 32256 | 120,000
Presbyterian Social Ministries Inc./Home Safe Extention | 4115 Post St | Jacksonville | 32205 | 71,132
Escarosa Coalition on the Homeless, Inc/CoC Planning Project Application FY2018 | P.O. Box 17222 | Pensacola | 32522 | 53,067
Escarosa Coalition on the Homeless, Inc/HMIS 2018 | P.O. Box 17222 | Pensacola | 32522 | 143,974
Escarosa Coalition on the Homeless, Inc/Opening Doors Coordinated Entry 2018 | P.O. Box 17222 | Pensacola | 32522 | 155,901
Lakeview Center Incorporated/New Permanent Supportive Housing Program 2018 | 1221 West Lakeview Ave Building J | Pensacola | 32501 | 122,493
Lakeview Center Incorporated/Permanent Supportive Housing Escambia and Santa Rosa 2018 | 1221 West Lakeview Ave Building J | Pensacola | 32501 | 242,454
Northwest Florida Comprehensive Services for Childr3en, Inc./Project90 Pensacola | 115 Gregory Square | Pensacola | 32502 | 97,515
Flagler Hospital, Inc./FH HMIS Renewal 2018 | 400 Health Park Blvd | St. Augustine | 32086 | 62,790
Flagler Hospital, Inc./FH Housing Navigator Renewal 2018 | 400 Health Park Blvd | St. Augustine | 32086 | 40,852
Flagler Hospital, Inc./FY18 CoC Planning Grant | 400 Health Park Blvd | St. Augustine | 32086 | 7,093
Safety Shelter of St. Johns County, Inc./DV Bonus Coordinated Entry | 2450 Old Moultrie Road, Suite 202 | Saint Augustine | 32086 | 5,000
St. Johns County Board of County Commissioners/Renewal Rapid Rehousing Project FY18 | 500 San Sebastian View | St. Augustine | 32084 | 17,572
2-1-1 Brevard, Inc./HMIS Renewal FY 19-20 | P.O. Box 561627 | Rockledge | 32956 | 71,455
Brevard Homeless Coalition, Inc./BHC Planning 2018 | 6905 N Wickham Rd, Suite 301 | Melbourne | 32940 | 24,502
Community of Hope, Inc./Path of Hope | 4515 South Babcock Street | Palm Bay | 32905 | 49,000
Crosswinds Youth Services, Inc./Crosswinds RRH Program 2019-2020 | 1407 Dixon Blvd | Cocoa | 32922 | 49,016
Crosswinds Youth Services, Inc./Crosswinds TLP Program 2019-2020 | 1407 Dixon Blvd | Cocoa | 32922 | 66,547
Housing for Homeless Inc./HfH CH Project 2019-20 | 4087 U.S. Hwy 1, Suite 3 | Rockledge | 32955 | 132,590
Housing for Homeless Inc./HfH PH1 Project 2019-20 | 4087 U.S. Hwy 1, Suite 3 | Rockledge | 32955 | 349,278
Marion County Homeless Council, Inc./2018-2019 planning | 108 N Magnolia Ave Suite 202 | Ocala | 34475 | 47,368
Marion County Homeless Council, Inc./HMIS 2018-2019 | 108 N Magnolia Ave Suite 202 | Ocala | 34475 | 83,491
Marion County Homeless Council, Inc./HOMES 2018-2019 | 108 N Magnolia Ave Suite 202 | Ocala | 34475 | 33,446
Marion County Homeless Council, Inc./HOMES II 2018-2019 | 108 N Magnolia Ave Suite 202 | Ocala | 34475 | 24,456
Shepherd's LightHouse, Inc./Renewal Project FL0475L4H141704 | 5930 SE Robinson Road | Belleview | 34420 | 50,600
Shepherd's LightHouse, Inc./Renewal THPHRRH 2018 | 5930 SE Robinson Road | Belleview | 34420 | 52,768
Homeless and Hunger Coalition of Northwest Florida, Inc. DBA Doorways/CoC Planning Application FY 2018 | 954 Magnolia Avenue | Panama City | 32401 | 22,915
Homeless and Hunger Coalition of Northwest Florida, Inc. DBA Doorways/HMIS Renewal FY 2018 | 954 Magnolia Avenue | Panama City | 32401 | 30,765
Heartland Coalition for the Homeless, Inc. formerly Highlands Cty Coalition for Homeless/Heartland CoC Planning Grant 2018 | 1535 State Road 64 West | Avon Park | 33825 | 24,133
Heartland Coalition for the Homeless, Inc. formerly Highlands Cty Coalition for Homeless/HMIS Renewal 2018 | 1535 State Road 64 West | Avon Park | 33825 | 34,085
Heartland Coalition for the Homeless, Inc. formerly Highlands Cty Coalition for Homeless/PSH CH Renewal 2018 | 1535 State Road 64 West | Avon Park | 33825 | 126,038
United Way of Suwannee Valley/FL-518 CoC Planning Application FY2018 | 871 SW State Road 47 | Lake City | 32025 | 11,897
United Way of Suwannee Valley/FL-518 Coordinated Entry and Assessment Renewal FY2018 | 871 SW State Road 47 | Lake City | 32025 | 58,641
United Way of Suwannee Valley/FL-518 HMIS Renewal FY2018 | 871 SW State Road 47 | Lake City | 32025 | 32,146
United Way of Suwannee Valley/FL-518 Rapid Rehousing Expansion FY2018 | 871 SW State Road 47 | Lake City | 32025 | 27,415
United Way of Suwannee Valley/FL-518 Rapid Rehousing Renewal FY2018 | 871 SW State Road 47 | Lake City | 32025 | 70,940
Volunteers of America of Florida, Inc./Lake City | 405 Central Ave Ste 100 | St. Petersburg | 33701 | 159,880
Ace Opportunities, Inc./Ace Female 2018R7 | 6011 High Street | New Port Richey | 34652 | 100,091
Ace Opportunities, Inc./Ace Male 2018R6 | 6011 High Street | New Port Richey | 34652 | 110,564
Catholic Charities Diocese of St. Petersburg/Bethany Family Apartments-Project Lift | 1213 16th Street North | St. Petersburg | 33705 | 158,879
Catholic Charities Diocese of St. Petersburg/Pasco Pathways Rapid Rehousing | 1213 16th Street North | St. Petersburg | 33705 | 95,708
Coalition for the Homeless of Pasco County, Inc./2018 CoC Planning | 5652 Pine Street | New Port Richey | 34652 | 61,055
Coalition for the Homeless of Pasco County, Inc./2018 HMIS Consolidated | 5652 Pine Street | New Port Richey | 34652 | 106,554
Pasco County Housing Auhority/Pasco County HA Renewal 2018 PSH | 36739 S.R. 52 | Dade City | 33523 | 53,556
Society of St. Vincent de Paul South Pinellas, Inc./Returning Home—Pasco Consolidated | 384 15th Street North | St. Petersburg | 33705 | 224,937
Citrus County, a political subdivision of the State of Florida/Shelter Plus Care PSH | 2804 West Marc Knighton Court #12 | Lecanto | 34461 | 103,985
Lake County Board of County Commissioners/Lake County Permanent Supportive Housing 18/19 Application | 2008 Classique Lane | Tavares | 32778 | 103,329
Mid Florida Homeless Coalition, Inc./2018 CAS Renewal | 104 E Dampier Street | Inverness | 34450 | 39,031
Mid Florida Homeless Coalition, Inc./2018 FL520 Planning Grant | 104 E Dampier Street | Inverness | 34450 | 34,244
Mid Florida Homeless Coalition, Inc./2018 MFIN Renewal | 104 E Dampier Street | Inverness | 34450 | 76,999
United Way of Citrus County/Rapid Rehousing Program | 1582 N Meadowcreast Blvd | Crystal River | 34429 | 70,817
Carrfour Supportive Housing/Rivermont House | 789 NW 13 Avenue | Miami | 33125 | 465,773
Miami-Dade County/2001 TRA 30 Citrus | 111 NW 1st Street 27th floor, Suite 310 | Miami | 33128 | 408,344
Miami-Dade County/2003 TRA 95 Citrus | 111 NW 1st Street 27th floor, Suite 310 | Miami | 33128 | 1,225,136
Miami-Dade County/55 2003 TRA Citrus | 111 NW 1st Street 27th floor, Suite 310 | Miami | 33128 | 591,292
Miami-Dade County/Amistad | 111 NW 1st Street 27th floor, Suite 310 | Miami | 33128 | 397,673
Miami-Dade County/Another Chance | 111 NW 1st Street 27th floor, Suite 310 | Miami | 33128 | 256,991
Miami-Dade County/Archbishop Carroll Homes | 111 NW 1st Street 27th floor, Suite 310 | Miami | 33128 | 991,666
Miami-Dade County/Barrett Place | 111 NW 1st Street 27th floor, Suite 310 | Miami | 33128 | 172,372
Miami-Dade County/Better Way Apartments | 111 NW 1st Street 27th floor, Suite 310 | Miami | 33128 | 545,873
Miami-Dade County/Better Way West Wing | 111 NW 1st Street 27th floor, Suite 310 | Miami | 33128 | 207,344
Miami-Dade County/Bonita Cove | 111 NW 1st Street 27th floor, Suite 310 | Miami | 33128 | 118,136
Miami-Dade County/Brother Keily Consolidation | 111 NW 1st Street 27th floor, Suite 310 | Miami | 33128 | 1,010,970
Miami-Dade County/Brother Mathias | 111 NW 1st Street 27th floor, Suite 310 | Miami | 33128 | 246,975
Miami-Dade County/C. Wilson | 111 NW 1st Street 27th floor, Suite 310 | Miami | 33128 | 282,756
Miami-Dade County/Camillus HUD RRH | 111 NW 1st Street 27th floor, Suite 310 | Miami | 33128 | 533,963
Miami-Dade County/Casa Matias | 111 NW 1st Street 27th floor, Suite 310 | Miami | 33128 | 204,181
Miami-Dade County/Citrus Health Youth Housing Program | 111 NW 1st Street 27th floor, Suite 310 | Miami | 33128 | 937,018
Miami-Dade County/City of Miami Beach Outreach | 111 NW 1st Street 27th floor, Suite 310 | Miami | 33128 | 65,212
Miami-Dade County/Coalition Lift | 111 NW 1st Street 27th floor, Suite 310 | Miami | 33128 | 735,064
Miami-Dade County/CoC Planning Project Application FY2018 | 111 NW 1st Street 27th floor, Suite 310 | Miami | 33128 | 894,336
Miami-Dade County/Coconut Grove 1 | 111 NW 1st Street 27th floor, Suite 310 | Miami | 33128 | 135,888
Miami-Dade County/Coconut Grove 2 | 111 NW 1st Street 27th floor, Suite 310 | Miami | 33128 | 47,234
Miami-Dade County/Coming Home-2013 New Reallocation Project | 111 NW 1st Street 27th floor, Suite 310 | Miami | 33128 | 178,311
Miami-Dade County/Del Prado Gardens | 111 NW 1st Street 27th floor, Suite 310 | Miami | 33128 | 406,237
Miami-Dade County/Elan Apartments | 111 NW 1st Street 27th floor, Suite 310 | Miami | 33128 | 178,365
Miami-Dade County/First Place | 111 NW 1st Street 27th floor, Suite 310 | Miami | 33128 | 320,262
Miami-Dade County/Harding Village | 111 NW 1st Street 27th floor, Suite 310 | Miami | 33128 | 320,586
Miami-Dade County/Hogar 2 | 111 NW 1st Street 27th floor, Suite 310 | Miami | 33128 | 1,022,073
Miami-Dade County/Homestead Scattered Site | 111 NW 1st Street 27th floor, Suite 310 | Miami | 33128 | 171,269
Miami-Dade County/Housing ACT Team Consolidation | 111 NW 1st Street 27th floor, Suite 310 | Miami | 33128 | 2,670,165
Miami-Dade County/Housing Assistance Program | 111 NW 1st Street 27th floor, Suite 310 | Miami | 33128 | 177,864
Miami-Dade County/J. Moss | 111 NW 1st Street 27th floor, Suite 310 | Miami | 33128 | 414,741
Miami-Dade County/Karis Village | 111 NW 1st Street 27th floor, Suite 310 | Miami | 33128 | 415,771
Miami-Dade County/KIVA | 111 NW 1st Street 27th floor, Suite 310 | Miami | 33128 | 538,120
Miami-Dade County/Kolapi | 111 NW 1st Street 27th floor, Suite 310 | Miami | 33128 | 2,044,153
Miami-Dade County/Liberty Village | 111 NW 1st Street 27th floor, Suite 310 | Miami | 33128 | 619,876
Miami-Dade County/Little Haiti | 111 NW 1st Street 27th floor, Suite 310 | Miami | 33128 | 185,656
Miami-Dade County/Little Riverbend Consolidation | 111 NW 1st Street 27th floor, Suite 310 | Miami | 33128 | 588,611
Miami-Dade County/Marie Toussaint | 111 NW 1st Street 27th floor, Suite 310 | Miami | 33128 | 373,718
Miami-Dade County/Marie Toussaint S + C | 111 NW 1st Street 27th floor, Suite 310 | Miami | 33128 | 455,515
Miami-Dade County/Mayfair | 111 NW 1st Street 27th floor, Suite 310 | Miami | 33128 | 153,865
Miami-Dade County/Miami Homeless Assistance Program | 111 NW 1st Street 27th floor, Suite 310 | Miami | 33128 | 255,853
Miami-Dade County/MMHAP North | 111 NW 1st Street 27th floor, Suite 310 | Miami | 33128 | 298,234
Miami-Dade County/MMHAP South | 111 NW 1st Street 27th floor, Suite 310 | Miami | 33128 | 141,433
Miami-Dade County/Mother Seton PH | 111 NW 1st Street 27th floor, Suite 310 | Miami | 33128 | 535,550
Miami-Dade County/Moving Forward 2018 RRH | 111 NW 1st Street 27th floor, Suite 310 | Miami | 33128 | 390,397
Miami-Dade County/My Choice | 111 NW 1st Street 27th floor, Suite 310 | Miami | 33128 | 175,116
Miami-Dade County/Partners for Homes | 111 NW 1st Street 27th floor, Suite 310 | Miami | 33128 | 820,288
Miami-Dade County/Project Dade Cares PH | 111 NW 1st Street 27th floor, Suite 310 | Miami | 33128 | 612,879
Miami-Dade County/Right Directions | 111 NW 1st Street 27th floor, Suite 310 | Miami | 33128 | 143,521
Miami-Dade County/Royalton Expansion | 111 NW 1st Street 27th floor, Suite 310 | Miami | 33128 | 900,872
Miami-Dade County/S + C 2018 Consolidation | 111 NW 1st Street 27th floor, Suite 310 | Miami | 33128 | 405,617
Miami-Dade County/Shaman | 111 NW 1st Street 27th floor, Suite 310 | Miami | 33128 | 453,783
Miami-Dade County/Shepherd House | 111 NW 1st Street 27th floor, Suite 310 | Miami | 33128 | 89,606
Miami-Dade County/Shepherd's Court Samaritan | 111 NW 1st Street 27th floor, Suite 310 | Miami | 33128 | 509,748
Miami-Dade County/Sunsouth | 111 NW 1st Street 27th floor, Suite 310 | Miami | 33128 | 250,669
Miami-Dade County/Thomas Jefferson | 111 NW 1st Street 27th floor, Suite 310 | Miami | 33128 | 113,106
Miami-Dade County/Thomas Jefferson S + C | 111 NW 1st Street 27th floor, Suite 310 | Miami | 33128 | 275,008
Miami-Dade County/Transition to Homeownership (THOP) | 111 NW 1st Street 27th floor, Suite 310 | Miami | 33128 | 788,774
Miami-Dade County/Verde Gardens | 111 NW 1st Street 27th floor, Suite 310 | Miami | 33128 | 512,481
Miami-Dade County/Villa Aurora Consolidation | 111 NW 1st Street 27th floor, Suite 310 | Miami | 33128 | 1,141,756
Miami-Dade County/Wynwood | 111 NW 1st Street 27th floor, Suite 310 | Miami | 33128 | 134,660
Volunteers of America of Florida, Inc./Hogar 1 | 405 Central Ave Ste 100 | St. Petersburg | 33701 | 822,290
Broward County Housing Authority/S+C Permanent Housing 100 Units | 4780 North State Road 7 | Lauderdale Lakes | 33319 | 1,123,831
Broward County, Florida/Broward II | 115 S Andrews Avenue A370 | Fort Lauderdale | 33301 | 1,026,034
Broward County, Florida/Broward IV (Samaritan Expansion) | 115 S Andrews Avenue A370 | Fort Lauderdale | 33301 | 347,313
Broward County, Florida/Broward Partnership Housing III | 115 S Andrews Avenue A370 | Fort Lauderdale | 33301 | 351,124
Broward County, Florida/Broward Partnership Housing IV | 115 S Andrews Avenue A370 | Fort Lauderdale | 33301 | 402,299
Broward County, Florida/Chalet Apartments | 115 S Andrews Avenue A370 | Fort Lauderdale | 33301 | 226,952
Broward County, Florida/FL 601 Dedicated HMIS Project | 115 S Andrews Avenue A370 | Fort Lauderdale | 33301 | 220,149
Broward County, Florida/FL-601 CoC Planning Project Application 2018 | 115 S Andrews Avenue A370 | Fort Lauderdale | 33301 | 285,153
Broward County, Florida/HART & Home | 115 S Andrews Avenue A370 | Fort Lauderdale | 33301 | 277,851
Broward County, Florida/HOPE4Families Rapid Re-Housing | 115 S Andrews Avenue A370 | Fort Lauderdale | 33301 | 303,465
Broward County, Florida/Independent Living Program | 115 S Andrews Avenue A370 | Fort Lauderdale | 33301 | 366,241
Broward County, Florida/NewHart Project | 115 S Andrews Avenue A370 | Fort Lauderdale | 33301 | 399,946
Broward County, Florida/ROP2-Rapid Re-Housing Leasing Assistance | 115 S Andrews Avenue A370 | Fort Lauderdale | 33301 | 214,835
Broward County, Florida/S + C 74 Unit HHOPE Chronic Homeless Initiative | 115 S Andrews Avenue A370 | Fort Lauderdale | 33301 | 991,966
Broward County, Florida/S + C Permanent Housing 16 Unit | 115 S Andrews Avenue A370 | Fort Lauderdale | 33301 | 264,259
Broward County, Florida/S + C Permanent Housing 18 Unit | 115 S Andrews Avenue A370 | Fort Lauderdale | 33301 | 238,602
Broward County, Florida/S + C Permanent Housing 25 Units | 115 S Andrews Avenue A370 | Fort Lauderdale | 33301 | 267,493
Broward County, Florida/S + C Permanent Housing 29 Units | 115 S Andrews Avenue A370 | Fort Lauderdale | 33301 | 432,573
Broward County, Florida/S + C Permanent Housing 88 Units | 115 S Andrews Avenue A370 | Fort Lauderdale | 33301 | 1,062,669
Broward County, Florida/Samaritan 2008 | 115 S Andrews Avenue A370 | Fort Lauderdale | 33301 | 284,303
Covenant House Florida, Inc./Rights of Passage | 733 Breakers Avenue | Fort Lauderdale | 33304 | 179,418
The Salvation Army, a Georgia Corporation/Red Shield/Plymouth Colony Levels I and II | 1445 West Broward Blvd. | Ft. Lauderdale | 33312 | 522,956
Volunteers of America of Florida, Inc./Broward I | 405 Central Ave Ste 100 | St Petersburg | 33701 | 412,384
Center for Abuse and Rape Emergencies, Inc./DV Bonus SSO-CE | P. O. Box 510234 | Punta Gorda | 33951 | 50,000
Gulf Coast Partnership Inc/CoC Planning Project FL602 FY 2018 | 408 Tamiami Trail Unit 121 | Punta Gorda | 33950 | 8,242
Gulf Coast Partnership Inc/HMIS Renewal FY2018 | 408 Tamiami Trail Unit 121 | Punta Gorda | 33950 | 70,061
Jewish Family and Children's Services of the Suncoast/CoC Charlotte FY2019-2020 | 2688 Fruitville Rd | Sarasota | 34237 | 130,507
Lee County Board of County Commissioners/2018 CoC Planning Project | 2440 Thompson Street | Fort Myers | 33901 | 75,000
Lee County Board of County Commissioners/CASL Rental Assistance | 2440 Thompson Street | Fort Myers | 33901 | 156,984
Lee County Board of County Commissioners/CASL Supportive Services | 2440 Thompson Street | Fort Myers | 33901 | 122,134
Lee County Board of County Commissioners/LCHDC DV Rapid Re-Housing | 2440 Thompson Street | Fort Myers | 33901 | 55,086
Lee County Board of County Commissioners/The Salvation Army Rapid Rehousing | 2440 Thompson Street | Fort Myers | 33901 | 1,426,377
A.H. of Monroe County, Inc. (AIDS Help)/Seebol Place 2018 | 1434 Kennedy Drive | Key West | 33040 | 15,644
Catholic Charities of the Archdiocese of Miami, Inc./St Bede Housing for Homeless Renewal 2018 | 2706 Flagler Ave | Key West | 33040 | 214,542
Catholic Charities of the Archdiocese of Miami, Inc./St Theresa Permanent Housing Renewal 2018 | 2706 Flagler Ave | Key West | 33040 | 87,273
Florida Keys Outreach Coalition, Inc./FKOC Rapid Rehousing | 3154 Northside Drive Suite 201 | Key West | 33040 | 28,770
Florida Keys Outreach Coalition, Inc./Peacock PSH for Chronic | 3154 Northside Drive Suite 201 | Key West | 33040 | 22,443
Monroe Association for Retarded Citizens, Inc./Don Moore Apartments 2018 | P.O. Box 428 | Key West | 33041 | 108,854
Monroe County Homeless Services Continuum of Care, Inc./FL-604 CoC Planning Application FY2018 | 1434 Kennedy Drive | Key West | 33040 | 14,386
Adopt-A-Family of the Palm Beaches, Inc./Bridges to Success | 1712 Second Avenue North | Lake Worth | 33460 | 243,273
Adopt-A-Family of the Palm Beaches, Inc./Connecting Youth to Opportunities | 1712 Second Avenue North | Lake Worth | 33460 | 272,857
Adopt-A-Family of the Palm Beaches, Inc./Project SAFE II | 1712 Second Avenue North | Lake Worth | 33460 | 235,222
Gulfstream Goodwill Industries, Inc. /Beacon Place | 1715 Tiffany Drive East | West Palm Beach | 33407 | 483,003
Gulfstream Goodwill Industries, Inc. /Beacon Place 2 | 1715 Tiffany Drive East | West Palm Beach | 33407 | 264,613
Gulfstream Goodwill Industries, Inc. /New Avenues | 1715 Tiffany Drive East | West Palm Beach | 33407 | 881,052
Gulfstream Goodwill Industries, Inc. /Project Succeed | 1715 Tiffany Drive East | West Palm Beach | 33407 | 1,176,314
Jerome Golden Center for Behavioral Health, Inc./Flagler Project | 1041 45th Street | West Palm Beach | 33407 | 458,973
Palm Beach County Board of County Commissioners/FL 605 CoC Planning Grant App FY2018 | 810 Datura Street. Suite 350 | West Palm Beach | 33401 | 164,403
The Lord's Place, Inc./Home First | 2808 N Australian Avenue | West Palm Beach | 33407 | 334,515
The Lord's Place, Inc./Operation Home Ready | 2808 N Australian Avenue | West Palm Beach | 33407 | 153,703
The Lord's Place, Inc./Operation Home Ready II | 2808 N Australian Avenue | West Palm Beach | 33407 | 148,331
The Lord's Place, Inc./Operation Home Ready III | 2808 N Australian Avenue | West Palm Beach | 33407 | 282,299
The Lord's Place, Inc./Project Family Care | 2808 N Australian Avenue | West Palm Beach | 33407 | 318,289
YWCA of Palm Beach County, Inc/YWCA DV SAFEhouse Rapid Re-Housing | 1016 North Dixie Highway | West Palm Beach | 33401 | 378,160
Collier County Hunger and Homeless Coalition, Inc./CoC Planning Project FY 2018 | 9015 Strada Stell Ct. | Naples | 34109 | 27,000
Collier County Hunger and Homeless Coalition, Inc./HMIS Renewal 2018 | 9015 Strada Stell Ct. | Naples | 34109 | 78,676
The Shelter for Abused Women & Children/2018 Rapid Re-Housing The Shelter for Abused Women & Children | P.O. Box 10102 | Naples | 34101 | 151,118
The Shelter for Abused Women & Children/The Shelter Transitional Housing Renewal 2018 | P.O. Box 10102 | Naples | 34101 | 107,795
Action Ministries, Inc./Atlanta Rapid Re-housing | 1700 Century Circle NE Suite 200 | Atlanta | 30345 | 80,976
CaringWorks, Inc./CaringWorks RISE Atlanta | 2785 Lawrenceville Highway Suite 205 | Decatur | 30033 | 717,830
CaringWorks, Inc./CaringWorks RISE II Atlanta | 2785 Lawrenceville Highway Suite 205 | Decatur | 30033 | 226,063
CaringWorks, Inc./Shamrock SHP | 2785 Lawrenceville Highway Suite 205 | Decatur | 30033 | 198,794
CHRIS 180/Changing Directions Through Collaboration | 1017 Fayetteville Road 4045643402 | Atlanta | 30316 | 355,644
Covenant House Georgia, Inc/Pathways to Independence | 1559 Johnson Road. NW | Atlanta | 30318 | 148,017
Georgia Housing and Finance Authority/Atlanta HMIS Renewal FY2018 | 60 Executive Park South, NE | Atlanta | 30329 | 289,884
Georgia Housing and Finance Authority/Caring Works ATL S+C_C | 60 Executive Park South, NE | Atlanta | 30329 | 205,654
Georgia Housing and Finance Authority/Families First S+CR | 60 Executive Park South, NE | Atlanta | 30329 | 213,582
Georgia Housing and Finance Authority/Families First S+CR2 | 60 Executive Park South, NE | Atlanta | 30329 | 252,000
Georgia Housing and Finance Authority/Georgia Rehabilitation Outreach S+CR | 60 Executive Park South, NE | Atlanta | 30329 | 236,134
Georgia Housing and Finance Authority/Phoenix House S+CR | 60 Executive Park South, NE | Atlanta | 30329 | 245,631
Georgia Housing and Finance Authority/Presley Woods S+CR | 60 Executive Park South, NE | Atlanta | 30329 | 177,726
Georgia Housing and Finance Authority/Quest 35 S+CR | 60 Executive Park South, NE | Atlanta | 30329 | 323,272
Georgia Housing and Finance Authority/URDC S+CR | 60 Executive Park South, NE | Atlanta | 30329 | 140,860
Georgia Housing and Finance Authority/Welcome House S+CR | 60 Executive Park South, NE | Atlanta | 30329 | 373,771
Partners for HOME/Atlanta CoC Coordinated Entry | 818 Pollard Blvd Third Floor | Atlanta | 30315 | 140,000
Partners for HOME/Atlanta CoC Integrated Care PSH | 818 Pollard Blvd Third Floor | Atlanta | 30315 | 330,171
Partners for HOME/Atlanta CoC PSH 2018 | 818 Pollard Blvd Third Floor | Atlanta | 30315 | 500,442
Partners for HOME/CoC 500 Planning FY2018 | 818 Pollard Blvd Third Floor | Atlanta | 30315 | 211,249
Partnership Against Domestic Violence/PADV PH Project—City of Atlanta | P.O. Box 170225 | Atlanta | 30317 | 176,918
Project Community Connections, Inc. /PCCI Rapid Re-Housing City of Atlanta | 302 Decatur Street SE | Atlanta | 30312 | 421,337
Project Interconnections, Inc. /A Way Home | 2198 Dresden Drive | Chamblee | 30341 | 178,821
Project Interconnections, Inc. /Bridges to Housing | 2198 Dresden Drive | Chamblee | 30341 | 206,896
Quest Community Development Organization f/k/a Quest 35, Inc./Quest Communities PH15 | 878 Rock St NW | Atlanta | 30314 | 238,210
Quest Community Development Organization f/k/a Quest 35, Inc./Quest Communities PH25 | 878 Rock St NW | Atlanta | 30314 | 349,912
Quest Community Development Organization f/k/a Quest 35, Inc./Quest Village II | 878 Rock St NW | Atlanta | 30314 | 287,202
Travelers Aid of Metropolitan Atlanta, Inc./Atlanta PSH 2018 | 34 Peachtree Street NW Suite 700 | Atlanta | 30303 | 306,181
Action Ministries, Inc./Consolidated Balance of State Rapid Re-Housing | 1700 Century Circle NE Suite 200 | Atlanta | 30345 | 661,402
Advocates for Bartow's Children, Inc./RRH Youth Project | 49 Monroe Crossing P.O. Box 446 | Cartersville | 30120 | 325,704
AIDS Athens/AIDS Athens PSHP | 240 North ave | Athens | 30601 | 69,888
Another Chance of Atlanta, Inc./ACA PSH for Clayton County | 777 Cleveland Avenue Suite 520 | Atlanta | 30315 | 131,132
Another Chance of Atlanta, Inc./ACA PSH for Gwinnett County | 777 Cleveland Avenue Suite 520 | Atlanta | 30315 | 178,771
Asian American Resource Foundation, Inc./AARC Rapid Re-Housing 2018 | 3635 Peachtree Industrial Blvd. Suite 450 | Duluth | 30096 | 169,034
CaringWorks, Inc./CaringWorks Housing Solutions BOS | 2785 Lawrenceville Highway Suite 205 | Decatur | 30033 | 240,540
Citizens Against Violence, Inc./Rapid Re-Housing DV-CoC | P.O. Box 2494 | Statesboro | 30459 | 272,206
City of Hinesville/Homeless Prevention Program RRH | 115 East M.L. King, Jr. Drive | Hinesville | 31313 | 110,528
Dalton-Whitfield Community Development Corporation/PH SPC Case Manager | 310 Selviedge St | Dalton | 30720 | 31,679
Douglas County Community Services Board/Douglas County SHP | 3830 South Cobb Drive Suite 300 | Smyrna | 30080 | 99,599
Gateway Behavioral Health Services/Brunswick Homeless Non-Custodial Disabled Men's Project | 500 Coastal Village Drive | Brunswick | 31520 | 386,985
Georgia Coalition Against Domestic Violence/GCADV Rapid Re-housing for Victims of Domestic Violence | 114 New Street Suite B | Decatur | 30030 | 521,238
Georgia Department of Community Affairs/GA-501 CoC Planning Project Application FY2018 | 60 Executive Park South, NE | Atlanta | 30329 | 592,364
Georgia Housing and Finance Authority/Action Ministries S+CR2 | 60 Executive Park South, NE | Atlanta | 30329 | 167,460
Georgia Housing and Finance Authority/Advantage BHS BOS S+CR_C | 60 Executive Park South, NE | Atlanta | 30329 | 315,874
Georgia Housing and Finance Authority/Advantage BHS S+CR4—BoS | 60 Executive Park South, NE | Atlanta | 30329 | 151,128
Georgia Housing and Finance Authority/Albany Area CSB S+CR | 60 Executive Park South, NE | Atlanta | 30329 | 148,880
Georgia Housing and Finance Authority/Albany CSB S+CR2 | 60 Executive Park South, NE | Atlanta | 30329 | 203,281
Georgia Housing and Finance Authority/AVITA Community Partners S+CR | 60 Executive Park South, NE | Atlanta | 30329 | 142,775
Georgia Housing and Finance Authority/AVITA S+CR_C | 60 Executive Park South, NE | Atlanta | 30329 | 258,334
Georgia Housing and Finance Authority/Balance of State HMIS Grant FY2018 | 60 Executive Park South, NE | Atlanta | 30329 | 100,003
Georgia Housing and Finance Authority/BoS CoC Coordinated Assessment FY 2018 | 60 Executive Park South, NE | Atlanta | 30329 | 189,176
Georgia Housing and Finance Authority/Carrollton Housing Authority S+CR | 60 Executive Park South, NE | Atlanta | 30329 | 392,323
Georgia Housing and Finance Authority/Comprehensive AIDS Resource Encounter S+CR | 60 Executive Park South, NE | Atlanta | 30329 | 77,741
Georgia Housing and Finance Authority/CSB of Middle Georgia S+CR | 60 Executive Park South, NE | Atlanta | 30329 | 38,251
Georgia Housing and Finance Authority/Dalton Whitfield CDC S+CR | 60 Executive Park South, NE | Atlanta | 30329 | 96,831
Georgia Housing and Finance Authority/Dalton Whitfield CDC S+CR2 | 60 Executive Park South, NE | Atlanta | 30329 | 94,319
Georgia Housing and Finance Authority/Dalton Whitfield CDC S+CR3 | 60 Executive Park South, NE | Atlanta | 30329 | 107,979
Georgia Housing and Finance Authority/Douglas CSB S+CR2 | 60 Executive Park South, NE | Atlanta | 30329 | 665,956
Georgia Housing and Finance Authority/Douglas CSB S+CR4 | 60 Executive Park South, NE | Atlanta | 30329 | 308,746
Georgia Housing and Finance Authority/Gateway BHS S+CR | 60 Executive Park South, NE | Atlanta | 30329 | 616,941
Georgia Housing and Finance Authority/Georgia Mountain Women's Center S+CR | 60 Executive Park South, NE | Atlanta | 30329 | 134,662
Georgia Housing and Finance Authority/GHFA Statewide HMIS Renewal FY2018 | 60 Executive Park South, NE | Atlanta | 30329 | 663,400
Georgia Housing and Finance Authority/Highland Rivers CSB S+CR | 60 Executive Park South, NE | Atlanta | 30329 | 123,803
Georgia Housing and Finance Authority/Highland Rivers CSB S+CR2 | 60 Executive Park South, NE | Atlanta | 30329 | 116,046
Georgia Housing and Finance Authority/Highland Rivers S+CR3 | 60 Executive Park South, NE | Atlanta | 30329 | 252,143
Georgia Housing and Finance Authority/Lookout Mountain CSB S+CR | 60 Executive Park South, NE | Atlanta | 30329 | 248,740
Georgia Housing and Finance Authority/McIntosh Trail CSB S+CR1 | 60 Executive Park South, NE | Atlanta | 30329 | 358,980
Georgia Housing and Finance Authority/McIntosh Trail CSB S+CR2 | 60 Executive Park South, NE | Atlanta | 30329 | 279,753
Georgia Housing and Finance Authority/McIntosh Trail CSB S+CR3 | 60 Executive Park South, NE | Atlanta | 30329 | 183,436
Georgia Housing and Finance Authority/Middle Flint BHS S+CR | 60 Executive Park South, NE | Atlanta | 30329 | 173,024
Georgia Housing and Finance Authority/MUST Ministries BOS S+CR | 60 Executive Park South, NE | Atlanta | 30329 | 243,808
Georgia Housing and Finance Authority/New Horizons CSB BoS S+CR | 60 Executive Park South, NE | Atlanta | 30329 | 75,004
Georgia Housing and Finance Authority/New Horizons CSB BoS S+CR2 | 60 Executive Park South, NE | Atlanta | 30329 | 229,345
Georgia Housing and Finance Authority/Oconee CSB S+CR | 60 Executive Park South, NE | Atlanta | 30329 | 88,842
Georgia Housing and Finance Authority/Oconee CSB S+CR2 | 60 Executive Park South, NE | Atlanta | 30329 | 192,354
Georgia Housing and Finance Authority/Pineland CSB S+CR | 60 Executive Park South, NE | Atlanta | 30329 | 172,049
Georgia Housing and Finance Authority/River Edge CSB S+CR_C | 60 Executive Park South, NE | Atlanta | 30329 | 984,515
Georgia Housing and Finance Authority/River Edge CSB S+CR_C2 | 60 Executive Park South, NE | Atlanta | 30329 | 781,247
Georgia Housing and Finance Authority/South GA CSB S+CR | 60 Executive Park South, NE | Atlanta | 30329 | 382,151
Georgia Housing and Finance Authority/South GA CSB S+CR2 | 60 Executive Park South, NE | Atlanta | 30329 | 157,702
Georgia Housing and Finance Authority/Travelers Aid of Metropolitan Atlanta S+CR1 | 60 Executive Park South, NE | Atlanta | 30329 | 202,272
Georgia Housing and Finance Authority/Travelers Aid of Metropolitan Atlanta S+CR2 | 60 Executive Park South, NE | Atlanta | 30329 | 196,668
Georgia Housing and Finance Authority/Unison BHS S+CR | 60 Executive Park South, NE | Atlanta | 30329 | 389,177
Georgia Housing and Finance Authority/URDC BoS S+CR | 60 Executive Park South, NE | Atlanta | 30329 | 630,109
Georgia Housing and Finance Authority/Viewpoint Health S+CR2 | 60 Executive Park South, NE | Atlanta | 30329 | 508,626
Georgia Housing and Finance Authority/Viewpoint S+CR_C | 60 Executive Park South, NE | Atlanta | 30329 | 528,280
Lowndes Associated Ministries to People, Inc./Renewal Project application 2018 | 714 Charlton Street | Valdosta | 31601 | 149,138
Macon-Bibb County Economic Opportunity Council, Inc./HUD Rapid Rehousing Program | 1680 Broadway Suite B | Macon | 31201 | 258,614
MUST Ministries, Inc./Cherokee County PSH-PH Case Management | 1407 Cobb Parkway N | Marietta | 30062 | 71,904
MUST Ministries, Inc./MUST Ministries BoS CoC RRH | 1407 Cobb Parkway N | Marietta | 30062 | 112,776
New Horizons Community Service Board/HUD Rural Rehousing | P.O. Box 5328 2100 Comer Avenue | Columbus | 31906 | 100,467
New Horizons Community Service Board/Red Hill Adaptive Group Residence FY18 | P.O. Box 5328 2100 Comer Avenue | Columbus | 31906 | 54,223
Partnership Against Domestic Violence/PADV Gwinnett Housing Project | P.O. Box 170225 | Atlanta | 30317 | 559,808
Project Community Connections, Inc./PCCI Rapid Re-Housing BoS | 302 Decatur Street SE | Atlanta | 30312 | 231,406
Project Community Connections, Inc./PCCI Rapid Re-Housing BoS2 | 302 Decatur Street SE | Atlanta | 30312 | 536,778
S.H.A.R.E. House, Inc./S.H.A.R.E. House Rapid Re-Housing | 8460 Courthouse Sq. E | Douglasville | 30134 | 155,189
Travelers Aid of Metropolitan Atlanta, Inc./Douglas RRH 2018 | 34 Peachtree Street NW Suite 700 | Atlanta | 30303 | 122,252
Travelers Aid of Metropolitan Atlanta, Inc./Gwinnett PSH 2018 | 34 Peachtree Street NW Suite 700 | Atlanta | 30303 | 179,343
Travelers Aid of Metropolitan Atlanta, Inc./Gwinnett RRH 2018 | 34 Peachtree Street NW Suite 700 | Atlanta | 30303 | 546,976
CaringWorks, Inc./MOVE SHP | 2785 Lawrenceville Highway Suite 205 | Decatur | 30033 | 398,384
Fulton County Board of Commissioners/GA 502 Planning Project | 137 Peachtree Street | Atlanta | 30303 | 74,853
Fulton County Board of Commissioners/GA-502 Coordinated Intake and Assessment System FY2018 | 137 Peachtree Street | Atlanta | 30303 | 433,204
Georgia Housing and Finance Authority/Fulton HMIS Renewal FY2018 | 60 Executive Park South, NE | Atlanta | 30329 | 76,484
Mary Hall Freedom House, Inc./Higher Ground—Phase III | 8995 Roswell Road | Sandy Springs | 30350 | 295,655
Mary Hall Freedom House, Inc./Mary's Heart | 8995 Roswell Road | Sandy Springs | 30350 | 221,785
Partnership Against Domestic Violence/PADV Supportive Housing—Fulton County | P.O. Box 170225 | Atlanta | 30317 | 142,740
Travelers Aid of Metropolitan Atlanta, Inc./Fulton PSH Bonus Project 2018 | 34 Peachtree Street NW Suite 700 | Atlanta | 30303 | 227,931
Zion Hill Community Development Corporation/Supportive Housing Program | 2741 Bayard Street | East Point | 30344 | 206,117
Zion Hill Community Development Corporation/Young Adult Supportive Housing Program | 2741 Bayard Street | East Point | 30344 | 420,214
Georgia Housing and Finance Authority/Advantage BHS S+CR | 60 Executive Park South, NE | Atlanta | 30329 | 169,466
Georgia Housing and Finance Authority/AIDS Athens S+CR | 60 Executive Park South, NE | Atlanta | 30329 | 215,931
Unified Government of Athens-Clarke County/ABHS Rapid Re-Housing Program | 375 Satula Avenue | Athens | 30601 | 33,948
Unified Government of Athens-Clarke County/ABHS Supportive Housing Program 23 Unit | 375 Satula Avenue | Athens | 30601 | 208,688
Unified Government of Athens-Clarke County/ABHS Supportive Housing Program 5 Unit | 375 Satula Avenue | Athens | 30601 | 64,064
Unified Government of Athens-Clarke County/Athens-Clarke County Planning Project FY18 | 375 Satula Avenue | Athens | 30601 | 21,288
Unified Government of Athens-Clarke County/Project Safe Rapid Rehousing Program | 375 Satula Avenue | Athens | 30601 | 48,596
Action Ministries, Inc./Augusta Rapid Re-housing | 1700 Century Circle NE Suite 200 | Atlanta | 30345 | 164,176
Augusta, Georgia/Augusta, Georgia | 925 Laney Walker Boulevard, 2nd Floor | Augusta | 30901 | 184,475
CSRA Economic Opportunity Authority, Inc/Centralized and Intake Assessment FY 2019 | 1261 Greene Street P.O. Box 10104 | Augusta | 30903 | 167,815
Georgia Housing and Finance Authority/Action Ministries S+CR | 60 Executive Park South, NE | Atlanta | 30329 | 98,760
Columbus Alliance for Battered Women, Inc. d/b/a Hope Harbour/Hope Harbour—DV Rapid Rehousing Project | P.O. Box 4182 | Columbus | 31914 | 112,707
Georgia Housing and Finance Authority/New Horizons CSB S+CR | 60 Executive Park South, NE | Atlanta | 30329 | 319,955
House of TIME, Inc./Homeless to a Home, Family Matters | 1200 Wynnton Road | Columbus | 31906 | 339,237
House of TIME, Inc./The House of TIME | 1200 Wynnton Road | Columbus | 31906 | 235,762
Open Door Community House, Inc./Welcome Home | 2405 2nd Avenue | Columbus | 31901 | 249,509
Stewart Community Home, Inc./MedLife 2018 | 1125 15th Street | Columbus | 31914 | 251,797
United Way of the Chattachoochee Valley/GA-505 CoC Planning Application FY2018 | 1100 5th Ave | Columbus | 31901 | 40,816
Cobb County Community Services Board/Cobb County (New) Renewal | 3830 S Cobb Drive Suite 300 | Smyrna | 30080 | 416,512
Georgia Housing and Finance Authority/Cobb GA HMIS Support | 60 Executive Park South, NE | Atlanta | 30329 | 42,800
Georgia Housing and Finance Authority/Cobb HMIS Expansion Project FY2018 | 60 Executive Park South, NE | Atlanta | 30329 | 12,293
Georgia Housing and Finance Authority/Cobb HMIS Project FY2018 | 60 Executive Park South, NE | Atlanta | 30329 | 27,861
Georgia Housing and Finance Authority/MUST Ministries S+CR | 60 Executive Park South, NE | Atlanta | 30329 | 86,431
liveSAFE Resources, Inc. (formerly YWCA of NW GA)/TH Renewal 2018 | 48 Henderson Street | Marietta | 30064 | 159,633
MUST Ministries, Inc./Cobb County Coordinated Entry and Assessment | 1407 Cobb Parkway N | Marietta | 30062 | 50,000
MUST Ministries, Inc./Cobb County Permanent Supportive Housing Program SHP-SSO | 1407 Cobb Parkway N | Marietta | 30062 | 35,700
MUST Ministries, Inc./Cobb County PSH Program for Veterans | 1407 Cobb Parkway N | Marietta | 30062 | 142,420
MUST Ministries, Inc./Cobb County PSH Program II | 1407 Cobb Parkway N | Marietta | 30062 | 213,372
MUST Ministries, Inc./Cobb County RRH for Singles and Adult Families | 1407 Cobb Parkway N | Marietta | 30062 | 135,564
The Center for Family Resources/GA-506 CoC Planning Application FY2018 | 995 Roswell Street, Suite 100 | Marietta GA | 30060 | 82,636
The Center for Family Resources/Multi-Agency Group RRH | 995 Roswell Street, Suite 100 | Marietta GA | 30060 | 430,654
The Center for Family Resources/RRH Consolidated | 995 Roswell Street, Suite 100 | Marietta GA | 30060 | 166,251
The Center for Family Resources/RRH 3 | 995 Roswell Street, Suite 100 | Marietta GA | 30060 | 200,868
The Extension, Inc./Residential Recovery Program | 1507 Church Street Ext. | Marietta | 30060 | 98,474
Chatham-Savannah Authority for the Homeless/GA-507 CoC Planning Application FY2018 | 761 Wheaton Street | Savannah | 31401 | 92,901
Chatham-Savannah Authority for the Homeless/HMIS Lead 2018 | 761 Wheaton Street | Savannah | 31401 | 37,860
Chatham-Savannah Authority for the Homeless/Unified Case Management FY2018 | 761 Wheaton Street | Savannah | 31401 | 410,592
City of Savannah, Georgia/City of Savannah 54 Unit CoC RA Project-FY2018 | P.O. Box 1027 | Savannah | 31402 | 794,083
Economic Opportunity Authority for Savannah-Chatham County/Tom D Austin House PH/PSH FY 2018 | 618 W Anderson St | Savannah | 31401 | 245,535
Georgia Housing and Finance Authority/Union Mission (Savannah) S+CR—Chatham | 60 Executive Park South, NE | Atlanta | 30329 | 407,705
Housing Authority of Savannah/Housing Authority of Savannah-PSH | 1407 WHEATON STREET BLDG B P.O. BOX 1179 | Savannah | 31402 | 1,279,738
Union Mission, Inc./Eagles Landing PSH FY2018v2 | 120 Fahm Street | Savannah | 31401 | 181,972
Action Ministries, Inc./Consolidated Dekalb Rapid Re-Housing | 1700 Century Circle NE Suite 200 | Atlanta | 30345 | 647,861
CHRIS 180/Changing Directions Rapid Rehousing Program | 1017 Fayetteville Road 4045643402 | Atlanta | 30316 | 241,133
Decatur Cooperative Ministry, Inc./DCM Interim Housing Project | 115 Church Street | Decatur | 30030 | 288,156
Decatur Cooperative Ministry, Inc./Family Success Project | 115 Church Street | Decatur | 30030 | 83,330
DeKalb Community Service Board/Permanent Housing for Persons with Disabilities | 455 Winn Way | Decatur | 30030 | 213,428
DeKalb County Government/Coordinated Entry 2018 | 750 Commerce Drive Suite 401 | Decatur | 30030 | 99,022
DeKalb County Government/Coordinated Entry 2018- Expansion | 750 Commerce Drive Suite 401 | Decatur | 30030 | 74,644
DeKalb County Government/GA-508 Planning Project 2018 | 750 Commerce Drive Suite 401 | Decatur | 30030 | 146,002
Georgia Housing and Finance Authority/Caring Works DEK S+CR_C | 60 Executive Park South, NE | Atlanta | 30329 | 569,157
Georgia Housing and Finance Authority/Dekalb CSB DEK S+CR | 60 Executive Park South, NE | Atlanta | 30329 | 380,802
Georgia Housing and Finance Authority/DeKalb HMIS Renewal FY2018 | 60 Executive Park South, NE | Atlanta | 30329 | 151,860
Georgia Housing and Finance Authority/Jerusalem House DEK S+CR | 60 Executive Park South, NE | Atlanta | 30329 | 247,588
Georgia Housing and Finance Authority/Rosalyn Apartments S+CR | 60 Executive Park South, NE | Atlanta | 30329 | 287,078
Jerusalem House, Inc./The Family Program | 17 Executive Park Drive NE Suite 290 | Atlanta | 30329 | 206,597
Nicholas House Inc/New Horizons | P.O. Box 15577 | Atlanta | 30333 | 382,617
St Jude's Recovery Center, Inc./Project Open Arms | 139 Renaissance Parkway, NE | Atlanta | 30308 | 499,645
St Jude's Recovery Center, Inc./Welcome Home | 139 Renaissance Parkway, NE | Atlanta | 30308 | 170,446
Travelers Aid of Metropolitan Atlanta, Inc./DeKalb PSH 2018 | 34 Peachtree Street NW Suite 700 | Atlanta | 30303 | 399,604
Travelers Aid of Metropolitan Atlanta, Inc./DeKalb RRH 2018 | 34 Peachtree Street NW Suite 700 | Atlanta | 30303 | 55,907
Government of Guam/Guam Housing & Urban Renewal Authority/Coordinated Entry System | 117 Bien Venida Avenue | Sinajana | 96910 | 53,021
Government of Guam/Guam Housing & Urban Renewal Authority/DV Bonus | 117 Bien Venida Avenue | Sinajana | 96910 | 148,285
Government of Guam/Guam Housing & Urban Renewal Authority/Empowered Together | 117 Bien Venida Avenue | Sinajana | 96910 | 134,888
Government of Guam/Guam Housing & Urban Renewal Authority/GU-500 CoC Planning Application FY2018 | 117 Bien Venida Avenue | Sinajana | 96910 | 41,076
Government of Guam/Guam Housing & Urban Renewal Authority/Guma Mami Bonus | 117 Bien Venida Avenue | Sinajana | 96910 | 89,046
Government of Guam/Guam Housing & Urban Renewal Authority/HMIS | 117 Bien Venida Avenue | Sinajana | 96910 | 117,146
Government of Guam/Guam Housing & Urban Renewal Authority/Housing First Rental Assistance Program | 117 Bien Venida Avenue | Sinajana | 96910 | 331,707
Government of Guam/Guam Housing & Urban Renewal Authority/Housing First Rental Assistance Program Expansion | 117 Bien Venida Avenue | Sinajana | 96910 | 68,079
Government of Guam/Guam Housing & Urban Renewal Authority/Y Jahame Permanent Housing Program Expansion | 117 Bien Venida Avenue | Sinajana | 96910 | 153,738
Family LIfe Center, Inc./FLC Ohana One FY2018 | 95 S Kane St | Kahului | 96732 | 536,245
Hawaii Department of Human Services/Consolidated HMIS $141,205 FY2018 | 1010 Richards St, Ste. 312 | Honolulu | 96813 | 141,205
Hawaii Department of Human Services/HI-500 BTG Planning Project FY2018 | 1010 Richards St, Ste. 312 | Honolulu | 96813 | 70,330
Hawaii Island Home for Recovery, Inc./Consolidated HIHR PH 1 FY2018 | 440 Kapiolani St | Hilo | 96720 | 303,145
Hawaii Rise Foundation/Ulu Wini DV Assistance FY2018 | 11 Silva Street | Hilo | 96720 | 143,721
Hawaii Rise Foundation/Ulu Wini PSH FY2018 | 11 Silva Street | Hilo | 96720 | 145,557
Hope Services Hawaii, Inc./HOPE Continuum of Care II FY2018 | 357 Waianuenue Avenue | Hilo | 96720 | 166,853
Hope Services Hawaii, Inc./HOPE Rapid Re-housing Project FY2018 | 357 Waianuenue Avenue | Hilo | 96720 | 72,102
Hope Services Hawaii, Inc./Kukui FY2018 | 357 Waianuenue Avenue | Hilo | 96720 | 518,329
Steadfast Housing Development Corporation/Eha 2018 | 888 Iwilei Road, Suite 250 | Honolulu | 96817 | 404,623
Steadfast Housing Development Corporation/Kaahele Group Home 2018 | 888 Iwilei Road, Suite 250 | Honolulu | 96817 | 26,164
Steadfast Housing Development Corporation/Kaulana Group Home 2018 | 888 Iwilei Road, Suite 250 | Honolulu | 96817 | 41,335
Steadfast Housing Development Corporation/Kulalani Group Home 2018 | 888 Iwilei Road, Suite 250 | Honolulu | 96817 | 43,587
Aloha United Way/AUW 2-1-1 CES FY2018 | 200 N Vineyard Blvd., Suite 700 | Honolulu | 96817 | 300,000
Aloha United Way/AUW HMIS FY2018 | 200 N Vineyard Blvd., Suite 700 | Honolulu | 96817 | 124,462
Aloha United Way/Consolidated PH 2018 | 200 N Vineyard Blvd., Suite 700 | Honolulu | 96817 | 5,281,556
Aloha United Way/HI-501 COC Planning Application FY2018 | 200 N Vineyard Blvd., Suite 700 | Honolulu | 96817 | 272,416
Alternative Structures International/Family PSH Leeward Oahu Year 3 | 86-660 Lualualei Homestead Road | Waianae | 96792 | 326,281
Alternative Structures International/Youth Rapid Rehousing Collaborative Y2 | 86-660 Lualualei Homestead Road | Waianae | 96792 | 264,691
Child and Family Service/Continuum of Care Domestic Abuse Shelter & Transitional Housing Oahu FY2018 | 91-1841 Fort Weaver Road | Ewa Beach | 96706 | 79,580
IHS, The Institute for Human Services, Inc./IHS YRRH 2018 | 546 Kaaahi Street | Honolulu | 96817 | 320,825
Mental Health Kokua/Hearth Safe Haven Renewal | 1221 Kapiolani Blvd., Suite 345 | Honolulu | 96814 | 829,228
Mental Health Kokua/Permanent Supportive Housing | 1221 Kapiolani Blvd., Suite 345 | Honolulu | 96814 | 265,720
Steadfast Housing Development Corporation/2018 PH Ohana | 888 Iwilei Road, Suite 250 | Honolulu | 96817 | 554,049
Steadfast Housing Development Corporation/Ekolu Group Homes 2018 | 888 Iwilei Road, Suite 250 | Honolulu | 96817 | 117,967
Steadfast Housing Development Corporation/Headway House 2018 | 888 Iwilei Road, Suite 250 | Honolulu | 96817 | 209,745
United States Veterans Initiative, Inc/Leeward Permanent Supportive Housing | Bldg 37, Shangrila Road | Kapolei | 96707 | 319,221
United States Veterans Initiative, Inc/Permanent Supportive Housing for Chronically Homeless Veterans and Families | Bldg 37, Shangrila Road | Kapolei | 96707 | 217,657
Center For Siouxland/Bridges West Transitional Housing | 715 Douglas St | Sioux City | 51101 | 130,609
City of Sioux City/SCEH Planning Project FY 2018 | 405 6th Street | Sioux CIty | 51102 | 21,675
Council on Sexual Assault & Domestic Violence/Rapid Rehousing | 1723 Grandview Blvd | Sioux City | 51105 | 156,884
Crittenton Center/Project Help PSH | 814 Pierce St, Suite 100 P.O. Box 295 | Sioux City | 51102 | 53,553
Heartland Counseling Services, Inc./Heartland PSH | 917 W 21st St, P.O. Box 355 | South Sioux City | 68776 | 170,658
Institute for Community Alliances/Iowa's Continuum Outcome and Universal Needs Toolkit (Siouxland HMIS) 2018 | 1111 9th Street Suite 380 | Des Moines | 50314 | 43,156
Institute for Community Alliances/Siouxland Coordinated Entry 2018 | 1111 9th Street Suite 380 | Des Moines | 50314 | 186,608
Area Substance Abuse Council, Inc/Hightower Place Women and Children Transitional Recovery Program | 250 20th Avenue North Suite 250 | Clinton | 52732 | 106,208
City of Dubuque/Phoenix Housing Special Needs Assistance | 350 West 6th Street Suite 312 | Dubuque | 52001 | 84,739
Community Housing Initiatives, Inc./Permanent Housing | 627 Sycamore Street, Suite A | Waterloo | 50703 | 114,714
Crisis Intervention & Advocacy Center/STAARS | 911 Court Street | Adel | 50003 | 161,945
Crisis Intervention Services/Pathway 2 Independence | 500 High Ave West | Oskaloosa | 52577 | 36,855
Family Alliance for Veterans of America, Inc./Passport to Independence | 100 N Clark Street | Forest City | 50436 | 232,317
Hawkeye Area Community Action Program, Inc./Eastern Iowa Regional Rapid Rehousing | 1515 Hawkeye Drive P.O. Box 490 | Hiawatha | 52233 | 100,629
Hawkeye Area Community Action Program, Inc./Eastern Iowa Regional Rapid Rehousing II | 1515 Hawkeye Drive P.O. Box 490 | Hiawatha | 52233 | 51,766
Hawkeye Area Community Action Program, Inc./HACAP Housing First | 1515 Hawkeye Drive P.O. Box 490 | Hiawatha | 52233 | 384,401
Hawkeye Area Community Action Program, Inc./HUD V Rapid Rehousing | 1515 Hawkeye Drive P.O. Box 490 | Hiawatha | 52233 | 180,222
Hillcrest Family Services/Hillcrest Supportive Housing Program 2018 renewal | 2005 Asbury Road | Dubuque | 52001 | 47,059
Home Forward Iowa/Year III Technical Assistance | 1000 Kensington Ct. | Indianola | 50125 | 91,380
Humility of Mary Shelter, Inc./Consolidation Application for HMSI PSH Projects | 1016 W 5th | Davenport | 52802 | 202,630
Humility of Mary Shelter, Inc./Rapid Rehousing | 1016 W 5th | Davenport | 52802 | 231,089
Institute for Community Alliances/Iowa BOS Coordinated Entry Technical Support | 1111 9th Street Suite 380 | Des Moines | 50314 | 100,000
Institute for Community Alliances/Iowa's Continuum Outcome and Universal Needs Toolkit (BOS HMIS) 2018 | 1111 9th Street Suite 380 | Des Moines | 50314 | 346,578
Iowa Finance Authority/IA-501 CoC Planning Application FY2018 | 2015 Grand Avenue | Des Moines | 50312 | 240,301
Muscatine Center for Social Action (MCSA)/MCSA Rapid Rehousing Initiative | 312 Iowa Avenue | Muscatine | 52761 | 185,759
Shelter House Community Shelter and Transition Services/Shelter House FUSE-Housing First | 429 Southgate Avenue, P.O. Box 3146 | Iowa City | 52244 | 235,142
Shelter House Community Shelter and Transition Services/Shelter House Rapid Rehousing Services | 429 Southgate Avenue, P.O. Box 3146 | Iowa City | 52244 | 560,862
The Cedar Valley Friends of the Family, INC./Northeast Iowa Permanent Housing Program | P.O. Box 784 123 21st ST NW | Waverly | 50677 | 207,790
The Cedar Valley Friends of the Family, INC./Rapid Housing Initiative of North Iowa | P.O. Box 784 123 21st ST NW | Waverly | 50677 | 184,159
The Cedar Valley Friends of the Family, INC./Turning Point Rural Housing Project | P.O. Box 784 123 21st ST NW | Waverly | 50677 | 294,730
Waypoint Services for women, children and families/Iowa Balance of State CE 24 Call Center | 318 5th Street SE | Cedar Rapids | 52401 | 116,368
Willis Dady Emergency Shelter, Inc./Willis Dady PSH—New Bonus | 1247 4th Ave SE | Cedar Rapids | 52403 | 150,450
Willis Dady Emergency Shelter, Inc./Willis Dady RRH—New Bonus | 1247 4th Ave SE | Cedar Rapids | 52403 | 150,792
Youth and Shelter Services, Inc/Lighthouse Transitional Living Program | 420 Kellogg Ave P.O. Box 1628 | Ames | 50010 | 194,737
Youth and Shelter Services, Inc/YSS Youth Rapid Rehousing Program | 420 Kellogg Ave P.O. Box 1628 | Ames | 50010 | 133,549
YWCA Clinton/YWCA Rapid Rehousing | 317 7th Avenue South | Clinton | 52732 | 79,035
City of Des Moines/AnawimConsolidated2018 | 602 Robert D. Ray Drive | Des Moines | 50309 | 1,251,114
City of Des Moines/AnawimHOPConsolidated2018 | 602 Robert D. Ray Drive | Des Moines | 50309 | 1,011,666
City of Des Moines/Children & Families of Iowa DV Shelter 2018 | 602 Robert D. Ray Drive | Des Moines | 50309 | 101,520
City of Des Moines/IA-502 CoC Planning Project 2018 | 602 Robert D. Ray Drive | Des Moines | 50309 | 99,468
City of Des Moines/IHYC Transistional & RRH 2018 | 602 Robert D. Ray Drive | Des Moines | 50309 | 297,501
City of Des Moines/IHYC Youth Rapid Rehousing 2018 | 602 Robert D. Ray Drive | Des Moines | 50309 | 159,882
City of Des Moines/Iowa Institute HMIS 2018 | 602 Robert D. Ray Drive | Des Moines | 50309 | 108,419
City of Des Moines/Primary Health Care CI 2018 | 602 Robert D. Ray Drive | Des Moines | 50309 | 147,882
City of Des Moines/Primary Health Care Rapid Rehousing (1) 2018 | 602 Robert D. Ray Drive | Des Moines | 50309 | 203,124
City of Des Moines/Primary Health Care RRH(S&F) 2018 | 602 Robert D. Ray Drive | Des Moines | 50309 | 76,413
City of Des Moines/Primary Rapid Rehousing(2)2018 | 602 Robert D. Ray Drive | Des Moines | 50309 | 80,991
Ada County Housing Authority/Consolidated Coordinated Housing Options and Individualized Services (CHOIS) and SPC Program | 1276 W River St., Suite #300 | Boise | 83702 | 824,109
Boise City/ID-500 CoC Planning Application FY2018 | 150 N Capitol Blvd | Boise | 83702 | 26,697
Charitable Assistance To Community's Homeless, Inc./CATCH of Ada County Domestic Violence Survivors Expansion | 503 S Americana Blvd | Boise | 83702 | 70,657
Charitable Assistance To Community's Homeless, Inc./CATCH of Ada County Rapid Re-housing | 503 S Americana Blvd | Boise | 83702 | 95,214
Charitable Assistance To Community's Homeless, Inc./CATCH of Ada County Rapid Re-housing Expansion | 503 S Americana Blvd | Boise | 83702 | 56,645
Idaho Housing and Finance Association/2018 Balance of State Planning Grant | P.O. Box 7899 565 W Myrtle St | Boise | 83707 | 82,179
Idaho Housing and Finance Association/2018 ID-501 UFA Costs | P.O. Box 7899 565 W Myrtle St | Boise | 83707 | 54,786
Idaho Housing and Finance Association/Angel Arms for Families Permanent Housing | P.O. Box 7899 565 W Myrtle St | Boise | 83707 | 127,434
Idaho Housing and Finance Association/Angel Arms Permanent Housing | P.O. Box 7899 565 W Myrtle St | Boise | 83707 | 108,971
Idaho Housing and Finance Association/Balance of State Coordinated Entry | P.O. Box 7899 565 W Myrtle St | Boise | 83707 | 320,612
Idaho Housing and Finance Association/Building Bridges Permanent Housing | P.O. Box 7899 565 W Myrtle St | Boise | 83707 | 91,613
Idaho Housing and Finance Association/CLUB Canyon House Expansion | P.O. Box 7899 565 W Myrtle St | Boise | 83707 | 39,734
Idaho Housing and Finance Association/CLUB Canyon House Permanent Housing | P.O. Box 7899 565 W Myrtle St | Boise | 83707 | 26,612
Idaho Housing and Finance Association/Creating Change Rapid Rehousing | P.O. Box 7899 565 W Myrtle St | Boise | 83707 | 281,527
Idaho Housing and Finance Association/Eagle Pointe Permanent Housing | P.O. Box 7899 565 W Myrtle St | Boise | 83707 | 172,186
Idaho Housing and Finance Association/First Step Permanent Housing | P.O. Box 7899 565 W Myrtle St | Boise | 83707 | 142,973
Idaho Housing and Finance Association/Hand of Hope Rapid Rehousing | P.O. Box 7899 565 W Myrtle St | Boise | 83707 | 69,072
Idaho Housing and Finance Association/Healing Hearts Permanent Housing | P.O. Box 7899 565 W Myrtle St | Boise | 83707 | 117,250
Idaho Housing and Finance Association/Idaho Balance of State HMIS | P.O. Box 7899 565 W Myrtle St | Boise | 83707 | 159,086
Idaho Housing and Finance Association/Idaho Falls Permanent Housing | P.O. Box 7899 565 W Myrtle St | Boise | 83707 | 91,154
Idaho Housing and Finance Association/Magic Valley Rapid Rehousing | P.O. Box 7899 565 W Myrtle St | Boise | 83707 | 136,582
Idaho Housing and Finance Association/Magic Valley Rapid Rehousing Expansion | P.O. Box 7899 565 W Myrtle St | Boise | 83707 | 169,315
Idaho Housing and Finance Association/Nearly Home Rapid Rehousing | P.O. Box 7899 565 W Myrtle St | Boise | 83707 | 118,713
Idaho Housing and Finance Association/Pocatello Rapid Rehousing | P.O. Box 7899 565 W Myrtle St | Boise | 83707 | 111,722
Idaho Housing and Finance Association/Project Warmth Permanent Housing | P.O. Box 7899 565 W Myrtle St | Boise | 83707 | 115,139
Idaho Housing and Finance Association/SEICAA Manor Permanent Housing | P.O. Box 7899 565 W Myrtle St | Boise | 83707 | 74,433
Idaho Housing and Finance Association/Square One Rapid Rehousing | P.O. Box 7899 565 W Myrtle St | Boise | 83707 | 34,547
Idaho Housing and Finance Association/Statewide Shelter + Care | P.O. Box 7899 565 W Myrtle St | Boise | 83707 | 386,490
Idaho Housing and Finance Association/Woodruff House Permanent Housing | P.O. Box 7899 565 W Myrtle St | Boise | 83707 | 49,920
Idaho Housing and Finance Association/Your Front Door Rapid Rehousing | P.O. Box 7899 565 W Myrtle St | Boise | 83707 | 171,298
Home of the Sparrow, Inc./Homelessness to Housing-TH/RRH | 4209 W Shamrock Lane Unit B | McHenry | 60050 | 156,457
Home of the Sparrow, Inc./HOS DV-RRH | 4209 W Shamrock Lane Unit B | McHenry | 60050 | 48,260
Home of the Sparrow, Inc./HOS DV-RRH Funds Transition 2018 for 2020 | 4209 W Shamrock Lane Unit B | McHenry | 60050 | 46,524
Home of the Sparrow, Inc./HOS RRH Renewal 2018 for 2020 | 4209 W Shamrock Lane Unit B | McHenry | 60050 | 60,776
McHenry County/FY 2018 McHenry County CoC Planning Project | 2200 Seminary Avenue | Woodstock | 60098 | 27,836
McHenry County/McHenry County HMIS | 2200 Seminary Avenue | Woodstock | 60098 | 45,671
Pioneer Center for Human Services/Jackson Lawndale GH | 4031 Dayton Street | McHenry | 60050 | 182,120
Pioneer Center for Human Services/PC Coordinated Entry | 4031 Dayton Street | McHenry | 60050 | 62,000
Thresholds Inc/McHenry AMI House | 4101 N Ravenswood | Chicago | 60613 | 78,845
Thresholds Inc/McHenry Castle Road | 4101 N Ravenswood | Chicago | 60613 | 81,159
Thresholds Inc/McHenry Rebecca Susan Apartments | 4101 N Ravenswood | Chicago | 60613 | 24,384
Transitional Living Services/Scattered Site 2018 | 5330 W Elm Street | McHenry | 60050 | 57,495
Transitional Living Services/Transition To Home | 5330 W Elm Street | McHenry | 60050 | 76,568
City of Rockford/CoC Planning Project Application FY2018 | 612 North Church St | Rockford | 61103 | 61,429
City of Rockford/FY 2018 Carpenter's Place PH1 Project | 612 North Church St | Rockford | 61103 | 109,455
City of Rockford/FY 2018 Carpenter's Place PH2 Project | 612 North Church St | Rockford | 61103 | 32,109
City of Rockford/FY 2018 Shelter Care Ministries Chronic Reallocated Project | 612 North Church St | Rockford | 61103 | 33,954
City of Rockford/FY 2018 Shelter Care Ministries Disability PH Project | 612 North Church St | Rockford | 61103 | 51,000
City of Rockford/FY 2018 Shelter Care Ministries Rapid Rehousing Two Project | 612 North Church St | Rockford | 61103 | 57,086
City of Rockford/FY 2018 Shelter Care Ministries Veteran's Project | 612 North Church St | Rockford | 61103 | 60,824
City of Rockford/FY 2018 Shelter Care Mnistries Rapid Rehousing One Project | 612 North Church St | Rockford | 61103 | 41,968
City of Rockford/FY 2018 Shelter Plus Care 1998 | 612 North Church St | Rockford | 61103 | 715,808
City of Rockford/FY 2018 Shelter Plus Care 2003 | 612 North Church St | Rockford | 61103 | 134,203
City of Rockford/FY 2018 Youth Services Network RRH Project | 612 North Church St | Rockford | 61103 | 90,589
City of Rockford/FY 2018 YSN MELD TH Project | 612 North Church St | Rockford | 61103 | 52,812
Institute for Community Alliances/Rockford Winnebago Boone HMIS | 1111 9th Street Suite 380 | Des Moines | 50314 | 83,670
Alexian Brothers Bonaventure House/The Harbor-PSH Expansion | 825 West Wellington Avenue | Chicago | 60657 | 185,676
Catholic Charities of the Archdiocese of Chicago/CTI-RP Consolidation | 721 N LaSalle St 5th Floor | Chicago | 60654 | 409,435
Catholic Charities of the Archdiocese of Chicago/Rapid Re-Housing LC Consolidation | 721 N LaSalle St 5th Floor | Chicago | 60654 | 225,045
Lake County/HMIS | 500 W Winchester Road Unit 101 | Libertyville | 60048 | 97,561
Lake County/IL-502 CoC Planning Application FY2018 | 500 W Winchester Road Unit 101 | Libertyville | 60048 | 66,654
Lake County/Independence Center Permanent Housing | 500 W Winchester Road Unit 101 | Libertyville | 60048 | 58,036
Lake County/Lake County Haven | 500 W Winchester Road Unit 101 | Libertyville | 60048 | 25,045
Lake County/Shelter Plus Care Consolidated | 500 W Winchester Road Unit 101 | Libertyville | 60048 | 379,471
Lake County Crisis Center for the Prevention and Treatment of Domestic Violence/Rapid Rehousing for Domestic Violence Survivors | 2710 17th Street Suite 100 | Zion | 60099 | 218,328
PADS Lake County, Inc./PADS Coordinated Entry System 2018 | 1800 Grand Avenue | Waukegan | 60085 | 39,000
PADS Lake County, Inc./PADS Coordinated Entry System Expansion | 1800 Grand Avenue | Waukegan | 60085 | 49,966
PADS Lake County, Inc./PADS Safe Haven 2018 | 1800 Grand Avenue | Waukegan | 60085 | 266,855
Thresholds Inc/Thresholds, Inc.—Lake County Leasing Project | 4101 N Ravenswood | Chicago | 60613 | 300,221
Champaign County Regional Planning Commission/Consolidated Centralized Intake—2018 | 1776 East Washington Street | Urbana | 61802 | 56,690
Champaign County Regional Planning Commission/HMIS—2018 | 1776 East Washington Street | Urbana | 61802 | 32,157
Champaign County Regional Planning Commission/IL503 Planning—2018 | 1776 East Washington Street | Urbana | 61802 | 20,777
Champaign County Regional Planning Commission/PSH-PD—2018 | 1776 East Washington Street | Urbana | 61802 | 48,869
Champaign County Regional Planning Commission/Shelter Plus Care I—2018 | 1776 East Washington Street | Urbana | 61802 | 318,491
Champaign County Regional Planning Commission/Shelter Plus Care III—2018 | 1776 East Washington Street | Urbana | 61802 | 42,415
Courage Connection/DV Rapid Re-Housing | 508 East Church Street | Champaign | 61820 | 51,128
Rosecrance, Inc./PHACT Federal Year 2018 | 1021 N Mulford Rd | Rockford | 61107 | 153,564
Centerstone of Illinois/Theodoro Place Project Application FY2018 | 2615 Edwards Street | Alton | 62002 | 285,637
Chestnut Health Systems, Inc./Chestnut Family Connections | 50 Northgate Industrial Drive | Granite City | 62040 | 118,750
Chestnut Health Systems, Inc./Families in Safe Recovery | 50 Northgate Industrial Drive | Granite City | 62040 | 279,625
Chestnut Health Systems, Inc./Mainstay Center | 50 Northgate Industrial Drive | Granite City | 62040 | 605,707
Madison, County of/Chestnut Madison Recovery 2018 | 157 N Main St., Ste 382 | Edwardsville | 62025 | 219,972
Madison, County of/MadCo Planning 2018 | 130 Hillsboro Ave | Edwardsville | 62025 | 53,609
Madison, County of/Madison County Housing First | 157 N Main St., Ste 382 | Edwardsville | 62025 | 277,307
Catholic Charities, Diocese of Joliet/Daybreak Center | 16555 Weber Road | Crest Hill | 60403 | 437,850
Catholic Charities, Diocese of Joliet/Kendall Grundy Homeless Consolidation | 16555 Weber Road | Crest Hill | 60403 | 176,032
Cornerstone Services, Inc./Chronic Consolildated 2018 | 777 Joyce Road | Joliet | 60436 | 312,465
Cornerstone Services, Inc./Combo 2018 | 777 Joyce Road | Joliet | 60436 | 1,838,908
Cornerstone Services, Inc./PSH Consolidation 2018 | 777 Joyce Road | Joliet | 60436 | 234,872
Grundy Area PADS Inc./Phoenix Rising | 1802 N Division St., Suite 510 | Morris | 60450 | 229,499
Guardian Angel Community Services/New RRH—Suzy's Caring Place | 168 N Ottawa St | Joliet | 60432 | 220,756
Guardian Angel Community Services/Renewal2 FY18—Suzys Caring Place | 168 N Ottawa St | Joliet | 60432 | 126,929
Respond Now/Respond Now Rapid Rehousing | 1439 Emerald | Chicago Heights | 60411 | 97,540
Trinity Services, Inc./Trinity Rapid Re-Housing | 301 Veterans Parkway | New Lenox | 60451 | 181,676
Trinity Services, Inc./Trinity Services Permanent Supportive Housing | 301 Veterans Parkway | New Lenox | 60451 | 173,200
Will County Center for Community Concerns/FY2018 CoC Planning Project | 2455 Glenwood Avenue | Joliet | 60435 | 118,984
Center for Prevention of Abuse/Next Step Housing Program 2018 | 720 W Joan Court | Peoria | 61614 | 176,268
Dream Center Peoria/Village Permanent Supportive Housing Program | 714 Hamilton Blvd | Peoria | 61603 | 195,851
Goodwill Industries of Central Illinois/Goodwill Homes for Veterans 2018 | 2319 E War Memorial Drive | Peoria | 61614 | 171,944
Heart of Illinois United Way/CoC Coordinated Entry FY2018 | 509 W High Steet | Peoria | 61606 | 168,031
Heart of Illinois United Way/CoC Planning Project Application FY2018 | 509 W High Steet | Peoria | 61606 | 55,440
Heart of Illinois United Way/HOI HMIS FY2018 | 509 W High Steet | Peoria | 61606 | 74,024
Peoria Opportunities Foundation/New Hope Apartments | 512 E Kansas | Peoria | 61603 | 252,991
South Side Office of Concern/Glendale Commons (Consolidated) | 202 NE Madison Avenue | Peoria | 61602 | 157,976
South Side Office of Concern/Heart of Illinois Rapid Re-Housing Program | 202 NE Madison Avenue | Peoria | 61602 | 204,969
South Side Office of Concern/HOI Scattered Site Supportive Housing | 202 NE Madison Avenue | Peoria | 61602 | 108,687
South Side Office of Concern/New Hope IV | 202 NE Madison Avenue | Peoria | 61602 | 21,735
South Side Office of Concern/New Hope/Phoenix | 202 NE Madison Avenue | Peoria | 61602 | 132,135
South Side Office of Concern/North Valley Supportive Housing | 202 NE Madison Avenue | Peoria | 61602 | 82,235
Bethany Place/Bethany Place Permanent Housing | 821 West A St | Belleville | 62220 | 105,265
Bethany Place/New Horizon | 821 West A St | Belleville | 62220 | 208,384
Call for Help, Inc./Jobe Center | 9400 Lebanon Road | East St. Louis | 62203 | 537,427
Call for Help, Inc./Step Up to Independence II | 9400 Lebanon Road | East St. Louis | 62203 | 170,195
CDBG Operations Corporation/Beacon Place | 510 North 25th St | East St. Louis | 62205 | 111,476
CDBG Operations Corporation/Family Living Center | 510 North 25th St | East St. Louis | 62205 | 351,477
CDBG Operations Corporation/New Beginnings | 510 North 25th St | East St. Louis | 62205 | 100,882
Chestnut Health Systems, Inc./Chestnut Connections—St. Clair | 50 Northgate Industrial Drive | Granite City | 62040 | 105,880
Chestnut Health Systems, Inc./Fairview Heights | 50 Northgate Industrial Drive | Granite City | 62040 | 292,894
East St. Louis Housing Authority/Lighthouse Rental Project | 700 N 20th St | East St. Louis | 62205 | 266,768
St. Clair County/Home at Last | 19 Public Square Suite 200 | Belleville | 62220 | 44,092
St. Clair County/Housing Resource Center | 19 Public Square Suite 200 | Belleville | 62220 | 172,667
St. Clair County/Journey Home | 19 Public Square Suite 200 | Belleville | 62220 | 305,458
St. Clair County/Next Step Up | 19 Public Square Suite 200 | Belleville | 62220 | 181,621
St. Clair County/Road Home | 19 Public Square Suite 200 | Belleville | 62220 | 48,772
St. Clair County/St. Clair County HMIS | 19 Public Square Suite 200 | Belleville | 62220 | 50,952
St. Clair County/St. Clair Planning Project FY2018 | 19 Public Square Suite 200 | Belleville | 62220 | 92,906
Violence Prevention Center of Southwestern IL/DV Rapid Rehousing | 605 E Main St | Belleville | 62220 | 226,927
Hope Haven of DeKalb County, Inc./Dresser Court Permanent Housing Project | 1145 Rushmoore Drive | DeKalb | 60115 | 98,690
Hope Haven of DeKalb County, Inc./Housing First | 1145 Rushmoore Drive | DeKalb | 60115 | 29,704
Hope Haven of DeKalb County, Inc./Rapid Re-housing | 1145 Rushmoore Drive | DeKalb | 60115 | 46,538
The Housing Authority of the County of DeKalb/2018 SPC Rental Assistance Renewal | 310 N 6th Street | DeKalb | 60115 | 407,829
A Safe Haven Foundation/600 South | 2750 W Roosevelt Road | Chicago | 60608 | 53,446
A Safe Haven Foundation/A Safe Haven—Shelter Plus Care | 2750 W Roosevelt Road | Chicago | 60608 | 557,514
A Safe Haven Foundation/Family Wellness Center | 2750 W Roosevelt Road | Chicago | 60608 | 350,676
A Safe Haven Foundation/The Studios | 2750 W Roosevelt Road | Chicago | 60608 | 374,336
A Safe Haven Foundation/Westside Housing and Independent Living | 2750 W Roosevelt Road | Chicago | 60608 | 216,425
AFC-Community Development Corporation/Low Income Housing Trust Fund 2 (Ambassadors For Christ) | 7859 S Ashland Avenue | Chicago | 60620 | 49,826
AIDS Foundation of Chicago/Chronic Homeless Samaritan Supportive Housing Program | 200 W Jackson Blvd. Suite 2100 | Chicago | 60606 | 2,882,160
AIDS Foundation of Chicago/Safe Start I | 200 W Jackson Blvd. Suite 2100 | Chicago | 60606 | 1,950,490
All Chicago Making Homelessness History/CoC Planning Project Application FY 2018 | 651 W Washington Suite #504 | Chicago | 60661 | 1,250,000
All Chicago Making Homelessness History/HMIS Expansion | 651 W Washington Suite #504 | Chicago | 60661 | 497,848
Breakthrough Urban Ministries, Inc./Breakthrough Chronic Homeless | 402 N St. Louis Ave | Chicago | 60624 | 190,782
Breakthrough Urban Ministries, Inc./Breakthrough Supportive Housing | 402 N St. Louis Ave | Chicago | 60624 | 224,885
Casa Central Social Services Corporation/Casa Central La Posada Interim Housing | 1343 N California Ave | Chicago | 60622 | 437,306
Catholic Charities of the Archdiocese of Chicago/Catholic Charities—Long Term Rental Assistance | 721 N LaSalle St. 5th Floor | Chicago | 60654 | 190,961
Catholic Charities of the Archdiocese of Chicago/Central Referral System | 721 N LaSalle St. 5th Floor | Chicago | 60654 | 162,111
Catholic Charities of the Archdiocese of Chicago/New Hope Apartments | 721 N LaSalle St. 5th Floor | Chicago | 60654 | 1,756,160
Catholic Charities of the Archdiocese of Chicago/St Leo Residence | 721 N LaSalle St. 5th Floor | Chicago | 60654 | 94,566
Center for Housing and Health/Housing for Health | 200 W Jackson Blvd., Suite 2100 | Chicago | 60606 | 2,398,551
Chicago House and Social Service Agency/CHASSA Supportive Housing Project II | 1925 N Clybourn Ave Suite 401 | Chicago | 60614 | 550,421
Chicago House and Social Service Agency/CHASSA Supportive Housing Project III | 1925 N Clybourn Ave Suite 401 | Chicago | 60614 | 1,237,046
Chicago House and Social Service Agency/Chicago House and Social Service Agency—Shelter Plus Care | 1925 N Clybourn Ave Suite 401 | Chicago | 60614 | 56,856
Chicago House and Social Service Agency/First Step Program (The Supportive Living Program) | 1925 N Clybourn Ave Suite 401 | Chicago | 60614 | 52,503
ChildServ/Emerge | 8765 W Higgins Rd Suite 450 | Chicago | 60631 | 383,175
Christian Community Health Center/CCHC Consolidated Project FY2018 | 9718 S Halsted N/A | Chicago | 60628 | 342,643
Christian Community Health Center/CCHC EnHarmony Bonus Project | 9718 S Halsted N/A | Chicago | 60628 | 2,638,598
Community Supportive Living Systems, Inc./Emerald | 12231 South Emerald Ave | Chicago | 60628 | 254,822
Corporation for Supportive Housing/CE System Coordination for DV Survivors | 61 Broadway Suite 2300 | New York | 10006 | 569,069
Corporation for Supportive Housing/Chicago CE Consolidated Grant | 61 Broadway Suite 2300 | New York | 10006 | 556,945
Corporation for Supportive Housing/Chicago CE System 3.0 | 61 Broadway Suite 2300 | New York | 10006 | 618,884
Deborah's Place/Dolores' Safe Haven | 2822 W Jackson Blvd | Chicago | 60612 | 329,726
Deborah's Place/Marah's Permanent Housing | 2822 W Jackson Blvd | Chicago | 60612 | 513,501
Deborah's Place/Patty Crowley Apartments | 2822 W Jackson Blvd | Chicago | 60612 | 164,484
Deborah's Place/Rebecca Johnson Apartments | 2822 W Jackson Blvd | Chicago | 60612 | 196,170
Facing Forward to End Homelessness/Safe at Home I | 642 N Kedzie | Chicago | 60612 | 530,935
Facing Forward to End Homelessness/Safe at Home III | 642 N Kedzie | Chicago | 60612 | 518,476
Facing Forward to End Homelessness/Safe at Home V | 642 N Kedzie | Chicago | 60612 | 1,491,380
Facing Forward to End Homelessness/Sanctuary Place | 642 N Kedzie | Chicago | 60612 | 305,808
Facing Forward to End Homelessness/Shelter Graduates | 642 N Kedzie | Chicago | 60612 | 554,216
Facing Forward to End Homelessness/Shelter Graduates II | 642 N Kedzie | Chicago | 60612 | 291,442
Facing Forward to End Homelessness/Vital Veterans | 642 N Kedzie | Chicago | 60612 | 59,146
Family Rescue/New Heights Apartments | 9204 South Commercial Ave Suite 401 | Chicago | 60617 | 1,651,816
Family Rescue/Ridgeland Apartments & Day Care Center | 9204 South Commercial Ave Suite 401 | Chicago | 60617 | 578,757
Featherfist/Featherfist—Long Term Rental Assistance | 2255 East 75th Street | Chicago | 60649 | 557,514
Featherfist/Featherfist Apartments | 2255 East 75th Street | Chicago | 60649 | 144,088
Featherfist/Featherfist Outreach, Retention and Treatment (Fort) | 2255 East 75th Street | Chicago | 60649 | 306,573
Featherfist/Foundations | 2255 East 75th Street | Chicago | 60649 | 374,743
Featherfist/Low-Income Housing Trust Fund 1 | 2255 East 75th Street | Chicago | 60649 | 140,480
Featherfist/Low-Income Housing Trust Fund 2 | 2255 East 75th Street | Chicago | 60649 | 387,893
Featherfist/Low-Income Housing Trust Fund Chronic Homeless | 2255 East 75th Street | Chicago | 60649 | 263,986
Heartland Health Outreach, Inc./Antonia Safe Haven | 4750 North Sheridan Road Suite 500 | Chicago | 60640 | 361,559
Heartland Health Outreach, Inc./Assisted Permanent Housing | 4750 North Sheridan Road Suite 500 | Chicago | 60640 | 147,101
Heartland Health Outreach, Inc./Bridges to Home | 4750 North Sheridan Road Suite 500 | Chicago | 60640 | 178,495
Heartland Health Outreach, Inc./Heartland Health Outreach—North Side | 4750 North Sheridan Road Suite 500 | Chicago | 60640 | 342,428
Heartland Health Outreach, Inc./Heartland Health Outreach—Shelter Plus Care II | 4750 North Sheridan Road Suite 500 | Chicago | 60640 | 256,918
Heartland Health Outreach, Inc./Low Income Housing Trust Fund Chronic Homeless Initiative | 4750 North Sheridan Road Suite 500 | Chicago | 60640 | 125,782
Heartland Health Outreach, Inc./Pathways Home Outpatient | 4750 North Sheridan Road Suite 500 | Chicago | 60640 | 312,873
Heartland Health Outreach, Inc./Pathways Home Permanent Housing | 4750 North Sheridan Road Suite 500 | Chicago | 60640 | 552,200
Heartland Health Outreach, Inc./Pathways Home Safe Haven | 4750 North Sheridan Road Suite 500 | Chicago | 60640 | 1,076,572
Heartland Health Outreach, Inc./Supportive Permanent Housing | 4750 North Sheridan Road Suite 500 | Chicago | 60640 | 315,545
Heartland Human Care Services, Inc./Building Stable Communities | 208 South La Salle Street, Suite 1300 | Chicago | 60604 | 3,277,099
Heartland Human Care Services, Inc./Horizons | 208 South La Salle Street, Suite 1300 | Chicago | 60604 | 1,953,914
Heartland Human Care Services, Inc./Independent Supportive Housing | 208 South La Salle Street, Suite 1300 | Chicago | 60604 | 1,454,944
Heartland Human Care Services, Inc./Neon Street Dorm | 208 South La Salle Street, Suite 1300 | Chicago | 60604 | 258,081
Holsten Human Capital Development/Life Development Center | Lawson House 30 West Chicago Avenue | Chicago | 60654 | 233,885
Holsten Human Capital Development/Life Development Center #2 | Lawson House 30 West Chicago Avenue | Chicago | 60654 | 87,991
Holsten Human Capital Development/Life Development Center Gap | Lawson House 30 West Chicago Avenue | Chicago | 60654 | 60,781
Housing Opportunities for Women, Inc./Families First | 1607 W Howard Street 3rd Floor | Chicago | 60626 | 522,916
Housing Opportunities for Women, Inc./HOW, Inc. —PSH for Individuals | 1607 W Howard Street 3rd Floor | Chicago | 60626 | 434,116
Housing Opportunities for Women, Inc./HOW, Inc.—PSH for Individuals 2 | 1607 W Howard Street 3rd Floor | Chicago | 60626 | 760,756
Housing Opportunities for Women, Inc./HOW, Inc.—PSH for Individuals 3 | 1607 W Howard Street 3rd Floor | Chicago | 60626 | 469,566
Housing Opportunities for Women, Inc./HOW, Inc.—Shelter Plus Care I | 1607 W Howard Street 3rd Floor | Chicago | 60626 | 212,187
Housing Opportunities for Women, Inc./HOW, Inc.—Shelter Plus Care II | 1607 W Howard Street 3rd Floor | Chicago | 60626 | 329,570
Housing Opportunities for Women, Inc./HOW, Inc.—Shelter Plus Care III | 1607 W Howard Street 3rd Floor | Chicago | 60626 | 339,822
Housing Opportunities for Women, Inc./HOW, Inc.—Shelter Plus Care IV | 1607 W Howard Street 3rd Floor | Chicago | 60626 | 378,287
Housing Opportunities for Women, Inc./HOW, Inc.—Shelter Plus Care V | 1607 W Howard Street 3rd Floor | Chicago | 60626 | 155,455
Housing Opportunities for Women, Inc./HOW, Inc.—Shelter Plus Care VI | 1607 W Howard Street 3rd Floor | Chicago | 60626 | 441,304
Housing Opportunities for Women, Inc./HOW, Inc.—Shelter Plus Care VII | 1607 W Howard Street 3rd Floor | Chicago | 60626 | 725,646
Housing Opportunities for Women, Inc./IL-510-REN-REST SHP1 | 1607 W Howard Street 3rd Floor | Chicago | 60626 | 528,290
Housing Opportunities for Women, Inc./Low-Income Housing Trust Fund 2 | 1607 W Howard Street 3rd Floor | Chicago | 60626 | 321,412
Human Resources Development Institute, Inc. (HRDI)/Human Resources Development Institute LTRA I | 222 S Jefferson Street | Chicago | 60661 | 449,841
Independent Community Living/Independent Community Living | 600 W Fullerton Pkwy, Basement | Chicago | 60614 | 258,547
Inspiration Corporation/IC Short Term Support Housing | 4554 North Broadway Street Suite 207 | Chicago | 60640 | 203,158
Inspiration Corporation/Inspiration Corporation | 4554 North Broadway Street Suite 207 | Chicago | 60640 | 58,699
Inspiration Corporation/Low Income Housing Trust Fund 2 (IC) | 4554 North Broadway Street Suite 207 | Chicago | 60640 | 111,285
Inspiration Corporation/Permanent Supportive Housing for Chronically Homeless Individuals | 4554 North Broadway Street Suite 207 | Chicago | 60640 | 428,128
Inspiration Corporation/Rapid Re-Housing | 4554 North Broadway Street Suite 207 | Chicago | 60640 | 257,618
La Casa Norte/Chronically Homeless Youth and Families PSH | 3533 W North Avenue | Chicago | 60647 | 200,284
La Casa Norte/FY 14 Homeless Youth & Families | 3533 W North Avenue | Chicago | 60647 | 312,153
La Casa Norte/IL 510 NEW Scattered Site Youth Housing | 3533 W North Avenue | Chicago | 60647 | 186,847
La Casa Norte/Palante Phase 5 | 3533 W North Avenue | Chicago | 60647 | 358,110
La Casa Norte/Permanent Housing Bonus Project | 3533 W North Avenue | Chicago | 60647 | 369,076
La Casa Norte/Solid Ground Supportive Housing | 3533 W North Avenue | Chicago | 60647 | 92,715
Matthew House/Derrick David Stinson Supportive Housing | 3728 S Indiana | Chicago | 60653 | 258,321
Matthew House/Low Income Housing Trust Fund Chronic Homeless | 3728 S Indiana | Chicago | 60653 | 280,725
Matthew House/Marzett Johnson Housing Project | 3728 S Indiana | Chicago | 60653 | 388,419
Mercy Housing Lakefront/Carlton, Miriam, Delmar | 120 S LaSalle Suite 1850 | Chicago | 60603 | 264,058
Mercy Housing Lakefront/Holland Families | 120 S LaSalle Suite 1850 | Chicago | 60603 | 132,727
Mercy Housing Lakefront/Mercy Housing Lakefront—Englewood | 120 S LaSalle Suite 1850 | Chicago | 60603 | 903,347
Mercy Housing Lakefront/Mercy Housing Lakefront—Near North | 120 S LaSalle Suite 1850 | Chicago | 60603 | 468,141
Mercy Housing Lakefront/Mercy Housing Lakefront—Wentworth | 120 S LaSalle Suite 1850 | Chicago | 60603 | 267,040
Mercy Housing Lakefront/Near North | 120 S LaSalle Suite 1850 | Chicago | 60603 | 63,839
Mercy Housing Lakefront/Recovery Belray Holland Singles | 120 S LaSalle Suite 1850 | Chicago | 60603 | 195,663
Mercy Housing Lakefront/South Loop and Wentworth Combined | 120 S LaSalle Suite 1850 | Chicago | 60603 | 391,411
Near West Side Community Development Corporation/Near West Side CDC Consolidated Application 2018 | 216 South Hoyne | Chicago | 60612 | 303,348
New Moms, Inc./Transformation Center Housing | 5317 W Chicago Avenue | Chicago | 60651 | 248,061
North Side Housing and Supportive Services, Inc./Housing System Navigation | 4410 N Ravenswood Ave Suite 101 | Chicago | 60640 | 85,263
North Side Housing and Supportive Services, Inc./North Side Housing & Supportive Services—Shelter Plus Care XX | 4410 N Ravenswood Ave Suite 101 | Chicago | 60640 | 223,802
North Side Housing and Supportive Services, Inc./Supportive Housing Program 24 | 4410 N Ravenswood Ave Suite 101 | Chicago | 60640 | 225,760
North Side Housing and Supportive Services, Inc./Supportive Housing Program III | 4410 N Ravenswood Ave Suite 101 | Chicago | 60640 | 113,498
North Side Housing and Supportive Services, Inc./Veterans Housing Initiative | 4410 N Ravenswood Ave Suite 101 | Chicago | 60640 | 244,246
Primo Center/Family Leadership Institute | 4321 W Division | Chicago | 60651 | 311,822
Renaissance Social Services, Inc./Family Support Project | 333 N Oakley Blvd. Suite #101 | Chicago | 60612 | 1,488,404
Renaissance Social Services, Inc./Housing Stability Program | 333 N Oakley Blvd. Suite #101 | Chicago | 60612 | 157,044
Renaissance Social Services, Inc./RSSI SHOT CLIHTF SHP | 333 N Oakley Blvd. Suite #101 | Chicago | 60612 | 1,328,127
Renaissance Social Services, Inc./Union House | 333 N Oakley Blvd. Suite #101 | Chicago | 60612 | 430,025
ReVive Center for Housing and Healing/ReVive Center for Housing and Healing | 1668 W Ogden Ave | Chicago | 60612 | 320,616
ReVive Center for Housing and Healing/Supportive Service GAP Program | 1668 W Ogden Ave | Chicago | 60612 | 45,468
Sarah's Circle/Case Management and Rental of Space | 4838 N Sheridan Road | Chicago | 60640 | 74,532
Sarah's Circle/Low-Income Housing Trust Fund Chronic Homeless (Sarah's Circle) | 4838 N Sheridan Road | Chicago | 60640 | 126,967
Sarah's Circle/Sarah's Circle Permanent Supportive Housing | 4838 N Sheridan Road | Chicago | 60640 | 133,475
Sarah's Circle/Sarah's Circle—Sarah's Circle Apartments | 4838 N Sheridan Road | Chicago | 60640 | 202,867
Teen Living Programs, Inc./CaSSA Clustered and Scattered Site Apartments | 180 N Michigan Ave. Suite 1900 | Chicago | 60601 | 192,855
Teen Living Programs, Inc./TLP Project—Belfort House | 180 N Michigan Ave. Suite 1900 | Chicago | 60601 | 128,875
The Boulevard of Chicago/Respite Assessment | 3456 W Franklin Blvd. | Chicago | 60624 | 369,201
The Inner Voice, Inc./Chronic Homeless Initiative (Inner Voice) | 212 W Van Buren Street Suite 300 | Chicago | 60607 | 338,102
The Inner Voice, Inc./Eddie Beard Homeless Veterans' Transitional Housing Program | 212 W Van Buren Street Suite 300 | Chicago | 60607 | 198,608
The Inner Voice, Inc./Pioneer House Transitional Housing Program | 212 W Van Buren Street Suite 300 | Chicago | 60607 | 77,442
The Interfaith Housing Development Corporation of Chicago/Branch of Hope Apartments | 219 W Chicago Ave. 4th Floor | Chicago | 60654 | 243,757
The Interfaith Housing Development Corporation of Chicago/Independence House | 219 W Chicago Ave. 4th Floor | Chicago | 60654 | 78,251
The Interfaith Housing Development Corporation of Chicago/Interfaith Housing Development Corp.—HOPE II | 219 W Chicago Ave. 4th Floor | Chicago | 60654 | 864,658
The Interfaith Housing Development Corporation of Chicago/Interfaith Housing Development Corp.—Independence House | 219 W Chicago Ave. 4th Floor | Chicago | 60654 | 430,677
The Interfaith Housing Development Corporation of Chicago/Interfaith Housing Development Corp.—Sanctuary Place | 219 W Chicago Ave. 4th Floor | Chicago | 60654 | 765,480
The Interfaith Housing Development Corporation of Chicago/Interfaith Housing Development Corp.—Vision House | 219 W Chicago Ave. 4th Floor | Chicago | 60654 | 332,560
The Interfaith Housing Development Corporation of Chicago/New West Englewood Homes | 219 W Chicago Ave. 4th Floor | Chicago | 60654 | 258,864
The Interfaith Housing Development Corporation of Chicago/Ogden Park Apartments | 219 W Chicago Ave. 4th Floor | Chicago | 60654 | 1,145,025
The Night Ministry/Interim Program at Open Door Shelter—West Town | 4711 N Ravenswood Ave | Chicago | 60640 | 75,674
The Night Ministry/Transitional Living Program at Open Door Shelter—West Town | 4711 N Ravenswood Ave | Chicago | 60640 | 145,681
Thresholds Inc/Rowan Trees Apartments | 4101 N Ravenswood | Chicago | 60613 | 405,264
Thresholds Inc/Thresholds Chicago Scattered Site PSH Leasing Project | 4101 N Ravenswood | Chicago | 60613 | 1,105,783
Thresholds Inc/Thresholds MAU Permanent Supportive Housing Project | 4101 N Ravenswood | Chicago | 60613 | 208,294
Thresholds Inc/Thresholds, Inc—Shelter Plus Care I-IV | 4101 N Ravenswood | Chicago | 60613 | 1,546,284
Thresholds Inc/Thresholds, Inc.—Chicago Safe Havens | 4101 N Ravenswood | Chicago | 60613 | 414,338
Thresholds Inc/Thresholds, Inc.—Chronic Homeless Initiative | 4101 N Ravenswood | Chicago | 60613 | 216,421
Thresholds Inc/Thresholds, Inc.—Shelter Plus Care ARCH | 4101 N Ravenswood | Chicago | 60613 | 587,931
Thresholds Inc/Thresholds, Inc.—Shelter Plus Care V | 4101 N Ravenswood | Chicago | 60613 | 459,478
Thresholds Inc/Wayne Street Grais Apartments | 4101 N Ravenswood | Chicago | 60613 | 467,778
Trilogy/Trilogy Housing First | 1400 W Greenleaf | Chicago | 60626 | 291,232
Unity Parenting & Counseling Inc./Focus Hope II | 600 W Cermak Suite #300A | Chicago | 60616 | 487,762
Unity Parenting & Counseling Inc./Harmony Village | 600 W Cermak Suite #300A | Chicago | 60616 | 507,080
Unity Parenting & Counseling Inc./Low Income Housing Trust Fund 2 | 600 W Cermak Suite #300A | Chicago | 60616 | 228,047
Unity Parenting & Counseling Inc./Low Income Housing Trust Fund Chronic Homelessness | 600 W Cermak Suite #300A | Chicago | 60616 | 153,819
Unity Parenting & Counseling Inc./Ujima STARS | 600 W Cermak Suite #300A | Chicago | 60616 | 629,356
Alliance to End Homelessness in Suburban Cook County/IL-511 CoC Planning Application FY2018 | 4415 Harrison Street, Suite 228 | Hillside | 60162 | 373,234
Alliance to End Homelessness in Suburban Cook County/Sub Cook Coordinated Entry | 4415 Harrison Street, Suite 228 | Hillside | 60162 | 682,219
Alliance to End Homelessness in Suburban Cook County/Suburban Cook County HMIS | 4415 Harrison Street, Suite 228 | Hillside | 60162 | 324,041
Aunt Martha's Health and Wellness/2018 Responding with Care RI | 19990 Governors Highway | Olympia Fields | 60461 | 191,230
Aunt Martha's Health and Wellness/Independence Place 2018 Renewal I | 19990 Governors Highway | Olympia Fields | 60461 | 199,988
Catholic Charities of the Archdiocese of Chicago/New Hope Apartments PSH N-NW | 721 N LaSalle St. 5th Floor | Chicago | 60654 | 346,487
Catholic Charities of the Archdiocese of Chicago/New Hope Apartments RRH Suburban Cook County | 721 N LaSalle St. 5th Floor | Chicago | 60654 | 1,171,169
Catholic Charities of the Archdiocese of Chicago/NHA-Family PSH | 721 N LaSalle St. 5th Floor | Chicago | 60654 | 221,021
Community and Economic Development Association of Cook County, Inc. (CEDA)/CEDA SSHIP | 567 West Lake Street, Suite 1200 | Chicago | 60661 | 218,806
Connections for the Homeless Inc./Connections Family Supportive Housing 18 | 2121 Dewey Ave | Evanston | 60201 | 475,634
Connections for the Homeless Inc./Connections Permanent Housing Consolidated | 2121 Dewey Ave | Evanston | 60201 | 463,431
Heartland Health Outreach, Inc./Shelter Plus Care Vital Bridges/Heartland Health Outreach | 4750 North Sheridan Road Suite 500 | Chicago | 60640 | 206,910
Housing Forward/DV Bonus funding for Coordinated Entry | 1851 S 9th Ave | Maywood | 60153 | 274,000
Housing Forward/Open Door Housing | 1851 S 9th Ave | Maywood | 60153 | 920,665
Housing Forward/WCHIP Plus | 1851 S 9th Ave | Maywood | 60153 | 1,171,727
Housing Forward/WIN Plus | 1851 S 9th Ave | Maywood | 60153 | 1,059,577
Housing Options d.b.a. Impact Behavioral Health Partners/Claire Ganey 2018 | 2100 Ridge Avenue G320 | Evanston | 60201 | 95,152
Housing Options d.b.a. Impact Behavioral Health Partners/Pathways 2018 | 2100 Ridge Avenue G320 | Evanston | 60201 | 488,968
Interdependent Living Solutions Center/Genesis Place | 1820 Ridge Road, Suite 302 | Homewood | 60430 | 168,986
Northwest Compass, Inc./Community Family Homes Initiative I | 1300 West Northwest Highway | Mount Prospect | 60056 | 147,634
Northwest Compass, Inc./Community Family Homes Initiative IV | 1300 West Northwest Highway | Mount Prospect | 60056 | 164,780
South Suburban Family Shelter Inc./South Suburban DV Rapid Re-Housing | P.O. Box 937 | Homewood | 60430 | 584,656
South Suburban Family Shelter Inc./The Sanctuary | P.O. Box 937 | Homewood | 60430 | 278,708
South Suburban PADS/Country Club Hills Wellness Center | 414 W Lincoln Highway | Chicago Heights | 60411 | 406,439
South Suburban PADS/Project WISH | 414 W Lincoln Highway | Chicago Heights | 60411 | 265,620
South Suburban PADS/Southland Supportive Housing | 414 W Lincoln Highway | Chicago Heights | 60411 | 531,433
The Center of Concern/Center of Concern RRH | 1665 Elk Blvd. | Des Plaines | 60016 | 153,613
Thresholds Inc/Thresholds Esperanza | 4101 N Ravenswood | Chicago | 60613 | 529,249
Thresholds Inc/West Suburban Safe Haven | 4101 N Ravenswood | Chicago | 60613 | 386,620
Together We Cope/Families First Permanent | 17010 S Oak Park Avenue | Tinley Park | 60477 | 134,967
WINGS Program, Inc./WINGS Permanent Housing Project | 5104 Tollview Drive, Suite B | Rolling Meadows | 60008 | 107,579
WINGS Program, Inc./WINGS Transitional Housing | 5104 Tollview Drive, Suite B | Rolling Meadows | 60008 | 363,347
Catholic Charities, Diocese of Joliet/HORIZONS TRANSITION | 16555 Weber Road | Crest Hill | 60403 | 120,169
Chestnut Health Systems, Inc./Chestnut Project Hope | 1003 Martin Luther King Drive | Bloomington | 61701 | 75,335
Chestnut Health Systems, Inc./Chestnut Samaritan Housing | 1003 Martin Luther King Drive | Bloomington | 61701 | 74,932
Chestnut Health Systems, Inc./Chestnut Supportive Housing | 1003 Martin Luther King Drive | Bloomington | 61701 | 143,580
City of Bloomington/CoC Coordinated Entry | P.O. Box 3157 109 E Olive | Bloomington | 61702 | 33,792
City of Bloomington/Families and Individuals with Disabilities | P.O. Box 3157 109 E Olive | Bloomington | 61702 | 98,544
City of Bloomington/IL-512 COC Planning Application FY2018 | P.O. Box 3157 109 E Olive | Bloomington | 61702 | 45,991
City of Bloomington/Mayors Manor S+C | P.O. Box 3157 109 E Olive | Bloomington | 61702 | 24,993
City of Bloomington/McLean County Core Services | P.O. Box 3157 109 E Olive | Bloomington | 61702 | 136,706
Crosspoint Human Services/Rapid Re-Housing for Families | 210 Avenue C | Danville | 61832 | 56,921
Iroquois-Kankakee Regional Office of Education #32/Assistance to Homeless Families with Children | 1 Stuart Drive | Kankakee | 60901 | 52,605
The Salvation Army of Kankakee County/Rapid Re-Housing | 148 N Harrison Ave | Kankakee | 60901 | 47,805
Your Family Resource Connection/Permanent Housing for the Homeless FY18 | 201 N Hazel Street | Danville | 61832 | 145,502
Fifth Street Renaissance/Fifth Street Renaissance PSH Vets Expansion | 1315 North Fifth Street P.O. Box 5181 | Springfield | 62705 | 22,593
Fifth Street Renaissance/Fifth Street Renaissance PSH6 | 1315 North Fifth Street P.O. Box 5181 | Springfield | 62705 | 38,686
Fifth Street Renaissance/FSR PSH Vets | 1315 North Fifth Street P.O. Box 5181 | Springfield | 62705 | 27,609
Helping Hands of Springfield, Inc./Helping Hands Permanent Supported Housing Program 2018 | 1023 E Washington St | Springfield | 62703 | 102,629
M.E.R.C.Y. Communities Inc/M.E.R.C.Y. Communities Chronically Homeless Families | 1344 N 5th Street | Springfield | 62702 | 39,304
M.E.R.C.Y. Communities Inc/M.E.R.C.Y. Communities Permanent Supportive Housing for Families | 1344 N 5th Street | Springfield | 62702 | 92,268
M.E.R.C.Y. Communities Inc/M.E.R.C.Y. Communities Permanent Supportive Housing for Families 2 | 1344 N 5th Street | Springfield | 62702 | 19,743
Sojourn Shelter & Services, Inc./CoC DV Grant | 1800 Westchester Blvd. | Springfield | 62704 | 52,088
Youth Service Bureau/Transitional Housing Program for Homeless Youth | 2901 Normandy Road | Springfield | 62703 | 85,558
360 YOUTH SERVICES/360 Youth Joint TH-RRH | 1305 W Oswego Road | Naperville | 60540 | 220,106
360 YOUTH SERVICES/Youth In Transition | 1305 W Oswego Road | Naperville | 60540 | 206,183
Catholic Charities, Diocese of Joliet/DuPage Daybreak | 16555 Weber Road | Crest Hill | 60403 | 220,349
Catholic Charities, Diocese of Joliet/Partners In Housing consolidation | 16555 Weber Road | Crest Hill | 60403 | 598,495
Catholic Charities, Diocese of Joliet/SHIFT—New Hope | 16555 Weber Road | Crest Hill | 60403 | 920,550
Du Page, County Of/CoC Planning Project Application FY2018 | 421 N County Farm Road | Wheaton | 60187 | 135,791
Du Page, County Of/HMIS FY2018 | 421 N County Farm Road | Wheaton | 60187 | 154,556
DuPage County Health Department/Housing Intensive Services | 111 N County Farm Rd N/A | Wheaton | 60187 | 213,594
DuPage County Health Department/MISA CAP | 111 N County Farm Rd N/A | Wheaton | 60187 | 304,333
DuPage P.A.D.S, Inc./Carol's Place Consolidation | 601 W Liberty Dr | Wheaton | 60187 | 1,267,432
DuPage P.A.D.S, Inc./Hope Place | 601 W Liberty Dr | Wheaton | 60187 | 77,555
DuPage P.A.D.S, Inc./New Horizons | 601 W Liberty Dr | Wheaton | 60187 | 57,299
DuPage P.A.D.S, Inc./New Horizons Expansion | 601 W Liberty Dr | Wheaton | 60187 | 297,707
DuPage P.A.D.S, Inc./Stepping Stones | 601 W Liberty Dr | Wheaton | 60187 | 139,503
Midwest Shelter for Homeless Veterans/Freedom Harbour | 433 S Carlton Ave | Wheaton | 60187 | 67,016
C.E.F.S Economic Opportunity Corporation/PSH 19-20 | 1805 South Banker Street | Effingham | 62401 | 50,553
C.E.F.S Economic Opportunity Corporation/RRH Consolidation 19-20 | 1805 South Banker Street | Effingham | 62401 | 342,060
Embarras River Basin Agency, Inc./CoC Planning Project 2018 | 400 W Pleasant P.O. Box 307 | Greenup | 62428 | 32,852
Embarras River Basin Agency, Inc./DV Bonus Joint TH-RRH 2019 | 400 W Pleasant P.O. Box 307 | Greenup | 62428 | 110,657
Embarras River Basin Agency, Inc./Permanent Housing July 1, 2019 | 400 W Pleasant P.O. Box 307 | Greenup | 62428 | 265,673
Embarras River Basin Agency, Inc./Rapid Rehousing February 1, 2019 | 400 W Pleasant P.O. Box 307 | Greenup | 62428 | 156,186
Illinois Valley Economic Development Corporation/IVEDC PH Rapid Rehousing 2019-2020 (IL0679L5T151701) | 223 South Macoupin Street | Gillespie | 62033 | 79,607
Illinois Valley Economic Development Corporation/Macoupin County Coordinated Entry Bonus Project 2018 | 223 South Macoupin Street | Gillespie | 62033 | 10,000
Decatur Housing Authority/CH Leasing 07 | 1808 East Locust St | Decatur | 62521 | 19,852
Decatur Housing Authority/Decatur CoC Rental Project | 1808 East Locust St | Decatur | 62521 | 51,697
Dove, Inc./Decatur Joint TH and PH-RRH | 302 S Union St | Decatur | 62522 | 87,557
Dove, Inc./Decatur RRH | 302 S Union St | Decatur | 62522 | 98,046
Dove, Inc./DVP Housing | 302 S Union St | Decatur | 62522 | 53,960
Dove, Inc./Homeward Bound | 302 S Union St | Decatur | 62522 | 335,315
Dove, Inc./Macon County HMIS | 302 S Union St | Decatur | 62522 | 66,564
Dove, Inc./Macon County Planning Project FY2018 | 302 S Union St | Decatur | 62522 | 23,033
Dove, Inc./Permanent Housing Consolidation | 302 S Union St | Decatur | 62522 | 133,648
Ecker Center for Mental Health/Abbott | 1845 Grandstand Place | Elgin | 60123 | 180,584
Ecker Center for Mental Health/Hunters Ridge | 1845 Grandstand Place | Elgin | 60123 | 264,816
Ecker Center for Mental Health/Leasing | 1845 Grandstand Place | Elgin | 60123 | 200,458
Kane County, Illinois/2018 COC Planning Grant (Project Start January 1, 2020) | 719 Batavia Avenue | Geneva | 60134 | 51,552
Kane County, Illinois/2018 HMIS Implementation (Project Start July 1, 2019) | 719 Batavia Avenue | Geneva | 60134 | 111,945
Lazarus House/CTL | 214 Walnut St | St Charles | 60174 | 55,366
Lazarus House/PH3 Consolidated | 214 Walnut St | St Charles | 60174 | 202,587
Midwest Shelter for Homeless Veterans/Enduring Hope | 433 S Carlton Ave | Wheaton | 60187 | 98,138
Public Action to Deliver Shelter, Inc./LIGHT-House 7 | 659 South River Street | Aurora | 60506 | 51,552
Public Action to Deliver Shelter, Inc./LIGHT-House Consolidated | 659 South River Street | Aurora | 60506 | 363,185
Public Action to Deliver Shelter, Inc./The Harbor | 659 South River Street | Aurora | 60506 | 241,315
Bethany for Children & Families/Housing Families NOW | 1830 6th Ave | Moline | 61265 | 114,602
Bethany for Children & Families/Housing Teens in Need | 1830 6th Ave | Moline | 61265 | 61,649
Bethany for Children & Families/Housing Teens Now | 1830 6th Ave | Moline | 61265 | 62,945
Freeport Area Church Cooperative/FACC Rapid Re Housing | 514 S Chicago Ave | Freeport | 61032 | 65,432
Housing Authority of Henry County/Parkside Apartments S+C FY18 Renewal | 125 N Chestnut St | Kewanee | 61443 | 69,130
Housing Authority of the City of Rock Island/Steven's Place | 227 21st Street | Rock Island | 61201 | 61,773
Project NOW, Inc/Permanent Suppotive Housing | 418 19th Street | Rock Island | 61201 | 135,967
Project NOW, Inc/Supportive Services Program | 418 19th Street | Rock Island | 61201 | 115,432
VOICES of Stephenson County/VOICES Victim Housing Assistance | 1401 Crestwood Drive | Freeport | 61032 | 53,302
MCS Community Services/MCS Permanent Supportive Housing Program | 345 West State Street | Jacksonville | 62650 | 22,005
MCS Community Services/MCS-2 Permanent Supportive Housing Program | 345 West State Street | Jacksonville | 62650 | 74,505
YWCA of Quincy of Ill/IL519 CoC Planning Application FY2018 | 639 York St Ste. 202 | Quincy | 62301 | 18,953
YWCA of Quincy of Ill/Permanent Supportive Housing A | 639 York St Ste. 202 | Quincy | 62301 | 144,969
YWCA of Quincy of Ill/Permanent Supportive Housing B | 639 York St Ste. 202 | Quincy | 62301 | 347,223
YWCA of Quincy of Ill/Permanent Supportive Housing C | 639 York St Ste. 202 | Quincy | 62301 | 30,326
YWCA of Quincy of Ill/Permanent Supportive Housing D | 639 York St Ste. 202 | Quincy | 62301 | 27,768
B.C.M.W Community Services Inc/PH-RRH Project | 909 East Rexford | Centralia | 62801 | 81,526
B.C.M.W Community Services Inc/Stepping Stones Transitional Housing Project | 909 East Rexford | Centralia | 62801 | 19,970
Good Samaritan Ministries-A Project of the Carbondale Interf/Transitional Housing | 701 S Marion St | Carbondale | 62901 | 75,644
Light The Way, Inc./Open Doors | 306 W 8th St | Metropolis | 62960 | 192,164
Southern Illinois Coalition for the Homeless/Permanent Supportive Housing | 801 N Market St, P.O. Box 955 | Marion | 62959 | 96,288
Southern Illinois Coalition for the Homeless/Permanent Supportive Housing 2 | 801 N Market St, P.O. Box 955 | Marion | 62959 | 128,063
Southern Illinois Coalition for the Homeless/SICH PH-RRH | 801 N Market St, P.O. Box 955 | Marion | 62959 | 62,421
Southern Illinois Coalition for the Homeless/Transitional Housing 2 | 801 N Market St, P.O. Box 955 | Marion | 62959 | 51,852
Stopping Woman Abuse Now/Continuum HMIS Project | P.O. Box 176 1114 South West Street | Olney | 62450 | 54,813
Stopping Woman Abuse Now/Permanent Housing-3 | P.O. Box 176 1114 South West Street | Olney | 62450 | 81,743
Stopping Woman Abuse Now/SWAN CoC Planning Project | P.O. Box 176 1114 South West Street | Olney | 62450 | 50,391
Stopping Woman Abuse Now/Transitional Housing Project | P.O. Box 176 1114 South West Street | Olney | 62450 | 37,364
The Women's Center/Housing Survivors of Violence | 610 S Thompson | Carbondale | 62901 | 83,482
The Women's Center/Transitional Housing for Survivors | 610 S Thompson | Carbondale | 62901 | 21,436
A Better Way Services, Inc./ABW Rapid Rehousing 2018 | 307 W Charles St | Muncie | 47305 | 136,988
AIDS Ministries/AIDS Assist of North Indiana, Inc./PSH AMAA | 201 South William Street | South Bend | 46601 | 127,606
Aspire Indiana, Inc. /Aspire Indiana, Inc.—FY 2018 Continuum of Care Program Competition | 9615 E 148th St Ste 1 | Noblesville | 46060 | 405,028
Aurora Inc/Aurora Vision 1505 FY 2018 | 1001 Mary Street | Evansville | 47710 | 420,914
Blue River Services, Inc./Blue River Stepping Stone Apartments | 1365 Old Hwy. 135 NW Mailing Address: P. O. Box 547 | Corydon | 47112 | 55,635
Bridges Community Services, Inc/JUMPSTART RRH | 318 W 8th Street | Muncie | 47302 | 219,501
Centerstone Indiana Inc., formerly SCCMHC/Caldwell House PH | 645 S Rogers Street | Bloomington | 47403 | 45,093
Centerstone Indiana Inc., formerly SCCMHC/Limestone PSH | 645 S Rogers Street | Bloomington | 47403 | 119,351
Centerstone Indiana Inc., formerly SCCMHC/Martinsville Plaza Apartments | 645 S Rogers Street | Bloomington | 47403 | 41,779
Centerstone Indiana Inc., formerly SCCMHC/SCCMHC S+C | 645 S Rogers Street | Bloomington | 47403 | 63,334
Centerstone Indiana Inc., formerly SCCMHC/Stepping Stones, Inc. | 645 S Rogers Street | Bloomington | 47403 | 80,273
Community Mental Health Center/Batesville Permanent Housing I 2018 | 285 Bielby Road | Lawrenceburg | 47025 | 114,633
Community Mental Health Center/Batesville Permanent Housing II 2018 | 285 Bielby Road | Lawrenceburg | 47025 | 324,870
Community Mental Health Center/Lawrenceburg Permanent Housing 2018 | 285 Bielby Road | Lawrenceburg | 47025 | 90,552
Community Mental Health Center/Ludlow Permanent Housing 2018 | 285 Bielby Road | Lawrenceburg | 47025 | 125,468
Community Mental Health Center/Vevay I Permanent Housing 2018 | 285 Bielby Road | Lawrenceburg | 47025 | 125,283
Community Mental Health Center/Vevay II Permanent Housing 2018 | 285 Bielby Road | Lawrenceburg | 47025 | 62,778
Continuum of Care Network of NWI/Continuum of Care Network of NWI RRH | 839 Broadway, Suite 301N | Gary | 46402 | 199,217
ECHO Housing Corporation/ECHO Village | 414 Baker Avenue | Evansville | 47710 | 305,121
ECHO Housing Corporation/Lucas Place Permanent Supportive Housing | 414 Baker Avenue | Evansville | 47710 | 106,106
ECHO Housing Corporation/New Start Scattered Site Housing | 414 Baker Avenue | Evansville | 47710 | 261,697
Edgewater Systems for Balanced Living, Inc./Phoenix 2019-2020 II | 1100 W 6th Avenue | Gary | 46402 | 132,143
Family Service Association of Howard County, Inc./RRH Renewal FY2018 | 618 S Main Street | Kokomo | 46901 | 113,906
Housing Opportunities Inc. /Creekview | 2001 North Calumet Avenue | Valparaiso | 46383 | 185,900
Housing Opportunities Inc. /Perm 4 | 2001 North Calumet Avenue | Valparaiso | 46383 | 187,315
Housing Opportunities Inc. /Perm 5 | 2001 North Calumet Avenue | Valparaiso | 46383 | 248,869
Indiana Housing and Community Development Authority/2018 HMIS BOS | 30 South Meridian Street Suite 1000 | Indianapolis | 46204 | 579,912
Indiana Housing and Community Development Authority/Aliveness Project of NWI FY2018 | 30 South Meridian Street Suite 1000 | Indianapolis | 46204 | 126,912
Indiana Housing and Community Development Authority/Aspire Mainstream II FY2018 | 30 South Meridian Street Suite 1000 | Indianapolis | 46204 | 170,826
Indiana Housing and Community Development Authority/Aurora Evansville Beacon PSH FY2018 | 30 South Meridian Street Suite 1000 | Indianapolis | 46204 | 143,568
Indiana Housing and Community Development Authority/Aurora Evansville Beacon2 PSH FY2018 | 30 South Meridian Street Suite 1000 | Indianapolis | 46204 | 46,596
Indiana Housing and Community Development Authority/Brightpoint PSH FY2018 | 30 South Meridian Street Suite 1000 | Indianapolis | 46204 | 313,045
Indiana Housing and Community Development Authority/Catholic Charities Gary Pathway FY2018 | 30 South Meridian Street Suite 1000 | Indianapolis | 46204 | 485,702
Indiana Housing and Community Development Authority/Centerstone Dunn Supportive Housing FY2018 | 30 South Meridian Street Suite 1000 | Indianapolis | 46204 | 107,488
Indiana Housing and Community Development Authority/Chapman West Plains FY2018 | 30 South Meridian Street Suite 1000 | Indianapolis | 46204 | 120,306
Indiana Housing and Community Development Authority/CMHC Lawrenceburg II FY2018 | 30 South Meridian Street Suite 1000 | Indianapolis | 46204 | 239,302
Indiana Housing and Community Development Authority/CoC Planning Grant FY2018 | 30 South Meridian Street Suite 1000 | Indianapolis | 46204 | 650,000
Indiana Housing and Community Development Authority/Coordinated Entry SSO FY2018 | 30 South Meridian Street Suite 1000 | Indianapolis | 46204 | 114,000
Indiana Housing and Community Development Authority/ECHO LP2/Ren16 Consolidation FY2018 | 30 South Meridian Street Suite 1000 | Indianapolis | 46204 | 307,636
Indiana Housing and Community Development Authority/Edgewater Scattered Site PSH FY2018 | 30 South Meridian Street Suite 1000 | Indianapolis | 46204 | 190,046
Indiana Housing and Community Development Authority/FSAHC Jackson Street Commons FY2018 | 30 South Meridian Street Suite 1000 | Indianapolis | 46204 | 180,393
Indiana Housing and Community Development Authority/Housing Opps McCord Rapid Rehousing FY2018 | 30 South Meridian Street Suite 1000 | Indianapolis | 46204 | 65,397
Indiana Housing and Community Development Authority/Housing Opps Porter Starke Supportive Housing FY2018 | 30 South Meridian Street Suite 1000 | Indianapolis | 46204 | 216,932
Indiana Housing and Community Development Authority/IHCDA CE Expansion FY2018 | 30 South Meridian Street Suite 1000 | Indianapolis | 46204 | 160,000
Indiana Housing and Community Development Authority/IHCDA CoC II FY2018 | 30 South Meridian Street Suite 1000 | Indianapolis | 46204 | 608,765
Indiana Housing and Community Development Authority/IHCDA CoC III FY2018 | 30 South Meridian Street Suite 1000 | Indianapolis | 46204 | 420,865
Indiana Housing and Community Development Authority/IHCDA DV Coordinated Entry FY2018 | 30 South Meridian Street Suite 1000 | Indianapolis | 46204 | 275,000
Indiana Housing and Community Development Authority/IHCDA DV state-wide RRH FY2018 | 30 South Meridian Street Suite 1000 | Indianapolis | 46204 | 1,397,276
Indiana Housing and Community Development Authority/IHCDA state-wide DV TH-RRH FY2018 | 30 South Meridian Street Suite 1000 | Indianapolis | 46204 | 549,305
Indiana Housing and Community Development Authority/Integrated Permanent Supportive Housing I FY2018 | 30 South Meridian Street Suite 1000 | Indianapolis | 46204 | 375,124
Indiana Housing and Community Development Authority/Kosciusko County RRH FY2018 | 30 South Meridian Street Suite 1000 | Indianapolis | 46204 | 166,043
Indiana Housing and Community Development Authority/Lincoln West Apartments FY2018 | 30 South Meridian Street Suite 1000 | Indianapolis | 46204 | 91,166
Indiana Housing and Community Development Authority/MHA West Central IN Terre Firma FY2018 | 30 South Meridian Street Suite 1000 | Indianapolis | 46204 | 56,342
Indiana Housing and Community Development Authority/MHA West Central IN Younity Village FY2018 | 30 South Meridian Street Suite 1000 | Indianapolis | 46204 | 231,649
Indiana Housing and Community Development Authority/Park Center PSH FY2018 | 30 South Meridian Street Suite 1000 | Indianapolis | 46204 | 301,042
Indiana Housing and Community Development Authority/RMHC Scattered Site PSH FY2018 | 30 South Meridian Street Suite 1000 | Indianapolis | 46204 | 114,118
Indiana Housing and Community Development Authority/RMHC South Shore Commons FY2018 | 30 South Meridian Street Suite 1000 | Indianapolis | 46204 | 310,221
Indiana University Health Bloomington, Inc./FY2018 Bridges Supportive Housing | 333 East Miller Drive | Bloomington | 47401 | 152,132
Indiana University Health Bloomington, Inc./FY2018 Housing Links | 333 East Miller Drive | Bloomington | 47401 | 85,116
Lafayette Transitional Housing Center, Inc./LTHC Rapid Re-Housing | 615 North 18th Street Suite 102 | Lafayette | 47904 | 232,660
Lafayette Transitional Housing Center, Inc./LTHC Union Place PSH Apartments | 615 North 18th Street Suite 102 | Lafayette | 47904 | 394,200
Life Treatment Centers/Life Treatment FY2018 | 1402 S Michigan st | South Bend | 46613 | 170,672
LifeSpring Inc./LifeSpring PSH FY2018 | 460 Spring Street n/a | Jeffersonville | 47130 | 241,325
Mental Health America in Allen County, Inc./MHANI Cedars Hope I | 1025 W Rudisill Blvd Box 8 | Fort Wayne | 46807 | 89,749
Mental Health Association in Vigo County/Community Younity Center | 1460 Spruce Street | Terre Haute | 47807 | 75,579
Oaklawn Psychiatric Center/Supportive Housing Rental Assistance | 330 Lakeview Drive | Goshen | 46527 | 396,572
Oaklawn Psychiatric Center/Supportive Housing Turnock Group Home | 330 Lakeview Drive | Goshen | 46527 | 118,425
Shalom Community Center, Inc./Shalom Crawford Homes FY2018 | 620 S Walnut St | Bloomington | 47401 | 428,724
Shalom Community Center, Inc./Shalom Davis Homes FY2018 | 620 S Walnut St | Bloomington | 47401 | 322,604
Shalom Community Center, Inc./Shalom Johnson Homes FY 2018 | 620 S Walnut St | Bloomington | 47401 | 435,095
The Center for the Homeless/Center for the Homeless Consolidated PSH FY2018 | 813 South Michigan Street | South Bend | 46601 | 307,246
The Center for the Homeless/Center for the Homeless RRH FY2018 | 813 South Michigan Street | South Bend | 46601 | 53,875
YWCA North Central Indiana/Consolidated TH-RRH for Victims of DV | 1102 S Fellows Street | South Bend | 46601 | 207,832
City of Indianapolis/2019 Adult and Child New Beginnings RRH | 200 East Washington Street Suite 2042 | Indianapolis | 46204 | 176,619
City of Indianapolis/2019 Adult and Child PH I | 200 East Washington Street Suite 2042 | Indianapolis | 46204 | 250,549
City of Indianapolis/2019 Adult and Child SPC | 200 East Washington Street Suite 2042 | Indianapolis | 46204 | 76,563
City of Indianapolis/2019 CHIP Coordinated Entry | 200 East Washington Street Suite 2042 | Indianapolis | 46204 | 136,878
City of Indianapolis/2019 Coburn Place—RRH | 200 East Washington Street Suite 2042 | Indianapolis | 46204 | 272,639
City of Indianapolis/2019 Damien Center | 200 East Washington Street Suite 2042 | Indianapolis | 46204 | 404,376
City of Indianapolis/2019 Englewood | 200 East Washington Street Suite 2042 | Indianapolis | 46204 | 93,996
City of Indianapolis/2019 Healthnet/HIP Dowe Legacy | 200 East Washington Street Suite 2042 | Indianapolis | 46204 | 133,632
City of Indianapolis/2019 HIP Rapid Re-Housing Expansion Project | 200 East Washington Street Suite 2042 | Indianapolis | 46204 | 526,390
City of Indianapolis/2019 HIP RRH Expansion | 200 East Washington Street Suite 2042 | Indianapolis | 46204 | 301,544
City of Indianapolis/2019 HMIS | 200 East Washington Street Suite 2042 | Indianapolis | 46204 | 195,425
City of Indianapolis/2019 Indianapolis Planning Grant | 200 East Washington Street Suite 2042 | Indianapolis | 46204 | 204,313
City of Indianapolis/2019 Julian Center 34 North | 200 East Washington Street Suite 2042 | Indianapolis | 46204 | 195,986
City of Indianapolis/2019 Midtown Community Health Adult SPC | 200 East Washington Street Suite 2042 | Indianapolis | 46204 | 443,430
City of Indianapolis/2019 Midtown Consolidated | 200 East Washington Street Suite 2042 | Indianapolis | 46204 | 413,282
City of Indianapolis/2019 Midtown Wellness Expansion Project | 200 East Washington Street Suite 2042 | Indianapolis | 46204 | 285,223
City of Indianapolis/2019 Partners in Housing—Transitioning to RRH | 200 East Washington Street Suite 2042 | Indianapolis | 46204 | 156,600
City of Indianapolis/2019 Partners in Housing Threshold | 200 East Washington Street Suite 2042 | Indianapolis | 46204 | 1,170,227
City of Indianapolis/2019 Salvation Army Barton Center | 200 East Washington Street Suite 2042 | Indianapolis | 46204 | 137,512
Catholic Charities,Inc./Catholic Charities RRH | 437 N Topeka Street | Wichita | 67202 | 126,753
County of Sedgwick/PSH Consolidated Grant | 271 W 3rd Street N, Suite 600 | Wichita | 67202 | 162,058
Inter-Faith Ministries Wichita, Inc./Villa Central | 829 N Market St | Wichita | 67214 | 43,050
Inter-Faith Ministries Wichita, Inc./Villa Court | 829 N Market St | Wichita | 67214 | 119,656
Inter-Faith Ministries Wichita, Inc./Villa North | 829 N Market St | Wichita | 67214 | 63,297
Mental Health Association Residential Care, Inc/MHA-RR | 555 N Woodlawn, Ste. 3105 | Wichita | 67208 | 129,564
Sedgwick County/Shelter Plus Care Consolidated | 271 W 3rd St N, Suite 600 | Wichita | 67202 | 1,030,523
The Salvation Army/The Salvation Army Wichita TH-RRH Program | 101 W Linwood | Kansas City | 64111 | 154,240
United Methodist Open Door, Inc./Family Rapid Rehousing | 402 E Second | Wichita | 67202 | 154,019
United Way of the Plains/CE-DV Database | 245 N Water | Wichita | 67202 | 135,588
United Way of the Plains/CoC Planning Project | 245 N Water | Wichita | 67202 | 72,609
United Way of the Plains/Dual Diagnosis PSH | 245 N Water | Wichita | 67202 | 259,484
United Way of the Plains/HMIS-CE | 245 N Water | Wichita | 67202 | 220,735
City of Topeka, Kansas/CoC Planning Grant | 620 SE Madison, 1st Floor, Unit 8 | Topeka | 66607 | 56,518
City of Topeka, Kansas/Shelter Plus Care | 620 SE Madison, 1st Floor, Unit 8 | Topeka | 66607 | 1,735,581
Community Action, Inc./Tanglewood Supportive Housing Project | 455 SE Golf Park Blvd. | Topeka | 66605 | 194,459
Catholic Charities of Northeast Kansas, Inc./CCNEK Housing First Johnson County | 9720 W 87th Street | Overland Park | 66212 | 267,332
Johnson County Mental Health Center/Consolidated Supported Housing FY2018 | 6440 Nieman Rd | Shawnee | 66203 | 136,303
Johnson County Mental Health Center/New Supported Housing FY18 | 6440 Nieman Rd | Shawnee | 66203 | 55,752
Mid-America Regional Council/HMIS Lead Agency of Johnson Co FY18 | 600 Broadway Suite 200 | Kansas City | 64105 | 62,632
SAFEHOME, Inc./SAFEHOME DV RRH | P.O. Box 4563 | Overland Park | 66204 | 86,712
SAFEHOME, Inc./SAFEHOME TH to DV RRH | P.O. Box 4563 | Overland Park | 66204 | 54,304
United Community Services of Johnson County/KS-505 FY2018 CoC Planning Project Application_UCS | 12351 W 96th Terr, Suite 200 | Lenexa | 66215 | 20,538
Catholic Charities of Southwest Kansas/Southwest Kansas Housing Program | 906 Central Ave | Dodge City | 67801 | 200,549
CLASS LTD/Permanent Housing for Homeless Persons with Developmental Disabilities | P.O. Box 266 1200 Merle Evans Drive | Columbus | 66725 | 131,310
Kansas Housing Resources Corporation/Supportive Housing Program—HMIS | 611 S Kansas Ave. Suite 300 | Topeka | 66603 | 135,533
Kansas Statewide Homeless Coalition, Inc./KS BoS Coordinated Entry Improvement Project | 2001 Haskell Ave. STE. 207 | Lawrence | 66046 | 168,734
Kansas Statewide Homeless Coalition, Inc./KS-507 CoC Planning Application FY2018 | 2001 Haskell Ave. STE. 207 | Lawrence | 66046 | 123,421
Lawrence-Douglas County Housing Authority/HOPE BUILDING 2018 | 1600 Haskell Avenue | Lawrence | 66044 | 102,497
Manhattan Emergency Shelter, Inc./MESI Transition in Place Program | 416 S 4th Street | Manhattan | 66502 | 182,004
Manhattan Emergency Shelter, Inc./Opportunities Program | 416 S 4th Street | Manhattan | 66502 | 116,990
Mental Health Association of the Heartland/Blaylock Residences | 739 Minnesota Ave | Kansas City | 66101 | 132,157
Mental Health Association of the Heartland/Marion Apartments | 739 Minnesota Ave | Kansas City | 66101 | 112,595
Mid Kansas CAP Inc/Housing and Beyond | 730 Cliff Drive | Augusta | 67010 | 303,738
My Father's House Community Services, Inc./My Father's House Community Services | 1004 N Pearl Street | Paola | 66071 | 219,778
NEK-CAP, Inc./Housing With Opportunities | 1260 220th Street P.O. Box 380 | Hiawatha | 66434 | 185,916
Plumb Place Inc./Transitional Housing with Supportive Services | 224 E 6th | Emporia | 66801 | 81,531
Prairie View Inc/Meadowlark Leasing | 1901 E 1st St | Newton | 67114 | 102,294
Salina Housing Authority/Shelter Plus Care | 469 S 5th Street | Salina | 67401 | 112,005
The Salvation Army/Project Able Permanent Supportive Housing Program | 101 W Linwood | Kansas City | 64111 | 240,336
Barren River Area Safe Space, Inc./BRASS Joint TH-RRH DV Bonus | P.O. Box 1941 | Bowling Green | 42102 | 561,572
Clark County Homeless Coalition, Inc/CCHC Joint TH PH-RRH | 25 Wainscott Ave | Winchester | 40391 | 177,784
Community Action Council for Lexington-Fayette, Bourbon, Har/Crisis and Housing Support | P.O. Box 11610 | Lexington | 40576 | 150,600
Homeless & Housing Coalition of Kentucky/Region 6 Coordinated Entry | 306 W Main St. Ste. 207 | Frankfort | 40601 | 41,025
Independent Living Options, Inc./Housing for Persons with Disabilities | 2031 Auburn Avenue | Cincinnati | 45219 | 203,796
Kentucky Coalition Against Domestic Violence/KCADV Rapid Rehousing—DV Bonus | 111 Darby Shire Circle | Frankfort | 40601 | 308,255
Kentucky Housing Corporation/BDHC's Rapid Rehousing | 1231 Louisville Rd | Frankfort | 40601 | 80,575
Kentucky Housing Corporation/CAC PSH | 1231 Louisville Rd | Frankfort | 40601 | 308,382
Kentucky Housing Corporation/CCCS RRH Program | 1231 Louisville Rd | Frankfort | 40601 | 294,495
Kentucky Housing Corporation/CILO Supportive Housing Program | 1231 Louisville Rd | Frankfort | 40601 | 203,854
Kentucky Housing Corporation/Estill County Rental Project | 1231 Louisville Rd | Frankfort | 40601 | 15,315
Kentucky Housing Corporation/Gateway House Rapid Rehousing Program Expansion | 1231 Louisville Rd | Frankfort | 40601 | 157,293
Kentucky Housing Corporation/Good News Homes Rapid Rehousing Project | 1231 Louisville Rd | Frankfort | 40601 | 63,132
Kentucky Housing Corporation/Harlan Permanent Housing Program | 1231 Louisville Rd | Frankfort | 40601 | 58,169
Kentucky Housing Corporation/Heartland CARES Shelter Plus Care Program | 1231 Louisville Rd | Frankfort | 40601 | 41,663
Kentucky Housing Corporation/HHCK BOS PSH | 1231 Louisville Rd | Frankfort | 40601 | 760,653
Kentucky Housing Corporation/Hope Self-Help Housing Expansion | 1231 Louisville Rd | Frankfort | 40601 | 94,103
Kentucky Housing Corporation/Housing First Balance of State Region 6 | 1231 Louisville Rd | Frankfort | 40601 | 291,417
Kentucky Housing Corporation/Jarnigan Place RRH | 1231 Louisville Rd | Frankfort | 40601 | 101,824
Kentucky Housing Corporation/KCADV BoS RRH | 1231 Louisville Rd | Frankfort | 40601 | 376,758
Kentucky Housing Corporation/Kentucky Homeless Management Information System | 1231 Louisville Rd | Frankfort | 40601 | 170,000
Kentucky Housing Corporation/Kentucky River Community Care PH—PRA | 1231 Louisville Rd | Frankfort | 40601 | 31,410
Kentucky Housing Corporation/Kentucky River Community Care PH—TRA | 1231 Louisville Rd | Frankfort | 40601 | 204,853
Kentucky Housing Corporation/Kentucky River Community Care Sponsor-Based S+C Program | 1231 Louisville Rd | Frankfort | 40601 | 76,875
Kentucky Housing Corporation/King's Crossing | 1231 Louisville Rd | Frankfort | 40601 | 35,943
Kentucky Housing Corporation/KRCC- CoC Leasing Grant | 1231 Louisville Rd | Frankfort | 40601 | 45,048
Kentucky Housing Corporation/KRCC RRH | 1231 Louisville Rd | Frankfort | 40601 | 204,255
Kentucky Housing Corporation/KY500 CoC Planning Application FY2018 | 1231 Louisville Rd | Frankfort | 40601 | 256,621
Kentucky Housing Corporation/KYHMIS Consolidation | 1231 Louisville Rd | Frankfort | 40601 | 125,215
Kentucky Housing Corporation/LifeSkills PH TBRA | 1231 Louisville Rd | Frankfort | 40601 | 322,238
Kentucky Housing Corporation/MCC Shelby Valley Independent Living Program | 1231 Louisville Rd | Frankfort | 40601 | 27,457
Kentucky Housing Corporation/Merryman House Permanent Housing | 1231 Louisville Rd | Frankfort | 40601 | 126,309
Kentucky Housing Corporation/Mountain Comprehensive Care Shelter Plus Care Program | 1231 Louisville Rd | Frankfort | 40601 | 75,365
Kentucky Housing Corporation/Northern Kentucky Permanent Housing Program | 1231 Louisville Rd | Frankfort | 40601 | 109,053
Kentucky Housing Corporation/Northern Kentucky Permanent Supportive Housing Program | 1231 Louisville Rd | Frankfort | 40601 | 146,380
Kentucky Housing Corporation/Northern Kentucky Rapid Rehousing Program | 1231 Louisville Rd | Frankfort | 40601 | 288,771
Kentucky Housing Corporation/Passages PSH | 1231 Louisville Rd | Frankfort | 40601 | 200,828
Kentucky Housing Corporation/PEACE Housing Program | 1231 Louisville Rd | Frankfort | 40601 | 259,189
Kentucky Housing Corporation/Pennyroyal PSH | 1231 Louisville Rd | Frankfort | 40601 | 91,208
Kentucky Housing Corporation/Region 6 Permanent Housing Project | 1231 Louisville Rd | Frankfort | 40601 | 362,829
Kentucky Housing Corporation/Safe Harbor Transitional Housing | 1231 Louisville Rd | Frankfort | 40601 | 282,902
Kentucky Housing Corporation/Southeast Kentucky Homeless and Housing Alliance | 1231 Louisville Rd | Frankfort | 40601 | 203,920
Kentucky River Community Care, Inc./Kentucky River Community Care—CoC Coordinated Entry | 115 Rockwood Lane | Hazard | 41701 | 41,025
Kentucky River Foothills Development Council, Inc./Estill and Powell Joint TH/RRH | 309 Spangler Drive | Richmond | 40475 | 148,166
Mountain Comprehensive Care Center/Big Sandy Coordinated Entry | 104 South Front Aveune | Prestonsburg | 41653 | 25,000
Mountain Comprehensive Care Center/Layne House Apartments | 104 South Front Aveune | Prestonsburg | 41653 | 17,378
Mountain Comprehensive Care Center/Mountain Housing SRA | 104 South Front Aveune | Prestonsburg | 41653 | 38,173
Transitions, Inc./Homeless Services Project | 1650 Russell Street | Covington | 41011 | 198,481
Transitions, Inc./Transitions Permanent Housing Program | 1650 Russell Street | Covington | 41011 | 325,716
Welcome House of Northern Kentucky, Inc./Gaining Access through Programs and Services | 205 West Pike Street | Covington | 41011 | 325,851
Welcome House of Northern Kentucky, Inc./Northern Kentucky Coordinated Entry | 205 West Pike Street | Covington | 41011 | 41,025
Welcome House of Northern Kentucky, Inc./Welcome House CoC Rapid ReHousing Program | 205 West Pike Street | Covington | 41011 | 175,916
Welcome House of Northern Kentucky, Inc./Welcome House Rapid ReHousing 2 | 205 West Pike Street | Covington | 41011 | 156,529
Centerstone of Kentucky/Homeless Outreach Team Renewal FY2018 | 10101 Linn Station Road Suite 600 | Louisville | 40223 | 94,825
Choices, Inc./PSH2018 | 419 S Shelby Street | Louisville | 40202 | 80,025
Coalition for the Homeless, Inc./2018 Louisville Planning Grant Application | 1300 South 4th Street Suite 250 | Louisville | 40208 | 278,291
Coalition for the Homeless, Inc./Collaborative Housing for Chronically Homeless | 1300 South 4th Street Suite 250 | Louisville | 40208 | 716,314
Coalition for the Homeless, Inc./Coordinated Entry Diversion 1 | 1300 South 4th Street Suite 250 | Louisville | 40208 | 110,187
Coalition for the Homeless, Inc./Family Health Centers Rx: Housing | 1300 South 4th Street Suite 250 | Louisville | 40208 | 459,255
Coalition for the Homeless, Inc./HMIS Consolidated Grant | 1300 South 4th Street Suite 250 | Louisville | 40208 | 130,075
Coalition for the Homeless, Inc./Louisville Alliance for Supportive Housing | 1300 South 4th Street Suite 250 | Louisville | 40208 | 652,147
Coalition for the Homeless, Inc./Permanent Supportive Housing for the Chronically Homeless | 1300 South 4th Street Suite 250 | Louisville | 40208 | 522,504
Coalition for the Homeless, Inc./Permanent Supportive Housing for Youth and Adults | 1300 South 4th Street Suite 250 | Louisville | 40208 | 205,766
Coalition for the Homeless, Inc./Single Point of Entry | 1300 South 4th Street Suite 250 | Louisville | 40208 | 79,502
Coalition for the Homeless, Inc./Supportive Housing for Chronically Homeless | 1300 South 4th Street Suite 250 | Louisville | 40208 | 339,225
Coalition for the Homeless, Inc./Transitional Housing for Young Adults | 1300 South 4th Street Suite 250 | Louisville | 40208 | 230,605
Family Health Centers, Inc./FHC Common Assessment | 2215 Portland Avenue | Louisville | 40212 | 299,656
Home of the Innocents/Rapid Re-Housing | 1100 E Market Street | Louisville | 40206 | 448,274
House of Ruth, Inc/Homes with Heart | 607 E Saint Catherine Street | Louisville | 40203 | 159,638
Louisville-Jefferson County Metro Government/PSH III CH | 527 West Jefferson Street, Suite 400 ATTN: Office of Resilience and Community Services | Louisville | 40202 | 123,773
Louisville-Jefferson County Metro Government/PSH Non Chronic I | 527 West Jefferson Street, Suite 400 ATTN: Office of Resilience and Community Services | Louisville | 40202 | 163,686
Louisville-Jefferson County Metro Government/PSH Non-Chronic II | 527 West Jefferson Street, Suite 400 ATTN: Office of Resilience and Community Services | Louisville | 40202 | 204,214
Louisville-Jefferson County Metro Government/Rapid Rehousing for Domestic Violence Victims | 527 West Jefferson Street, Suite 400 ATTN: Office of Resilience and Community Services | Louisville | 40202 | 55,663
Louisville-Jefferson County Metro Government/SPC DePaul Apartments | 527 West Jefferson Street, Suite 400 ATTN: Office of Resilience and Community Services | Louisville | 40202 | 107,116
Louisville-Jefferson County Metro Government/SPC Kersey Condos | 527 West Jefferson Street, Suite 400 ATTN: Office of Resilience and Community Services | Louisville | 40202 | 34,017
Louisville-Jefferson County Metro Government/SPC Louisville TBRA | 527 West Jefferson Street, Suite 400 ATTN: Office of Resilience and Community Services | Louisville | 40202 | 2,112,453
Louisville-Jefferson County Metro Government/SPC Simon Hall | 527 West Jefferson Street, Suite 400 ATTN: Office of Resilience and Community Services | Louisville | 40202 | 43,726
Society of St Vincent de Paul, Council of Louisville, Inc./Collaborative Housing Initiative | 1015-C South Preston Street | Louisville | 40203 | 521,356
Society of St Vincent de Paul, Council of Louisville, Inc./Homes With Hope | 1015-C South Preston Street | Louisville | 40203 | 136,236
Society of St Vincent de Paul, Council of Louisville, Inc./SVDP On Campus PSH | 1015-C South Preston Street | Louisville | 40203 | 373,791
Volunteers of America Mid-States, Inc./CoC Rapid Rehousing for Families | 570 South Fourth Street Suite 100 | Louisville | 40202 | 117,010
Volunteers of America Mid-States, Inc./Volunteers of America-Joint Component Project-Transitional Housing/Rapid Rehousing | 570 South Fourth Street Suite 100 | Louisville | 40202 | 550,534
Wayside Christian Mission/Men's permanent supportive housing | 120 West Broadway | Louisville | 40202 | 126,241
Wayside Christian Mission/Women's permanent supportive housing | 120 West Broadway | Louisville | 40202 | 32,641
Wayside Christian Mission/Women's supportive housing 2 | 120 West Broadway | Louisville | 40202 | 96,357
Wellspring, Inc. (dba Schizophrenia Foundation, KY, Inc.)/Journey Permanent Supportive Housing | P.O. Box 1927 | Louisville | 40201 | 247,460
Wellspring, Inc. (dba Schizophrenia Foundation, KY, Inc.)/Murray-Baxter Permanent Supportive Housing | P.O. Box 1927 | Louisville | 40201 | 58,055
Bluegrass.org, Inc./Continuum of Care Program | 1351 Newtown Pike, Building 1 | Lexington | 40511 | 153,694
Community Action Council for Lexington-Fayette, Bourbon, Har/Crisis and Housing Support for Youth | P.O. Box 11610 | Lexington | 40576 | 186,630
Community Action Council for Lexington-Fayette, Bourbon, Har/Domestic Violence Bonus Initiative | P.O. Box 11610 | Lexington | 40576 | 172,098
Community Action Council for Lexington-Fayette, Bourbon, Har/Housing Navigation and Intensive Case Management | P.O. Box 11610 | Lexington | 40576 | 100,206
Community Action Council for Lexington-Fayette, Bourbon, Har/Project Independence Rapid Re-housing | P.O. Box 11610 | Lexington | 40576 | 338,647
Lexington Rescue Mission/LRM Rapid Rehousing | 444 Glen Arvin Ave | Lexington | 40508 | 130,076
Lexington Rescue Mission/LRM Rapid Rehousing (Expansion) | 444 Glen Arvin Ave | Lexington | 40508 | 35,584
Lexington-Fayette Urban County Government/KY-502 CoC Planning Project Application FY2018 | 200 East Main Street | Lexington | 40507 | 50,103
Lexington-Fayette Urban County Housing Authority/LexCoC | 300 W New Circle Road | Lexington | 40505 | 198,827
Mountain Comprehensive Care Center/MCCC Bluegrass Region PSH | 104 South Front Aveune | Prestonsburg | 41653 | 243,925
New Beginnings, Bluegrass, Inc./New Beginnings Housing First Program | 225 Walton Avenue Suite 120 | Lexington | 40502 | 178,174
New Beginnings, Bluegrass, Inc./New Beginnings Housing First Program Expansion | 225 Walton Avenue Suite 120 | Lexington | 40502 | 35,540
Acadiana C.A.R.E.S., Inc./Permanent Supportive Housing for Homeless Person w/Disabilities—ACEX | 809 Martin Luther King, Jr. Drive | Lafayette | 70501 | 502,978
Acadiana C.A.R.E.S., Inc./Permanent Supportive Housing for Homeless Person w/Disabilities—HIV | 809 Martin Luther King, Jr. Drive | Lafayette | 70501 | 312,707
Acadiana Outreach Center, Inc./AOC RR Consolidation 2018 | 625 N University Ave | Lafayette | 70506 | 314,699
Acadiana Outreach Center, Inc./AOC TH/RR 2018 | 625 N University Ave | Lafayette | 70506 | 99,204
Acadiana Regional Coalition on Homelessness and Housing, Inc./CoC Planning Project Application FY2018 | P.O. 3936 | Lafayette | 70502 | 76,211
Catholic Services of Acadiana, Inc./CSA 2018 PSH Expansion | 405 St. John Street | Lafayette | 70501 | 184,589
Catholic Services of Acadiana, Inc./CSA 2018 SSO Expansion | 405 St. John Street | Lafayette | 70501 | 50,896
Catholic Services of Acadiana, Inc./CSA HMIS Expansion | 405 St. John Street | Lafayette | 70501 | 47,074
Catholic Services of Acadiana, Inc./CSA PSH Program | 405 St. John Street | Lafayette | 70501 | 300,343
Catholic Services of Acadiana, Inc./CSA Rapid Rehousing Project | 405 St. John Street | Lafayette | 70501 | 330,871
Catholic Services of Acadiana, Inc./HMIS Dedicated Project | 405 St. John Street | Lafayette | 70501 | 139,549
Catholic Services of Acadiana, Inc./The Oasis (dba—Stella Maris Center) (LA0023L6001710) | 405 St. John Street | Lafayette | 70501 | 51,637
Faith House, Inc./Domestic Violence—SSO/CE FY 2018 | 1300 E Pinhook | Lafayette | 70501 | 227,171
Faith House, Inc./Permanent Housing—Domestic Violence | 1300 E Pinhook | Lafayette | 70501 | 137,673
Faith House, Inc./Transitional Housing—Domestic Violence | 1300 E Pinhook | Lafayette | 70501 | 64,760
Community Support Programs, Inc./Center for Women's Issues Expansion | 2924 Knight Street, Ste 326 | Shreveport | 71105 | 367,729
Community Support Programs, Inc./Crossroads II | 2924 Knight Street, Ste 326 | Shreveport | 71105 | 340,193
Community Support Programs, Inc./REACH II | 2924 Knight Street, Ste 326 | Shreveport | 71105 | 531,439
Easter Seals Louisiana/Intensive Community Engagement | 3007 Knight St, Suite 200 | Shreveport | 71105 | 299,214
Easter Seals Louisiana/Pathways to Independence | 3007 Knight St, Suite 200 | Shreveport | 71105 | 226,702
HOPE Connections/CoC Planning Project FY2018 | 2350 Levy Street | Shreveport | 71103 | 117,773
HOPE Connections/Coordinated Access Point | 2350 Levy Street | Shreveport | 71103 | 127,585
HOPE Connections/NWLA HMIS Project | 2350 Levy Street | Shreveport | 71103 | 70,499
Housing Authority of the City of Bossier City, Louisiana/Harbor I Consolidated Renewal FY2018 | 805 First Street East | Bossier City | 71111 | 709,688
Philadelphia Center/Mercy Center | 2020 Centenary | Shreveport | 71104 | 181,005
Volunteers of America of North LA/GAPS 2018 | 360 Jordan Street | Shreveport | 71101 | 389,708
Volunteers of America of North LA/SHOC 2018 | 360 Jordan Street | Shreveport | 71101 | 648,828
Catholic Charities Archdioces of New Orleans/Bridges to Self Sufficiency | 1000 Howard Avenue, Suite 200 | New Orleans | 70113 | 184,344
Catholic Charities Archdioces of New Orleans/Ciara Permanent Housing | 1000 Howard Avenue, Suite 200 | New Orleans | 70113 | 129,586
City of New Orleans Office of Community Development/City of New Orleans Shelter Plus Care | 1340 Poydras Street, Suite 1000 | New Orleans | 70112 | 603,726
Jefferson Parish Department of Community Development/LA503-REN-Shelter Plus Care Program | 1221 Elmwood Park Blvd., Suite 605 | Jefferson | 70123 | 230,436
Metropolitan Human Services District/Sponsor Based Rental Assistance Shelter Plus Care | 3100 General DeGaulle Avenue | New Orleans | 70114 | 1,306,907
NAMI New Orleans/Permanent Housing & Independent Living Program | 1538 Louisiana Avenue | New Orleans | 70115 | 192,537
UNITY of Greater New Orleans/Catholic Charities Voyage House | 2475 Canal Street, Suite 300 | New Orleans | 70119 | 456,831
UNITY of Greater New Orleans/CoC Planning Project | 2475 Canal Street, Suite 300 | New Orleans | 70119 | 555,732
UNITY of Greater New Orleans/Coming Home PSH | 2475 Canal Street, Suite 300 | New Orleans | 70119 | 140,675
UNITY of Greater New Orleans/Coordinated Entry for Survivors | 2475 Canal Street, Suite 300 | New Orleans | 70119 | 80,000
UNITY of Greater New Orleans/Coordinated Entry Project | 2475 Canal Street, Suite 300 | New Orleans | 70119 | 130,559
UNITY of Greater New Orleans/Covenant House Permanent Housing for Youth | 2475 Canal Street, Suite 300 | New Orleans | 70119 | 109,352
UNITY of Greater New Orleans/Day Center Coordinated Entry | 2475 Canal Street, Suite 300 | New Orleans | 70119 | 209,134
UNITY of Greater New Orleans/GNO Rapid Rehousing | 2475 Canal Street, Suite 300 | New Orleans | 70119 | 249,686
UNITY of Greater New Orleans/Goodwill PSH | 2475 Canal Street, Suite 300 | New Orleans | 70119 | 290,349
UNITY of Greater New Orleans/Goodwill Rapid Rehousing | 2475 Canal Street, Suite 300 | New Orleans | 70119 | 221,070
UNITY of Greater New Orleans/Home At Last—Consolidated | 2475 Canal Street, Suite 300 | New Orleans | 70119 | 480,735
UNITY of Greater New Orleans/Home for Good | 2475 Canal Street, Suite 300 | New Orleans | 70119 | 160,084
UNITY of Greater New Orleans/Home for Good Expansion Project | 2475 Canal Street, Suite 300 | New Orleans | 70119 | 572,436
UNITY of Greater New Orleans/JPHSA Supportive Housing for Persons with Disabilities—Consolidated | 2475 Canal Street, Suite 300 | New Orleans | 70119 | 513,239
UNITY of Greater New Orleans/New Keys Expansion Project | 2475 Canal Street, Suite 300 | New Orleans | 70119 | 115,339
UNITY of Greater New Orleans/New Orleans Womanspace | 2475 Canal Street, Suite 300 | New Orleans | 70119 | 602,987
UNITY of Greater New Orleans/New Orleans Women's Shelter TH | 2475 Canal Street, Suite 300 | New Orleans | 70119 | 171,948
UNITY of Greater New Orleans/New Start Housing | 2475 Canal Street, Suite 300 | New Orleans | 70119 | 1,043,367
UNITY of Greater New Orleans/NO AIDS Task Force Permanent Housing | 2475 Canal Street, Suite 300 | New Orleans | 70119 | 455,849
UNITY of Greater New Orleans/Odyssey House Samaritan | 2475 Canal Street, Suite 300 | New Orleans | 70119 | 767,285
UNITY of Greater New Orleans/Partners in Health and Housing | 2475 Canal Street, Suite 300 | New Orleans | 70119 | 2,465,632
UNITY of Greater New Orleans/Pathways PSH | 2475 Canal Street, Suite 300 | New Orleans | 70119 | 342,421
UNITY of Greater New Orleans/Project Home | 2475 Canal Street, Suite 300 | New Orleans | 70119 | 217,060
UNITY of Greater New Orleans/Rapid Rehousing for Chronically Homeless Persons Project | 2475 Canal Street, Suite 300 | New Orleans | 70119 | 200,495
UNITY of Greater New Orleans/Rapid Rehousing for Families | 2475 Canal Street, Suite 300 | New Orleans | 70119 | 698,361
UNITY of Greater New Orleans/Rapid Rehousing for Survivors | 2475 Canal Street, Suite 300 | New Orleans | 70119 | 1,065,065
UNITY of Greater New Orleans/Rapid Rehousing for Youth—Consolidated | 2475 Canal Street, Suite 300 | New Orleans | 70119 | 263,274
UNITY of Greater New Orleans/RRH to Reduce Unsheltered Homelessness | 2475 Canal Street, Suite 300 | New Orleans | 70119 | 572,436
UNITY of Greater New Orleans/Salvation Army Family Transitional Housing | 2475 Canal Street, Suite 300 | New Orleans | 70119 | 158,768
UNITY of Greater New Orleans/Start Rapid Rehousing | 2475 Canal Street, Suite 300 | New Orleans | 70119 | 375,976
UNITY of Greater New Orleans/Street Outreach for Coordinated Entry | 2475 Canal Street, Suite 300 | New Orleans | 70119 | 298,472
UNITY of Greater New Orleans/The Finally Home Project | 2475 Canal Street, Suite 300 | New Orleans | 70119 | 144,103
UNITY of Greater New Orleans/The Journey Home- Consolidated | 2475 Canal Street, Suite 300 | New Orleans | 70119 | 1,035,747
UNITY of Greater New Orleans/The Keys Project | 2475 Canal Street, Suite 300 | New Orleans | 70119 | 1,197,476
UNITY of Greater New Orleans/The Transformation Supportive Housing Project | 2475 Canal Street, Suite 300 | New Orleans | 70119 | 239,817
UNITY of Greater New Orleans/VIA LINK HMIS | 2475 Canal Street, Suite 300 | New Orleans | 70119 | 444,018
UNITY of Greater New Orleans/VOA Case Management | 2475 Canal Street, Suite 300 | New Orleans | 70119 | 118,007
UNITY of Greater New Orleans/Welcome Home Outreach | 2475 Canal Street, Suite 300 | New Orleans | 70119 | 184,628
UNITY of Greater New Orleans/Youth Outreach and Coordinated Entry | 2475 Canal Street, Suite 300 | New Orleans | 70119 | 153,338
Volunteers of America of Greater New Orleans/Permanent Housing for Homeless Persons with Disabilities | 4152 Canal Street | New Orleans | 70119 | 1,074,855
Elisha Ministries DBA Supportive Housing of Northeast LA/Elijah Rural Supportive Housing 2018 | 608 South Trenton St, P.O. Box 1886 | Ruston, LA | 71270 | 221,853
NELA Housing and Supportive Services Corporation/LA-505 CoC Planning Application FY2018 | 1515 Jackson Street | Monroe | 71202 | 48,278
NELA Housing and Supportive Services Corporation/Northeast Louisiana Coordinated Entry Project | 1515 Jackson Street | Monroe | 71202 | 96,556
NELA Housing and Supportive Services Corporation/Northeast Louisiana HMIS | 1515 Jackson Street | Monroe | 71202 | 74,249
Our House, Inc./Home Again | 205 Smith | Monroe | 71203 | 60,306
Our House, Inc./Youth Transitions | 205 Smith | Monroe | 71203 | 98,656
Rays of Sonshine/The Sonshine Project | 200 Breard Street | Monroe | 71201 | 218,864
The Wellspring Alliance for Families, Inc./Raise the Roof | 1515 Jackson Street | Monroe | 71202 | 163,083
The Wellspring Alliance for Families, Inc./Reach Out: Rural Initiative | 1515 Jackson Street | Monroe | 71202 | 278,421
The Wellspring Alliance for Families, Inc./The Wellspring Domestic Violence PH-RRH | 1515 Jackson Street | Monroe | 71202 | 90,742
The Wellspring Alliance for Families, Inc./Wellspring PHP Consolidated | 1515 Jackson Street | Monroe | 71202 | 255,150
The Wellspring Alliance for Families, Inc./Wellspring Regional Rapid Rehousing Project | 1515 Jackson Street | Monroe | 71202 | 140,132
NAMI St Tammany/Supportive Housing—Permanent Housing | 23515 Hwy 190 | Mandeville | 70448 | 79,780
Northlake Homeless Coalition/NHC CAAS Project | 23515 US 190 | Mandeville | 70448 | 240,323
Northlake Homeless Coalition/NHC Planning Project | 23515 US 190 | Mandeville | 70448 | 63,986
Northlake Homeless Coalition/Northlake HMIS Data Project | 23515 US 190 | Mandeville | 70448 | 95,650
Safe Harbor, Inc/Safe Harbor Domestic Violence Housing Program | P.O. Box 1179 | Mandeville | 70470 | 108,954
Southeast Spouse Abuse Program/dba Southeast Advocates for Family Empowerment (SAFE)/SAFE RRH | 46497 N Morrison Blvd | Hammond | 70401 | 247,699
St Tammany Parish Government/Supportive Housing Program | P.O. Box 628 21454 Koop Dr | Covington | 70434 | 124,764
St Tammany Parish Government/Transition to Housing | P.O. Box 628 21454 Koop Dr | Covington | 70434 | 129,843
Volunteers of America of Greater New Orleans/Northshore Permanent Housing for Disabled Individuals | 4152 Canal Street | New Orleans | 70119 | 605,532
Volunteers of America of Greater New Orleans/Permanent Housing for the Homeless with Disabilities | 4152 Canal Street | New Orleans | 70119 | 172,266
Volunteers of America of Greater New Orleans/Permanent Supportive Housing for Homeless Persons with Disabilities | 4152 Canal Street | New Orleans | 70119 | 121,316
Volunteers of America of Greater New Orleans/Project CH PSH North Shore | 4152 Canal Street | New Orleans | 70119 | 115,894
Volunteers of America of Greater New Orleans/Project CH TWSH | 4152 Canal Street | New Orleans | 70119 | 92,538
Volunteers of America of Greater New Orleans/Project CH VOAGNO | 4152 Canal Street | New Orleans | 70119 | 248,866
Volunteers of America of Greater New Orleans/Project PHVA | 4152 Canal Street | New Orleans | 70119 | 45,093
Central Louisiana Coalition to Prevent Homelessness, Inc./Coordinated Entry | 1515 Jackson Street | Alexandria | 71301 | 35,000
Central Louisiana Coalition to Prevent Homelessness, Inc./HMIS | 1515 Jackson Street | Alexandria | 71301 | 59,353
Central Louisiana Coalition to Prevent Homelessness, Inc./LA-507 CoC Planning Application FY201 8 | 1515 Jackson Street | Alexandria | 71301 | 21,507
Central Louisiana Coalition to Prevent Homelessness, Inc./PSH-LITS | 1515 Jackson Street | Alexandria | 71301 | 165,873
Central Louisiana Coalition to Prevent Homelessness, Inc./Rapid Rehousing | 1515 Jackson Street | Alexandria | 71301 | 93,082
Hope House of Central Louisiana, Inc/Hope House Renewal TH 2018 | 5115 South MacArthur Drive | Alexandria | 71302 | 131,666
Volunteers of America North Louisiana/VOA Cenla 2018 PSH 7138 | 360 Jordan Street | Shreveport | 71101 | 161,814
Volunteers of America North Louisiana/VOA Cenla 2018 RRH 7143 | 360 Jordan Street | Shreveport | 71101 | 34,586
Volunteers Of America of North Louisiana/VOA Cenla 2018 PSH 7140 | 360 Jordan Street | Shreveport | 71101 | 27,090
Calcasieu Parish Police Jury/Regional Coordinated Entry Renewal 2018 | 2001 Moeling Street | Lake Charles | 70601 | 182,144
Capital Area Alliance for the Homeless/VOA Home At Last | 153 N 17th Street | Baton Rouge | 70802 | 105,555
Gulf Coast Teaching Family Services, Inc./The Network FY2018 | 320 Progressive Blvd | Houma | 70360 | 81,506
Healing Place Serve/HP Serve Rapid Re-housing Program | 19202 Highland Rd | Baton Rouge | 70809 | 230,089
Healing Place Serve/HP Serve RRH for Individual Youth | 19202 Highland Rd | Baton Rouge | 70809 | 231,470
HIV/AIDS Alliance for Region Two, Inc./2018 HAART Hope and Healing | 4550 North Blvd. Ste. 250 | Baton Rouge | 70806 | 220,780
HIV/AIDS Alliance for Region Two, Inc./2018 Homes from the HAART | 4550 North Blvd. Ste. 250 | Baton Rouge | 70806 | 101,742
Louisiana Housing Corporation/HMIS | 2415 Quail Dr | Baton Rouge | 70808 | 239,592
Louisiana Housing Corporation/HMIS Expansion | 2415 Quail Dr | Baton Rouge | 70808 | 77,178
Louisiana Housing Corporation/Louisiana BoS CoC Planning Project | 2415 Quail Dr | Baton Rouge | 70808 | 488,177
Louisiana Housing Corporation/Louisiana Housing Corporation—RRH | 2415 Quail Dr | Baton Rouge | 70808 | 629,816
Louisiana Housing Corporation/Louisiana Housing Corporation—RRH Expansion | 2415 Quail Dr | Baton Rouge | 70808 | 242,787
Louisiana Housing Corporation/Louisiana State Permanent Supportive Housing Initiative | 2415 Quail Dr | Baton Rouge | 70808 | 12,001,401
Louisiana Housing Corporation/Maison des Ami | 2415 Quail Dr | Baton Rouge | 70808 | 147,687
Louisiana Housing Corporation/OLOL St. Anthony's House | 2415 Quail Dr | Baton Rouge | 70808 | 45,043
Louisiana Housing Corporation/Options Villa | 2415 Quail Dr | Baton Rouge | 70808 | 199,807
Louisiana Housing Corporation/Youth Oasis | 2415 Quail Dr | Baton Rouge | 70808 | 64,874
O'Brien House/OBH Permanent Housing 2018 | 446 North 12th Street | Baton Rouge | 70802 | 25,483
Options for Independence, Inc./Visions I FY2018 | 147 New Orleans Blvd | Houma | 70364 | 136,917
Particular Council of St. Vincent De Paul of Baton Rouge, Louisiana/2018 SVDP Coordinated Assessment Expansion Project | 220 St Vincent De Paul Place | Baton Rouge | 70802 | 137,654
Particular Council of St. Vincent De Paul of Baton Rouge, Louisiana/2018 SVDP Myriam's House | 220 St Vincent De Paul Place | Baton Rouge | 70802 | 113,323
Particular Council of St. Vincent De Paul of Baton Rouge, Louisiana/2018 SVDP PH Project | 220 St Vincent De Paul Place | Baton Rouge | 70802 | 86,307
St Bernard Battered Women's Program, Inc./DV Coordinated Entry Access Point—St Bernard/Plaquemines | 3010 Jean Lafitte Pkwy. | Chalmette | 70043 | 100,000
START Corporation/Fresh Start FY2018 | P.O. Box 165 | Houma | 70361 | 236,203
START Corporation/Partners in Health & Housing for Baton Rouge | P.O. Box 165 | Houma | 70361 | 297,588
START Corporation/Safe Start FY2018 | P.O. Box 165 | Houma | 70361 | 114,833
START Corporation/START BOS PSH 1 FY2018 | P.O. Box 165 | Houma | 70361 | 667,726
START Corporation/START BOS PSH 2 FY2018 | P.O. Box 165 | Houma | 70361 | 77,810
START Corporation/Starting Over FY2018 | P.O. Box 165 | Houma | 70361 | 158,673
START Corporation/Starting Point FY2018 | P.O. Box 165 | Houma | 70361 | 181,595
START Corporation/Visions II FY2018 | P.O. Box 165 | Houma | 70361 | 189,249
Terrebonne Parish Consolidated Government/TPCG Rapid Re-Housing Project | 809 Barrow Street | Houma | 70360 | 144,828
Volunteers of America—Greater Baton Rouge/Rural Supportive Housing | 3949 North Boulevard | Baton Rouge | 70806 | 139,372
Volunteers of America—Greater Baton Rouge/VOA Housing First | 3949 North Boulevard | Baton Rouge | 70806 | 206,501
Volunteers of America—Greater Baton Rouge/VOA Outreach | 3949 North Boulevard | Baton Rouge | 70806 | 64,626
City of Boston Acting by and through its PFC by DND/Bay Cove Human Services, Inc.—Home At Last | 26 Court Street 8th Floor | Boston | 02108 | 581,957
City of Boston Acting by and through its PFC by DND/Bay Cove Human Services, Inc.—Winston Road Residence | 26 Court Street 8th Floor | Boston | 02108 | 59,679
City of Boston Acting by and through its PFC by DND/Boston CoC Homeless Management Information System Consolidated | 26 Court Street 8th Floor | Boston | 02108 | 524,480
City of Boston Acting by and through its PFC by DND/Boston CoC Homeless Management Information System III | 26 Court Street 8th Floor | Boston | 02108 | 500,000
City of Boston Acting by and through its PFC by DND/Bridge Over Troubled Waters, Inc.—Youth Housing Pathways Program | 26 Court Street 8th Floor | Boston | 02108 | 578,614
City of Boston Acting by and through its PFC by DND/Casa Myrna Vazquez, Inc.—Survivors Transitioning to Empowerment Program (STEP) | 26 Court Street 8th Floor | Boston | 02108 | 269,968
City of Boston Acting by and through its PFC by DND/Casa Myrna Vazquez, Inc.—Survivors Transitioning to Empowerment Program II (STEP II) | 26 Court Street 8th Floor | Boston | 02108 | 697,864
City of Boston Acting by and through its PFC by DND/Elizabeth Stone House—Joint TH-RRH | 26 Court Street 8th Floor | Boston | 02108 | 614,930
City of Boston Acting by and through its PFC by DND/FamilyAid Boston—Home Advantage Collaborative | 26 Court Street 8th Floor | Boston | 02108 | 711,509
City of Boston Acting by and through its PFC by DND/Heading Home, Inc.—Boston Homeless to Housing | 26 Court Street 8th Floor | Boston | 02108 | 187,989
City of Boston Acting by and through its PFC by DND/HomeStart, Inc.—Chronic Consolidated Leasing | 26 Court Street 8th Floor | Boston | 02108 | 1,653,160
City of Boston Acting by and through its PFC by DND/HomeStart, Inc.—Chronic Housing Search Program | 26 Court Street 8th Floor | Boston | 02108 | 198,945
City of Boston Acting by and through its PFC by DND/HomeStart, Inc.—Chronic Stabilization Program | 26 Court Street 8th Floor | Boston | 02108 | 221,371
City of Boston Acting by and through its PFC by DND/HomeStart, Inc.—The Apartment Connection | 26 Court Street 8th Floor | Boston | 02108 | 1,699,212
City of Boston Acting by and through its PFC by DND/HomeStart, Inc.—The Welcome Home Project | 26 Court Street 8th Floor | Boston | 02108 | 619,798
City of Boston Acting by and through its PFC by DND/Kit Clark Senior Services, Inc.—Walnut Community House | 26 Court Street 8th Floor | Boston | 02108 | 81,390
City of Boston Acting by and through its PFC by DND/Little Sisters of the Assumption d/b/a Project Hope—RRH for Students and Families | 26 Court Street 8th Floor | Boston | 02108 | 284,767
City of Boston Acting by and through its PFC by DND/MA-500 CoC Planning Project Application FY2018 | 26 Court Street 8th Floor | Boston | 02108 | 769,377
City of Boston Acting by and through its PFC by DND/MA-500 Coordinated Access Project | 26 Court Street 8th Floor | Boston | 02108 | 200,000
City of Boston Acting by and through its PFC by DND/Massachusetts Housing & Shelter Alliance, Inc.—Home and Healthy for Good | 26 Court Street 8th Floor | Boston | 02108 | 433,889
City of Boston Acting by and through its PFC by DND/Massachusetts Housing & Shelter Alliance, Inc.—Home Front | 26 Court Street 8th Floor | Boston | 02108 | 235,238
City of Boston Acting by and through its PFC by DND/Massachusetts Housing & Shelter Alliance, Inc.—Rapid Re-Housing for Families (R2F2) | 26 Court Street 8th Floor | Boston | 02108 | 272,200
City of Boston Acting by and through its PFC by DND/MBHP SRO Program | 26 Court Street 8th Floor | Boston | 02108 | 376,826
City of Boston Acting by and through its PFC by DND/Metropolitan Boston Housing Partnership, Inc.—2005 Project Based Rental Assistance | 26 Court Street 8th Floor | Boston | 02108 | 47,727
City of Boston Acting by and through its PFC by DND/Metropolitan Boston Housing Partnership, Inc.—2006 Sponsor Based Rental Assistance | 26 Court Street 8th Floor | Boston | 02108 | 63,622
City of Boston Acting by and through its PFC by DND/Metropolitan Boston Housing Partnership, Inc.—Consolidated Sponsor Based Rental Assistance | 26 Court Street 8th Floor | Boston | 02108 | 2,620,712
City of Boston Acting by and through its PFC by DND/Metropolitan Boston Housing Partnership, Inc.—Consolidated Tenant Based Rental Assistance | 26 Court Street 8th Floor | Boston | 02108 | 6,792,230
City of Boston Acting by and through its PFC by DND/Metropolitan Boston Housing Partnership, Inc.—1999 Tier 1 Project Based Rental Assistance | 26 Court Street 8th Floor | Boston | 02108 | 93,261
City of Boston Acting by and through its PFC by DND/Metropolitan Boston Housing Partnership, Inc.—1999 Tier 2 Project Based Rental Assistance | 26 Court Street 8th Floor | Boston | 02108 | 286,364
City of Boston Acting by and through its PFC by DND/Metropolitan Boston Housing Partnership, Inc.—2000 Project Based Rental Assistance | 26 Court Street 8th Floor | Boston | 02108 | 58,546
City of Boston Acting by and through its PFC by DND/New England Center and Home For Veterans—Veterans Welcome Home | 26 Court Street 8th Floor | Boston | 02108 | 339,949
City of Boston Acting by and through its PFC by DND/Pine Street Inn—First Home Consolidated | 26 Court Street 8th Floor | Boston | 02108 | 516,997
City of Boston Acting by and through its PFC by DND/Pine Street Inn—First Home Consolidated Expansion | 26 Court Street 8th Floor | Boston | 02108 | 155,326
City of Boston Acting by and through its PFC by DND/Pine Street Inn, Inc.—Chronically Homeless Housing | 26 Court Street 8th Floor | Boston | 02108 | 386,679
City of Boston Acting by and through its PFC by DND/Pine Street Inn, Inc.—Housing Works Partnership Consolidated | 26 Court Street 8th Floor | Boston | 02108 | 1,878,396
City of Boston Acting by and through its PFC by DND/Pine Street Inn, Inc.—Long Term Stayers Consolidated | 26 Court Street 8th Floor | Boston | 02108 | 1,363,271
City of Boston Acting by and through its PFC by DND/Pine Street Inn, Inc.—Place Me Home Chronic Housing | 26 Court Street 8th Floor | Boston | 02108 | 664,609
City of Boston Acting by and through its PFC by DND/Pine Street Inn, Inc.—REACH Consolidated | 26 Court Street 8th Floor | Boston | 02108 | 1,497,087
City of Boston Acting by and through its PFC by DND/Saint Francis House, Inc.—Access to Employment | 26 Court Street 8th Floor | Boston | 02108 | 301,276
City of Boston Acting by and through its PFC by DND/Victory Programs, Inc.—Home Soon Rapid Re-housing Program | 26 Court Street 8th Floor | Boston | 02108 | 181,886
Lynn Housing Authority & Neighborhood Development/Bridgewell Dedicated PLUS | 10 Church Street | Lynn | 01902 | 172,188
Lynn Housing Authority & Neighborhood Development/Bridgewell LSA PSH | 10 Church Street | Lynn | 01902 | 246,695
Lynn Housing Authority & Neighborhood Development/Bridgewell-Project COPE, Inc. PH | 10 Church Street | Lynn | 01902 | 102,042
Lynn Housing Authority & Neighborhood Development/CoC Planning Application FY2018 | 10 Church Street | Lynn | 01902 | 56,069
Lynn Housing Authority & Neighborhood Development/HMIS | 10 Church Street | Lynn | 01902 | 12,352
Lynn Housing Authority & Neighborhood Development/LEO AHL PH | 10 Church Street | Lynn | 01902 | 52,038
Lynn Housing Authority & Neighborhood Development/LEO Coordinated Entry | 10 Church Street | Lynn | 01902 | 40,614
Lynn Housing Authority & Neighborhood Development/Lynn Shelter Plus Care | 10 Church Street | Lynn | 01902 | 903,064
Lynn Housing Authority & Neighborhood Development/Lynn Shelter Plus Care II | 10 Church Street | Lynn | 01902 | 274,106
Lynn Housing Authority & Neighborhood Development/Lynn Shelter PSH | 10 Church Street | Lynn | 01902 | 49,184
Barnstable County/Coordinated Entry System Consolidated Application FY18 | 3165 Main St. P.O. 427 | Barnstable | 02630 | 85,292
Barnstable County/HMIS MA -503 | 3165 Main St. P.O. 427 | Barnstable | 02630 | 67,356
Barnstable County/MA 503 Planning Project Application FY18 | 3165 Main St. P.O. 427 | Barnstable | 02630 | 47,943
Catholic Social Services of Fall River, Inc./Journey Home | 1600 Bay Street | Fall River | 02724 | 109,273
Catholic Social Services of Fall River, Inc./Mainstay | 1600 Bay Street | Fall River | 02724 | 73,176
Duffy Health Center, Inc./Welcome Home 6 | 94 Main St | Hyannis | 02601 | 132,955
Falmouth Housing Authority/Cape Regional Housing Initiative | 115 Scranton Ave | Falmouth | 02540 | 243,109
Housing Assistance Corporation/Cape Homes V | 460 West Main Street | Hyannis | 02601 | 432,568
Housing Assistance Corporation/Housing First | 460 West Main Street | Hyannis | 02601 | 149,474
Housing Assistance Corporation/Parkway House | 460 West Main Street | Hyannis | 02601 | 85,618
Mass. Department of Mental Health/Cape Cod Supported Housing | 181 North Street N/A | Hyannis | 02601 | 239,817
Sandwich Housing Authority/Fresh Start | 20 Tom's Way | Sandwich | 02563 | 185,826
City of Springfield/Catholic Charities—RRH 3 | 1600 E Columbus Ave | Springfield | 01103 | 465,652
City of Springfield/CHD Family PSH | 1600 E Columbus Ave | Springfield | 01103 | 362,647
City of Springfield/CHD Family PSH Expansion | 1600 E Columbus Ave | Springfield | 01103 | 222,945
City of Springfield/CoC Planning Project | 1600 E Columbus Ave | Springfield | 01103 | 119,619
City of Springfield/CSO-FOH Coordinated Assessment | 1600 E Columbus Ave | Springfield | 01103 | 250,000
City of Springfield/CSO-FOH PSH | 1600 E Columbus Ave | Springfield | 01103 | 246,806
City of Springfield/DV Coordinated Entry | 1600 E Columbus Ave | Springfield | 01103 | 238,263
City of Springfield/Gandara SHINE RRH | 1600 E Columbus Ave | Springfield | 01103 | 415,760
City of Springfield/HMIS | 1600 E Columbus Ave | Springfield | 01103 | 61,992
City of Springfield/MHA Consolidated S+C | 1600 E Columbus Ave | Springfield | 01103 | 645,696
City of Springfield/RVCC CoC Program | 1600 E Columbus Ave | Springfield | 01103 | 316,661
City of Springfield/SMOC—Bowdoin/Tranquility Home | 1600 E Columbus Ave | Springfield | 01103 | 65,373
City of Springfield/UFA Costs Project | 1600 E Columbus Ave | Springfield | 01103 | 79,745
City of Springfield/Viability Next Step | 1600 E Columbus Ave | Springfield | 01103 | 531,169
City of Springfield/VOC—Scattered Site Family Supportive Housing | 1600 E Columbus Ave | Springfield | 01103 | 131,271
City of Springfield/Way Finders—Turning Point | 1600 E Columbus Ave | Springfield | 01103 | 65,112
City of New Bedford/City of New Bedford HMIS Project 2.0 | 608 Pleasant Street | New Bedford | 02740 | 74,524
City of New Bedford/CoC Planning Project Application | 608 Pleasant Street | New Bedford | 02740 | 59,000
City of New Bedford/Family Preservation Program | 608 Pleasant Street | New Bedford | 02740 | 274,604
City of New Bedford/Portico | 608 Pleasant Street | New Bedford | 02740 | 622,163
City of New Bedford/Prism | 608 Pleasant Street | New Bedford | 02740 | 114,233
City of New Bedford/Step Up | 608 Pleasant Street | New Bedford | 02740 | 286,082
City of New Bedford/The Call | 608 Pleasant Street | New Bedford | 02740 | 46,757
City of New Bedford/Transition to Stability | 608 Pleasant Street | New Bedford | 02740 | 159,109
City of New Bedford/Welcome HOME | 608 Pleasant Street | New Bedford | 02740 | 181,445
Central Massachusetts Housing Alliance, Inc./Central Massachusetts Housing Options | 6 Institute Road P.O. Box 3 | Worcester | 01609 | 56,299
Central Massachusetts Housing Alliance, Inc./Coordinated Assessment Program | 6 Institute Road P.O. Box 3 | Worcester | 01609 | 246,602
Central Massachusetts Housing Alliance, Inc./Family Housing for the Disabled | 6 Institute Road P.O. Box 3 | Worcester | 01609 | 300,729
Central Massachusetts Housing Alliance, Inc./Friendly Family Housing | 6 Institute Road P.O. Box 3 | Worcester | 01609 | 391,019
Central Massachusetts Housing Alliance, Inc./Genesis Supportive Housing | 6 Institute Road P.O. Box 3 | Worcester | 01609 | 154,172
Central Massachusetts Housing Alliance, Inc./Green House | 6 Institute Road P.O. Box 3 | Worcester | 01609 | 128,955
Central Massachusetts Housing Alliance, Inc./GWHC Welcome Home Countywide Supportive Housing Program | 6 Institute Road P.O. Box 3 | Worcester | 01609 | 376,299
Central Massachusetts Housing Alliance, Inc./HIV Supportive Housing | 6 Institute Road P.O. Box 3 | Worcester | 01609 | 534,051
Central Massachusetts Housing Alliance, Inc./Homeless Management Information System | 6 Institute Road P.O. Box 3 | Worcester | 01609 | 106,999
Central Massachusetts Housing Alliance, Inc./MA-506 CoC Planning Application FY2018 | 6 Institute Road P.O. Box 3 | Worcester | 01609 | 185,858
Central Massachusetts Housing Alliance, Inc./North County Supportive Housing | 6 Institute Road P.O. Box 3 | Worcester | 01609 | 121,933
Central Massachusetts Housing Alliance, Inc./SMOC Greater Worcester Housing Connection SHP | 6 Institute Road P.O. Box 3 | Worcester | 01609 | 199,600
Central Massachusetts Housing Alliance, Inc./South County Homeless Project | 6 Institute Road P.O. Box 3 | Worcester | 01609 | 163,302
Central Massachusetts Housing Alliance, Inc./Supportive Housing for the Disabled | 6 Institute Road P.O. Box 3 | Worcester | 01609 | 110,225
Central Massachusetts Housing Alliance, Inc./Worcester Area Rental Assistance Project | 6 Institute Road P.O. Box 3 | Worcester | 01609 | 553,422
Central Massachusetts Housing Alliance, Inc./Worcester County Leased Housing | 6 Institute Road P.O. Box 3 | Worcester | 01609 | 992,454
Central Massachusetts Housing Alliance, Inc./Worcester Housing Plus Support | 6 Institute Road P.O. Box 3 | Worcester | 01609 | 839,031
Central Massachusetts Housing Alliance, Inc./Worcester Transitional Housing Consortium | 6 Institute Road P.O. Box 3 | Worcester | 01609 | 477,145
Central Massachusetts Housing Alliance, Inc./Young Adult Rapid Rehousing | 6 Institute Road P.O. Box 3 | Worcester | 01609 | 67,140
Community Healthlink, Inc./Oasis House | 72 Jaques Avenue | Worcester | 01610 | 251,683
Community Healthlink, Inc./Safe Haven | 72 Jaques Avenue | Worcester | 01610 | 370,862
NewVue Affordable Housing Corporation/Leighton Street | 470 Main Street | Fitchburg | 01420 | 109,705
Hilltown CDC/3 County CoC Coordinated Assessment | 387 Main Road P.O. Box 17 | Chesterfield | 01012 | 111,543
Hilltown CDC/A Positive Place | 387 Main Road P.O. Box 17 | Chesterfield | 01012 | 127,886
Hilltown CDC/Adult Independent Living Program | 387 Main Road P.O. Box 17 | Chesterfield | 01012 | 43,412
Hilltown CDC/CHD PSH | 387 Main Road P.O. Box 17 | Chesterfield | 01012 | 690,520
Hilltown CDC/Dial Self TH/PH RRH | 387 Main Road P.O. Box 17 | Chesterfield | 01012 | 98,256
Hilltown CDC/Louison House | 387 Main Road P.O. Box 17 | Chesterfield | 01012 | 139,091
Hilltown CDC/Northern Berkshire PH | 387 Main Road P.O. Box 17 | Chesterfield | 01012 | 137,368
Hilltown CDC/Paradise Pond Apartments | 387 Main Road P.O. Box 17 | Chesterfield | 01012 | 27,247
Hilltown CDC/Project Reach | 387 Main Road P.O. Box 17 | Chesterfield | 01012 | 24,290
Hilltown CDC/Shelter Plus Care North | 387 Main Road P.O. Box 17 | Chesterfield | 01012 | 211,239
Hilltown Community Development Corporation/3 County CoC Planning Project | 387 Main Road P.O. Box 17 | Chesterfield | 01012 | 49,803
Hilltown Community Development Corporation/3 County HMIS Project | 387 Main Road P.O. Box 17 | Chesterfield | 01012 | 80,079
Hilltown Community Development Corporation/Village Center SHP | 387 Main Road P.O. Box 17 | Chesterfield | 01012 | 65,117
City of Lowell, Massachusetts/Alternative House, Transitional Housing Program | Department of Planning and Development 50 Arcand Drive | Lowell | 01852 | 169,754
City of Lowell, Massachusetts/City of Lowell—Capacity Building 2018—Planning | Department of Planning and Development 50 Arcand Drive | Lowell | 01852 | 45,760
City of Lowell, Massachusetts/City of Lowell HMIS/Coordinated Entry II | Department of Planning and Development 50 Arcand Drive | Lowell | 01852 | 66,224
City of Lowell, Massachusetts/Community Teamwork, Inc. Youth RRH | Department of Planning and Development 50 Arcand Drive | Lowell | 01852 | 88,700
City of Lowell, Massachusetts/CTI Youth Reallocation Housing Project (TH-RRH or RRH) | Department of Planning and Development 50 Arcand Drive | Lowell | 01852 | 106,000
City of Lowell, Massachusetts/Pathfinder Consolidated PH | Department of Planning and Development 50 Arcand Drive | Lowell | 01852 | 338,021
City of Cambridge, Massachusetts/AAC: Supportive Housing Ending Homelessness | 51 Inman St | Cambridge | 02139 | 121,314
City of Cambridge, Massachusetts/AAC: Youth Rapid Rehousing Project | 51 Inman St | Cambridge | 02139 | 137,045
City of Cambridge, Massachusetts/Bridge PSH Expansion | 51 Inman St | Cambridge | 02139 | 106,157
City of Cambridge, Massachusetts/Cambridge Coordinated Intake Consolidated | 51 Inman St | Cambridge | 02139 | 477,575
City of Cambridge, Massachusetts/Cambridge Dedicated HMIS Consolidated | 51 Inman St | Cambridge | 02139 | 35,000
City of Cambridge, Massachusetts/Heading Home: Cambridge Homeless to Housing PSH | 51 Inman St | Cambridge | 02139 | 326,129
City of Cambridge, Massachusetts/Heading Home: Cambridge Stepping Stone PSH | 51 Inman St | Cambridge | 02139 | 487,315
City of Cambridge, Massachusetts/Heading Home: Solid Ground PSH | 51 Inman St | Cambridge | 02139 | 100,589
City of Cambridge, Massachusetts/HomeStart: Going Home PSH | 51 Inman St | Cambridge | 02139 | 603,712
City of Cambridge, Massachusetts/HomeStart: Key PSH | 51 Inman St | Cambridge | 02139 | 923,777
City of Cambridge, Massachusetts/Just-A-Start: Rapid Rehousing Project | 51 Inman St | Cambridge | 02139 | 300,448
City of Cambridge, Massachusetts/MA-509 CoC Planning Application FY2018 | 51 Inman St | Cambridge | 02139 | 129,679
City of Cambridge, Massachusetts/PRA: YMCA SRO Project | 51 Inman St | Cambridge | 02139 | 310,817
City of Cambridge, Massachusetts/TRA Consolidated | 51 Inman St | Cambridge | 02139 | 251,049
City of Cambridge, Massachusetts/Transition House: Collaborative Rapid Rehousing Project | 51 Inman St | Cambridge | 02139 | 111,029
City of Cambridge, Massachusetts/Transition House: T-House PSH Consolidated | 51 Inman St | Cambridge | 02139 | 280,043
Action Inc/Welcome Home 1 | 180 Main Street | Gloucester | 01930 | 316,456
Action Inc/Welcome Home 1 Expansion | 180 Main Street | Gloucester | 01930 | 127,334
City of Peabody/HMIS renewal 2018 | 24 Lowell Street | Peabody | 01960 | 14,000
City of Peabody/MA-510 Planning Application FY2018 | 24 Lowell Street | Peabody | 01960 | 63,667
Emmaus Inc./Emmaus Rapid Rehousing Program | 127 How Street | Haverhill | 01830 | 44,026
Emmaus Inc./North Shore CofC—Coordinated Entry | 127 How Street | Haverhill | 01830 | 128,890
Haverhill Housing Authority/Emerson Street Shelter Plus Care | 25 Washington Square P.O. Box 751 | Haverhill | 01831 | 244,097
Haverhill Housing Authority/Evergreen Place I | 25 Washington Square P.O. Box 751 | Haverhill | 01831 | 114,847
Haverhill Housing Authority/Maya's House | 25 Washington Square P.O. Box 751 | Haverhill | 01831 | 211,570
Veterans Northeast Outreach Center, Inc./Campus Apartments Consolidation | 65 Cedar Street | Haverhill | 01830 | 425,397
Veterans Northeast Outreach Center, Inc./Campus TH RRH | 65 Cedar Street | Haverhill | 01830 | 126,655
City of Quincy, MA/BCIJ Consolidated Project | 34 Coddington Street | Quincy | 02169 | 2,066,705
City of Quincy, MA/HMIS Brockton | 34 Coddington Street | Quincy | 02169 | 113,007
City of Quincy, MA/Louis Consolidated Project | 34 Coddington Street | Quincy | 02169 | 1,790,099
City of Quincy, MA/MA-511 Planning Project Application FY2018 | 34 Coddington Street | Quincy | 02169 | 166,420
City of Quincy, MA/Nicole's Consolidated Project | 34 Coddington Street | Quincy | 02169 | 465,615
City of Quincy, MA/Rapid Rehousing and Supports for DV Survivors | 34 Coddington Street | Quincy | 02169 | 290,343
City of Quincy, MA/South Shore Coordinated Entry Project | 34 Coddington Street | Quincy | 02169 | 165,309
Father Bills & MainSpring, Inc./My Home Consolidated Project | 430 Belmont Street | Brockton | 02301 | 776,634
Father Bills & MainSpring, Inc./Work Express Housing | 430 Belmont Street | Brockton | 02301 | 122,912
Old Colony Y/Supportive Housing for Families Expansion Project | 320 Main Street | Brockton | 02301 | 148,452
Old Colony Y/Supportive Housing for Families II | 320 Main Street | Brockton | 02301 | 231,430
City of Fall River/Cornerstone | One Government Center room 414 | Fall River | 02722 | 489,671
City of Fall River/Francis House | One Government Center room 414 | Fall River | 02722 | 100,033
City of Fall River/Home First | One Government Center room 414 | Fall River | 02722 | 84,611
City of Fall River/Home First 2 | One Government Center room 414 | Fall River | 02722 | 97,826
City of Fall River/Homeless Management Information System | One Government Center room 414 | Fall River | 02722 | 32,662
City of Fall River/Next Step Home Program | One Government Center room 414 | Fall River | 02722 | 465,682
City of Fall River/Stone Residence | One Government Center room 414 | Fall River | 02722 | 398,315
City of Fall River/The CALL—Fall River | One Government Center room 414 | Fall River | 02722 | 100,088
Commonwealth of Massachusetts/Advocates Supported Housing | 100 Cambridge Street | Boston | 02114 | 542,408
Commonwealth of Massachusetts/Aggressive Treatment and Relapse Prevention Program (ATARP) | 100 Cambridge Street | Boston | 02114 | 766,860
Commonwealth of Massachusetts/Bedford Veterans Quarters | 100 Cambridge Street | Boston | 02114 | 73,208
Commonwealth of Massachusetts/Brookline Rental Assistance for the Chronically Homeless | 100 Cambridge Street | Boston | 02114 | 51,700
Commonwealth of Massachusetts/Brookside Terrace S+C | 100 Cambridge Street | Boston | 02114 | 271,035
Commonwealth of Massachusetts/Chelsea-Revere Homeless to Housing | 100 Cambridge Street | Boston | 02114 | 584,882
Commonwealth of Massachusetts/Community Housing Initiative | 100 Cambridge Street | Boston | 02114 | 128,400
Commonwealth of Massachusetts/Community Housing S+C | 100 Cambridge Street | Boston | 02114 | 771,307
Commonwealth of Massachusetts/Corley's Project | 100 Cambridge Street | Boston | 02114 | 333,835
Commonwealth of Massachusetts/Disabled Family Leasing | 100 Cambridge Street | Boston | 02114 | 312,985
Commonwealth of Massachusetts/Greater Boston Mobile Stabilization Team | 100 Cambridge Street | Boston | 02114 | 198,955
Commonwealth of Massachusetts/Greater Boston Rental Assistance for the Chronically Homeless | 100 Cambridge Street | Boston | 02114 | 365,402
Commonwealth of Massachusetts/Greater Boston Sponsor Based S+C | 100 Cambridge Street | Boston | 02114 | 867,941
Commonwealth of Massachusetts/Greater Boston Tenant Based S+C | 100 Cambridge Street | Boston | 02114 | 1,092,722
Commonwealth of Massachusetts/HMIS Continuous Quality Improvement | 100 Cambridge Street | Boston | 02114 | 157,873
Commonwealth of Massachusetts/HMIS Continuous Quality Improvement Expansion | 100 Cambridge Street | Boston | 02114 | 220,000
Commonwealth of Massachusetts/HOAP S+C | 100 Cambridge Street | Boston | 02114 | 400,335
Commonwealth of Massachusetts/HomeRISE | 100 Cambridge Street | Boston | 02114 | 211,672
Commonwealth of Massachusetts/Housing Pronto | 100 Cambridge Street | Boston | 02114 | 195,822
Commonwealth of Massachusetts/Journey to Success | 100 Cambridge Street | Boston | 02114 | 329,268
Commonwealth of Massachusetts/JRI Supportive Housing-Hope for Families Program | 100 Cambridge Street | Boston | 02114 | 113,844
Commonwealth of Massachusetts/Julie House | 100 Cambridge Street | Boston | 02114 | 111,194
Commonwealth of Massachusetts/LINCOLN ST | 100 Cambridge Street | Boston | 02114 | 91,661
Commonwealth of Massachusetts/MA-516 CoC Planning Project FY 2018 | 100 Cambridge Street | Boston | 02114 | 365,406
Commonwealth of Massachusetts/Metrowest Leased Housing | 100 Cambridge Street | Boston | 02114 | 125,279
Commonwealth of Massachusetts/Metrowest SH | 100 Cambridge Street | Boston | 02114 | 132,839
Commonwealth of Massachusetts/Mystic Valley Homeless to Housing | 100 Cambridge Street | Boston | 02114 | 923,875
Commonwealth of Massachusetts/NEW BEGINNINGS | 100 Cambridge Street | Boston | 02114 | 128,710
Commonwealth of Massachusetts/North East Scattered Site Tenancy S+C | 100 Cambridge Street | Boston | 02114 | 186,694
Commonwealth of Massachusetts/North Star Housing | 100 Cambridge Street | Boston | 02114 | 552,562
Commonwealth of Massachusetts/Oxford House | 100 Cambridge Street | Boston | 02114 | 40,019
Commonwealth of Massachusetts/Post-Acute Treatment Services/Pre-Recovery Services (PDPR) | 100 Cambridge Street | Boston | 02114 | 552,017
Commonwealth of Massachusetts/Proyecto Opciones | 100 Cambridge Street | Boston | 02114 | 248,439
Commonwealth of Massachusetts/Scattered Site Transitional Apartment Project | 100 Cambridge Street | Boston | 02114 | 211,891
Commonwealth of Massachusetts/SMOC MetroWest Permanent Supportive Housing Program | 100 Cambridge Street | Boston | 02114 | 310,983
Commonwealth of Massachusetts/Tri-City Rental Assistance Project | 100 Cambridge Street | Boston | 02114 | 145,076
Commonwealth of Massachusetts/TSS TH-RRH | 100 Cambridge Street | Boston | 02114 | 260,815
Commonwealth of Massachusetts/Vietnam Veterans Workshop S+C | 100 Cambridge Street | Boston | 02114 | 270,346
Emmaus Inc./Home Again/Fresh Start | 127 How Street | Haverhill | 01830 | 188,947
Merrimack Valley Young Men's Christian Association/Supportive Occupant Services | 101 Amesbury Street 4th Floor | Lawrence | 01840 | 80,862
YWCA Northeastern Massachusetts, Inc./YWCA Fina House Project | 38 Lawrence Street | Lawrence | 01840 | 23,626
City of Somerville/MA-517 CoC Planning Application FY2018 | 93 Highland Avenue | Somerville | 02143 | 63,883
Heading Home Inc/Somerville Better Homes 3 | The Schraffts Center. 529 Main Street, Suite 100 | Charlestown | 02129 | 164,984
Heading Home Inc/Somerville Stepping Stones | The Schraffts Center. 529 Main Street, Suite 100 | Charlestown | 02129 | 62,953
Somerville Homeless Coalition, Inc./Better Homes 4 | One Davis Square | Somerville | 02144 | 96,863
Somerville Homeless Coalition, Inc./Coordinated Entry | One Davis Square | Somerville | 02144 | 100,605
Somerville Homeless Coalition, Inc./HMIS Dedicated | One Davis Square | Somerville | 02144 | 69,300
Somerville Homeless Coalition, Inc./Shelter Plus Care | One Davis Square | Somerville | 02144 | 168,427
Somerville Homeless Coalition, Inc./Turn the Key | One Davis Square | Somerville | 02144 | 993,189
Wayside Youth & Family Support Network/ShortStop Transitional Housing Program | 1 Frederick Abbott Way | Framingham | 01701 | 240,315
Catholic Social Services of Fall RIver, Inc/Steadfast | 1600 Bay Street | Fall RIver | 02724 | 191,813
Catholic Social Services of Fall RIver, Inc/The CALL Attleboro/Taunton and Greater Bristol County | 1600 Bay Street | Fall RIver | 02724 | 27,357
Community Counseling of Bristol County, Inc. /CoC Planning Project Application FY2018 | One Washington Street | Taunton | 02780 | 26,213
Community Counseling of Bristol County, Inc. /Homes With Heart | One Washington Street | Taunton | 02780 | 190,081
Community Counseling of Bristol County, Inc. /Moving Forward II | One Washington Street | Taunton | 02780 | 385,526
Allegany County Human Resources Development Commission, Inc./HRDC Leasing Supportive Housing Project | 125 Virginia Avenue | Cumberland | 21502 | 14,824
Allegany County Human Resources Development Commission, Inc./Transitional Housing Services | 125 Virginia Avenue | Cumberland | 21502 | 67,365
Maryland Department of Health/BHA S+C Allegany County 18 unit NOFA 2018 | 55 Wade Ave, Dix Building Office of Evidence-Based Practices, Housing, and Recovery Supports | Catonsville | 21228 | 105,040
YMCA of Cumberland/Y Permanent Housing | 205 Baltimore Avenue | Cumberland | 21502 | 410,865
YMCA of Cumberland/Y Transitional Housing | 205 Baltimore Avenue | Cumberland | 21502 | 70,350
AIDS Interfaith Residential Services, Inc./CoC SHP- Adult Case Management FY 18 | 1800 N Charles Street Suite 700 | Baltimore | 21201 | 188,563
AIDS Interfaith Residential Services, Inc./CoC SHP GYFLC FY18 | 1800 N Charles Street Suite 700 | Baltimore | 21201 | 213,296
AIDS Interfaith Residential Services, Inc./CoC YIP Youth SHP Program FY18 | 1800 N Charles Street Suite 700 | Baltimore | 21201 | 159,890
Behavioral Health System Baltimore/BMHS, Inc.—PEP Mobile Outreach and Treatment Project | 100 S Charles St Tower II 8th Floor | Baltimore | 21201 | 364,687
Behavioral Health System Baltimore/HOPE Safe Haven | 100 S Charles St Tower II 8th Floor | Baltimore | 21201 | 399,670
City of Baltimore—Mayor's Office/AIRS Shelter Plus Care | 7 E Redwood Street 5th Floor | Baltimore | 21202 | 1,554,486
City of Baltimore—Mayor's Office/Associated Catholic Charities—Project FRESH Start | 7 E Redwood Street 5th Floor | Baltimore | 21202 | 107,404
City of Baltimore—Mayor's Office/Associated Catholic Charities—REACH Combined | 7 E Redwood Street 5th Floor | Baltimore | 21202 | 777,032
City of Baltimore—Mayor's Office/At Jacob's Well PHP | 7 E Redwood Street 5th Floor | Baltimore | 21202 | 23,968
City of Baltimore—Mayor's Office/BHSB SRA Multi-Grant S+C | 7 E Redwood Street 5th Floor | Baltimore | 21202 | 4,108,928
City of Baltimore—Mayor's Office/Coordinated Access SSO | 7 E Redwood Street 5th Floor | Baltimore | 21202 | 341,470
City of Baltimore—Mayor's Office/Dayspring Programs PHP | 7 E Redwood Street 5th Floor | Baltimore | 21202 | 296,792
City of Baltimore—Mayor's Office/Dayspring Programs Tenant Based S+C | 7 E Redwood Street 5th Floor | Baltimore | 21202 | 446,468
City of Baltimore—Mayor's Office/GEDCO—Supportive Housing Harford House and Micah House | 7 E Redwood Street 5th Floor | Baltimore | 21202 | 104,006
City of Baltimore—Mayor's Office/HCAM Rapid Re-Housing | 7 E Redwood Street 5th Floor | Baltimore | 21202 | 644,000
City of Baltimore—Mayor's Office/Health Care for the Homeless—Homewood Bound Bonus | 7 E Redwood Street 5th Floor | Baltimore | 21202 | 1,147,025
City of Baltimore—Mayor's Office/House of Ruth—Coordinated Entry SSO—DV Bonus | 7 E Redwood Street 5th Floor | Baltimore | 21202 | 351,108
City of Baltimore—Mayor's Office/House of Ruth—Rapid Re-Housing—DV Bonus | 7 E Redwood Street 5th Floor | Baltimore | 21202 | 1,203,245
City of Baltimore—Mayor's Office/Marian House—Serenity Place PHP | 7 E Redwood Street 5th Floor | Baltimore | 21202 | 31,730
City of Baltimore—Mayor's Office/Marian House PH | 7 E Redwood Street 5th Floor | Baltimore | 21202 | 70,577
City of Baltimore—Mayor's Office/Marian House S+C Expansion | 7 E Redwood Street 5th Floor | Baltimore | 21202 | 57,309
City of Baltimore—Mayor's Office/Marian House TAMAR 2 PHP | 7 E Redwood Street 5th Floor | Baltimore | 21202 | 94,523
City of Baltimore—Mayor's Office/Marian House TAMAR S+C | 7 E Redwood Street 5th Floor | Baltimore | 21202 | 664,959
City of Baltimore—Mayor's Office/MD-501 CoC Planning Application 2018 | 7 E Redwood Street 5th Floor | Baltimore | 21202 | 624,957
City of Baltimore—Mayor's Office/MOHS—HMIS Consolidated Grant | 7 E Redwood Street 5th Floor | Baltimore | 21202 | 493,012
City of Baltimore—Mayor's Office/MOHS—Homewood Bound PHP | 7 E Redwood Street 5th Floor | Baltimore | 21202 | 865,160
City of Baltimore—Mayor's Office/PEP Samaritan Project | 7 E Redwood Street 5th Floor | Baltimore | 21202 | 608,772
City of Baltimore—Mayor's Office/Project BELIEVE PHP | 7 E Redwood Street 5th Floor | Baltimore | 21202 | 117,546
City of Baltimore—Mayor's Office/Project PLASE—Medically Fragile SRO | 7 E Redwood Street 5th Floor | Baltimore | 21202 | 70,478
City of Baltimore—Mayor's Office/Project PLASE—Scattered Site PHP | 7 E Redwood Street 5th Floor | Baltimore | 21202 | 241,285
City of Baltimore—Mayor's Office/Project PLASE Rental Assistance Program | 7 E Redwood Street 5th Floor | Baltimore | 21202 | 1,765,496
City of Baltimore—Mayor's Office/Project PLASE Veteran PSH Project | 7 E Redwood Street 5th Floor | Baltimore | 21202 | 1,288,614
City of Baltimore—Mayor's Office/St Ambrose Housing Aid Center PHP | 7 E Redwood Street 5th Floor | Baltimore | 21202 | 450,361
City of Baltimore—Mayor's Office/SVDP Front Door Rapid Re-Housing | 7 E Redwood Street 5th Floor | Baltimore | 21202 | 1,098,564
City of Baltimore—Mayor's Office/SVdP Home Connections II—Samaritan Project | 7 E Redwood Street 5th Floor | Baltimore | 21202 | 536,314
City of Baltimore—Mayor's Office/SVdP Home Connections III | 7 E Redwood Street 5th Floor | Baltimore | 21202 | 125,436
City of Baltimore—Mayor's Office/SVdP Home Connections PHP | 7 E Redwood Street 5th Floor | Baltimore | 21202 | 494,746
City of Baltimore—Mayor's Office/WHC Scattered Site Housing S+C | 7 E Redwood Street 5th Floor | Baltimore | 21202 | 940,931
City of Baltimore—Mayor's Office/Youth Empowered Society Rapid Re-Housing | 7 E Redwood Street 5th Floor | Baltimore | 21202 | 318,246
Harford County, Maryland/2018 CoC Planning Grant | 15 S Main Street | Bel Air | 21014 | 27,539
Harford County, Maryland/AH PH Consolidated | 15 S Main Street | Bel Air | 21014 | 156,274
Harford County, Maryland/AH PSH IV Chronic | 15 S Main Street | Bel Air | 21014 | 129,565
Harford County, Maryland/HCAA Centralized Intake Support Services | 15 S Main Street | Bel Air | 21014 | 30,000
Harford County, Maryland/HFH PSH I | 15 S Main Street | Bel Air | 21014 | 93,075
Harford County, Maryland/HMIS | 15 S Main Street | Bel Air | 21014 | 55,077
Harford County, Maryland/United Way PSH I Chronic | 15 S Main Street | Bel Air | 21014 | 137,605
Maryland Department of Health/BHA S + C Harford County 18 units NOFA 2018 | 55 Wade Ave, Dix Building Office of Evidence-Based Practices, Housing, and Recovery Supports | Catonsville | 21228 | 299,284
Anne Arundel County, MD/AACMHA—SHOP Program (Consolidated) | 2666 Riva Road | Annapolis | 21401 | 401,418
Anne Arundel County, MD/ACDS—Anne Arundel Partnership for Housing (Consolidated) | 2666 Riva Road | Annapolis | 21401 | 939,236
Anne Arundel County, MD/AHOH Community Housing Program Consolidated | 2666 Riva Road | Annapolis | 21401 | 129,838
Anne Arundel County, MD/AHOH Safe Haven Program Consolidated | 2666 Riva Road | Annapolis | 21401 | 127,103
Anne Arundel County, MD/Catholic Charities Rapid Re-Housing Program | 2666 Riva Road | Annapolis | 21401 | 153,761
Anne Arundel County, MD/MD-503 FY2018 CoC Planning Project Application | 2666 Riva Road | Annapolis | 21401 | 70,000
Anne Arundel County, MD/PEP Housing First (Consolidated) | 2666 Riva Road | Annapolis | 21401 | 203,944
Maryland Department of Health/BHA S+C Anne Arundel County 26 units NOFA 2018 | 55 Wade Ave, Dix Building Office of Evidence-Based Practices, Housing, and Recovery Supports | Catonsville | 21228 | 447,391
Howard County Government/McKinney—I—FFY18 | 9830 Patuxent Woods Drive | Columbia | 21046 | 277,645
Howard County Government/McKinney—III—FFY18 | 9830 Patuxent Woods Drive | Columbia | 21046 | 234,303
Howard County Government/Planning FFY18 | 9830 Patuxent Woods Drive | Columbia | 21046 | 23,059
Howard County Government/Project Revive—FFY18 | 9830 Patuxent Woods Drive | Columbia | 21046 | 42,768
Howard County Government/Project Stability Consolidated—FFY18 | 9830 Patuxent Woods Drive | Columbia | 21046 | 87,528
Howard County Government/Shelter Plus Care FFY18 | 9830 Patuxent Woods Drive | Columbia | 21046 | 144,270
AIDS Interfaith Residential Services, Inc./CoC Baltimore County SHP- Samaritan Program FY18 | 1800 N Charles Street Suite 700 | Baltimore | 21201 | 159,133
Associated Catholic Charities, Inc./Project Promise 2018 | 320 Cathedral Street Suite 300 | Baltimore | 21201 | 82,088
Baltimore County Department of Planning/AIRS S+C 2018 | 105 West Chesapeake Ave Suite 201 | Towson | 21204 | 57,062
Baltimore County Department of Planning/Arbutus PSH 2018 | 105 West Chesapeake Ave Suite 201 | Towson | 21204 | 92,693
Baltimore County Department of Planning/Baltimore County Department of Planning CoC 2018 | 105 West Chesapeake Ave Suite 201 | Towson | 21204 | 87,092
Baltimore County Department of Planning/DSS RRH 1 & 2 2018 | 105 West Chesapeake Ave Suite 201 | Towson | 21204 | 230,702
Baltimore County Department of Planning/DV Bonus Project for FCC 2018 | 105 West Chesapeake Ave Suite 201 | Towson | 21204 | 72,780
Baltimore County Department of Planning/HMIS 2018 | 105 West Chesapeake Ave Suite 201 | Towson | 21204 | 168,914
Baltimore County Department of Planning/Hosanna House 2018 | 105 West Chesapeake Ave Suite 201 | Towson | 21204 | 121,291
Baltimore County Department of Planning/Prologue Housing 1 & 2 2018 | 105 West Chesapeake Ave Suite 201 | Towson | 21204 | 224,392
Baltimore County Department of Planning/Prologue Outreach 2018 | 105 West Chesapeake Ave Suite 201 | Towson | 21204 | 221,132
Baltimore County Department of Planning/Prologue SPSS 2018 | 105 West Chesapeake Ave Suite 201 | Towson | 21204 | 105,000
Baltimore County Department of Planning/SVDP Scattered Site PSH 2018 | 105 West Chesapeake Ave Suite 201 | Towson | 21204 | 268,210
Community Assistance Network, Inc./Samaritan Project | 7900 E Baltimore Street | Baltimore | 21224 | 192,637
Maryland Department of Health/BHA S+C Baltimore County 13 Units NOFA 2018 | 55 Wade Ave, Dix Building Office of Evidence-Based Practices, Housing, and Recovery Supports | Catonsville | 21228 | 202,400
Maryland Department of Health/BHA S+C Baltimore County 38 Unit NOFA 2018 | 55 Wade Ave, Dix Building Office of Evidence-Based Practices, Housing, and Recovery Supports | Catonsville | 21228 | 719,322
Board of Carroll County Commissioners/MD-506 CoC Planning Application FY2018 | 225 North Center Street | Westminster | 21157 | 11,849
Human Services Programs of Carroll County, Inc./PHPWD I FFY 18 | 10 Distillery Dr Suite G1 | Westminster | 21157 | 71,456
Human Services Programs of Carroll County, Inc./PHPWD II FFY18 | 10 Distillery Dr Suite G1 | Westminster | 21157 | 45,997
Human Services Programs of Carroll County, Inc./PHPWD VIII FFY18 | 10 Distillery Dr Suite G1 | Westminster | 21157 | 43,644
Human Services Programs of Carroll County, Inc./Safe Haven FFY 18 | 10 Distillery Dr Suite G1 | Westminster | 21157 | 74,314
Human Services Programs of Carroll County, Inc./SSO Coordinated Intake FFY 18 | 10 Distillery Dr Suite G1 | Westminster | 21157 | 32,098
Maryland Department of Health/BHA S+C Carroll County 9 units NOFA 2018 | 55 Wade Ave., Dix Building Office of Evidence-Based Practices, Housing, and Recovery Supports | Catonsville | 21228 | 135,161
Human Services Developmenta Corporation, Inc./DV Rapid Re-housing 18 | Elkton District Court MultiService Building 170 East Main Street | Elkton | 21921 | 68,076
Maryland Department of Health/BHA S+C Cecil County 5 Unit NOFA 2018 | 55 Wade Ave., Dix Building Office of Evidence-Based Practices, Housing, and Recovery Supports | Catonsville | 21228 | 78,977
Maryland Department of Health/BHA S+C Cecil County 7 Unit NOFA 2018 | 55 Wade Ave., Dix Building Office of Evidence-Based Practices, Housing, and Recovery Supports | Catonsville | 21228 | 108,391
Catholic Charities of The Archdiocese of Washington, Inc/Fortitude | 924 G Street, NW | Washington | 20001 | 162,415
Catholic Charities of The Archdiocese of Washington, Inc/St Sebastian Townhomes | 924 G Street, NW | Washington | 20001 | 24,707
Housing Authority of St Mary's County, MD/Aldridge PWD#16 Consolidated Grant—2018 | 21155 Lexwood Drive Suite C | Lexington Park | 20653 | 99,068
Housing Authority of St Mary's County, MD/Haina PWD#13 Consolidated Grant—2018 | 21155 Lexwood Drive Suite C | Lexington Park | 20653 | 186,154
Housing Authority of St Mary's County, MD/Horne—Permanent Housing Project #11—2018 Renewal | 21155 Lexwood Drive Suite C | Lexington Park | 20653 | 171,637
Housing Authority of St Mary's County, MD/Marek PWD#9 Consolidated Grant—2018 | 21155 Lexwood Drive Suite C | Lexington Park | 20653 | 198,573
Housing Authority of St Mary's County, MD/Nicholson—Permanent Housing Project #8—2018 Renewal | 21155 Lexwood Drive Suite C | Lexington Park | 20653 | 267,428
Housing Authority of St Mary's County, MD/Owens Rapid Rehousing Consolidated Grant—2018 | 21155 Lexwood Drive Suite C | Lexington Park | 20653 | 197,694
Maryland Department of Health/BHA S+C Southern MD 60 units NOFA 2018 | 55 Wade Ave, Dix Building Office of Evidence-Based Practices, Housing, and Recovery Supports | Catonsville | 21228 | 1,414,621
Three Oaks Homeless Shelter, Inc/Waring Rapid Re-Housing Consolidated Project—2018 | 46905 Lei Drive/P O Box 776 | Lexington Park | 20653 | 119,153
Three Oaks Homeless Shelter, Inc./MD-508 Coc Planning Project Application FY2018 | 46905 Lei Drive | Lexington Park | 20653 | 82,512
City of Frederick/Housing First Apartments 2018 | 100 South Market Street | Frederick | 21701 | 68,839
City of Frederick/Housing First SRO—individual project | 100 South Market Street | Frederick | 21701 | 92,525
City of Frederick/Planning Project Application 2018 | 100 South Market Street | Frederick | 21701 | 17,449
Friends for Neighborhood Progress, Inc./Housing First Renewal 2018 | 100 South Market Street | Frederick | 21701 | 78,842
Heartly House, Inc./Heartly House DV Bonus Project 2018 | P.O. Box 857 STREET ADDRESS IS CONFIDENTIAL | Frederick | 21705 | 51,128
Maryland Department of Health/BHA S+C Frederick County 16 units NOFA 2018 | 55 Wade Ave, Dix Building Office of Evidence-Based Practices, Housing, and Recovery Supports | Catonsville | 21228 | 329,254
Garrett County Community Action Committee, Inc./CoC Planning Project MD 510 2018 | 104 E Center Street | Oakland | 21550 | 7,281
Garrett County Community Action Committee, Inc./RRH for Individuals and Families 2018 | 104 E Center Street | Oakland | 21550 | 52,473
Garrett County Community Action Committee, Inc./SHP DIS 2018 | 104 E Center Street | Oakland | 21550 | 184,454
Maryland Department of Health/BHA S+C Mid Shore 16 units NOFA 2018 | 55 Wade Ave, Dix Building Office of Evidence-Based Practices, Housing, and Recovery Supports | Catonsville | 21228 | 178,373
Mid Shore Behavioral Health Inc. /CoC Planning Project FY2018 | 28578 Mary's Court, Suite 1 | Easton | 21601 | 22,288
Mid Shore Behavioral Health Inc. /MSBH Continuum of Care Housing Renewal 2018 | 28578 Mary's Court, Suite 1 | Easton | 21601 | 217,069
Mid Shore Behavioral Health Inc. /MSBH Homeless Management Information Systems Renewal 2018 | 28578 Mary's Court, Suite 1 | Easton | 21601 | 60,487
Mid Shore Behavioral Health Inc. /MSBH Independent Housing Opportunity Program Renewal 2018 | 28578 Mary's Court, Suite 1 | Easton | 21601 | 268,502
Maryland Department of Health/BHA S+C Washington County 25 unit NOFA 2018 | 55 Wade Ave, Dix Building Office of Evidence-Based Practices, Housing, and Recovery Supports | Catonsville | 21228 | 274,458
Potomac Case Management Services, INC/WC PSH Program Individuals | 324 East Antietam Street Suite 301 | Hagerstown | 21740 | 167,587
Potomac Case Management Services, INC/WC PSH Families | 324 East Antietam Street Suite 301 | Hagerstown | 21740 | 34,466
Washington County Community Action Council, Inc./CoC Homeless Coalition Planning Project FY 2018 | 117 Summit Avenue | Hagerstown | 21740 | 14,402
Washington County Community Action Council, Inc./MD 512 HMIS | 117 Summit Avenue | Hagerstown | 21740 | 27,000
Maryland Department of Health/BHA S+C Lower Shore (Worcester) 6 units NOFA 2018 | 55 Wade Ave. Dix Building Office of Evidence-Based Practices, Housing, and Recovery Supports | Catonsville | 21228 | 68,255
Maryland Department of Health/BHA S+C Lowerr Shore (Somerset & Wicomico) 23 units NOFA 2018 | 55 Wade Ave. Dix Building Office of Evidence-Based Practices, Housing, and Recovery Supports | Catonsville | 21228 | 254,723
Somerset County Health Department/Bonus Project FY 2016 | Somerset County Health Department 8928 Signpost Road | Westover | 21871 | 63,943
Somerset County Health Department/CoC Planning FY 2018 | Somerset County Health Department 8928 Signpost Road | Westover | 21871 | 36,411
Somerset County Health Department/Project 1 | Somerset County Health Department 8928 Signpost Road | Westover | 21871 | 298,539
Somerset County Health Department/Project 23 | Somerset County Health Department 8928 Signpost Road | Westover | 21871 | 538,056
Somerset County Health Department/Somerset Chronic | Somerset County Health Department 8928 Signpost Road | Westover | 21871 | 20,255
Somerset County Health Department/Wicomico Chronic 1 | Somerset County Health Department 8928 Signpost Road | Westover | 21871 | 19,834
Somerset County Health Department/Wicomico Chronic 2 | Somerset County Health Department 8928 Signpost Road | Westover | 21871 | 19,773
Community Crisis Services, INc. /CCSI RRH 18 | 4316 Farragut Street | Hyattsville | 20781 | 107,702
Housing Initiative Partnership, Inc./HIP Success 2018 | 6525 Belcrest Road Suite 555 | Hyattsville | 20782 | 395,457
JHP, Inc/JHP PSH 2018 | 1526 Pennsylvania Ave, SE | Washington | 20003 | 261,736
Laurel Advocacy and Referral Services, Inc/LARS PSH 2018 | 311 Laurel Avenue | Laurel | 20707 | 469,837
Maryland Department of Health/MDH BHA PG 15 2018 | 55 Wade Ave, Dix Building Office of Evidence-Based Practices, Housing, and Recovery Supports | Catonsville | 21228 | 354,675
Maryland Department of Health/MDH BHA PG 16 2018 | 55 Wade Ave, Dix Building Office of Evidence-Based Practices, Housing, and Recovery Supports | Catonsville | 21228 | 357,621
People Encouraging People, Inc./PEP 10 2018 Expansion | 4201 Primrose Avenue | Baltimore | 21215 | 515,849
People Encouraging People, Inc./PEP Consolidated 8 and 9 2018 | 4201 Primrose Avenue | Baltimore | 21215 | 389,600
Prince George's County, Maryland/Coordinated Entry 2018 | 1301 McCormick Drive Suite 4000 | Largo | 20774 | 280,000
Prince George's County, Maryland/HELP 2018 | 1301 McCormick Drive Suite 4000 | Largo | 20774 | 594,947
Prince George's County, Maryland/HMIS 2018 | 1301 McCormick Drive Suite 4000 | Largo | 20774 | 85,000
Prince George's County, Maryland/PGH 2018 Consolidation | 1301 McCormick Drive Suite 4000 | Largo | 20774 | 219,929
Prince George's County, Maryland/Planner 2018 | 1301 McCormick Drive Suite 4000 | Largo | 20774 | 157,197
Prince George's County, Maryland/THRRP 2018 | 1301 McCormick Drive Suite 4000 | Largo | 20774 | 644,359
United Communities Against Poverty, Inc. (UCAP)/UCAP PATH I 2018 | 1400 Doewood Lane | Capitol Heights | 20743 | 232,650
United Communities Against Poverty, Inc. (UCAP)/UCAP PATH II 2018 | 1400 Doewood Lane | Capitol Heights | 20743 | 194,136
United Communities Against Poverty, Inc. (UCAP)/UCAP PATH III 2018 | 1400 Doewood Lane | Capitol Heights | 20743 | 198,204
VESTA, Inc/Vesta PSH 18 | 9301 Annapolis Road, Ste. 300 | Lanham | 20706 | 157,868
Volunteers of America Chesapeake, Inc./VOAC PG Supportive Housing Program | 7901 Annapolis Road | Lanham | 20706 | 200,577
Catholic Charities of The Archdiocese of Washington, Inc/Montgomery County Rapid Re-Housing | 924 G Street, NW | Washington | 20001 | 545,396
Housing Opportunities Commission/Permanent Supportive Housing 10 | 10400 Detrick Ave | Kensington | 20895 | 3,586,636
Housing Opportunities Commission/Permanent Supportive Housing 14 | 10400 Detrick Ave | Kensington | 20895 | 771,485
Interfaith Works Inc./Interfaith Homes | 114 W Montgomery Avenue | Rockville | 20850 | 345,441
Montgomery County Coalition for the Homeless, Inc/Cordell | 600 B East Gude Drive | Rockville | 20850 | 145,242
Montgomery County Coalition for the Homeless, Inc/Home First I | 600 B East Gude Drive | Rockville | 20850 | 168,285
Montgomery County Coalition for the Homeless, Inc/Home First II | 600 B East Gude Drive | Rockville | 20850 | 334,456
Montgomery County Coalition for the Homeless, Inc/Hope Housing | 600 B East Gude Drive | Rockville | 20850 | 597,332
Montgomery County Coalition for the Homeless, Inc/Keys First | 600 B East Gude Drive | Rockville | 20850 | 948,996
Montgomery County Coalition for the Homeless, Inc/Personal Living Quarters Seneca Heights Apartments | 600 B East Gude Drive | Rockville | 20850 | 394,510
Montgomery County Maryland/MD-601 Planning Application FY2018 | 401 Hungerford Drive | Rockville | 20850 | 249,675
Pathways to Housing DC/Project HOME | 101 Q Street, NE Suite G | Washington | 20002 | 538,250
The National Center for Children and Families/NCCF's Combined RRH I & II FY18 | 6301 Greentree Road | Bethesda | 20817 | 606,580
Greater Kansas City Coalition to End Homelessness/CoC Planning Grant FY18 | 3200 Wayne Ave., Suite 202 | Kansas City | 64109 | 219,000
City of Bangor/City of Bangor TRA 8716 | 73 Harlow Street | Bangor | 04401 | 133,087
City of Bangor/Consolidated 8714-A | 73 Harlow Street | Bangor | 04401 | 388,305
City of Bangor/TRA Consolidated 8715 | 73 Harlow Street | Bangor | 04401 | 439,522
Community Housing of Maine, Inc/Penobscot County Long Term Housing | One City Center | Portland | 04101 | 350,000
Community Housing of Maine, Inc/Permanent Housing for Homeless Veterans with Disabilities | One City Center | Portland | 04101 | 24,448
Kennebec Behavioral Health/Mid Maine Supported Housing 18 | 67 Eustis Parkway | Waterville | 04901 | 40,737
Maine Coalition to End Domestic Violence/DV Housing Services Coordinator | 1 Weston Court Box 2 | Augusta | 04330 | 100,000
Maine State Housing Authority/Maine Coordinated Entry System | 353 Water Street | Augusta | 04330 | 36,723
Maine State Housing Authority/Maine Rapid Re-Housing TBRA | 353 Water Street | Augusta | 04330 | 415,728
Maine State Housing Authority/MCOC ME-500 CoC Planning Grant FY2018 | 353 Water Street | Augusta | 04330 | 369,183
Maine State Housing Authority/State of Maine HMIS | 353 Water Street | Augusta | 04330 | 344,888
New Beginnings Inc./New Beginnings Transitional Living Program for Homeless Youth 2019 | 134 College St | Lewiston | 04240 | 164,339
OHI/Chalila Apartments | 25 Freedom Parkway | Hermon | 04401 | 34,859
Preble Street/Huston Commons | 38 Preble Street | Portland | 04101 | 477,648
Preble Street/Logan Place | 38 Preble Street | Portland | 04101 | 310,118
State of Maine/Maine 1-18 | 11 State House Station | Augusta | 04333 | 3,240,190
State of Maine/Maine 2-18 | 11 State House Station | Augusta | 04333 | 2,117,916
State of Maine/Maine Con 10-18 | 11 State House Station | Augusta | 04333 | 304,531
State of Maine/Maine Con 23-18 | 11 State House Station | Augusta | 04333 | 402,253
State of Maine/Penobscot 1-18 | 11 State House Station | Augusta | 04333 | 503,240
State of Maine/Portland 13-18 | 11 State House Station | Augusta | 04333 | 2,531,132
State of Maine/Portland Con 12-18 | 11 State House Station | Augusta | 04333 | 138,203
State of Maine/SB MHBR-18 | 11 State House Station | Augusta | 04333 | 47,263
State of Maine/SB YCS-18 | 11 State House Station | Augusta | 04333 | 105,031
State of Maine/YCSP SB II-18 | 11 State House Station | Augusta | 04333 | 56,568
Tedford Housing/Everett Street Supported Housing 2018 | 14 Middle St | Brunswick | 04011 | 16,283
Alger Marquette Community Action Board/Alger-Marquette CAA Central UP RRH Renewal | 1125 Commerce Drive | Marquette | 49855 | 220,055
Allegan County Community Mental Health Services/ACCMHS—MI500 CoC FY 18 Renewal ES18 | 3283 122nd Avenue P.O. Box 130 | Allegan | 49010 | 27,124
Allegan County Community Mental Health Services/ACCMHS—PSH/DedicatedPlus FY18 Renewal ES18 | 3283 122nd Avenue P.O. Box 130 | Allegan | 49010 | 142,623
Allegan County Community Mental Health Services/ACCMHS—RRH FY 18 Renewal ES18 | 3283 122nd Avenue P.O. Box 130 | Allegan | 49010 | 104,470
Capital Area Community Services, Inc./Ending Family Homelessness through Rapid Rehousing—Clinton and Shiawassee Counties | 101 E Willow | Lansing | 48906 | 103,924
Channel Housing Ministries, Inc./Stability and Beyond Program | 204 Washington St | Hart | 49420 | 67,188
Community Action Agency/Hillsdale County Permanent Supportive Housing (PSH) Scattered Site | 1214 Greenwood Avenue | Jackson | 49203 | 135,663
Eastern Upper Peninsual Veterans Foundation/West Bridge Permanent Supportive Housing | 633 E Portage Avenue P.O. Box 1186 | Sault Sainte Marie | 49783 | 125,017
EightCAP, Inc./Rapid Rehousing SH Ionia/Montcalm FY2018 | 904 Oak Drive | Greenville | 48838 | 63,208
Housing Services Mid Michigan/Housing Services Mid Michigan-Clinton PSH | 319 S Cochran | Charlotte | 48813 | 103,098
Human Development Commission/Homeless Re-Housing Program Consolidated FY2018 | 429 Montague Avenue | Caro | 48723 | 323,336
Michigan Department of Health and Human Services/2018 Consolidated Rapid Re-Housing | Centralized Grants Management P.O. Box 30195 | Lansing | 48909 | 3,524,364
Michigan Department of Health and Human Services/2018 MDHHS MHAAB PSH Dedicated Plus | Centralized Grants Management P.O. Box 30195 | Lansing | 48909 | 2,412,270
Michigan Department of Health and Human Services/PSH 2004 Statewide Leasing Renewal 18 | Centralized Grants Management P.O. Box 30195 | Lansing | 48909 | 411,519
Michigan Department of Health and Human Services/PSH Dedicated Plus Expansion | Centralized Grants Management P.O. Box 30195 | Lansing | 48909 | 121,319
Michigan State Housing Development Authority/HMIS Ren 18 | 735 E Michigan Avenue | Lansing | 48909 | 136,764
Michigan State Housing Development Authority/MI-500 CoC Planning Application FY2018 | 735 E Michigan Avenue | Lansing | 48909 | 264,600
Michigan State Housing Development Authority/Michigan Statewide HMIS | 735 E Michigan Avenue | Lansing | 48909 | 652,700
Michigan State Housing Development Authority/MSHDA FY18 Coordinated Entry | 735 E Michigan Avenue | Lansing | 48909 | 341,000
Alternatives For Girls/Detroit Youth Collaborative RRH Initiative | 903 W Grand Blvd. | Detroit | 48208 | 278,557
Cass Community Social Services, Inc./Cass Apartments Permanent Supportive Housing | 11745 Rosa Parks Blvd. | Detroit | 48206 | 352,682
Cass Community Social Services, Inc./Scott Permanent Supportive Housing | 11745 Rosa Parks Blvd. | Detroit | 48206 | 209,980
Cass Community Social Services, Inc./Travis Permanent Supportive Housing | 11745 Rosa Parks Blvd. | Detroit | 48206 | 390,695
Cass Community Social Services, Inc./Webb Street Permanent Supportive Housing | 11745 Rosa Parks Blvd. | Detroit | 48206 | 219,752
Coalition on Temporary Shelter/Buersmeyer Manor 2018 | 26 Peterboro, Not applicable | Detroit | 48201 | 146,247
Coalition on Temporary Shelter/PSH for Chronically Homeless Families (Pathways to Housing) 2018 | 26 Peterboro, Not applicable | Detroit | 48201 | 776,914
Community & Home Supports/Coordinated Assessment & Navigation Expansion | 2111 Woodward Ave., Suite 608 | Detroit | 48201 | 154,052
Community & Home Supports/Coordinated Assessment & Navigation Project | 2111 Woodward Ave., Suite 608 | Detroit | 48201 | 693,486
Community & Home Supports/Permanent Community Home Support | 2111 Woodward Ave., Suite 608 | Detroit | 48201 | 534,080
Community & Home Supports/Permanent Community Home Support II (PCHSII) | 2111 Woodward Ave., Suite 608 | Detroit | 48201 | 589,224
Community & Home Supports/Permanent Community Home Support II Expansion | 2111 Woodward Ave., Suite 608 | Detroit | 48201 | 334,817
Community Social Services of Wayne County/Teen Infant Parenting Services Program | 9851 Hamilton Avenue | Detroit | 48202 | 362,392
Detroit Central City Community Mental Health/FY 2018 CoC PSH Program (MI0071L5F011811 | 10 Peterboro | Detroit | 48201 | 1,132,727
Detroit Central City Community Mental Health/Leasing Project FY 18 (MI0439L5F011802 | 10 Peterboro | Detroit | 48201 | 641,879
Detroit Rescue Mission Ministries/Cornerstone PSH | 150 Stimson Street | Detroit | 48201 | 1,339,762
Detroit Rescue Mission Ministries/Genesis House/Teen Moms | 150 Stimson Street | Detroit | 48201 | 414,457
Detroit Rescue Mission Ministries/Genesis House II | 150 Stimson Street | Detroit | 48201 | 1,077,868
Detroit Wayne Mental Health Authority/S+C Southwest Solutions Matrix | 707 W Milwaukee | Detroit | 48202 | 46,421
Detroit Wayne Mental Health Authority/Shelter Plus Care—Detroit Central City | 707 W Milwaukee | Detroit | 48202 | 346,099
Detroit Wayne Mental Health Authority/Shelter Plus Care—Southwest—0110 | 707 W Milwaukee | Detroit | 48202 | 257,020
Detroit Wayne Mental Health Authority/SHP Detroit Central City—Permanent Housing | 707 W Milwaukee | Detroit | 48202 | 447,436
Detroit Wayne Mental Health Authority/Supportive Housing Program—DCI/COTS Omega | 707 W Milwaukee | Detroit | 48202 | 505,158
Freedom House Detroit/New Beginnings/New American Homeless | 2630 W Lafayette Blvd. | Detroit | 48216 | 390,841
Homeless Action Network of Detroit/CoC Planning Project Application FY2018 | 3701 Miracles Blvd, Suite 101 | Detroit | 48201 | 285,000
Homeless Action Network of Detroit/Expansion Homeless Management Information System | 3701 Miracles Blvd, Suite 101 | Detroit | 48201 | 96,155
Homeless Action Network of Detroit/Homeless Management Information System | 3701 Miracles Blvd, Suite 101 | Detroit | 48201 | 194,078
Homeless Action Network of Detroit/Homeless Management Information System Expansion FY2018 | 3701 Miracles Blvd, Suite 101 | Detroit | 48201 | 100,000
Mariners Inn/Mariners Inn Permanent Housing | 445 Ledyard | Detroit | 48201 | 249,102
Michigan Department of Health and Human Services/PSH Detroit Renewal 18 | Centralized Grants Management P.O. Box 30195 | Lansing | 48909 | 2,611,680
Neighborhood Service Organization/Bell Supportive Housing Project MI0338L5F011705 | 882 Oakman Blvd | Detroit | 48238 | 554,081
Neighborhood Service Organization/Fuse MI0367L5F011702 | 882 Oakman Blvd | Detroit | 48238 | 231,918
Neighborhood Service Organization/NSO COTS MI0027L5F011705 | 882 Oakman Blvd | Detroit | 48238 | 109,392
Neighborhood Service Organization/NSO RRH MI0472L5F011702 | 882 Oakman Blvd | Detroit | 48238 | 302,506
Neighborhood Service Organization/Supportive Housing Program MI0308L5F011705 | 882 Oakman Blvd | Detroit | 48238 | 363,482
Southwest Counseling Solutions, Inc./CAM Rapid ReHousing Project FY2018 | 5716 Michigan Avenue | Detroit | 48210 | 387,135
Southwest Counseling Solutions, Inc./SWCS CE SSO Consolidation 2018 | 5716 Michigan Avenue | Detroit | 48210 | 959,341
Southwest Counseling Solutions, Inc./SWCS Leasing Consolidation 2018 | 5716 Michigan Avenue | Detroit | 48210 | 923,906
Southwest Counseling Solutions, Inc./SWCS Rental Assistance Consolidation 2018 | 5716 Michigan Avenue | Detroit | 48210 | 1,189,402
Southwest Housing Solutions/Wilshire FY 2018 | 1920 25th Street, Not applicable | Detroit | 48216 | 142,494
Travelers Aid Society of Metropolitan Detroit/FY2018 BEIT | 65 Cadillac Square, Suite 3000 | Detroit | 48226 | 974,600
Travelers Aid Society of Metropolitan Detroit/FY2018 Infinity | 65 Cadillac Square, Suite 3000 | Detroit | 48226 | 1,054,360
Wayne County Neighborhood Legal Services DBA Neighborhood Legal Services Michigan/NLSM Cares | 7310 Woodward Avenue Suite 301 | Detroit | 48202 | 891,090
Wayne County Neighborhood Legal Services DBA Neighborhood Legal Services Michigan/NLSM Cares Expansion | 7310 Woodward Avenue Suite 301 | Detroit | 48202 | 275,526
Wayne County Neighborhood Legal Services DBA Neighborhood Legal Services Michigan/Project First Steps | 7310 Woodward Avenue Suite 301 | Detroit | 48202 | 910,646
Wayne County Neighborhood Legal Services DBA Neighborhood Legal Services Michigan/Project Hope | 7310 Woodward Avenue Suite 301 | Detroit | 48202 | 559,107
Wayne County Neighborhood Legal Services DBA Neighborhood Legal Services Michigan/Project Hope II | 7310 Woodward Avenue Suite 301 | Detroit | 48202 | 763,203
Wayne County Neighborhood Legal Services DBA Neighborhood Legal Services Michigan/Project Permanency One—Expansion | 7310 Woodward Avenue Suite 301 | Detroit | 48202 | 1,151,094
Community Housing Network, Inc./WChronically Homeless Leasing Assistance Program 1 Renewal | 570 Kirts Boulevard Suite 231 | Troy | 48084 | 320,424
Detroit Wayne Mental Health Authority/Wayne Metro Shelter Plus Care | 707 W Milwaukee | Detroit | 48202 | 324,904
First Step: Western Wayne County Project on Domestic Assault/First Step Aftercare/Transportation Renewal FY2018 | 44567 Pinetree Drive | Plymouth | 48170 | 77,763
Lutheran Social Services of Michigan/Supportive Services Renewal FY 2018 NOFA | 30600 Michigan Ave | Westland | 48186 | 105,582
Wayne County Neighborhood Legal Services DBA Neighborhood Legal Services Michigan/Aim High FY 2018 Renewal | 7310 Woodward Avenue Suite 301 | Detroit | 48202 | 262,111
Wayne County Neighborhood Legal Services DBA Neighborhood Legal Services Michigan/Focus on Families | 7310 Woodward Avenue Suite 301 | Detroit | 48202 | 239,499
Wayne County Neighborhood Legal Services DBA Neighborhood Legal Services Michigan/Project Permanency Plus FY 2018 Renewal | 7310 Woodward Avenue Suite 301 | Detroit | 48202 | 338,945
Wayne County Neighborhood Legal Services DBA Neighborhood Legal Services Michigan/Project Permanency Three Renewal | 7310 Woodward Avenue Suite 301 | Detroit | 48202 | 190,992
Wayne Metropolitan Community Action Agency/FY2018 DV Bonus CE SSO | 2121 Biddle | Wyandotte | 48192 | 220,000
Wayne Metropolitan Community Action Agency/FY2018 HMIS Expansion | 2121 Biddle | Wyandotte | 48192 | 61,882
Wayne Metropolitan Community Action Agency/MI-502 CoC Planning FY2018 NOFA | 2121 Biddle | Wyandotte | 48192 | 201,805
Wayne Metropolitan Community Action Agency/Renewal of HMIS 2018 NOFA | 2121 Biddle | Wyandotte | 48192 | 60,239
Wayne Metropolitan Community Action Agency/Renewal of PSH 2018 NOFA | 2121 Biddle | Wyandotte | 48192 | 356,606
Wayne Metropolitan Community Action Agency/Renewal of RRH Families 2018 NOFA | 2121 Biddle | Wyandotte | 48192 | 538,358
Wayne Metropolitan Community Action Agency/Renewal of RRH Singles 2018 NOFA | 2121 Biddle | Wyandotte | 48192 | 290,742
Wayne Metropolitan Community Action Agency/Renewal of Safe Haven 2018 NOFA | 2121 Biddle | Wyandotte | 48192 | 81,354
Wayne Metropolitan Community Action Agency/Renewal of SSO fFor Central Intake 2018 NOFA | 2121 Biddle | Wyandotte | 48192 | 205,761
Wayne Metropolitan Community Action Agency/Renewal of Visger River Rouge 2018 NOFA | 2121 Biddle | Wyandotte | 48192 | 56,024
Wayne Metropolitan Community Action Agency/Renewal of WHNP1 2018 NOFA | 2121 Biddle | Wyandotte | 48192 | 167,864
Wayne, Charter County of/Samaritas Home and Community Campus | 500 Griswold, Floor 20 | Detroit | 48226 | 152,625
Community Housing Network, Inc./M Chronically Homeless Leasing Assistance 6 | 570 Kirts Boulevard Suite 231 | Troy | 48084 | 323,454
Community Housing Network, Inc./MChronically Homeless Leasing Assistance Program 1 Renewal | 570 Kirts Boulevard Suite 231 | Troy | 48084 | 264,703
Community Housing Network, Inc./MChronically Homeless Leasing Assistance Program 5 Renewal | 570 Kirts Boulevard Suite 231 | Troy | 48084 | 70,037
Community Housing Network, Inc./MLeasing Assistance Program 1 Renewal | 570 Kirts Boulevard Suite 231 | Troy | 48084 | 214,078
Community Housing Network, Inc./MLeasing Assistance Program 2 Renewal | 570 Kirts Boulevard Suite 231 | Troy | 48084 | 19,404
Community Housing Network, Inc./MLeasing Assistance Program 6 Renewal | 570 Kirts Boulevard Suite 231 | Troy | 48084 | 53,331
Community Housing Network, Inc./MLeasing Assistance Program 7 Renewal | 570 Kirts Boulevard Suite 231 | Troy | 48084 | 107,680
Comprehensive Youth Services/FYI TLP | 2 Crocker Blvd., Suite 205 | Mount Clemens | 48043 | 27,212
Macomb County Community Mental Health/MCCMH RRH Project FY 2108 | 22550 Hall Road | Clinton Township | 48036 | 23,428
Macomb Homeless Coalition/CoC Planning Project FY2018 | 196 N Rose St., Ste 29 | Mount Clemens | 48043 | 72,947
Macomb Homeless Coalition/MHC HMIS 1 FY2018 | 196 N Rose St., Ste 29 | Mount Clemens | 48043 | 25,682
Macomb Homeless Coalition/MHC HMIS 2 FY2018 | 196 N Rose St., Ste 29 | Mount Clemens | 48043 | 26,787
Perfecting Community Development Corporation/RRH 4 | 42960 Ryan Road | Sterling Heights | 48314 | 47,469
Alliance for Housing Oakland County Continuum of Care/MI-504 Planning Grant application FY2018 | 570 Kirts Blvd., Suite 231 | Troy | 48084 | 175,923
Common Ground/Graduated Apartment Program II | 1410 S Telegraph | Bloomfield Hills | 48302 | 242,752
Community Housing Network, Inc./Oakland Rapid Re-Housing Renewal | 570 Kirts Boulevard Suite 231 | Troy | 48084 | 85,753
Community Housing Network, Inc./OCHMIS Consolidation | 570 Kirts Boulevard Suite 231 | Troy | 48084 | 92,825
Community Housing Network, Inc./OChronically Homeless Leasing Assistance Program 1 Renewal | 570 Kirts Boulevard Suite 231 | Troy | 48084 | 293,302
Community Housing Network, Inc./OChronically Homeless Leasing Assistance Program 2 Renewal | 570 Kirts Boulevard Suite 231 | Troy | 48084 | 301,990
Community Housing Network, Inc./OChronically Homeless Leasing Assistance Program 5 Renewal | 570 Kirts Boulevard Suite 231 | Troy | 48084 | 112,279
Community Housing Network, Inc./OLeasing Assistance Program 2 Renewal | 570 Kirts Boulevard Suite 231 | Troy | 48084 | 1,027,827
Community Housing Network, Inc./OLeasing Assistance Program CG Consolidated | 570 Kirts Boulevard Suite 231 | Troy | 48084 | 844,637
Community Housing Network, Inc./ORapid Re-Housing Program 2 Consolidation Renewal | 570 Kirts Boulevard Suite 231 | Troy | 48084 | 510,263
Lighthouse of Oakland County, Inc./2018-2019 LH PSH | 46156 Woodward Ave | Pontiac | 48342 | 112,221
Lighthouse of Oakland County, Inc./2018-2019 LH Teen | 46156 Woodward Ave | Pontiac | 48342 | 144,243
Lighthouse of Oakland County, Inc./2018-2019 DV Bonus SSO-CE | 46156 Woodward Ave | Pontiac | 48342 | 92,400
Lighthouse of Oakland County, Inc./2018-2019 LH Apt & Houses | 46156 Woodward Ave | Pontiac | 48342 | 238,428
Lighthouse of Oakland County, Inc./2018-2019 LH RRH | 46156 Woodward Ave | Pontiac | 48342 | 140,553
Michigan Department of Health and Human Services/PSH Oakland County Renewal 18 | Centralized Grants Management P.O. Box 30195 | Lansing | 48909 | 715,839
South Oakland Shelter/Chronic Homeless Leasing Assistance Program | 18505 W 12 Mile Rd | Lathrup Village | 48076 | 374,780
South Oakland Shelter/Chronic Homeless Leasing Assistance Program 2 | 18505 W 12 Mile Rd | Lathrup Village | 48076 | 185,008
Training and Treatment Innovations, Inc/Housing Leasing Assistance # 1 | 1450 South Lapeer Rd | Oxford | 48371 | 565,895
Metro Community Development, Inc./Chronic Renewal 2018 | 503 S Saginaw Street Suite 810 | Flint | 48502 | 99,940
Metro Community Development, Inc./CLUP Renewal 2018 | 503 S Saginaw Street Suite 810 | Flint | 48502 | 115,189
Metro Community Development, Inc./CoC Lease Up Renewal 2018 | 503 S Saginaw Street Suite 810 | Flint | 48502 | 278,092
Metro Community Development, Inc./COC Planning 2018 | 503 S Saginaw Street Suite 810 | Flint | 48502 | 107,000
Metro Community Development, Inc./Coordinated Integration 2018 | 503 S Saginaw Street Suite 810 | Flint | 48502 | 74,374
Metro Community Development, Inc./FOH Renewal 2018 | 503 S Saginaw Street Suite 810 | Flint | 48502 | 41,800
Metro Community Development, Inc./GCYC Renewal 2018 | 503 S Saginaw Street Suite 810 | Flint | 48502 | 126,654
Metro Community Development, Inc./GHS Renewal 2018 | 503 S Saginaw Street Suite 810 | Flint | 48502 | 364,648
Metro Community Development, Inc./HMIS Renewal 2018 | 503 S Saginaw Street Suite 810 | Flint | 48502 | 89,577
Metro Community Development, Inc./Homeless Outreach Renewal 2018 | 503 S Saginaw Street Suite 810 | Flint | 48502 | 107,217
Metro Community Development, Inc./Manor Renewal 2018 | 503 S Saginaw Street Suite 810 | Flint | 48502 | 68,071
Metro Community Development, Inc./Rapid Re-Housing Renewal 2018 | 503 S Saginaw Street Suite 810 | Flint | 48502 | 252,995
Metro Community Development, Inc./SOF LUP Renewal 2018 | 503 S Saginaw Street Suite 810 | Flint | 48502 | 123,042
Metro Community Development, Inc./Vet LUP Renewal 2018 | 503 S Saginaw Street Suite 810 | Flint | 48502 | 111,335
Community Rebuilders/First Step Housing | 1120 Monroe NW, Suite 220 | Grand Rapids | 49503 | 844,863
Community Rebuilders/HEROES | 1120 Monroe NW, Suite 220 | Grand Rapids | 49503 | 144,595
Community Rebuilders/Housing Solutions | 1120 Monroe NW, Suite 220 | Grand Rapids | 49503 | 562,806
Community Rebuilders/Keys First | 1120 Monroe NW, Suite 220 | Grand Rapids | 49503 | 885,330
Community Rebuilders/LOFT | 1120 Monroe NW, Suite 220 | Grand Rapids | 49503 | 137,624
County of Kent/Shelter Plus Care SRA_CR 2018 | 300 Monroe | Grand Rapids | 49503 | 483,201
County of Kent/Shelter Plus Care TRA_CR 2018 | 300 Monroe | Grand Rapids | 49503 | 1,004,991
Grand Rapids Housing Commission/Hope Community | 1420 Fuller Ave SE | Grand Rapids | 49507 | 159,663
Heart of West Michigan United Way/MI-506 CoC Planning Application FY2018 | 118 Commerce Ave SW | Grand Rapids | 49503 | 165,527
Heartside Nonprofit Housing Corporation/Commerce Apartments | 101 Sheldon Blvd. SE Ste. 2 | Grand Rapids | 49503 | 238,774
Heartside Nonprofit Housing Corporation/Ferguson Apartments | 101 Sheldon Blvd. SE Ste. 2 | Grand Rapids | 49503 | 63,000
Heartside Nonprofit Housing Corporation/Verne Barry Place | 101 Sheldon Blvd. SE Ste. 2 | Grand Rapids | 49503 | 138,940
Inner City Christian Federation/ICCF PSH 2018 | 920 Cherry SE | Grand Rapids | 49506 | 37,719
The Salvation Army/Coordinated Entry consolidated | 1215 E Fulton | Grand Rapids | 49503 | 276,089
The Salvation Army/HMIS | 1215 E Fulton | Grand Rapids | 49503 | 100,000
The Salvation Army/Housing Assessment Program | 1215 E Fulton | Grand Rapids | 49503 | 228,488
YWCA West Central Michigan/Project HEAL 2018 | 25 Sheldon Blvd. SE | Grand Rapids | 49503 | 399,368
YWCA West Central Michigan/Project HEAL TH-RRH 2018 | 25 Sheldon Blvd. SE | Grand Rapids | 49503 | 426,410
Catholic Family Services/Directions: The Portage Project | 1819 Gull Road | Kalamazoo | 49048 | 104,240
Housing Resources, Inc. of Kalamazoo County/Homeward A | 420 East Alcott Suite 200 | Kalamazoo | 49001 | 493,092
Housing Resources, Inc. of Kalamazoo County/Homeward II | 420 East Alcott Suite 200 | Kalamazoo | 49001 | 66,306
Kalamazoo Community Mental Health & Substance Abuse Services/Full Count Renewal Application FY2018 | 2030 Portage Road | Kalamazoo | 49001 | 46,145
Kalamazoo Community Mental Health & Substance Abuse Services/Grand Slam Renewal Application FY2018 | 2030 Portage Road | Kalamazoo | 49001 | 68,982
Kalamazoo Community Mental Health & Substance Abuse Services/Home Base I Renewal Application FY2018 | 2030 Portage Road | Kalamazoo | 49001 | 356,452
Kalamazoo Community Mental Health & Substance Abuse Services/Home Base II Renewal Application FY2018 | 2030 Portage Road | Kalamazoo | 49001 | 305,701
Kalamazoo Community Mental Health & Substance Abuse Services/Home Run Renewal Application FY2018 | 2030 Portage Road | Kalamazoo | 49001 | 44,419
Kalamazoo Community Mental Health & Substance Abuse Services/Second Base Renewal Application FY2018 | 2030 Portage Road | Kalamazoo | 49001 | 68,878
Kalamazoo Community Mental Health & Substance Abuse Services/Third Base Renewal Application FY2018 | 2030 Portage Road | Kalamazoo | 49001 | 69,119
Local Initiatives Support Corporation/Planning Grant | 201 W Kalamazoo Ave | Kalamazoo | 49007 | 49,121
City of Lansing/Ending Family Homelessness through Rapid Rehousing | 124 W Michigan Avenue 4th Floor | Lansing | 48933 | 260,933
City of Lansing/Fresh Start RRH | 124 W Michigan Avenue 4th Floor | Lansing | 48933 | 62,136
City of Lansing/HMIS 1 | 124 W Michigan Avenue 4th Floor | Lansing | 48933 | 40,121
City of Lansing/Hope Housing | 124 W Michigan Avenue 4th Floor | Lansing | 48933 | 144,040
City of Lansing/Hope Housing Expansion | 124 W Michigan Avenue 4th Floor | Lansing | 48933 | 109,218
City of Lansing/Ingham County—PSH 1+2 | 124 W Michigan Avenue 4th Floor | Lansing | 48933 | 253,519
City of Lansing/MI-508 CoC Planning Application FY2018 | 124 W Michigan Avenue 4th Floor | Lansing | 48933 | 71,895
City of Lansing/Permanent Housing for Families | 124 W Michigan Avenue 4th Floor | Lansing | 48933 | 72,615
City of Lansing/Permanent Supportive Housing 2 | 124 W Michigan Avenue 4th Floor | Lansing | 48933 | 722,639
City of Lansing/Permanent Supportive Housing Bonus Program | 124 W Michigan Avenue 4th Floor | Lansing | 48933 | 178,179
City of Lansing/Rapid Rehousing for Youth | 124 W Michigan Avenue 4th Floor | Lansing | 48933 | 172,885
City of Lansing/Shelter Plus Care | 124 W Michigan Avenue 4th Floor | Lansing | 48933 | 316,164
City of Lansing/Transitions + RRH | 124 W Michigan Avenue 4th Floor | Lansing | 48933 | 146,060
Ann Arbor Housing Commission/AAHC PSH Bonus 2014 | 2000 S Industrial | Ann Arbor | 48104 | 701,945
Avalon Housing, Inc./Avalon PSH Families 2013 | 1327 Jones Dr Suite 102 | Ann Arbor | 48105 | 227,103
Avalon Housing, Inc./Avalon PSH Singles 2013 | 1327 Jones Dr Suite 102 | Ann Arbor | 48105 | 814,071
Avalon Housing, Inc./Avalon/Ashley Supportive Housing | 1327 Jones Dr Suite 102 | Ann Arbor | 48105 | 96,549
Avalon Housing, Inc./Avalon/Pontiac Trail Supportive Housing | 1327 Jones Dr Suite 102 | Ann Arbor | 48105 | 93,537
Avalon Housing, Inc./SPC Avalon SRA + Bonus 2010 Consolidation | 1327 Jones Dr Suite 102 | Ann Arbor | 48105 | 305,436
Michigan Ability Partners/MAP MVP Renewal 2019 | 3810 Packard Suite 260 | Ann Arbor | 48108 | 52,073
Michigan Ability Partners/MAP PSH (PASS) Renewal 2019 | 3810 Packard Suite 260 | Ann Arbor | 48108 | 194,694
Michigan Ability Partners/MAP SRA 2019 Consolidated | 3810 Packard Suite 260 | Ann Arbor | 48108 | 435,599
Michigan Ability Partners/MAP TRA 2019 Consolidated | 3810 Packard Suite 260 | Ann Arbor | 48108 | 384,481
Michigan Ability Partners/MAP Willow Pond Renewal 2019 | 3810 Packard Suite 260 | Ann Arbor | 48108 | 42,103
Michigan Ability Partners/PSH Bonus(RASS) MAP Renewal 2019 | 3810 Packard Suite 260 | Ann Arbor | 48108 | 368,240
Ozone House, Inc./SHP for Young Families | 1705 Washtenaw Ave | Ann Arbor | 48104 | 51,177
Ozone House, Inc./Supportive Housing for Youth | 1705 Washtenaw Ave | Ann Arbor | 48104 | 129,016
SOS Community Services/SOS RRH for Families 2018 | 101 South Huron Street | Ypsilanti | 48197 | 1,772,882
Washtenaw County/HMIS 2018 | 415 W Michigan Ave Suite 2200 | Ypsilanti | 48197 | 137,334
Washtenaw County/MI-509 CoC Planning Application FY2018 | 415 W Michigan Ave Suite 2200 | Ypsilanti | 48197 | 167,545
Restoration Community Outreach/Chronic Homeless Assistance | 1205 Norman Street | Saginaw | 48601 | 149,739
Restoration Community Outreach/RCO Family First | 1205 Norman Street | Saginaw | 48601 | 37,710
Restoration Community Outreach/RCO Rapid Re-Housing | 1205 Norman Street | Saginaw | 48601 | 12,745
Restoration Community Outreach/Safe Haven | 1205 Norman Street | Saginaw | 48601 | 73,949
Restoration Community Outreach/Transitional Housing | 1205 Norman Street | Saginaw | 48601 | 54,512
Saginaw Catholic Mustard Seed Foundation/Mustard Seed Plus V | 1325 Cherry St | Saginaw | 48601 | 34,680
Saginaw Catholic Mustard Seed Foundation/Mustard Seed Family Plus | 1325 Cherry St | Saginaw | 48601 | 53,184
Saginaw Catholic Mustard Seed Foundation/Mustard Seed Family Plus II—Part 1 | 1325 Cherry St | Saginaw | 48601 | 21,641
Saginaw Catholic Mustard Seed Foundation/Mustard Seed Family Plus II—Samaritan Bonus | 1325 Cherry St | Saginaw | 48601 | 38,552
Saginaw Catholic Mustard Seed Foundation/Mustard Seed Plus | 1325 Cherry St | Saginaw | 48601 | 36,843
Saginaw Catholic Mustard Seed Foundation/Mustard Seed Plus II | 1325 Cherry St | Saginaw | 48601 | 36,843
Saginaw Catholic Mustard Seed Foundation/Mustard Seed Plus III | 1325 Cherry St | Saginaw | 48601 | 36,843
Saginaw Catholic Mustard Seed Foundation/Mustard Seed Plus IV | 1325 Cherry St | Saginaw | 48601 | 36,914
Saginaw County Community Mental Health Authority/Project Dwelling Place Consolidated | 500 Hancock St | Saginaw | 48602 | 458,003
Saginaw County Youth Protection Council/Rapid Re-Housing | 1226 North Michigan Avenue | Saginaw | 48602 | 45,589
Saginaw County Youth Protection Council/Rapid Re-Housing for Homeless Youth Expansion | 1226 North Michigan Avenue | Saginaw | 48602 | 134,643
Saginaw County Youth Protection Council/Rapid Re-Housing for Homeless Youth Expansion 2 | 1226 North Michigan Avenue | Saginaw | 48602 | 8,807
Saginaw County Youth Protection Council/Teen Parent Services Transitional Housing/St Rita's | 1226 North Michigan Avenue | Saginaw | 48602 | 59,373
SVRC Industries, Inc./Shelter Plus Care for Victims of Domestic Violence | 919 Veterans Memorial Parkway | Saginaw | 48601 | 57,938
Underground Railroad Inc./DV RRH | 5647 State Street Suite A | Saginaw | 48603 | 127,058
Underground Railroad Inc./DVRRHTSH | 5647 State Street Suite A | Saginaw | 48603 | 183,319
Underground Railroad Inc./DVTSHCombo | 5647 State Street Suite A | Saginaw | 48603 | 268,532
United Way of Saginaw County/Homeless Management Information System (HMIS) | 100 S Jefferson Avenue 3rd Floor | Saginaw | 48607 | 71,852
Lenawee Emergency and Affordable Housing Corporation/2018—Legacy Housing | 307 E Church Street P.O. box 692 | Adrian | 49221 | 12,935
Lenawee Emergency and Affordable Housing Corporation/2018—PH-RRH | 307 E Church Street P.O. box 692 | Adrian | 49221 | 90,148
Goodwill Industries of Northern Michigan, Inc./Coordinated Entry-Street Outreach FY18 Renewal | 2279 South Airport Road West | Traverse City | 49684 | 23,000
Goodwill Industries of Northern Michigan, Inc./HMIS System Admin—Renewal FY18 | 2279 South Airport Road West | Traverse City | 49684 | 22,909
Goodwill Industries of Northern Michigan, Inc./Supplemental Assistance for Facilities to Assist the Homeless | 2279 South Airport Road West | Traverse City | 49684 | 51,923
Northwest Michigan Community Action Agency, Inc. /CoC Planning Project Application FY2018 | 3963 Three Mile Rd | Traverse City | 49686 | 20,170
Northwest Michigan Community Action Agency, Inc. /NMCAA Rapid Rehousing 2018-1 | 3963 Three Mile Rd | Traverse City | 49686 | 77,199
Northwest Michigan Supportive Housing (formerly, the Foundation for Mental Health Grand Traverse-Leelanau) /Good Sam | 250 E Front St Suite 320 | Traverse City | 49684 | 14,100
Northwest Michigan Supportive Housing (formerly, the Foundation for Mental Health Grand Traverse-Leelanau) /GTA Leasing | 250 E Front St Suite 320 | Traverse City | 49684 | 68,007
Northwest Michigan Supportive Housing (formerly, the Foundation for Mental Health Grand Traverse-Leelanau) /GTA Lofts | 250 E Front St Suite 320 | Traverse City | 49684 | 35,927
Northwest Michigan Supportive Housing (formerly, the Foundation for Mental Health Grand Traverse-Leelanau) /GTAx | 250 E Front St Suite 320 | Traverse City | 49684 | 46,518
Northwest Michigan Supportive Housing (formerly, the Foundation for Mental Health Grand Traverse-Leelanau) /Northwest Michigan Housing Renewal 18 | 250 E Front St Suite 320 | Traverse City | 49684 | 198,248
Northwest Michigan Supportive Housing (formerly, the Foundation for Mental Health Grand Traverse-Leelanau) /Woodmere | 250 E Front St Suite 320 | Traverse City | 49684 | 58,009
Northwest Michigan Supportive Housing (formerly, the Foundation for Mental Health Grand Traverse-Leelanau) /WRC/NMSH | 250 E Front St Suite 320 | Traverse City | 49684 | 91,609
Alger Marquette Community Action Board/MI-513 Planning grant | 1125 Commerce Drive | Marquette | 49855 | 6,335
Alger Marquette Community Action Board/Orianna Ridge SHP | 1125 Commerce Drive | Marquette | 49855 | 52,703
Lutheran Social Services of Wisconsin and Upper Michigan, In/Welcome Home | 6737 W Washington Street, Suite 2275 | West Allis | 53214 | 73,082
Haven of Rest Ministries Inc./Life Recovery Renewal 2018 | 11 Green Street | Battle Creek | 49014 | 88,330
Summit Pointe/CoC Planning Project Application FY2018 | 140 W Michigan Ave | Battle Creek | 49017 | 15,750
Summit Pointe/HHAP FY 2018 Renewal Project Application | 140 W Michigan Ave | Battle Creek | 49017 | 33,020
Summit Pointe/HMIS FY 2018 Renewal Project Application | 140 W Michigan Ave | Battle Creek | 49017 | 40,000
Summit Pointe/SP-PSH 2 | 140 W Michigan Ave | Battle Creek | 49017 | 65,102
Summit Pointe/SP-PSH FY 2018 Renewal Project Application | 140 W Michigan Ave | Battle Creek | 49017 | 62,207
Monroe County Opportunity Program/MCOP Supportive Housing Program FY18 | 1140 S Telegraph | Monroe | 48161 | 107,505
Women Empowering Women, Inc./Paula's House FY 2018 | P.O. Box 2002 | Monroe | 48161 | 26,066
Bethany Housing Ministries dba Community enCompass/Veterans Supportive Housing Families | 1105 Terrace Street | Muskegon | 49442 | 26,534
Bethany Housing Ministries dba Community enCompass/Veterans Supportive Housing Singles | 1105 Terrace Street | Muskegon | 49442 | 28,062
Every Woman's Place, Inc./HMIS (Homeless Management Information System) | 1221 W Laketon Ave | Muskegon | 49441 | 62,000
Every Woman's Place, Inc./Permanent Supportive Housing | 1221 W Laketon Ave | Muskegon | 49441 | 207,466
Every Woman's Place, Inc./Permanent Supportive Housing 2018 | 1221 W Laketon Ave | Muskegon | 49441 | 13,313
Every Woman's Place, Inc./PSH Re-Allocated 2018 | 1221 W Laketon Ave | Muskegon | 49441 | 34,389
HealthWest (formerly known as Community Mental Health Services of Muskegon County)/Samaritan I | 376 E Apple Avenue | Muskegon | 49442 | 26,992
HealthWest (formerly known as Community Mental Health Services of Muskegon County)/Supportive Housing I | 376 E Apple Avenue | Muskegon | 49442 | 131,098
HealthWest (formerly known as Community Mental Health Services of Muskegon County)/Supportive Housing II | 376 E Apple Avenue | Muskegon | 49442 | 21,091
HealthWest (formerly known as Community Mental Health Services of Muskegon County)/Supportive Housing IV | 376 E Apple Avenue | Muskegon | 49442 | 26,926
Muskegon Community Health Project/MCHCCN Planning Grant 2018 | 565 W Western Ave | Muskegon | 49440 | 18,791
Community Action Agency/Jackson County SSO Project | 1214 Greenwood Avenue | Jackson | 49203 | 99,417
Community Action Agency/Jackson HMIS | 1214 Greenwood Avenue | Jackson | 49203 | 55,979
Community Action Agency/Jackson RRH Program | 1214 Greenwood Avenue | Jackson | 49203 | 147,052
Community Action Agency/Mechanic Partnership Park Permanent Housing | 1214 Greenwood Avenue | Jackson | 49203 | 295,155
Training and Treatment Innovations, Inc./Jackson Housing Leasing | 2301 E Michigan Ave, Suite 219 | Jackson | 49202 | 226,440
Livingston County Community Mental Health Authority/2018 Permanent Supportive Housing Scattered Site #3 | 622 E Grand River Avenue | Howell | 48843 | 153,409
Oakland Livingston Human Service Agency/Livingston CoC Planning Project FY18 | 2300 E Grand River, Suite 107 | Howell | 48843 | 6,937
Oakland Livingston Human Service Agency/Livingston HMIS FY18 | 2300 E Grand River, Suite 107 | Howell | 48843 | 16,080
Oakland Livingston Human Service Agency/Livingston Permanent Housing FY18 | 2300 E Grand River, Suite 107 | Howell | 48843 | 39,890
Oakland Livingston Human Service Agency/Livingston Rapid Rehousing FY18 | 2300 E Grand River, Suite 107 | Howell | 48843 | 22,894
Center for Women in Transition/Ottawa DV Bonus | 411 Butternut Drive | Holland | 49424 | 55,813
Center for Women in Transition/Ottawa DV PH-RRH 1 | 411 Butternut Drive | Holland | 49424 | 117,592
County of Ottawa/Permanent Housing Assistance for Chronically Homeless Individuals | 12265 James Street | Holland | 49424 | 21,752
County of Ottawa/Permanent Housing Assistance for Homeless Persons with Disabilities | 12265 James Street | Holland | 49424 | 550,339
Good Samaritan Ministries/Community Housing Partnership RRH—GSM | 513 E 8th Street, Suite 25 | Holland | 49423 | 347,220
Good Samaritan Ministries/Permanent Supportive Housing Renewal—GSM | 513 E 8th Street, Suite 25 | Holland | 49423 | 37,180
Greater Ottawa County United Way/MI-519 CoC Planning Application FY2018 | 115 Clover | Holland | 49423 | 30,518
Housing Services Mid Michigan/Coordinated Homeless Assistance Program | 319 S Cochran | Charlotte | 48813 | 179,419
Housing Services Mid Michigan/Eaton CoC Planning 2018 | 319 S Cochran | Charlotte | 48813 | 27,002
Housing Services Mid Michigan/HEART Consolated | 319 S Cochran | Charlotte | 48813 | 191,545
Housing Services Mid Michigan/Housing Services' Permanent Supportive Housing Program | 319 S Cochran | Charlotte | 48813 | 55,756
Peckham, Inc./I-EARN (Immediate Employment Assistance Resource Network) | 3510 Capital City Blvd. | Lansing | 48906 | 132,724
SIREN/Eaton Shelter, Inc./Eaton County DVRR | 520 Robinson P.O. Box 369 | Charlotte | 48813 | 51,980
SIREN/Eaton Shelter, Inc./Eaton County Rapid Rehousing FY18 | 520 Robinson P.O. Box 369 | Charlotte | 48813 | 102,954
SIREN/Eaton Shelter, Inc./Eaton County TH/RR Program | 520 Robinson P.O. Box 369 | Charlotte | 48813 | 252,622
Aeon (formerly Central Community Housing Trust)/Alliance Apartments Renewal 2018 | 901 North 3rd Street Suite 150 | Minneapolis | 55401 | 40,240
Aeon (formerly Central Community Housing Trust)/Youth Housing Project 2018 | 901 North 3rd Street Suite 150 | Minneapolis | 55401 | 236,803
Alliance Housing Inc./Central Apartments Renewal 2018 | 2309 Nicollet Avenue | Minneapolis | 55404 | 228,087
American Indian Community Development Corporation/Anishinabe Wakiagun Renewal 2018 | 1508 E Franklin Ave | Minneapolis | 55404 | 81,111
Avenues for Homeless Youth/Avenues Rapid Rehousing for Young Families | 1708 Oak Park Avenue North | Minneapolis | 55411 | 182,656
Avivo/Resource Inc 2017 Expansion | 1900 Chicago Avenue South | Minneapolis | 55404 | 834,841
Beacon Interfaith Housing Collaborative/Lydia Apartments Renewal 2018 | 2610 University Ave W Suite 100 | St Paul | 55114 | 292,491
Catholic Charities of the Archdiocese of St Paul and Minnea/Higher Ground Minneapolis 2018 | 1200 2nd Ave S | Minneapolis | 55403 | 140,769
Catholic Charities of the Archdiocese of St Paul and Minnea/Hope Street 2018 | 1200 2nd Ave S | Minneapolis | 55403 | 112,365
Cornerstone Advocacy Service/CORE PH-RRH Domestic Violence Program | 1000 East 80th Street | Bloomington | 55420 | 511,010
Domestic Abuse Project Inc./Coordinated Entry for Victims of Domestic Violence | 204 West Franklin Ave | Minneapolis | 55404 | 170,188
Hearth Connection/Hearth Hennepin CENS | 2446 University Avenue West, Suite 150 | St Paul | 55114 | 84,000
Hearth Connection/Hennepin—Hearth Consolidated 2018 | 2446 University Avenue West, Suite 150 | St Paul | 55114 | 1,160,126
Hearth Connection/Metro/Hennepin ELTH Project IV (aka Hearth Connection CoC 2009) | 2446 University Avenue West, Suite 150 | St Paul | 55114 | 209,284
Hennepin County/CoC Planning Application FY2018 | 300 South Sixth Street Government Center A2300 | Minneapolis | 55487 | 357,054
Hennepin County/Employment Enriched Family Rapid Rehousing Project FY 2018 | A-1600 Government Center (MC 165) 300 South Sixth Street | Minneapolis | 55487 | 888,922
Hennepin County/Hennepin County Family Rapid Rehousing Program FY 2018 | A-1600 Government Center (MC 165) 300 South Sixth Street | Minneapolis | 55487 | 503,868
Hennepin County/Hennepin County Project Connect 2018 | A-1600 Government Center (MC 165) 300 South Sixth Street | Minneapolis | 55487 | 353,977
Hennepin County Housing and Redevelopment Authority/Emanuel Housing Renewal 2018 | 701 Fourth Ave S Suite 400 | Minneapolis | 55415 | 84,800
Housing Authority of St Louis Park/Perspectives Housing Rental Assistance FY2018 | 5005 Minnetonka Blvd. | St Louis Park | 55416 | 141,048
Institute for Community Alliances/MN HMIS Hennepin | 1111 9th Street Suite 380 | Des Moines | 50314 | 298,733
Lutheran Social Service of Minnesota/Journey Homes | 2485 Como Avenue | St Paul | 55108 | 161,023
Matrix Housing Services/Coordinated Entry Assessors | 2929 4th Ave S Suite 210 | Minneapolis | 55408 | 165,115
Matrix Housing Services/Matrix Rapid Rehousing | 2929 4th Ave S Suite 210 | Minneapolis | 55408 | 376,857
Mental Health Resources/Stevens Supportive Housing Program | 762 Transfer Road Suite 21 | St Paul | 55114 | 408,162
Metropolitan Council, Minnesota/Metro HRA Hennepin County COC 2018 | 390 Robert St N | St Paul | 55101 | 1,924,368
Minneapolis Public Housing Authority/MPHA Project Connect Family Rental Assistance FY 2018 | 1001 Washington Avenue North | Minneapolis | 55401 | 94,896
Perspectives, Inc./Perspectives Permanent Housing Program | 3381 Gorham Avenue | Saint Louis Park | 55426 | 184,784
Perspectives, Inc./Perspectives Transitional Housing Program | 3381 Gorham Avenue | Saint Louis Park | 55426 | 171,173
Project for Pride in Living, Inc./Cabrini Partnership FY 2018 | 1035 E Franklin Ave | Minneapolis | 55404 | 277,983
Project for Pride in Living, Inc./Collaborative Village FY 2018 | 1035 E Franklin Ave | Minneapolis | 55404 | 128,625
Project for Pride in Living, Inc./Consolidated Prosperity Village and Camden FY2018 | 1035 E Franklin Ave | Minneapolis | 55404 | 408,060
RS EDEN/Portland Village Renewal 2018 | 1931 West Broadway | Minneapolis | 55411 | 161,368
Simpson Housing Services, Inc./Simpson Family Housing Renewal FY2018 | 2100 Pillsbury Ave So. | Minneapolis | 55404 | 213,910
Simpson Housing Services, Inc./Simpson Site-Based Supportive Housing Renewal FY2018 | 2100 Pillsbury Ave So. | Minneapolis | 55404 | 74,929
Simpson Housing Services, Inc./Simpson Young Parent Renewal FY2018 | 2100 Pillsbury Ave So. | Minneapolis | 55404 | 177,573
The Link/The Link LGBTQ Rapid Rehousing Program 2018 | 1210 Glenwood Ave | Minneapolis | 55405 | 238,363
The Link/The Link Transitional Housing Program 2018 | 1210 Glenwood Ave | Minneapolis | 55405 | 537,236
The Salvation Army/HOPE Harbor | 2445 Prior Avenue | Roseville | 55113 | 241,784
Tubman/Tubman Transitional Housing | 3111 First Avenue South | Minneapolis | 55408 | 97,085
Ain Dah Yung Center/ADYC Permanent Supportive Housing 2018 | 1089 Portland Ave | St Paul | 55104 | 199,280
Amherst H. Wilder Foundation/MN Place Wilder Renewal FY20 | 451 Lexington Pkwy N | Saint Paul | 55104 | 36,179
Amherst H. Wilder Foundation/ROOF Project Wilder Renewal FY20 | 451 Lexington Pkwy N | Saint Paul | 55104 | 832,498
Beacon Interfaith Housing Collaborative/Prior Crossing 2018 | 2610 University Ave W Suite 100 | St Paul | 55114 | 130,160
Breaking Free, Inc./Village Place 2018 | 770 University Avenue | Saint Paul | 55104 | 466,996
Catholic Charities of the Archdiocese of St Paul and Minnea/Coordinated Entry 2018 | 1200 2nd Ave S | Minneapolis | 55403 | 203,000
Catholic Charities of the Archdiocese of St Paul and Minnea/Higher Ground St Paul 2018 | 1200 2nd Ave S | Minneapolis | 55403 | 543,471
CommonBond Communities/Lexington Commons Renewal 2018 | 1080 Montreal Avenue | St Paul | 55116 | 86,825
CommonBond Communities/Upper Post Veterans Community Renewal 2018 | 1080 Montreal Avenue | St Paul | 55116 | 60,798
Emma Norton Services/Emma's Place 2018 | 670 North Robert Street | St Paul | 55101 | 143,217
Face to Face Health and Counseling Service, Inc./Homeless Youth Programs Transitional Living Program 2018 | 1165 Arcade Street | St Paul | 55106 | 51,739
Guild Incorporated/Hospital to Home Consolidated | 130 Wabasha Street South Suite 90 | St Paul | 55107 | 520,276
Hearth Connection/Ramsey RA 2018 | 2446 University Avenue West, Suite 150 | St Paul | 55114 | 1,046,352
Institute for Community Alliances/MN HMIS Ramsey Consolidated | 1111 9th Street Suite 380 | Des Moines | 50314 | 144,758
Lutheran Social Service of Minnesota/Ramsey Coordinated Entry for Youth 2018 | 2485 Como Avenue | St Paul | 55108 | 81,191
Lutheran Social Service of Minnesota/Rezek House 2018 | 2485 Como Avenue | St Paul | 55108 | 107,518
Mental Health Resources/Avenues to Independence | 762 Transfer Road Suite 21 | St Paul | 55114 | 223,551
Metropolitan Council, Minnesota/Ramsey County COC 2018 | 390 Robert St N | St Paul | 55101 | 846,144
Model Cities of St Paul, Inc./Families First Supportive Housing Program | 839 University Avenue West | St Paul | 55104 | 231,846
Project for Pride in Living, Inc./Crest View Community FY2018 | 1035 E Franklin Ave | Minneapolis | 55404 | 292,896
Project for Pride in Living, Inc./Fort Road Flats FY 2018 | 1035 E Franklin Ave | Minneapolis | 55404 | 103,072
Ramsey County/Ramsey Planning Grant FY2018 | 160 E Kellogg Blvd | Saint Paul | 55101 | 203,205
RS EDEN/Seventh Landing Renewal 2018 | 1931 West Broadway | Minneapolis | 55411 | 46,396
Solid Ground/East Metro Place II Permanent Supportive Housing | 3521 Century Avenue North | White Bear Lake | 55110 | 68,977
South Metro Human Services/Ramsey Co Coordinated Entry | 166 4th St E | Saint Paul | 55101 | 122,042
Theresa Living Center/Theresa Living Center—Caroline Family Services FY 2018 | 917 E Jessamine Ave East | St Paul | 55106 | 54,852
Twin Cities Housing Development Corporation/St Philip's Gardens SHP 2018 NOFA Renewal | 400 Selby Avenue Suite “C“ | St Paul | 55102 | 23,606
Young Women's Christian Association of St Paul MN/PSH Cleveland Saunders 2018 | 375 Selby Avenue | Saint Paul | 55102 | 20,002
Young Women's Christian Association of St Paul MN/PSH MLK Court 2018 | 375 Selby Avenue | Saint Paul | 55102 | 25,000
Young Women's Christian Association of St Paul MN/YWCA THP 2018 | 375 Selby Avenue | Saint Paul | 55102 | 80,585
Center City Housing Corp./Gage East | 105½ West 1st St | Duluth | 55802 | 85,295
Center City Housing Corp./Silver Creek Corner | 105½ West 1st St | Duluth | 55802 | 59,335
Hearth Connection/BEC RA 2018 | 2446 University Avenue West, Suite 150 | St Paul | 55114 | 130,485
Hearth Connection/Hearth SE 2018 | 2446 University Avenue West, Suite 150 | St Paul | 55114 | 62,558
Institute for Community Alliances/MN HMIS Southeast | 1111 9th Street Suite 380 | Des Moines | 50314 | 62,480
Mankato EDA/Cherry Ridge Consolidated Rental Assistance FY 2018 | P.O. Box 3368 | Mankato | 56001 | 54,707
Minnesota Assistance Council for Veterans/Radichel Veteran Townhomes 2018 Renewal | 2700 East Lake Street Suite 3350 | Minneapolis | 55406 | 163,328
Olmsted County Community Services/PSH Zumbro Valley 2018 | 2100 Campus Drive SE | Rochester | 55904 | 171,932
Olmsted County Housing & Redevelopment Authority/The Francis | 2117 Campus Drive SE Suite 300 | Rochester | 55904 | 87,312
Partners for Affordable Housing/St Peter Housing | 151 Good Counsel Drive, Suite 130 | Mankato | 56001 | 109,179
Red Wing Housing and Redevelopment Authority/Red Wing Shelter & Care Expansion FY2018 | 428 West 5th Street | Red Wing | 55066 | 37,789
Red Wing Housing and Redevelopment Authority/Red Wing Shelter + Care, 2 Units 2018 (MN0246) | 428 West 5th Street | Red Wing | 55066 | 20,538
Rice County Housing and Redevelopment Authority/Marilyn's Place | 320 NW 3rd Street | Faribault | 55021 | 110,981
Ruth's House of Hope Inc/Ruth's House of Hope—Permanant Supportive Housing | 124 1st Avenue SW | Faribault | 55021 | 185,680
Steele County Transitional Housing, Inc./Progress Program FY 2018 | 560 Dunnell Dr, Suite 212 | Owatonna | 55060 | 36,098
The Salvation Army/Castleview 1 | 2445 Prior Avenue | Roseville | 55113 | 57,042
The Salvation Army/Castleview Apartments | 2445 Prior Avenue | Roseville | 55113 | 84,128
The Salvation Army/Maxfield Place | 2445 Prior Avenue | Roseville | 55113 | 163,216
Three Rivers Community Action, Inc./CoC Planning FY2018 | 1414 North Star Dr | Zumbrota | 55992 | 64,024
Three Rivers Community Action, Inc./Coordinated Entry System FY2018 | 1414 North Star Dr | Zumbrota | 55992 | 134,047
Three Rivers Community Action, Inc./Prairiewood PSH Expansion | 1414 North Star Dr | Zumbrota | 55992 | 178,043
Three Rivers Community Action, Inc./SE MN Rapid Rehousing | 1414 North Star Dr | Zumbrota | 55992 | 172,439
Canvas Health, Inc./Mosaic2018 | 7066 Stillwater Blvd., N | Oakdale | 55128 | 41,874
Carver County Community Development Agency (CDA)/CCCDA CoC PSH | 705 North Walnut Street | Chaska | 55318 | 85,284
Carver County Community Development Agency (CDA)/CCCDA CoC PSH Expansion | 705 North Walnut Street | Chaska | 55318 | 29,767
CommonBond Communities/Granada Lakes Renewal 2018 | 1080 Montreal Avenue | St Paul | 55116 | 20,085
Dakota County/Supportive Housing Program—Dakota | 1 Mendota Road West Suite 300 | West St Paul | 55118 | 617,454
Dakota County Community Development Agency/Dakota County CDA Shelter + Care 2018 | 1228 Town Centre Drive | Eagan | 55123 | 232,320
Hearth Connection/Hearth SMAC 2018 | 2446 University Avenue West, Suite 150 | St Paul | 55114 | 113,888
Hearth Connection/Hearth SMAC CES | 2446 University Avenue West, Suite 150 | St Paul | 55114 | 230,595
Institute for Community Alliances/MN HMIS SMAC | 1111 9th Street Suite 380 | Des Moines | 50314 | 140,872
Mental Health Resources/Permanent Housing for Chronic Homeless | 762 Transfer Road Suite 21 | St Paul | 55114 | 218,928
Metropolitan Council, Minnesota/Anoka County COC 2018 | 390 Robert St N | St Paul | 55101 | 228,984
Scott-Carver-Dakota CAP Agency, Inc./2018 SMAC PSH Project | 712 Canterbury Road | Shakopee | 55379 | 253,969
Scott-Carver-Dakota CAP Agency, Inc./Dakota Permanent Supportive Bryant & Aldrich Operations Renewal 2018 | 712 Canterbury Road | Shakopee | 55379 | 27,751
Scott-Carver-Dakota CAP Agency, Inc./Scott Carver Dakota Permanent Supportive Housing Project 2018 | 712 Canterbury Road | Shakopee | 55379 | 45,546
Scott-Carver-Dakota CAP Agency, Inc./Scott Carver HUD Rapid Re-housing 2018 | 712 Canterbury Road | Shakopee | 55379 | 175,076
Scott-Carver-Dakota CAP Agency, Inc./Scott Carver Permanent Housing Combo Grant 2018 | 712 Canterbury Road | Shakopee | 55379 | 82,417
The Link/The Link SMAC Youth Rapid Rehousing Program 2018 | 1210 Glenwood Ave | Minneapolis | 55405 | 430,525
The Link/The Link SMAC Youth Rapid Rehousing Program 2018 Expansion | 1210 Glenwood Ave | Minneapolis | 55405 | 141,732
The Link/The Link Youth PSH 2018 | 1210 Glenwood Ave | Minneapolis | 55405 | 59,544
The Link/The Link Youth PSH 2018 Expansion | 1210 Glenwood Ave | Minneapolis | 55405 | 78,338
Tubman/Safe Journeys Washington County Youth Transitional Housing and Rapid Rehousing | 3111 First Avenue South | Minneapolis | 55408 | 242,476
Washington County CDA/Washington County S Plus C 2018 | 7645 Currell Blvd. | Woodbury | 55125 | 256,128
Washington County Community Development Agency/MN-503 CoC Planning Application FY2018 | 7645 Currell Blvd | Woodbury | 55125 | 114,587
American Indian Community Housing Organization/Fond du Lac Veterans Housing 2018 | 202 West 2nd Street | Duluth | 55802 | 28,195
Arrowhead Economic Opportunity Agency/LIFE Transitional Housing 2018 | 702 Third Avenue South | Virginia | 55792 | 19,879
Arrowhead Economic Opportunity Agency/Transitional Housing Lake/Cook Counties | 702 Third Avenue South | Virginia | 55792 | 26,271
Hearth Connection/Hearth NE COC CES Planning Grant 2018 | 2446 University Avenue West, Suite 150 | St Paul | 55114 | 12,935
Hearth Connection/Hearth NECOC CES 2018 | 2446 University Avenue West, Suite 150 | St Paul | 55114 | 13,675
Housing & Redevelopment Authority of Duluth, MN/North Shore Horizons Rental Assistance 2018 | 222 East Second Street P.O. Box 16900 | Duluth | 55816 | 13,464
Housing & Redevelopment Authority of Itasca County/Itasca County HRA SPC Renewal 2018 | 102 NE Third Street, Suite 160 | Grand Rapids | 55744 | 73,800
Human Development Center/Outreach Center Apartment FY 2018-B | 1401 E. 1st St | Duluth | 55805 | 19,518
Institute for Community Alliances/MN HMIS Northeast | 1111 9th Street Suite 380 | Des Moines | 50314 | 19,999
Kootasca Community Action Inc./Itasca Transitional Housing 2018 MN0079L5K41810 | 201 NW 4th Street—Suite 130 | Grand Rapids | 55744 | 30,867
Minnesota Assistance Council for Veterans/Veteran Outreach Program NECOC 2018 Renewal | 2700 East Lake Street Suite 3350 | Minneapolis | 55406 | 99,234
The Salvation Army/Northeast Minnesota Rapid Re-Housing | 2445 Prior Avenue | Roseville | 55113 | 102,481
Bi-County Community Action Programs, Inc./2018 FY Cass County Scattered Site Rapid Rehousing | 6603 Bemidji Ave North | Bemidji | 56601 | 83,405
Bi-County Community Action Programs, Inc./2018FY Cass County Permanent Supportive Housing | 6603 Bemidji Ave North | Bemidji | 56601 | 41,143
Center City Housing Corp./River Crest | 105½ West 1st St | Duluth | 55802 | 41,555
Central MN Housing Partnership, Inc./Coordinated Entry 2018 | 37 28th Ave., No Suite 102 | St Cloud | 56303 | 50,000
Central MN Housing Partnership, Inc./MN-505 CoC Planning Application FY2018 | 37 28th Ave., No Suite 102 | St Cloud | 56303 | 43,111
Housing and Redevelopment Authority of St Cloud, MN/Shelter Plus Care Five | 1225 W St. Germain n/a | St Cloud | 56301 | 68,676
Housing and Redevelopment Authority of St Cloud, MN/Shelter Plus Care One | 1225 W St. Germain n/a | St Cloud | 56301 | 324,252
Housing and Redevelopment Authority of St Cloud, MN/Shelter Plus Care Seven | 1225 W St. Germain n/a | St Cloud | 56301 | 33,036
Institute for Community Alliances/MN HMIS Central | 1111 9th Street Suite 380 | Des Moines | 50314 | 41,099
Lakes and Pines Community Action Council, Inc./Eastern Region Coordinated Entry Housing Navigator | 1700 Maple Avenue East | Mora | 55051 | 64,197
Lakes and Pines Community Action Council, Inc./Ex-Offender and other Rapid Re-Housing Program | 1700 Maple Avenue East | Mora | 55051 | 119,145
Lakes and Pines Community Action Council, Inc./Rapid Rehousing Program for Domestic Violence Survivors | 1700 Maple Avenue East | Mora | 55051 | 146,645
Lutheran Social Service of Minnesota/Central MN Rapid Re-housing 2018 | 2485 Como Avenue | St Paul | 55108 | 174,691
Lutheran Social Service of Minnesota/Northern Coordinated Entry Navigator 2018 | 2485 Como Avenue | St Paul | 55108 | 64,197
RS EDEN/Belle Haven Renewal 2018 | 1931 West Broadway | Minneapolis | 55411 | 40,229
Tri-County Action Program, Inc./Central Coordinated Entry Navigator 2018 | 1210 23rd Avenue South | Waite Park | 56387 | 64,197
Tri-County Action Program, Inc./Rapid Rehousing—Central Minnesota—Single Households 2018 | 1210 23rd Avenue South | Waite Park | 56387 | 74,537
Volunteers of America of Minnesota/FY2018 Our Home | 7625 Metro Boulevard | Minneapolis | 55439 | 111,171
Bi-County Community Action Programs, Inc./2018FY AI Permanent Supportive Housing | 6603 Bemidji Ave North | Bemidji | 56601 | 62,045
Bi-County Community Action Programs, Inc./2018FY Beltrami Permanent Supportive Housing | 6603 Bemidji Ave North | Bemidji | 56601 | 112,266
Bi-County Community Action Programs, Inc./2018FY Conifer Transitional/Rapid Rehousing | 6603 Bemidji Ave North | Bemidji | 56601 | 40,255
Evergreen Youth & Family Services/Evergreen Youth PSH Renewal 2018 | 610 Patriot Drive NW P.O. Box 662 | Bemidji | 56619 | 163,647
Institute for Community Alliances/MN HMIS Northwest | 1111 9th Street Suite 380 | Des Moines | 50314 | 10,658
Inter- County Community Council/ICCC 2018 Permanent Supportive Housing | P.O. Box 189 207 Main Street | Oklee | 56742 | 42,169
Inter- County Community Council/MN-506 CoC Planning Application FY2018 | P.O. Box 189 207 Main Street | Oklee | 56742 | 20,178
Tri-Valley Opportunity Council, Inc/Northwest Coordinated Entry 2018 | 102 North Broadway | Crookston | 56716 | 36,217
Tri-Valley Opportunity Council, Inc/RRH TH Tri-Valley 2018 | 102 North Broadway | Crookston | 56716 | 53,528
Tri-Valley Opportunity Council, Inc/Tri-Valley PSH 2018 | 102 North Broadway | Crookston | 56716 | 138,146
Violence Intervention Project/VIP Transitional Housing 2018 | 1911 Greenwood Street East P.O. Box 96 | Thief River Falls | 56701 | 21,656
Violence Intervention Project/VIP-RRH-2018 | 1911 Greenwood Street East P.O. Box 96 | Thief River Falls | 56701 | 35,258
Housing & Redevelopment Authority of Clay County/HRA Cares | 116 Center Ave E P.O. Box 99 | Dilworth | 56529 | 573,297
Housing & Redevelopment Authority of Clay County/MN-508 CoC Planning Application FY2018 | 116 Center Ave E P.O. Box 99 | Dilworth | 56529 | 24,047
Institute for Community Alliances/MN HMIS West Central | 1111 9th Street Suite 380 | Des Moines | 50314 | 33,359
Lakes & Prairies Community Action Partnership, Inc./Permanent Supportive Housing Project 19-20 | 715 11th Street N Suite 402 | Moorhead | 56560 | 186,488
West Central Minnesota Communities Action, Inc./WCMCA Rapid Rehousing Renewal 2018 | 411 Industrial Park Boulevard | Elbow Lake | 56531 | 46,251
American Indian Community Housing Organization/Gimaajii Mino Bimaadizimin 2018 | 202 West 2nd Street | Duluth | 55802 | 121,218
Arrowhead Economic Opportunity Agency/Bill's House | 702 Third Avenue South | Virginia | 55792 | 46,029
Arrowhead Economic Opportunity Agency/Rural St. Louis County Permanent Housing Project | 702 Third Avenue South | Virginia | 55792 | 140,605
Arrowhead Economic Opportunity Agency/Youth Foyer Operations | 702 Third Avenue South | Virginia | 55792 | 68,668
Center City Housing Corp./Memorial Park Apartments | 105 ½ West 1st St | Duluth | 55802 | 45,880
Center City Housing Corp./San marco | 105 ½ West 1st St | Duluth | 55802 | 62,968
Center City Housing Corp./Sheila's Place | 105 ½ West 1st St | Duluth | 55802 | 37,925
Center City Housing Corp./Steve o'Neil Apartments | 105 ½ West 1st St | Duluth | 55802 | 97,260
Center City Housing Corp./Transitional Housing | 105 ½ West 1st St | Duluth | 55802 | 128,703
Housing & Redevelopment Authority of Duluth, MN/Coordinated Entry Project 2018 | 222 East Second Street P.O. Box 16900 | Duluth | 55816 | 85,610
Housing & Redevelopment Authority of Duluth, MN/Rapid Rehousing CHUM 2018 | 222 East Second Street P.O. Box 16900 | Duluth | 55816 | 117,003
Housing & Redevelopment Authority of Duluth, MN/Rapid Rehousing TSA I 2018 | 222 East Second Street P.O. Box 16900 | Duluth | 55816 | 113,486
Housing & Redevelopment Authority of Duluth, MN/Rapid Rehousing TSA II 2018 | 222 East Second Street P.O. Box 16900 | Duluth | 55816 | 71,832
Housing & Redevelopment Authority of Duluth, MN/S+C I HDC 2018 | 222 East Second Street P.O. Box 16900 | Duluth | 55816 | 135,559
Housing & Redevelopment Authority of Duluth, MN/S+C II CHUM 2018 | 222 East Second Street P.O. Box 16900 | Duluth | 55816 | 258,952
Housing and Redevelopment Authority of Virginia, MN/Rental Assistance Combined Grant 2018 | 442 Pine Mill Court | Virginia | 55792 | 417,830
Housing and Redevelopment Authority of Virginia, MN/Rental Assistance Virginia Youth Foyer FY 2018 | 442 Pine Mill Court | Virginia | 55792 | 51,567
Human Development Center/Alicia's Place/New San Marco PSH FY2018 | 1401 E 1st St | Duluth | 55805 | 69,745
Institute for Community Alliances/MN HMIS St. Louis | 1111 9th Street Suite 380 | Des Moines | 50314 | 39,280
Institute for Community Alliances/MN HMIS St. Louis Expansion | 1111 9th Street Suite 380 | Des Moines | 50314 | 21,791
Lutheran Social Service of Minnesota/Renaissance 2018 Renewal | 2485 Como Avenue | St. Paul | 55108 | 42,466
Minnesota Assistance Council for Veterans/Duluth Veterans Place 2018 Renewal | 2700 East Lake Street Suite 3350 | Minneapolis | 55406 | 71,376
Minnesota Assistance Council for Veterans/MACV Duluth SIL 2018 Renewal | 2700 East Lake Street Suite 3350 | Minneapolis | 55406 | 46,797
Range Mental Health Center, Inc./Homeless Youth Outreach | 624 13th Street South | Virginia | 55792 | 38,809
Range Mental Health Center, Inc./Ivy Manor Project | 624 13th Street South | Virginia | 55792 | 38,056
Range Transitional Housing, Inc./Permanent Housing Chronic Homeless Project | 442 Pine Mill Court | Virginia | 55792 | 248,706
Range Transitional Housing, Inc./Permanent Housing Program | 442 Pine Mill Court | Virginia | 55792 | 402,276
St. Louis County/Bois Forte Shelter Plus Care 2018 | 227 West 1st Street Suite 100 | Duluth | 55802 | 51,326
St. Louis County/MN 509 CoC Planning FY2018 | Government Services Center 320 W 2nd St | Duluth | 55802 | 96,191
The Salvation Army/Catherine Booth Residence | 2445 Prior Avenue | Roseville | 55113 | 109,635
Institute for Community Alliances/MN HMIS Southwest | 1111 9th Street Suite 380 | Des Moines | 50314 | 26,500
Kandiyohi County Housing & Redevelopment Authority/Country View Place 2018 | 2200 23rd St. NE, Suite 2090 | Willmar | 56201 | 24,804
Kandiyohi County Housing & Redevelopment Authority/Rental Assistance SPC3 2018 | 2200 23rd St. NE, Suite 2090 | Willmar | 56201 | 126,704
Lutheran Social Service of Minnesota/Permanent Supportive Housing for Youth 2018 | 2485 Como Avenue | St. Paul | 55108 | 105,262
Southwest Minnesota Housing Partnership/MN-511 Planning Project Application FY2018 | 2401 Broadway Ave, Suite 4 | Slayton | 56172 | 29,089
Southwestern Mental Health Center/SWHMC HUD SHP FY2018 | P.O. Box 686 117 Spring Street | Luverne | 56156 | 39,118
Southwestern Minnesota Adult Mental Health Consortium/Finding a Home 2018 | 2200 23rd Street NE Suite 2030 | Willmar | 56201 | 30,426
United Community Action Partnership, Inc./Safe at Home FY2018 | 1400 S. Saratoga Street | Marshall | 56258 | 103,732
United Community Action Partnership, Inc./Southwest MN DVRRH | 1400 S. Saratoga Street | Marshall | 56258 | 77,838
United Community Action Partnership, Inc./UCAP PSH M&M KANDI | 1400 S. Saratoga Street | Marshall | 56258 | 148,857
United Community Action Partnership, Inc./UCAP RRH Consolidated FY18 | 1400 S. Saratoga Street | Marshall | 56258 | 298,223
United Community Action Partnership, Inc./Westwind Townhomes FY2018 | 1400 S. Saratoga Street | Marshall | 56258 | 96,070
Missouri Department of Mental Health/2018 SZA—Shelter Plus Care STL County Chronic—14 | 1706 E. Elm | Jefferson City | 65101 | 123,676
Missouri Department of Mental Health/2018 SZE—Shelter Plus Care STL County Families—23 | 1706 E. Elm | Jefferson City | 65101 | 248,142
Missouri Department of Mental Health/2018 SZF—Shelter Plus Care STL County Chronic—15 | 1706 E. Elm | Jefferson City | 65101 | 132,536
Missouri Department of Mental Health/2018 SZL—Shelter Plus Care STL County Families | 1706 E. Elm | Jefferson City | 65101 | 97,495
Missouri Department of Mental Health/2018 SZN—Shelter Plus Care STL County Veterans | 1706 E. Elm | Jefferson City | 65101 | 106,150
Missouri Department of Mental Health/2018 SZQ—Shelter Plus Care STL County | 1706 E. Elm | Jefferson City | 65101 | 301,731
Saint Louis County/CoC 2018 Planning Project | 500 Northwest Plaza Ste. 800 Suite 800 | St. Louis | 63074 | 123,127
Saint Louis County/Employment Connections Project Homecoming 2 | 500 Northwest Plaza Ste. 800 Suite 800 | St. Louis | 63074 | 298,986
Saint Louis County/Epworth Transitional Housing | 500 Northwest Plaza Ste. 800 Suite 800 | St. Louis | 63074 | 244,001
Saint Louis County/The Salvation Army Midland Division Homes of Hope PSH | 500 Northwest Plaza Ste. 800 Suite 800 | St. Louis | 63074 | 293,255
Saint Louis County/Youth in Need Coordinated Entry Project | 500 Northwest Plaza Ste. 800 Suite 800 | St. Louis | 63074 | 16,189
Saint Louis County/Youth in Need Rapid Rehousing | 500 Northwest Plaza Ste. 800 Suite 800 | St. Louis | 63074 | 67,792
City of St. Louis/Covenant House Transitional Housing Program | 1520 Market Suite 4065 | St. Louis | 63103 | 213,144
City of St. Louis/Depaul USA Project MORE | 1520 Market Suite 4065 | St. Louis | 63103 | 311,343
City of St. Louis/Depaul USA Project PLUS | 1520 Market Suite 4065 | St. Louis | 63103 | 429,129
City of St. Louis/Depaul USA St. Lazare House | 1520 Market Suite 4065 | St. Louis | 63103 | 239,744
City of St. Louis/Doorways Delmar | 1520 Market Suite 4065 | St. Louis | 63103 | 108,477
City of St. Louis/Doorways Jumpstart | 1520 Market Suite 4065 | St. Louis | 63103 | 256,855
City of St. Louis/Doorways Maryland | 1520 Market Suite 4065 | St. Louis | 63103 | 684,056
City of St. Louis/Gateway 180 Rapid Rehousing | 1520 Market Suite 4065 | St. Louis | 63103 | 209,132
City of St. Louis/HMIS Lead Services ICA | 1520 Market Suite 4065 | St. Louis | 63103 | 100,000
City of St. Louis/Homefull RRH | 1520 Market Suite 4065 | St. Louis | 63103 | 300,600
City of St. Louis/Horizon Housing PSH | 1520 Market Suite 4065 | St. Louis | 63103 | 192,362
City of St. Louis/MO-501 CoC Planning Application FY2018 | 1520 Market Suite 4065 | St. Louis | 63103 | 389,491
City of St. Louis/Places for People Housing for the Future of Families | 1520 Market Suite 4065 | St. Louis | 63103 | 223,493
City of St. Louis/Queen of Peace PSH | 1520 Market Suite 4065 | St. Louis | 63103 | 495,388
City of St Louis/St. Patrick Center Coordinated Entry | 1520 Market Suite 4065 | St. Louis | 63103 | 150,000
City of St Louis/St Patrick Center Project Protect Housing | 1520 Market Suite 4065 | St Louis | 63103 | 471,693
City of St. Louis/St Patrick Center Rosati House | 1520 Market Suite 4065 | St. Louis | 63103 | 487,946
City of St Louis/St. Patrick Permanent Supportive Housing | 1520 Market Suite 4065 | St. Louis | 63103 | 504,517
City of St. Louis/St. Patrick Rapid Rehousing | 1520 Market Suite 4065 | St. Louis | 63103 | 506,181
City of St. Louis/Youth in Need RRH | 1520 Market Suite 4065 | St. Louis | 63103 | 72,983
City of St. Louis/YWCA PSH | 1520 Market Suite 4065 | St. Louis | 63103 | 217,084
City of St. Louis/YWCA RRH DV | 1520 Market Suite 4065 | St. Louis | 63103 | 1,299,012
Missouri Department of Mental Health/2018 SCS—Shelter Plus Care STL City QoP SRA | 1706 E. Elm | Jefferson City | 65101 | 767,126
Missouri Department of Mental Health/2018 SCY—Shelter Plus Care STL City SPC | 1706 E. Elm | Jefferson City | 65101 | 428,750
Missouri Department of Mental Health/2018 St. Louis Legacy Shelter Plus Care Program Consolidated | 1706 E. Elm | Jefferson City | 65101 | 1,889,433
Missouri Department of Mental Health/2018 St. Louis Legacy SPC for Chronically Homeless Consolidated | 1706 E. Elm | Jefferson City | 65101 | 939,149
Missouri Department of Mental Health/2018 SZP—Shelter Plus Care Places at Page SRA | 1706 E. Elm | Jefferson City | 65101 | 85,107
Missouri Department of Mental Health/2018 SZS—Shelter Plus Care STL City—The BEACH Project | 1706 E. Elm | Jefferson City | 65101 | 521,807
Community Council of St. Charles County/CoC Planning Project (7) | P.O. Box 219 | Cottleville | 63338 | 15,793
Community Council of St. Charles County/SHP-HMIS-10 | P.O. Box 219 | Cottleville | 63338 | 67,678
Compass Health, Inc/Compass Health, Inc. PH Renewal App (A) FY18 | 1800 Community Dr | Clinton | 64735 | 59,493
Compass Health, Inc/Compass Health, Inc. PH Renewal App FY18 | 1800 Community Dr | Clinton | 64735 | 188,395
Youth In Need/Rapid Rehousing | 1815 Boones Lick Road | Saint Charles | 63301 | 58,316
Catholic Charities of Southern Missouri, Inc./Catholic Charities Rapid Rehousing Program CoC MO-600 | 424 E. Monastery Street | Springfield | 65807 | 70,176
City of Springfield/MO-600 CoC Planning Application FY2018 | 840 Boonville | Springfield | 65806 | 28,500
Family Violence Center, Inc., d/b/a Harmony House/MO-600 CoC DV Bonus Project Application FY2018 | 3404 E. Ridgeview St | Springfield | 65804 | 82,824
Great Circle/Empowering Home | 330 North Gore Avenue | St Louis | 63119 | 59,352
Missouri Department of Mental Health/2018 SCG—Shelter Plus Care Springfield | 1706 E. Elm | Jefferson City | 65101 | 163,889
The Housing Authority of Springfield/HAS Permanent Housing- TKI | 421 W. Madison | Springfield | 65806 | 99,229
The Kitchen, Inc./TKI Chronic PSH | 1630 N. Jefferson | Springfield | 65803 | 139,851
The Kitchen, Inc./TKI PSH Veterans | 1630 N. Jefferson | Springfield | 65803 | 47,837
The Kitchen, Inc./TKI RRH Families | 1630 N. Jefferson | Springfield | 65803 | 311,717
The Kitchen, Inc./TKI RRH Youth | 1630 N. Jefferson | Springfield | 65803 | 70,351
Catholic Charities of Southern Missouri, Inc./Catholic Charities RRH Jasper/Newton | 424 E. Monastery Street | Springfield | 65807 | 24,176
Economic Security Corporation of Southwest Area/Chronic Homeless 2018 | 302 Joplin Avenue | Joplin | 64801 | 49,671
Economic Security Corporation of Southwest Area/ESC Rapid Re-Housing 2018 | 302 Joplin Avenue | Joplin | 64801 | 71,012
Economic Security Corporation of Southwest Area/Permanent Housing for Persons With A Disability 2018 | 302 Joplin Avenue | Joplin | 64801 | 83,419
Economic Security Corporation of Southwest Area/Planning Project 2018 | 302 Joplin Avenue | Joplin | 64801 | 16,826
Economic Security Corporation of Southwest Area/Rapid Re-Housing 2018 | 302 Joplin Avenue | Joplin | 64801 | 36,408
Economic Security Corporation of Southwest Area/Shelter Plus Care 2018 | 302 Joplin Avenue | Joplin | 64801 | 79,068
Missouri Department of Mental Health/2018 SCN—Shelter Plus Care Joplin | 1706 E. Elm | Jefferson City | 65101 | 239,249
The Salvation Army—Midland Division/2018 The Salvation Army of Joplin, MO RRH Renewa | 1130 Hampton Avenue | St. Louis | 63139 | 26,139
Catholic Charities of Kansas City-St. Joseph, Inc./Home Plus (PH) 2018 | 4001 Blue Parkway Suite 250 | Kansas City | 64130 | 331,032
Catholic Charities of Kansas City-St. Joseph, Inc./St. Joseph (PH) 2018 | 4001 Blue Parkway Suite 250 | Kansas City | 64130 | 219,086
City of St. Joseph/St. Joseph HMIS Project | 1100 Frederick Ave | St. Joseph | 64501 | 42,254
City of St. Joseph/St. Joseph Planning Project | 1100 Frederick Ave | St. Joseph | 64501 | 37,192
Community Missions Corporation/Juda House | 5400 King Hill Ave | St. Joseph | 64504 | 102,083
Community Missions Corporation/St. Joseph's Haven | 5400 King Hill Ave | St. Joseph | 64504 | 229,685
Missouri Department of Mental Health/2018 SCJ—Shelter Plus Care St. Joseph | 1706 E. Elm | Jefferson City | 65101 | 274,658
Young Women's Christian Association, St. Joseph, Missouri/Bliss Manor | 304 North 8th Street | St. Joseph | 64501 | 73,018
Young Women's Christian Association, St. Joseph, Missouri/Bridges | 304 North 8th Street | St. Joseph | 64501 | 121,315
City of Kansas City, Missouri/MO-604-REN-2004 (KCHD Shelter+Care 2018) | 414 E. 12th Street | Kansas City | 64106 | 365,260
City of Kansas City, Missouri/City of Kansas City, Missouri—reSt.art Housing Solutions Center | 414 E. 12th St., City Hall 4th Floor | Kansas City | 64106 | 234,539
City of Kansas City, Missouri/Mohart Road to Housing | 414 E. 12th St., City Hall 4th Floor | Kansas City | 64106 | 178,562
Community LINC/Community Housing Access | 4012 Troost | Kansas City | 64110 | 112,000
Community LINC/Home for Good | 4012 Troost | Kansas City | 64110 | 159,992
Community Services League/Community Services League | 404 North Noland Rd | Independence | 64050 | 150,679
Community Services League/Community Services League PSH Chronic Families & Individuals | 404 North Noland Rd | Independence | 64050 | 269,567
Community Services League/My Way Home | 404 North Noland Rd | Independence | 64050 | 249,916
Greater Kansas City Coalition to End Homelessness/GKCCEH Coordinated Entry | 3200 Wayne Ave, Suite 202 | Kansas City | 64109 | 167,000
Hillcrest Ministries of MidAmerica/KC TH-RRH | 2050 Plumber's Way, #180 | Liberty | 64068 | 144,125
Hope House, Inc./Permanent Housing Program for Survivors of DV | P.O. Box 577 | Lee's Summit | 64063 | 261,903
Journey To New Life, Inc/New Life RRH for Veterans | 3120 Troost Ave | Kansas City | 64109 | 266,060
Kim Wilson Housing, Inc./WyRAP Renewal | 730 Armstrong | Kansas City | 66101 | 174,088
Mid-America Regional Council/HMIS Lead Agency of GKCCEH FY18 | 600 Broadway Suite 200 | Kansas City | 64105 | 238,291
Missouri Department of Mental Health/2018 SCE—Shelter Plus Care KC—100 | 1706 E. Elm | Jefferson City | 65101 | 1,095,865
Missouri Department of Mental Health/2018 SCI—Shelter Plus Care Independence | 1706 E. Elm | Jefferson City | 65101 | 283,991
Missouri Department of Mental Health/2018 SCK—Shelter Plus Care KC—162 | 1706 E. Elm | Jefferson City | 65101 | 1,832,955
Missouri Department of Mental Health/2018 SCV—Consolidated Shelter Plus Care KC and Independence | 1706 E. Elm | Jefferson City | 65101 | 944,757
Missouri Department of Mental Health/2018 SCZ—Shelter Plus Care KC—Chronic 35 | 1706 E. Elm | Jefferson City | 65101 | 318,040
Missouri Department of Mental Health/2018 SZD—Shelter Plus Care KC Chronic—25 | 1706 E. Elm | Jefferson City | 65101 | 226,396
reStart, Inc./A Good Start | 918 E. 9th Street | Kansas City | 64106 | 301,573
reStart, Inc./Family Rapid Rehousing | 918 E. 9th Street | Kansas City | 64106 | 246,484
reStart, Inc./Home Again | 918 E. 9th Street | Kansas City | 64106 | 183,800
reStart, Inc./Housing Counts | 918 E. 9th Street | Kansas City | 64106 | 496,306
Rose Brooks Center, Inc./Domestic Violence Coordinated Entry Project (Supportive Services Only) FY18 | 3350 East 77th Street | Kansas City | 64132 | 222,070
Rose Brooks Center, Inc./Rose Brooks Center Housing Program FY18 | 3350 East 77th Street | Kansas City | 64132 | 225,781
SAVE, Inc./Rental Assistance Program—SHP | P.O. Box 45301 | Kansas City | 64171 | 377,028
SAVE, Inc./Youth Rapid Re-Housing Program | P.O. Box 45301 | Kansas City | 64171 | 140,958
The Kansas City Metropolitan Lutheran Ministry/Grace Homes/Project Care Consolidated | 3031 Holmes | Kansas City | 64109 | 405,583
The Kansas City Metropolitan Lutheran Ministry/MLM New Project Wyandotte County | 3031 Holmes | Kansas City | 64109 | 112,704
The Salvation Army/Linwood Center Permanent Supportive Housing Program | 101 W Linwood | Kansas City | 64111 | 268,583
The Salvation Army/The Salvation Army Kansas City Kansas Permanent Supportive Housing Program | 101 W. Linwood | Kansas City | 64111 | 466,056
Truman Medical Center, Inc./Haven of Hope Expansion | 2301 Holmes St | Kansas City | 64108 | 1,272,974
Truman Medical Center, Inc./TruFutures | 2301 Holmes St | Kansas City | 64108 | 167,171
Wyandot Center for Community Behavioral Healthcare/Beacon Homes | 757 Armstrong Avenue | Kansas City | 66101 | 278,723
Wyandot Center for Community Behavioral Healthcare/Beacon Homes Expansion 2018 | 757 Armstrong Avenue | Kansas City | 66101 | 303,024
Catholic Charities of Kansas City-St. Joseph, Inc./North/East Metro Permanent Housing 2018 | 4001 Blue Parkway Suite 250 | Kansas City | 64130 | 212,637
Catholic Charities of Kansas City-St. Joseph, Inc./Northwest Permanent Housing 2018 | 4001 Blue Parkway Suite 250 | Kansas City | 64130 | 309,208
Catholic Charities of Southern Missouri, Inc./MO-606 CCSOMO RRH Program | 424 E Monastery Street | Springfield | 65807 | 176,165
Columbia Housing Authority/Columbia Housing Authority COC Renewal 2018 | 201 Switzler Street | Columbia | 65203 | 406,909
Council on Families in Crisis/BoS DV Coordinated Entry | 415 N. Main St | Nevada | 64772 | 228,483
Delta Area Economic Opportunity Corporation/Bootheel House of Progress—PH | 99 Skyview Road | Portageville | 63873 | 105,378
Delta Area Economic Opportunity Corporation/Housing Opportunities Made Easy—HOME | 99 Skyview Road | Portageville | 63873 | 98,807
FCC Behavioral Health/Cape Girardeau Women and Children SHP | 925 Highway V P.O. Box 71 | Kennett | 63857 | 152,251
FCC Behavioral Health/Permanent Housing For Semo's Homeless and Disabled | 925 Highway V P.O. Box 71 | Kennett | 63857 | 136,574
FCC Behavioral Health/SEMO SAFEHAVEN | 925 Highway V P.O. Box 71 | Kennett | 63857 | 135,780
High Hope Employment Services, Inc./High Hope Supportive Housing-PSH | 611 W Third Street, Suite 1 | Milan | 63556 | 76,917
Hillcrest Ministries of MidAmerica/Hillcrest RRH Youth & Families BoS | 2050 Plumber's Way, #180 | Liberty | 64068 | 286,544
Institute for Community Alliances/MO BoS HMIS Project 2018 | 1111 9th Street Suite 380 | Des Moines | 50314 | 239,947
Missouri Department of Mental Health/2018 SCP—Shelter Plus Care Poplar Bluff | 1706 E. Elm | Jefferson City | 65101 | 176,732
Missouri Department of Mental Health/2018 SCT—Shelter Plus Care Branson Area | 1706 E. Elm | Jefferson City | 65101 | 152,386
Missouri Department of Mental Health/2018 SCW—Shelter Plus Care West Plains Area | 1706 E. Elm | Jefferson City | 65101 | 128,904
Missouri Department of Mental Health/2018 Shelter Plus Care NEMO Consolidated | 1706 E. Elm | Jefferson City | 65101 | 290,372
Missouri Department of Mental Health/2018 Shelter Plus Care SEMO (Consolidated) | 1706 E. Elm | Jefferson City | 65101 | 297,722
Missouri Department of Mental Health/2018 Shelter Plus Care Western MO (Consolidated) | 1706 E. Elm | Jefferson City | 65101 | 336,478
Missouri Department of Mental Health/2018 SZH—Shelter Plus Care Jefferson Franklin | 1706 E. Elm | Jefferson City | 65101 | 173,725
Missouri Department of Mental Health/2018 SZR—Kirksville Shelter Plus Care SRA | 1706 E. Elm | Jefferson City | 65101 | 74,101
Missouri Housing Development Commission/MO-606 CoC Planning Application FY2018 | 920 Main Street Suite 1400 | Kansas City | 64105 | 168,530
Phoenix Programs, Inc./At Home (2019-2020) FY18 | 90 E. Leslie Lane | Columbia | 65202 | 98,927
Preferred Family Healthcare, Inc./Rapid Rehousing | 4355 Paris Gravel Road | Hannibal | 63401 | 78,492
SEMO Christian Restoration Center/Foundations For Living | 1875 Speedway Drive | Poplar Bluff | 63901 | 80,658
SEMO Christian Restoration Center/Restoring Families | 1875 Speedway Drive | Poplar Bluff | 63901 | 121,739
The Salvation Army—Midland Division/The Salvation Army of Jefferson City, MO Center of Hope PHP | 1130 Hampton Avenue | St Louis | 63139 | 108,071
Welcome Home Inc. /Rapid Rehousing | 2120 Business Loop 70 E | Columbia | 65201 | 95,902
Northern Marianas Housing Corporation/CNMI Homeless Prevention Coalition |  |  |  | 14,244
Grace House, Inc./Grace House CoC Permanent Housing Projects | 236 Millsaps Ave | Jackson | 39202 | 444,262
Mississippi Housing Partnership/Permanant Supportive Housing Program | 1217 North West Street | Jackson | 39202 | 230,571
Mississippi United to End Homelessness/MUTEH PH | 201 West Capitol Street Suite 800 | Jackson | 39202 | 78,060
New Dimensions Development Foundation, Inc/Lizzie's House Permanent | 111 West Monument Street | Jackson | 39202 | 149,183
Stewpot Community Services. Inc./CoC Planning Grant FY2018 | 1100 West Capitol Street | Jackson | 39203 | 64,897
Stewpot Community Services. Inc./Coordinated Entry | 1100 West Capitol Street | Jackson | 39203 | 153,001
Stewpot Community Services. Inc./Stewpot HMIS | 1100 West Capitol Street | Jackson | 39203 | 121,023
Voice of Calvary Ministries/Jackson Housing First | 531 W. Capitol Street | Jackson | 39203 | 192,026
AIDS Services Coalition/121 Haven House PSH | 121 College Street | Hattiesburg | 39401 | 50,748
AIDS Services Coalition/GreenMeadows 2018 | 121 College Street | Hattiesburg | 39401 | 283,689
Bolivar County Community Action Agency, Inc./Bolivar County Rapid Re-Housing | 810 East Sunflower Road Suite 120 | Cleveland | 38732 | 694,405
Mississippi United to End Homelessness/HMIS I | 201 West Capitol Street Suite 800 | Jackson | 39202 | 162,037
Mississippi United to End Homelessness/HMIS II | 201 West Capitol Street Suite 800 | Jackson | 39202 | 100,043
Mississippi United to End Homelessness/MS 501 Planning Project 2019—2020 | 201 West Capitol Street Suite 800 | Jackson | 39202 | 164,870
Mississippi United to End Homelessness/MUTEH Rapid Rehousing | 201 West Capitol Street Suite 800 | Jackson | 39202 | 574,487
Multi-County Community Service Agency/MCCSA Permanent Supportive Housing RRH | 2906 Saint Paul Street | Meridian | 39301 | 336,358
Recovery House, Inc./Recovery House Rapid Rehousing | 770 Golding Road | Columbus | 39702 | 126,400
University of Southern Mississippi/Project Recovery II | 118 College Drive #5157 | Hattiesburg | 39406 | 292,499
Back Bay Mission, Inc./Home at Last 2018 | 1012 Division Street | Biloxi | 39530 | 202,285
Community Care Network, Inc./CCN 2018 Housing Homeless Youth | 7400 Fountainbleau Rd | Ocean Springs | 39564 | 51,078
Community Care Network, Inc./CCN 2018 Pascagoula/Moss Point | 7400 Fountainbleau Rd | Ocean Springs | 39564 | 58,465
Gulf Coast Center for Nonviolence, Inc./Permanent Housing Project | 425 Rodenberg Avenue n/a | Biloxi | 39531 | 46,080
Gulf Coast Center for Nonviolence, Inc./Rapid Rehousing Project | 425 Rodenberg Avenue n/a | Biloxi | 39531 | 49,100
Mental Health Association of South MS/MHASM SHP CH w/MI PSH FY2018 | 4803 Harrison Circle | Gulfport | 39507 | 219,351
Open Doors Homeless Coalition/2018 Coordinated Entry | 11975 Seaway Road Suite B-220 | Gulfport | 39503 | 90,589
Open Doors Homeless Coalition/2018 HMIS | 11975 Seaway Road Suite B-220 | Gulfport | 39503 | 33,374
Open Doors Homeless Coalition/2018 Planning | 11975 Seaway Road Suite B-220 | Gulfport | 39503 | 31,303
The Salvation Army Mississippi Gulf Coast Area Command/The Salvation Army-Rapid Re-Housing 2018 | 2019 22nd Street | Gulfport | 39531 | 49,020
Action Inc./Action Inc. Rapid Rehousing | 25 West Silver Street | Butte | 59701 | 91,433
District 7 Human Resources Development Council/CoC Rapid Rehousing | 7 North 31st Street P.O. Box 2016 | Billings | 59103 | 94,031
Helena Housing Authority/Helena Housing Consolidated PSH and Samaritan Bonus | 812 Abbey Street | Helena | 59601 | 328,104
Human Resource Development Council of District IX, Inc./HRDC 9 Rapid Rehousing Consolidation | 32 South Tracy Avenue | Bozeman | 59715 | 110,353
Missoula County/Ada's Place Rapid Re-housing-C | 199 West Pine | Missoula | 59802 | 312,318
Missoula Housing Authority/MHA PSH Renewal 2018 | 1235 34th St | Missoula | 59801 | 891,993
Montana Continuum of Care Coalition/MT-500 CoC Planning Application FY2018 | 321 E Main St, Suite 316 | Bozeman | 59715 | 73,039
Mountain Home Montana, Inc./Permanent Supportive Housing FY 2018 | 2606 South Avenue West | Missoula | 59804 | 76,386
Northwest Montana Human Resources, Inc./CAPNM RRH | 214 Main Street | Kalispell | 59901 | 58,774
Northwest Montana Human Resources, Inc./CAPNM RRH #2 | 214 Main Street | Kalispell | 59901 | 29,393
Northwest Montana Human Resources, Inc./CAPNM Shelter Plus | 214 Main Street | Kalispell | 59901 | 73,036
Pathways Community Network, Inc./Montana Statewide HMIS FY2018 | 1 W Court Square, Ste 750 | Decatur | 30030 | 157,332
Public Housing Authority of Butte/PHA Butte Permanent Supportive Housing | 220 Curtis Street | Butte | 59701 | 110,452
Supporters of Abuse Free Environments (SAFE), Inc./SAFE FY TH-RRH | P.O. Box 534 | Hamilton | 59840 | 144,144
YWCA Billings/YWCA Billings Rapid Re-Housing Project | 909 Wyoming Ave | Billings | 59101 | 130,990
City of Winston-Salem/5th Street II | 100 East First Street, Suite 423 | Winston-Salem | 27101 | 61,130
City of Winston-Salem/Community Intake Center Consolidated | 100 East First Street, Suite 423 | Winston-Salem | 27101 | 98,115
City of Winston-Salem/ESR-PH Case Management | 100 East First Street, Suite 423 | Winston-Salem | 27101 | 734,160
City of Winston-Salem/FAST (Families Accessing Support Team) Housing | 100 East First Street, Suite 423 | Winston-Salem | 27101 | 98,920
City of Winston-Salem/Fifth Street Apts-Expansion | 100 East First Street, Suite 423 | Winston-Salem | 27101 | 25,648
City of Winston-Salem/Forsyth PSH Collaborative | 100 East First Street, Suite 423 | Winston-Salem | 27101 | 722,982
City of Winston-Salem/Homeless Management Information System 2 | 100 East First Street, Suite 423 | Winston-Salem | 27101 | 101,842
City of Winston-Salem/Housing Independence Project (HIP) | 100 East First Street, Suite 423 | Winston-Salem | 27101 | 176,419
City of Winston-Salem/NC-500 CoC Plannng Application FY2018 | 100 East First Street, Suite 423 | Winston-Salem | 27101 | 58,689
City of Winston-Salem/Rapid Response Housing | 100 East First Street, Suite 423 | Winston-Salem | 27101 | 77,100
City of Winston-Salem/Shelter Plus Care—Fifth Street | 100 East First Street, Suite 423 | Winston-Salem | 27101 | 70,759
City of Asheville/NC-501 HMIS Grant | 70 Court Plaza | Asheville | 28801 | 67,500
City of Asheville/NC-501 Planning | 70 Court Plaza | Asheville | 28801 | 37,628
Helpmate Incorporated/Housing Support for Domestic Violence Survivors | P.O. Box 2263 | Asheville | 28802 | 56,032
Homeward Bound of Western North Carolina, Inc./Bridge to Recovery | 37 Montford Avenue, Suite 102 | Asheville | 28801 | 296,205
Homeward Bound of Western North Carolina, Inc./Permanent Supportive Housing Extreme Needs | 37 Montford Avenue, Suite 102 | Asheville | 28801 | 218,798
Homeward Bound of Western North Carolina, Inc./Permanent Supportive Housing Extreme Needs 2 | 37 Montford Avenue, Suite 102 | Asheville | 28801 | 59,388
Homeward Bound of Western North Carolina, Inc./Permanent Supportive Housing Extreme Needs 3 | 37 Montford Avenue, Suite 102 | Asheville | 28801 | 73,311
Homeward Bound of Western North Carolina, Inc./Permanent Supportive Housing Extreme Needs 5 | 37 Montford Avenue, Suite 102 | Asheville | 28801 | 161,269
Homeward Bound of Western North Carolina, Inc./Shelter Plus Care Asheville/Buncombe | 37 Montford Avenue, Suite 102 | Asheville | 28801 | 306,148
Alliance Behavioral Healthcare/Dash Program | 4600 Emperor Blvd | Durham | 27703 | 167,140
City of Durham/2018 COC Planning Grant | 101 City Hall Plaza | Durham | 27701 | 45,810
Durham Crisis Response Center/DCRC Housing First | 206 N Dillard St | Durham | 27701 | 154,019
Housing for New Hope, Inc./Andover Apartments | 18 West Colony Place Suite 250 | Durham | 27705 | 58,806
Housing for New Hope, Inc./Rapid Rehousing I | 18 West Colony Place Suite 250 | Durham | 27705 | 57,736
Housing for New Hope, Inc./Rapid Rehousing III | 18 West Colony Place Suite 250 | Durham | 27705 | 169,396
Housing for New Hope, Inc./Streets to Home I | 18 West Colony Place Suite 250 | Durham | 27705 | 220,232
Housing for New Hope, Inc./Streets to Home II | 18 West Colony Place Suite 250 | Durham | 27705 | 151,221
Housing for New Hope, Inc./Williams Square Apartments | 18 West Colony Place Suite 250 | Durham | 27705 | 60,003
North Carolina Coalition to End Homelessness/2018 HMIS Renewal Durham | 310 N Harrington St | Raleigh | 27603 | 55,752
The Housing Authority of The City of Durham/Home Again | 330 East Main Street P.O. Box 1726 | Durham | 27701 | 117,357
Urban Ministries of Durham/UMD Fresh Start Durham CoC Renewal Project Application FY2018 | 410 Liberty Street | Durham | 27701 | 203,663
Burlington Development Corporation/HOPE PSH FY 2018 | 133 N Ireland St, P.O. Box 2380 | Burlington | 27216 | 80,361
Burlington Development Corporation/STEPS RRH FY 2018 | 133 N Ireland St, P.O. Box 2380 | Burlington | 27216 | 55,960
Community Link, Programs of Travelers Aid/Community Link—AC PSH 0031-2018 | 601 E 5th Street, Suite 220 | Charlotte | 28202 | 284,533
Community Link, Programs of Travelers Aid/Community Link-PC PSH 0148-2018 | 601 E 5th Street, Suite 220 | Charlotte | 28202 | 128,313
Community Link, Programs of Travelers Aid/Community Link-PRC PSH 0235-2018 | 601 E 5th Street, Suite 220 | Charlotte | 28202 | 184,577
Community Link, Programs of Travelers Aid/Community Link-PRC-PSH-Renewal-2018 | 601 E 5th Street, Suite 220 | Charlotte | 28202 | 256,553
Community Link, Programs of Travelers Aid/Community Link-PRC-RRH-Renewal-2018 | 601 E 5th Street, Suite 220 | Charlotte | 28202 | 331,813
Community Link, Programs of Travelers Aid/Community Link-Kerr Tar PSH 0221-2018 | 601 E 5th Street, Suite 220 | Charlotte | 28202 | 823,401
Community Link, Programs of Travelers Aid/Community Link-PRC PSH 0045-2018 | 601 E 5th Street, Suite 220 | Charlotte | 28202 | 572,363
Eastpointe/Eastpointe Shelter Plus Care 3—Renewal 2018 | 514 East Main St | Beulaville | 28518 | 260,835
Eastpointe/Eastpointe Shelter Plus Care Beacon—Renewal 2018 | 514 East Main St | Beulaville | 28518 | 54,411
Eastpointe/Eastpointe Shelter Plus Care -Combined -Renewal 2018 | 514 East Main St | Beulaville | 28518 | 179,915
Eastpointe/Eastpointe Shelter Plus Care Southeast —Renewal 2018 | 514 East Main St | Beulaville | 28518 | 75,307
Housing Authority of City of Greenville/Project Hope Renewal 2018 | 1103 Broad Street P.O. Box 1426 | Greenville | 27834 | 428,036
Housing Authority of City of Greenville/Project Stable Solution Renewal 2018 | 1103 Broad Street P.O. Box 1426 | Greenville | 27834 | 59,499
Housing Authority of City of Greenville/Seeds of Change Renewal 2018 | 1103 Broad Street P.O. Box 1426 | Greenville | 27834 | 293,952
Housing Authority of City of Greenville/Solid Ground Renewal 2018 | 1103 Broad Street P.O. Box 1426 | Greenville | 27834 | 64,716
North Carolina Coalition to End Homelessness/2018 Balance of State Planning Grant | 310 N Harrington St | Raleigh | 27603 | 349,781
North Carolina Coalition to End Homelessness/2018 HMIS Renewal Balance of State | 310 N Harrington St | Raleigh | 27603 | 519,299
North Carolina Coalition to End Homelessness/2018 SSO CE New Balance of State | 310 N Harrington St | Raleigh | 27603 | 264,000
North Carolina Coalition to End Homelessness/2018 SSO CE Renewal Balance of State | 310 N Harrington St | Raleigh | 27603 | 159,767
Partners Behavioral Health Management/Partners Consolidated Renewal 2018 | 901 South New Hope Rd | Gastonia | 28054 | 246,227
Pitt County/PittRRH2018 | 1717 W 5th Street | Greenville | 27834 | 112,526
Rockingham County Help for Homeless, Inc./RCHH Rapid Re-Housing Renewal Grant 2018 | 108 N Franklin Street P.O. Box 406 | Madison | 27025 | 200,882
Rockingham County Help for Homeless, Inc./RCHH Permanent Supportive Housing Renewal Grant 2018 | 108 N Franklin Street P.O. Box 406 | Madison | 27025 | 249,740
Sixth Avenue Psychiatric Rehabilitation Partners, Inc, DBA Thrive/Pathways to Permanent Housing Henderson County | 110-C Chadwick Square Court | Hendersonville | 28739 | 181,855
Sixth Avenue Psychiatric Rehabilitation Partners, Inc, DBA Thrive/Pathways to Permanent Housing Henderson County 3 | 110-C Chadwick Square Court | Hendersonville | 28739 | 59,838
Surry Homeless and Affordable Housing Coalition/SHAHC PH Renewal 2018 | 1325 West Pine St, Suite 205 | Mt. Airy | 27030 | 115,823
The New Reidsville Housing Authority/2018 Reidsville HA CoC Renewal for 2019-2020 | 924 Third Avenue | Reidsville | 27320 | 266,435
Trillium Health Resources/Trillium PSH #1 | 201 West 1st Street | Greenville | 27858 | 815,995
Trillium Health Resources/Trillium PSH #2 | 201 West 1st Street | Greenville | 27858 | 117,911
Trillium Health Resources/Trillium PSH #3 | 201 West 1st Street | Greenville | 27858 | 96,974
Union County Community Shelter/COC Rapid Rehousing UCCS | 311 E Jefferson St | Monroe | 28112 | 173,520
Vaya Health/Vaya Health PSH Central Chronic | 200 Ridgefield Court, Suite 206 | Asheville | 28806 | 50,962
Vaya Health/Vaya Health PSH Central Combo | 200 Ridgefield Court, Suite 206 | Asheville | 28806 | 421,840
Vaya Health/Vaya Health PSH Western Combo | 200 Ridgefield Court, Suite 206 | Asheville | 28806 | 396,038
Family Service of the Piedmont, Inc./Family Service of the Piedmont Victim Rapid Re-Housing | 902 Bonner Drive | Jamestown | 27282 | 92,889
Greensboro Housing Authority/Housing Opportunities | 450 N Church Street | Greensboro | 27401 | 539,861
Greensboro Housing Authority/Sheltering the Homeless | 450 N Church Street | Greensboro | 27401 | 512,976
Open Door Ministries of High Point, Inc./Permanent Supportive Housing III | 400 N Centennial St | High Point | 27262 | 216,037
Partners Ending Homelessness/Coordinated Intake Expansion | 815 Phillips Avenue | High Point | 27262 | 89,664
Partners Ending Homelessness/Coordinated Intake Grant | 815 Phillips Avenue | High Point | 27262 | 60,000
Partners Ending Homelessness/HMIS—Greensboro | 815 Phillips Avenue | High Point | 27262 | 49,721
Partners Ending Homelessness/HMIS Expansion | 815 Phillips Avenue | High Point | 27262 | 20,000
Partners Ending Homelessness/NC-504 CoC Planning Application FY2018 | 815 Phillips Avenue | High Point | 27262 | 62,087
The Servant Center, Inc./Fast Track | 1417 Glenwood Avenue | Greensboro | 27403 | 122,741
The Servant Center, Inc./Glenwood Housing II | 1417 Glenwood Avenue | Greensboro | 27403 | 12,075
Youth Focus Inc./HEARTH: Hope, Empowerment and Resilience Through Housing | 405 Parkway Suite A | Greensboro | 27401 | 123,640
Charlotte Center for Urban Ministry, Inc/Homeless to Homes | 2435 Lucena Street | Charlotte | 28206 | 60,127
Charlotte Center for Urban Ministry, Inc/Homeless to Homes Expansion | 2435 Lucena Street | Charlotte | 28206 | 157,955
Charlotte Center for Urban Ministry, Inc/Moore Place Expansion | 2435 Lucena Street | Charlotte | 28206 | 84,915
City of Charlotte/CoC Planning Project Applications FY2018 | 600 E Trade Street | Charlotte | 28202 | 135,914
Community Link, Programs of Travelers Aid/Community Link- Meck- RRH-Renewal-2018 | 601 E 5th Street, Suite 220 | Charlotte | 28202 | 433,659
Mecklenburg County/2018 HMIS Mecklenburg | 700 N Tryon Street | Charlotte | 28202 | 63,000
Mecklenburg County/Mecklenburg Co Coordinated Entry Renewal 2018 | 700 N Tryon Street | Charlotte | 28202 | 63,000
Mecklenburg County/Mecklenburg HMIS Expansion 2018 | 700 N Tryon Street | Charlotte | 28202 | 100,000
Mecklenburg County/SPC Consolidated Renewal | 700 N Tryon St | Charlotte | 28202 | 2,346,745
Men's Shelter of Charlotte, Inc./Moving Forward, Moving Home FY 19 | 1210 North Tryon Street | Charlotte | 28206 | 61,480
Supportive Housing Communities/Scattered Site I and III | 2120 N Davidson St | Charlotte | 28205 | 311,225
The Salvation Army/TSA Family Rapid Rehousing | 4015 Stuart Andrew Blvd | Charlotte | 28217 | 271,184
Cape Fear Council of Governments/Tri-HIC FY18 Planning | 1480 Harbour Drive | Wilmington | 28401 | 22,677
Cape Fear Housing for Independent Living, Inc./Kathryn Leigh | 801 Princess Street | Wilmington | 28401 | 104,369
Coastal Horizons Center, Inc./Horizons Housing | 615 Shipyard Boulevard | Wilmington | 28412 | 87,903
Family Promise of the Lower Cape Fear Inc. f/k/a Wilmington Interfaith Hospitality Network/Families Forward Rapid Re-Housing | 4938 Oleander Drive | Wilmington | 28403 | 16,944
Family Promise of the Lower Cape Fear Inc. f/k/a Wilmington Interfaith Hospitality Network/Family Promise TH-RRH | 4938 Oleander Drive | Wilmington | 28403 | 72,357
First Fruit Ministries/Wilmington Dream Center: Permanent Supportive Housing | 2750 Vance Street | Wilmington | 28412 | 9,302
First Fruit Ministries/Wilmington Dream Center: Rapid Rehousing | 2750 Vance Street | Wilmington | 28412 | 43,206
First Fruit Ministries/Wilmington Dream Center: Transitional Housing | 2750 Vance Street | Wilmington | 28412 | 112,116
Housing Authority of the City of Wilmington/Hopewood Apartments | 1524 S 16th Street | Wilmington | 28401 | 163,237
Wilmington Housing Finance and Development Inc./Driftwood Apartments | 3508 Frog Pond Place | Wilmington | 28403 | 64,150
CASA (formerly Community Alternatives for Supportive Abodes)/Families at Home | 624 West Jones St | Raleigh | 27603 | 78,328
CASA (formerly Community Alternatives for Supportive Abodes)/Mckinney | 624 West Jones St | Raleigh | 27603 | 190,166
CASA (formerly Community Alternatives for Supportive Abodes)/Salisbury | 624 West Jones St | Raleigh | 27603 | 26,377
Haven House Inc./RRH for Homeless Youth Under 24 Consolidation 2018 | 600 West Cabarrus Street | Raleigh | 27603 | 85,805
Haven House Inc./RRH for Homeless Youth Under 24 Exp 2018 | 600 West Cabarrus Street | Raleigh | 27603 | 10,945
North Carolina Coalition to End Homelessness/2018 HMIS Renewal Wake | 310 N Harrington St | Raleigh | 27603 | 76,682
Passage Home, INC/Essential Services Rapid Rehousing—2018 | P.O. Box 28165 | Raleigh | 27611 | 230,518
Passage Home, INC/Ruth House II FY2018 | P.O. Box 28165 | Raleigh | 27611 | 221,547
PLM Families Together/Families Together Housing First FY2018 | 908 Plainview Drive Suite 101 | Raleigh | 27610 | 119,924
Wake County Continuum of Care, DBA Raleigh/Wake Partnership to End and Prevent Homelessness/2018 NC507 Planning Grant | 1053 E Whitaker Mill Rd. Ste 115 | Raleigh | 27604 | 111,555
Wake County Continuum of Care, DBA Raleigh/Wake Partnership to End and Prevent Homelessness/2018 NC507 SSO—Coordinated Entry | 1053 E Whitaker Mill Rd. Ste 115 | Raleigh | 27604 | 68,066
Wake County Human Services/2-1-2019 to 1-31-2020 Fully Consolidated Wake Rental Assistance Renewal | WCOB- Housing Division Room 448 337 S. Salisbury Street | Raleigh | 27601 | 2,076,425
Wake County Human Services/SWSC Rental Assistance 2016 Renewal for 2018 | WCOB- Housing Division Room 448 337 S. Salisbury Street | Raleigh | 27601 | 155,168
Family Promise of Gaston County/Housing First 2 2018 | 109 East Third Avenue | Gastonia | 28052 | 53,558
Family Promise of Gaston County/Housing First 2018 | 109 East Third Avenue | Gastonia | 28052 | 81,175
Family Promise of Gaston County/Second Chance 2018 | 109 East Third Avenue | Gastonia | 28052 | 75,814
Partners Behavioral Health Management LME/CoCRA FY2018 | 901 South New Hope Road | Gastonia | 28054 | 527,037
United Way of Gaston County, Inc/HMIS FY18 | 200 East Franklin Blvd | Gastonia | 28052 | 82,149
United Way of Gaston County, Inc/Planning FY18 | 200 East Franklin Blvd | Gastonia | 28052 | 21,190
Cumberland County, NC/NC-511 CoC Planning (FY2018) | 707 Executive Place | Fayetteville | 28305 | 21,105
Cumberland County, NC/Robin's Meadow Transitional Housing Program (FY2018) | 707 Executive Place | Fayetteville | 28305 | 85,817
Cumberland County, NC/Safe Homes for New Beginnings (FY2018) | 707 Executive Place | Fayetteville | 28305 | 56,033
Cumberland Interfaith Hospitality Network/Ashton Woods Transitional Housing 2018 | 113 Stein St | Fayetteville | 28303 | 212,268
Cumberland Interfaith Hospitality Network/Coordinated Assessment 2018 | 113 Stein St | Fayetteville | 28303 | 55,468
Cumberland Interfaith Hospitality Network/Leath Commons Perm Supp Housing 2018 | 113 Stein St | Fayetteville | 28303 | 136,428
Family Endeavors, Inc./Bonanza 2018 | 535 Bandera Road | San Antonio | 78228 | 97,272
Fayetteville Urban Ministry, Inc./FUM Rental Assistance and Support Services | 701 Whitfield Street | fayetteville | 28306 | 59,718
Community Link, Programs of Travelers Aid/Community Link-Orange PSH 0227-2018 | 601 E 5th Street, Suite 220 | Charlotte | 28202 | 333,928
Inter-Faith Council for Social Service, Inc./IFC PSH 2018 Expan. Reallocation Consolidation | 110 West Main Street | Carrboro | 27510 | 296,213
Orange County, NC/2018 CoC Planning Grant NC-513 Orange County, NC | 200 S Cameron Street | Hillsborough | 27278 | 19,934
The Women's Center, Inc./RRH for DV Survivors and their Families | 210 Henderson St | Chapel Hill | 27514 | 50,144
Hospitality House of the Boone Area, Inc./CoC NC 516 Planning Project FY 2018 | 338 Brook Hollow Road | Boone | 28607 | 17,153
Hospitality House of the Boone Area, Inc./Hospitality House DDV/SSA Joint TH and PH-RRH Project FY 2018 | 338 Brook Hollow Road | Boone | 28607 | 58,152
Hospitality House of the Boone Area, Inc./Hospitality House Permanent Housing for the Hard to Serve Renewal FY2018 | 338 Brook Hollow Road | Boone | 28607 | 18,561
Hospitality House of the Boone Area, Inc./Hospitality House Permanent Housing Leasing Expansion Renewal FY 2018 | 338 Brook Hollow Road | Boone | 28607 | 52,852
Hospitality House of the Boone Area, Inc./Joint TH and PH-RRH Project FY 2018 | 338 Brook Hollow Road | Boone | 28607 | 30,544
Hospitality House of the Boone Area, Inc./Rock Haven Permanent Housing Program FY 2018 | 338 Brook Hollow Road | Boone | 28607 | 32,835
Hospitality House of the Boone Area, Inc./SSO Coordinated Entry Renewal FY 2018 | 338 Brook Hollow Road | Boone | 28607 | 14,275
Northwestern Housing Enterprises, Incorporated/Wintergreen Supportive Housing Program | 869 Highway 105 Extension P.O. Box 1673 | Boone | 28607 | 31,326
Opposing Abuse with Service, Information and Shelter/OASIS Edgecliff PSH | P.O. Box 1591 | Boone | 28607 | 72,275
Opposing Abuse with Service, Information and Shelter/OASIS Transitional Housing | P.O. Box 1591 | Boone | 28607 | 27,813
Abused Adult Resource Center/Permanent Supportive Housing Renewal FY2018 | P.O. Box 5003 | Bismarck | 58502 | 4,845
Abused Adult Resource Center/SHP Transitional Housing Renewal FY2018 | P.O. Box 5003 | Bismarck | 58502 | 77,500
Burleigh County Housing Authority/BCHA Shelter Plus Care Vouchers 2018 | 410 S 2nd St | Bismarck | 58504 | 223,544
Fargo Housing and Redevelopment Authority/Cooper House SHP 2018 | 325 Broadway P.O. Box 430 | Fargo | 58102 | 57,700
Fargo Housing and Redevelopment Authority/FHRA Rental Assistance SHP 2018 | 325 Broadway P.O. Box 430 | Fargo | 58102 | 255,168
Fargo Housing and Redevelopment Authority/FHRA SRO SHP 2018 | 325 Broadway P.O. Box 430 | Fargo | 58102 | 85,238
Fraser, Ltd./Fraser, Ltd. Permanent Supportive Housing | 2902 University Dr S | Fargo | 58103 | 123,615
Mountain Plains Youth Services Coalition, Inc./Youthworks Joint PH-RRH and TH 2018 | 217 West Rosser Avenue | Bismarck | 58501 | 96,384
North Dakota Coalition for Homeless People, Inc./CoC Planning Project Application FY2018 | P.O. Box 1483 | Fargo | 58107 | 52,836
North Dakota Coalition for Homeless People, Inc./HMIS Renewal 18 | P.O. Box 1483 | Fargo | 58107 | 74,072
North Dakota Department of Commerce/2018 S+C Continuum of Care Grant Renewal | 1600 East Century Avenue, Ste. 2 P.O. Box 2057 | Bismarck | 58502 | 207,468
Prairie Harvest Mental Health/Prairie Harvest Mental Health Supportive Housing Program | 930 3rd Street North | Grand Forks | 58203 | 89,727
Women's Alliance, Inc. DBA: Domestic Violence and Rape Crisi/SW ND Supportive Housing Project | 10 8th Street West | Dickinson | 58601 | 36,500
YWCA Cass Clay/YWCA Cass Clay DV | 3100 12th Ave N | Fargo | 58102 | 145,478
YWCA Cass Clay/YWCA Cass Clay SHP Consolidated | 3100 12th Ave N | Fargo | 58102 | 131,206
YWCA Cass Clay/YWCA Cass Clay TH | 3100 12th Ave N | Fargo | 58102 | 215,500
Blue Valley Community Action, Inc./Project FIRST 2018 | 620 5th Street P.O. Box 273 | Fairbury | 68352 | 162,972
Blue Valley Community Action, Inc./Project FIRST RRH 2018 | 620 5th Street P.O. Box 273 | Fairbury | 68352 | 40,202
Board of Regents, University of Nebraska-Lincoln/FY2018 NE BoS Coordinated Entry | 151 Whittier Research Center 2200 Vine Street | Lincoln | 68583 | 71,632
Board of Regents, University of Nebraska-Lincoln/FY2018 NE BoS Planning Project | 151 Whittier Research Center 2200 Vine Street | Lincoln | 68583 | 77,436
Board of Regents, University of Nebraska-Lincoln/FY2018 NE HMIS | 151 Whittier Research Center 2200 Vine Street | Lincoln | 68583 | 173,806
Care Corps, Inc./PSH Renewal FY2018 | 723 N Broad St | Fremont | 68025 | 105,135
Care Corps, Inc./TH Renewal Application 2018 | 723 N Broad St | Fremont | 68025 | 122,067
Central Nebraska Community Action Partnership/THRIVES 2018 | 626 N Street | Loup City | 68853 | 504,790
Central Nebraska Community Action Partnership/Vets RRH 2018 | 626 N Street | Loup City | 68853 | 169,640
Community Action Partnership of Mid-Nebraska/Residential Assistance to Families in Transition, Inc | 16 West 11th Street P.O. Box 2288 | Kearney | 68848 | 90,717
Community Action Partnership of Western Nebraska/Panhandle Permanent Supportive Housing Program FY2018 Renewal | 3350 10th Street | Gering | 69341 | 117,671
Community Action Partnership of Western Nebraska/STEP SHP FY2018 | 3350 10th Street | Gering | 69341 | 48,269
Community Action Partnership of Western Nebraska/Supportive Housing Program FY2018 Renewal | 3350 10th Street | Gering | 69341 | 32,488
Region V Systems/Rural Permanent Housing Program | 1645 N Street | Lincoln | 68508 | 326,037
City of Omaha/COC Rental Assistance FY2018 | 1819 Farnam | Omaha | 68183 | 207,541
Heartland Family Service/Heartland Homes | 2101 S 42nd St | Omaha | 68105 | 286,548
Heartland Family Service/Heartland Housing Opportunities | 2101 S 42nd St | Omaha | 68105 | 674,617
Heartland Family Service/Heartland Housing Passages | 2101 S 42nd St | Omaha | 68105 | 185,134
Heartland Family Service/Heartland Housing Solutions 2 | 2101 S 42nd St | Omaha | 68105 | 1,430,032
Heartland Family Service/Pottawattamie County Homeless Link | 2101 S 42nd St | Omaha | 68105 | 380,504
Institute for Community Alliances/Omaha Metro Area Continuum HMIS 2018 | 1111 9th Street Suite 380 | Des Moines | 50314 | 179,660
Metro Area Contiuum of Care for the Homeless/MACCH CES Expansion Reallocation Grant | University of Nebraska-Omaha 6001 Dodge Street/Community Engagement Center, Suite 117 | Omaha | 68182 | 58,975
Metro Area Contiuum of Care for the Homeless/MACCH Planning Grant 2018 | University of Nebraska-Omaha 6001 Dodge Street/Community Engagement Center, Suite 117 | Omaha | 68182 | 133,908
New Visions Homeless Services/David House | 1435 N 15th Street | Council Bluffs | 51501 | 83,108
New Visions Homeless Services/Timothy House | 1435 N 15th Street | Council Bluffs | 51501 | 106,040
Siena/Francis House/The Siena Apartments | 1702 Nicholas Street | Omaha | 68102 | 65,587
The Salvation Army/HOME 2 Stay | 10755 Burt St N/A | Omaha | 68114 | 382,527
The Salvation Army/HOME Program | 10755 Burt St N/A | Omaha | 68114 | 160,211
Together Inc of Metropolitan Omaha/Horizons Program | 812 S 24th Street | Omaha | 68108 | 118,432
Together Inc of Metropolitan Omaha/Horizons Program (Expansion) | 812 S 24th Street | Omaha | 68108 | 79,917
Youth Emergency Services, Inc./YES Rapid Rehousing Program | 2679 Farnam St, Suite 205 | Omaha | 68131 | 157,564
Board of Regents, University of Nebraska-Lincoln/FY2018 Lincoln Coordinated Entry | 151 Whittier Research Center 2200 Vine Street | Lincoln | 68583 | 34,793
Board of Regents, University of Nebraska-Lincoln/FY2018 Lincoln HMIS | 151 Whittier Research Center 2200 Vine Street | Lincoln | 68583 | 93,039
CEDARS Youth Services/New Futures Supportive Housing Program | 6601 Pioneers Boulevard, Suite 1 | Lincoln | 68506 | 110,609
CenterPointe, Inc/Adult Residential FY 2018 | 2633 P Street | Lincoln | 68503 | 369,402
CenterPointe, Inc/Glide PATH FY2018 | 2633 P Street | Lincoln | 68503 | 252,639
CenterPointe, Inc/Permanent Housing Project FY2018 | 2633 P Street | Lincoln | 68503 | 238,287
CenterPointe, Inc/Transitions FY2018 | 2633 P Street | Lincoln | 68503 | 96,584
CenterPointe, Inc/Transitions Two FY2018 | 2633 P Street | Lincoln | 68503 | 110,518
CenterPointe, Inc/Veteran's Permanent Housing Project FY2018 | 2633 P Street | Lincoln | 68503 | 61,190
City of Lincoln/City of Lincoln 2018 Planning Grant | 555 So 10th St | Lincoln | 68506 | 67,684
City of Lincoln/Outreach Housing Project FY2018 | 555 So 10th St | Lincoln | 68506 | 81,055
City of Lincoln/S+C for Chronically Homeless FY2018 | 555 So 10th St | Lincoln | 68506 | 39,297
Community Action Partnership of Lancaster & Saunders Countie/Supportive Housing Program | 210 O Street | Lincoln | 68508 | 490,993
Friendship Home of Lincoln, Inc. /Safe at Home | P.O. Box 85358 | Lincoln | 68501 | 114,382
Matt Talbot Kitchen & Outreach Inc./First HOPE (Housing Opportunities & Prevention Efforts) FY2018 | 2121 North 27th Street P.O. Box 80935 | Lincoln | 68501 | 212,156
Northern Human Services/Gilpin House | 29 Maple Street P.O. Box 599 | Littleton | 03561 | 129,535
State of New Hampshire/BMCAP RRH Program | 129 Pleasant Street | Concord | 03301 | 185,476
State of New Hampshire/BoSCoC Planning Project | 129 Pleasant Street | Concord | 03301 | 112,545
State of New Hampshire/Central Street PHP | 129 Pleasant Street | Concord | 03301 | 72,960
State of New Hampshire/Child and Family Services RRH | 129 Pleasant Street | Concord | 03301 | 197,829
State of New Hampshire/CLM FAMILY HOUSING I | 129 Pleasant Street | Concord | 03301 | 273,721
State of New Hampshire/CLM PH I | 129 Pleasant Street | Concord | 03301 | 279,867
State of New Hampshire/CLM Shelter Plus Care | 129 Pleasant Street | Concord | 03301 | 285,240
State of New Hampshire/CLM Shelter Plus Care II | 129 Pleasant Street | Concord | 03301 | 73,573
State of New Hampshire/CRH/CCEH Permanent Supportive Housing Expansion | 129 Pleasant Street | Concord | 03301 | 391,949
State of New Hampshire/Families in Transition Concord Community Permanent Housing Program | 129 Pleasant Street | Concord | 03301 | 107,779
State of New Hampshire/Families in Transition Permanent Housing Program—Concord | 129 Pleasant Street | Concord | 03301 | 70,343
State of New Hampshire/FIT Concord Community Leasing II | 129 Pleasant Street | Concord | 03301 | 101,355
State of New Hampshire/FIT: Dover Permanent Housing | 129 Pleasant Street | Concord | 03301 | 107,216
State of New Hampshire/Genesis Behavioral Health-Summer Street Project | 129 Pleasant Street | Concord | 03301 | 43,215
State of New Hampshire/Home at Last | 129 Pleasant Street | Concord | 03301 | 176,145
State of New Hampshire/Homeless Management Information System—Balance of State | 129 Pleasant Street | Concord | 03301 | 77,996
State of New Hampshire/McGrath Street Permanent Housing | 129 Pleasant Street | Concord | 03301 | 102,169
State of New Hampshire/Next Steps Permanent Housing Program | 129 Pleasant Street | Concord | 03301 | 90,365
State of New Hampshire/NH Coordinated Entry | 129 Pleasant Street | Concord | 03301 | 351,403
State of New Hampshire/NHCADSV RRH | 129 Pleasant Street | Concord | 03301 | 259,356
State of New Hampshire/SCS Permanent Housing Project | 129 Pleasant Street | Concord | 03301 | 87,178
State of New Hampshire/SCS Rapid Re-Housing Program | 129 Pleasant Street | Concord | 03301 | 121,518
State of New Hampshire/SCS Shelter Plus Care | 129 Pleasant Street | Concord | 03301 | 281,824
State of New Hampshire/Sullivan County Fresh Steps PH Program | 129 Pleasant Street | Concord | 03301 | 120,404
State of New Hampshire/TCCAP PSH I | 129 Pleasant Street | Concord | 03301 | 17,203
State of New Hampshire/TCCAP PSH I Expansion | 129 Pleasant Street | Concord | 03301 | 75,689
Child and Family Services/Pine Street Transitional Living Program | P.O. Box 448 | Manchester | 03105 | 102,605
FIT/NHNH, Inc./Amherst Street Transitional Housing Program | 122 Market Street | Manchester | 03101 | 51,052
FIT/NHNH, Inc./Family Mill Permanent Housing Program | 122 Market Street | Manchester | 03101 | 208,449
FIT/NHNH, Inc./Manchester Permanent Housing Program IV | 122 Market Street | Manchester | 03101 | 54,663
FIT/NHNH, Inc./Millyard Transitional Housing Program | 122 Market Street | Manchester | 03101 | 112,869
FIT/NHNH, Inc./Millyard Transitional Housing Program Phase II | 122 Market Street | Manchester | 03101 | 44,621
FIT/NHNH, Inc./NH-501 CoC Planning Application FY2018 | 122 Market Street | Manchester | 03101 | 44,379
FIT/NHNH, Inc./Permanent Housing Program IX | 122 Market Street | Manchester | 03101 | 207,540
FIT/NHNH, Inc./Permanent Housing Program V | 122 Market Street | Manchester | 03101 | 55,377
FIT/NHNH, Inc./Permanent Housing Program VIII | 122 Market Street | Manchester | 03101 | 24,161
Harbor Homes, Inc./Permanent Housing 18 | 77 Northeastern Blvd | Nashua | 03062 | 47,238
Harbor Homes, Inc./Somerville Street Permanent Housing | 77 Northeastern Blvd | Nashua | 03062 | 78,469
State of New Hampshire/Homeless Management Information System—Manchester | 129 Pleasant Street | Concord | 03301 | 53,583
State of New Hampshire/Permanent Housing Program VI (FIT) | 129 Pleasant Street | Concord | 03301 | 73,614
The Way Home, Inc/TWH-RRH | 214 Spruce Street | Manchester | 03103 | 65,388
The Way Home, Inc/Your Way Home I | 214 Spruce Street | Manchester | 03103 | 55,505
The Way Home, Inc/Your Way Home III | 214 Spruce Street | Manchester | 03103 | 52,207
The Way Home, Inc/Your Way Home V | 214 Spruce Street | Manchester | 03103 | 53,626
The Way Home, Inc/Your Way Home VII & II | 214 Spruce Street | Manchester | 03103 | 158,471
Bridges: Domestic & Sexual Violence Support Services/DV Bonus Rapid Rehousing | 33 East Pearl Street | Nashua | 03060 | 52,220
Harbor Homes, Inc./GNCOC Planning Project 2018 | 77 Northeastern Blvd | Nashua | 03062 | 54,438
Harbor Homes, Inc./Permanent Housing 11C | 77 Northeastern Blvd | Nashua | 03062 | 30,244
Harbor Homes, Inc./Permanent Housing 13C | 77 Northeastern Blvd | Nashua | 03062 | 99,502
Harbor Homes, Inc./Permanent Housing 17 | 77 Northeastern Blvd | Nashua | 03062 | 77,642
Harbor Homes, Inc./Permanent Housing 3 | 77 Northeastern Blvd | Nashua | 03062 | 938,636
Harbor Homes, Inc./Permanent Housing 4C | 77 Northeastern Blvd | Nashua | 03062 | 316,332
Harbor Homes, Inc./Permanent Housing 6 | 77 Northeastern Blvd | Nashua | 03062 | 65,862
Harbor Homes, Inc./Permanent Housing 8C | 77 Northeastern Blvd | Nashua | 03062 | 69,150
State of New Hampshire/HMIS—Nashua | 129 Pleasant St | Concord | 03301 | 12,778
State of New Hampshire/Permanent Housing 2 | 129 Pleasant St | Concord | 03301 | 219,870
Atlantic County Government/FY2018 CoC Planning Grant | 1333 Atlantic Ave | Atlantic City | 08401 | 19,334
Career Opportunity Development/Permanent Supportive Housing | 901 Atlantic Avenue | Egg Harbor | 08215 | 43,366
Collaborative Support Programs of New Jersey/Atlantic CTY Jewish Family Services (CSPNJ) | 11 Spring Street | Freehold | 07728 | 60,057
Covenant House New Jersey, Inc/AC Mothers and Babies | 330 Washington Street | Newark | 07102 | 22,217
Covenant House New Jersey, Inc/Atlantic City Youth Housing Project | 330 Washington Street | Newark | 07102 | 25,992
Covenant House New Jersey, Inc/RAP | 330 Washington Street | Newark | 07102 | 83,490
Jewish Family Service of Atlantic County/Coordinated Entry & Assessment | 607 N Jerome Ave | Margate City | 08402 | 54,388
Jewish Family Service of Atlantic County/Coordinated Entry & Assessment Expansion | 607 N Jerome Ave | Margate City | 08402 | 38,668
Jewish Family Service of Atlantic County/JFS Housing First A | 607 N Jerome Ave | Margate City | 08402 | 130,109
New Jersey Housing and Mortgage Finance Agency/Atlantic HMIS FY 2018 | 637 South Clinton Avenue | Trenton | 08650 | 17,000
NJ Department of Community Affairs/3AA CoC Renewal 2018 | 101 S Broad Street 5th Floor | Trenton | 08625 | 119,108
AAH of Bergen County, Inc./AAH of Bergen County Permanent Supportive Housing | 267R Pascack Road | Township of Washington | 07676 | 265,663
Advance Housing, Inc./Advance Supportive Living Program (HoST) | 100 Hollister Road Suite 7 | Teterboro | 07608 | 403,561
Advance Housing, Inc./Fairview McKinney | 100 Hollister Road Suite 7 | Teterboro | 07608 | 182,384
Care Plus NJ, Inc./Rapid Re-Housing for Families & Individuals | 610 Valley Health Plaza | Paramus | 07652 | 579,523
Center For Hope And Safety (formerly Shelter Our Sisters)/B2T Renewal 2018 for FY2020 | 12 Overlook Avenue | Rochelle Park | 07662 | 23,020
Center For Hope And Safety (formerly Shelter Our Sisters)/E1 Renewal 2018 for FY2020 | 12 Overlook Avenue | Rochelle Park | 07662 | 15,801
County of Bergen/2018 CoC Planning Grant | One Bergen County Plaza | Hackensack | 07601 | 195,634
County of Bergen/Alfred J Thomas Home For Veterans | One Bergen County Plaza 2nd Floor | Hackensack | 07601 | 88,415
County of Bergen/Bergen County Homeless Management Information System (HMIS) | One Bergen County Plaza 2nd Floor | Hackensack | 07601 | 82,893
Greater Bergen Community Action, Inc./Ladder | 392 Main Street | Hackensack | 07601 | 88,110
Housing Authority of Bergen County/Family Guidance 2018-19 Renewal | One Bergen County Plaza—2nd Fl | Hackensack | 07601 | 120,866
Housing Authority of Bergen County/Housing Works 2 2018-19 Renewal | One Bergen County Plaza—2nd Fl | Hackensack | 07601 | 146,087
Housing Authority of Bergen County/Housing Works 4 Grant Consolidation 2018-19 Renewal | One Bergen County Plaza—2nd Fl | Hackensack | 07601 | 1,402,572
Housing Authority of Bergen County/Links 2 2018-19 Renewal | One Bergen County Plaza—2nd Fl | Hackensack | 07601 | 73,044
Housing Authority of Bergen County/Vantage Van Sciver 2018-19 Renewal | One Bergen County Plaza—2nd Fl | Hackensack | 07601 | 125,949
Vantage Health System, Inc./Knickerbocker Residence FY2018 | 2 Park Avenue | Dumont | 07628 | 231,417
Vantage Health System, Inc./LINKS 2018 APPLICATION | 2 Park Avenue | Dumont | 07628 | 51,256
Vantage Health System, Inc./OPENING DOORS ONE 2018 | 2 Park Avenue | Dumont | 07628 | 1,287,348
Legacy Treatment Services/Permanent SH for Persons with SMI | 1289 Route 38, Suite 102 | Hainesport | 08036 | 344,611
NJ Department of Community Affairs/3AC CoC Renewal 2018 | 101 S Broad Street 5th Floor | Trenton | 08625 | 83,731
Transitional Housing Services, Inc./2018 Alden Ave/Federal St Permanent Supportive Housing | 1841 Burlington-Mt. Holly Rd | Westampton | 08060 | 106,840
Camden County Council On Economic Opportunity, Inc./A. Wright/Liberty Place | 538 Broadway | Camden | 08103 | 169,142
Camden County Council On Economic Opportunity, Inc./OMAR | 538 Broadway | Camden | 08103 | 123,396
Cape Counseling Services/Cape Leasing 2018 | 1129 Route 9 South, Suite 1 | Cape May Court House | 08210 | 53,532
Cape Counseling Services/Cape Leasing Samaritan 2010 | 1129 Route 9 South, Suite 1 | Cape May Court House | 08210 | 132,044
Cape Counseling Services/Cape Rental Assistance | 1129 Route 9 South, Suite 1 | Cape May Court House | 08210 | 137,502
Cape May County/CoC Permanent Supportive Housing Program Grants | 4 Moore Road | Cape May Court House | 08210 | 52,364
Center For Family Services,Inc./CFS Coordinated Entry and Assessemnet | 584 Benson Street | Camden | 08103 | 197,300
Center For Family Services,Inc./CFS Mother Child Permanent Housing | 584 Benson Street | Camden | 08103 | 96,945
Center For Family Services,Inc./CFS Permanent Rapid Re-Housing DV & Aging out Youth | 584 Benson Street | Camden | 08103 | 173,421
Center For Family Services,Inc./CFS Tanyard Oaks | 584 Benson Street | Camden | 08103 | 54,348
Center For Family Services,Inc./CFS Vicitims of DV Cumberland | 584 Benson Street | Camden | 08103 | 34,853
Center For Family Services,Inc./CFS Victims of Domectic Violence | 584 Benson Street | Camden | 08103 | 29,520
Collaborative Support Programs of New Jersey/Camden Housing First | 11 Spring Street | Freehold | 07728 | 290,263
Collaborative Support Programs of New Jersey/Cumberland County Shelter Plus Care | 11 Spring Street | Freehold | 07728 | 52,581
Community Planning and Advocacy Council/Camden Housing First 2011 | 2500 McClellan Avenue Suite 110 | Pennsauken | 08109 | 1,028,427
Community Planning and Advocacy Council/CoC Planning Project Application FY2018 | 2500 McClellan Avenue Suite 110 | Pennsauken | 08109 | 144,990
Community Planning and Advocacy Council/HNPC Housing Outreach | 2500 McClellan Avenue Suite 110 | Pennsauken | 08109 | 9,232
New Jersey Housing and Mortgage Finance Agency/Camden Shelter Plus Care Program | 637 South Clinton Avenue P.O. Box 18550 | Trenton | 08650 | 313,512
New Jersey Housing and Mortgage Finance Agency/Southern New Jersey FY 2018 | 637 South Clinton Avenue | Trenton | 08650 | 50,192
NJ Department of Community Affairs/3AD & 3AJ CoC Renewal 2018 | 101 S Broad Street 5th Floor | Trenton | 08625 | 84,732
NJ Department of Community Affairs/3AQ CoC Renewal 2018 | 101 S Broad Street 5th Floor | Trenton | 08625 | 35,385
NJ Department of Community Affairs/3AY CoC Renewal 2018 | 101 S Broad Street 5th Floor | Trenton | 08625 | 86,958
Oaks Integrated Care/Oaks Integrated Care Housing for Chronically Homeless Individuals and Veterans | 770 Woodlane Road | Mount Holly | 08060 | 94,771
Volunteers of America Delaware Valley Inc/Camden County Supportive Housing | 531 Market St | Camden | 08102 | 91,592
Volunteers of America Delaware Valley Inc/Moving Forward Southern NJ | 531 Market St | Camden | 08102 | 166,082
City of East Orange/My Own Place | 44 City Hall Plaza | East Orange | 07019 | 389,520
Collaborative Support Programs of New Jersey/Essex COL Permanent Supportive Housing | 11 Spring Street | Freehold | 07728 | 152,609
Collaborative Support Programs of New Jersey/Essex County MHA Permanent Housing Consolidation | 11 Spring Street | Freehold | 07728 | 720,046
Collaborative Support Programs of New Jersey/Essex County Newark YMCA PSH Consolidation | 11 Spring Street | Freehold | 07728 | 397,938
Collaborative Support Programs of New Jersey/Essex County Project Live PSH Consolidation | 11 Spring Street | Freehold | 07728 | 253,083
Collaborative Support Programs of New Jersey/Essex County St Clare's | 11 Spring Street | Freehold | 07728 | 34,952
Collaborative Support Programs of New Jersey/Essex CSPNJ Permanent Housing 2018 | 11 Spring Street | Freehold | 07728 | 336,388
County of Essex/Almost Home III | 50 South Clinton Street, 3rd Floor Suite 3201 3th Floor—Suite 3201 | East Orange | 07018 | 272,050
County of Essex/NJ 504 CoC Planning Application FY2018 | 50 South Clinton Street | East Orange | 07018 | 293,000
Covenant House New Jersey, Inc/Essex Youth Coordinated Assessment | 330 Washington Street | Newark | 07102 | 61,000
Covenant House New Jersey, Inc/Essex Youth Housing Project | 330 Washington Street | Newark | 07102 | 141,140
Covenant House New Jersey, Inc/Newark HOME/Nancy's Place | 330 Washington Street | Newark | 07102 | 184,120
Covenant House New Jersey, Inc/Supportive Apartment Living Program | 330 Washington Street | Newark | 07102 | 104,666
Easter Seals New Jersey/ESNJ Essex HUD 2018 | 25 Kennedy Blvd., Suite 600 | East Brunswick | 08816 | 203,296
HBP RAIN Foundation/R.A.I.N Foundation Supportive Housing | 168 Park Street | East Orange | 07017 | 425,000
Integrity Inc/Mary's House | 103 Lincoln Park | Newark | 07102 | 248,400
Isaiah House, Inc./Next Step | 238 North Munn Ave | East Orange | 07017 | 247,968
Isaiah House, Inc./SHP for Disabled Single Women | 238 North Munn Ave | East Orange | 07017 | 45,633
New Jersey Housing and Mortgage Finance Agency/Essex HMIS FY 2018 | 637 South Clinton Avenue | Trenton | 08650 | 235,666
NJ Department of Community Affairs/3AE CoC Renewal 2018 | 101 S Broad Street 5th Floor | Trenton | 08625 | 176,657
NJ Department of Community Affairs/3AF CoC Renewal 2018 | 101 S Broad Street 5th Floor | Trenton | 08625 | 194,652
NJ Department of Community Affairs/3AG CoC Renewal 2018 | 101 S Broad Street 5th Floor | Trenton | 08625 | 156,264
NJ Department of Community Affairs/3AR CoC Renewal 2018 | 101 S Broad Street 5th Floor | Trenton | 08625 | 23,689
NJ Department of Community Affairs/3AT CoC Renewal 2018 | 101 S Broad StreeT 5th Floor | Trenton | 08625 | 220,342
NJ Department of Community Affairs/3AX CoC Renewal 2018 | 101 S Broad Street 5th Floor | Trenton | 08625 | 108,371
Positive Health Care, Incorporated/PHCI Permanent Supportive Housing | 333 Washington Street | Newark | 07102 | 190,727
Project Live, Inc/PLI Community Support Services | 465-475 Broadway | Newark | 07104 | 625,763
Catholic Charities of the Archdiocese of Newark/St. Jude's Oasis Renewal Application 2018 | 590 North 7th Street | Newark | 07107 | 76,524
Collaborative Support Programs of New Jersey/Hudson SHC Permanent Housing Bonus 2014 | 11 Spring Street | Freehold | 07728 | 580,778
Covenant House New Jersey, Inc/Hudson Youth Housing Project Consolidated | 330 Washington Street | Newark | 07102 | 239,852
Garden State Episcopal Community Development Corporation/All Saints Supportive Housing | 118 Summit Avenue | Jersey City | 07304 | 238,763
Garden State Episcopal Community Development Corporation /Coordinated Entry for Victims of Domestic Violence | 118 Summit Avenue | Jersey City | 07304 | 148,231
Garden State Episcopal Community Development Corporation /GSECDC Finally Home | 118 Summit Avenue | Jersey City | 07304 | 221,703
Garden State Episcopal Community Development Corporation/Hudson CASA Coordinated Entry | 118 Summit Avenue | Jersey City | 07304 | 667,516
Housing Authority of the City of Jersey City/Hoboken Shelter Program | 400 US Highway #1 Marion Gardens | Jersey City | 07306 | 291,280
Housing Authority of the City of Jersey City/Home At Last | 400 US Highway #1 Marion Gardens | Jersey City | 07306 | 169,776
Housing Authority of the City of Jersey City/Live United Housing Program 2018 | 400 US Highway #1 Marion Gardens | Jersey City | 07306 | 160,030
Hudson County Division of Housing and Community Development/NJ-506 CoC Planning Application FY2018 | 830 Bergen Avenue, 5B | Jersey City | 07306 | 223,534
New Jersey Housing and Mortgage Finance Agency/Hudson HMIS FY 2018 | 637 South Clinton Avenue | Trenton | 08650 | 69,000
North Hudson Community Action Corporation/NHCAC Rapid Rehousing | 800 31st St | Union City | 07087 | 605,500
The House of Faith, Inc./The House of Faith, Inc. Rapid Rehousing | 244 Ege Avenue | Jersey City | 07304 | 247,188
United Way of Hudson County/Collaborative Solutions | 857 Bergen Avenue | Jersey City | 07306 | 446,795
United Way of Hudson County/Life Starts | 857 Bergen Avenue | Jersey City | 07306 | 807,855
United Way of Hudson County/Live United | 857 Bergen Avenue | Jersey City | 07306 | 36,937
West New York Housing Authority/Homes for Heroes | 6100 Adams Street | West New York | 07093 | 305,617
WomenRising/Village of Families | 270 Fairmount Avenue | Jersey City | 07306 | 538,126
York Street Project/York Street Rapid Rehousing FY 2018 | 81 York Street | Jersey City | 07302 | 679,092
York Street Project/York Street TH/RRH Component | 81 York Street | Jersey City | 07302 | 437,096
Catholic Charities Diocese of Metuchen/CoC Rapid Re-Housing II for Families | 319 Maple St | Perth Amboy | 08861 | 310,360
Catholic Charities Diocese of Metuchen/CoC Rapid Re-Housing III for Families | 319 Maple St | Perth Amboy | 08861 | 63,174
Catholic Charities Diocese of Metuchen/Naomi's Way Permanent Housing Project for Families | 319 Maple St | Perth Amboy | 08861 | 198,405
Catholic Charities Diocese of MetucheN/Scattered Site Permanent Housing for Singles | 319 Maple St | Perth Amboy | 08861 | 86,243
Collaborative Support Programs of New Jersey/Ryan White S+C Program Middlesex | 11 Spring Street | Freehold | 07728 | 79,220
Coming Home of Middlesex County, Inc./Coordinated Assessment—Middlesex County | MC Admin Building, 75 Bayard St, 2nd floor | New Brunswick | 08901 | 77,070
First Call for Help dba NJ 211 Partnership/Single Point of Entry | 16 Wing Drive | Cedar Knolls | 07927 | 50,411
Housing Authority of the Township of Edison/Catholic Charities State Street Project | 14 Rev. Samuel Carpenter Boulevard | Edison | 08820 | 103,484
Housing Authority of the Township of Edison/Moving beyond abuse II | 14 Rev. Samuel Carpenter Boulevard | Edison | 08820 | 26,517
Housing Authority of the Township of Edison/S+C for the Chronically Homeless (2006 Housing First) | 14 Rev. Samuel Carpenter Boulevard | Edison | 08820 | 385,463
Housing Authority of the Township of Edison/Triple C Housing First Consolidation | 14 Rev. Samuel Carpenter Boulevard | Edison | 08820 | 123,468
Housing Authority of the Township of Edison/Triple C Housing First Leasing 2010 | 14 Rev. Samuel Carpenter Boulevard | Edison | 08820 | 34,974
Housing Authority of the Township of Edison/Triple C Housing First S+C 2010 | 14 Rev. Samuel Carpenter Boulevard | Edison | 08820 | 440,039
Housing Authority of the Township of Edison/Women Aware S+C 2010 | 14 Rev. Samuel Carpenter Boulevard | Edison | 08820 | 26,517
Middlesex County/Middlesex 2018 CoC Planning Grant | 75 Bayard Street | New Brunswick | 08901 | 90,867
Middlesex County/Middlesex County HMIS | 75 Bayard Street | New Brunswick | 08901 | 94,681
Middlesex County/Middlesex County Leasing 1 2011 | 75 Bayard Street | New Brunswick | 08901 | 193,784
Middlesex County/Middlesex County Leasing 2 2011 | 75 Bayard Street | New Brunswick | 08901 | 443,231
Middlesex County/Middlesex County Leasing 3 | 75 Bayard Street | New Brunswick | 08901 | 82,981
NJ Department of Community Affairs/3AL CoC Renewal 2018 | 101 S Broad Street 5th Floor | Trenton | 08625 | 134,808
Triple C Housing Inc./Renewal Project H2O Yr 11 ending 6/30/19 | 1520 Route 130 Suite 201 | North Brunswick | 08902 | 58,206
180 Turning Lives Around, Inc./RRH-DV set aside | One Bethany Rd Bldg 3, Suite 42 | Hazlet | 07730 | 209,008
180 Turning Lives Around, Inc./Transitional Housing-Rapid Rehousing | One Bethany Rd Bldg 3, Suite 42 | Hazlet | 07730 | 114,898
Collaborative Support Programs of New Jersey/Monmouth County Tenant Based Rental Assistance | 11 Spring Street | Freehold | 07728 | 94,406
County of Monmouth/2018 CoC Planning Grant | 3000 Kozloski Road P.O. Box 3000 | Freehold | 07728 | 103,345
County of Monmouth/Center House 2018 | 3000 Kozloski Road P.O. Box 3000 | Freehold | 07728 | 222,653
County of Monmouth/Homeward Bound Consolidation 2018 | 3000 Kozloski Road P.O. Box 3000 | Freehold | 07728 | 921,364
County of Monmouth/Ray of Light Consolidation 2018 | 3000 Kozloski Road P.O. Box 3000 | Freehold | 07728 | 86,018
Covenant House New Jersey, Inc/Monmouth Youth Housing Project Consolidated | 330 Washington Street | Newark | 07102 | 61,513
HABcore, Inc./HABcore Monmouth Leasing AP16a—FY18 Consolidated | P.O. Box 2361 | Red Bank | 07701 | 1,357,992
HABcore, Inc./HABcore Monmouth Leasing Expansion FY18 | P.O. Box 2361 | Red Bank | 07701 | 147,774
Mental Health Association of Monmouth County Inc./Coordinated Entry | 119 Avenue at the Common, Suite 5 | Shrewsbury | 07702 | 142,595
New Jersey Housing and Mortgage Finance Agency/Monmouth HMIS FY 2018 | 637 South Clinton Avenue | Trenton | 08650 | 81,727
Ocean Community Economic Action Now, Inc./2018 O.C.EA.N, Inc. Stonehurst Rental Assistance S+C | 40 Washington Street P.O. Box 1029 | Toms River | 08754 | 74,304
County of Morris/2018 Morris CoC Planning Grant | 1 Medical Drive | Morris Plains | 08950 | 51,648
Family Promise of Morris County/Keys to Housing Consolidated Program | 3 Executive Dr | Morris Plains | 07950 | 297,359
Family Promise of Morris County/Morris Leasing 2018 Renewal | 3 Executive Dr | Morris Plains | 07950 | 50,361
First Call for Help dba NJ 211 Partnership/No Wrong Door | 16 Wing Drive | Cedar Knolls | 07927 | 51,020
First Call for Help dba NJ 211 Partnership/No Wrong Door 2 | 16 Wing Drive | Cedar Knolls | 07927 | 59,616
Homeless Solutions, Inc./Permanent Supportive Housing for Safe Haven | 6 Dumont Place, 3rd floor | Morristown | 07960 | 184,671
Homeless Solutions, Inc./Safe Haven | 6 Dumont Place, 3rd floor | Morristown | 07960 | 170,933
Homeless Solutions, Inc./Transitional Housing Program | 6 Dumont Place, 3rd floor | Morristown | 07960 | 136,636
Jersey Battered Women's Service, Inc./Rapid Re-Housing for Victims of Domestic Violence | P.O. Box 1437 | Morristown | 07962 | 148,662
Jersey Battered Women's Service, Inc./Transitional Living Program | P.O. Box 1437 | Morristown | 07962 | 164,548
Mental Health Association of Essex and Morris, Inc./Step Off The Street Outreach | 300 Littleton Road 3rd floor | Parsippany | 07054 | 44,876
New Jersey AIDS Services/NJAS PSH—1 2018 renewal | 3 Executive Drive | Morris Plains | 07950 | 88,085
New Jersey AIDS Services/NJAS PSH—2 2018 renewal | 3 Executive Drive | Morris Plains | 07950 | 84,375
NJ Department of Community Affairs/3AK, 3AN & 3AP CoC Renewal 2018 | 101 S Broad Street 5th Floor | Trenton | 08625 | 406,423
Collaborative Support Programs of New Jersey/Ocean County Jay St S+C | 11 Spring Street | Freehold | 07728 | 23,162
Collaborative Support Programs of New Jersey/Ocean County OMHS S+C 2009 CSPNJ | 11 Spring Street | Freehold | 07728 | 123,924
Collaborative Support Programs of New Jersey/Ocean OMHS Leasing 2009 CSPNJ | 11 Spring Street | Freehold | 07728 | 14,634
Ending Homelessness Group/2018 CoC Planning Grant | 29 Alden Street Suite 1B | Cranford | 07016 | 40,934
Ending Homelessness Group/Ocean HPAC Coordinated Exit | 29 Alden Street Suite 1B | Cranford | 07016 | 94,787
HABcore, Inc./HABcore Capstan II—FY18 | P.O. Box 2361 | Red Bank | 07701 | 59,513
HABcore, Inc./HABcore Ocean Leasing AP14OC—FY18 Consolidated | P.O. Box 2361 | Red Bank | 07701 | 173,339
HABcore, Inc./HABcore Ocean RRH17OC—FY18 | P.O. Box 2361 | Red Bank | 07701 | 82,816
CUMAC/ECHO, Inc./Place of Promise | 223 Ellison St | Paterson | 07505 | 82,842
First Call for Help dba NJ 211 Partnership/A Place to Call Home | 16 Wing Drive | Cedar Knolls | 07927 | 100,000
Heart of Hannah Women's Center Inc./Heart of Hannah Last Step Rapid ReHousing 2018 | 45 E 21st St | Paterson | 07504 | 195,548
Housing Authority of The City of Paterson/New Destiny Family Success Center | 60 Van Houten Street P.O. Box H | Paterson | 07509 | 101,103
New Jersey Housing and Mortgage Finance Agency/Passaic HMIS FY 2018 | 637 South Clinton Avenue | Trenton | 08650 | 47,667
NJ Department of Community Affairs/3PY (Formerly MNJ) CoC Renewal 2018 | 101 S Broad Street 5th Floor | Trenton | 08625 | 931,916
Passaic County Department of Human Services/Passaic CoC Planning Grant 2018 | 401 Grand Street | Paterson | 07505 | 124,114
Passaic County Department of Human Services/Passaic County Housing First Leasing | 401 Grand Street | Paterson | 07505 | 91,807
Passaic County Department of Human Services/Passaic County Project Based Housing First | 401 Grand Street | Paterson | 07505 | 308,540
Passaic County Department of Human Services/Passaic County Sponsor Based Housing First | 401 Grand Street | Paterson | 07505 | 708,838
Passaic County Department of Human Services/Passaic County Tenant Based Housing First | 401 Grand Street | Paterson | 07505 | 1,270,027
Straight & Narrow, Inc./Straight & Narrow SRO | 508 Straight Street | Paterson | 07509 | 595,482
Salem County Inter Agency Council of Human Services /Leased Apartments Program 2018-19 | 98 Market Street 2nd Floor | Salem | 08079 | 135,510
Salem County Inter Agency Council of Human Services /Leased Apartments Program 2018-19 | 98 Market Street 2nd Floor | Salem | 08079 | 5,549
Alternatives, Inc./Permanent Supportive Housing I | 600 First Avenue | Raritan | 08869 | 101,867
Alternatives, Inc./Permanent Supportive Housing II | 600 First Avenue | Raritan | 08869 | 101,292
Alternatives, Inc./Permanent Supportive Housing IV | 600 First Avenue | Raritan | 08869 | 19,020
Alternatives, Inc./Somerset County Rapid Rehousing | 600 First Avenue | Raritan | 08869 | 19,437
Alternatives, Inc./Somerset County Rapid Rehousing II | 600 First Avenue | Raritan | 08869 | 136,558
Somerset County, NJ /2018 Somerset CoC Planning Grant | 20 Grove Street | Somerville | 08876 | 12,385
Visions and Pathways/Visions and Pathways Rapid Re-Housing Somerset | 49 Brahma Avenue P.O. Box 6871 | Bridgewater | 08807 | 56,066
City of Trenton/2018 CoC Planning Project | 319 East State Street | Trenton | 08608 | 116,523
City of Trenton/501-507 Perry Street Shelter + Care | 319 East State Street | Trenton | 08608 | 161,172
City of Trenton/Coordinated Assessment for Youth (Anchor House) | 319 East State Street | Trenton | 08608 | 100,000
City of Trenton/Housing First—Samaritan Trenton/Mercer 09 | 319 East State Street | Trenton | 08608 | 117,696
City of Trenton/Housing First—Samaritan Trenton/Mercer 10 | 319 East State Street | Trenton | 08608 | 37,635
City of Trenton/Housing First-Trenton/Mercer 10 | 319 East State Street | Trenton | 08608 | 14,077
City of Trenton/Housing Now | 319 East State Street | Trenton | 08608 | 234,669
City of Trenton/Joint TH-RRH for Pregnant and Parenting Youth | 319 East State Street | Trenton | 08608 | 123,437
City of Trenton/Joint TH-RRH for Survivors of Domestic Violence | 319 East State Street | Trenton | 08608 | 235,540
City of Trenton/Joint TH-RRH for Youth | 319 East State Street | Trenton | 08608 | 148,420
City of Trenton/Mercer PSH 1—CC On My Own | 319 East State Street | Trenton | 08608 | 239,361
City of Trenton/Mercer PSH 17—Mercer County Leasing 2011 Consolidation | 319 East State Street | Trenton | 08608 | 956,555
City of Trenton/Mercer PSH 3—GTBHC & CC Greenwood Ave Consolidation | 319 East State Street | Trenton | 08608 | 610,712
City of Trenton/Mercer PSH 8—Housing First Phase 1—Housing First Demonstration Initiative Consolidation | 319 East State Street | Trenton | 08608 | 663,316
City of Trenton/Mercer RRH 2—CoC GA | 319 East State Street | Trenton | 08608 | 114,482
City of Trenton/Permanent Supportive Housing for Chronically Homeless Women | 319 East State Street | Trenton | 08608 | 29,168
City of Trenton/PSH for Chronically Homeless Persons (Oaks) | 319 East State Street | Trenton | 08608 | 148,020
City of Trenton/Rapid Re-Housing for Families II | 319 East State Street | Trenton | 08608 | 177,415
City of Trenton/Rapid Re-Housing for Homeless Youth | 319 East State Street | Trenton | 08608 | 84,445
New Jersey Housing and Mortgage Finance Agency/Mercer HMIS FY 2018 | 637 South Clinton Avenue | Trenton | 08650 | 19,970
Elizabeth/Union County CoC/Bridgeway Supportive Housing 2018 | 10 Elizabethtown Plaza Administration Building | Elizabeth | 07207 | 27,451
Elizabeth/Union County CoC/Bridgeway/Elizabeth Housing Authority 2018 45U | 10 Elizabethtown Plaza Administration Building | Elizabeth | 07207 | 688,905
Elizabeth/Union County CoC/Bridgeway/Elizabeth Housing Authority 20U 2018 | 10 Elizabethtown Plaza Administration Building | Elizabeth | 07207 | 276,598
Elizabeth/Union County CoC/Bridgeway/Plainfield Housing Authority 11 U 2018 | 10 Elizabethtown Plaza Administration Building | Elizabeth | 07207 | 151,741
Elizabeth/Union County CoC/Bridgeway/Plainfield Housing Authority 15 U 2018 | 10 Elizabethtown Plaza Administration Building | Elizabeth | 07207 | 210,396
Elizabeth/Union County CoC/Bridgeway/Plainfield Housing Authority 25 U 2018 | 10 Elizabethtown Plaza Administration Building | Elizabeth | 07207 | 367,027
Elizabeth/Union County CoC/Community Access Institute Colonial/Morse 2018 | 10 Elizabethtown Plaza Administration Building | Elizabeth | 07207 | 27,412
Elizabeth/Union County CoC/Community Access Unlimited 96 &116 West Grand 2018 | 10 Elizabethtown Plaza Administration Building | Elizabeth | 07207 | 107,435
Elizabeth/Union County CoC/Community Access Unlimited Jacques 2018 | 10 Elizabethtown Plaza Administration Building | Elizabeth | 07207 | 173,065
Elizabeth/Union County CoC/Covenant House New Jersey—UC 2018 | 10 Elizabethtown Plaza Administration Building | Elizabeth | 07207 | 101,281
Elizabeth/Union County CoC/Elizabeth Coalition to House the Homeless/Gateway YMCA Joint TH & PH-RRH 2018 | 10 Elizabethtown Plaza Administration Building | Elizabeth | 07207 | 281,791
Elizabeth/Union County CoC/Gateway YMCA 14U-CH Fam 2018 | 10 Elizabethtown Plaza Administration Building | Elizabeth | 07207 | 412,813
Elizabeth/Union County CoC/Gateway YMCA I-PH 2018 | 10 Elizabethtown Plaza Administration Building | Elizabeth | 07207 | 304,405
Elizabeth/Union County CoC/Gateway YMCA Madison 2018 | 10 Elizabethtown Plaza Administration Building | Elizabeth | 07207 | 90,397
Elizabeth/Union County CoC/Homefirst 5U 2018 | 10 Elizabethtown Plaza Administration Building | Elizabeth | 07207 | 84,902
Elizabeth/Union County CoC/Homefirst/Plainfield Housing Authority 35U 2018 | 10 Elizabethtown Plaza Administration Building | Elizabeth | 07207 | 511,221
Elizabeth/Union County CoC/Housing Authority of the City of Elizabeth 2018 | 10 Elizabethtown Plaza Administration Building | Elizabeth | 07207 | 114,361
Elizabeth/Union County CoC/Union County Planning Project 2018 | 10 Elizabethtown Plaza Administration Building | Elizabeth | 07207 | 151,264
Elizabeth/Union County CoC/YWCA 2018 | 10 Elizabethtown Plaza Administration Building | Elizabeth | 07207 | 239,522
Advance Housing, Inc./Demarest Farms Service and Operating Program | 100 Hollister Road Suite 7 | Teterboro | 07608 | 39,864
Advance Housing, Inc./Sussex Supportive Living Program | 100 Hollister Road Suite 7 | Teterboro | 07608 | 87,425
Alternatives, Inc./Warren County Lease Based 2018 | 600 First Avenue | Raritan | 08869 | 67,012
County of Warren/FY 2018 CoC Planning Project | 1 Shotwell Drive | Belvidere | 07823 | 35,239
Easter Seals New Jersey/ESNJ Warren HUD 2018 | 25 Kennedy Blvd., Suite 600 | East Brunswick | 08816 | 8,848
Family Promise of Sussex County/2012 HUD Continuum of Care Program | P.O. Box 154 19 Church Street | Newton | 07860 | 325,640
Family Promise of Sussex County/Permanent Supportive Housing for the Chronically Homeless | P.O. Box 154 19 Church Street | Newton | 07860 | 246,441
New Jersey Housing and Mortgage Finance Agency/Tri County HMIS FY 2018 | 637 South Clinton Avenue | Trenton | 08650 | 7,457
NJ Department of Community Affairs/3AS & 3AW CoC Renewal 2018 | 101 S Broad Street 5th Floor | Trenton | 08625 | 86,580
Northwest NJ Community Action Partnership, Inc./Tri-County Leasing 2011 | 350 Marshall Street | Phillipsburg | 08865 | 262,449
Northwest NJ Community Action Partnership, Inc./Tri-County Leasing 2011 PH | 350 Marshall Street | Phillipsburg | 08865 | 71,058
Northwest NJ Community Action Partnership, Inc./Warren County Leasing 2010 | 350 Marshall Street | Phillipsburg | 08865 | 15,488
Albuquerque Health Care for the Homeless, Inc. /AHCH Coordinated Assessment | 1217 1st Street NW | Albuquerque | 87102 | 35,570
Albuquerque Health Care for the Homeless, Inc. /Supportive Housing | 1217 1st Street NW | Albuquerque | 87102 | 127,641
Barrett Foundation, Inc./Milagro Permanent Supportive Housing | 10300 Constitution Ave NE | Albuquerque | 87112 | 92,028
Bernalillo County/Renee's Project | 5901 Zuni SE | Albuquerque | 87108 | 49,292
Catholic Charities/Catholic Charities PSH | 2010 Bridge SW | Albuquerque | 87105 | 325,962
Catholic Charities/Partners in Housing | 2010 Bridge SW | Albuquerque | 87105 | 284,170
Catholic Charities/Partners in Housing Services | 2010 Bridge SW | Albuquerque | 87105 | 52,350
Catholic Charities/Proyecto La Luz RRH | 2010 Bridge SW | Albuquerque | 87105 | 227,489
City of Albuquerque/Albuquerque CoC Planning Project 2018 | 400 Marquette NW | Albuquerque | 87102 | 162,981
City of Albuquerque/CLNkids Rapid ReHousing Project | 400 Marquette NW | Albuquerque | 87102 | 216,855
City of Albuquerque/Rapid ReHousing—City of Albuquerque | 400 Marquette NW | Albuquerque | 87102 | 863,501
City of Albuquerque/Rental Assistance—AHCH/SMHC | 400 Marquette NW | Albuquerque | 87102 | 1,422,316
City of Albuquerque/Rental Assistance—TLS | 400 Marquette NW | Albuquerque | 87102 | 423,905
City of Albuquerque/Transitional Housing—City of Albuquerque | 400 Marquette NW | Albuquerque | 87102 | 138,982
New Mexico Coalition to End Homelessness/Albuquerque Coordinated Assessment System | 440 Cerrillos Road, Suite 4 P.O. Box 865 | Santa Fe | 87501 | 25,000
New Mexico Coalition to End Homelessness/Albuquerque Coordinated Entry Expansion 1 | 440 Cerrillos Road, Suite 4 P.O. Box 865 | Santa Fe | 87501 | 35,570
New Mexico Coalition to End Homelessness/Albuquerque Coordinated Entry Expansion 2 | 440 Cerrillos Road, Suite 4 P.O. Box 865 | Santa Fe | 87501 | 59,173
St Martin's Hospitality Center dba Hopeworks/Dual Diagnosis Outreach | 1120 2nd St NW | Albuquerque | 87102 | 92,700
St Martin's Hospitality Center dba Hopeworks/Welcome Home | 1120 2nd St NW | Albuquerque | 87102 | 92,800
Supportive Housing Coalition of New Mexico/Casita Bonita | 625 Silver SW Suite 420 | Albuquerque | 87102 | 507,522
Supportive Housing Coalition of New Mexico/Downtown @700-2nd Permanent Supportive Housing 2018 | 625 Silver SW Suite 420 | Albuquerque | 87102 | 70,510
Therapeutic Living Services, Inc./Frank Gray House | 5601 Domingo Road NE | Albuquerque | 87108 | 157,383
Therapeutic Living Services, Inc./Mesa House | 5601 Domingo Road NE | Albuquerque | 87108 | 109,233
Abode Inc/Abode Permanent Housing Project | 999 W Amador Ave | Las Cruces | 88005 | 53,915
Casa Milagro Inc./2018 Supportive Housing Program | 49 Camino Bajo | Santa Fe | 87508 | 103,444
Catholic Charities/Sandoval La Luz RRH 2018 | 2010 Bridge SW | Albuquerque | 87105 | 209,671
City of Santa Fe/Siringo Senior Pemanent Housing Program 2018 | P.O. Box 909 | Santa Fe | 87504 | 43,620
Community Against Violence, Inc./Community Against Violence DV/SA Housing Project 2018 | 945 Salazar Road | Taos | 87571 | 139,702
County of Sandoval/County of Sandoval (A) 2018 | 1500 Idalia Rd Bldg. D | Bernalillo | 87004 | 189,855
County of Sandoval/County of Sandoval (B) 2018 | 1500 Idalia Rd Bldg. D | Bernalillo | 87004 | 99,537
DreamTree Project, Inc./Casitas Transitional Living | 128 La Posta Rd | Taos | 87571 | 109,425
DreamTree Project, Inc./Taos Rehousing | 128 La Posta Rd | Taos | 87571 | 111,263
El Camino Real Housing Authority/Shelter Plus Care I (2018) | P.O. Box 00 301 Otero Avenue | Socorro | 87801 | 179,552
El Camino Real Housing Authority/Shelter Plus Care II (2018) | P.O. Box 00 301 Otero Avenue | Socorro | 87801 | 97,604
El Refugio, Inc./FY2018 Rapid Rehousing Project | 800 South Robert Street | Silver City | 88061 | 57,788
El Refugio, Inc./FY2018 Transitional Project | 800 South Robert Street | Silver City | 88061 | 65,725
La Casa, Inc./La Casa Rapid Rehousing 2018 | 800 S Walnut | Las Cruces | 88001 | 132,521
Mesilla Valley Community of Hope/Community Housing Connection I | 999 W Amador Ave | Las Cruces | 88005 | 311,464
Mesilla Valley Community of Hope/Community Housing Connection I Expansion | 999 W Amador Ave | Las Cruces | 88005 | 145,704
Mesilla Valley Community of Hope/Mesilla Valley Coordinated Entry SSO | 999 W Amador Ave | Las Cruces | 88005 | 93,090
Mesilla Valley Community of Hope/MV Rapid Rehousing Consolidation FY2018 | 999 W Amador Ave | Las Cruces | 88005 | 229,249
Mesilla Valley Community of Hope/Sue's House Permanent Supportive Housing | 999 W Amador Ave | Las Cruces | 88005 | 52,157
New Mexico Coalition to End Homelessness/Balance of State Coordinated Assessment 2018 | 440 Cerrillos Road, Suite 4 P.O. Box 865 | Santa Fe | 87501 | 55,786
New Mexico Coalition to End Homelessness/BoS Coordinated Entry DV 2018 | 440 Cerrillos Road, Suite 4 P.O. Box 865 | Santa Fe | 87501 | 41,528
New Mexico Coalition to End Homelessness/NM HMIS (1) 2018 | 440 Cerrillos Road, Suite 4 P.O. Box 865 | Santa Fe | 87501 | 163,714
New Mexico Coalition to End Homelessness/NM501 BoS CoC Planning Application FY2018 | 440 Cerrillos Road, Suite 4 P.O. Box 865 | Santa Fe | 87501 | 149,585
Rehoboth McKinley Christian Health Care Services, Inc./Freedom Springs Gallup PSH | 1901 Red Rock Dr | Gallup | 87301 | 206,830
Saint Elizabeth Shelter Corporation/Casa Cerrillos Permanent Housing for Disabled Homeless 2018 | 804 Alarid St | Santa Fe | 87505 | 163,242
Saint Elizabeth Shelter Corporation/Sonrisa Family Supportive Living Program 2018 | 804 Alarid St | Santa Fe | 87505 | 64,403
Samaritan House Inc/Samaritan House- Permanent Housing (2018) | 1000 Mills Ave | Las Vegas | 87701 | 124,532
San Juan County Partnership/SJCP PSH 2018 Consolidation | 3535 E 30th St, Suite 105 | Farmington | 87402 | 246,384
Santa Fe Community Housing Trust/Coc Renewal FY2018 | 1111 Agua Fria | Santa Fe | 87505 | 150,581
Santa Fe Community Housing Trust/Housing Trust Sites-FY2018 | 1111 Agua Fria | Santa Fe | 87505 | 140,296
Supportive Housing Coalition of New Mexico/Chuska Permanent Supportive Housing 2018 | 625 Silver SW Suite 420 | Albuquerque | 87102 | 66,222
The Life Link/Life Link La Luz PRA | 2325 Cerrillos Rd | Santa Fe | 87505 | 222,647
The Life Link/Life Link S+C AB | 2325 Cerrillos Rd | Santa Fe | 87505 | 680,467
Valencia Shelter Services for Victims of Domestic Violence/La Vida Nueva | 303 Luna Street | Los Lunas | 87031 | 242,245
Valencia Shelter Services for Victims of Domestic Violence/Safe at Home | 303 Luna Street | Los Lunas | 87031 | 324,911
Youth Shelters and Family Services/Rapid Rehousing for Homeless Youth in Santa Fe | 5686B Agua Fria St | Santa Fe | 87507 | 146,295
Clark County/CoC Planning Project 2018 | 1600 Pinto Lane | Las Vegas | 89106 | 396,128
Clark County/Healthy Living 2012 Bonus Project | 1600 Pinto Lane | Las Vegas | 89106 | 568,648
Clark County/HMIS Expansion 2018 | 1600 Pinto Lane | Las Vegas | 89106 | 860,154
Clark County/New Beginnings | 1600 Pinto Lane | Las Vegas | 89106 | 1,385,908
Clark County/STAR PSH | 1600 Pinto Lane | Las Vegas | 89106 | 1,607,673
Clark County/STAR TH-RRH Consolidated | 1600 Pinto Lane | Las Vegas | 89106 | 1,580,916
HELP of Southern Nevada/A New Start | 1640 East Flamingo Road Suite 100 | Las Vegas | 89119 | 585,581
HELP of Southern Nevada/HTH Combined | 1640 East Flamingo Road Suite 100 | Las Vegas | 89119 | 734,990
HELP of Southern Nevada/Shannon West Homeless Youth Center | 1640 East Flamingo Road Suite 100 | Las Vegas | 89119 | 210,282
HELP of Southern Nevada/SN CE Matching | 1640 East Flamingo Road Suite 100 | Las Vegas | 89119 | 202,502
HopeLink of Southern Nevada/HomeLink 2019 | 178 Westminster Way | Henderson | 89015 | 363,010
HopeLink of Southern Nevada/HomeLink Expansion 2019 | 178 Westminster Way | Henderson | 89015 | 360,129
Lutheran Social Services of Nevada/Welcome HoM.E | 4323 Boulder Highway | Las Vegas | 89121 | 287,104
Nevada Partnership for Homeless Youth/NPHY Independent Living Program | 4981 Shirley Street | Las Vegas | 89119 | 226,210
Safe Nest: Temporary Assistance for Domestic Crisis, Inc./Operation Fresh Start | 3900 Meadows Lane | Las Vegas | 89107 | 271,572
Southern Nevada Adult Mental Health Services /Stepping Stones | 6161 W Charleston | Las Vegas | 89146 | 1,516,860
Southern Nevada Children First/A Place Called Home | 3755 West Lake Mead Boulevard | North Las Vegas | 89032 | 193,616
Southern Nevada Children First/Moving Forward | 3755 West Lake Mead Boulevard | North Las Vegas | 89032 | 175,107
St Jude's Ranch for Children/Crossings TH-RRH | 200 Wilson Circle | Boulder City | 89005 | 470,793
St Jude's Ranch for Children/New Crossings | 200 Wilson Circle | Boulder City | 89005 | 328,319
The Salvation Army, A California Corporation/Housing the Homeless | 2900 Palomino Lane | Las Vegas | 89107 | 272,370
United States Veterans Initiative/CHAMPS-3 2018 | 525 E Bonanza Rd | Las Vegas | 89101 | 391,024
United States Veterans Initiative/PH-3 2018 | 525 E Bonanza Rd | Las Vegas | 89101 | 794,770
United States Veterans Initiative/VIP—2018 | 525 E Bonanza Rd | Las Vegas | 89101 | 122,854
WestCare Nevada, Inc./Safe Haven | 1711 Whitney Mesa Dr | Henderson | 89014 | 329,612
City of Reno/SSO-CE 2018 | 1 East First Street 12th Floor | Reno | 89501 | 30,000
Clark County/HMIS Northern Nevada 2018 | 1600 Pinto Lane | Las Vegas | 89106 | 122,822
Northern Nevada Adult Mental Health Services/Renewal FY 2018 | 480 Galletti Way | Sparks | 89431 | 406,376
Safe Embrace/Rapid Re-Housing of Domestic and Sexual Violence Victims in Washoe County | 780 E Lincoln Way | Sparks | 89434 | 195,076
Volunteers of America Northern California and Northern Nevada/ANCHOR | 3434 Marconi Ave | Sacramento | 95821 | 796,803
Volunteers of America Northern California and Northern Nevada/Rapid Rehousing for Families | 3434 Marconi Ave | Sacramento | 95821 | 87,659
Washoe County/FY18 PSH Renewal | 350 S Center Street 3rd Floor | Reno | 89501 | 86,328
Washoe County/FY18 Shelter + Care Renewal | 350 S Center Street 3rd Floor | Reno | 89501 | 119,616
Carson City Health & Human Services/SPC 1 | 900 E Long Street | Carson City | 89706 | 16,366
Carson City Health & Human Services/SPC II | 900 E Long Street | Carson City | 89706 | 30,946
Churchill County /RRH 4—FY2020 FINAL | 485 West B Street Suite #105 | Fallon | 89406 | 71,388
Clark County/HMIS Rural Nevada 2018 | 1600 Pinto Lane | Las Vegas | 89106 | 78,341
Division of Public and Behavioral Health, Rural Clinics/Rural Shelter Plus Care | Rural Clinics 727 Fairview Drive, Suite A | Carson City | 89701 | 176,028
Frontier Community Action Agency/NV-502-Humboldt County Permanent Housing Project | 657 Anderson Street | Winnemucca | 89445 | 27,004
Frontier Community Action Agency/NV-502-Humboldt County Expansion Grant | 657 Anderson Street | Winnemucca | 89445 | 44,290
Frontier Community Action Agency/NV-502-Humboldt County Rapid Rehousing Project | 657 Anderson Street | Winnemucca | 89445 | 35,139
Nevada Department of Health and Human Services/NV-502 CoC Planning Application FY 2018 | 4150 Technology Way, Ste 300 | Carson City | 89706 | 17,500
Nevada Outreach Training Organization—No to Abuse/DV Bonus Project FY2018 | 621 S Blagg | Pahrump | 89048 | 61,921
Nevada Rural Housing Authority/Supportive Services Renewal Application | 3695 Desatoya Dr | Carson City | 89701 | 39,629
Catholic Charities of Rochester dba Catholic Family Center/Consolidated Lafayette Housing Program | 87 N Clinton Ave | Rochester | 14604 | 270,257
Coordinated Care Services, Inc. /Coordinated Entry | 1099 Jay Street, Building J | Rochester | 14611 | 252,622
Delphi Drug and Alcohol Council Inc/HomeSafeConsolidated | 835 West Main Street | Rochester | 14611 | 489,862
Open Door Mission, Inc./Open Door PSH-CH for Households with Children | 156 Plymouth Avenue, N | Rochester | 14608 | 196,526
Person Centered Housing Options Inc./Going Home 1 | 1136 Buffalo Road | Rochester | 14624 | 553,570
Person Centered Housing Options Inc./PCHO Housing First | 1136 Buffalo Road | Rochester | 14624 | 955,638
Person Centered Housing Options Inc./PCHO RRH | 1136 Buffalo Road | Rochester | 14624 | 128,173
Person Centered Housing Options Inc./PCHO RRH II | 1136 Buffalo Road | Rochester | 14624 | 472,901
Providence Housing Development Corporation/Providence Approaching Home I | 1150 Buffalo Road | Rochester | 14624 | 231,691
Providence Housing Development Corporation/Providence PBV Permanent Housing | 1150 Buffalo Road | Rochester | 14624 | 595,688
Providence Housing Development Corporation/Providence Shelter Plus Care | 1150 Buffalo Road | Rochester | 14624 | 467,824
Providence Housing Development Corporation/Providence Supportive Suburban Housing Initiative | 1150 Buffalo Road | Rochester | 14624 | 280,989
Providence Housing Development Corporation/Providence Veterans Permanent Housing Program | 1150 Buffalo Road | Rochester | 14624 | 182,082
Rochester Housing Authority/RHA/Frederick Douglass Apartments PSH-PBRA #24 | 675 West Main Street | Rochester | 14611 | 24,797
Rochester Housing Authority/RHA/1630 Dewey Ave PSH-PBRA #23 | 675 West Main Street | Rochester | 14611 | 245,915
Rochester Housing Authority/RHA/JPC PSH-RA #18 | 675 West Main Street | Rochester | 14611 | 135,209
Rochester Housing Authority/RHA/Monroe County DHS PSH-RA #5 | 675 West Main Street | Rochester | 14611 | 646,212
Rochester Housing Authority/RHA/PCHO PSH-RA #27 | 675 West Main Street | Rochester | 14611 | 196,406
Rochester Housing Authority/RHA/Salvation Army Chronically Homeless PSH-RA #12 | 675 West Main Street | Rochester | 14611 | 391,189
Rochester Housing Authority/RHA/Son House PSH-PBRA #26 | 675 West Main Street | Rochester | 14611 | 94,061
Rochester Housing Authority/RHA/Strong Ties PSH-RA #8 | 675 West Main Street | Rochester | 14611 | 168,448
Rochester Housing Authority/RHA/VOA Family Housing Program PSH-RA #21 | 675 West Main Street | Rochester | 14611 | 102,048
Rochester Housing Authority/RHA/VOA PSH-RA #7 | 675 West Main Street | Rochester | 14611 | 572,506
Rochester Housing Authority/RHA/VOC PSH-RA #6 | 675 West Main Street | Rochester | 14611 | 81,934
Rochester Housing Authority/RHA/Voter's Block PSH-PBRA #20 | 675 West Main Street | Rochester | 14611 | 78,247
Rochester/Monroe County Homeless Continuum of Care, Inc./CoC Planning Project FY2018 | 560 West Main Street | Rochester | 14608 | 362,401
Rochester/Monroe County Homeless Continuum of Care, Inc./HMIS for RMCCoC | 560 West Main Street | Rochester | 14608 | 251,880
Spiritus Christi Prison Outreach, Inc./SCPO TH/RRH | 934 Culver Road | Rochester | 14609 | 278,402
Spiritus Christi Prison Outreach, Inc./Voter Block Community | 934 Culver Road | Rochester | 14609 | 41,327
The Center for Youth Services, Inc./Parenting Teens | 905 Monroe Avenue | Rochester | 14620 | 83,935
The Center for Youth Services, Inc./Transition Age Youth Rapid Rehousing Project—Consolidated | 905 Monroe Avenue | Rochester | 14620 | 255,581
The Center for Youth Services, Inc./Transitional Living Program | 905 Monroe Avenue | Rochester | 14620 | 129,288
The Salvation Army, a New York Corporation/Permanent Housing Supportive Services | 440 West Nyack Road | West Nyack | 10994 | 39,070
The Salvation Army, a New York Corporation/Safe Haven | 440 West Nyack Road | West Nyack | 10994 | 254,018
Trillium Health, Inc/Trillium Health Permanent Supportive Housing—Families | 259 Monroe Avenue | Rochester | 14607 | 342,036
Trillium Health, Inc/Trillium Health Permanent Supportive Housing Renewal | 259 Monroe Avenue | Rochester | 14607 | 146,556
Volunteers of America of Western New York, Inc. /VOA Scattered Site Permanent Supportive Housing for CH Households | 214 Lake Avenue | Rochester | 14608 | 286,591
Volunteers of America of Western New York, Inc. /VOA's Home Forward PSH | 214 Lake Avenue | Rochester | 14608 | 497,674
Volunteers of America of Western New York, Inc. /VOAWNY Permanent Supportive Housing in Rochester, NY—Foundation House | 214 Lake Avenue | Rochester | 14608 | 256,325
Volunteers of America of Western New York, Inc. /VOAWNY's Reentry Rapid Rehousing Program | 214 Lake Avenue | Rochester | 14608 | 277,458
Volunteers of America of Western New York, Inc. /Volunteers of America of WNY's Permanent Supportive Housing for Chronically Homeless Individuals (Pinnacle Heights) | 214 Lake Avenue | Rochester | 14608 | 242,132
Volunteers of America of Western New York, Inc. /Volunteers of America of WNY's Project ReDirect | 214 Lake Avenue | Rochester | 14608 | 169,752
Volunteers of America of Western New York, Inc. /Volunteers of America's of WNY's Permanent Supportive Housing | 214 Lake Avenue | Rochester | 14608 | 158,366
YWCA of Rochester and Monroe County/DV-Rapid Rehousing | 175 North Clinton Ave | Rochester | 14604 | 313,841
YWCA of Rochester and Monroe County/PSH for Chronically Homeless | 175 North Clinton Ave | Rochester | 14604 | 192,006
YWCA of Rochester and Monroe County/YWCA Family Rapid Re-Housing | 175 North Clinton Ave | Rochester | 14604 | 118,008
Allegany County Community Opportinities & Rural Development/FY2018 RRH Supportive Housing Project Consolidated | 84 Schuyler Street P. O. Box 573 | Belmont | 14813 | 92,262
Catholic Charities of Chemung/Schuyler/Bonus Permanent Supportive Housing | 215 East Church Street | Elmira | 14901 | 106,628
Catholic Charities of Chemung/Schuyler/HMIS | 215 East Church Street | Elmira | 14901 | 100,058
Catholic Charities of Chemung/Schuyler/PSH Consolidated | 215 East Church Street | Elmira | 14901 | 241,117
Catholic Charities of Chemung/Schuyler/RR Consolidated | 215 East Church Street | Elmira | 14901 | 154,327
Catholic Charities of Chemung/Schuyler/S+C Permanent Supported Housing | 215 East Church Street | Elmira | 14901 | 252,276
Chances and Changes, Inc./SHP Permanent Housing Livingston (2018) | 8 Genesee St | Mt. Morris | 14510 | 60,290
Corporation for AIDS Research, Education and Services, Inc./Elmira/501 CoC Planning Project (2018) | 200 Henry Johnson Blvd., Suite 4 | Albany | 12210 | 45,597
Steuben Churchpeople Against Poverty, Inc/Livingston Supportive Housing (FY 2018) | 26 Bridge St | Corning | 14830 | 51,220
Steuben Churchpeople Against Poverty, Inc/Steuben County S+C (FY 2018) | 26 Bridge St | Corning | 14830 | 402,914
Steuben Churchpeople Against Poverty, Inc/Transitional to Permanent Supportive Housing (FY 2018) | 26 Bridge St | Corning | 14830 | 67,649
The Salvation Army, a New York Corporation/Elmira Salvation Army POH Rapid Rehousing | 440 West Nyack Road | West Nyack | 10994 | 135,117
Corporation for AIDS Research, Education and Services, Inc./Albany County CoC Planning Project (2018) | 200 Henry Johnson Blvd., Suite 4 | Albany | 12210 | 148,063
Corporation for AIDS Research, Education and Services, Inc./Albany County CoC UFA Project (2018) | 200 Henry Johnson Blvd., Suite 4 | Albany | 12210 | 98,709
Corporation for AIDS Research, Education and Services, Inc./UFA: AHC—Operations at 280 Clinton Ave (2018) | 200 Henry Johnson Blvd., Suite 4 | Albany | 12210 | 21,400
Corporation for AIDS Research, Education and Services, Inc./UFA: AHC—PSH for Homeless Veterans (2018) | 200 Henry Johnson Blvd., Suite 4 | Albany | 12210 | 47,816
Corporation for AIDS Research, Education and Services, Inc./UFA: AHC—RRH for Homeless Veterans (2018) | 200 Henry Johnson Blvd., Suite 4 | Albany | 12210 | 100,102
Corporation for AIDS Research, Education and Services, Inc./UFA: AHC—S Plus C for Homeless Veterans with Disabilities (2018) | 200 Henry Johnson Blvd., Suite 4 | Albany | 12210 | 297,055
Corporation for AIDS Research, Education and Services, Inc./UFA: AHC—Veterans House ADDITION (2018) | 200 Henry Johnson Blvd., Suite 4 | Albany | 12210 | 43,977
Corporation for AIDS Research, Education and Services, Inc./UFA: AHC—Veterans House MAIN (2018) | 200 Henry Johnson Blvd., Suite 4 | Albany | 12210 | 64,712
Corporation for AIDS Research, Education and Services, Inc./UFA: AHC—Walter Street Residence (2018) | 200 Henry Johnson Blvd., Suite 4 | Albany | 12210 | 46,000
Corporation for AIDS Research, Education and Services, Inc./UFA: Albany County Portion of the Capital Region HMIS (2018) | 200 Henry Johnson Blvd., Suite 4 | Albany | 12210 | 33,968
Corporation for AIDS Research, Education and Services, Inc./UFA: Albany HMIS Expansion (2018) | 200 Henry Johnson Blvd., Suite 4 | Albany | 12210 | 48,463
Corporation for AIDS Research, Education and Services, Inc./UFA: CAPS—100 Clinton Ave (2018) | 200 Henry Johnson Blvd., Suite 4 | Albany | 12210 | 111,482
Corporation for AIDS Research, Education and Services, Inc./UFA: CARES—PBRA for Homeless Persons Living with HIV/AIDS (Yr 2) (2018) | 200 Henry Johnson Blvd., Suite 4 | Albany | 12210 | 53,395
Corporation for AIDS Research, Education and Services, Inc./UFA: CARES—S Plus C for Persons with Disabilities (Yr 3) 2018 | 200 Henry Johnson Blvd., Suite 4 | Albany | 12210 | 610,020
Corporation for AIDS Research, Education and Services, Inc./UFA: Damien Center—PSH (2018) | 200 Henry Johnson Blvd., Suite 4 | Albany | 12210 | 66,484
Corporation for AIDS Research, Education and Services, Inc./UFA: Damien Center—S Plus C (2018) | 200 Henry Johnson Blvd., Suite 4 | Albany | 12210 | 63,858
Corporation for AIDS Research, Education and Services, Inc./UFA: Damien Center—The Madison Apartments (2018) | 200 Henry Johnson Blvd., Suite 4 | Albany | 12210 | 135,769
Corporation for AIDS Research, Education and Services, Inc./UFA: Equinox—Project Break Free (2018) | 200 Henry Johnson Blvd., Suite 4 | Albany | 12210 | 219,109
Corporation for AIDS Research, Education and Services, Inc./UFA: Equinox—Transitional Living (2018) | 200 Henry Johnson Blvd., Suite 4 | Albany | 12210 | 184,010
Corporation for AIDS Research, Education and Services, Inc./UFA: Equinox DV Coordinated Entry | 200 Henry Johnson Blvd., Suite 4 | Albany | 12210 | 71,223
Corporation for AIDS Research, Education and Services, Inc./UFA: Equinox DV RRH (2018) | 200 Henry Johnson Blvd., Suite 4 | Albany | 12210 | 219,109
Corporation for AIDS Research, Education and Services, Inc./UFA: HAC—SRO (2018) | 200 Henry Johnson Blvd., Suite 4 | Albany | 12210 | 76,854
Corporation for AIDS Research, Education and Services, Inc./UFA: HATAS—Mental Health TBRA (2018) | 200 Henry Johnson Blvd., Suite 4 | Albany | 12210 | 63,786
Corporation for AIDS Research, Education and Services, Inc./UFA: HATAS—Pathways I (2018) | 200 Henry Johnson Blvd., Suite 4 | Albany | 12210 | 348,763
Corporation for AIDS Research, Education and Services, Inc./UFA: HATAS—Pathways II (2018) | 200 Henry Johnson Blvd., Suite 4 | Albany | 12210 | 399,942
Corporation for AIDS Research, Education and Services, Inc./UFA: HATAS—S Plus C (2018) | 200 Henry Johnson Blvd., Suite 4 | Albany | 12210 | 260,974
Corporation for AIDS Research, Education and Services, Inc./UFA: HATAS—The Next Step (2018) | 200 Henry Johnson Blvd., Suite 4 | Albany | 12210 | 61,032
Corporation for AIDS Research, Education and Services, Inc./UFA: HATAS Coordinated Entry (2018) | 200 Henry Johnson Blvd., Suite 4 | Albany | 12210 | 38,182
Corporation for AIDS Research, Education and Services, Inc./UFA: Hope House—PSH | 200 Henry Johnson Blvd., Suite 4 | Albany | 12210 | 176,191
Corporation for AIDS Research, Education and Services, Inc./UFA: IPH—Hope Through Housing (2018) | 200 Henry Johnson Blvd., Suite 4 | Albany | 12210 | 61,362
Corporation for AIDS Research, Education and Services, Inc./UFA: IPH—Sheridan Ave I (2018) | 200 Henry Johnson Blvd., Suite 4 | Albany | 12210 | 125,025
Corporation for AIDS Research, Education and Services, Inc./UFA: IPH—Sheridan Ave II (2018) | 200 Henry Johnson Blvd., Suite 4 | Albany | 12210 | 66,600
Corporation for AIDS Research, Education and Services, Inc./UFA: Legal Aid—RRH for Families (2018) | 200 Henry Johnson Blvd., Suite 4 | Albany | 12210 | 89,508
Corporation for AIDS Research, Education and Services, Inc./UFA: Legal Aid—RRH for Families Expansion (2018) | 200 Henry Johnson Blvd., Suite 4 | Albany | 12210 | 91,755
Corporation for AIDS Research, Education and Services, Inc./UFA: MultiDivision Housing—IPH HATAS SCCC Collaborative (2018) | 200 Henry Johnson Blvd., Suite 4 | Albany | 12210 | 406,976
Corporation for AIDS Research, Education and Services, Inc./UFA: RSS Albany—SAIL (2018) | 200 Henry Johnson Blvd., Suite 4 | Albany | 12210 | 79,852
Corporation for AIDS Research, Education and Services, Inc./UFA: SCCC—Individual Supported Housing (2018) | 200 Henry Johnson Blvd., Suite 4 | Albany | 12210 | 64,884
Corporation for AIDS Research, Education and Services, Inc./UFA: SCCC—Supported Housing Plus (2018) | 200 Henry Johnson Blvd., Suite 4 | Albany | 12210 | 102,156
Corporation for AIDS Research, Education and Services, Inc./UFA: SPARC—S Plus C (2018) | 200 Henry Johnson Blvd., Suite 4 | Albany | 12210 | 266,254
Corporation for AIDS Research, Education and Services, Inc./UFA: Support Ministries—Arvilla House (2018) | 200 Henry Johnson Blvd., Suite 4 | Albany | 12210 | 97,149
Corporation for AIDS Research, Education and Services, Inc./UFA: Support Ministries—Project HELP (2018) | 200 Henry Johnson Blvd., Suite 4 | Albany | 12210 | 101,447
Cattaraugus Community Action, Inc. /DV Rapid Rehousing Program | 25 Jefferson Street | Salamanca | 14779 | 50,756
Cattaraugus Community Action, Inc. /Empowering the Homeless Toward Permanent Housing Solutions | 25 Jefferson Street | Salamanca | 14779 | 61,703
Housing Options Made Easy, Inc./Catt. CoC Planning Grant | 75 Jamestown Street | Gowanda | 14070 | 9,577
Housing Options Made Easy, Inc./Catt. Permanent Housing for Individuals with Mental Illness 2018 | 75 Jamestown Street | Gowanda | 14070 | 152,720
AIDS Community Resources, Inc./Rapid Rehousing for LGBT Youth | 627 W Genesee St | Syracuse | 13204 | 158,381
Catholic Charities of the Roman Catholic Diocese of Syracuse, NY/Catholic Charities Rapid Rehousing Consolidated | 1654 West Onondaga Street | Syracuse | 13204 | 276,226
Catholic Charities of the Roman Catholic Diocese of Syracuse, NY/Expansion of Permanent Housing for the Chronically Homeless 2 | 1654 West Onondaga Street | Syracuse | 13204 | 164,726
Catholic Charities of the Roman Catholic Diocese of Syracuse, NY/Housing First for Individuals and Families | 1654 West Onondaga Street | Syracuse | 13204 | 853,003
Catholic Charities of the Roman Catholic Diocese of Syracuse, NY/Permanent Housing for the Chronically Homeless 1 | 1654 West Onondaga Street | Syracuse | 13204 | 706,532
Catholic Charities of the Roman Catholic Diocese of Syracuse, NY/Permanent Housing for the Chronically Homeless 2 | 1654 West Onondaga Street | Syracuse | 13204 | 1,457,286
Cayuga/Seneca Community Action Agency, Inc./Rapid Rehousing Program | 89 York St, Suite 1 | Auburn | 13021 | 155,477
Central New York Services, Inc./Recovery Permanent Supportive Housing Program Combined | 518 James Street Suite 240 | Syracuse | 13203 | 414,617
Central New York Services, Inc./Susan's Place | 518 James Street Suite 240 | Syracuse | 13203 | 128,625
Chadwick Residence, Inc./Supporitve Housing | 335 Valley Drive | Syracuse | 13207 | 272,566
Chapel House Inc/Chapel House PSH Expansion 2018 | 36 Franklin St | Auburn | 13021 | 95,694
Chapel House Inc/Supported Housing Program FY 2018 | 36 Franklin St | Auburn | 13021 | 123,769
Helio Health Inc./FAST Housing | 329 North Salina Street, Suite 400 | Syracuse | 13203 | 217,012
Helio Health Inc./Helio Housing First | 329 North Salina Street, Suite 400 | Syracuse | 13203 | 954,835
Helio Health Inc./K.E.E.S. II | 329 North Salina Street, Suite 400 | Syracuse | 13203 | 681,136
Liberty Resources, Inc./Permanent Supportive Housing for Individuals and Families | 1045 James Street | Syracuse | 13203 | 386,088
Onondaga County/Onondaga County DSS-ES HUD Rental Assistance Program | 421 Montgomery St. 12th fl. | Syracuse | 13202 | 742,542
Oswego County Opportunities Inc/OCO—PSH | 239 Oneida Street | Fulton | 13069 | 117,834
Oswego County Opportunities Inc/OCO—RRH | 239 Oneida Street | Fulton | 13069 | 266,248
The Salvation Army, a New York Corporation/Barnabas Rapid Rehousing | 440 West Nyack Road | West Nyack | 10994 | 234,048
The Salvation Army, a New York Corporation/HALE RRH | 440 West Nyack Road | West Nyack | 10994 | 375,148
The Salvation Army, a New York Corporation/State Street Apartments | 440 West Nyack Road | West Nyack | 10994 | 251,846
United Way of Central New York/CoC Planning Project Application FY2018 | 518 James Street | Syracuse | 13203 | 254,279
United Way of Central New York/Homeless Management Information System (HMIS) Consolidated Project | 518 James Street | Syracuse | 13203 | 184,380
Bethesda House of Schenectady, Inc./Beacon Residential Program 2018 | 834 State St | Schenectady | 12307 | 96,470
Bethesda House of Schenectady, Inc./Coordinated Entry Schenectady Co 2018 | 834 State St | Schenectady | 12307 | 53,419
Bethesda House of Schenectady, Inc./Liberty Consolidated 2018 | 834 State St | Schenectady | 12307 | 263,413
Bethesda House of Schenectady, Inc./Pathways to the Future 2018 | 834 State St | Schenectady | 12307 | 132,584
Bethesda House of Schenectady, Inc./The Lighthouse 2018 | 834 State St | Schenectady | 12307 | 182,174
City of Schenectady/YMCA Schenectady—S Plus C DUP09A 10 unit (2018) | 105 Jay Street City Hall, Department of Development Room 14 | Schenectady | 12305 | 67,141
City of Schenectady/YMCA Schenectady—S Plus C DUP09B 20 unit (2018) | 105 Jay Street City Hall, Department of Development Room 14 | Schenectady | 12305 | 134,282
Corporation for AIDS Research, Education and Services, Inc./Schenectady County CoC Planning Project (2018) | 200 Henry Johnson Blvd., Suite 4 | Albany | 12210 | 115,799
Corporation for AIDS Research, Education and Services, Inc./Schenectady County Portion of the Capital Region HMIS (2018) | 200 Henry Johnson Blvd., Suite 4 | Albany | 12210 | 30,571
Mohawk Opportunities, Inc./Mohawk Opportunities- CoC 14 Unit (2018) | 201 Nott Terrace | Schenectady | 12307 | 137,373
Mohawk Opportunities, Inc./Mohawk Opportunities- PSH (2018) | 201 Nott Terrace | Schenectady | 12307 | 148,638
New Choices Recovery Center/New Choices Recovery Center—S Plus C (2018) | 302 State Street | Schnectady | 12305 | 678,160
Safe Inc., of Schenectady/Safe Inc. of Sch'dy—Project Safe/LifeSkills Program (2018) | 1344 Albany Street | Schenectady | 12304 | 49,202
Schenectady Community Action Program, Inc./SCAP—CoC RRH (2018) | 913 Albany Street | Schenectady | 12307 | 347,424
Schenectady Community Action Program, Inc./SCAP—PSH 27 (2018) | 913 Albany Street | Schenectady | 12307 | 554,764
Schenectady Community Action Program, Inc./SCAP—Sojourn House (2018) | 913 Albany Street | Schenectady | 12307 | 169,065
Schenectady Municipal Housing Authority/SMHA Shelter Plus Care (2018) | 375 Broadway | Schenectady | 12305 | 567,569
YWCA of Schenectady/YWCA of Schenectady-Rosa's House Expansion (2018) | 44 Washington Ave | Schenectady | 12305 | 326,915
Bestself Behavioral Health/BestSelf Harambee House | 255 Delaware Avenue | Buffalo | 14202 | 436,235
Cazenovia Recovery Systems, Inc./Cazenovia Niagara County Shelter Plus Care | 2671 Main Street | Buffalo | 14214 | 116,704
Cazenovia Recovery Systems, Inc./Cazenovia Permanent Supportive Housing for Chronically Homeless | 2671 Main Street | Buffalo | 14214 | 454,768
Community Missions of Niagara Frontier, Inc./Community Missions COC RRH | 1570 Buffalo Avenue | Niagara Falls | 14303 | 297,241
Compass House/Transitional Housing/RRH Compass House | 1451 Main Street | Buffalo | 14209 | 269,586
EHS, Inc./Evergreen PSH Consolidated | 206 South Elmwood Avenue | Buffalo | 14201 | 690,001
Erie County Department of Mental Health/ECDMH Chronic Homeless I | 95 Franklin Street | Buffalo | 14202 | 441,582
Erie County Department of Mental Health/ECDMH Continuum of Care I | 95 Franklin Street | Buffalo | 14202 | 2,038,985
Erie County Department of Mental Health/ECDMH Continuum of Care II | 95 Franklin Street | Buffalo | 14202 | 2,255,646
Erie County Department of Mental Health/ECDMH Continuum of Care III | 95 Franklin Street | Buffalo | 14202 | 218,519
Erie County Department of Mental Health/ECDMH Shelter Plus Care VI | 95 Franklin Street | Buffalo | 14202 | 335,952
Erie County Department of Mental Health/ECDMH-CH-PSH Expansion I | 95 Franklin Street | Buffalo | 14202 | 166,681
Gerard Place Housing Development Fund Company, Inc./Gerard Place PSH for Chronically Homeless Single Parent Families | 2515 Bailey Avenue | Buffalo | 14215 | 259,041
Hispanos Unidos de Buffalo, Inc./Hispanos Unidos de Buffalo RRH | 254 Virginia St | Buffalo | 14201 | 200,346
Homeless Alliance of Western New York, Inc./NY508 HMIS | 960 Main St | Buffalo | 14202 | 210,255
Homeless Alliance of Western New York, Inc./NY508 Planning | 960 Main St | Buffalo | 14202 | 499,873
Polish Community Center of Buffalo/Matt Urban Hope Gardens | 1081 Broadway | Buffalo | 14212 | 447,896
Polish Community Center of Buffalo/Matt Urban Housing First | 1081 Broadway | Buffalo | 14212 | 809,160
Polish Community Center of Buffalo/Matt Urban Rapid Rehousing | 1081 Broadway | Buffalo | 14212 | 523,245
Restoration Society, Inc./Restoration Society Coordinated Entry System-wide Project | 66 Englewood Avenue | Buffalo | 14214 | 192,458
Restoration Society, Inc./Restoration Society Rapid Re-Housing for Singles | 66 Englewood Avenue | Buffalo | 14214 | 563,360
Spectrum Human Services/Spectrum Chronic Homeless | 227 Thorn Avenue | Orchard Park | 14127 | 550,136
The Housing Council/Housing Council at Pathstone GOW-RRH Expansion | 75 College Avenue | Rochester | 14607 | 137,932
The Housing Council/The Housing Council at PathStone GOW RRH 2018 Program | 75 College Avenue | Rochester | 14607 | 91,761
Human Services Coalition of Tompkins County Inc./CoC Planning Project Application FY2018 | 171 East MLK Jr./State Street #133 | Ithaca | 14850 | 12,421
Lakeview Health Services/Lakeview SRO Tompkins | 600 W Washington Street | Geneva | 14456 | 35,537
Tompkins Community Action, Inc./Amici House | 701 Spencer Road | Ithaca | 14850 | 93,932
Tompkins Community Action, Inc./Chartwell House | 701 Spencer Road | Ithaca | 14850 | 42,900
Tompkins Community Action, Inc./Magnolia House | 701 Spencer Road | Ithaca | 14850 | 41,989
Tompkins Community Action, Inc./Rapid ReHousing | 701 Spencer Road | Ithaca | 14850 | 53,036
Catholic Charities of Cortland County/Shelter Plus Care | 33-35 Central Avenue | Corltand | 13045 | 138,680
Coalition for the Homeless of the Southern of NY/NY-511 Planning Project 2018 | 80 Hawley st | Binghamton | 13901 | 89,651
Fairview Recovery Services, Inc./Fairview Recovery Services, 25 Units | 5 Merrick Street | Binghamton | 13904 | 212,834
Fairview Recovery Services, Inc./HMIS CONSOl 2018 | 5 Merrick Street | Binghamton | 13904 | 180,297
Fairview Recovery Services, Inc./NY-511 Coordinated Entry | 5 Merrick Street | Binghamton | 13904 | 146,980
Opportunities for Broome, Inc./OFB Consolidated Shelter Plus Care Program | 5 West State St | Binghamton | 13901 | 254,066
Opportunities for Broome, Inc./Short-Term RRH-Opportunities for Broome, Inc. | 5 West State St | Binghamton | 13901 | 171,706
Opportunities fpr Chenango, Inc./OFC Shelter Plus Care Reallocation 2018 | 44 West Main Street | Norwich | 13815 | 168,631
Volunteers of America of Western New York, Inc./VOAWNY PSH for Chronically Homeless Individuals and Families in Binghamton | 214 Lake Avenue | Rochester | 14608 | 224,461
YWCA of Binghamton/Broome County/Intensisve Independent Living Program 2018 | 80 Hawley Street | Binghamton | 13901 | 102,028
Catholic Charities Housing Office/CCHO-St Peter's Consolidated PSH (2018) | 41 North Main Avenue | Albany | 12203 | 171,619
Catholic Charities Housing Office/CCHO-St Peter's PSH (2018) | 41 North Main Avenue | Albany | 12203 | 148,469
Corporation for AIDS Research, Education and Services, Inc./Rensselaer County CoC Planning Project (2018) | 200 Henry Johnson Blvd., Suite 4 | Albany | 12210 | 96,594
Corporation for AIDS Research, Education and Services, Inc./Rensselaer County Portion of the Capital Region HMIS (2018) | 200 Henry Johnson Blvd., Suite 4 | Albany | 12210 | 16,983
Joseph's House and Shelter, Inc./JH—Bert's Place (2018) | 202 4th Street | Troy | 12180 | 106,778
Joseph's House and Shelter, Inc./JH—Bethune (2018) | 202 4th Street | Troy | 12180 | 150,171
Joseph's House and Shelter, Inc./JH—Consolidated (2018) | 202 4th Street | Troy | 12180 | 291,014
Joseph's House and Shelter, Inc./JH—Rensselaer Coordinated Entry (2018) | 202 4th Street | Troy | 12180 | 82,548
St Paul's Center/St Paul Center—PSH (2018) | 947 Third St | Rensselaer | 12144 | 81,410
Unity House of Troy, Inc./Unity House Coordinated Entry for RCHSC 2018 | 2431 Sixth Avenue | Troy | 12180 | 11,520
Unity House of Troy, Inc./Unity House Troy—UH 309 (2018) | 2431 Sixth Avenue | Troy | 12180 | 72,841
Unity House of Troy, Inc./Unity House Troy—UH 352 (2018) | 2431 Sixth Avenue | Troy | 12180 | 77,017
Unity House of Troy, Inc./Unity House Troy—UH 800 (2018) | 2431 Sixth Avenue | Troy | 12180 | 2,059,922
YWCA of the Greater Capital Region, Inc./YWCA-GCR Apartment Program (2018) | 21 1st Street | Troy | 12180 | 133,208
YWCA of the Greater Capital Region, Inc./YWCA-GCR Family Apartment Program (2018) | 21 1st Street | Troy | 12180 | 29,531
Finger Lakes Addictions Counseling and Referral Agency/2018 CoC Planning Project | 28 East Main Street | Clifton Springs | 14432 | 23,457
Finger Lakes Addictions Counseling and Referral Agency/HMIS | 28 East Main Street | Clifton Springs | 14432 | 21,185
Finger Lakes Addictions Counseling and Referral Agency/Wayne County Permanent Supportive Housing | 28 East Main Street | Clifton Springs | 14432 | 106,184
Geneva Housing Authority/Finger Lakes Regional Shelter Plus Care | 41 Lewis Street P.O. Box 153 | Geneva | 14456 | 37,983
Geneva Housing Authority/Finger Lakes Regional Shelter Plus Care II | 41 Lewis Street P.O. Box 153 | Geneva | 14456 | 78,584
Geneva Housing Authority/S+C for the Chronically Homeless II | 41 Lewis Street P.O. Box 153 | Geneva | 14456 | 13,781
Wayne County Action Program, Inc./Success Center TH-RRH | 157 Montezuma Street | Lyons | 14489 | 48,123
Chautauqua Opportunities, Inc./Chautauqua HMIS 2018 | 17 West Courtney Street | Dunkirk | 14048 | 20,976
Dunkirk Housing Authority/Shelter Plus Care Project | 15 N Main St. Apt 2G | Dunkirk | 14048 | 84,288
Housing Options Made Easy, Inc./Chaut. Permanent Housing for Individuals with MentalIllness 2018 | 75 Jamestown Street | Gowanda | 14070 | 94,210
Clinton County Social Services Department/Renewal Consolidation 2018 | 13 Durkee Street | Plattsburgh | 12901 | 125,558
ETC Housing Corporation/North Country HMIS 2018 | 6 Tara Lane | Plattsburgh | 12901 | 12,988
Central New York Services, Inc./Oneida County Rapid Re Housing Program 1 | 518 James Street Suite 240 | Syracuse | 13203 | 160,385
Central New York Services, Inc./Oneida Contract TRA-D Contract | 518 James Street Suite 240 | Syracuse | 13203 | 454,240
Central New York Services, Inc./Oneida County Dual Recovery Supportive Living Program | 518 James Street Suite 240 | Syracuse | 13203 | 205,196
Central New York Services, Inc./Oneida County Homeless Assistance Case Management | 518 James Street Suite 240 | Syracuse | 13203 | 188,735
Central New York Services, Inc./Oneida County Homeless Management Information System 2 | 518 James Street Suite 240 | Syracuse | 13203 | 160,456
Central New York Services, Inc./Oneida County Supportive Living Program 1 | 518 James Street Suite 240 | Syracuse | 13203 | 185,580
Central New York Services, Inc./Oneida County Supportive Living Program 2 | 518 James Street Suite 240 | Syracuse | 13203 | 109,948
Central New York Services, Inc./Oneida County TRA- E Contract | 518 James Street Suite 240 | Syracuse | 13203 | 725,200
Central New York Services, Inc./Oneida County TRA-F Contract | 518 James Street Suite 240 | Syracuse | 13203 | 457,232
Community Action Program for Madison County, Inc./PSH Canastota | 3 East Main Street P.O. Box 249 | Morrisville | 13408 | 43,140
JCTOD Outreach, Inc. dba Johnson Park Center/JPA 5—FY2018 | 26 Johnson Park | Utica | 13501 | 116,000
JCTOD Outreach, Inc. dba Johnson Park Center/JPA IV—FY2018 | 26 Johnson Park | Utica | 13501 | 113,593
Kids Oneida, Inc./Evelyn's House Plus | 310 Main Street | Utica | 13501 | 168,580
United Way of the Valley and Greater Utica Area/NY-518 CoC Planning Application FY2018 | 201 Lafayette Street | Utica | 13502 | 96,000
United Way of the Valley and Greater Utica Area/NY-518 Coordinated Entry SSO Project FY2018 | 201 Lafayette Street | Utica | 13502 | 63,750
Columbia Opportunities Incorporated/COI Chronic Homeless Project 2018 | 540 Columbia Street | Hudson | 12534 | 17,287
Community Action of Greene County, Inc./Community Action Greene County—PSH Chronic 2018 | 7856 Rt. 9W | Catskill | 12414 | 17,726
Community Action of Greene County, Inc./Supportive Housing for Homeless Families 2018 | 7856 Rt. 9W | Catskill | 12414 | 50,799
Corporation for AIDS Research, Education and Services, Inc./Columbia Greene HMIS Con (2018) | 200 Henry Johnson Blvd., Suite 4 | Albany | 12210 | 12,068
Corporation for AIDS Research, Education and Services, Inc./Columbia/Greene CoC Planning Project (2018) | 200 Henry Johnson Blvd., Suite 4 | Albany | 12210 | 13,525
St Catherine's Center for Children/St Catherine-CG PSH (2018) | 40 N Main Ave | Albany | 12203 | 79,848
The Mental Health Association of Columbia-Greene Counties/MHA Columbia Greene-PSH P16 (2018) | MHACGC 713 Union Street | Hudson | 12534 | 240,710
The Mental Health Association of Columbia-Greene Counties/MHA Columbia Greene-PSH P2S (2018) | MHACGC 713 Union Street | Hudson | 12534 | 32,381
Corporation for AIDS Research, Education and Services, Inc./Franklin/Essex CoC Planning Project (2018) | 200 Henry Johnson Blvd., Suite 4 | Albany | 12210 | 11,008
Franklin County Community Housing Council, Inc./FCCHC-Coc Homeless Housing (2018) | 337 West Main Street | Malone | 12953 | 52,956
Mental Health Association in Essex County, Inc./MHA Essex—PSH (2018) | 6096 NYS Rte. 9N | Westport | 12993 | 26,777
Corporation for AIDS Research, Education and Services, Inc./Points North CoC Planning Project (2018) | 200 Henry Johnson Blvd., Suite 4 | Albany | 12210 | 37,594
Corporation for AIDS Research, Education and Services, Inc./Points North Portion of the Capital Region HMIS (2018) | 200 Henry Johnson Blvd., Suite 4 | Albany | 12210 | 26,750
Jefferson County Department of Social Services/JCDSS—S Plus C Chronic (2018) | 250 Arsenal Street | Watertown | 13601 | 84,855
Jefferson County Department of Social Services/JCDSS—S Plus C Transitional (2018) | 250 Arsenal Street | Watertown | 13601 | 576,089
Jefferson County Department of Social Services/JCDSS Bonus DV SSO-CE 2018 | 250 Arsenal Street | Watertown | 13601 | 67,773
Mental Health Association in Jefferson County/MHA Jefferson-Peer Run Housing First (2018) | 425 Washington St | Watertown | 13601 | 76,047
North Country Transitional Living Services, Inc./TLS—PSH Chronic Homeless (2018) | 482 Black River Parkway | Watertown | 13601 | 100,175
North Country Transitional Living Services, Inc./TLS—RRH (2018) | 482 Black River Parkway | Watertown | 13601 | 207,876
North Country Transitional Living Services, Inc./TLS—Scattered Site Gateway Housing (2018) | 482 Black River Parkway | Watertown | 13601 | 84,479
Snow Belt Housing Company, Inc./Snowbelt—CoC RRH (2018) | 7500 S State Street | Lowville | 13367 | 32,699
Adirondack Vets House, Inc/AVH—Vets House (2018) | 26 Pine Street | Glens Falls | 12801 | 77,681
Adirondack Vets House, Inc/AVH PSH (2018) | 26 Pine Street | Glens Falls | 12801 | 46,173
City of Glens Falls Housing Authority/Glens Falls HA-Community (2018) | 23 Jay Street Stichman Towers | Glens Falls | 12801 | 230,099
City of Glens Falls Housing Authority/Glens Falls HA-Housing First (2018) | 23 Jay Street Stichman Towers | Glens Falls | 12801 | 144,492
Corporation for AIDS Research, Education and Services, Inc./Saratoga North County Planning Project (2018) | 200 Henry Johnson Blvd., Suite 4 | Albany | 12210 | 45,870
Corporation for AIDS Research, Education and Services, Inc./Warren, Washington, Hamilton and Saratoga Counties Portion of the Capital Region HMIS (2018) | 200 Henry Johnson Blvd., Suite 4 | Albany | 12210 | 35,328
Domestic Violence and Rape Crisis Services of Saratoga Count (dba Wellspring)/DV Coordinated Entry | 480 Broadway LL20 | Saratoga Springs | 12866 | 15,600
Domestic Violence and Rape Crisis Services of Saratoga Count (dba Wellspring)/NewView Permanent Supportive 2018-19 | 480 Broadway LL20 | Saratoga Springs | 12866 | 82,954
Domestic Violence and Rape Crisis Services of Saratoga Count (dba Wellspring)/NewView Rapid Rehousing !! 2018-19 | 480 Broadway LL20 | Saratoga Springs | 12866 | 89,777
Domestic Violence and Rape Crisis Services of Saratoga Count (dba Wellspring)/NewView Rapid Rehousing 2018-9 | 480 Broadway LL20 | Saratoga Springs | 12866 | 186,139
Transitional Services Association, Inc./TSA Housing First | 127 Union Street | Saratoga Springs | 12866 | 308,973
Veterans & Community Housing Coalition/VCHC Center Street 2018 | 20 Prospect St Building 2 Suite 313 | Ballston Spa | 12020 | 49,092
Veterans & Community Housing Coalition/VCHC Saratoga Veterans Apartment Program 2018 | 20 Prospect St Building 2 Suite 313 | Ballston Spa | 12020 | 208,102
WAIT House/WAIT House-TLP (2018) | 10-12 Wait St, P.O. Box 3252 | Glens Falls | 12801 | 93,462
Warren Washington Association for Mental Health/MHA Warren Washington—Housing First (2018) | 3041 State Rte. 4 | Hudson Falls | 12839 | 108,245
Ali Forney Center/2018 TH Renewal Application | 224 West 35th Street Suite 1500 | New York | 10001 | 446,938
Ali Forney Center/2018 TH Renewal Application | 224 West 35th Street Suite 1500 | New York | 10001 | 537,905
Anchor House, Inc./Anchor House, Inc. | 1041-47 Bergen Street | Brooklyn | 11216 | 245,232
Association to Benefit Children/ABC Permanent Supportive Housing Program NOFA FY2018 | 419 East 86th Street | New York | 10028 | 137,415
Bailey House Inc./Bailey House Bridges to Home Renewal 2018 | 1751 Park Avenue 3rd Floor | New York | 10035 | 1,187,746
Bailey House Inc./Bailey House Schafer Hall Family Program Renewal 2018 | 1751 Park Avenue 3rd Floor | New York | 10035 | 576,441
Bailey House Inc./Bailey House SHIP Adults and Families Renewal 2018 | 1751 Park Avenue 3rd Floor | New York | 10035 | 2,000,228
Bailey House Inc./Bailey House SHIP Young Adults 2018 Renewal | 1751 Park Avenue 3rd Floor | New York | 10035 | 678,599
Bailey House Inc./Bailey House STARS II 2018 Renewal | 1751 Park Avenue 3rd Floor | New York | 10035 | 215,424
Banana Kelly Improvement Assoc Inc/Rental Assistance Program | 863 Prospect Ave | Bronx | 10459 | 466,787
Bowery Residents' Committee, Inc./Liberty Avenue | 131 West 25th Street, 12th Floor | New York | 10001 | 342,673
Bowery Residents' Committee, Inc./Palace Hotel SRO | 131 West 25th Street, 12th Floor | New York | 10001 | 363,793
Bridging Access to Care/BAC COC PSH Program 2018 | 2261 Church Ave | Brooklyn | 11226 | 407,872
Brooklyn Bureau of Community Service/Brooklyn Bureau Voc/Ed Program | 285 Schermerhorn Street | Brooklyn | 11217 | 254,430
City of New York Acting by and through its Department of Housing Preservation and Development/290 East 3rd Street Residence | 100 Gold Street 9C | New York | 10038 | 607,884
City of New York Acting by and through its Department of Housing Preservation and Development/ARC Consolidated | 100 Gold Street 9C | New York | 10038 | 1,195,729
City of New York Acting by and through its Department of Housing Preservation and Development/Breaking Ground Consolidated | 100 Gold Street 9C | New York | 10038 | 3,817,687
City of New York Acting by and through its Department of Housing Preservation and Development/Bronx Park East Residence | 100 Gold Street 9C | New York | 10038 | 636,158
City of New York Acting by and through its Department of Housing Preservation and Development/Camba Consolidated | 100 Gold Street 9C | New York | 10038 | 1,229,905
City of New York Acting by and through its Department of Housing Preservation and Development/Casa Renacer | 100 Gold Street 9C | New York | 10038 | 643,273
City of New York Acting by and through its Department of Housing Preservation and Development/CCM Consolidated | 100 Gold Street 9C | New York | 10038 | 679,685
City of New York Acting by and through its Department of Housing Preservation and Development/Chelsea Leaf North | 100 Gold Street 9C | New York | 10038 | 248,024
City of New York Acting by and through its Department of Housing Preservation and Development/Clinton Housing W 42nd Street | 100 Gold Street 9C | New York | 10038 | 242,677
City of New York Acting by and through its Department of Housing Preservation and Development/Community Access Consolidated | 100 Gold Street 9C | New York | 10038 | 1,737,111
City of New York Acting by and through its Department of Housing Preservation and Development/Diversity Works | 100 Gold Street 9C | New York | 10038 | 618,781
City of New York Acting by and through its Department of Housing Preservation and Development/Dorothy McGowan | 100 Gold Street 9C | New York | 10038 | 452,379
City of New York Acting by and through its Department of Housing Preservation and Development/Edith MacGuire Residence | 100 Gold Street 9C | New York | 10038 | 777,526
City of New York Acting by and through its Department of Housing Preservation and Development/Ehrlich Residence | 100 Gold Street 9C | New York | 10038 | 556,833
City of New York Acting by and through its Department of Housing Preservation and Development/Geel Consolidated | 100 Gold Street 9C | New York | 10038 | 1,297,289
City of New York Acting by and through its Department of Housing Preservation and Development/Gibb Mansion | 100 Gold Street 9C | New York | 10038 | 554,091
City of New York Acting by and through its Department of Housing Preservation and Development/Gramercy Leaf | 100 Gold Street 9C | New York | 10038 | 706,842
City of New York Acting by and through its Department of Housing Preservation and Development/Ilene R. Smith Residence | 100 Gold Street 9C | New York | 10038 | 448,989
City of New York Acting by and through its Department of Housing Preservation and Development/JHB Housing | 100 Gold Street 9C | New York | 10038 | 452,295
City of New York Acting by and through its Department of Housing Preservation and Development/Kingsbridge Terrace | 100 Gold Street 9C | New York | 10038 | 363,645
City of New York Acting by and through its Department of Housing Preservation and Development/Lantern Consolidated | 100 Gold Street 9C | New York | 10038 | 5,617,167
City of New York Acting by and through its Department of Housing Preservation and Development/Lenniger | 100 Gold Street 9C | New York | 10038 | 949,127
City of New York Acting by and through its Department of Housing Preservation and Development/NCS Consolidated | 100 Gold Street 9C | New York | 10038 | 525,155
City of New York Acting by and through its Department of Housing Preservation and Development/North Core Studios | 100 Gold Street 9C | New York | 10038 | 480,653
City of New York Acting by and through its Department of Housing Preservation and Development/Odyssey House Haven | 100 Gold Street 9C | New York | 10038 | 901,894
City of New York Acting by and through its Department of Housing Preservation and Development/Palladia Consolidated | 100 Gold Street 9C | New York | 10038 | 1,428,340
City of New York Acting by and through its Department of Housing Preservation and Development/Peter Jay Sharp Residence | 100 Gold Street 9C | New York | 10038 | 425,952
City of New York Acting by and through its Department of Housing Preservation and Development/Project Renewal Consolidated | 100 Gold Street 9C | New York | 10038 | 2,088,896
City of New York Acting by and through its Department of Housing Preservation and Development/Rustin Lindenguild Consolidated | 100 Gold Street 9C | New York | 10038 | 1,460,148
City of New York Acting by and through its Department of Housing Preservation and Development/Sobro Consolidated | 100 Gold Street 9C | New York | 10038 | 1,962,858
City of New York Acting by and through its Department of Housing Preservation and Development/St John's House II | 100 Gold Street 9C | New York | 10038 | 327,918
City of New York Acting by and through its Department of Housing Preservation and Development/St Joseph Consolidated | 100 Gold Street 9C | New York | 10038 | 1,767,105
City of New York Acting by and through its Department of Housing Preservation and Development/Stardom Hall | 100 Gold Street 9C | New York | 10038 | 546,577
City of New York Acting by and through its Department of Housing Preservation and Development/SUS Consolidated | 100 Gold Street 9C | New York | 10038 | 994,160
City of New York Acting by and through its Department of Housing Preservation and Development/VIP Consolidated | 100 Gold Street 9C | New York | 10038 | 990,282
City of New York Acting by and through its Department of Housing Preservation and Development/Warren Street Residence | 100 Gold Street 9C | New York | 10038 | 472,407
City of New York Acting by and through its Department of Housing Preservation and Development/Wazobia House | 100 Gold Street 9C | New York | 10038 | 367,558
City of New York Acting by and through its Department of Housing Preservation and Development/WSFSSH Consolidated | 100 Gold Street 9C | New York | 10038 | 615,220
City of New York Human Rescources Administration/Department of Social Services/SSO CAPS FY18 Renewal | 150 Greenwich Street | New York | 10007 | 1,095,088
Columba Kavanagh House, Inc./Columba Kavanagh House, Inc. | 209 East 118th Street | New York | 10035 | 406,441
Community Access, Inc/255 East Broadway | 17 Battery Place Suite 1326 | New York | 10004 | 277,323
Community Access, Inc/Warren Street SRO | 17 Battery Place Suite 1326 | New York | 10004 | 459,902
Community Action for Human Services, Inc./JHB II HDFC | 2225 Lodovick Avenue | Bronx | 10469 | 135,203
Community, Counseling, & Mediation/GP, FY18 | 25 Elms Place, 2nd Floor | Brooklyn | 11201 | 236,604
Community, Counseling, & Mediation/Rico's Place Renewal Project FY18 | 25 Elms Place, 2nd Floor | Brooklyn | 11201 | 243,503
Covenant House New York/Under 21, Inc./New Cov RRH | 460 W 41st St | New York | 10036 | 1,903,151
Covenant House New York/Under 21, Inc./New Covenant | 460 W 41st St | New York | 10036 | 438,780
CUCS, Inc./Dorothy Day | 198 East 121st Street 6th Floor | New York | 10035 | 237,324
CUCS, Inc./The Christopher | 198 East 121st Street 6th Floor | New York | 10035 | 111,332
CUCS, Inc./The Prince George | 198 East 121st Street 6th Floor | New York | 10035 | 319,948
CUCS, Inc./West Harlem Transitional Services | 198 East 121st Street 6th Floor | New York | 10035 | 1,327,350
El Regreso Foundation/El Regreso Foundation FY2018 | 189-191 South 2nd Street | Brooklyn | 11211 | 258,691
FACES NY, Inc/FACES NSP 2018 | 123 West 115th street | New York | 10026 | 317,804
FACES NY, Inc./FACES CSH 2018 | 123 West 115th Street | New York | 10026 | 136,464
FACES NY, Inc./FACES WWC 2018 | 121 West 115th st | New York | 10026 | 205,148
Foundation for Research on Sexually Transmitted Diseases/Frost'd Scatter Site PH | 306 Lenox Avenue 3rd Floor | New York | 10027 | 991,635
Gay Men's Health Crisis, Inc./GMHC CoC RRH Project 1 | 307 West 38th Street | New York | 10018 | 1,526,233
Goddard Riverside Community Center/Corner House | 593 Columbus Ave | New York | 10024 | 190,653
Goddard Riverside Community Center/Havens | 593 Columbus Ave | New York | 10024 | 232,024
Goddard Riverside Community Center/Housing Options | 593 Columbus Ave | New York | 10024 | 297,838
Good Shepherd Services/Good Shepherd Services—Chelsea Foyer NOFA 2018 | 305 Seventh Ave 9th Floor | New York | 10001 | 379,697
Harlem United Community AIDS Center/124th Street Residence Housing | 306 Lenox Avenue 3rd Floor | New York | 10027 | 232,174
Harlem United Community AIDS Center/Harlem United Family PH | 306 Lenox Avenue 3rd Floor | New York | 10027 | 443,424
HELP Social Service Corporation/Genesis Homes Supportive Housing Program I | 115 East 13th Street | New York | 10003 | 940,713
Housing + Solutions/Grace House Consolidated | 4 West 43rd Street, 2nd FL | New York | 10036 | 2,447,832
Housing + Solutions/Housing+Solutions S+C | 4 West 43rd Street, 2nd FL | New York | 10036 | 264,837
Housing Works, Inc./East 9th Street Residence Program | 57 Willoughby Street, 2nd Floor | Brooklyn | 11201 | 423,815
Housing Works, Inc./East New York Residence Program | 57 Willoughby Street, 2nd Floor | Brooklyn | 11201 | 549,791
Housing Works, Inc./HUD Jefferson Housing Program | 57 Willoughby Street, 2nd Floor | Brooklyn | 11201 | 379,347
Housing Works, Inc./Stand Up Harlem Housing Program | 57 Willoughby Street, 2nd Floor | Brooklyn | 11201 | 449,939
Institute for Community Living, Inc./Cathedral Condos | 125 Broad Street, 3rd Floor | New York | 10004 | 31,410
Institute for Community Living, Inc./Emerson Family Development Center | 125 Broad Street, 3rd Floor | New York | 10004 | 395,424
Institute for Community Living, Inc./Emerson Family Supported | 125 Broad Street, 3rd Floor | New York | 10004 | 818,687
Institute for Community Living, Inc./Flatbush Avenue Residence | 125 Broad Street, 3rd Floor | New York | 10004 | 137,897
Institute for Community Living, Inc./Integrated Permanent Housing, Support Services, Employment Program | 125 Broad Street, 3rd Floor | New York | 10004 | 199,003
Institute for Community Living, Inc./Lawton Street Residence | 125 Broad Street, 3rd Floor | New York | 10004 | 264,374
Institute for Community Living, Inc./Lewis Ave Residence | 125 Broad Street, 3rd Floor | New York | 10004 | 137,898
Institute for Community Living, Inc./Shelter + Care '94 | 125 Broad Street, 3rd Floor | New York | 10004 | 688,954
Institute for Community Living, Inc./Shelter + Care '95 | 125 Broad Street, 3rd Floor | New York | 10004 | 502,943
Jericho Project/Loring Place Vocational Education | 245 West 29th Street Suite 902 | New York | 10001 | 50,618
Jericho Project/Rapid Rehousing 2 | 245 West 29th Street Suite 902 | New York | 10001 | 4,182,529
Jewish Board of Family and Children's Services, Inc./124th Street CR/SRO | 135 West 50th Street, 6th Floor | New York | 10020 | 676,111
Jewish Board of Family and Children's Services, Inc./Bronx Permanent Housing | 135 West 50th Street, 6th Floor | New York | 10020 | 867,702
Jewish Board of Family and Children's Services, Inc./Bryce House TH-RRH Project | 135 West 50th Street, 6th Floor | New York | 10020 | 996,605
Jewish Board of Family and Children's Services, Inc./Burnside Community Residence | 135 West 50th Street, 6th Floor | New York | 10020 | 594,066
Jewish Board of Family and Children's Services, Inc./Kingsbridge CR/SRO | 135 West 50th Street, 6th Floor | New York | 10020 | 307,770
Jewish Board of Family and Children's Services, Inc./Maple House CR/SRO | 135 West 50th Street, 6th Floor | New York | 10020 | 501,855
Jewish Board of Family and Children's Services, Inc./White Plains Road CR/SRO | 135 West 50th Street, 6th Floor | New York | 10020 | 705,295
Kenmore Housing Development Fund Corp./Kenmore Hall | c/o Housing and Services, Inc. 243 West 30th Street, 2nd floor | New York | 10001 | 408,700
Lantern Community Services/Schafer Hall SHP | 494 8th Avenue, 20th Floor | New York | 10001 | 370,169
Lower Eastside Service Center, Inc/Diversity Works FY 18 Renewal Project | 80 Maiden Lane Suite 305 | New York | 10038 | 305,715
Lower Eastside Service Center, Inc/LESC House FY 18 Renewal Project | 80 Maiden Lane Suite 305 | New York | 10038 | 501,474
Lutheran Social Services of New York/Community House | 475 Riverside Drive Suite 1244 | New York | 10115 | 390,087
Lutheran Social Services of New York/Muhlenberg Residence | 475 Riverside Drive Suite 1244 | New York | 10115 | 220,475
New Destiny Housing Corporation/HousingLink | 12 W 37 Street, 7th floor | New York | 10018 | 997,123
NYS Office of Mental Health/OMH/Pibly 2018 | 44 Holland Avenue | Albany | 12229 | 393,760
Palladia, Inc./Cedar Tremont House | 463 Seventh Avenue., 17th Fl | New York | 10018 | 565,518
Palladia, Inc./Chelsea Court | 463 Seventh Avenue., 17th Fl | New York | 10018 | 182,262
Palladia, Inc./Community Housing Program | 463 Seventh Avenue., 17th Fl | New York | 10018 | 662,495
Palladia, Inc./Flora Vista | 463 Seventh Avenue., 17th Fl | New York | 10018 | 289,525
Palladia, Inc./Fox Point | 463 Seventh Avenue., 17th Fl | New York | 10018 | 143,549
Palladia, Inc./Hill House | 463 Seventh Avenue., 17th Fl | New York | 10018 | 280,235
Palladia, Inc./Scattered Sites | 463 Seventh Avenue., 17th Fl | New York | 10018 | 295,424
Palladia, Inc./Stratford House | 463 Seventh Avenue., 17th Fl | New York | 10018 | 766,439
Postgraduate Center for Mental Health/City Wide Homes | 158 East 35th Street | New York | 10016 | 2,415,068
Postgraduate Center for Mental Health/Richard Dicker | 158 East 35th Street | New York | 10016 | 526,496
Praxis Housing Initiatives, Inc/Riverside Place | 130 West 29th Street | New York | 10001 | 957,474
Project Hospitality, Inc./Permanent Housing 2 | 100 Park Avenue | Staten Island | 10302 | 257,361
Project Hospitality, Inc./Permanent Housing 3 | 100 Park Avenue | Staten Island | 10302 | 1,900,704
Project Hospitality, Inc./Project Hospitality Permanent Housing | 100 Park Avenue | Staten Island | 10302 | 1,627,744
Project Hospitality, Inc./Scatter Site II | 100 Park Avenue | Staten Island | 10302 | 325,345
Project Renewal, Inc./Home | 200 Varick Street 9th Floor | New York | 10014 | 449,494
Project Renewal, Inc./In Homes Now Consolidated | 200 Varick Street 9th Floor | New York | 10014 | 1,688,885
Project Renewal, Inc./PRI Transitions | 200 Varick Street 9th Floor | New York | 10014 | 709,683
Project Renewal, Inc./Shelter Plus Care | 200 Varick Street 9th Floor | New York | 10014 | 456,682
Promesa, Inc. /Promesa Shelter Plus Care | 300 E 175th Street | Bronx | 10457 | 1,083,511
Samaritan Daytop Village, Inc./Continuum of Care 2018 Renewal | 138-02 Queens Blvd. | Briarwood | 11435 | 551,879
Samaritan Daytop Village, Inc./Young Mothers Program 2 2018 Renewal | 138-02 Queens Blvd. | Briarwood | 11435 | 132,773
Services for the UnderServed, Inc./Briarwood SRO | 463 Seventh Avenue, 17th Floor | New York | 10018 | 678,965
Services for the UnderServed, Inc./OASAS S+C | 463 Seventh Avenue, 17th Floor | New York | 10018 | 2,280,239
Services for the UnderServed, Inc./OMH SUS Knick/Beach | 463 Seventh Avenue, 17th Floor | New York | 10018 | 439,599
Services for the UnderServed, Inc./OMH/SUS 12 | 463 Seventh Avenue, 17th Floor | New York | 10018 | 209,847
Services for the UnderServed, Inc./OMH/SUS 40 | 463 Seventh Avenue, 17th Floor | New York | 10018 | 707,355
Services for the UnderServed, Inc./SUS Broadway | 463 Seventh Avenue, 17th Floor | New York | 10018 | 333,880
Services for the UnderServed, Inc./SUS Brooklyn Supported Housing | 463 Seventh Avenue, 17th Floor | New York | 10018 | 1,222,384
Services for the UnderServed, Inc./SUS Decatur | 463 Seventh Avenue, 17th Floor | New York | 10018 | 309,808
Services for the UnderServed, Inc./SUS Morris Avenue | 463 Seventh Avenue, 17th Floor | New York | 10018 | 189,979
Sheltering Arms Children and Family Services/Rapid Re-Housing—Youth | 305 7th Avenue 4th Floor | New York | 10001 | 1,074,197
The Bridge Inc./1885 Third Avenue Residence | 248 West 108th Street | New York | 10025 | 376,880
The Bridge Inc./631 East 6th Street Residence | 248 West 108th Street | New York | 10025 | 128,834
The Bridge Inc./Iyana House | 248 West 108th Street | New York | 10025 | 437,754
The Bridge Inc./Park West House II | 248 West 108th Street | New York | 10025 | 130,660
The Bridge Inc./Pleasant Ave House | 248 West 108th Street | New York | 10025 | 278,628
The Bridge Inc./The Bridge S+C | 248 West 108th Street | New York | 10025 | 158,804
The City of New York Department of Homeless Services/HMIS Project Application 2018 | 4-WTC, 150 Greenwich Street | New York | 10007 | 1,298,261
The City of New York Department of Homeless Services/NY-600 CoC Planning Application FY2018 | 4-WTC, 150 Greenwich Street | New York | 10007 | 1,250,000
The Fortune Society, Inc./Fortune Academy Residence | 29-76 Northern Boulevard | Long Island City | 11101 | 465,648
The Fortune Society, Inc./Fortune Academy S+C | 29-76 Northern Boulevard | Long Island City | 11101 | 932,401
United Bronx Parents, Inc/United Bronx Parents Shelter Plus Care | 966 Prospect Ave | Bronx | 10459 | 376,152
University Consultation & Treatment Center for Mental Hygiene/The Ehrlich Residence | 1020 Grand Concourse | New York | 10451 | 286,363
Urban Pathways, Inc./Cluster House | 575 8th Avenue | New York | 10018 | 191,779
Urban Pathways, Inc./Ivan Shapiro House | 575 8th Avenue | New York | 10018 | 389,654
Urban Resource Institute/Harmony House | 75 Broad Street, 5th Floor | New York | 10004 | 996,324
Urban Resource Institute/Urban Center for Change | 75 Broad Street, 5th Floor | New York | 10004 | 250,294
Violence Intervention Program, Inc./Casa Sandra Supportive Housing Program for social Change FY2018 | P.O. Box 1161 Triborough Station | New York | 10035 | 331,109
Vocational Instruction Project Community Services, Inc/Abraham Apartments NOFA 2018 | 1910 Arthur Ave | Bronx | 10457 | 98,537
Vocational Instruction Project Community Services, Inc/Crotona SRO NOFA 2018 | 1910 Arthur Ave | Bronx | 10457 | 238,061
West Side Federation for Senior and Supportive Housing, Inc./129th Street Residence | 2345 Broadway | New York | 10024 | 397,301
West Side Federation for Senior and Supportive Housing, Inc./74th Street Home Expansion | 2345 Broadway | New York | 10024 | 125,164
West Side Federation for Senior and Supportive Housing, Inc./West 74th Street Home | 2345 Broadway | New York | 10024 | 169,329
Women In Need, Inc./SHINE Families | 115 West 31st Street | New York | 10001 | 1,758,527
Women In Need, Inc./WISH Families | 115 West 31st Street | New York | 10001 | 1,312,017
Women In Need, Inc./Women In Need SPC 1 Triangle House | 115 West 31st Street | New York | 10001 | 934,281
Corporation for AIDS Research, Education and Services, Inc./Dutchess County Portion of the Capital Region HMIS (2018) | 200 Henry Johnson Blvd., Suite 4 | Albany | 12210 | 45,120
County of Dutchess/HRH Home Base I | 22 Market Street | Poughkeepsie | 12601 | 168,738
County of Dutchess/HRH Moving On | 22 Market Street | Poughkeepsie | 12601 | 38,251
County of Dutchess/HRH Shelter Plus Care | 22 Market Street | Poughkeepsie | 12601 | 122,028
County of Dutchess/MARC Shelter Plus Care | 22 Market Street | Poughkeepsie | 12601 | 166,578
County of Dutchess/NY-601 CoC Planning Application FY2018 | 22 Market Street | Poughkeepsie | 12601 | 38,915
County of Dutchess/RSS MICA Shelter Plus Care | 22 Market Street | Poughkeepsie | 12601 | 201,915
Gateway Community Industries, Inc./DC MICA FY2018 Renewal | One Amy Kay Parkway P.O. Box 5002 | Kingston | 12402 | 46,744
Gateway Community Industries, Inc./DC VA FY2018 Renewal | One Amy Kay Parkway P.O. Box 5002 | Kingston | 12402 | 28,865
Hudson River Housing, Inc./HRH COACH | 313 Mill Street | Poughkeepsie | 12601 | 152,524
Hudson River Housing, Inc./HRH Garden Street Housing | 313 Mill Street | Poughkeepsie | 12601 | 54,363
Hudson River Housing, Inc./HRH Hillcrest House | 313 Mill Street | Poughkeepsie | 12601 | 141,619
Hudson River Housing, Inc./HRH Noxon Street Housing | 313 Mill Street | Poughkeepsie | 12601 | 29,033
Hudson River Housing, Inc./HRH River Haven Transitional Living | 313 Mill Street | Poughkeepsie | 12601 | 41,079
Projects to Empower and Organize the Psychiatrically Labeled/PEOPLe Home Project FY18 | 126 Innis Avenue | Poughkeepsie | 12601 | 97,836
Corporation for AIDS Research, Education and Services, Inc./Orange CoC HMIS (2018) | 200 Henry Johnson Blvd., Suite 4 | Albany | 12210 | 65,809
County of Orange/2018 Renewal MHA NY0437 Enhanced MH/DD | 30 Harriman Drive | Goshen | 10924 | 76,104
County of Orange/2018 Renewal MHA NY0448 Individuals | 30 Harriman Drive | Goshen | 10924 | 76,104
County of Orange/2018 Renewal RECAP NY 0811 Veterans | 30 Harriman Drive | Goshen | 10924 | 219,155
Emergency Housing Group, Inc./CoC Planning Project Application FY2018 | 38 Seward Avenue | Middletown | 10940 | 76,487
Emergency Housing Group, Inc./HONOR ehg (PSH) Bonus | 38 Seward Avenue | Middletown | 10940 | 387,825
Emergency Housing Group, Inc./HONOR Housing First III | 38 Seward Avenue | Middletown | 10940 | 139,382
Emergency Housing Group, Inc./Permanent Housing Bonus Money | 38 Seward Avenue | Middletown | 10940 | 69,353
Emergency Housing Group, Inc./Stephen Saunders Residence | 38 Seward Avenue | Middletown | 10940 | 91,373
Mental Health Association in Orange County, Inc./Family Supportive Housing FY 2018 | 73 James P. Kelly Way | Middletown | 10940 | 148,632
Mental Health Association in Orange County, Inc./Home To Stay FY 2018 | 73 James P. Kelly Way | Middletown | 10940 | 266,200
Mental Health Association in Orange County, Inc./MHA HDH FY 2018 | 73 James P. Kelly Way | Middletown | 10940 | 119,816
Newburgh Interfaith Emergency Housing Inc./Project LIFE Rapid Rehousing Program | 172 1st Street | Newburgh | 12550 | 166,008
Regional Economic Community Action Program, Inc./NY-602—REN Regional Economic Community Action Program | 40 Smith St | Middletown | 10940 | 631,144
Safe Harbors of the Hudson, Inc./Safe Harbors Cornerstone Residence | 111 Broadway | Newburgh | 12550 | 175,546
Association for Mental Health and Wellness/Senior Quarters Renewal 2018 | 939 Johnson Avenue | Ronkonkoma | 11779 | 86,313
Brighter Tomorrows, Inc./SA.F.E Rapid Rehousing | P.O. Box 706 | Shirley | 11967 | 398,442
Catholic Charities Diocese of Rockville Centre/Project Independence | 333 North Main Street | Freeport | 11520 | 906,070
Catholic Charities Diocese of Rockville Centre/Project Inependence Expansion | 333 North Main Street | Freeport | 11520 | 149,319
Catholic Charities Diocese of Rockville Centre/Project Veterans' Independence | 333 North Main Street | Freeport | 11520 | 290,957
Circulo de la Hispanidad/Casa Salva RRH FY 2018 | 26 West Park Avenue Second Floor | Long Beach | 11561 | 147,593
Circulo de la Hispanidad/Casa Serenidad FY 2018 | 26 West Park Avenue Second Floor | Long Beach | 11561 | 200,878
Community Housing Innovations, Inc./ENST2 | 75 South Broadway Suite 340 | White Plains | 10601 | 68,718
Community Housing Innovations, Inc./F1C2 | 75 South Broadway Suite 340 | White Plains | 10601 | 62,471
Community Housing Innovations, Inc./HEDV2 | 75 South Broadway Suite 340 | White Plains | 10601 | 59,866
Concern for Independent Living, Inc./Opportunities | 312 Expressway Drive South | Medford | 11763 | 273,213
Concern for Independent Living, Inc./Opportunities II | 312 Expressway Drive South | Medford | 11763 | 714,509
Concern for Independent Living, Inc./Project Homestart | 312 Expressway Drive South | Medford | 11763 | 391,473
Family Residences and Essential Enterprises, Inc./HUD-Coram | 191 Sweet Hollow Road | Old Bethpage | 11804 | 55,412
Family Residences and Essential Enterprises, Inc./HUD-Nassau | 191 Sweet Hollow Road | Old Bethpage | 11804 | 116,486
Family Service League, Inc./FSL RRH RENEWAL 2018 | 790 Park Avenue | Huntington | 11743 | 1,140,425
H.EL.P. Equity Homes, Inc./Nassau Scattered Site Permanent Housing Program | 115 E 13th Street | New York | 10003 | 133,287
Long Island Coalition for the Homeless/COC Planning Project Application FY2018 | 600 Albany Avenue, Suite 2 | Amityville | 11701 | 439,491
Long Island Coalition for the Homeless/LI CES and CA Consolidation | 600 Albany Avenue, Suite 2 | Amityville | 11701 | 91,390
Long Island Coalition for the Homeless/LI CES II | 600 Albany Avenue, Suite 2 | Amityville | 11701 | 300,000
Long Island Coalition for the Homeless/LI HMIS 2018 | 600 Albany Avenue, Suite 2 | Amityville | 11701 | 259,689
Mental Health Association of Nassau County, Inc./AHAL II 2018 renewal | 16 Main Street | Hempstead | 11550 | 106,376
NYS Office of Mental Health/OMH/SAIL3 2018 | 44 Holland Avenue | Albany | 12229 | 342,511
Options for Community Living, Inc./Options for Community Living, Inc. (106829187) | 202 East Main Street | Smithtown | 11787 | 405,043
Options for Community Living, Inc./Options-RRH | 202 East Main Street | Smithtown | 11787 | 496,132
Robert ODonnell/EOC RRH Program | 31 W Main St, Suite 300 | Patchogue | 11772 | 810,541
Services for the UnderServed, Inc./LI Consolidated RRH | 463 Seventh Avenue, 17th Floor | New York | 10018 | 1,916,009
Services for the UnderServed, Inc./SUS LI RRH 2018 New | 463 Seventh Avenue, 17th Floor | New York | 10018 | 1,499,196
Suburban Housing Development & Research, Inc/W&H Renewal YE 4 30 20 | 1360 Fifth Avenue P O Box 5012 | Bay Shore | 11706 | 268,870
Suffolk County Department of Social Services/Beacon House III | 3085 Veterans Memorial Highway | Ronkonkoma | 11779 | 178,136
The Safe Center LI, INC./Horizon | 15 Grumman Road West, Suite 1000 | Bethpage | 11714 | 380,499
The Safe Center LI, INC./Long Island Coordinated Entry System for Domestic Violence Survivors | 15 Grumman Road West, Suite 1000 | Bethpage | 11714 | 240,000
Transitional Services of New York for Long Island, Inc./Summit Renewal 2018 | 840 Suffolk Avenue | Brentwood | 11717 | 67,098
United Veterans Beacon House, Inc./SHP/Islip | 1715 Union Boulevard | Bayshore | 11706 | 159,710
City of Mount Vernon (NY)/CMV RA 05 | City Hall—Roosevelt Square | Mount Vernon | 10550 | 230,013
City of Mount Vernon (NY)/CMV RA 06 | City Hall—Roosevelt Square | Mount Vernon | 10550 | 285,485
City of Mount Vernon (NY)/CMV RA 07 | City Hall—Roosevelt Square | Mount Vernon | 10550 | 97,030
City of Mount Vernon (NY)/CMV RA Vets | City Hall—Roosevelt Square | Mount Vernon | 10550 | 53,080
City of Mount Vernon (NY)/Shallow Rent | City Hall—Roosevelt Square | Mount Vernon | 10550 | 384,214
Greyston Health Services, Inc. /Issan House | 21 Park Avenue | Yonkers | 10703 | 279,467
HOPE Community Services, Inc./CNR Rehousing Initiative | 50 Washington Avenue | New Rochelle | 10801 | 281,153
The Municipal Housing Authority for the City of Yonkers/HIV RA | 1511 Central Park Avenue, P.O. Box 35 | Yonkers | 10701 | 70,773
The Municipal Housing Authority for the City of Yonkers/Rapid Road To Housing | 1511 Central Park Avenue, P.O. Box 35 | Yonkers | 10701 | 882,731
The Municipal Housing Authority for the City of Yonkers/Westhab RA SRO | 1511 Central Park Avenue, P.O. Box 35 | Yonkers | 10701 | 45,158
The Municipal Housing Authority for the City of Yonkers/Yonkers RA | 1511 Central Park Avenue, P.O. Box 35 | Yonkers | 10701 | 575,955
Westchester County Dept. of Community Mental Health/DCMH Leasing Project | 112 East Post Road, 2nd Floor | White Plains | 10601 | 164,177
Westchester County Dept. of Community Mental Health/DCMH RAP | 112 East Post Road, 2nd Floor | White Plains | 10601 | 8,407,550
Westchester County Dept. of Community Mental Health/DCMH Vet Home 03 | 112 East Post Road, 2nd Floor | White Plains | 10601 | 90,312
Westchester County Dept. of Community Mental Health/Westchester CoC Planning Project | 112 East Post Road, 2nd Floor | White Plains | 10601 | 192,000
Westchester County Dept. of Social Services/First Steps | 112 East Post Road | White Plains | 10601 | 798,113
Westchester County Dept. of Social Services/First Steps expansion | 112 East Post Road | White Plains | 10601 | 49,499
Westchester County Dept. of Social Services/HMIS | 112 East Post Road | White Plains | 10601 | 260,000
Westchester County Dept. of Social Services/Homestead | 112 East Post Road | White Plains | 10601 | 468,431
Westchester County Dept. of Social Services/New Start | 112 East Post Road | White Plains | 10601 | 802,217
Westchester County Dept. of Social Services/RISE | 112 East Post Road | White Plains | 10601 | 594,021
Westchester County Dept. of Social Services/Stepping Stones | 112 East Post Road | White Plains | 10601 | 329,915
Westchester County Dept. of Social Services/The Refuge | 112 East Post Road | White Plains | 10601 | 107,001
Westchester County Dept. of Social Services/Turning Point | 112 East Post Road | White Plains | 10601 | 2,941,203
Westchester County Dept. of Social Services/Westchester Coordinated Entry | 112 East Post Road | White Plains | 10601 | 136,819
Westchester County Dept. of Social Services/Westchester Coordinated Entry expansion | 112 East Post Road | White Plains | 10601 | 322,053
Center for Safety & Change, Inc./CSC DV Rapid Re-Housing (2018) | 9 Johnsons Lane | New City | 10956 | 133,801
Corporation for AIDS Research, Education and Services, Inc./Rockland CoC HMIS (2018) | 200 Henry Johnson Blvd., Suite 4 | Albany | 12210 | 69,543
Corporation for AIDS Research, Education and Services, Inc./Rockland County CoC Planning Project (2018) | 200 Henry Johnson Blvd., Suite 4 | Albany | 12210 | 49,800
Helping Hands Interfaith Coalition for the Homeless of Rockland County Inc/Helping Hands—RRH 2 (2018) | 11 East Church Street | Spring Valley | 10977 | 105,221
Rockland County Department of Social Services/RC DSS Coordinated Entry | 50 Sanitorium Rd Bldg. L | Pomona | 10970 | 60,000
Rockland County Department of Social Services/RC DSS-RRH program 2018 | 50 Sanitorium Rd Bldg. L | Pomona | 10970 | 101,079
Rockland County Department of Social Services/RCDSS-RCCoC PSH (2018) | 50 Sanitorium Rd Bldg. L | Pomona | 10970 | 265,369
Rockland Hospital Guild, Inc./Clue Community Housing | 2 Irvings Way | Orangeburg | 10962 | 117,323
Catholic Charities Community Services of Orange County/CoC 28-unit | 11 Hamilton Avenue | Monticello | 12701 | 298,795
Corporation for AIDS Research, Education and Services, Inc./Ulster CoC HMIS (2018) | 200 Henry Johnson Blvd., Suite 4 | Albany | 12210 | 70,350
Family of Woodstock, Inc./FOW—Adult CMS Families (2018) | 39 John St | Kingston | 12401 | 140,764
Family of Woodstock, Inc./FOW—Adult CMS SRO (2018) | 39 John St | Kingston | 12401 | 231,733
Family of Woodstock, Inc./FOW—DV CE (2018) | 39 John St | Kingston | 12401 | 15,000
Family of Woodstock, Inc./FOW—MidWay (2018) | 39 John St | Kingston | 12401 | 91,667
Family of Woodstock, Inc./FOW—RRH DVS (2018) | 39 John St | Kingston | 12401 | 80,095
Family of Woodstock, Inc./FOW—RRH Families (2018) | 39 John St | Kingston | 12401 | 98,460
Family of Woodstock, Inc./FOW—SHP Families (2018) | 39 John St | Kingston | 12401 | 148,078
Gateway Community Industries, Inc./GCI Ulster-Family Supported (2018) | One Amy Kay Parkway P.O. Box 5002 | Kingston | 12402 | 42,209
Projects to Empower and Organize the Psychiatrically Labeled/PEOPLe Home Again Project 2 FY18 | 126 Innis Avenue | Poughkeepsie | 12601 | 60,560
Projects to Empower and Organize the Psychiatrically Labeled/PEOPLe Home Again Project FY2018 | 126 Innis Avenue | Poughkeepsie | 12601 | 66,111
Rehabilitation Support Services/RSS Ulster—OASAS S Plus C (2018) | 11 Twin Maples Plaza | Saugerties | 12477 | 156,596
RUPCO/Ulster CoC Planning Grant 2018 | 289 Fair Street | Kingston | 12401 | 33,982
Strategies to End Homelessness, Inc./BHS PSH 0542 | 2368 Victory Parkway, Suite 600 | Cincinnati | 45206 | 374,277
Strategies to End Homelessness, Inc./BHS RRH 0303 | 2368 Victory Parkway, Suite 600 | Cincinnati | 45206 | 332,092
Strategies to End Homelessness, Inc./BHS RRH 0461 | 2368 Victory Parkway, Suite 600 | Cincinnati | 45206 | 628,138
Strategies to End Homelessness, Inc./BHS RRH 0472 | 2368 Victory Parkway, Suite 600 | Cincinnati | 45206 | 797,486
Strategies to End Homelessness, Inc./BHS RRH FY18 New | 2368 Victory Parkway, Suite 600 | Cincinnati | 45206 | 425,688
Strategies to End Homelessness, Inc./BHS SSO 0248 | 2368 Victory Parkway, Suite 600 | Cincinnati | 45206 | 322,568
Strategies to End Homelessness, Inc./CARA PSH 0009 | 2368 Victory Parkway, Suite 600 | Cincinnati | 45206 | 737,923
Strategies to End Homelessness, Inc./CARA PSH 0543 | 2368 Victory Parkway, Suite 600 | Cincinnati | 45206 | 79,600
Strategies to End Homelessness, Inc./CILO PSH 0008 | 2368 Victory Parkway, Suite 600 | Cincinnati | 45206 | 511,685
Strategies to End Homelessness, Inc./EXCL PSH 0475 | 2368 Victory Parkway, Suite 600 | Cincinnati | 45206 | 2,496,987
Strategies to End Homelessness, Inc./IHN PSH 0368 | 2368 Victory Parkway, Suite 600 | Cincinnati | 45206 | 369,691
Strategies to End Homelessness, Inc./IHN PSH 0539 | 2368 Victory Parkway, Suite 600 | Cincinnati | 45206 | 367,070
Strategies to End Homelessness, Inc./IHN RRH 0476 | 2368 Victory Parkway, Suite 600 | Cincinnati | 45206 | 334,030
Strategies to End Homelessness, Inc./IHN TH/RRH FY18 New | 2368 Victory Parkway, Suite 600 | Cincinnati | 45206 | 506,987
Strategies to End Homelessness, Inc./LYS PSH 0404 | 2368 Victory Parkway, Suite 600 | Cincinnati | 45206 | 215,525
Strategies to End Homelessness, Inc./LYS RRH 0254 | 2368 Victory Parkway, Suite 600 | Cincinnati | 45206 | 160,457
Strategies to End Homelessness, Inc./LYS RRH 0365 | 2368 Victory Parkway, Suite 600 | Cincinnati | 45206 | 185,742
Strategies to End Homelessness, Inc./LYS SSO 0253 | 2368 Victory Parkway, Suite 600 | Cincinnati | 45206 | 102,518
Strategies to End Homelessness, Inc./NCR PSH 0576 | 2368 Victory Parkway, Suite 600 | Cincinnati | 45206 | 427,177
Strategies to End Homelessness, Inc./NISR PSH 0439 | 2368 Victory Parkway, Suite 600 | Cincinnati | 45206 | 376,489
Strategies to End Homelessness, Inc./OTR PSH 0003 | 2368 Victory Parkway, Suite 600 | Cincinnati | 45206 | 264,320
Strategies to End Homelessness, Inc./OTR PSH 0015 | 2368 Victory Parkway, Suite 600 | Cincinnati | 45206 | 100,311
Strategies to End Homelessness, Inc./OTR PSH 0302 | 2368 Victory Parkway, Suite 600 | Cincinnati | 45206 | 1,037,951
Strategies to End Homelessness, Inc./OTR PSH 0330 | 2368 Victory Parkway, Suite 600 | Cincinnati | 45206 | 61,164
Strategies to End Homelessness, Inc./OTR PSH 0363 | 2368 Victory Parkway, Suite 600 | Cincinnati | 45206 | 395,436
Strategies to End Homelessness, Inc./OTR PSH 0541 | 2368 Victory Parkway, Suite 600 | Cincinnati | 45206 | 99,562
Strategies to End Homelessness, Inc./OVGI RRH 0306 | 2368 Victory Parkway, Suite 600 | Cincinnati | 45206 | 576,948
Strategies to End Homelessness, Inc./SHVG RRH 0519 | 2368 Victory Parkway, Suite 600 | Cincinnati | 45206 | 1,406,020
Strategies to End Homelessness, Inc./SHVG SSO 0012 | 2368 Victory Parkway, Suite 600 | Cincinnati | 45206 | 251,769
Strategies to End Homelessness, Inc./STEH HMIS 0251 | 2368 Victory Parkway, Suite 600 | Cincinnati | 45206 | 388,611
Strategies to End Homelessness, Inc./STEH Planning FY18 | 2368 Victory Parkway, Suite 600 | Cincinnati | 45206 | 504,747
Strategies to End Homelessness, Inc./STEH SSO 0498 | 2368 Victory Parkway, Suite 600 | Cincinnati | 45206 | 136,711
Strategies to End Homelessness, Inc./STEH UFA FY18 | 2368 Victory Parkway, Suite 600 | Cincinnati | 45206 | 336,498
Strategies to End Homelessness, Inc./TH PSH 0307 | 2368 Victory Parkway, Suite 600 | Cincinnati | 45206 | 531,219
Strategies to End Homelessness, Inc./TH PSH 0579 | 2368 Victory Parkway, Suite 600 | Cincinnati | 45206 | 972,188
Strategies to End Homelessness, Inc./TM PSH 0006 | 2368 Victory Parkway, Suite 600 | Cincinnati | 45206 | 78,838
Strategies to End Homelessness, Inc./TM PSH 0329 | 2368 Victory Parkway, Suite 600 | Cincinnati | 45206 | 349,265
Strategies to End Homelessness, Inc./TM PSH 0362 | 2368 Victory Parkway, Suite 600 | Cincinnati | 45206 | 94,833
Strategies to End Homelessness, Inc./TM PSH 0520 | 2368 Victory Parkway, Suite 600 | Cincinnati | 45206 | 143,162
Strategies to End Homelessness, Inc./TM PSH FY18 New | 2368 Victory Parkway, Suite 600 | Cincinnati | 45206 | 441,633
Strategies to End Homelessness, Inc./TSA RRH 0403 | 2368 Victory Parkway, Suite 600 | Cincinnati | 45206 | 243,191
Strategies to End Homelessness, Inc./YWCA RRH 0325 | 2368 Victory Parkway, Suite 600 | Cincinnati | 45206 | 136,364
Strategies to End Homelessness, Inc./YWCA TH/RRH 0577 | 2368 Victory Parkway, Suite 600 | Cincinnati | 45206 | 226,416
Strategies to End Homelessness, Inc./YWCA TH/RRH FY18 New | 2368 Victory Parkway, Suite 600 | Cincinnati | 45206 | 947,545
Beach House, Inc./Steps to Home PSH II | 2283 Ashland Ave | Toledo | 43620 | 477,712
Beach House, Inc./Steps to Home PSH III | 2283 Ashland Ave | Toledo | 43620 | 220,091
Beach House, Inc./Steps to Home RRH | 2283 Ashland Ave | Toledo | 43620 | 741,559
Catholic Charities Diocese of Toledo/Special Assistance for Families Accessing Housing | 1933 Spielbusch Avenue | Toledo | 43604 | 233,376
National Church Residences Permanent Supportive Housing Services/FY 2018 Commons at Garden Lake | 398 South Grant Ave | Columbus | 43215 | 75,000
Neighborhood Properties, Inc./1st Avenue | 2753 West Central Avenue | Toledo | 43606 | 230,737
Neighborhood Properties, Inc./A Place Called Home | 2753 West Central Avenue | Toledo | 43606 | 101,855
Neighborhood Properties, Inc./Affordable Housing for Persons With Mental Illness | 2753 West Central Avenue | Toledo | 43606 | 340,108
Neighborhood Properties, Inc./Families With Mental Illness | 2753 West Central Avenue | Toledo | 43606 | 83,558
Neighborhood Properties, Inc./Families With Mental Illness Expansion | 2753 West Central Avenue | Toledo | 43606 | 91,243
Neighborhood Properties, Inc./Fresh Start | 2753 West Central Avenue | Toledo | 43606 | 108,838
Neighborhood Properties, Inc./Housing First | 2753 West Central Avenue | Toledo | 43606 | 172,336
Neighborhood Properties, Inc./PACT Partnership | 2753 West Central Avenue | Toledo | 43606 | 237,377
Neighborhood Properties, Inc./Pathway To Shelter | 2753 West Central Avenue | Toledo | 43606 | 96,906
St Paul's Community Center/Starting Over | 230 13 St | Toledo | 43604 | 142,739
TASC of Northwest Ohio, Inc./Walls For All | 701 Jefferson Avenue Suite 101 | Toledo | 43604 | 182,676
TLC Homelessness Board/CoC Planning Project Application FY2018 | 1946 N 13th St #437 | Toledo | 43604 | 171,333
TLC Homelessness Board/HMIS Expansion 2018 | 1946 N 13th St #437 | Toledo | 43604 | 57,990
TLC Homelessness Board/HMIS Renewal 2018 | 1946 N 13th St #437 | Toledo | 43604 | 90,609
YWCA of Northwest Ohio/YWCA NWO Apartments | 1018 Jefferson Ave | Toledo | 43604 | 99,297
Cogswell Hall, Inc./Cogswell Supportive Housing | 7200 Franklin Blvd., Suite 100 | Cleveland | 44102 | 103,719
Cuyahoga County/2016 Rapid Re-Housing for Single Adults | 310 W Lakeside Ave Room 195 | Cleveland | 44113 | 538,941
Cuyahoga County/Cuyahoga County Coordinated Entry | 310 W Lakeside Ave Room 195 | Cleveland | 44113 | 500,000
Cuyahoga County/Cuyahoga County Planning Project FY 2018 | 310 W Lakeside Ave Room 195 | Cleveland | 44113 | 400,000
Cuyahoga County/Cuyahoga County Rapid Re-Housing for Families | 310 W Lakeside Ave Room 195 | Cleveland | 44113 | 488,904
Cuyahoga County/Cuyahoga County Rapid Re-Housing For Single Adults and Youth | 310 W Lakeside Ave Room 195 | Cleveland | 44113 | 732,555
Emerald Development & Economic Network (EDEN), Inc./Community-Based PSH Bonus 2018 | 7812 Madison Avenue | Cleveland | 44102 | 460,180
Emerald Development & Economic Network (EDEN), Inc./DV Bonus 2018 | 7812 Madison Avenue | Cleveland | 44102 | 1,190,016
Emerald Development & Economic Network (EDEN), Inc./EAX Greenbridge Extension | 7812 Madison Avenue | Cleveland | 44102 | 1,078,778
Emerald Development & Economic Network (EDEN), Inc./Permanent Housing for People w/Disabilities | 7812 Madison Avenue | Cleveland | 44102 | 976,461
Emerald Development & Economic Network (EDEN), Inc./Rapid Rehousing for Families and Singles Bonus FY2015 | 7812 Madison Avenue | Cleveland | 44102 | 1,233,122
Emerald Development & Economic Network (EDEN), Inc./SRA 2004 | 7812 Madison Avenue | Cleveland | 44102 | 1,520,040
Emerald Development & Economic Network (EDEN), Inc./SRA 2007 Consolidation | 7812 Madison Avenue | Cleveland | 44102 | 1,087,357
Emerald Development & Economic Network (EDEN), Inc./TRA 1145 Units—93 | 7812 Madison Avenue | Cleveland | 44102 | 10,828,192
Mental Health Services for Homeless Persons, Inc./8301 Detroit | 1744 Payne Avenue | Cleveland | 44114 | 967,874
Mental Health Services for Homeless Persons, Inc./Downtown Superior Apartments | 1744 Payne Avenue | Cleveland | 44114 | 221,263
Mental Health Services for Homeless Persons, Inc./Emerald Alliance XI | 1744 Payne Avenue | Cleveland | 44114 | 692,118
Mental Health Services for Homeless Persons, Inc./Euclid | 1744 Payne Avenue | Cleveland | 44114 | 1,556,628
Mental Health Services for Homeless Persons, Inc./Miles | 1744 Payne Avenue | Cleveland | 44114 | 762,042
Mental Health Services for Homeless Persons, Inc./Payne Avenue Plus | 1744 Payne Avenue | Cleveland | 44114 | 728,063
Mental Health Services for Homeless Persons, Inc./Permanent Housing for Young Adults | 1744 Payne Avenue | Cleveland | 44114 | 466,408
Mental Health Services for Homeless Persons, Inc./Safe Haven 3 | 1744 Payne Avenue | Cleveland | 44114 | 464,170
Mental Health Services for Homeless Persons, Inc./South Pointe | 1744 Payne Avenue | Cleveland | 44114 | 1,021,131
Transitional Housing, Inc./Permanent Supportive Housing/CH | 1545 West 25th Street | Cleveland | 44113 | 64,859
Transitional Housing, Inc./PSH/CH 8 Bonus Project | 1545 West 25th Street | Cleveland | 44113 | 80,094
Community Shelter Board/Alvis, Inc. 2018 Amethyst Program | 111 Liberty St. Suite 150 | Columbus | 43215 | 570,143
Community Shelter Board/CHN 2018 Briggsdale Apartments | 111 Liberty St. Suite 150 | Columbus | 43215 | 237,393
Community Shelter Board/CHN 2018 Briggsdale II and TRA II | 111 Liberty St. Suite 150 | Columbus | 43215 | 553,489
Community Shelter Board/CHN 2018 Community ACT | 111 Liberty St. Suite 150 | Columbus | 43215 | 280,908
Community Shelter Board/CHN 2018 East Fifth Avenue Apartments | 111 Liberty St. Suite 150 | Columbus | 43215 | 232,914
Community Shelter Board/CHN 2018 Family Homes | 111 Liberty St. Suite 150 | Columbus | 43215 | 13,310
Community Shelter Board/CHN 2018 Inglewood Court | 111 Liberty St. Suite 150 | Columbus | 43215 | 60,247
Community Shelter Board/CHN 2018 Leasing SHP Program | 111 Liberty St. Suite 150 | Columbus | 43215 | 238,081
Community Shelter Board/CHN 2018 Parsons Avenue Apartments | 111 Liberty St. Suite 150 | Columbus | 43215 | 256,811
Community Shelter Board/CHN 2018 S+C SRA | 111 Liberty St. Suite 150 | Columbus | 43215 | 1,744,795
Community Shelter Board/CHN 2018 S+C TRA | 111 Liberty St. Suite 150 | Columbus | 43215 | 1,419,351
Community Shelter Board/CHN 2018 Safe Haven | 111 Liberty St. Suite 150 | Columbus | 43215 | 188,951
Community Shelter Board/CHN 2018 Southpoint Place Apartments | 111 Liberty St. Suite 150 | Columbus | 43215 | 381,136
Community Shelter Board/CHN 2018 Terrace Place Apartments | 111 Liberty St. Suite 150 | Columbus | 43215 | 135,549
Community Shelter Board/CHN 2018 Wilson Apartments | 111 Liberty St. Suite 150 | Columbus | 43215 | 66,279
Community Shelter Board/CSB 2018 CoC Planning | 111 Liberty St. Suite 150 | Columbus | 43215 | 360,265
Community Shelter Board/CSB 2018 HMIS/CSP | 111 Liberty St. Suite 150 | Columbus | 43215 | 164,070
Community Shelter Board/CSB 2018 UFA | 111 Liberty St. Suite 150 | Columbus | 43215 | 240,177
Community Shelter Board/Equitas Health 2018 PSH | 111 Liberty St. Suite 150 | Columbus | 43215 | 805,599
Community Shelter Board/Huckleberry House 2018 Transitional Living Program | 111 Liberty St. Suite 150 | Columbus | 43215 | 232,135
Community Shelter Board/Maryhaven 2018 Supportive Housing Project | 111 Liberty St. Suite 150 | Columbus | 43215 | 183,196
Community Shelter Board/NCR 2018 CAG EXP+ENH | 111 Liberty St. Suite 150 | Columbus | 43215 | 297,024
Community Shelter Board/NCR 2018 Commons at Buckingham | 111 Liberty St. Suite 150 | Columbus | 43215 | 110,051
Community Shelter Board/NCR 2018 Commons at Third | 111 Liberty St. Suite 150 | Columbus | 43215 | 110,051
Community Shelter Board/TSA 2018 Job2Housing | 111 Liberty St. Suite 150 | Columbus | 43215 | 299,837
Community Shelter Board/Van Buren Village PSH | 111 Liberty St. Suite 150 | Columbus | 43215 | 64,200
Community Shelter Board/VOAGO 2018 Permanent Supportive Housing for Families | 111 Liberty St. Suite 150 | Columbus | 43215 | 519,150
Community Shelter Board/YMCA 2018 DV RRH | 111 Liberty St. Suite 150 | Columbus | 43215 | 682,054
Community Shelter Board/YMCA 2018 Isaiah Project 1 | 111 Liberty St. Suite 150 | Columbus | 43215 | 1,863,757
Community Shelter Board/YMCA 2018 S+C SRA 1 | 111 Liberty St. Suite 150 | Columbus | 43215 | 211,178
Community Shelter Board/YWCA 2018 Wings 1 | 111 Liberty St. Suite 150 | Columbus | 43215 | 257,848
YWCA Mahoning Valley/YWCA Permanent Housing for Families with Disabilities | 25 West Rayen Avenue | Youngstown | 44503 | 351,223
YWCA Mahoning Valley/YWCA Scattered-Site 2 Permanent Housing for Disabled Families | 25 West Rayen Avenue | Youngstown | 44503 | 203,531
Beatitude House/Beatitude House CH Permanent Supportive Housing | 238 Tod Lane | Youngstown | 44504 | 92,553
Beatitude House/Beatitude House Permanent Supportive Housing Program | 238 Tod Lane | Youngstown | 44504 | 369,881
Catholic Charities Regional Agency/HMIS Expansion Grant | 319 W Rayen Avenue | Youngstown | 44502 | 60,000
Catholic Charities Regional Agency/HMIS Project | 319 W Rayen Avenue | Youngstown | 44502 | 15,000
Mahoning County Mental Health and Recovery Board/PSH Vouchers 2018 | 222 West Federal Street Suite 201 | Youngstown | 44503 | 126,068
Meridian HeatlhCare /Homestead House | 527 N Meridian Rd | Youngstown | 44509 | 11,667
Meridian HeatlhCare /Meridian Women's Center South | 527 N Meridian Rd | Youngstown | 44509 | 43,838
Meridian HeatlhCare /Phoenix Court | 527 N Meridian Rd | Youngstown | 44509 | 132,583
Meridian HeatlhCare /Samaritan Housing, PRA | 527 N Meridian Rd | Youngstown | 44509 | 13,870
Meridian HeatlhCare /SRO II | 527 N Meridian Rd | Youngstown | 44509 | 354,270
The Board of Mahoning County Commissioners/CoC Planning Grant 2018 | 21 W Boardman St. Suite 200 | Youngstown | 44503 | 86,388
Ursuline Center/Merici Housing PSH | 4280 Shields Road | Canfield | 44406 | 58,170
City of Dayton, Ohio/2018 SRA II Renewal | 101 W Third Street | Dayton | 45402 | 101,802
City of Dayton, Ohio/2018 SRA Renewal | 101 W Third Street | Dayton | 45402 | 482,491
City of Dayton, Ohio/2018 TRA Renewal | 101 W Third Street | Dayton | 45402 | 2,178,044
Daybreak, Inc./Rapid Rehousing for Youth | 605 S Patterson Boulevard | Dayton | 45402 | 299,700
Daybreak, Inc./TH for Youth Consolidated | 605 S Patterson Boulevard | Dayton | 45402 | 583,071
Eastway Corporation/HOPE Housing and Aspire | 600 Wayne Ave | Dayton | 45410 | 1,013,591
Homefull/Iowa Avenue Commons | 33 W First Street Suite 100 | Dayton | 45402 | 140,916
Homefull/Rapid Re-Housing | 33 W First Street Suite 100 | Dayton | 45402 | 254,540
Homefull/River Commons II | 33 W First Street Suite 100 | Dayton | 45402 | 180,844
Homefull/RRH Priority Populations | 33 W First Street Suite 100 | Dayton | 45402 | 408,558
Homefull/Saphire Rapid Rehousing | 33 W First Street Suite 100 | Dayton | 45402 | 166,149
Miami Valley Housing Opportunities, Inc/Key Terrace | 907 W Fifth Street | Dayton | 45402 | 387,879
Miami Valley Housing Opportunities, Inc/Leasing II—RRH Transition | 907 W Fifth Street | Dayton | 45402 | 133,732
Miami Valley Housing Opportunities, Inc/MVHO Rental Assistance | 907 W Fifth Street | Dayton | 45402 | 422,403
Miami Valley Housing Opportunities, Inc/MVHO Westcliff | 907 W Fifth Street | Dayton | 45402 | 234,382
Miami Valley Housing Opportunities, Inc/Ohio Commons Consolidated | 907 W Fifth Street | Dayton | 45402 | 230,003
Montgomery County Board of County Commissioners/CoC Coordinated Entry | 451 W Third St. 9th Floor | Dayton | 45422 | 112,320
Montgomery County Board of County Commissioners/CoC Coordinated Entry Expansion | 451 W Third St. 9th Floor | Dayton | 45422 | 21,904
Montgomery County Board of County Commissioners/HMIS | 451 W Third St. 9th Floor | Dayton | 45422 | 140,525
Montgomery County Board of County Commissioners/OH-505 CoC Planning 2018 | 451 W Third St. 9th Floor | Dayton | 45422 | 261,623
PLACES Inc./Housing First I-IV | 11 W Monument Ave—7th Floor | Dayton | 45402 | 996,009
PLACES Inc./Opening Doors for the Homeless | 11 W Monument Ave—7th Floor | Dayton | 45402 | 427,100
St Vincent de Paul Social Services, Inc./St. Vincent de Paul Center PSH FY 2018 | 124 W Apple Street | Dayton | 45402 | 125,869
St. Vincent de Paul Social Services, Inc./St. Vincent de Paul Kettering Commons PSH FY 2018 | 124 W Apple Street | Dayton | 45402 | 124,151
St. Vincent de Paul Social Services, Inc./St. Vincent de Paul Safe Haven FY 2018 | 124 W Apple Street | Dayton | 45402 | 324,177
YWCA Dayton/Rapid Rehousing for DV Survivors | 141 W Third St | Dayton | 45402 | 562,558
ACCESS, Inc./STEP II | 230 West Market Street | Akron | 44303 | 120,987
Akron Metropolitan Housing Authority/Shelter Plus Care (CANAPI 2018) OH0152L5E061710 | 100 W Cedar Street N/A | Akron | 44307 | 146,255
Akron Metropolitan Housing Authority/Shelter Plus Care (CSS 2018) OH0153L5E061710 | 100 W Cedar Street N/A | Akron | 44307 | 492,100
Battered Women's Shelter/Step III | 974 East Market Street | Akron | 44305 | 272,797
Battered Women's Shelter/Step III-DV Bonus Expansion | 974 East Market Street | Akron | 44305 | 314,121
City of Akron/OH-506 CoC Planning Application FY2018 | 166 S High St. Suite 400 | Akron | 44308 | 152,740
Community AIDS Network/Akron Pride Initiative/The Micah Program | 759 West Market Street First Floor | Akron | 44303 | 116,853
Community Health Center/Peachtree I—PSH | 838 Coburn St | Akron | 44311 | 125,746
Community Health Center/Peachtree II | 838 Coburn St | Akron | 44311 | 100,115
Communtiy Support Services Inc./Blue Herron | 150 Cross St | Akron | 44311 | 236,976
Communtiy Support Services Inc./Safe Haven | 150 Cross St | Akron | 44311 | 169,467
Communtiy Support Services Inc./The Commons at Madaline Park | 150 Cross St | Akron | 44311 | 266,097
H. M. Life Opportunity Services/Access Home | 3250 W Market Street Suite # 204 | Akron | 44333 | 184,108
H. M. Life Opportunity Services/Blackbird Landing | 3250 W Market Street Suite # 204 | Akron | 44333 | 130,091
H. M. Life Opportunity Services/Blackbird Landing II | 3250 W Market Street Suite # 204 | Akron | 44333 | 137,179
H. M. Life Opportunity Services/Permanent Supportive Housing—H.M. Life Opportunity Services | 3250 W Market Street Suite # 204 | Akron | 44333 | 441,684
Info Line, Inc./Akron/Summit County HMIS | 703 South Main Street Suite 211 | Akron | 44311 | 260,442
Info Line, Inc./Centralized Intake—Summit | 703 South Main Street Suite 211 | Akron | 44311 | 85,652
Info Line, Inc./Home Again | 703 South Main Street Suite 211 | Akron | 44311 | 63,732
Info Line, Inc./Hope | 703 South Main Street Suite 211 | Akron | 44311 | 155,832
Legacy III, Inc/Brubaker Program 2018 | 733 W Market Street, Suite B5A | Akron | 44303 | 152,635
Legacy III, Inc/Emerging Women Program 2018 | 733 W Market Street, Suite B5A | Akron | 44303 | 141,881
Legacy III, Inc/Humble Beginnings Program 2018 | 733 W Market Street, Suite B5A | Akron | 44303 | 130,301
Legacy III, Inc/Women's Empowerment Program 2018 | 733 W Market Street, Suite B5A | Akron | 44303 | 77,428
North Coast Community Homes, Inc./Akron Supportive Housing (South Street) | 14221 Broadway Ave | Cleveland | 44125 | 39,507
North Coast Community Homes, Inc./Akron Supportive Housing (Waterloo) | 14221 Broadway Ave | Cleveland | 44125 | 45,933
Oriana House, Inc/Project Beginnings I | P.O. Box 1501 | Akron | 44309 | 16,688
Summit County Children Services/Homes For Foster Youth | 264 S Arlington St | Akron | 44306 | 140,672
Summit County Children Services/Transitions to Independence | 264 S Arlington St | Akron | 44306 | 117,847
Allen Metropolitan Housing Authority/Allen Shelter Plus Care Vouchers | 600 South Main Street | Lima | 45804 | 187,334
Appleseed Community Mental Health Center, Inc./Appleseed RRH | 2233 Rocky Lane | Ashland | 44805 | 174,270
Ashtabula County Mental Health and Recovery Services Board/Ashtabula Shelter Plus Care Vouchers for homeless persons with mental illness | 4817 State Road Suite 203 | Ashtabula | 44004 | 353,102
Athens Metropolitan Housing Authority/Athens Serenity Village SAMI Shelter Plus Care | 10 Hope Drive NA | Athens | 45701 | 40,832
Athens Metropolitan Housing Authority/Athens Shelter Plus Care | 10 Hope Drive NA | Athens | 45701 | 272,346
Battered Women's Shelter/DV Bonus RRH Project for Ohio BoSCoC | 974 East Market Street | Akron | 44305 | 1,756,056
Butler County, Ohio/PSH Butler County | 130 High Street 6th Floor | Hamilton | 45011 | 529,219
City of Springfield/Springfield Shelter Plus Care 1 | 76 E High Street | Springfield | 45502 | 149,287
City of Springfield/Springfield St Vincent DePaul Shelter + Care | 76 E High Street | Springfield | 45502 | 33,352
Coalition On Homelessness and Housing in Ohio/Homeless Management Information System | 175 S 3rd Street Suite 250 | Columbus | 43215 | 458,840
Coleman Professional Services/Beacon House | 5982 Rhodes Road | Kent | 44240 | 292,261
Coleman Professional Services/Coleman PSH | 5982 Rhodes Road | Kent | 44240 | 283,791
Coleman Professional Services/Jefferson County Shelter Plus Care | 5982 Rhodes Road | Kent | 44240 | 429,958
Columbiana County Mental Health Clinic /Permanent Housing for Persons with Disabilities | P.O. Box 429 40722 State Route 154 | Lisbon | 44432 | 41,724
Columbiana Metropolitan Housing Authority/Columbiana Free Choice II: The Counseling Center | 325 Moore Street | East Liverpool | 43920 | 34,507
Columbiana Metropolitan Housing Authority/Columbiana MHA Shelter + Care I | 325 Moore Street | East Liverpool | 43920 | 299,873
Community Action Commission of Fayette County/CAC Permanent Supportive Housing | 1400 US Route 22 NW | Washington Court House | 43160 | 114,715
Community Action Commission of Fayette County/Fayette Landing PSH | 1400 US Route 22 NW | Washington Court House | 43160 | 145,209
Community Action Commission of Fayette County/Stable Futures | 1400 US Route 22 NW | Washington Court House | 43160 | 67,767
Family & Community Services, Inc./Portage Area Transitional Housing 3 | 705 Oakwood St. Suite #221 | Ravenna | 44266 | 117,484
Family & Community Services, Inc./Ravenna Permanent Supportive Housing for Veterans | 705 Oakwood St. Suite #221 | Ravenna | 44266 | 13,005
Family Abuse Shelter of Miami County, Inc. /Family Abuse Shelter PSH | 16 East Franklin Street | Troy | 45373 | 26,614
Family Abuse Shelter of Miami County, Inc. /Miami County Family RRH | 16 East Franklin Street | Troy | 45373 | 113,844
Family Violence Prevention Center of Greene County, Inc./Supportive Opportunities and Services | 380 Bellbrook Ave | Xenia | 45385 | 123,483
Fayette County Metropolitan Housing Authority/Fayette Shelter Plus Care | 121 East Street | Washington Court House | 43160 | 73,351
Findlay Hope House for the Homeless, Inc./Able Housing | 1800 N Blanchard St. Suite 106 | Findlay | 45840 | 220,923
Geauga County Board of Mental Health & Recovery Services/Permanent Supportive Housing | 13244 Ravenna Road | Chardon | 44024 | 152,419
City of Philadelphia/HOPIN I | Municipal Services Bldg, 1401 JFK Blvd 10th FLR | Philadelphia | 19102 | 855,372
City of Philadelphia/HOPIN II | Municipal Services Bldg, 1401 JFK Blvd 10th FLR | Philadelphia | 19102 | 667,920
City of Philadelphia/HOPIN IV | Municipal Services Bldg, 1401 JFK Blvd 10th FLR | Philadelphia | 19102 | 418,414
City of Philadelphia/Housing First and Community Integration | Municipal Services Bldg, 1401 JFK Blvd 10th FLR | Philadelphia | 19102 | 929,547
City of Philadelphia/Independence Place | Municipal Services Bldg, 1401 JFK Blvd 10th FLR | Philadelphia | 19102 | 120,791
City of Philadelphia/Independence Place Expansion | Municipal Services Bldg, 1401 JFK Blvd 10th FLR | Philadelphia | 19102 | 162,038
City of Philadelphia/JBJ Soul Homes | Municipal Services Bldg, 1401 JFK Blvd 10th FLR | Philadelphia | 19102 | 278,430
City of Philadelphia/Kairos House/1523 Fairmount | Municipal Services Bldg, 1401 JFK Blvd 10th FLR | Philadelphia | 19102 | 270,440
City of Philadelphia/Kate's Place Consolidated | Municipal Services Bldg, 1401 JFK Blvd 10th FLR | Philadelphia | 19102 | 281,280
City of Philadelphia/New Generations | Municipal Services Bldg, 1401 JFK Blvd 10th FLR | Philadelphia | 19102 | 83,621
City of Philadelphia/Pathways Bonus Project Renewal | Municipal Services Bldg, 1401 JFK Blvd 10th FLR | Philadelphia | 19102 | 552,884
City of Philadelphia/Patriot House | Municipal Services Bldg, 1401 JFK Blvd 10th FLR | Philadelphia | 19102 | 62,393
City of Philadelphia/Philadelphia Rapid Rehousing | Municipal Services Bldg, 1401 JFK Blvd 10th FLR | Philadelphia | 19102 | 198,263
City of Philadelphia/Rap4Youth | Municipal Services Bldg, 1401 JFK Blvd 10th FLR | Philadelphia | 19102 | 755,975
City of Philadelphia/Ray Homes/St Elizabeth's | Municipal Services Bldg, 1401 JFK Blvd 10th FLR | Philadelphia | 19102 | 411,828
City of Philadelphia/Reunification | Municipal Services Bldg, 1401 JFK Blvd 10th FLR | Philadelphia | 19102 | 3,086,332
City of Philadelphia/Rowan Homes | Municipal Services Bldg, 1401 JFK Blvd 10th FLR | Philadelphia | 19102 | 656,652
City of Philadelphia/Safe At Home | Municipal Services Bldg, 1401 JFK Blvd 10th FLR | Philadelphia | 19102 | 251,354
City of Philadelphia/Salvation Army Consolidated | Municipal Services Bldg, 1401 JFK Blvd 10th FLR | Philadelphia | 19102 | 352,740
City of Philadelphia/Shelton Court | Municipal Services Bldg, 1401 JFK Blvd 10th FLR | Philadelphia | 19102 | 106,934
City of Philadelphia/St Raymond's House | Municipal Services Bldg, 1401 JFK Blvd 10th FLR | Philadelphia | 19102 | 338,757
City of Philadelphia/Streets to Home 1 | Municipal Services Bldg, 1401 JFK Blvd 10th FLR | Philadelphia | 19102 | 267,463
City of Philadelphia/Tioga Arms | Municipal Services Bldg, 1401 JFK Blvd 10th FLR | Philadelphia | 19102 | 324,463
COMHAR/COMPASS 1 Program 2018 | 100 W Lehigh Ave | Philadelphia | 19133 | 273,009
COMHAR/SHP 2 Program 2018 | 100 W Lehigh Ave | Philadelphia | 19133 | 513,653
Committee For Dignity and Fairness For the Homeless Housing /Dignity II Transitional Housing | 5227-R Germantown Avenue | Philadelphia | 19144 | 122,253
Committee For Dignity and Fairness For the Homeless Housing /Dignity III—Better Options for Self-Sufficiency (BOSS) | 5227-R Germantown Avenue | Philadelphia | 19144 | 30,569
Committee For Dignity and Fairness For the Homeless Housing /Enhanced Services Project (ESP) | 5227-R Germantown Avenue | Philadelphia | 19144 | 223,297
Drueding Center/New Neighbors | 413 W Master St | Philadelphia | 19122 | 326,254
Drueding Center/Project Rainbow | 413 W Master St | Philadelphia | 19122 | 916,217
Gaudenzia Inc./Harbor House | 106 W Main Street | Norristown | 19401 | 72,328
Gaudenzia Inc./Thompson Street/Shelton Court Apartments | 106 W Main Street | Norristown | 19401 | 72,855
Gaudenzia Inc./Tioga Arms Apartments | 106 W Main Street | Norristown | 19401 | 248,249
HELP Development Corporation/HELP Philadelphia II | 115 East 13th Street | New York | 10003 | 487,622
Horizon House/Home First | 120 South 30th Street | Philadelphia | 19104 | 829,403
Horizon House/Horizon House Permanent Housing Initiative | 120 South 30th Street | Philadelphia | 19104 | 112,762
Horizon House/Journey Home | 120 South 30th Street | Philadelphia | 19104 | 203,005
Horizon House/Supports to Achieve Self Sufficiency | 120 South 30th Street | Philadelphia | 19104 | 346,062
Horizon House/Welcome Home | 120 South 30th Street | Philadelphia | 19104 | 689,369
Impact Services Corp./Hancock Manor | 174 W Allegheny Avenue | Philadelphia | 19133 | 57,407
Impact Services Corp./Home base | 174 W Allegheny Avenue | Philadelphia | 19133 | 660,245
Methodist Services/Fairway Commons | 4300 Monument Road | Philadelphia | 19131 | 578,858
Methodist Services/Fresh Start | 4300 Monument Road | Philadelphia | 19131 | 173,383
Methodist Services/Monument Village | 4300 Monument Road | Philadelphia | 19131 | 238,975
My Place Germantown/My Place Germantown | 209 E Price St | Philadelphia | 19144 | 235,437
Pathways to Housing PA Inc/Pathways Phila IVAST Project | 5201 Old York Road Suite 108 | Philadelphia | 19141 | 523,956
Pathways to Housing PA Inc/PTH Phila Integrated Services Project SHP | 5201 Old York Road Suite 108 | Philadelphia | 19141 | 708,566
Pathways to Housing PA Inc/SALT PTH | 5201 Old York Road Suite 108 | Philadelphia | 19141 | 369,752
People's Emergency Center/3902 Transitional Housing | 325 North 39th Street | Philadelphia | 19104 | 241,083
People's Emergency Center/Bernice Elza | 325 North 39th Street | Philadelphia | 19104 | 76,272
People's Emergency Center/Bigham Homes | 325 North 39th Street | Philadelphia | 19104 | 89,582
People's Emergency Center/Cloisters III | 325 North 39th Street | Philadelphia | 19104 | 98,188
People's Emergency Center/Fattah Homes II | 325 North 39th Street | Philadelphia | 19104 | 78,593
People's Emergency Center/Imani Homes II | 325 North 39th Street | Philadelphia | 19104 | 217,480
People's Emergency Center/Imani Homes III | 325 North 39th Street | Philadelphia | 19104 | 226,225
People's Emergency Center/Imani II Leasing | 325 North 39th Street | Philadelphia | 19104 | 15,053
People's Emergency Center/Rowan House | 325 North 39th Street | Philadelphia | 19104 | 248,181
Project HOME/Women of Change/St Columba FY2018 | 1515 Fairmount | Philadelphia | 19130 | 773,964
Resources for Human Development, Inc./Project Advantage | 4700 Wissahickon Ave, Suite 126 | Philadelphia | 19144 | 257,395
The Salvation Army, a New York Corporation/Reed House and Mid-City Apartments | 440 West Nyack Road | West Nyack | 10994 | 256,559
The Veterans Multi-Service Center/Veterans Home Project | 213-217 N 4th Street | Philadelphia | 19106 | 318,571
Travelers Aid Society of Philadelphia/Chestnut Manor | 111 N 49th Street | Philadelphia | 19139 | 203,908
Travelers Aid Society of Philadelphia/Melville Way | 111 N 49th Street | Philadelphia | 19139 | 131,428
Travelers Aid Society of Philadelphia/RSVP | 111 N 49th Street | Philadelphia | 19139 | 915,939
Volunteers Of America Delaware Valley Inc/The Lofts at 2601 | 531 Market St | Camden | 08102 | 113,597
Women Against Abuse, Inc./Sojourner House | 100 S Broad Street Suite 1341 | Philadelphia | 19110 | 179,786
Brethren Housing Association/Side By Side | 219 Hummel Street | Harrisburg | 17104 | 77,177
Capital Area Coalition on Homelessness/CACH Planning Project 2019-2020 | 10 North Second Street Suite 405 | Harrisburg | 17101 | 55,930
Capital Area Coalition on Homelessness/HMIS Renewal Application FY2018 | 10 North Second Street Suite 405 | Harrisburg | 17101 | 48,705
Christian Churches United/HELP Ministries Rapid Rehousing | 413 S 19th Street | Harrisburg | 17104 | 91,939
Christian Churches United/Susquehanna Harbor Safe Haven | 413 S 19th Street | Harrisburg | 17104 | 317,210
Gaudenzia Foundation, Inc./DELTA RRH 3 units FY2018 | 2930 Derry Street | Harrisburg | 17111 | 42,688
Gaudenzia Foundation, Inc./DELTA RRH 7 units FY2018 | 2930 Derry Street | Harrisburg | 17111 | 97,320
Housing Authority of the County of Dauphin/Dauphin Co. 2008 S+C Expansion Renewal 2018 | 501 Mohn Street P.O. Box 7598 | Steelton | 17113 | 39,132
Housing Authority of the County of Dauphin/Dauphin Co. Housing Authority Renewal 2018 | 501 Mohn Street P.O. Box 7598 | Steelton | 17113 | 259,809
Housing Authority of the County of Dauphin/S+C 2011 Expansion 2018 | 501 Mohn Street P.O. Box 7598 | Steelton | 17113 | 26,815
Shalom House/SHARP | 9 S 15th Street | Harrisburg | 17104 | 104,242
YWCA of Greater Harrisburg/2018 Housing for Victims of Human Trafficking Renewal | 1101 Market Street | Harrisburg | 17103 | 156,985
YWCA of Greater HarrisburG/2018 PHD Renewal | 1101 Market Street | Harrisburg | 17103 | 125,777
YWCA of Greater Harrisburg/2018 Safe Haven Permanent Supportive Housing Renewal | 1101 Market Street | Harrisburg | 17103 | 135,390
YWCA of Greater Harrisburg/2018 YW Veterans Housing | 1101 Market Street | Harrisburg | 17103 | 75,626
YWCA of Greater Harrisburg/2018 YWCA Joint TH-RRH Renewal | 1101 Market Street | Harrisburg | 17103 | 180,912
Catholic Social Services/2018 HRCP Renew 7/30/18 | 222 N 17th Street Ste 300 | Philadelphia | 19103 | 87,780
Community Action Agency of Delaware County, Inc./Coordinated Entry—CAADC | 1414 Meetinghouse Road | Boothwyn | 19061 | 177,263
Community Action Agency of Delaware County, Inc./Rapid Re-Housing Program CAADC | 1414 Meetinghouse Road | Boothwyn | 19061 | 150,339
Community Action Agency of Delaware County, Inc./RRH Expansion—Housing Locator | 1414 Meetinghouse Road | Boothwyn | 19061 | 12,430
County of Delaware/CoC—Coordinated Entry | 20 S 69th St, 4th Floor | Upper Darby | 19082 | 57,292
County of Delaware/CoC Planning Grant FY18 | 20 S 69th St, 4th Floor | Upper Darby | 19082 | 146,625
County of Delaware/HMIS | 20 S 69th St, 4th Floor | Upper Darby | 19082 | 200,000
County of Delaware/OBH RRH | 20 S 69th St, 4th Floor | Upper Darby | 19082 | 657,521
County of Delaware/OBH-PSH CH T2 FC | 20 S 69th St, 4th Floor | Upper Darby | 19082 | 227,996
County of Delaware/OBH-PSH-CH HH | 20 S 69th St, 4th Floor | Upper Darby | 19082 | 176,660
County of Delaware/S + C 67 | 20 S 69th St, 4th Floor | Upper Darby | 19082 | 259,098
Delaware County Housing Authority/DCHA—FCS SHP | 1855 Constitution Ave | Woodlyn | 19094 | 147,593
Delaware County Housing Authority/Del. Co. PSH for Homeless Adults with Mental Illness | 1855 Constitution Ave | Woodlyn | 19094 | 469,200
Delaware County Housing Authority/Shelter Plus Care 2345 | 1855 Constitution Ave | Woodlyn | 19094 | 664,958
Family and Community Service of Delaware County/Ralph Moses House Joint TH-RRH | 600 North Olive Street | Media | 19063 | 293,488
Horizon House/Coordinated Entry—Horizon House | 120 South 30th Street | Philadelphia | 19104 | 173,223
Horizon House/Horizon House PSH CH | 120 South 30th Street | Philadelphia | 19104 | 341,740
Horizon House/SHP Reallocation Project | 120 South 30th Street | Philadelphia | 19104 | 102,897
Mental Health Partnerships/Connect | 1211 Chestnut Street | Philadelphia | 19107 | 164,351
Mental Health Partnerships/Connect to Rapid Re-Housing | 1211 Chestnut Street | Philadelphia | 19107 | 141,798
The Salvation Army, a New York Corporation/Salvation Army Chester Consolidated PSH | 440 West Nyack Road | West Nyack | 10994 | 411,635
The Salvation Army, a New York Corporation/The Salvation Army Stepping Stone Program | 440 West Nyack Road | West Nyack | 10994 | 99,806
Catholic Social Services of the Diocese of Scranton Inc/Gabriel House | 504 Penn Avenue | Scranton | 18509 | 113,140
Catholic Social Services of the Diocese of Scranton Inc/Holy Family Housing | 504 Penn Avenue | Scranton | 18509 | 63,725
Catholic Social Services of the Diocese of Scranton Inc/Mother Teresa's Haven PSHP | 504 Penn Avenue | Scranton | 18509 | 87,355
Catholic Social Services of the Diocese of Scranton Inc/RRH-1 | 504 Penn Avenue | Scranton | 18509 | 84,516
Catholic Social Services of the Diocese of Scranton Inc/St Ann Expansion | 504 Penn Avenue | Scranton | 18509 | 272,359
Catholic Social Services of the Diocese of Scranton, Inc./St Hedwig's Veterans Village | 504 Penn Avenue | Scranton | 18509 | 72,936
Catholic Social Services of the Diocese of Scranton, Inc./VA-PSHP Luzerne | 504 Penn Avenue | Scranton | 18509 | 147,243
Catholic Youth Center/CYC Homeless Child Care Program | 36 South Washington Street | Wilkes-Barre | 18701 | 281,459
Commission on Economic Opportunity/2018 Luzerne County CoC Planning Application | 165 Amber Lane | Wilkes-Barre | 18703 | 131,927
Commission on Economic Opportunity/HMIS for Luzerne County CoC | 165 Amber Lane | Wilkes-Barre | 18703 | 167,618
Commission on Economic Opportunity/PSH Chronic Homeless 1 | 165 Amber Lane | Wilkes-Barre | 18703 | 170,669
Commission on Economic Opportunity/PSH Chronic Homeless 2 | 165 Amber Lane | Wilkes-Barre | 18703 | 129,638
Commission on Economic Opportunity/PSH for 9 Homeless Families | 165 Amber Lane | Wilkes-Barre | 18703 | 119,358
Commission on Economic Opportunity/PSH for Families and Individuals | 165 Amber Lane | Wilkes-Barre | 18703 | 165,183
Commission on Economic Opportunity/Rev. Edward P. Nolan Residence | 165 Amber Lane | Wilkes-Barre | 18703 | 156,980
Commission on Economic Opportunity/SHP Case Management for the Homeless | 165 Amber Lane | Wilkes-Barre | 18703 | 101,428
Commission on Economic Opportunity/William Cherkes Residence | 165 Amber Lane | Wilkes-Barre | 18703 | 112,324
Domestic Violence Service Center, Inc./See Yourself Succeed | P.O. Box 2177 | Wilkes-Barre | 18703 | 52,354
Housing Development Corporation of NEPA/HDC SHP 1 2018 | 163 Amber Lane | Wilkes-Barre | 18702 | 242,366
Housing Development Corporation of NEPA/HDC SHP 2 2018 | 163 Amber Lane | Wilkes-Barre | 18702 | 132,480
Housing Development Corporation of NEPA/HDC SHP 4 2018 | 163 Amber Lane | Wilkes-Barre | 18702 | 182,635
Housing Development Corporation of NEPA/HDC SHP 5 2018 | 163 Amber Lane | Wilkes-Barre | 18702 | 208,471
Housing Development Corporation of NEPA/Rapid Re-Housing for Families 2018 | 163 Amber Lane | Wilkes-Barre | 18702 | 141,756
The Salvation Army, a New York Corporation/Kirby Family House | 440 West Nyack Road | West Nyack | 10994 | 258,442
Valley Youth House Committee, Inc./Luzerne Cty RRH for Young Adults | 3400 High Point Blvd | Bethlehem | 18017 | 350,675
Valley Youth House Committee, Inc./Luzerne Cty RRH for Young Adults—Expansion | 3400 High Point Blvd | Bethlehem | 18017 | 46,908
Volunteers of America/Manna House | 25 N River St | Wilkes Barre | 18702 | 267,735
County of Montgomery, PA/Coordinated Homeless Outreach Center | 1430 DeKalb St P.O. Box 311 | Norristown | 19404 | 173,295
County of Montgomery, PA/Permanent Solutions II | 1430 DeKalb St P.O. Box 311 | Norristown | 19404 | 342,822
County of Montgomery, PA/Project Vesta Consolidated | 1430 DeKalb St P.O. Box 311 | Norristown | 19404 | 217,628
County of Montgomery, Pennsylvania/HMIS Dedicated Project 2018 | Office of Housing & Community Development Human Services Center, 1430 DeKalb Street | Norristown | 19404 | 139,242
County of Montgomery, Pennsylvania/PA-504 CoC Planning Application FY2018 | Office of Housing & Community Development Human Services Center, 1430 DeKalb Street | Norristown | 19404 | 92,196
Family Service of Montgomery County/FSMC Permanent Supportive Housing Montgomery | 3125 Ridge Pike | Eagleville | 19403 | 366,119
Hedwig House, Inc./MH/D&A Shelter Liaison Expansion 109 | 1717 Swede Road Suite 114 | Blue Bell | 19422 | 156,204
Keystone Opportunity Center, Inc./Keystone Rapid Rehousing Expand 2018 | 104 Main Street | Souderton | 18964 | 104,534
Keystone Opportunity Center, Inc./Keystone Rapid Rehousing Renewal 2018 | 104 Main Street | Souderton | 18964 | 291,032
Keystone Opportunity Center, Inc./Montco CoC PSH Renewal 2018 | 104 Main Street | Souderton | 18964 | 47,754
Pottstown Cluster of Religious Communities/Consolidated PCRC RRH Projects | 57 North Franklin Street | Pottstown | 19464 | 472,070
The Salvation Army, a New York Corporation/Salvation Army Norristown Consolidated PSH | 440 West Nyack Road | West Nyack | 10994 | 326,655
The Salvation Army, a New York Corporation/Salvation Army Pottstown PSH Program | 440 West Nyack Road | West Nyack | 10994 | 190,600
Valley Youth House Committee, Inc./Montgomery County Rapid Re-Housing for Families | 3400 High Point Blvd | Bethlehem | 18017 | 116,372
Valley Youth House Committee, Inc./TH-RRH for Montgomery County Young Adults | 3400 High Point Blvd | Bethlehem | 18017 | 188,088
County of Chester/2018 Coordinated Entry | 601 Westtown Road, Suite 365 P.O. Box 2747 | West Chester | 19380 | 112,907
County of Chester/2018 Forensic House | 601 Westtown Road, Suite 365 P.O. Box 2747 | West Chester | 19380 | 63,552
County of Chester/2018 HACC RRH-PH Indiv. and Families | 601 Westtown Road, Suite 365 P.O. Box 2747 | West Chester | 19380 | 169,915
County of Chester/2018 Housing Options | 601 Westtown Road, Suite 365 P.O. Box 2747 | West Chester | 19380 | 780,010
County of Chester/2018 RRH Families and Indiv. II | 601 Westtown Road, Suite 365 P.O. Box 2747 | West Chester | 19380 | 101,457
County of Chester/2018 RRH for Individuals | 601 Westtown Road, Suite 365 P.O. Box 2747 | West Chester | 19380 | 101,162
County of Chester/2018-RRH-PH CTI | 601 Westtown Road, Suite 365 P.O. Box 2747 | West Chester | 19380 | 146,301
County of Chester/2018 Safe Haven | 601 Westtown Road, Suite 365 P.O. Box 2747 | West Chester | 19380 | 91,931
County of Chester/CoC Planning Project FY2018 | 601 Westtown Road, Suite 365 P.O. Box 2747 | West Chester | 19380 | 19,189
Holcomb Associates, Inc./Recovery Supported Living 2018 | 467 Creamery Way | Exton | 19341 | 120,807
Berks Coalition to End Homelessness, Inc/PA -506 CoC Planning Application FY2018 | 831 Walnut Street | Reading | 19601 | 98,054
Berks Coalition to End Homelessness, Inc/PA-506 HMIS FY2018 | 831 Walnut Street | Reading | 19601 | 85,600
Berks Counseling Center, Inc./BCC 1135/37 Franklin St Permanent Housing | 645 Penn St, 2nd Floor | Reading | 19601 | 150,655
Berks Counseling Center, Inc./BCC 13 S 10th St Permanent Housing | 645 Penn St, 2nd Floor | Reading | 19601 | 77,754
Berks Counseling Center, Inc./BCC 239 S 5th St Permanent Housing | 645 Penn St, 2nd Floor | Reading | 19601 | 109,962
Berks Counseling Center, Inc./BCC Leasing Assistance 1 Permanent Housing | 645 Penn St, 2nd Floor | Reading | 19601 | 166,834
Berks Counseling Center, Inc./BCC Leasing Assistance 2 Permanent Housing | 645 Penn St, 2nd Floor | Reading | 19601 | 159,767
Berks Counseling Center, Inc./BCC New Hope House Transitional Housing | 645 Penn St, 2nd Floor | Reading | 19601 | 173,259
Berks Counseling Center, Inc./BCC Phoenix House | 645 Penn St, 2nd Floor | Reading | 19601 | 47,631
Berks Counseling Center, Inc./BCC PS Recovery Housing Permanent Housing | 645 Penn St, 2nd Floor | Reading | 19601 | 87,468
Council on Chemical Abuse/Transitional Housing Services for Chemically Dependent Homeless Women with Children | 601 Penn St, Suite 600 | Reading | 19601 | 84,447
Council on Chemical Abuse/Transitional Supportive Housing for Homeless Dually Diagnosed Men | 601 Penn St, Suite 600 | Reading | 19601 | 108,853
Easy Does It, Inc./Permanent Housing—Easy Does It | 1300 Hilltop Road | Leesport | 19533 | 369,927
Easy Does It, Inc./Transitional Housing—Easy Does It | 1300 Hilltop Road | Leesport | 19533 | 98,201
Opportunity House/Linkages | 430 N Second Street | Reading | 19601 | 43,643
Opportunity House/New Beginnings | 430 N Second Street | Reading | 19601 | 33,319
Opportunity House/New Beginnings II | 430 N Second Street | Reading | 19601 | 63,906
Reading Housing Authority/Shelter Plus Care | 400 Hancock Blvd. | Reading | 19611 | 265,835
Safe Berks/Rapid Rehousing for Victims of Domestic Violence | 255 Chestnut Street | Reading | 19602 | 178,020
The Salvation Army, a New York Corporation/Salvation Army Reading Consolidated PSH | 440 West Nyack Road | West Nyack | 10994 | 388,649
The Salvation Army, a New York Corporation/Salvation Army Reading Rapid Rehousing | 440 West Nyack Road | West Nyack | 10994 | 31,209
YMCA of Reading & Berks County/YMCA Permanent Housing | 631 Washington Street | Reading | 19601 | 100,446
Catherine McAuley Center/Permanent Supportive Housing | 430 Pittston Avenue | Scranton | 18505 | 152,982
Catherine McAuley Center/Permanent Supportive Housing #2 | 430 Pittston Avenue | Scranton | 18505 | 188,136
Catherine McAuley Center/Rapid ReHousing Consolidation | 430 Pittston Avenue | Scranton | 18505 | 154,996
Catholic Social Services of the Diocese of Scranton, Inc./CSS PSHP #1 | 504 Penn Avenue | Scranton | 18509 | 130,336
Catholic Social Services of the Diocese of Scranton, Inc./Permanent Supportive Housing 2 | 504 Penn Avenue | Scranton | 18509 | 98,375
Catholic Social Services of the Diocese of Scranton, Inc./VA-PSHP Lackawanna | 504 Penn Avenue | Scranton | 18509 | 99,803
The Community Intervention Center of Lackawanna County/CIC Permanent Supportive Housing #1 | 445 N 6TH Ave | Scranton | 18503 | 162,620
The Community Intervention Center of Lackawanna County/CIC Permanent Supportive Housing #2 | 445 N 6TH Ave | Scranton | 18503 | 121,544
The Community Intervention Center of Lackawanna County/CIC Permanent Supportive Housing #3 | 445 N 6TH Ave | Scranton | 18503 | 214,807
The Community Intervention Center of Lackawanna County/Shelter Me Safe Haven | 445 N 6TH Ave | Scranton | 18503 | 146,031
United Neighborhood Centers of Northeastern Pennsylvania/Homeless Management Information Systems (HMIS) | 777 Keystone Industrial Park Rd | Throop | 18512 | 59,556
United Neighborhood Centers of Northeastern Pennsylvania/PA-508 CoC Planning Application FY2018 | 777 Keystone Industrial Park Rd | Throop | 18512 | 80,513
United Neighborhood Centers of Northeastern Pennsylvania/Permanent Supportive Housing for Families #1 | 777 Keystone Industrial Park Rd | Throop | 18512 | 421,993
United Neighborhood Centers of Northeastern Pennsylvania/UNC Permanent Supportive Housing #1 | 777 Keystone Industrial Park Rd | Throop | 18512 | 337,923
United Neighborhood Centers of Northeastern Pennsylvania/UNC Rapid Re-Housing for Families C | 777 Keystone Industrial Park Rd | Throop | 18512 | 249,172
Valley Youth House Committee, Inc./RRH for Lackawanna County Young Adults | 3400 High Point Blvd | Bethlehem | 18017 | 82,601
Women's Resource Center, Inc./WRC Rapid Rehousing for Domestic & Sexual Violence Survivors | 620 Madison Avenue | Scranton | 18510 | 205,604
Blair County Community Action Program/Rapid Re-Housing Consolidation | 2100 6th Avenue | Altoona | 16602 | 951,650
Catholic Charities of the Diocese of Allentown, Inc/Permanent Supportive Housing Program | 900 South Woodward Street | Allentown | 18103 | 75,751
Catholic Social Services of the Diocese of Scranton, Inc./PSHP Pike County | 504 Penn Avenue | Scranton | 18509 | 93,954
Catholic Social Services of the Diocese of Scranton, Inc./Rural Permanent Supportive Housing | 504 Penn Avenue | Scranton | 18509 | 114,686
Catholic Social Services of the Diocese of Scranton, Inc./Susquehanna/Wayne PSHP | 504 Penn Avenue | Scranton | 18509 | 103,347
Center for Community Action/Bedford, Fulton, Huntingdon RRH FFY2018 | 195 Drive In Lane | Everett | 15537 | 106,495
Center for Community Action/South Central PA RRH FFY2018 | 195 Drive In Lane | Everett | 15537 | 284,373
Centre County Government/Centre County Rapid Re-Housing | 420 Holmes Street | Bellefonte | 16823 | 206,632
Commonwealth of Pennsylvania/Commonwealth of PA HMIS (PA-509) FY2018 | 400 North Street, 4th floor | Harrisburg | 17120 | 174,009
Commonwealth of Pennsylvania/PA-509 CoC Planning Project Application FY 2018 | 400 North Street, 4th floor | Harrisburg | 17120 | 365,682
County of Cambria/Cambria County Comprehensive Housing Program | 200 South Center Street | Ebensburg | 15931 | 161,312
County of Franklin /Franklin/Fulton S+C Project 2019 | 425 Franklin Farm Lane | Chambersburg | 17202 | 86,568
County of Franklin /Franklin/Fulton Homeless Assistance Project 2019 | 425 Franklin Farm Lane | Chambersburg | 17202 | 227,443
County of Lycoming DBA Lycoming-Clinton Joinder Board/Lycoming/Clinton Renewal #7 | 200 East Street | Williamsport | 17701 | 88,495
Fitzmaurice Community Services, Inc/Pathfinders | 2115 North Fifth Street | Stroudsburg | 18360 | 247,794
Housing Alliance of Pennsylvania/Connect To Home Coordinated Entry System Project Grants FY 2018 Consolidated | 309 Florence Ave Suite 914N | Jenkintown | 19046 | 617,716
Housing Authority of Monroe County/Shelter Plus Care MC | 1055 West Main Street | Stroudsburg, | 18360 | 205,281
Housing Authority of the County of Cumberland/Carlisle Supportive Housing Program | 114 North Hanover Street Suite 104 | Carlisle | 17013 | 18,990
Housing Authority of the County of Cumberland/Perry County Rapid ReHousing | 114 North Hanover Street Suite 104 | Carlisle | 17013 | 187,361
Housing Authority of the County of Cumberland/Perry County Veterans Program | 114 North Hanover Street Suite 104 | Carlisle | 17013 | 42,963
Housing Authority of the County of Cumberland/PSH Consolidated | 114 North Hanover Street Suite 104 | Carlisle | 17013 | 306,414
Housing Authority of the County of Cumberland/Rapid Rehousing Cumberland Perry Lebanon | 114 North Hanover Street Suite 104 | Carlisle | 17013 | 153,868
Housing Authority of the County of Cumberland/Rapid Rehousing II | 114 North Hanover Street Suite 104 | Carlisle | 17013 | 129,598
Housing Authority of the County of Cumberland/Shelter + Care Chronic | 114 North Hanover Street Suite 104 | Carlisle | 17013 | 183,194
Housing Development Corporation of NEPA/HDC SHP 3 2018 | 163 Amber Lane | Wilkes-Barre | 18702 | 150,535
Housing Development Corporation of NEPA/HDC SHP 6 2018 | 163 Amber Lane | Wilkes-Barre | 18702 | 145,880
Housing Transitions, Inc./Nittany House Apartments | P.O. Box 1391 | State College | 16804 | 80,746
Housing Transitions, Inc./Nittany House Apartments II | P.O. Box 1391 | State College | 16804 | 146,180
Huntingdon House /Huntingdon House Rapid Rehousing Program | 401 Seventh Street | Huntingdon | 16652 | 131,204
Lehigh County Housing Authority/LCHA S+C 2018 | 635 Broad Street | Emmaus | 18049 | 210,190
Maranatha Ministries, Inc./Candleheart Inc/Candleheart RRH | 1334 South Fourth Street | Chambersburg | 17202 | 137,456
Northampton County Housing Authority/NCHA S+C 2018 | 15 South Wood Street | Nazareth | 18064 | 111,501
Northern Cambria Community Development Corporation/Independence Gardens Renewal Project Application FY 2018 | 4200 Crawford Ave Suite 200 | Northern Cambria | 15714 | 160,745
Northern Cambria Community Development Corporation/Schoolhouse Gardens Renewal Project Application FY 2018 | 4200 Crawford Ave Suite 200 | Northern Cambria | 15714 | 66,744
Pennsylvania Coalition Against Domestic Violence/East CoC DV RRH | 3605 Vartan Way, Suite 101 | Harrisburg | 17110 | 1,150,736
Resources for Human Development, Inc./Crossroads Family | 4700 Wissahickon Ave, Suite 126 | Philadelphia | 19144 | 270,895
Resources for Human Development, Inc./Crossroads Housing Bonus Expansion | 4700 Wissahickon Ave, Suite 126 | Philadelphia | 19144 | 239,448
Resources for Human Development, Inc./Crossroads Individual | 4700 Wissahickon Ave, Suite 126 | Philadelphia | 19144 | 362,199
Resources for Human Development, Inc./Crossroads Schuylkill Co. Permanent Supportive Housing | 4700 Wissahickon Ave, Suite 126 | Philadelphia | 19144 | 117,782
Resources for Human Development, Inc./LV ACT Housing Supports | 4700 Wissahickon Ave, Suite 126 | Philadelphia | 19144 | 200,039
Tableland Services, Inc./Consolidated Permanent Supportive Housing with Disabilities | 535 E Main Street | Somerset | 15501 | 265,337
Tableland Services, Inc./SHP Transitional Housing Project | 535 E Main Street | Somerset | 15501 | 140,233
Tableland Services, Inc./Tableland PSH Expansion | 535 E Main Street | Somerset | 15501 | 64,973
The Lehigh Conference of Churches/Outreach and Case Management for the Disabled, Chronically Homeless | 457 W Allen St | Allentown | 18102 | 97,559
The Lehigh Conference of Churches/Pathways Housing | 457 W Allen St | Allentown | 18102 | 209,359
The Lehigh Conference of Churches/Pathways Housing 2 | 457 W Allen St | Allentown | 18102 | 194,331
The Lehigh Conference of Churches/Pathways TBRA for Families, Youth and Veterans | 457 W Allen St | Allentown | 18102 | 307,620
The Lehigh Conference of Churches/Tenant-Based Rental Assistance for the Disabled, Chronically Homeless | 457 W Allen St | Allentown | 18102 | 236,895
The Salvation Army, a New York Corporation/Allentown Hospitality House Permanent Housing Program | 440 West Nyack Road | West Nyack | 10994 | 166,312
The Salvation Army, a New York Corporation/Salvation Army Carlisle PH Project | 440 West Nyack Road | West Nyack | 10994 | 68,986
Third Street Alliance for Women & Children/2018 Renewal Application-Third Street Alliance- Lehigh Valley Rapid Rehousing Program | 41 North Third Street | Easton | 18042 | 149,964
Transitions of PA/Coordinated Entry Specialist for Domestic Violence | 120 South Third Street | Lewisburg | 17837 | 85,668
Transitions of PA/SUN Counties Rapid Re-Housing for Domestic Violence Victims | 120 South Third Street | Lewisburg | 17837 | 103,451
Valley Housing Development Corporation/VHDC SHP #2 & #3 Consolidation 2018 | 943 Long Street | Bethlehem | 18015 | 354,905
Valley Youth House Committee, Inc./Lehigh Valley RRH for Families | 3400 High Point Blvd | Bethlehem | 18017 | 286,472
Valley Youth House Committee, Inc./TH-RRH for Lehigh Valley Youth | 3400 High Point Blvd | Bethlehem | 18017 | 482,906
Wayne County/Wayne Combined TH/RRH Project | 925 Court Street | Honesdale | 18431 | 88,618
Young Women's Christian Association/Liberty House PSH | 815 West Fourth Street | Williamsport | 17701 | 211,819
Young Women's Christian Association/Liberty Options RRH | 815 West Fourth Street | Williamsport | 17701 | 153,463
Community Action Partnership Of Lancaster County/DV Bonus | 601 South Queen Street P.O. Box 599 | Lancaster | 17603 | 142,876
Community Action Partnership Of Lancaster County/LECDC + CAP PSH | 601 South Queen Street P.O. Box 599 | Lancaster | 17603 | 121,710
Community Basics, Inc./Fordney House FY2018 Renewal | 941 Wheatland Ave, Suite 204 | Lancaster | 17603 | 88,228
Community Basics, Inc./Lincoln House FY2018 Renewal | 941 Wheatland Ave, Suite 204 | Lancaster | 17603 | 56,596
County of Lancaster/Enterprise Housing | 150 N Queen Street Suite 610 | Lancaster | 17603 | 213,993
County of Lancaster/North Star Housing | 150 N Queen Street Suite 610 | Lancaster | 17603 | 127,020
County of Lancaster/Polaris Housing | 150 N Queen Street Suite 610 | Lancaster | 17603 | 167,379
Elizabethtown Community Housing & Outreach Services/ECHOS: Housing Supportive Services | 17 South Market Street Suite #101 | Elizabethtown | 17022 | 85,871
Lancaster General Hospital/HMIS | 555 North Duke Street | Lancaster | 17604 | 67,410
Lancaster General Hospital/Lancaster Coordinated Assessment | 555 North Duke Street | Lancaster | 17604 | 136,294
Lancaster General Hospital/Lancaster County Consolidated RRH Project | 555 North Duke Street | Lancaster | 17604 | 738,925
Lancaster General Hospital/Lancaster County Coordinated Assessment-Outreach Worker | 555 North Duke Street | Lancaster | 17604 | 54,079
Lancaster General Hospital/Lancaster- Crisis to RRH | 555 North Duke Street | Lancaster | 17604 | 142,920
Lancaster General Hospital/Lancaster HMIS1 | 555 North Duke Street | Lancaster | 17604 | 49,765
Lancaster General Hospital/Lancaster HMIS2 | 555 North Duke Street | Lancaster | 17604 | 56,766
Lancaster General Hospital/PA510 Planning 2018 | 555 North Duke Street | Lancaster | 17604 | 101,589
Tabor Community Services Inc./Hearthside 2 | 308 E King Street Box 1676 | Lancaster | 17608 | 104,865
Tabor Community Services Inc./Lancaster Hearthside | 308 E King Street Box 1676 | Lancaster | 17608 | 103,981
Tabor Community Services Inc./Market View Apartments | 308 E King Street Box 1676 | Lancaster | 17608 | 43,157
Bucks County Housing Authority/Shelter Plus Care Renewal Funding | 350 South Main Street Suite 205 | Doylestown | 18901 | 27,361
Bucks County Opportunity Council, Inc./BCOC RES Consolidation 2018 | 100 Doyle Street | Doylestown | 18901 | 290,524
Bucks County Opportunity Council, Inc./Coordinated Assessment FY2018 | 100 Doyle Street | Doylestown | 18901 | 42,375
County of Bucks/Dedicated HMIS FY 2018 | 1260 Almshouse Rd | Doylestown | 18901 | 103,023
County of Bucks/MH PSH Consolidation | 1260 Almshouse Rd | Doylestown | 18901 | 50,256
County of Bucks/PA-511 CoC Planning Application FY2018 | 1260 Almshouse Rd | Doylestown | 18901 | 48,343
Family Service Association of Bucks County/Bucks County Housing Link, Centralized Intake/Coordinated Assessment- FY 2018 | 4 Cornerstone Drive | Langhorne | 19047 | 76,613
Family Service Association of Bucks County/Bucks County Housing Link, Centralized Intake/Coordinated Assessment- New FY 2018 | 4 Cornerstone Drive | Langhorne | 19047 | 58,868
Keystone Opportunity Center, Inc./Upper Bucks Rapid Rehousing Renewal 2018 | 104 Main Street | Souderton | 18964 | 92,165
Penndel Mental Health Center, Inc./Community Residential Services | 1100 Newportville Road | Croydon | 19021 | 162,588
Valley Youth House Committee, Inc./Bucks County RRH for Youth | 3400 High Point Blvd | Bethlehem | 18017 | 341,838
Bell Socialization Services/York Apartments | 160 S George St | York | 17401 | 28,437
County of York/CoC RRH Rental Assistance Program for Victims of DV | 28 E Market St | York | 17401 | 201,804
County of York/Continuum of Care RRH Rental Assistance Program | 28 E Market St | York | 17401 | 70,647
County of York/Coordinated Entry—Expansion | 28 E Market St | York | 17401 | 120,000
County of York/York City & County CoC Planning Project—2018 | 28 E Market St | York | 17401 | 58,619
County of York/York County Homeless Management Information System (HMIS) | 28 E Market St | York | 17401 | 147,482
Housing Authority of the City of York/Shelter Plus Care Renewal Application FY2018 | 31 S Broad Street | York | 17403 | 142,584
Turning Point Interfaith Mission Inc/PH for PWD | 40 E High Street | Gettysburg | 17325 | 276,350
Valley Youth House Committee, Inc./York County RRH for Youth | 3400 High Point Blvd | Bethlehem | 18017 | 91,445
Valley Youth House Committee, Inc./York County RRH for Youth—Expansion | 3400 High Point Blvd | Bethlehem | 18017 | 120,838
Valley Youth House Committee, Inc./York County TH-RRH for Youth | 3400 High Point Blvd | Bethlehem | 18017 | 112,499
Allegheny County Department of Human Services/“Keys” to Success | Human Services Building, 2nd floor One Smithfield Street | Pittsburgh | 15222 | 512,582
Allegheny County Department of Human Services/A River to Home | Human Services Building, 2nd floor One Smithfield Street | Pittsburgh | 15222 | 520,177
Allegheny County Department of Human Services/A Step Forward | Human Services Building, 2nd floor One Smithfield Street | Pittsburgh | 15222 | 179,258
Allegheny County Department of Human Services/Allegheny Link | Human Services Building, 2nd floor One Smithfield Street | Pittsburgh | 15222 | 68,761
Allegheny County Department of Human Services/At Home | Human Services Building, 2nd floor One Smithfield Street | Pittsburgh | 15222 | 126,873
Allegheny County Department of Human Services/ATLAS | Human Services Building, 2nd floor One Smithfield Street | Pittsburgh | 15222 | 162,398
Allegheny County Department of Human Services/Bridging the Gap | Human Services Building, 2nd floor One Smithfield Street | Pittsburgh | 15222 | 186,319
Allegheny County Department of Human Services/Choice I | Human Services Building, 2nd floor One Smithfield Street | Pittsburgh | 15222 | 160,658
Allegheny County Department of Human Services/CHOICE II | Human Services Building, 2nd floor One Smithfield Street | Pittsburgh | 15222 | 280,542
Allegheny County Department of Human Services/Community Human Services Shelter Plus Care Program | Human Services Building, 2nd floor One Smithfield Street | Pittsburgh | 15222 | 366,710
Allegheny County Department of Human Services/CV Housing Plus Program | Human Services Building, 2nd floor One Smithfield Street | Pittsburgh | 15222 | 269,522
Allegheny County Department of Human Services/Delores Howze Program | Human Services Building, 2nd floor One Smithfield Street | Pittsburgh | 15222 | 96,761
Allegheny County Department of Human Services/Domestic Violence Unified Project | Human Services Building, 2nd floor One Smithfield Street | Pittsburgh | 15222 | 757,932
Allegheny County Department of Human Services/FAITH | Human Services Building, 2nd floor One Smithfield Street | Pittsburgh | 15222 | 474,860
Allegheny County Department of Human Services/Families United | Human Services Building, 2nd floor One Smithfield Street | Pittsburgh | 15222 | 385,134
Allegheny County Department of Human Services/Familylinks Community Housing Program | Human Services Building, 2nd floor One Smithfield Street | Pittsburgh | 15222 | 129,876
Allegheny County Department of Human Services/Flex 15 | Human Services Building, 2nd floor One Smithfield Street | Pittsburgh | 15222 | 147,329
Allegheny County Department of Human Services/Flex 15 Expansion | Human Services Building, 2nd floor One Smithfield Street | Pittsburgh | 15222 | 299,498
Allegheny County Department of Human Services/Flex 30 | Human Services Building, 2nd floor One Smithfield Street | Pittsburgh | 15222 | 504,859
Allegheny County Department of Human Services/Flex 50 Families | Human Services Building, 2nd floor One Smithfield Street | Pittsburgh | 15222 | 652,864
Allegheny County Department of Human Services/Flex 51 Expansion | Human Services Building, 2nd floor One Smithfield Street | Pittsburgh | 15222 | 874,911
Allegheny County Department of Human Services/Generations | Human Services Building, 2nd floor One Smithfield Street | Pittsburgh | 15222 | 213,412
Allegheny County Department of Human Services/Good Start | Human Services Building, 2nd floor One Smithfield Street | Pittsburgh | 15222 | 77,967
Allegheny County Department of Human Services/GoodStart-2 | Human Services Building, 2nd floor One Smithfield Street | Pittsburgh | 15222 | 257,614
Allegheny County Department of Human Services/G-PGH Phase 3 | Human Services Building, 2nd floor One Smithfield Street | Pittsburgh | 15222 | 195,712
Allegheny County Department of Human Services/HARBOR-2-RRH | Human Services Building, 2nd floor One Smithfield Street | Pittsburgh | 15222 | 557,499
Allegheny County Department of Human Services/Haven Homes | Human Services Building, 2nd floor One Smithfield Street | Pittsburgh | 15222 | 271,674
Allegheny County Department of Human Services/Haven Housing | Human Services Building, 2nd floor One Smithfield Street | Pittsburgh | 15222 | 273,496
Allegheny County Department of Human Services/Hestia Project | Human Services Building, 2nd floor One Smithfield Street | Pittsburgh | 15222 | 751,256
Allegheny County Department of Human Services/HMIS | Human Services Building, 2nd floor One Smithfield Street | Pittsburgh | 15222 | 198,942
Allegheny County Department of Human Services/HMIS Expansion Program | Human Services Building, 2nd floor One Smithfield Street | Pittsburgh | 15222 | 152,250
Allegheny County Department of Human Services/Home At Last | Human Services Building, 2nd floor One Smithfield Street | Pittsburgh | 15222 | 372,075
Allegheny County Department of Human Services/Home for Good | Human Services Building, 2nd floor One Smithfield Street | Pittsburgh | 15222 | 175,438
Allegheny County Department of Human Services/Hospitality Homes I | Human Services Building, 2nd floor One Smithfield Street | Pittsburgh | 15222 | 300,670
Allegheny County Department of Human Services/Housing Plus 2 | Human Services Building, 2nd floor One Smithfield Street | Pittsburgh | 15222 | 184,349
Allegheny County Department of Human Services/Housing Solutions | Human Services Building, 2nd floor One Smithfield Street | Pittsburgh | 15222 | 316,468
Allegheny County Department of Human Services/HUD Independence Program | Human Services Building, 2nd floor One Smithfield Street | Pittsburgh | 15222 | 149,448
Allegheny County Department of Human Services/Liberty | Human Services Building, 2nd floor One Smithfield Street | Pittsburgh | 15222 | 91,336
Allegheny County Department of Human Services/MOMS II | Human Services Building, 2nd floor One Smithfield Street | Pittsburgh | 15222 | 350,148
Allegheny County Department of Human Services/MyPlace PSH | Human Services Building, 2nd floor One Smithfield Street | Pittsburgh | 15222 | 63,436
Allegheny County Department of Human Services/MyPlace RRH | Human Services Building, 2nd floor One Smithfield Street | Pittsburgh | 15222 | 840,503
Allegheny County Department of Human Services/Neighborhood Living Program | Human Services Building, 2nd floor One Smithfield Street | Pittsburgh | 15222 | 820,049
Allegheny County Department of Human Services/New Foundations I | Human Services Building, 2nd floor One Smithfield Street | Pittsburgh | 15222 | 340,472
Allegheny County Department of Human Services/Next Chapter | Human Services Building, 2nd floor One Smithfield Street | Pittsburgh | 15222 | 242,551
Allegheny County Department of Human Services/Northside Common Ministries Permanent Housing Program | Human Services Building, 2nd floor One Smithfield Street | Pittsburgh | 15222 | 128,143
Allegheny County Department of Human Services/Open Arms | Human Services Building, 2nd floor One Smithfield Street | Pittsburgh | 15222 | 237,733
Allegheny County Department of Human Services/PA 600 Planning Grant Project Application FY 2018 | Human Services Building, 2nd floor One Smithfield Street | Pittsburgh | 15222 | 624,286
Allegheny County Department of Human Services/Path to New Life | Human Services Building, 2nd floor One Smithfield Street | Pittsburgh | 15222 | 93,476
Allegheny County Department of Human Services/Personalized Housing Options | Human Services Building, 2nd floor One Smithfield Street | Pittsburgh | 15222 | 253,745
Allegheny County Department of Human Services/Rapid Re-Housing for Families Demonstration Program | Human Services Building, 2nd floor One Smithfield Street | Pittsburgh | 15222 | 312,691
Allegheny County Department of Human Services/SAFE-At-Home | Human Services Building, 2nd floor One Smithfield Street | Pittsburgh | 15222 | 268,655
Allegheny County Department of Human Services/Sankofa | Human Services Building, 2nd floor One Smithfield Street | Pittsburgh | 15222 | 211,933
Allegheny County Department of Human Services/Sisters Place Permanent Housing Program | Human Services Building, 2nd floor One Smithfield Street | Pittsburgh | 15222 | 278,032
Allegheny County Department of Human Services/Soteria Project | Human Services Building, 2nd floor One Smithfield Street | Pittsburgh | 15222 | 225,963
Allegheny County Department of Human Services/Spectrum I | Human Services Building, 2nd floor One Smithfield Street | Pittsburgh | 15222 | 493,067
Allegheny County Department of Human Services/Sunrise Permanent Housing Program | Human Services Building, 2nd floor One Smithfield Street | Pittsburgh | 15222 | 175,488
Allegheny County Department of Human Services/Trail Lane II | Human Services Building, 2nd floor One Smithfield Street | Pittsburgh | 15222 | 731,896
Allegheny County Department of Human Services/UFA Costs Project Application FY2018 PA 600 | Human Services Building, 2nd floor One Smithfield Street | Pittsburgh | 15222 | 416,190
Allegheny County Department of Human Services/Valor | Human Services Building, 2nd floor One Smithfield Street | Pittsburgh | 15222 | 170,763
Allegheny County Department of Human Services/Victory | Human Services Building, 2nd floor One Smithfield Street | Pittsburgh | 15222 | 263,352
Allegheny County Department of Human Services/Village I | Human Services Building, 2nd floor One Smithfield Street | Pittsburgh | 15222 | 140,515
Allegheny County Department of Human Services/VLP Constitution | Human Services Building, 2nd floor One Smithfield Street | Pittsburgh | 15222 | 213,152
Allegheny County Department of Human Services/Work Towards Sustainability from Crisis | Human Services Building, 2nd floor One Smithfield Street | Pittsburgh | 15222 | 147,874
Allegheny County Department of Human Services/YW Bridges Rapid Re-Housing Program | Human Services Building, 2nd floor One Smithfield Street | Pittsburgh | 15222 | 141,051
Allegheny County Department of Human Services/YWCA Chrysalis | Human Services Building, 2nd floor One Smithfield Street | Pittsburgh | 15222 | 218,534
Allegheny County Department of Human Services/YWCA WISH Program | Human Services Building, 2nd floor One Smithfield Street | Pittsburgh | 15222 | 305,271
Armstrong County Community Action Agency/Armstrong County Permanent Supportive Housing Program | 705 Butler Road | Kittanning | 16201 | 126,031
Armstrong County Community Action Agency/Armstrong-Fayette Rapid Rehousing Program | 705 Butler Road | Kittanning | 16201 | 109,579
Armstrong County Community Action Agency/Rapid Rehousing Program of Armstrong County | 705 Butler Road | Kittanning | 16201 | 140,526
Cameron/Elk Counties Behavioral & Developmental Programs/AHEAD | 94 Hospital Street 4th Floor | Ridgway | 15853 | 76,247
Cameron/Elk Counties Behavioral & Developmental Programs/Home Again | 94 Hospital Street 4th Floor | Ridgway | 15853 | 142,468
CAPSEA, Inc./Housing Plus | 28 Morgan Ave | Ridgway | 15853 | 127,449
City Mission-Living Stones, Inc./Gallatin School Living Centre | 155 North Gallatin Avenue | Uniontown | 15401 | 124,773
Commonwealth of Pennsylvania/Commonwealth of PA HMIS (PA-601) FY2018 | 400 North Street, 4th floor | Harrisburg | 17120 | 128,098
Commonwealth of Pennsylvania/PA-601 CoC Planning Project Application FY 2018 | 400 North Street, 4th floor | Harrisburg | 17120 | 274,820
Community Action, Inc./Housing for Homeless and Disabled Persons | 105 Grace Way | Punxsutawney | 15767 | 96,352
Community Action, Inc./Transitional Housing Project | 105 Grace Way | Punxsutawney | 15767 | 66,101
Community Connections of Clearfield/Jefferson Counties/Housing First FY 2018 Renewal Application | P.O. Box 268 375 Beaver Drive | DuBois | 15801 | 85,002
Community Services of Venango County, Inc./Sycamore Commons | 206 Seneca St n/a | Oil City | 16301 | 61,787
Connect, Inc./D.WEL. | 302 Chamber Plaza | Charleroi | 15022 | 266,216
Connect, Inc./Westmoreland Permanent Supportive Housing | 302 Chamber Plaza | Charleroi | 15022 | 134,691
Connect, Inc./Westmoreland Permanent Supportive Housing Expansion | 302 Chamber Plaza | Charleroi | 15022 | 154,828
County of Butler, Human Services/Home Again Butler County | 124 West Diamond Street P.O. Box 1208 | Butler | 16003 | 186,277
County of Butler, Human Services/HOPE Project | 124 West Diamond Street P.O. Box 1208 | Butler | 16003 | 183,735
County of Butler, Human Services/Path Transition Age Project | 124 West Diamond Street P.O. Box 1208 | Butler | 16003 | 93,820
County of Greene/Greene County Rapid Rehousing Project | 19 S Washington Street | Waynesburg | 15370 | 67,541
County of Greene/Greene County Shelter + Care Project | 19 S Washington Street | Waynesburg | 15370 | 47,109
County of Greene/Greene County Supportive Housing Project | 19 S Washington Street | Waynesburg | 15370 | 177,198
County of Washington/Crossing Pointe | 100 West Beau Street Suite 703 | Washington | 15301 | 144,758
County of Washington/HomeFIRST | 100 West Beau Street Suite 703 | Washington | 15301 | 161,200
County of Washington/HomeTEAM | 100 West Beau Street Suite 703 | Washington | 15301 | 182,437
County of Washington/HomeWISE | 100 West Beau Street Suite 703 | Washington | 15301 | 229,056
County of Washington/Permanent Supportive Housing | 100 West Beau Street Suite 703 | Washington | 15301 | 535,184
County of Washington/Shelter plus Care—Washington City Mission | 100 West Beau Street Suite 703 | Washington | 15301 | 158,016
County of Washington/Shelter plus Care I | 100 West Beau Street Suite 703 | Washington | 15301 | 206,095
County of Washington/Supportive Living | 100 West Beau Street Suite 703 | Washington | 15301 | 97,105
Crawford County Coalition on Housing Needs, Inc/Liberty House Transitional Housing Program | 1180 Liberty Street | Meadville | 16335 | 40,026
Crawford County Commissioners/Crawford County Shelter Plus Care | Crawford County Courthouse 903 Diamond Park | Meadville | 16335 | 184,551
Crawford County Mental Health Awareness Program, Inc/CHAPS Fairweather Lodge | 944 Liberty Street | Meadville | 16335 | 20,079
Crawford County Mental Health Awareness Program, Inc/CHAPS Family Housing | 944 Liberty Street | Meadville | 16335 | 45,175
Crawford County Mental Health Awareness Program, Inc/Crawford County Housing Advocacy Project | 944 Liberty Street | Meadville | 16335 | 93,531
Crawford County Mental Health Awareness Program, Inc/Housing Now | 944 Liberty Street | Meadville | 16335 | 138,740
Crisis Shelter of Lawrence County/Crisis Shelter TH-RRH | 1218 West State Street | New Castle | 16101 | 212,710
Dubois Housing Authority/2018 Renewal App—DuBois Housing Authority—Shelter Plus Care 1/2/3/4/5 | 21 East Long Avenue | DuBois | 15801 | 452,524
Fayette County Community Action Agency, Inc./Fairweather Lodge Supportive Housing | 108 N Beeson Blvd. | Uniontown | 15401 | 25,269
Fayette County Community Action Agency, Inc./Fayette Apartments | 108 N Beeson Blvd. | Uniontown | 15401 | 106,340
Fayette County Community Action Agency, Inc./Fayette County Rapid Rehousing | 108 N Beeson Blvd. | Uniontown | 15401 | 64,165
Fayette County Community Action Agency, Inc./Lenox Street Apartments | 108 N Beeson Blvd. | Uniontown | 15401 | 66,716
Fayette County Community Action Agency, Inc./Southwest Regional Rapid Re-Housing Program | 108 N Beeson Blvd. | Uniontown | 15401 | 506,909
Housing Authority of the County of Butler Inc/Franklin Court Chronically Homeless | 114 Woody Drive | Butler | 16001 | 52,122
Indiana County Commumity Action Program, Inc. /PHD Consolidated | 827 Water Street | Indiana | 15701 | 81,566
Lawrence County Social Services, Inc./Coordinated Entry Expansion | P.O. Box 189 241 W Grant St | New Castle | 16103 | 80,000
Lawrence County Social Services, Inc./DV Coordinated Entry Capacity Funds | P.O. Box 189 241 W Grant St | New Castle | 16103 | 95,884
Lawrence County Social Services, Inc./My First Place | P.O. Box 189 241 W Grant St | New Castle | 16103 | 198,250
Lawrence County Social Services, Inc./NWRHA | P.O. Box 189 241 W Grant St | New Castle | 16103 | 76,755
Lawrence County Social Services, Inc./NWRHA 2 | P.O. Box 189 241 W Grant St | New Castle | 16103 | 232,117
Lawrence County Social Services, Inc./SAFE | P.O. Box 189 241 W Grant St | New Castle | 16103 | 40,634
Lawrence County Social Services, Inc./TEAM RRH | P.O. Box 189 241 W Grant St | New Castle | 16103 | 75,945
Lawrence County Social Services, Inc./Turning Point | P.O. Box 189 241 W Grant St | New Castle | 16103 | 234,778
Lawrence County Social Services, Inc./Veterans RRH | P.O. Box 189 241 W Grant St | New Castle | 16103 | 58,614
Lawrence County Social Services, Inc./Western CoC Coordinated Entry Implementation | P.O. Box 189 241 W Grant St | New Castle | 16103 | 78,135
Lawrence County Social Services, Inc./Western CoC Coordinated Entry SSO | P.O. Box 189 241 W Grant St | New Castle | 16103 | 71,865
McKean County Redevelopment & Housing Authority/Northwest RRH | 415 West Main Street | Smethport | 16749 | 406,926
Northern Cambria Community Development Corporation/Chestnut Street Gardens Renewal Project Application FY 2018 | 4200 Crawford Ave Suite 200 | Northern Cambria | 15714 | 52,719
Northern Cambria Community Development Corporation/Clinton Street Gardens Renewal Project Application FY 2018 | 4200 Crawford Ave Suite 200 | Northern Cambria | 15714 | 68,182
Union Mission of Latrobe, Inc./Consolidated Union Mission Permanent Supportive Housing | 2217 East Harrison Avenue P.O. Box 271 | Latrobe | 15650 | 185,090
Venango County Mental Health/Shelter Plus Care Renewal | One Dale Avenue | Franklin | 16323 | 58,611
Victim Outreach Intervention Center/Enduring VOICe | 111 S Cliff Street Suite 1A | Butler | 16001 | 334,225
Warren-Forest EOC/Warren Permanent Supportive Housing | 1209 Pennsylvania Avenue West P.O. Box 547 | Warren | 16365 | 54,386
Warren-Forest EOC/Youngsville Permanent Supportive Housing | 1209 Pennsylvania Avenue West P.O. Box 547 | Warren | 16365 | 49,641
Westmoreland Community Action/Consolidated WCA PSH Project FY2018 | 226 South Maple Avenue | Greensburg | 15601 | 228,110
Westmoreland Community Action/WCA PSH for Families 2018 | 226 South Maple Avenue | Greensburg | 15601 | 429,065
Westmoreland Community Action/WCA PSH-Pittsburgh Street House 2018 | 226 South Maple Avenue | Greensburg | 15601 | 115,437
County of Beaver /PA-603 CoC Planning Application FY2018 | 1013 Eighth Avenue | Beaver Falls | 15010 | 71,147
Housing Authority of the County of Beaver/CARL Program 2018 Renewal | 300 State Street | Beaver | 15009 | 435,872
Housing Authority of the County of Beaver/Crescent Commons 2018 Renewal | 300 State Street | Beaver | 15009 | 222,021
The Salvation Army, a New York Corporation/FY 2018 Beaver County Friendship Homes | 440 West Nyack Road | West Nyack | 10994 | 210,330
The Salvation Army, a New York Corporation/FY 2018 Beaver County Salvation Army Rapid Re-Housing Bonus | 440 West Nyack Road | West Nyack | 10994 | 151,114
Zachewicz Enterprises Inc./CRS Stone Harbour Renewal 2018 | 2634 Darlington Road, Suite 4 | Beaver Falls | 15010 | 387,888
County of Erie/ECCM Rapid Rehousing 1 | 154 West 9th Street | Erie | 16501 | 158,198
County of Erie/Erie County Coordinated Entry | 154 West 9th Street | Erie | 16501 | 12,000
County of Erie/Erie County HMIS | 154 West 9th Street | Erie | 16501 | 146,027
County of Erie/Finally Home | 154 West 9th Street | Erie | 16501 | 74,112
County of Erie/Fresh Start | 154 West 9th Street | Erie | 16501 | 144,908
County of Erie/Independence | 154 West 9th Street | Erie | 16501 | 209,540
County of Erie/Lighting the Candle I | 154 West 9th Street | Erie | 16501 | 247,283
County of Erie/Make it a Home Always I | 154 West 9th Street | Erie | 16501 | 109,090
County of Erie/My Way Home | 154 West 9th Street | Erie | 16501 | 361,606
County of Erie/PA-605 CoC Planning Application FY2018 | 154 West 9th Street | Erie | 16501 | 79,311
County of Erie/Self Start I | 154 West 9th Street | Erie | 16501 | 429,683
County of Erie/Self Start II | 154 West 9th Street | Erie | 16501 | 143,722
County of Erie/Self Start III | 154 West 9th Street | Erie | 16501 | 145,596
Albergue El Paraíso, Corp./Eden | P.O. Box 11740 | Santurce, PR | 00910 | 301,939
Albergue El Paraíso, Corp./Gente Buena | P.O. BOX 11740 | Santurce, PR | 00910 | 224,297
Casa Protegida Julia De Burgos, Inc./Rapid Re-Housing and Supportive Services | P.O. BOX 362433 | San Juan | 00936 | 410,778
Casa Protegida Julia De Burgos, Inc./Voucher Program Casa Julia San Juan | P.O. BOX 362433 | San Juan | 00936 | 231,728
Coalicion de Apoyo Continuo para Personas sin Hogar de Guaynabo, Inc./Hogar Amparo Project | Street 169 Guaynabo Office Center Bo. Los Frailes | Guaynabo | 00970 | 206,541
Coalicion de San Juan, Inc./Proyecto Enlace | Corporate Office Park Edificio ASG Suite 302 Calle 20 Bo. Monacillos | San Juan | 00928 | 579,586
Corp. La Fondita de Jesus/El Pueblito de Jesus | #704 Monserrate Street | Santurce | 00907 | 790,821
Corp. La Fondita de Jesus/La Puerta de Jesus Rapid Rehousing Program | #704 Monserrate Street | Santurce | 00907 | 663,026
Corp. La Fondita de Jesus/Programa Mi Hogar II | #704 Monserrate Street | Santurce | 00907 | 301,999
Guara Bi,Inc./Guara Bi-Comerio | P.O. Box 6581 | Caguas | 00726 | 199,579
Hogar del Buen Pastor, Inc./Hogar del Buen Pastor—Vouchers (147217090 (V)) | 250 Ave de la Constitucion Puerta de Tierra | San Juan | 00901 | 114,953
Hogar del Buen Pastor, Inc./Hogar del Buen Pastor, Inc. (147217090) | 250 Ave de la Constitucion Puerta de Tierra | San Juan | 00901 | 682,180
Hogar Ruth para Mujeres Maltratadas, Inc./Guayacan Housing Development | P.O. Box 538 | Vega Alta | 00692 | 410,552
La Perla de Gran Precio Inc./Compartir Comunitario | Calle Gautier Benitez #66 Urb. Floral Park | San Juan | 00917 | 652,446
La Perla de Gran Precio Inc./Tu Casa Vale | Calle Gautier Benitez #66 Urb. Floral Park | San Juan | 00917 | 93,408
Lucha Contra el Sida, Inc./El Zorzal Apartments | P.O. Box 8479 | San Juan | 00910 | 392,418
Lucha Contra el Sida, Inc./LCS Leasing Program | P.O. Box 8479 | San Juan | 00910 | 539,142
Lucha Contra el Sida, Inc./Nuevo Horizonte | P.O. Box 8479 | San Juan | 00910 | 78,555
Lucha Contra el Sida, Inc./Re-Encontrando el Sendero | P.O. Box 8479 | San Juan | 00910 | 294,000
Lucha Contra el Sida, Inc./Sabana Village Apartments | P.O. Box 8479 | San Juan | 00910 | 185,603
Mental Health & Anti-Addiction Services Administration/Permanent Housing De Vuelta a la Vida II (NoFA 2018) | Road No.2 Km 8.2 Bo. Juan Sánchez Antiguo Hospital Mepsi Center | Bayamón | 00959 | 335,621
Mental Health & Anti-Addiction Services Administration/Transitional Housing De Vuelta a la Vida, Sanación y Hogar | Road No.2 Km 8.2 Bo. Juan Sánchez Antiguo Hospital Mepsi Center | Bayamón | 00959 | 1,507,760
Municipality of San Juan /Continuum of Care Municipio de San Juan | P.O. Box 70179 | San Juan | 00923 | 966,753
Municipality of San Juan /Hogar Nuevos Horizontes | P.O. Box 70179 | San Juan | 00923 | 314,668
Municipality of San Juan /Safe Haven | P.O. Box 70179 | San Juan | 00923 | 337,558
Municipality of Vega Alta/Continuum of Care COC Homeless Assistance | P.O. Box 1390 | Vega Alta | 00692 | 129,780
Municipality of Vega Baja/VB SHP New Hope Assistance Project 2002 | Padilla Street #41 Edif. Rafael Cano Llovio | Vega Baja | 00693 | 262,654
Municipality of Vega Baja/Vega Baja SHP New Hope Assistance Project 2007 | Padilla Street #41 Edif. Rafael Cano Llovio | Vega Baja | 00693 | 167,757
PR Department of the Family/CoC PR-502 Planning Project | Ave Barbosa 306 P.O. Box 11398 | San Juan | 00910 | 426,324
Puerto Rico Housing Department/Rental Assistance Program CoC PR 502 | P.O. Box 21365 | San Juan | 00928 | 1,020,317
Silo Misión Cristiana, Inc./Proyecto Casa Silo | Carr #2 Km 42.6 Barrio Algarrobo | Vega Baja | 00693 | 207,653
Solo Por Hoy, Inc./Derecho a Techo | 1716 Ave Santa Inez Urb. Altamesa | San Juan | 00921 | 151,940
Solo Por Hoy, Inc./Solo Por Hoy-RRH | 1716 Ave Santa Inez Urb. Altamesa | San Juan | 00921 | 225,633
Casa de la Bondad, Inc./Casa de la Bondad Rapid Rehousing 2018 | P.O. Box 8999 | Humacao | 00792 | 84,336
Centro Deambulantes Cristo Pobre, Inc.,/Vivienda Permanente La Caridad De Cristo | Calle Union # 124 | Ponce | 00733 | 347,917
Coalicion de Coaliciones Pro Personas Sin Hogar de PR, Inc./Coalición de Coaliciones—Sistema Coordinado de Entrada 2018 | 44 Isabel St | Ponce | 00730 | 265,166
Coalicion de Coaliciones Pro Personas Sin Hogar de PR, Inc./Conexión Boricua HMIS Project 2018 | 44 Isabel St | Ponce | 00730 | 576,090
CoC Program/Municipality of Cayey 2019 | Bo. Montellano Carr PR #1 km 56.2 | Cayey | 00737 | 217,860
Corporacion Milagros del Amor/Por Mi Hogar | 78 Gautier Benitez P.O. Box 6445 | Caguas | 00726 | 219,316
Corporacion Milagros del Amor/Vereda del Rio | 78 Gautier Benitez P.O. Box 6445 | Caguas | 00726 | 162,054
Fundacion de Desarrollo Comunal de P.R., Inc “FUNDESCO“/EL SALVADOR | P.O. Box 6300 Rafael Cordero Ave 2nd. floor Plaza del Mercado Suite #18 | Caguas | 00726 | 275,956
Guara Bi,Inc./Guara Bi-Caguas | P.O. Box 6581 | Caguas | 00726 | 201,809
Guara Bi,Inc./Guara Bi-Carib | P.O. Box 6581 | Caguas | 00726 | 143,447
Hogar Fortaleza del Caido Inc./HFDC—PH/Loiza 19-20 | Parcelas Vieques calle #79 | Loíza | 00772 | 86,887
Hogar Luz de Vida, Inc./Hogar Luz de Vida Transitional Housing Proyect | P O Box 4007 | Mayaguez | 00681 | 266,533
Hogar Nueva Mujer Santa Maria De La Merced, Inc./Nueva Mujer Rapid Rehousing Program | Las Parras 3, Sector Mogote Barrio Toita | Cayey | 00736 | 215,750
Jayuya Municipality/Jayuya Rental assistance | Cementerio Strret | Jayuya | 00664 | 45,454
Lucha Contra el Sida, Inc./Lucero del Alba | P.O. Box 8479 | San Juan | 00910 | 364,445
Lucha Contra el Sida, Inc./Remanso de Paz | P.O. Box 8479 | San Juan | 00910 | 609,189
Municipality of Aguas Buenas/Aguas Buenas RRH 2018 Renewal | CARR. 156 KM 51.0 | Aguas Buenas | 00703 | 54,878
Municipality of Caguas/CoC Planning Project Application FY 2018 | P.O. Box 907 | Caguas | 00726 | 150,000
Municipality of Guayama/Guayama Rental Assistance Program 2018 | 26 Vicente Pales St | Guayama | 00784 | 106,636
Municipality of Isabela/Isabela-RA/2018 | 75 CORCHADO ST. | ISABELA | 00662 | 42,240
Municipality of Mayaguez /Municipality of Mayaguez PH Proyect | Ramon Emeterio Betances # 123 South | Mayaguez | 00681 | 133,169
Municipality Of Ponce/Municipio Autonomo de Ponce (PR 503) 2019-2020 | P.O. BOX 331709 | Ponce | 00733 | 123,162
Municipio De Hormigueros/CoC Hormigueros 2018 | MATEO FAJARDO # 1 | Hormigueros | 00660 | 29,556
Municipio de Humacao/Municipio Humacao Renewal 2018 | P.O. Box 178 | Humacao | 00792 | 74,950
Proyecto Matria, Inc./Proyecto Matria Gaia Renewal 2018 | Calle Jimenez Sicardo # 31 | Caguas | 00725 | 478,820
Amos House/414 Friendship Street 2018 | 460 Pine Street | Providence | 02907 | 39,093
Amos House/Amos House Swan Street 2018 | 460 Pine Street | Providence | 02907 | 47,920
Community Care Alliance/Burnside Ave Permanent Supportive Housing 2018 | 800 Clinton Street | Woonsocket | 02895 | 57,536
Community Care Alliance/Constitution Hill Supportive Housing Program 2018 | 800 Clinton Street | Woonsocket | 02895 | 137,231
Community Care Alliance/Rapid Re-Housing of Northern Rhode Island (Youth Expansion) 2018 | 800 Clinton Street | Woonsocket | 02895 | 24,583
Community Care Alliance/Rapid Re-Housing of Northern Rhode Island (Youth Project) 2018 | 800 Clinton Street | Woonsocket | 02895 | 34,229
Community Care Alliance/Rapid Re-Housing of Northern Rhode Island 2018 | 800 Clinton Street | Woonsocket | 02895 | 138,306
Crossroads Rhode Island/Crossroads—70 Linwood Apartments—FY2018 | 160 Broad Street | Providence | 02903 | 183,545
Crossroads Rhode Island/Crossroads—Beach Ave Apartments Expansion—FY2018 | 160 Broad Street | Providence | 02903 | 36,439
Crossroads Rhode Island/Crossroads—DV CES—FY2018 | 160 Broad Street | Providence | 02903 | 115,000
Crossroads Rhode Island/Crossroads—Family PSH—FY2018 | 160 Broad Street | Providence | 02903 | 149,232
Crossroads Rhode Island/Crossroads—Permanent Housing for Disabled Elders—FY2018 | 160 Broad Street | Providence | 02903 | 93,758
Crossroads Rhode Island/Crossroads—PH for Disabled Adults—FY2018 | 160 Broad Street | Providence | 02903 | 93,320
Crossroads Rhode Island/Crossroads—Rapid Rehousing for Families—FY2018 | 160 Broad Street | Providence | 02903 | 190,482
Crossroads Rhode Island/Crossroads—RI Family Shelter—FY2018 | 160 Broad Street | Providence | 02903 | 57,325
Crossroads Rhode Island/Crossroads—Travelers Aid Housing—FY2018 | 160 Broad Street | Providence | 02903 | 33,083
Crossroads Rhode Island/Crossroads—Travelers Aid of RI—FY2018 | 160 Broad Street | Providence | 02903 | 44,007
Crossroads Rhode Island/Crossroads—Tremont Street Apartments—FY2018 | 160 Broad Street | Providence | 02903 | 77,578
Crossroads Rhode Island/Crossroads—Whitmarsh House Apartments—FY2018 | 160 Broad Street | Providence | 02903 | 110,135
East Bay Community Action Program/East Bay Coalition for the Homeless Permanent Housing | 19 Broadway | Newport | 02840 | 48,081
Foster Forward/Rapid Rehousing for Former Foster Youth | 55 South Brow Street | East Providence | 02914 | 236,658
House of Hope Community Development Corporation/ACCESS to Home FY2018 | 3188 Post Road | Warwick | 02886 | 304,295
House of Hope Community Development Corporation/Fair House FY18 | 3188 Post Road | Warwick | 02886 | 39,464
House of Hope Community Development Corporation/Warwick PSH—Consolidated | 3188 Post Road | Warwick | 02886 | 128,675
Housing Authority of the City of Pawtucket, RI, The/Paw HA RRH Renewal 2018 | 214 Roosevelt Avenue | Pawtucket | 02860 | 225,674
Lucy's Hearth/Lucy's Hearth PSH Program FY18 | 19 Valley Road | Middletown | 02842 | 41,530
Operation Stand Down Rhode Island/West Warwick | 1010 Hartford Avenue | Johnston | 02919 | 177,973
Rhode Island Coalition for the Homeless/Coordinated Entry 2018 | 1070 Main St, Suite 304 | Pawtucket | 02860 | 141,714
Rhode Island Coalition for the Homeless/HMIS Renewal FY 2018 | 1070 Main St, Suite 304 | Pawtucket | 02860 | 152,064
Rhode Island Housing and Mortgage Finance Corporation/Rhode Island Housing Rental Assistance 2018 | 44 Washington Street | Providence | 02903 | 162,283
Rhode Island Housing and Mortgage Finance Corporation/RI—500 CoC Planning Application FY2018 | 44 Washington Street | Providence | 02903 | 251,199
Rhode Island Housing and Mortgage Finance Corporation/RIHousing—SBRA—FY18 | 44 Washington Street | Providence | 02903 | 1,977,250
Rhode Island Housing and Mortgage Finance Corporation/RIHousing—TBRA—FY18 | 44 Washington Street | Providence | 02903 | 780,171
Sojourner House/Sojourner House Rapid Re-Housing Project for Victims of Abuse FY18 | 386 Smith Street | Providence | 02908 | 540,968
Sojourner House/Sojourner House Rapid Re-Housing Renewal FY2018 | 386 Smith Street | Providence | 02908 | 154,728
Westbay Community Action/East, Earl, & Warwick Avenue 2018 | 224 Buttonwoods Ave | Warwick | 02886 | 27,811
Westerly Area Rest Meals Inc./Greater Westerly Supportive Housing Project 2018 | 56 Spruce St | Westerly | 02891 | 56,230
YWCA Rhode Island/YWCA Rhode Island Sarah Frances Grant Homestead FY2018 | 514 Blackstone Street | Woonsocket | 02895 | 50,663
Family Services Inc/Home to Stay | 4925 Lacross Rd Ste 215 | Charleston | 29406 | 67,635
Family Services Inc/Lease on Life 1 | 4925 Lacross Rd Ste 215 | Charleston | 29406 | 161,742
Family Services Inc/Lease on Life 2 | 4925 Lacross Rd Ste 215 | Charleston | 29406 | 113,514
Family Services Inc/Lease on Life 3 | 4925 Lacross Rd Ste 215 | Charleston | 29406 | 87,933
Lowcountry Homeless Coalition/CoC Planning Project Application FY2018 | P.O. Box 20038 | Charleston | 29413 | 78,887
One-Eighty Place/HMIS | 35 Walnut Street | Charleston | 29403 | 166,620
One-Eighty Place/Housing First PSH 18 | 35 Walnut Street | Charleston | 29403 | 579,905
One-Eighty Place/Rapid Re-Housing LHC Consolidation | 35 Walnut Street | Charleston | 29403 | 532,650
One-Eighty Place/Rapid Re-Housing Youth LHC 18 | 35 Walnut Street | Charleston | 29403 | 164,086
Family Promise of Anderson County/Anderson Rapid Re-Housing | 204 E Highland Ave | Anderson | 29621 | 81,068
Meg's House Shelter for Abused Women and Children/Lakelands Rural Transitional Housing Program | P.O. Box 3410 | Greenwood | 29648 | 214,814
Meg's House Shelter for Abused Women and Children/Operation Impact | P.O. Box 3410 | Greenwood | 29648 | 182,693
Meg's House Shelter for Abused Women and Children/Project HOPE | P.O. Box 3410 | Greenwood | 29648 | 187,243
Our Daily Rest, Inc/Rapid Rehousing Oconee | 525 East Main Street | Seneca | 29678 | 65,221
Pendleton Place/Fiscal Year (FY) 2018 Continuum of Care Program Competition | 1133 Pendleton Street | Greenville | 29601 | 143,022
Project Care, Inc/PRIDE Permanent Housing | 218 Viola Street | Greenville | 29601 | 366,413
Project Care, Inc/PRIDE Permanent Housing 2 | 218 Viola Street | Greenville | 29601 | 73,794
South Carolina Department of Mental Health/Greenville-Spartanburg Consolidated Shelter Plus Care | 2414 Bull Street | Columbia | 29201 | 297,393
Spartanburg Interfaith Hospitality Network/Spihn rapid re-housing | 899 S Pine Street | Spartanburg | 29302 | 71,716
Sunbelt Human Advancement Resources, Inc. (SHARE)/Welcome Home | 254 S Pleasantburg Drive | Greenville | 29607 | 198,252
United Housing Connections/CoC Planning Project | 135 Edinburgh Court Suite 100-B | Greenville, | 29607 | 128,614
United Housing Connections/HAL | 135 Edinburgh Court Suite 100-B | Greenville, | 29607 | 184,597
United Housing Connections/HOME | 135 Edinburgh Court Suite 100-B | Greenville, | 29607 | 208,102
United Housing Connections/Piedmont Keys FI | 135 Edinburgh Court Suite 100-B | Greenville, | 29607 | 132,327
United Housing Connections/RAVE | 135 Edinburgh Court Suite 100-B | Greenville, | 29607 | 191,054
United Housing Connections/Reedy Place | 135 Edinburgh Court Suite 100-B | Greenville, | 29607 | 128,754
United Housing Connections/Transitions—Youth | 135 Edinburgh Court Suite 100-B | Greenville, | 29607 | 136,272
United Housing Connections/Upstate HMIS | 135 Edinburgh Court Suite 100-B | Greenville, | 29607 | 163,215
Housing Development Corporation of Rock Hill/Rapid ReHousing in Rock Hill | 150 Johnston St | Rock Hill | 29730 | 95,148
Mental Illness Recovery Center, Inc./Housing First for Unaccompanied Youth 2018 Renewal | 1408 Gregg Street | Columbia | 29201 | 58,760
Mental Illness Recovery Center, Inc./MIRCI Housing First | 1408 Gregg Street | Columbia | 29201 | 282,672
Mental Illness Recovery Center, Inc./MIRCI PH for Chronic Homeless | 1408 Gregg Street | Columbia | 29201 | 154,943
Mental Illness Recovery Center, Inc./MIRCI SHP | 1408 Gregg Street | Columbia | 29201 | 253,167
Midlands Housing Alliance, Inc./Midlands Rapid Re-housing | 2025 Main St | Columbia | 29201 | 85,171
One-Eighty Place/Rapid Re-Housing MACH 18 | 35 Walnut Street | Charleston | 29403 | 129,272
Palmetto Place Children's Emergency Shelter/Unaccompanied Youth JT PH/RRH Project 2018 | 5507 Colonial Dr | Columbia | 29203 | 86,508
Sistercare Inc./Permanent Housing and Supportive Services for Disabled Domestic Violence Victims | 1820 Morlaine Drive | Cayce | 29033 | 306,811
South Carolina Department of Mental Health/Home Base I and II Consolidated Program | 2414 Bull Street | Columbia | 29201 | 566,373
South Carolina Department of Mental Health/Home Base III and IV Consolidated Program | 2414 Bull Street | Columbia | 29201 | 276,904
The Housing Authority of the City of Columbia, SC/FY 2018 CHASC Housing First Expansion Plus | 1917 Harden Street | Columbia | 29204 | 54,100
The Housing Authority of the City of Columbia, SC/FY 2018 CHASC Permanent Supportive Housing Chronic | 1917 Harden Street | Columbia | 29204 | 209,881
The Housing Authority of the City of Columbia, SC/FY 2018 CHASC Permanent Supportive Housing Disabled | 1917 Harden Street | Columbia | 29204 | 278,288
The Housing Authority of the City of Columbia, SC/FY 2018 CHASC PSH Expansion | 1917 Harden Street | Columbia | 29204 | 131,574
The Salvation Army/Housing Stabilization Rapid Re-housing 2018 | 3024 Farrow Road | Columbia | 29203 | 43,547
United Way of the Midlands/HMIS Renewal SC-502 FY2018 | 1818 Blanding Street | Columbia | 29201 | 118,133
United Way of the Midlands/SC-502 CoC Planning Application FY2018 | 1818 Blanding Street | Columbia | 29201 | 93,042
Eastern Carolina Homelessness Organization/COC Coordinated Entry | 1204 N Kings Hwy | Myrtle Beach | 29577 | 88,924
Eastern Carolina Homelessness Organization/CoC Planning Project 2018 | 1204 N Kings Hwy | Myrtle Beach | 29577 | 100,012
Eastern Carolina Homelessness Organization/Dedicated HMIS | 1204 N Kings Hwy | Myrtle Beach | 29577 | 128,767
Eastern Carolina Homelessness Organization/Echo Opening Doors to Housing First Ph-2 | 1204 N Kings Hwy | Myrtle Beach | 29577 | 271,965
Eastern Carolina Homelessness Organization/ECHO PH-3 PSH | 1204 N Kings Hwy | Myrtle Beach | 29577 | 202,003
Eastern Carolina Homelessness Organization/ECHO RRH-1 | 1204 N Kings Hwy | Myrtle Beach | 29577 | 154,740
Eastern Carolina Homelessness Organization/ECHO RRH-1 Expansion | 1204 N Kings Hwy | Myrtle Beach | 29577 | 206,276
Eastern Carolina Homelessness Organization/ECHO/United Way Kershaw Renewing Beyond Shelter DV | 1204 N Kings Hwy | Myrtle Beach | 29577 | 231,880
Eastern Carolina Homelessness Organization/Housing First Ph-4 | 1204 N Kings Hwy | Myrtle Beach | 29577 | 272,514
Eastern Carolina Homelessness Organization/Housing First to Awakenings | 1204 N Kings Hwy | Myrtle Beach | 29577 | 192,838
Eastern Carolina Homelessness Organization/Ph-1 PSH Expansion | 1204 N Kings Hwy | Myrtle Beach | 29577 | 299,927
Eastern Carolina Homelessness Organization/Renewing Beyond Shelter | 1204 N Kings Hwy | Myrtle Beach | 29577 | 138,645
Sea Haven, Inc./Sea Haven Rapid Re-Housing | 280 Hwy. 57 S | Little River | 29566 | 234,410
Cornerstone Rescue Mission/Cornerstone Apartments Permanent Supportive Housing | 30 Main St | Rapid City | 57701 | 72,186
Inter-Lakes Community Action Partnership/Heartland House RRH Program | 111 North Van Eps Avenue | Madison | 57042 | 484,039
Lewis & Clark Behavioral Health Services, Inc./Lewis and Clark Housing Project | 1028 Walnut Street | Yankton | 57078 | 141,748
Sioux Falls Housing and Redevelopment Commission/Safe Home-Renewal 2018 | 630 S Minnesota Ave | Sioux Falls | 57104 | 34,193
Sioux Falls Housing and Redevelopment Commission/Shelter Plus Care 2018 | 630 S Minnesota Ave | Sioux Falls | 57104 | 350,377
Sioux Falls Housing and Redevelopment Commission/Shelter Plus Care SF III-2018 Renewal 4 Units | 630 S Minnesota Ave | Sioux Falls | 57104 | 32,570
South Dakota Housing Development Authority/SD-500 CoC Planning Application FY 2018 | 3060 East Elizabeth Street P.O. Box 1237 | Pierre | 57501 | 56,582
South Dakota Housing Development Authority/SD-500 CoC SSO CES FY2018 | 3060 East Elizabeth Street P.O. Box 1237 | Pierre | 57501 | 105,144
South Dakota Housing Development Authority/SD-500 CoC Statewide HMIS FY2018 | 3060 East Elizabeth Street P.O. Box 1237 | Pierre | 57501 | 39,684
AIM Housing, Inc./AIM Family Housing 2018 | 472 W M.L. King Blvd | Chattanooga | 37402 | 33,239
Chattanooga Church Ministries Inc./Comm Kitchen PSH Combined 2019-2020 grant written in 2018 | 727 East 11th Street | Chattanooga | 37403 | 362,511
Chattanooga Homeless Coalition/2018 CES | 600 N Holtzclaw Ave | Chattanooga | 37404 | 38,775
Chattanooga Homeless Coalition/2018 CoC Planning | 600 N Holtzclaw Ave | Chattanooga | 37404 | 76,515
Chattanooga Homeless Coalition/2018 Enhanced HMIS | 600 N Holtzclaw Ave | Chattanooga | 37404 | 94,775
Chattanooga Homeless Coalition/2018 HMIS | 600 N Holtzclaw Ave | Chattanooga | 37404 | 102,569
Partnership for Families, Children and Adults,Inc/Consortium of Services 2018 | 1800 McCallie Ave | Chattanooga | 37404 | 224,221
Southeast Tennessee Human Resource Agency/SETHRA PSH | 312 Resource Road | Dunlap | 37327 | 1,425,333
Volunteer Behavioral Health Care System/VolPH-Hamilton | 413 Spring Street | Chattanooga | 37405 | 198,839
Agape Child & Family Services, Inc./Agape Access for All Phase II | 3160 Directors Row | Memphis | 38131 | 461,608
Agape Child & Family Services, Inc./Agape Access for All Phase II FY2018 | 3160 Directors Row | Memphis | 38131 | 115,472
Alliance Healthcare Services/2018 North Hill Woods | 2150 Whitney Avenue | Memphis | 38127 | 244,396
Alliance Healthcare Services/2018 STAY 1 | 2150 Whitney Avenue | Memphis | 38127 | 254,751
Alliance Healthcare Services/2018 STAY 2 | 2150 Whitney Avenue | Memphis | 38127 | 240,079
Alpha Omega Veterans Services, Inc./2018 AOVS Depot SRO | 1183 Madison | Memphis | 38104 | 157,668
Alpha Omega Veterans Services, Inc./2018 AOVS Depot Town homes Phase 1 | 1183 Madison | Memphis | 38104 | 115,698
Alpha Omega Veterans Services, Inc./2018 AOVS Lease Program | 1183 Madison | Memphis | 38104 | 173,282
Alpha Omega Veterans Services, Inc./2018 AOVS Permanent Supportive Housing | 1183 Madison | Memphis | 38104 | 181,216
Behavioral Health Initiatives, Inc./Phoenix Project FY2018 | 15 Executive Drive | Jackson | 38305 | 92,286
Case Management Incorporated/Alice Avenue Project | 3171 Directors Row | Memphis | 38131 | 15,865
Case Management Incorporated/Family Haven Apartments | 3171 Directors Row | Memphis | 38131 | 97,857
Case Management Incorporated/Home Plus Care | 3171 Directors Row | Memphis | 38131 | 369,211
Catholic Charities, Inc/Genesis Homeless Services FY18 | 1325 Jefferson Avenue | Memphis | 38104 | 456,320
City of Memphis, Tennessee/Aloysius Commons Shelter Plus Care | 701 North Main Street | Memphis | 38107 | 125,861
City of Memphis, Tennessee/Breaking the Cycle Shelter Plus Care | 701 North Main Street | Memphis | 38107 | 213,646
Community Alliance for the Homeless/DV Coordinated Entry System | 44 North 2nd Street, Suite 302 | Memphis | 38103 | 61,875
Community Alliance for the Homeless/HMIS Consolidated Grant FY2018 | 44 North 2nd Street, Suite 302 | Memphis | 38103 | 264,446
Community Alliance for the Homeless/Memphis/Shelby County Coordinated Entry System 2018 | 44 North 2nd Street, Suite 302 | Memphis | 38103 | 100,000
Community Alliance for the Homeless/TN-501 CoC Planning Application FY2018 | 44 North 2nd Street, Suite 302 | Memphis | 38103 | 196,733
Door of Hope, Inc./245 N Bellevue FY2018 | 245 N Bellevue | Memphis | 38105 | 176,262
Door of Hope, Inc./One Door at a Time FY2018 | 245 N Bellevue | Memphis | 38105 | 241,632
Door of Hope, Inc./One Door at a Time Phase Two FY2018 | 245 N Bellevue | Memphis | 38105 | 350,825
Friends For Life Corporation/Aloysius New Beginnings FY2018 | 43 N Cleveland | Memphis | 38104 | 189,535
Friends For Life Corporation/AloysiusScattered Sites Renewal 2018 | 43 N Cleveland | Memphis | 38104 | 199,405
Metropolitan Inter-Faith Association/MIFA RRH Program Expansion | 910 Vance Avenue | Memphis | 38126 | 265,597
OUTMemphis/The Metamorphosis Project | 892 South Cooper St | Memphis | 38104 | 92,280
Promise Development Corporation/MSF Renewal Project Application FY2018 | 40 S Main Street Suite 2560 | Memphis | 38103 | 529,955
Promise Development Corporation/Promise Leasing Renewal Project Application FY2018 | 40 S Main Street Suite 2560 | Memphis | 38103 | 789,717
Helen Ross McNabb Center/Helen Ross McNabb Supportive Housing | 201 West Springdale Ave | Knoxville | 37917 | 383,263
Knoxville-Knox County Community Action Committee/Elizabeth's Home Rapid Rehousing | P.O. Box 51650 2247 WESTERN AV | Knoxville | 37950 | 124,359
Knoxville-Knox County Community Action Committee/Homeward Bound Families' Rapid Rehousing | P.O. Box 51650 2247 WESTERN AV | Knoxville | 37950 | 231,582
Knoxville-Knox County Community Action Committee/REACH | P.O. Box 51650 2247 WESTERN AV | Knoxville | 37950 | 104,580
Positively Living /Parkridge Harbor FY 2018 | 1501 East Fifth Avenue | Knoxville | 37917 | 82,299
Southeastern Housing Foundation II, Inc./Flenniken Housing | The Regas Building 318 N Gay Street, Suite 210 | Knoxville | 37917 | 72,749
The Salvation Army, A Georgia Corporation/Operation Bootstrap Transitional Housing Program | 409 N Broadway | Knoxville | 37917 | 67,936
The Salvation Army, A Georgia Corporation/Operation Bootstrap Transitional Housing Rapid-Rehousing Program | 409 N Broadway | Knoxville | 37917 | 150,716
The University of Tennessee/UT KnoxHMIS | 1534 White Avenue | Knoxville | 37996 | 132,282
Volunteer Ministry Center, Inc./Minvilla Manor FY 2018 | 511 North Broadway | Knoxville | 37917 | 62,993
Buffalo Valley, Inc./HNM C TN0045L4J031710 | 501 Park Avenue South P.O. Box 879 | Hohenwald | 38462 | 746,931
Buffalo Valley, Inc./HNM HMIS TN0265L4J031701 | 501 Park Avenue South P.O. Box 879 | Hohenwald | 38462 | 157,500
Buffalo Valley, Inc./HNM Maury County (Precious Chosen) TN0128L4J031706 | 501 Park Avenue South P.O. Box 879 | Hohenwald | 38462 | 361,336
Buffalo Valley, Inc./HNM Permanent Supportive Housing TN0266L4J031701 | 501 Park Avenue South P.O. Box 879 | Hohenwald | 38462 | 299,468
Buffalo Valley, Inc./HNM Planning Grant 2018 | 501 Park Avenue South P.O. Box 879 | Hohenwald | 38462 | 53,494
Center of Hope/Center of Hope Against DV Transitional HousingTN0052L4J031710 | 2441 Park Plus Drive P.O. Box 1961 | Columbia | 38401 | 70,486
City of Clarksville/City of Clarksville S+C TN0113L4J031709 | One Public Square | Clarksville | 37040 | 118,796
Robertson County/Robertson County S+C TN0177L4J031707 | 523 S Brown Street | Springfiled | 37172 | 37,404
South Central Family Center/Family Life RRH (Marshall Co S+C) | 921 S Beckett | Columbia | 38401 | 17,294
Campus for Human Development/Omega COC 2018 Room In The Inn | 705 Drexel Street | Nashville | 37203 | 36,919
Metropolitan Development & Housing Agency/HMIS Expansion: FY18: MDHA | 701 South Sixth Street | Nashville | 37206 | 88,000
Metropolitan Development & Housing Agency/MDHA HMIS Renewal 2018 | 701 South Sixth Street | Nashville | 37206 | 53,508
Metropolitan Development & Housing Agency/MDHA Shelter Plus Care Consolidated Renewal 2018 | 701 South Sixth Street | Nashville | 37206 | 1,715,920
Metropolitan Development & Housing Agency/TN-504 CoC Planning Application FY 2018 | 701 South Sixth Street | Nashville | 37206 | 110,171
Safe Haven Family Shelter /Nashville CES 2018 | 1234 3rd Avenue South | Nashville | 37210 | 128,000
Safe Haven Family Shelter /Safe Haven Family Shelter RRH Consolidation 2018 | 1234 3rd Avenue South | Nashville | 37210 | 202,080
The Mary Parrish Center/The Mary Parrish Center Joint TH and PH-RRH FY18 | P.O. Box 60009 | Nashville | 37206 | 200,416
The Mary Parrish Center/The Mary Parrish Center RRH FY18 | P.O. Box 60009 | Nashville | 37206 | 70,782
The Mary Parrish Center/The Mary Parrish Center SSO-CE FY18 | P.O. Box 60009 | Nashville | 37206 | 103,120
The Mary Parrish Center/The Mary Parrish Center Transitional Housing Program Renewal Project FY2018 | P.O. Box 60009 | Nashville | 37206 | 23,688
The Next Door, Inc./The Next Door Freedom Recovery Program 2018 Renewal | 2100 Clifton Avenue | Nashville | 37203 | 98,657
The Salvation Army, a Georgia Corporation/The Salvation Army Joint TH/RRH 2018 | 631 Dickerson Road | Nashville | 37207 | 210,944
Urban Housing Solutions, Inc./UHS Homeless recovery Program Renewal FY2018 | 822 Woodland St | Nashville | 37206 | 551,833
Housing Opportunities and People Enterprises, Inc./HOPE Permanent Housing Project #3 | 591 E Monticello Pike | Huntsville | 37756 | 37,184
The Crossville Housing Development Corporation/2018 CES TN-506 | 67 Irwin Ave | Crossville | 38555 | 46,151
The Crossville Housing Development Corporation/2018 CES TN-506 Expansion | 67 Irwin Ave | Crossville | 38555 | 28,973
The Crossville Housing Development Corporation/2018 HMIS TN-506 | 67 Irwin Ave | Crossville | 38555 | 110,000
The Crossville Housing Development Corporation/2018 Planning Project TN-506 | 67 Irwin Ave | Crossville | 38555 | 34,638
Town of Crossville Housing Authority/Community Supportive Housing 2018 | 67 Irwin Ave | Crossville | 38555 | 62,993
Town of Crossville Housing Authority/Iris Cottage 2018 | 67 Irwin Ave | Crossville | 38555 | 60,491
Town of Crossville Housing Authority/Pathways RRH 2018 | 67 Irwin Ave | Crossville | 38555 | 47,159
Town of Crossville Housing Authority/Shelter Plus Care Five 2018 | 67 Irwin Ave | Crossville | 38555 | 48,557
Town of Crossville Housing Authority/Shelter Plus Care Group 2018 | 67 Irwin Ave | Crossville | 38555 | 274,587
Area Relief Ministries, Inc./Madison County Rapid ReHousing Project | P.O. Box 7 | Jackson | 38302 | 37,350
Area Relief Ministries, Inc./The Turning Point | P.O. Box 7 | Jackson | 38302 | 73,895
Carey Counseling Center, Inc./CAREY Rental Assistance | 408 Virginia Street P.O. Box 30 | Paris | 38242 | 373,796
Carey Counseling Center, Inc./Herrington Place | 408 Virginia Street P.O. Box 30 | Paris | 38242 | 115,027
Community Action Network, Inc/Community Rental Assistance | 3975 Copper Springs Road | Springville | 38256 | 26,542
Damascus Road, Inc./Curtis Street | P.O. Box 1075 | Paris | 38242 | 127,713
Damascus Road, Inc./Waverly Home | P.O. Box 1075 | Paris | 38242 | 84,686
Fayette Cares, Inc./Fayette Rapid ReHousing Project | 13300 N Main Street | Somerville | 38068 | 103,820
Jackson Area Council on Alcoholism and Drug Dependency/Housing the Indigent | 900 East Chester Street | Jackson | 38301 | 73,393
Professional Care Services Of West Tn.,Inc./PCS Brownsville Duplexes | 1997 Hwy 51 South | Covington | 38019 | 10,141
Quinco Community Mental Health Center, Inc./Fairways Project | 10710 Old Highway 64 | Bolivar | 38008 | 76,125
Quinco Community Mental Health Centers/Quinco Rental Assistance | 10710 Old Highway 64 | Bolivar | 38008 | 59,574
T.A.M.B. of Jackson, Inc./McCowat House | 110 McCowat Street | Jackson | 38301 | 63,667
Tennessee Homeless Solutions/Coordinated Entry | 100 Federal Drive #2 | Jackson | 38305 | 42,561
Tennessee Homeless Solutions/Current Existing HMIS | 100 Federal Drive #2 | Jackson | 38305 | 100,973
Tennessee Homeless Solutions/Decatur County Rental Assistance | 100 Federal Drive #2 | Jackson | 38305 | 98,094
Tennessee Homeless Solutions/Henderson County Rapid Rehousing 2017 | 100 Federal Drive #2 | Jackson | 38305 | 93,919
West Tennessee Healthcare Foundation/FY 2018 Planning Application | 620 Skyline Drive | Jackson | 38301 | 44,023
Wo/Men's Resource and Rape Assistance Program/WRAP Housing | 512 Roland Avenue | Jackson | 38301 | 74,379
A Safe Harbor Home, Inc./CoC RRH Bonus Project | 6440 Old Stage Road | Chuckey | 37641 | 86,756
Abuse Alternatives, Inc./Abuse Alternatives 2018 DV Bonus | 104 Memorial Drive | Bristol | 37620 | 41,690
Appalachian Regional Coalition on Homelessness/2018 DV Bonus Project | 321 West Walnut Street | Johnson City | 37604 | 74,000
Appalachian Regional Coalition on Homelessness/2018 HMIS Renewal & Consolidation Project | 321 West Walnut Street | Johnson City | 37604 | 156,668
Appalachian Regional Coalition on Homelessness/2018 PSH 1 Renewal Project | 321 West Walnut Street | Johnson City | 37604 | 98,455
Appalachian Regional Coalition on Homelessness/ARCH 2018 Planning Project | 321 West Walnut Street | Johnson City | 37604 | 44,890
Appalachian Regional Coalition on Homelessness/PSH 2 Renewal 2018 | 321 West Walnut Street | Johnson City | 37604 | 90,570
Fairview Housing Management Corporation/Appalachian Family Housing | 100 East Millard Street | Johnson City | 37601 | 157,415
Fairview Housing Management Corporation/The Manna House Renewal 2018 | 116 W Walnut Street P.O. Box 5746 | Johnson City | 37604 | 119,416
Kingsport Housing & Redevelopment Authority /2018 CoC Grant | 906 E Sevier Avenue P.O. Box 44 | Kingsport | 37662 | 820,423
City of Murfreesboro/TN-510 CoC Planning Application FY2018 | 211 Bridge Avenue | Murfreesboro | 37129 | 17,895
Greenhouse Ministries/Cottage Program Renewal FY2018 | 309 South Spring Street | Murfreesboro | 37130 | 54,915
Murfreesboro Housing Authority/MHA Supportive Care FY2018 | 415 North Maple Street | Murfreesboro | 37130 | 446,724
The Journey Home, Inc/2018 Chronic Leasing Renewal | P.O. Box 331025 NA | Murfreesboro | 37133 | 9,876
The Journey Home, Inc/2018 Family Leasing Renewal | P.O. Box 331025 NA | Murfreesboro | 37133 | 59,137
The Journey Home, Inc/2018 LOV (Assumed) Leasing Renewal | P.O. Box 331025 NA | Murfreesboro | 37133 | 14,137
The Journey Home, Inc/2018 Older Youth Renewal | P.O. Box 331025 NA | Murfreesboro | 37133 | 19,290
The Journey Home, Inc/2018 Smyrna (Assumed) Leasing Renewal | P.O. Box 331025 NA | Murfreesboro | 37133 | 13,942
CEASE Domestic Violence and Sexual Assault Inc./Safe at Home | 929 W First North St, P.O. Box 3359 | Morristown | 37814 | 104,155
Tennessee Valley Coalition to End Homelessness, Inc./CoC Planning Project FY2018 | 4313 Ball Camp Pike Suite 201 | Knoxville | 37921 | 35,000
Tennessee Valley Coalition to End Homelessness, Inc./Family Services 2018 | 4313 Ball Camp Pike Suite 201 | Knoxville | 37921 | 101,408
Tennessee Valley Coalition to End Homelessness, Inc./HMIS Renewal 2018 | 4313 Ball Camp Pike Suite 201 | Knoxville | 37921 | 68,886
Tennessee Valley Coalition to End Homelessness, Inc./HMIS System 2018 | 4313 Ball Camp Pike Suite 201 | Knoxville | 37921 | 100,757
Tennessee Valley Coalition to End Homelessness, Inc./Operation Restore 2018 | 4313 Ball Camp Pike Suite 201 | Knoxville | 37921 | 121,111
American GI Forum National Veterans Outreach Program, Inc./AGIF-NVOP FY 2018 Permanent Housing | 611 N Flores Suite 200 | San Antonio | 78205 | 783,222
American GI Forum National Veterans Outreach Program, Inc./AGIF-NVOP FY 2018 Rapid Rehousing II | 611 N Flores Suite 200 | San Antonio | 78205 | 609,280
Bexar County Board of Trustees for Mental Health Mental Retardation Services d/b/a The Center for Health Care Services/Permanent Supportive Housing | 6800 Park Ten Blvd. Ste. 200-S | San Antonio | 78213 | 1,196,960
Family Endeavors, Inc./Family Endeavors Fairweather Family Lodge 2018 | 535 Bandera Road | San Antonio | 78228 | 472,609
Family Violence Prevention Services, Inc. /FVPS DV Bonus TH-RRH 2018 | 7911 Broadway | San Antonio | 78209 | 71,228
Family Violence Prevention Services, Inc. /FVPS Rapid Re Housing 2018 Consolidation | 7911 Broadway | San Antonio | 78209 | 280,486
Family Violence Prevention Services, Inc. /La Paloma Transitional Housing 2018 | 7911 Broadway | San Antonio | 78209 | 149,250
Haven for Hope of Bexar County/2018 HMIS Expansion | 1 Haven for Hope Way | San Antonio | 78207 | 145,200
Haven for Hope of Bexar County/HMIS 2018 | 1 Haven for Hope Way | San Antonio | 78207 | 463,475
San Antonio AIDS Foundation/SAAF PSH FY-2018 | 818 E Grayson St | San Antonio | 78208 | 186,923
San Antonio Metropolitan Ministry Inc./2018 SAMM Rapid ReHousing | 1919 NW Loop 410 Ste 100 | San Antonio | 78213 | 157,748
San Antonio Metropolitan Ministry Inc./2018 SAMMinistries Housing First | 1919 NW Loop 410 Ste 100 | San Antonio | 78213 | 1,216,817
San Antonio Metropolitan Ministry Inc./2018 SAMMinistries Housing First 2 | 1919 NW Loop 410 Ste 100 | San Antonio | 78213 | 260,228
San Antonio Metropolitan Ministry Inc./2018 SAMMinistries Housing First 3 | 1919 NW Loop 410 Ste 100 | San Antonio | 78213 | 442,843
San Antonio Metropolitan Ministry Inc./2018 SAMMinistries Housing First 4 | 1919 NW Loop 410 Ste 100 | San Antonio | 78213 | 529,934
San Antonio Metropolitan Ministry Inc./2018 SAMMinistries Permanent Supportive Housing | 1919 NW Loop 410 Ste 100 | San Antonio | 78213 | 247,909
San Antonio Metropolitan Ministry Inc./2018 SAMMinistries Transitional Housing Program | 1919 NW Loop 410 Ste 100 | San Antonio | 78213 | 488,413
South Alamo Regional Alliance for the Homeless/2018 SARAH Coordinated Access | P.O. Box 7613 | San Antonio | 78207 | 100,000
South Alamo Regional Alliance for the Homeless/2018 SARAH Coordinated Access DV Bonus | P.O. Box 7613 | San Antonio | 78207 | 54,165
South Alamo Regional Alliance for the Homeless/2018 SARAH Coordinated Access Expansion | P.O. Box 7613 | San Antonio | 78207 | 383,717
South Alamo Regional Alliance for the Homeless/SARAH—CoC Planning Project Application—FY2018 | P.O. Box 7613 | San Antonio | 78207 | 329,560
The Salvation Army/Scattered Sites Permanent Supportive Housing | 521 W Elmira | San Antonio | 78212 | 411,349
The Salvation Army/The Salvation Army Rapid-Rehousing | 521 W Elmira | San Antonio | 78212 | 382,947
Thrive Youth Center, Inc. /Thrive Rapid Rehousing Program Renewal FY2018 | 1 Haven for Hope Way | San Antonio | 78207 | 364,880
Austin Travis County Mental Health Mental Retardation Center DBA Integral Care/Fresh Start | 1430 Collier Street | Austin | 78704 | 417,192
Caritas of Austin/MyHome—Consolidated | 611 Neches | Austin | 78701 | 1,619,715
Community Partnership for the Homeless DBA Green Doors/Renewal SHP—PSH for Families with Disabilities (Glen Oaks Corner) (TX0234L6J031608) | P.O. Box 685065 | Austin | 78768 | 85,166
Ending Community Homelessness Coalition, Inc./HMIS Project 1 | 300 E Highland Mall Blvd Suite 200 | Austin | 78752 | 150,234
Ending Community Homelessness Coalition, Inc./TX-503 CoC Planning Project Application FY2018 | 300 E Highland Mall Blvd Suite 200 | Austin | 78752 | 171,880
Front Steps, Inc./Front Steps Housing—Consolidated | 500 E 7th Street | Austin | 78701 | 434,972
Housing Authority of the City of Austin/Onward FY2018 | 1124 South IH-35 | Austin | 78704 | 672,858
The Housing Authority of Travis County/Upward FY 2018 | 502 E Highland Mall Blvd., Ste. 106 B | Austin | 78752 | 957,303
The SAFE Alliance/SAFE DV Rapid Rehousing | 1515 Grove Boulevard | Austin | 78741 | 633,150
The SAFE Alliance/SAFE Supportive Housing Program | 1515 Grove Boulevard | Austin | 78741 | 624,678
The Salvation Army, A Georgia Corporation/Passages II Rapid Rehousing Collaboration | 501 E 8th Street | Austin | 78701 | 596,462
Youth and Family Alliance dba LifeWorks/Housing Options for Youth—renewal yr. 3 | 3700 South 1st Street | Austin | 78704 | 416,928
Catholic Charities Dallas/Catholic Charities St Jude Permanent Supportive Housing | 1421 W Mockingbird Lane | Dallas | 75234 | 99,337
City of Dallas/Gateway to Permanent Supportive Housing | 1500 Marilla St. Ste 6BN | Dallas | 75201 | 739,943
City of Dallas/My Residence Program | 1500 Marilla St. Ste 6BN | Dallas | 75201 | 384,395
City of Dallas/Shelter Plus Care | 1500 Marilla St. Ste 6BN | Dallas | 75201 | 1,584,610
City of Dallas/Shelter Plus Care ORC | 1500 Marilla St. Ste 6BN | Dallas | 75201 | 99,295
CitySquare /Community Life | 4000 Eastside Avenue | Dallas | 75226 | 55,000
CitySquare /Destination Home Consolidation | 4000 Eastside Avenue | Dallas | 75226 | 3,156,677
CitySquare /OnTRAC Dallas TH/RRH | 4000 Eastside Avenue | Dallas | 75226 | 181,230
CitySquare /OnTRAC Permanent Housing | 4000 Eastside Avenue | Dallas | 75226 | 224,129
CitySquare /St Jude PSH | 4000 Eastside Avenue | Dallas | 75226 | 86,205
Family Gateway, Inc./PSH 18 | 711 S St Paul Street | Dallas | 75201 | 273,302
Hope's Door Inc./TH-RRH Project FY2018—Hope's Door Inc | 860 F Ave Suite 100 | Plano | 75074 | 388,412
Housing Crisis Center, Inc./Home Again | 4210 Junius Street | Dallas | 75246 | 565,400
Housing Crisis Center, Inc./Permanent Housing (Family) | 4210 Junius Street | Dallas | 75246 | 349,856
Housing Crisis Center, Inc./Permanent Housing Services | 4210 Junius Street | Dallas | 75246 | 345,358
Housing Crisis Center, Inc./Veterans Housing Partnership | 4210 Junius Street | Dallas | 75246 | 438,641
Irving, City of/City of Irving S + C 2018 Renewal | 825 W Irving Blvd | Irving | 75060 | 111,184
Metro Dallas Homeless Alliance/CAS 2018 | 2816 Swiss Avenue | Dallas | 75204 | 332,256
Metro Dallas Homeless Alliance/CoC Planning FY2018 | 2816 Swiss Avenue | Dallas | 75204 | 526,121
Metro Dallas Homeless Alliance/HMIS 2018 | 2816 Swiss Avenue | Dallas | 75204 | 409,588
Metrocare Services/Leasing (Consolidated) | 1345 River Bend Dr | Dallas | 75247 | 3,392,305
Metrocare Services/Safe Haven | 1345 River Bend Dr | Dallas | 75247 | 420,901
Promise House, Inc./Promise House Rapid Rehousing Program | 224 W Page Avenue | Dallas | 75208 | 169,778
Promise House, Inc./Promise House Wesley Inn | 224 W Page Avenue | Dallas | 75208 | 191,440
PWA Coalition of Dallas, Inc. d/b/a AIDS Services of Dallas/Hillcrest House 2018 | 400 South Zang Boulevard, Suite 210 | Dallas | 75208 | 924,916
Texas Muslim Women's Foundation, Inc./Texas Muslim Women's Foundation Transitional Housing and Rapid Rehousing FY2018 | P.O. Box 863388 | Plano | 75086 | 262,069
The Family Place/2018 Family Place Renewal Application | P.O. Box 7999 | Dallas | 75209 | 849,941
Catholic Charities, Diocese of Fort Worth, Inc./Hope Today! Combined | 249 West Thornhill Drive | Fort Worth | 76115 | 251,991
Center for Transforming Lives/CTL Rapid Rehousing Expansion 1704 | 512 W 4th St | Fort Worth | 76102 | 240,638
Center for Transforming Lives/CTL Rapid Rehousing Renewal 1704 | 512 W 4th St | Fort Worth | 76102 | 480,988
CitySquare /OnTRAC Tarrant TH/RRH | 4000 Eastside Avenue | Dallas | 75226 | 109,655
Fort Worth Housing Solutions/CHANGES 2018-2019 | 1201 E 13th Street | Fort Worth | 76102 | 177,895
Fort Worth Housing Solutions/SPC 1 2018-2019 | 1201 E 13th Street | Fort Worth | 76102 | 1,618,249
Fort Worth Housing Solutions/SPC 2 2018-2019 | 1201 E 13th Street | Fort Worth | 76102 | 1,197,611
Fort Worth Housing Solutions/SPC 6 2018-2019 | 1201 E 13th Street | Fort Worth | 76102 | 181,151
Hearts Full of Love/HFOL RRH 2018 | 218 Sanchez Creek Court | Weatherford | 76088 | 240,609
Housing Authority of the City of Arlington/2018 AHA SPC Expansion | 501 W Sanford Street Suite 20 | Arlington | 76011 | 348,508
Housing Authority of the City of Arlington/Arlington Housing Rapid Rehousing | 501 W Sanford Street Suite 20 | Arlington | 76011 | 353,700
MHMR of Tarrant County/Gateway to Housing | 3840 S Hulen Street, North Tower | Fort Worth | 76107 | 351,517
Presbyterian Night Shelter/Housing Solutions Combined | 2400 Cypress | Fort Worth | 76102 | 1,408,603
Presbyterian Night Shelter/Housing Solutions Combined Expansion II | 2400 Cypress | Fort Worth | 76102 | 216,796
Presbyterian Night Shelter/Mimi Hunter Fitzgerald Safe Haven | 2400 Cypress | Fort Worth | 76102 | 184,526
Recovery Resource Council/Project New Start | 2700 Airport Freeway | Fort Worth | 76111 | 486,459
SafeHaven of Tarrant County/SafeFoundations for Rapid Rehousing | 1100 Hemphill Street #303 | Fort Worth | 76104 | 213,300
SafeHaven of Tarrant County/SafeSolutions for Rapid Rehousing | 1100 Hemphill Street #303 | Fort Worth | 76104 | 126,000
SafeHaven of Tarrant County/Supporting SafeSolutions | 1100 Hemphill Street #303 | Fort Worth | 76104 | 93,511
Tarrant County/CEC 3CP | 1509B S University Dr Ste 276 | Fort Worth | 76107 | 338,837
Tarrant County/Housing SPC | 1509B S University Dr Ste 276 | Fort Worth | 76107 | 83,100
Tarrant County/SafeTomorrows | 1509B S University Dr Ste 276 | Fort Worth | 76107 | 127,344
Tarrant County/Salvation Army Veterans PSH Program | 1509B S University Dr Ste 276 | Fort Worth | 76107 | 380,795
Tarrant County/Samaritan House Grace Village | 1509B S University Dr Ste 276 | Fort Worth | 76107 | 105,021
Tarrant County/TBLA 114 Tarrant County | 1509B S University Dr Ste 276 | Fort Worth | 76107 | 1,121,531
Tarrant County/TBLA 13 MHMR | 1509B S University Dr Ste 276 | Fort Worth | 76107 | 145,469
Tarrant County/TBLA 15 Samaritan House | 1509B S University Dr Ste 276 | Fort Worth | 76107 | 99,798
Tarrant County/TBLA 17 MHMR | 1509B S University Dr Ste 276 | Fort Worth | 76107 | 180,039
Tarrant County/TSA Housing First PSH | 1509B S University Dr Ste 276 | Fort Worth | 76107 | 207,152
Tarrant County/TSA Housing First PSH II | 1509B S University Dr Ste 276 | Fort Worth | 76107 | 226,786
Tarrant County/TSA Housing First PSH III | 1509B S University Dr Ste 276 | Fort Worth | 76107 | 220,968
Tarrant County/TSA SIMON PSH | 1509B S University Dr Ste 276 | Fort Worth | 76107 | 569,023
Tarrant County Homeless Coalition/CoC Coordinated Entry System | 1201 E 13th Street | Fort Worth | 76102 | 491,048
Tarrant County Homeless Coalition/CoC HMIS | 1201 E 13th Street | Fort Worth | 76102 | 88,000
Tarrant County Homeless Coalition/CoC HMIS | 1201 E 13th Street | Fort Worth | 76102 | 282,122
Tarrant County Homeless Coalition/TX-601 CoC Planning Application FY2018 | 1201 E 13th Street | Fort Worth | 76102 | 357,704
Center Against Sexual and Family Violence/Coordinated Entry | 580 Giles | El Paso | 79915 | 42,000
Center Against Sexual and Family Violence/RRH | 580 Giles | El Paso | 79915 | 186,992
Center Against Sexual and Family Violence/SAFE TH PH-RRH | 580 Giles | El Paso | 79915 | 127,855
El Paso Center for Children, Inc./EPCC Rapid Rehousing | 2200 N Stevens St | El Paso | 79930 | 199,304
El Paso Coalition for the Homeless/CoC Planning Project Application FY2018 | 6044 Gateway East, Suite 211 | El Paso | 79905 | 164,143
El Paso Coalition for the Homeless/Homeless Management Information System | 6044 Gateway East, Suite 211 | El Paso | 79905 | 136,207
El Paso County/Coordinated Assessment | 500 E San Antonio Suite 301 | El Paso | 79901 | 160,000
El Paso Human Services, Inc./PSH Youth | 1001 Montana | El Paso | 79902 | 156,716
Emergence Health Network/EHN Supportive Housing | 1600 Montana | El Paso | 79902 | 207,275
Emergence Health Network/EHN RRH | 1600 Montana | El Paso | 79902 | 299,369
Housing Authority of the City of El Paso/Siesta Gardens | 5300 E Paisano | El Paso | 79905 | 151,987
Housing Authority of the City of El Paso/Veterans Lodge | 5300 E Paisano | El Paso | 79905 | 131,243
Opportunity Center for the Homeless/Opportunity Center PSH | 1208 Myrtle Avenue | El Paso | 79901 | 200,908
Opportunity Center for the Homeless/Opportunity Center Rapid Re Housing | 1208 Myrtle Avenue | El Paso | 79901 | 212,676
Project Vida/Project Vida PSH | 3607 Rivera | El Paso | 79905 | 140,350
The Salvation Army, a Georgia Corporation/The Salvation Army, a Georgia Corporation | 4300 E Paisano | El Paso | 79905 | 294,604
YWCA El Paso del Norte Region/YWCA Rapid Re-housing | 201 E Main, Suite 400 NA | El Paso | 79901 | 286,895
City of Waco/Heart of Texas HMIS 2018 | 300 Austin Avenue | Waco | 76701 | 62,653
Family Abuse Center, Inc./Permanent Supportive Housing Program | P.O. Box 20395 | Waco | 76702 | 51,367
Family Abuse Center, Inc./Rapid Re-Housing Program | P.O. Box 20395 | Waco | 76702 | 85,655
Family Abuse Center, Inc./Transitional Housing Program | P.O. Box 20395 | Waco | 76702 | 131,816
Heart of Texas Homeless Coalition/TX-604 CoC Planning Application FY2018 | 300 Austin Ave | Waco | 76701 | 49,923
Heart of Texas Region Mental Health And Mental Retardation /COC Housing Navigator Grant FY2018 | 110 South 12th Street | Waco | 76703 | 173,048
Heart of Texas Region Mental Health And Mental Retardation /COC Permanent Supported Housing Grant 1 FY2018 | 110 South 12th Street | Waco | 76703 | 135,803
Heart of Texas Region Mental Health And Mental Retardation /COC Permanent Supported Housing Grant 2 FY2018 | 110 South 12th Street | Waco | 76703 | 121,502
Heart of Texas Region Mental Health And Mental Retardation /COC Rapid Rehousing Grant 1 FY2018 | 110 South 12th Street | Waco | 76703 | 78,662
The Salvation Army a Georgia Corporation—Waco/FY 2018 The Salvation Army—Waco Consolidation RRH Renewal | 4721 W Waco Dr | Waco | 76710 | 94,077
The Salvation Army a Georgia Corporation—Waco/FY 2018 The Salvation Army—Waco SSO Coordinated Entry | 4721 W Waco Dr | Waco | 76710 | 43,590
The Salvation Army a Georgia Corporation—Waco/FY18 The Salvation Army-Waco SSO CE Expansion New | 4721 W Waco Dr | Waco | 76710 | 15,211
Abilene Hope Haven, Inc./Hope Housing Services | 801 S Treadaway Blvd. | Abilene | 79602 | 243,599
Abilene Hope Haven, Inc./Hope Housing Services-PSH | 801 S Treadaway Blvd. | Abilene | 79602 | 212,905
City of Beaumont/City of Beaumont | 801 Main Street | Beaumont | 77701 | 154,808
City of Longview/City of Longview CoC 2018 Renewal | P. O. Box 1952 | Longview | 75606 | 394,714
City of Texarkana/Texarkana Homeless Coalition: Doorways Home | 220 Texas Blvd | Texarkana | 75501 | 338,705
Denton County MHMR Center/Connections PSH FY2018 | 2519 Scripture St N/A | Denton | 76201 | 304,045
Families In Crisis, Inc./FIC RRH Killeen FY18 | 1305 East Rancier Avenue | Killeen | 76541 | 429,652
Giving HOPE, Inc./Turning Point | 117 W Sycamore St | Denton | 76201 | 232,017
Homeless Network of Texas (dba Texas Homeless Network)/TX BoS CoC HMIS Project FY 2018 | 1713 Fortview Road | Austin | 78704 | 363,018
Homeless Network of Texas (dba Texas Homeless Network)/TX BoS CoC HMIS Project FY 2018 Expansion | 1713 Fortview Road | Austin | 78704 | 70,000
Homeless Network of Texas (dba Texas Homeless Network)/TX-607 CoC Planning Project FY2018 | 1713 Fortview Road | Austin | 78704 | 1,142,236
Lubbock Open Door/Lubbock Open Door PSH | 1918 13th St | Lubbock | 79401 | 567,365
Mid-Coast Family Services, Inc./Next Step-Consolidated | 120 S Main, Suite 175 | Victoria | 77901 | 509,549
Neighborhood Development Corp/Homeless to Homes Program | 520 Decatur Ave | Orange | 77630 | 183,013
Odessa Links, Inc./Project Hope FY 2018 | 119 West 4th; Suite 201 | Odessa | 79761 | 304,944
Sabine Valley Regional MHMR Center dba Community Healthcore/Fredonia Homeless and Disabled Women and Children Rapid Rehousing | 107 Woodbine Place | Longview | 75601 | 135,790
Shelter Agencies For Families in East Texas, Inc/HUD Rapid Rehousing 3 | 204 Patrick Street | Mount Pleasant | 75455 | 172,601
The Gulf Coast Center/FY18 GCC Permanent Housing | 10000 Emmett F. Lowry Ste. 1220 | Texas City | 77591 | 586,191
The Salvation Army—Temple, TX/The Salvation Army—CoC Permanent Supportive Housing Program | 419 West Ave G | Temple | 76504 | 142,541
The Salvation Army—Temple, TX/The Salvation Army—CoC Rapid Rehousing Program | 419 West Ave G | Temple | 76504 | 160,550
The Salvation Army, a Georgia Corporation/Project Bridge Rapid Rehousing | 521 Josephine | Corpus Christi | 78401 | 299,962
The Salvation Army, a Georgia Corporation/Transforming Lives | 521 Josephine | Corpus Christi | 78401 | 153,944
United Way of Denton County, Inc./Denton County Coordinated Entry | 1314 Teasley Lane | Denton | 76205 | 123,926
Women Opting for More Affordable Housing Now,Inc.(WOMAN,Inc./WOMAN, Inc. Rapid Re-Housing | 1919 Decatur P.O.B 571898 | Houston | 77257 | 116,712
City of Amarillo/Permanent Supportive Housing |  |  |  | 302,712
City of Amarillo/TPC Supported Housing-A Forever Home |  |  |  | 91,622
City of Amarillo/HMIS |  |  |  | 203,612
City of Amarillo/CoC Planning |  |  |  | 35,272
Nortex Regional Planning Commissiom/My Walls | 4309 Jacksboro Hwy #200 | Wichita Falls | 76302 | 312,823
Nortex Regional Planning Commissiom/Planning Grant | 4309 Jacksboro Hwy #200 | Wichita Falls | 76302 | 20,500
AIDS Foundation Houston, Inc./A Friendly Haven | 6260 Westpark Dr Suite 100 | Houston | 77057 | 675,468
AIDS Foundation Houston, Inc./First Responders | 6260 Westpark Dr Suite 100 | Houston | 77057 | 795,062
AIDS Foundation Houston, Inc./T.E.X.T.M.S.G. | 6260 Westpark Dr Suite 100 | Houston | 77057 | 602,524
Catholic Charities of the Archdiocese Galveston-Houston/Lotus Project | 2900 Louisiana Street | Houston | 77006 | 1,268,199
Change Happens!/Rescue in Motion Permanent Housing Program 2.0 | 3353 Elgin Street | Houston | 77004 | 1,006,598
Coalition for the Homeless of Houston/Harris County/CoC Planning Funds FY2018 | 2000 Crawford Suite 700 | Houston | 77002 | 994,782
Coalition for the Homeless of Houston/Harris County/Coordinated Access 2 FY18 | 2000 Crawford Suite 700 | Houston | 77002 | 220,887
Coalition for the Homeless of Houston/Harris County/Coordinated Access Expansion FY18 | 2000 Crawford Suite 700 | Houston | 77002 | 115,632
Coalition for the Homeless of Houston/Harris County/Coordinated Access FY18 | 2000 Crawford Suite 700 | Houston | 77002 | 293,833
Coalition for the Homeless of Houston/Harris County/HMIS Renewal FY18 | 2000 Crawford Suite 700 | Houston | 77002 | 646,035
Crisis Assistance Center, Inc/CAC PSH FY18 (2019-20) TX0214L6E001811 | 1022 McCall Ave | Conroe | 77301 | 129,946
Fort Bend County Women's Center, Inc./FY18 Aftercare Expansion Project (CoC RRH) renewal | 501 Hwy 90 A East | Richmond | 77406 | 874,034
Fort Bend County Women's Center, Inc./FY18 Shelter Plus Care Consolidated renewal | 501 Hwy 90 A East | Richmond | 77406 | 517,531
Harmony House, Inc./Harmony House New Beginnings FY18 (TX0160L6E001808) | 602 Girard Street | Houston | 77007 | 748,318
Harmony House, Inc./Harmony House Permanent Solutions FY18 (TX0422L6E001803 | 602 Girard Street | Houston | 77007 | 2,379,076
Harris County/Northline | 8410 Lantern Point Dr | Houston | 77054 | 873,778
HCDVCC/HCDVCC FY18 Domestic Violence Coordinated Access | 2990 Richmond Ave Suite 550 | Houston | 77098 | 394,070
HCDVCC/HCDVCC FY18 Domestic Violence RRH 15-16 consolidated | 2990 Richmond Ave Suite 550 | Houston | 77098 | 1,712,696
HCDVCC/HCDVCC FY18 Domestic Violence RRH 2018 | 2990 Richmond Ave Suite 550 | Houston | 77098 | 1,542,656
Houston Area Community Services, Inc./ACE | 2150 W 18th St, Suite 300 | Houston | 77008 | 1,203,657
Houston Area Community Services, Inc./START | 2150 W 18th St, Suite 300 | Houston | 77008 | 742,142
Houston Area Community Services, Inc./YEAH! | 2150 W 18th St, Suite 300 | Houston | 77008 | 2,739,560
Houston Area Women's Center/HAWC FY2018 Housing Advocacy Renewal TX0179 | 1010 Waugh Dr | Houston | 77019 | 431,909
Houston HELP, Inc/Corder Place Apartments | 2211 Norfolk Suite 740 | Houston | 77098 | 497,540
Houston Housing Authority/FY18 Houston Housing Authority RRH Renewal TX0366L6E001805 | 2640 Fountainview Suite 300 | Houston | 77057 | 2,836,904
Houston Housing Authority/FY2018 HHA RRH TAY Renewal TX0428L6E001803 | 2640 Fountainview Suite 300 | Houston | 77057 | 1,387,136
Northwest Assistance Ministries/NAM Permanent SHP Expansion | 15555 Kuykendahl Road | Houston | 77090 | 772,341
Santa Maria Hostel, Inc./The Hope Housing Project | 2605 Parker Road | Houston | 77093 | 487,280
SEARCH Homeless Services/Case Management for Permanent Supportive Housing | 2015 Congress | Houston | 77002 | 452,741
SEARCH Homeless Services/Harrisburg Case Management Services | 2015 Congress | Houston | 77002 | 859,569
SEARCH Homeless Services/Mobile Outreach to Chronic Street Homeless | 2015 Congress | Houston | 77002 | 96,520
SEARCH Homeless Services/SEARCH Housing Plus | 2015 Congress | Houston | 77002 | 1,061,902
SEARCH Homeless Services/Supportive Services at Temenos II | 2015 Congress | Houston | 77002 | 641,030
Star of Hope Mission/Star of Hope Mission New Haven | 4848 Loop Central Suite 500 | Houston | 77081 | 1,085,769
Temenos Community Development Corporation/FY2018 Knowles-Temenos Place Apartments | 2200 Jefferson Street | Houston | 77003 | 713,115
Temenos Community Development Corporation/FY2018 Temenos Place Apartments III | 2200 Jefferson Street | Houston | 77003 | 522,418
The Bridge Over Troubled Waters, Inc./The Bridge Permanent Housing Project for Women with Disabilities | 3811 Allen Genoa | Pasadena | 77504 | 1,021,947
The Bridge Over Troubled Waters, Inc./The Bridge Permanent Housing Project for Women with Disabilities—Expansion | 3811 Allen Genoa | Pasadena | 77504 | 544,288
The Montrose Center/LGBT Domestic Violence Services | 401 Branard Street, 2nd Floor | Houston | 77006 | 120,517
The Salvation Army, A Georgia Corporation/Salvation Army Social Services | 1500 Austin Street | Houston | 77002 | 366,398
The Salvation Army, A Georgia Corporation/The Salvation Army—Mission Advance FY17 | 1500 Austin Street | Houston | 77002 | 547,135
The Salvation Army, A Georgia Corporation/The Salvation Army Social Services (YA) FY17 | 1500 Austin Street | Houston | 77002 | 573,259
The Women's Home/Transitional Housing Two | 607 Westheimer | Houston | 77006 | 207,406
United States Veterans Initiative/Permanent Housing for Chronically Homeless FY18 (2019-2020) U.S. VETS | 4640 Main Street | Houston | 77002 | 504,858
United States Veterans Initiative/Permanent Housing for Disabled Veterans FY18 (2019-2020) U.S. VETS | 4640 Main Street | Houston | 77002 | 536,315
Volunteers of America Texas, Inc./Conroe Permanent Supportive Housing Program | 300 E Midway Drive | Euless | 76039 | 737,695
Young Women's Christian Association of Houston/Choices Permanent Supportive Housing | 6309 Martin Luther King Jr. Blvd | Houston | 77021 | 385,648
Young Women's Christian Association of Houston/YWCA of Houston Center for women | 6309 Martin Luther King Jr. Blvd | Houston | 77021 | 287,845
Twin City Mission, Inc./HMIS Expansion 2018 | 2505 South College | Bryan | 77801 | 53,269
Twin City Mission, Inc./Rapid Re-Housing 2018 | 2505 South College | Bryan | 77801 | 244,826
First Step House/FSH Rapid Rehousing Program Consolidated FY2018 | 440 South 500 East | Salt Lake City | 84102 | 222,727
Housing Assistance Management Enterprise/HAME Sunrise Metro FY2018 | 1776 South West Temple Street | Salt Lake City | 84115 | 71,328
Housing Authority of Salt Lake City/HASLC Shelter Plus Care II FY2018 | 1776 S West Temple | Salt Lake City | 84115 | 236,174
Housing Authority of Salt Lake City/HASLC Shelter Plus Care IV FY2018 | 1776 S West Temple | Salt Lake City | 84115 | 241,754
Housing Authority of Salt Lake City/HASLC Shelter Plus Care V FY2018 | 1776 S West Temple | Salt Lake City | 84115 | 97,203
Housing Authority of the County of Salt Lake/HACSL COCR Reallocated FY2018 | 3593 South Main Street | Salt Lake City | 84115 | 1,087,012
Housing Authority of the County of Salt Lake/HACSL SP Renewal FY2018 | 3593 South Main Street | Salt Lake City | 84115 | 1,067,947
Housing Authority of the County of Salt Lake/HACSL SP3 New Chronic FY2018 | 3593 South Main Street | Salt Lake City | 84115 | 544,477
Housing Authority of the County of Salt Lake/HACSL SP3e New Chronic Expansion FY2018 | 3593 South Main Street | Salt Lake City | 84115 | 442,624
Housing Authority of the County of Salt Lake/HACSL SPBB Bud Bailey FY2018 | 3593 South Main Street | Salt Lake City | 84115 | 221,633
Housing Authority of the County of Salt Lake/HACSL SPG Grace Mary Manor FY2018 | 3593 South Main Street | Salt Lake City | 84115 | 200,826
Housing Authority of the County of Salt Lake/HACSL SPK Kelly Benson FY2018 | 3593 South Main Street | Salt Lake City | 84115 | 95,416
Housing Authority of the County of Salt Lake/HACSL SPR Sponsor Based w/TRH FY2018 | 3593 South Main Street | Salt Lake City | 84115 | 82,691
Salt Lake County Government/UT-500 CoC Planning Application FY2018 | 2001 South State Street, Suite N4-930 P.O. Box 144575 | Salt Lake City | 84114 | 214,382
The Road Home/TRH CHSH Leasing FY2018 | 210 South Rio Grande Street | Salt Lake City | 84101 | 486,450
The Road Home/TRH PSH Rental Assistance Consolidated FY2018 | 210 South Rio Grande Street | Salt Lake City | 84101 | 1,494,369
The Road Home/TRH RRH for Families Consolidated FY2018 | 210 South Rio Grande Street | Salt Lake City | 84101 | 244,817
The Road Home/TRH Scattered Site Properties FY2018 | 210 South Rio Grande Street | Salt Lake City | 84101 | 17,440
Utah Department of Workforce Services/DWS Salt Lake HMIS FY2018 | 1385 South State Street 4th Floor | Salt Lake City | 84115 | 223,151
Volunteers of America, Utah/VOAUT Rapid Rehousing for Youth FY2018 | 435 West Bearcat Drive | Salt Lake City | 84115 | 265,406
Volunteers of America, Utah/VOAUT Supportive Housing for Youth FY2018 | 435 West Bearcat Drive | Salt Lake City | 84115 | 290,967
Young Womens Christian Assn of Utah/YWCA TH Residential Self-Sufficiency FY2018 | 322 E 300 S | Salt Lake City | 84111 | 38,733
Bear River Association of Governments/BRAG Rapid Re-housing Program | 170 N Main | Logan | 84321 | 136,724
Family Connection Center/Open Doors Rapid Re Housing | 1360 East 1450 South | Clearfield | 84015 | 187,542
Five County Association of Governments/Five County/Dove/CCWCC RRH Expansion Renewal | 1070 W 1600 S Bldg B | Saint George | 84770 | 62,983
Five County Association of Governments/Five County/Dove Center/CCWCC RRH Renewal | 1070 W 1600 S Bldg B | Saint George | 84770 | 83,988
Friends of Switchpoint/Switchpoint Rapid Rehousing 2018 | 948 N 1300 W | Saint George | 84770 | 126,340
Housing Authority of the City of Ogden/Shelter Plus Care | 1100 Grant Avenu | Ogden | 84404 | 197,922
Iron County Care and Share/FY18 COC BOS Iron County Care and Share | P.O. Box 2241 222 West 900 North | Cedar City | 84721 | 32,164
St Anne's Center/Rapid Re-Housing | 269 West 33rd Street | Ogden | 84401 | 87,440
St Anne's Center/Rapid Rehousing for Youth | 269 West 33rd Street | Ogden | 84401 | 61,680
St George Housing Authority/SGHA Housing Matters | 975 North 1725 West # 101 | St George | 84770 | 58,797
Tooele County Housing Authoriity/Tooele S+C 2018 | 66 West Vine Street | Tooele | 84074 | 166,489
Uintah Basin Association of Governments/UBAOG Rapid Rehousing | 330 East 100 South | Roosevelt | 84066 | 69,767
Utah Department of Workforce Services/BOS CoC Planning Project Application FY2018 | 1385 South State Street 4th Floor | Salt Lake City | 84115 | 62,629
Utah Department of Workforce Services/DWS Balance of State HMIS FY2018 | 1385 South State Street 4th Floor | Salt Lake City | 84115 | 80,640
Weber Housing Authority /Shelter Plus Care 2018 Renewal | 237 26th Street, #E220 | Ogden | 84401 | 32,813
Weber Housing Authority /Supportive Housing Program 2018 Renewal | 237 26th Street, #E220 | Ogden | 84401 | 193,339
Your Community Connection of Ogden/Northern Utah/RRH Families 2018 | 2261 Adams Avenue | Ogden | 84401 | 80,342
Your Community Connection of Ogden/Northern Utah/RRH Singles 2018 | 2261 Adams Avenue | Ogden | 84401 | 70,111
Your Community Connection of Ogden/Northern Utah/RRH YOUTH 2018 | 2261 Adams Avenue | Ogden | 84401 | 25,508
Center for Women and Children in Crisis, Inc./Rapid Rehousing for Survivors of Domestic Violence | 1433 East 840 North | Orem | 84097 | 55,695
Community Action Services and Food Bank, Inc./RRH For Homeless Persons Renewal 2018 | 815 South Freedom Blvd., Suite 100 | Provo | 84601 | 81,400
Golden Spike Treatment Ranch, Inc/GSO REAP 3.0 | 869 South 170 East | Provo | 84606 | 53,670
Housing Authority of Utah County/HAUC Renewal 2018 | 240 E Center Street | Provo | 84606 | 365,317
Housing Authority of Utah County/PSH Leasing 2018 | 240 E Center Street | Provo | 84606 | 139,130
Provo City Housing Authority/PH—Rental Assistance New Project 2018 | 650 West 100 North | Provo | 84601 | 47,382
Provo City Housing Authority/PH—Rental Assistance Renewal 2018 | 650 West 100 North | Provo | 84601 | 369,359
United Way of Central and Southern Utah/UT504 Planning Project FY 2018 | 148 North 100 West | Provo | 84601 | 50,465
Utah Department of Workforce Services/DWS Mountainland HMIS FY2018 | 1385 South State Street 4th Floor | Salt Lake City | 84115 | 36,000
Emergency Shelter, Inc. DBA HomeAgain/HomeAgain RRH (InRich & Family) | P. O. Box 5222 | Richmond | 23220 | 302,511
Emergency Shelter, Inc. DBA HomeAgain/Permanent Supportive Housing Program | P. O. Box 5222 | Richmond | 23220 | 354,249
Homeward/CES Expansion FY2018 | 9221 Forest Hill Avenue Suite 200 | Richmond | 23235 | 52,250
Homeward/CoC Planning FY18 | 9221 Forest Hill Avenue Suite 200 | Richmond | 23235 | 151,459
Homeward/Coordinated Entry System FY2018 | 9221 Forest Hill Avenue Suite 200 | Richmond | 23235 | 97,500
Homeward/HCIS Richmond FY2018 | 9221 Forest Hill Avenue Suite 200 | Richmond | 23235 | 50,000
Housing Families First/Building Neighbors Rapid Re-Housing | 3900 Nine Mile Road | Henrico | 23223 | 246,639
Richmond Behavioral Health Authority/RBHA Home Connect Renewal 2018 | 107 S 5th Street | Richmond | 23219 | 251,860
St Joseph's Villa/FY18 Renewal Richmond | 8000 Brook Road Office of Grants Development | Richmond | 23227 | 310,412
Virginia Supportive Housing/Richmond HomeLink Consolidated FY 2018 | 8002 Discovery Drive Suite 201 | Henrico | 23229 | 1,164,384
Virginia Supportive Housing/Richmond Housing First Renewal FY 2018 | 8002 Discovery Drive Suite 201 | Henrico | 23229 | 541,502
Virginia Supportive Housing/Richmond Shelter Plus Care 1 Renewal FY 2018 | 8002 Discovery Drive Suite 201 | Henrico | 23229 | 760,338
Virginia Supportive Housing/Richmond Shelter Plus Care Renewal FY 2018 | 8002 Discovery Drive Suite 201 | Henrico | 23229 | 183,921
Virginia Supportive Housing/VSH FUSE Renewal FY 2018 | 8002 Discovery Drive Suite 201 | Henrico | 23229 | 287,135
City of Norfolk/Shelter Plus Care FY 18 | 225 W Olney Rd | Norfolk | 23510 | 554,026
ForKids,inc./Bridge Rapid Re-Housing FY18 | 4200 Colley Avenue P.O. Box 6044 | Norfolk | 23508 | 91,136
ForKids,inc./Elizabeth Place PSH FY18 | 4200 Colley Avenue P.O. Box 6044 | Norfolk | 23508 | 106,283
ForKids,inc./LEAP Rapid Re-Housing Consolidated Application FY18 | 4200 Colley Avenue P.O. Box 6044 | Norfolk | 23508 | 579,699
ForKids,inc./Legacy PSH FY18 | 4200 Colley Avenue P.O. Box 6044 | Norfolk | 23508 | 518,686
ForKids,inc./Regional Housing Crisis Hotline Coordinated Assessment FY18 | 4200 Colley Avenue P.O. Box 6044 | Norfolk | 23508 | 147,673
LGBT Life Center /CHAP Norfolk Renewal FY2018 | 222 West 21st Street Suite F-308 | Norfolk | 23517 | 379,176
St Columba Ecumenical Ministries, Inc./Next Step Transitional Housing | 2114 Lafayette Blvd. | Norfolk | 23509 | 103,832
The Planning Council/FY2018 SVHC HMIS Expansion | 5365 Robin Hood Road, Ste 700 | Norfolk | 23513 | 70,288
The Planning Council/FY2018 SVHC Planning | 5365 Robin Hood Road, Ste 700 | Norfolk | 23513 | 113,103
The Planning Council/FY2018 SVHC ShelterLink | 5365 Robin Hood Road, Ste 700 | Norfolk | 23513 | 51,544
Virginia Supportive Housing/Norfolk Housing First 2 Consolidated FY 2018 | 8002 Discovery Drive Suite 201 | Henrico | 23229 | 588,305
Virginia Supportive Housing/Norfolk Housing First 3 Consolidated FY 2018 | 8002 Discovery Drive Suite 201 | Henrico | 23229 | 424,455
Young Women's Christian Association of South Hampton Roads /Women In Crisis Scattered Site Transitional Housing 2018 | 500 East Plume Suite 700 | Norfolk | 23510 | 141,501
City of Roanoke/City of Roanoke Homeless Assistance Team | 215 Church Avenue | Roanoke | 24011 | 140,422
City of Roanoke/CoC Planning Project Application FY2018 | 215 Church Avenue | Roanoke | 24011 | 45,235
City of Roanoke/Coordinated Assessment System | 215 Church Avenue | Roanoke | 24011 | 49,070
Council of Community Services/HMIS | 502 Campbell Avenue, SW | Roanoke | 24016 | 96,060
Council of Community Services/HMIS Expansion | 502 Campbell Avenue, SW | Roanoke | 24016 | 33,000
Roanoke Valley Student Trouble Center, Inc. d/b/a Trust House/Healing Haven | 404 Elm Avenue, SW | Roanoke | 24016 | 387,955
Roanoke Valley Student Trouble Center, Inc. d/b/a Trust House/Heroes Haven PSH for CH Veterans | 404 Elm Avenue, SW | Roanoke | 24016 | 82,427
Roanoke Valley Student Trouble Center, Inc. d/b/a Trust House/Trust House Case Management | 404 Elm Avenue, SW | Roanoke | 24016 | 56,476
City of Virginia Beach/CoC Planning Grant | 2401 Courthouse Drive | Virginia Beach | 23456 | 49,268
Community Alternatives Management Group, Inc./CAMG 10 FY18 | 5700 Thurston Ave Suite 206 | Norfolk | 23502 | 118,010
Community Alternatives Management Group, Inc./CAMG 34 FY18 | 5700 Thurston Ave Suite 206 | Norfolk | 23502 | 403,960
Judeo-Christian Outreach Center/JCOC Affordable Housing | 1053 Virginia Beach Blvd. | Virginia Beach | 23451 | 59,410
Judeo-Christian Outreach Center/JCOC Rapid Rehousing | 1053 Virginia Beach Blvd. | Virginia Beach | 23451 | 99,976
Judeo-Christian Outreach Center/JCOC Rapid Rehousing | 1053 Virginia Beach Blvd. | Virginia Beach | 23451 | 12,176
LGBT Life Center /CHAP VB Expansion Renewal 2018 | 222 West 21st Street Suite F-308 | Norfolk | 23517 | 196,398
Samaritan House, Inc./Expansion of HUD4 Joint TH & RRH | 2620 Southern Blvd. | Virginia Beach | 23452 | 36,000
Samaritan House, Inc./Expansion of HUD5 RRH for DV | 2620 Southern Blvd. | Virginia Beach | 23452 | 140,827
Samaritan House, Inc./Rapid Re-Housing 1 | 2620 Southern Blvd. | Virginia Beach | 23452 | 33,887
Samaritan House, Inc./Rapid Re-Housing 2 | 2620 Southern Blvd. | Virginia Beach | 23452 | 109,848
Samaritan House, Inc./Rapid Re-Housing 3 | 2620 Southern Blvd. | Virginia Beach | 23452 | 276,392
Samaritan House, Inc./Rapid Re-Housing 5 | 2620 Southern Blvd. | Virginia Beach | 23452 | 89,977
Samaritan House, Inc./Transitional Housing Program (HUD4) | 2620 Southern Blvd. | Virginia Beach | 23452 | 85,150
The Planning Council/FY2018 ShelterLink BEACH | 5365 Robin Hood Road, Ste 700 | Norfolk | 23513 | 62,721
Virginia Beach Community Development Corporation/New Haven | 2400 Potters Road | Virginia Beach | 23454 | 5,210
Virginia Beach Community Development Corporation/New Haven | 2400 Potters Road | Virginia Beach | 23454 | 7,500
Virginia Beach Community Development Corporation/Veterans First | 2400 Potters Road | Virginia Beach | 23454 | 71,521
Region Ten Community Services Board/PSH Consolidation 2018 | 500 Old Lynchburg Road | Charlottesville | 22903 | 369,350
Thomas Jefferson Area Coalition for the Homeless/VA-504 CoC Planning Application FY2018 | P.O. Box 34 | Charlottesville | 22902 | 10,969
City of Hampton Department of Human Services/FY2018 GVPHC Planning Project | 1320 Lasalle Ave | Hampton | 23369 | 58,672
ForKids,inc./Regional Housing Crisis Hotline Coordinated Assessment GVPHC FY18 | 4200 Colley Avenue P.O. Box 6044 | Norfolk | 23508 | 65,682
Hampton-Newport News Community Services Board/Safe Harbors Consolidated | 300 Medical Drive | Hampton | 23666 | 484,463
LGBT Life Center /CHAP Peninsula Renewal 2018 | 222 West 21st Street Suite F-308 | Norfolk | 23517 | 298,809
Link of Hampton Roads, Inc./CANLINK I FY 2018 | 10413 Warwick Blvd | Newport News | 23601 | 731,607
Link of Hampton Roads, Inc./CANLINK IV FY 2018 | 10413 Warwick Blvd | Newport News | 23601 | 63,705
Newport News Redevelopment and Housing Authority/Shelter Plus Care | 227 27th Street | Newport News | 23607 | 115,630
The Planning Council/FY2018 GVPHC ShelterLink | 5365 Robin Hood Road, Ste 700 | Norfolk | 23513 | 55,172
Transitions Family Violence Services/Next Step to Home | P.O. Box 561 | Hampton | 23669 | 140,670
City of Portsmouth Virginia/FY 2018 CoC Project Competition | 1811 King St | Portsmouth | 23704 | 527,449
Portsmouth Area Resources Coalition, Inc./2018 CoC Planning Project Application | P.O. Box 1183 | Portsmouth | 23705 | 35,058
Portsmouth Area Resources Coalition, Inc./Families Succeed with Housing (FaSH) | P.O. Box 1183 | Portsmouth | 23705 | 53,071
Portsmouth Area Resources Coalition, Inc./Single Adult Barrier Reduction Exchange 2(SABRE 2) | P.O. Box 1183 | Portsmouth | 23705 | 145,133
Portsmouth Area Resources Coalition, Inc./Step Up To Responsibility (SUTR) | P.O. Box 1183 | Portsmouth | 23705 | 81,346
Portsmouth Christian Outreach Ministries/Chronic Homeless Resource and Opportunity Network (CHRON) | 910 Seventh St | Portsmouth | 23704 | 49,348
Portsmouth Christian Outreach Ministries/Transitional Housing | 910 Seventh St | Portsmouth | 23704 | 75,533
Virginia Supportive Housing/Portsmouth Housing First 1 Consolidated FY 2018 | 8002 Discovery Drive Suite 201 | Henrico | 23229 | 233,999
Lynchburg Redevelopment & Housing Authority/Housing First Lynchburg | 918 Commerce Street | Lynchburg | 24504 | 225,576
Miriam's House, Inc./Community First Rapid Re-Housing | 409 Magnolia Street | Lynchburg | 24503 | 31,008
Miriam's House, Inc./Magnolia St Supportive Housing Con | 409 Magnolia Street | Lynchburg | 24503 | 80,434
Miriam's House, Inc./Miriam's House HMIS | 409 Magnolia Street | Lynchburg | 24503 | 21,357
Miriam's House, Inc./VA 508 CoC Planning Application FY2018 | 409 Magnolia Street | Lynchburg | 24503 | 13,546
Harrisonburg Redevelopment and Housing Authority/HMIS Renewal Project FY2018 | 286 Kelley Street | Harrisonburg | 22802 | 84,072
Northern Shenandoah Valley Regional Commission/FY2018 Planning Project | 400E Kendrick Lane | Front Royal | 22630 | 20,619
Northwestern Community Services/NWCS—PSH Program for Chronically Homeless 2 | 209 West Criser Road, Suite 300 | Front Royal | 22630 | 17,833
Northwestern Community Services/NWCS—Shelter Plus Care | 209 West Criser Road, Suite 300 | Front Royal | 22630 | 248,807
George Washington Regional Commission/VA-514 CoC HMIS Renewal FY2018 | 406 Princess Anne St | Fredericksburg | 22401 | 55,125
George Washington Regional Commission/VA-514 CoC Planning Application FY2018 | 406 Princess Anne St | Fredericksburg | 22401 | 11,970
Micah Ecumenical Ministries/FY18-Journey Supportive Housing (FISH) | P.O. Box 3277 | Fredericksburg | 22402 | 168,006
Micah Ecumenical Ministries/FY18-Journey Supportive Housing (FUSE) | P.O. Box 3277 | Fredericksburg | 22402 | 85,280
Commonwealth Catholic Charities/Crater PSH | 1601 Rolling Hills Drive | Richmond | 23229 | 125,061
Commonwealth of Virginia/HMIS FY2018 | 600 East Main Street Suite 300 | Richmond | 23219 | 141,301
Commonwealth of Virginia/VA-521 CoC Planning Application FY2018 | 600 East Main Street Suite 300 | Richmond | 23219 | 110,298
Helping Overcome Poverty's Existence, Inc./FY 18 HOPE PSH | 680 W Main Street P.O. Box 743 | Wytheville | 24382 | 56,963
Helping Overcome Poverty's Existence, Inc./FY HOPE RRH | 680 W Main Street P.O. Box 743 | Wytheville | 24382 | 71,859
New River Community Action Inc/2018 Balance of State HUD CoC Application | 1093 E Main St | Radford | 24141 | 158,956
People Incorporated of Virginia/Bristol Permanent Supportive Housing FY18 | 1173 West Main Street | Abingdon | 24210 | 27,038
People Incorporated of Virginia/Foothills Housing Network RR Renewal 2018 | 1173 West Main Street | Abingdon | 24210 | 49,054
St Joseph's Villa/FY18 Renewal HRC CACH-LPG | 8000 Brook Road Office of Grants Development | Richmond | 23227 | 322,408
Arlington County Government/Arlington CoC Planning Project Application 2018 | 2100 Washington Blvd. Third Floor | Arlington | 22204 | 78,360
Arlington Street People's Assistance Network,INC./Home Bound | 2020A N 14th Street | Arlington | 22201 | 452,844
Arlington Street People's Assistance Network,INC./Homeward | 2020A N 14th Street | Arlington | 22201 | 65,891
Arlington Street People's Assistance Network,INC./Homeward Expansion 1 | 2020A N 14th Street | Arlington | 22201 | 80,064
Arlington Street People's Assistance Network,INC./Turning Keys | 2020A N 14th Street | Arlington | 22201 | 661,626
Arlington Street People's Assistance Network,INC./Westover | 2020A N 14th Street | Arlington | 22201 | 580,221
Bridges to Independence/Arlington Rapid Re-Housing FY2018 | 3103 9th Road, North | Arlington | 22201 | 340,539
New Hope Housing, Inc./Just Home | 8407-E Richmond Highway | Alexandria | 22309 | 56,603
New Hope Housing, Inc./Susan's Place | 8407-E Richmond Highway | Alexandria | 22309 | 217,615
Volunteers of America Chesapeake, Inc./Arlington Master Lease PSH Program | 7901 Annapolis Road | Lanham | 20706 | 84,769
Volunteers of America Chesapeake, Inc./HOME RRH Program | 7901 Annapolis Road | Lanham | 20706 | 214,066
Abused and Homeless Children's Refuge /Rapid Rehousing for Transition Age Youth | 8221 Old Courthouse Road Suite 207 | Vienna | 22182 | 214,880
FACETS/Linda's Gateway Permanent Supportive Housing | 10640 Page Avenue Suite 300 | Fairfax | 22030 | 444,555
FACETS/TRIUMPH III Permanent Supportive Housing | 10640 Page Avenue Suite 300 | Fairfax | 22030 | 604,926
FACETS/TRIUMPH III Permanent Supportive Housing | 10640 Page Avenue Suite 300 | Fairfax | 22030 | 86,818
FACETS/TRIUMPH Permanent Supportive Housing | 10640 Page Avenue Suite 300 | Fairfax | 22030 | 189,160
Fairfax County Department of Housing and Community Development/DHCD/Pathway Homes SPC 10C | 3700 Pender Dr Suite 300 | Fairfax | 22030 | 954,151
Fairfax County Department of Housing and Community Development/DHCD/Pathway Homes SPC 1C | 3700 Pender Dr Suite 300 | Fairfax | 22030 | 587,089
Fairfax County Department of Housing and Community Development/DHCD/Pathway Homes SPC 9C | 3700 Pender Dr Suite 300 | Fairfax | 22030 | 423,290
Fairfax County Office to Prevent and End Homelessness/VA-601 CoC Planning Application FY2018 | 12000 Government Center Parkway Suite 333 | Fairfax | 22035 | 130,000
New Hope Housing, Inc./PSH Group Homes | 8407-E Richmond Highway | Alexandria | 22309 | 368,838
Pathway Homes, Inc./1991 CRSC/Pathway Homes SHP | 10201 Fairfax Blvd., Suite 200 | Fairfax | 22030 | 153,140
Pathway Homes, Inc./1991 Pathway Homes SHP Expansion | 10201 Fairfax Blvd., Suite 200 | Fairfax | 22030 | 235,845
Pathway Homes, Inc./1994 CRSVA/PH/PRS SHP | 10201 Fairfax Blvd., Suite 200 | Fairfax | 22030 | 239,515
Pathway Homes, Inc./1995 CRSVA/PH/PRS SHP | 10201 Fairfax Blvd., Suite 200 | Fairfax | 22030 | 319,499
Pathway Homes, Inc./2007 Pathway Homes SHP | 10201 Fairfax Blvd., Suite 200 | Fairfax | 22030 | 189,428
Pathway Homes, Inc./2009 Pathway Homes SHP | 10201 Fairfax Blvd., Suite 200 | Fairfax | 22030 | 189,079
Pathway Homes, Inc./2011 Pathway Homes SHP | 10201 Fairfax Blvd., Suite 200 | Fairfax | 22030 | 384,386
Pathway Homes, Inc./2014 Pathway Homes SHP | 10201 Fairfax Blvd., Suite 200 | Fairfax | 22030 | 1,383,177
Pathway Homes, Inc./2015 Pathway Homes SHP | 10201 Fairfax Blvd., Suite 200 | Fairfax | 22030 | 590,776
Shelter House, Inc/Domestic Violence Rapid Re-Housing Project | 12310 Pinecrest Road Suite 304 | Reston | 20191 | 405,006
Shelter House, Inc/Rapid Re-Housing Project | 12310 Pinecrest Road Suite 304 | Reston | 20191 | 467,630
Shelter House, Inc/RISE | 12310 Pinecrest Road Suite 304 | Reston | 20191 | 565,668
County of Loudoun/Permanent Supportive Housing Program | 102 Heritage Way NE P.O. Box 7400 | Leesburg | 20177 | 25,920
County of Loudoun/Permanent Supportive Housing Reallocation Project | 102 Heritage Way NE P.O. Box 7400 | Leesburg | 20177 | 156,020
Alexandria Community Services Board/Notabene & Family Permanent Housing | 2525 Mt. Vernon Ave | Alexandria | 22301 | 151,007
Bridges to Independence/Alexandria City Rapid Re-housing FY 2018 | 3103 9th Road, North | Arlington | 22201 | 266,457
City of Alexandria, a municipal corporation of Virginia/CoC Planning Project FY18 | 2525 Mt. Vernon Ave | Alexandria | 22301 | 24,794
City of Alexandria, a municipal corporation of Virginia/HMIS Management Analyst | 2525 Mt. Vernon Ave | Alexandria | 22301 | 55,225
New Hope Housing, Inc./Alexandria Housing First | 8407-E Richmond Highway | Alexandria | 22309 | 182,418
Sheltered Homes of Alexandria/SHA Permanent Housing Program | 720 North Saint Asaph Street | Alexandria | 22314 | 187,931
Prince William County Department of Social Services /CoC Planning 2018 | 7987 Ashton Avenue | Manassas | 20109 | 52,092
Prince William County Department of Social Services /PASS-Permanent Supportive Housing | 7987 Ashton Avenue | Manassas | 20109 | 151,907
Prince William County Department of Social Services /PWA- HMIS FY 18 | 7987 Ashton Avenue | Manassas | 20109 | 36,230
Prince William County Department of Social Services /PWA -Leasing | 7987 Ashton Avenue | Manassas | 20109 | 159,035
Prince William County Department of Social Services /PWA PSH HOUSE I | 7987 Ashton Avenue | Manassas | 20109 | 9,052
Prince William County Department of Social Services /PWA Rapid Rehousing FY 18 | 7987 Ashton Avenue | Manassas | 20109 | 206,648
Prince William County Department of Social Services /PWA-PSH Leasing | 7987 Ashton Avenue | Manassas | 20109 | 106,550
Methodist Training & Outreach Center, Inc. /Methodist Training & Outreach Center Permanent Housing | #4-A Kronprindsens Gade | St Thomas | 00802 | 56,672
Methodist Training & Outreach Center, Inc. /VI-HMIS Homeless Management Information System | #4-A Kronprindsens Gade | St Thomas | 00802 | 68,474
V.I. Housing Finance Authority/VI-500 CoC Planning Application FY2018 | 3202 Demarara Plaza Suite 200 | St Thomas | 00802 | 28,184
VI Department of Human Services/DHS PHB Renewal 2018 | 1303 Hospital Ground Ste 1 | St Thomas | 00802 | 39,552
Brattleboro Housing Authority/BraHAFY2018 | 224 Melrose Street | Brattleboro | 05301 | 248,926
Institute for Community Alliances/Vermont BoS HMIS | 1111 9th Street Suite 380 | Des Moines | 50314 | 59,382
State of Vermont/Coordinated Entry Consolidated Renewal FFY18 | 280 State Drive | Waterbury | 05671 | 305,639
State of Vermont/Coordinated Entry Expansion FFY2018 | 280 State Drive | Waterbury | 05671 | 50,000
Vermont State Housing Authority/VSHA RRH Statewide FY18 | One Prospect Street | Montpelier | 05602 | 969,071
Vermont State Housing Authority/VSHA RRH6-DV FY18 | One Prospect Street | Montpelier | 05602 | 163,909
Vermont State Housing Authority/VSHA S+C SW FY18 | One Prospect Street | Montpelier | 05602 | 1,566,758
Vermont State Housing Authority/VSHA S+C WWW FY18 | One Prospect Street | Montpelier | 05602 | 204,472
Vermont State Housing Authority/VT BoS CoC Planning Project FY18 | One Prospect Street | Montpelier | 05602 | 100,922
Champlain Valley Office of Economic Opportunity/Chittenden Coordinated Entry Assessment Services |  |  |  | 50,000
Burlington Housing Authority/Beacon Place Apartments | 65 Main Street | Burlington | 05401 | 120,048
Burlington Housing Authority/ECHO-Expanding Chronically Homeless Options | 65 Main Street | Burlington | 05401 | 157,116
Burlington Housing Authority/Shelter Plus Care—New Horizons | 65 Main Street | Burlington | 05401 | 179,603
Burlington Housing Authority/Shelter Plus-Housing First | 65 Main Street | Burlington | 05401 | 139,140
Champlain Valley Office of Economic Opportunity/Chittenden Coordinated Entry Consolidated Project | 255 South Champlain Street | Burlington | 05401 | 79,999
City of Burlington/VT-501 CoC Planning Project FY 2018 | 149 Church Street Room 32 | Burlington | 05401 | 34,202
Institute for Community Alliances/Chittenden CoC HMIS | 1111 9th Street Suite 380 | Des Moines | 50314 | 65,000
Pathways Vermont, INC/Pathways Vermont Housing First Rapid Re-Housing Program (HF-RRH) | 125 College St Floor 2 | Burlington | 05401 | 73,147
Pathways Vermont, INC/Pathways Vermont Rapid Rehousing Project Expansion | 125 College St Floor 2 | Burlington | 05401 | 69,645
Spectrum Youth and Family Services/Rapid Rehousing for Homeless Youth | 31 Elmwood Avenue | Burlington | 05401 | 81,550
Steps to End Domestic Violence, Inc. /Domestic Violence Housing First | P.O. Box 1535 | Burlington | 05402 | 156,442
Archdiocesan Housing Authority/Rose of Lima House | 100 23rd Ave South | Seattle | 98144 | 108,487
Archdiocesan Housing Authority/St Martin's on Westlake | 100 23rd Ave South | Seattle | 98144 | 197,739
City of Seattle Human Services Department/Avalon Place | P.O. Box 34215 700 5th Avenue, Suite 5800 | Seattle | 98124 | 35,142
City of Seattle Human Services Department/Cascade Women's Supportive Housing | P.O. Box 34215 700 5th Avenue, Suite 5800 | Seattle | 98124 | 116,182
City of Seattle Human Services Department/Coming Home | P.O. Box 34215 700 5th Avenue, Suite 5800 | Seattle | 98124 | 488,420
City of Seattle Human Services Department/DESC 22nd Avenue PSH #1 | P.O. Box 34215 700 5th Avenue, Suite 5800 | Seattle | 98124 | 509,572
City of Seattle Human Services Department/DESC Consolidated PSH Portfolio #1 | P.O. Box 34215 700 5th Avenue, Suite 5800 | Seattle | 98124 | 3,165,747
City of Seattle Human Services Department/DESC Consolidated PSH Portfolio #2 | P.O. Box 34215 700 5th Avenue, Suite 5800 | Seattle | 98124 | 1,908,055
City of Seattle Human Services Department/Dorothy Day House | P.O. Box 34215 700 5th Avenue, Suite 5800 | Seattle | 98124 | 25,422
City of Seattle Human Services Department/ECR Transitional Housing | P.O. Box 34215 700 5th Avenue, Suite 5800 | Seattle | 98124 | 17,603
City of Seattle Human Services Department/Hickman House Joint Component RRH/TH | P.O. Box 34215 700 5th Avenue, Suite 5800 | Seattle | 98124 | 328,566
City of Seattle Human Services Department/Home Safe Rapid Rehousing | P.O. Box 34215 700 5th Avenue, Suite 5800 | Seattle | 98124 | 397,988
City of Seattle Human Services Department/Kerner Scott House | P.O. Box 34215 700 5th Avenue, Suite 5800 | Seattle | 98124 | 443,471
City of Seattle Human Services Department/Martin Court | P.O. Box 34215 700 5th Avenue, Suite 5800 | Seattle | 98124 | 105,000
City of Seattle Human Services Department/Noel House at Bakhita Gardens | P.O. Box 34215 700 5th Avenue, Suite 5800 | Seattle | 98124 | 163,581
City of Seattle Human Services Department/Nyer Urness | P.O. Box 34215 700 5th Avenue, Suite 5800 | Seattle | 98124 | 520,542
City of Seattle Human Services Department/Ozanam House Consolidated PSH | P.O. Box 34215 700 5th Avenue, Suite 5800 | Seattle | 98124 | 346,328
City of Seattle Human Services Department/Patrick Place | P.O. Box 34215 700 5th Avenue, Suite 5800 | Seattle | 98124 | 144,900
City of Seattle Human Services Department/PHG 7th and Cherry | P.O. Box 34215 700 5th Avenue, Suite 5800 | Seattle | 98124 | 265,297
City of Seattle Human Services Department/Rapid Rehousing for Young Adults | P.O. Box 34215 700 5th Avenue, Suite 5800 | Seattle | 98124 | 1,494,659
City of Seattle Human Services Department/Ronald Commons | P.O. Box 34215 700 5th Avenue, Suite 5800 | Seattle | 98124 | 147,653
City of Seattle Human Services Department/Salvation Army William Booth | P.O. Box 34215 700 5th Avenue, Suite 5800 | Seattle | 98124 | 253,988
City of Seattle Human Services Department/Sandpoint Families Supportive Housing | P.O. Box 34215 700 5th Avenue, Suite 5800 | Seattle | 98124 | 393,823
City of Seattle Human Services Department/Sandpoint Youth Group Homes | P.O. Box 34215 700 5th Avenue, Suite 5800 | Seattle | 98124 | 324,869
City of Seattle Human Services Department/Scattered Site Leasing | P.O. Box 34215 700 5th Avenue, Suite 5800 | Seattle | 98124 | 606,035
City of Seattle Human Services Department/Seattle Rapid Rehousing for Families Consolidated Project | P.O. Box 34215 700 5th Avenue, Suite 5800 | Seattle | 98124 | 1,795,553
City of Seattle Human Services Department/Williams Apartments | P.O. Box 34215 700 5th Avenue, Suite 5800 | Seattle | 98124 | 523,679
City of Seattle Human Services Department/YWCA Supportive Housing | P.O. Box 34215 700 5th Avenue, Suite 5800 | Seattle | 98124 | 231,080
Community Psychiatric Clinic/Harbor House—Safe Haven | 11000 Lake City Way NE | Seattle | 98125 | 348,156
Downtown Emergency Service Center/Lyon Building | 515 3rd Ave | Seattle | 98104 | 421,199
Friends of Youth/Arbor House (New Ground Bothell) project renewal 2018 | 13116 NE 132nd St | Kirkland | 98034 | 123,062
Kent Youth and Family Services/Watson Manor Transitional Living Program | 232 2nd Avenue S Suite 201 | Kent | 98032 | 38,134
King, County of/Family Village Redmond PSH for Families | 401 5th Avenue Suite 500 | Seattle | 98104 | 104,651
King, County of/King County Consolidated Rapid Rehousing Program | 401 5th Avenue Suite 500 | Seattle | 98104 | 1,051,717
King, County of/King County Consolidated Scattered Sites Supportive Housing | 401 5th Avenue Suite 500 | Seattle | 98104 | 6,628,495
King, County of/King County Shelter Plus Care Program—SRA | 401 5th Avenue Suite 500 | Seattle | 98104 | 1,438,286
King, County of/King County Shelter Plus Care Program—TRA | 401 5th Avenue Suite 500 | Seattle | 98104 | 9,122,155
King, County of/Mi Casa | 401 5th Avenue Suite 500 | Seattle | 98104 | 64,613
King, County of/My Friend's Place TH/RRH | 401 5th Avenue Suite 500 | Seattle | 98104 | 391,800
King, County of/Regional RRH for DV | 401 5th Avenue Suite 500 | Seattle | 98104 | 1,097,205
King, County of/Severson Program | 401 5th Avenue Suite 500 | Seattle | 98104 | 123,286
King, County of/Valley Cities Landing | 401 5th Avenue Suite 500 | Seattle | 98104 | 164,090
King, County of/WA-500 CoC Planning | 401 5th Avenue Suite 500 | Seattle | 98104 | 1,017,954
King, County of/WA-500 Coordinated Entry | 401 5th Avenue Suite 500 | Seattle | 98104 | 1,872,500
King, County of/WA-500 Coordinated Entry—DV | 401 5th Avenue Suite 500 | Seattle | 98104 | 173,000
King, County of/WA-500 HMIS | 401 5th Avenue Suite 500 | Seattle | 98104 | 403,714
Multi-Service Center/Homeless Families Transitional Housing | 1200 S 336th Street | Federal Way | 98003 | 26,724
Solid Ground Washington/Broadview Transitional Housing Program | 1501 N 45th Street | Seattle | 98103 | 158,620
YouthCare/Ravenna House | 2500 NE 54th Street | Seattle | 98105 | 151,856
YouthCare/Straley House | 2500 NE 54th Street | Seattle | 98105 | 105,602
YWCA of Seattle-King County-Snohomish County/Anita Vista | 1118 Fifth Avenue | Seattle | 98101 | 57,319
YWCA of Seattle-King County-Snohomish County/Auburn Transitional Housing | 1118 Fifth Avenue | Seattle | 98101 | 42,540
Agape Unlimited/Sisyphus II Housing Project-Agape Unlimited CoC Program-PSH-Sponsor Base Rental Assistance (PSH SRA) | 4841 Auto Center Way Suite 101 | Bremerton | 98312 | 220,502
Bellingham Housing Authority/Shelter Plus Care Tenant Based | 208 Unity Street | Bellingham | 98225 | 1,309,933
Benton and Franklin Counties Department of Human Services/Shelter Plus Care | 7102 W Okanogan Pl. Ste. 201 | Kennewick | 99336 | 101,703
Benton Franklin Community Action Committee/Bateman House Project | 720 W Court Street | Pasco | 99301 | 287,988
Benton Franklin Community Action Committee/Home Choices | 720 W Court Street | Pasco | 99301 | 298,510
Blue Mountain Action Council/The Next Step | 1520 Kelly Place Suite #140 | Walla Walla | 99362 | 259,680
Catholic Community Services/Drexel House | 100 23rd Ave South | Seattle | 98144 | 129,192
Columbia Gorge Housing Authority/Shelter Plus Care | 500 E 2nd Street | The Dalles | 97058 | 51,842
Community Action of Skagit County/Skagit ACT Housing | 330 Pacific Place | Mount Vernon | 98273 | 16,702
Community Action of Skagit County/Skagit Family Development | 330 Pacific Place | Mount Vernon | 98273 | 49,527
Community Action of Skagit County/Skagit Housing Solutions | 330 Pacific Place | Mount Vernon | 98273 | 76,219
Community Youth Services/ECHO Rapid Rehousing | 711 State Ave NE | Olympia | 98506 | 114,514
Community Youth Services/RISE Transitional Housing | 711 State Ave NE | Olympia | 98506 | 151,564
Crossroads Housing/Mason County Shelter Transitional Housing Program | P.O. Box 1777 71 Sargison Loop | Shelton | 98584 | 98,318
Grays Harbor County/Grays Harbor Permanent Supportive Housing Project | 2109 Sumner Avenue | Aberdeen | 98520 | 184,428
HopeSource/HopeSource Rapid Rehousing Project | 700 E Mountain View Ave, Suite 501 | Ellensburg | 98926 | 48,305
Housing Authority of Island County/Island County Shelter Plus Care | 7 NW 6th Street | Coupeville | 98239 | 27,352
Housing Authority of the City of Bremerton/Transitional Housing—Permanent Housing/Rapid re-Housing. | 600 Park ave | Bremerton | 98310 | 323,113
Housing Authority of Thurston County/Housing and Transitional Services (HATS) | 1206 12th Avenue SE | Olympia | 98501 | 133,921
Lewis County/Lewis County Transitional Housing Project | 360 NW North St Second floor Health | Chehalis | 98532 | 151,215
Low Income Housing Institute/Arbor Manor | 2407 1st Ave Suite 200 | Seattle | 98121 | 58,027
Low Income Housing Institute/Fleetwood Tenant Stabilization | 2407 1st Ave Suite 200 | Seattle | 98121 | 31,500
Lower Columbia Community Action Council/Home Again DV Bonus | 1526 Commerce Avenue | Longview | 98632 | 213,545
Next Step Housing/Pear Tree Place III | 2900 Powerhouse Road Leasing Office | Yakima | 98902 | 47,577
Next Step Housing/Sommerset Apartments | 2900 Powerhouse Road Leasing Office | Yakima | 98902 | 53,293
Northwest Youth Services/Skagit County Transitional Living Program; Step Up | 1020 North State Street n/a | Bellingham | 98225 | 261,787
Okanogan Behavioral HealthCare/The Shove House | 1007 Koala Drive | Omak | 98841 | 61,712
Olympic Community Action Programs/Crossroads Permanent Solutions | 823 Commerce Loop | Port Townsend | 98368 | 138,823
Opportunity Council/22 North | 1111 Cornwall Ave 1111 Cornwall Ave | Bellingham | 98225 | 92,664
Opportunity Council/Dorothy Place PSH | 1111 Cornwall Ave 1111 Cornwall Ave | Bellingham | 98225 | 146,760
Opportunity Council/Whatcom Rapid Rehousing | 1111 Cornwall Ave 1111 Cornwall Ave | Bellingham | 98225 | 229,690
Opportunity Council/WHSC Master Leasing | 1111 Cornwall Ave 1111 Cornwall Ave | Bellingham | 98225 | 406,180
Pacific County /Pacific County Supported Housing Collaborative | 1216 West Robert Bush Drive | South Bend | 98586 | 236,127
Serenity House of Clallam County/Clallam Families Rapid Re-Housing | 2203 West 18th P.O. Box 4047 | Port Angeles | 98363 | 91,452
Serenity House of Clallam County/SunBelt Apartments | 2203 West 18th P.O. Box 4047 | Port Angeles | 98363 | 131,434
Serenity House of Clallam County/Tempest | 2203 West 18th P.O. Box 4047 | Port Angeles | 98363 | 87,629
The Family Support Center of South Sound/FSC Rapid Rehousing | P.O. Box 784 | Olympia | 98507 | 244,294
Crossroads Rhode Island/Crossroads-Tremont Street Apartments-FY2018 | 160 Broad Street | Providence | 02903 | 77,578
Crossroads Rhode Island/Crossroads-Whitmarsh House Apartments-FY2018 | 160 Broad Street | Providence | 02903 | 110,135
East Bay Community Action Program/East Bay Coalition for the Homeless Permanent Housing | 19 Broadway | Newport | 02840 | 48,081
Foster Forward/Rapid Rehousing for Former Foster Youth | 55 South Brow Street | East Providence | 02914 | 236,658
House of Hope Community Development Corporation/ACCESS to Home FY2018 | 3188 Post Road | Warwick | 02886 | 304,295
House of Hope Community Development Corporation/Fair House FY18 | 3188 Post Road | Warwick | 02886 | 39,464
House of Hope Community Development Corporation/Warwick PSH- Consolidated | 3188 Post Road | Warwick | 02886 | 128,675
Housing Authority of the City of Pawtucket, RI, The/Paw HA RRH Renewal 2018 | 214 Roosevelt Avenue | Pawtucket | 02860 | 225,674
Lucy's Hearth/Lucy's Hearth PSH Program FY18 | 19 Valley Road | Middletown | 02842 | 41,530
Operation Stand Down Rhode Island/West Warwick | 1010 Hartford Avenue | Johnston | 02919 | 177,973
Rhode Island Coalition for the Homeless/Coordinated Entry 2018 | 1070 Main St, Suite 304 | Pawtucket | 02860 | 141,714
Rhode Island Coalition for the Homeless/HMIS Renewal FY 2018 | 1070 Main St, Suite 304 | Pawtucket | 02860 | 152,064
Rhode Island Housing and Mortgage Finance Corporation/Rhode Island Housing Rental Assistance 2018 | 44 Washington Street | Providence | 02903 | 162,283
Rhode Island Housing and Mortgage Finance Corporation/RI-500 CoC Planning Application FY2018 | 44 Washington Street | Providence | 02903 | 251,199
Rhode Island Housing and Mortgage Finance Corporation/RIHousing—SBRA—FY18 | 44 Washington Street | Providence | 02903 | 1,977,250
Rhode Island Housing and Mortgage Finance Corporation/RIHousing—TBRA—FY18 | 44 Washington Street | Providence | 02903 | 780,171
Sojourner House/Sojourner House Rapid Re-Housing Project for Victims of Abuse FY18 | 386 Smith Street | Providence | 02908 | 540,968
Sojourner House/Sojourner House Rapid Re-Housing Renewal FY2018 | 386 Smith Street | Providence | 02908 | 154,728
Westbay Community Action/East, Earl, & Warwick Avenue 2018 | 224 Buttonwoods Ave | Warwick | 02886 | 27,811
Westerly Area Rest Meals Inc./Greater Westerly Supportive Housing Project 2018 | 56 Spruce St | Westerly | 02891 | 56,230
YWCA Rhode Island/YWCA Rhode Island Sarah Frances Grant Homestead FY2018 | 514 Blackstone Street | Woonsocket | 02895 | 50,663
Family Services Inc/Home to Stay | 4925 Lacross Rd Ste 215 | Charleston | 29406 | 67,635
Family Services Inc/Lease on Life 1 | 4925 Lacross Rd Ste 215 | Charleston | 29406 | 161,742
Family Services Inc/Lease on Life 2 | 4925 Lacross Rd Ste 215 | Charleston | 29406 | 113,514
Family Services Inc/Lease on Life 3 | 4925 Lacross Rd Ste 215 | Charleston | 29406 | 87,933
Lowcountry Homeless Coalition /CoC Planning Project Application FY2018 | P.O. Box 20038 | Charleston | 29413 | 78,887
One-Eighty Place/HMIS | 35 Walnut Street | Charleston | 29403 | 166,620
One-Eighty Place/Housing First PSH 18 | 35 Walnut Street | Charleston | 29403 | 579,905
One-Eighty Place/Rapid Re-Housing LHC Consolidation | 35 Walnut Street | Charleston | 29403 | 532,650
One-Eighty Place/Rapid Re-Housing Youth LHC 18 | 35 Walnut Street | Charleston | 29403 | 164,086
Family Promise of Anderson County/Anderson Rapid Re-Housing | 204 E Highland Ave | Anderson | 29621 | 81,068
Meg's House Shelter for Abused Women and Children/Lakelands Rural Transitional Housing Program | P.O. Box 3410 | Greenwood | 29648 | 214,814
Meg's House Shelter for Abused Women and Children/Operation Impact | P.O. Box 3410 | Greenwood | 29648 | 182,693
Meg's House Shelter for Abused Women and Children/Project HOPE | P.O. Box 3410 | Greenwood | 29648 | 187,243
Our Daily Rest, Inc/Rapid Rehousing Oconee | 525 East Main Street | Seneca | 29678 | 65,221
Pendleton Place/Fiscal Year (FY) 2018 Continuum of Care Program Competition | 1133 Pendleton Street | Greenville | 29601 | 143,022
Project Care, Inc/PRIDE Permanent Housing | 218 Viola Street | Greenville | 29601 | 366,413
Project Care, Inc/PRIDE Permanent Housing 2 | 218 Viola Street | Greenville | 29601 | 73,794
South Carolina Department of Mental Health/Greenville-Spartanburg Consolidated Shelter Plus Care | 2414 Bull Street | Columbia | 29201 | 297,393
Spartanburg Interfaith Hospitality Network/Spihn rapid re-housing | 899 S Pine Street | Spartanburg | 29302 | 71,716
Sunbelt Human Advancement Resources, Inc. (SHARE)/Welcome Home | 254 S Pleasantburg Drive | Greenville | 29607 | 198,252
United Housing Connections/CoC Planning Project | 135 Edinburgh Court Suite 100-B | Greenville | 29607 | 128,614
United Housing Connections/HAL | 135 Edinburgh Court Suite 100-B | Greenville | 29607 | 184,597
United Housing Connections/HOME | 135 Edinburgh Court Suite 100-B | Greenville | 29607 | 208,102
United Housing Connections/Piedmont Keys FI | 135 Edinburgh Court Suite 100-B | Greenville | 29607 | 132,327
United Housing Connections/RAVE | 135 Edinburgh Court Suite 100-B | Greenville | 29607 | 191,054
United Housing Connections/Reedy Place | 135 Edinburgh Court Suite 100-B | Greenville | 29607 | 128,754
United Housing Connections/Transitions—Youth | 135 Edinburgh Court Suite 100-B | Greenville | 29607 | 136,272
United Housing Connections/Upstate HMIS | 135 Edinburgh Court Suite 100-B | Greenville | 29607 | 163,215
Housing Development Corporation of Rock Hill/Rapid ReHousing in Rock Hill | 150 Johnston St | Rock Hill | 29730 | 95,148
Mental Illness Recovery Center, Inc./Housing First for Unaccompanied Youth 2018 Renewal | 1408 Gregg Street | Columbia | 29201 | 58,760
Mental Illness Recovery Center, Inc./MIRCI Housing First | 1408 Gregg Street | Columbia | 29201 | 282,672
Mental Illness Recovery Center, Inc./MIRCI PH for Chronic Homeless | 1408 Gregg Street | Columbia | 29201 | 154,943
Mental Illness Recovery Center, Inc./MIRCI SHP | 1408 Gregg Street | Columbia | 29201 | 253,167
Midlands Housing Alliance, Inc./Midlands Rapid Re-housing | 2025 Main St | Columbia | 29201 | 85,171
One-Eighty Place/Rapid Re-Housing MACH 18 | 35 Walnut Street | Charleston | 29403 | 129,272
Palmetto Place Children's Emergency Shelter/Unaccompanied Youth JT PH/RRH Project 2018 | 5507 Colonial Dr | Columbia | 29203 | 86,508
Sistercare Inc./Permanent Housing and Supportive Services for Disabled Domestic Violence Victims | 1820 Morlaine Drive | Cayce | 29033 | 306,811
South Carolina Department of Mental Health/Home Base I and II Consolidated Program | 2414 Bull Street | Columbia | 29201 | 566,373
South Carolina Department of Mental Health/Home Base III and IV Consolidated Program | 2414 Bull Street | Columbia | 29201 | 276,904
The Housing Authority of the City of Columbia, SC/FY 2018 CHASC Housing First Expansion Plus | 1917 Harden Street | Columbia | 29204 | 54,100
The Housing Authority of the City of Columbia, SC/FY 2018 CHASC Permanent Supportive Housing Chronic | 1917 Harden Street | Columbia | 29204 | 209,881
The Housing Authority of the City of Columbia, SC/FY 2018 CHASC Permanent Supportive Housing Disabled | 1917 Harden Street | Columbia | 29204 | 278,288
The Housing Authority of the City of Columbia, SC/FY 2018 CHASC PSH Expansion | 1917 Harden Street | Columbia | 29204 | 131,574
The Salvation Army/Housing Stabilization Rapid Re-housing 2018 | 3024 Farrow Road | Columbia | 29203 | 43,547
United Way of the Midlands/HMIS Renewal SC-502 FY2018 | 1818 Blanding Street | Columbia | 29201 | 118,133
United Way of the Midlands/SC-502 CoC Planning Application FY2018 | 1818 Blanding Street | Columbia | 29201 | 93,042
Eastern Carolina Homelessness Organization/COC Coordinated Entry | 1204 N Kings Hwy | Myrtle Beach | 29577 | 88,924
Eastern Carolina Homelessness Organization/CoC Planning Project 2018 | 1204 N Kings Hwy | Myrtle Beach | 29577 | 100,012
Eastern Carolina Homelessness Organization/Dedicated HMIS | 1204 N Kings Hwy | Myrtle Beach | 29577 | 128,767
Eastern Carolina Homelessness Organization/ECHO Opening Doors to Housing First Ph-2 | 1204 N Kings Hwy | Myrtle Beach | 29577 | 271,965
Eastern Carolina Homelessness Organization/ECHO PH-3 PSH | 1204 N Kings Hwy | Myrtle Beach | 29577 | 202,003
Eastern Carolina Homelessness Organization/ECHO RRH-1 | 1204 N Kings Hwy | Myrtle Beach | 29577 | 154,740
Eastern Carolina Homelessness Organization/ECHO RRH-1 EXPANSION | 1204 N Kings Hwy | Myrtle Beach | 29577 | 206,276
Eastern Carolina Homelessness Organization/ECHO/United Way Kershaw Renewing Beyond Shelter DV | 1204 N Kings Hwy | Myrtle Beach | 29577 | 231,880
Eastern Carolina Homelessness Organization/HOUSING FIRST Ph-4 | 1204 N Kings Hwy | Myrtle Beach | 29577 | 272,514
Eastern Carolina Homelessness Organization/Housing First to Awakenings | 1204 N Kings Hwy | Myrtle Beach | 29577 | 192,838
Eastern Carolina Homelessness Organization/Ph-1 PSH Expansion | 1204 N Kings Hwy | Myrtle Beach | 29577 | 299,927
Eastern Carolina Homelessness Organization/Renewing Beyond Shelter | 1204 N Kings Hwy | Myrtle Beach | 29577 | 138,645
Sea Haven, Inc./Sea Haven Rapid Re-Housing | 280 Hwy. 57 S | Little River | 29566 | 234,410
Cornerstone Rescue Mission/Cornerstone Apartments Permanent Supportive Housing | 30 Main St | Rapid City | 57701 | 72,186
Inter-Lakes Community Action Partnership/Heartland House RRH Program | 111 North Van Eps Avenue | Madison | 57042 | 484,039
Lewis & Clark Behavioral Health Services, Inc./Lewis and Clark Housing Project | 1028 Walnut Street | Yankton | 57078 | 141,748
Sioux Falls Housing and Redevelopment Commission/Safe Home-Renewal 2018 | 630 S Minnesota Ave | Sioux Falls | 57104 | 34,193
Sioux Falls Housing and Redevelopment Commission/Shelter Plus Care 2018 | 630 S Minnesota Ave | Sioux Falls | 57104 | 350,377
Sioux Falls Housing and Redevelopment Commission/Shelter Plus Care SF III-2018 Renewal 4 Units | 630 S Minnesota Ave | Sioux Falls | 57104 | 32,570
South Dakota Housing Development Authority/SD-500 CoC Planning Application FY 2018 | 3060 East Elizabeth Street P.O. Box 1237 | Pierre | 57501 | 56,582
South Dakota Housing Development Authority/SD-500 CoC SSO CES FY2018 | 3060 East Elizabeth Street P.O. Box 1237 | Pierre | 57501 | 105,144
South Dakota Housing Development Authority/SD-500 CoC Statewide HMIS FY2018 | 3060 East Elizabeth Street P.O. Box 1237 | Pierre | 57501 | 39,684
AIM Housing, Inc./AIM Family Housing 2018 | 472 W M.L. King Blvd | Chattanooga | 37402 | 33,239
Chattanooga Church Ministries Inc./Comm Kitchen PSH Combined 2019-2020 grant written in 2018 | 727 East 11th Street | Chattanooga | 37403 | 362,511
Chattanooga Homeless Coalition/2018 CES | 600 N Holtzclaw Ave | Chattanooga | 37404 | 38,775
Chattanooga Homeless Coalition/2018 CoC Planning | 600 N Holtzclaw Ave | Chattanooga | 37404 | 76,515
Chattanooga Homeless Coalition/2018 Enhanced HMIS | 600 N Holtzclaw Ave | Chattanooga | 37404 | 94,775
Chattanooga Homeless Coalition/2018 HMIS | 600 N Holtzclaw Ave | Chattanooga | 37404 | 102,569
Partnership for Families, Children and Adults,Inc/Consortium of Services 2018 | 1800 McCallie Ave | Chattanooga | 37404 | 224,221
Southeast Tennessee Human Resource Agency/SETHRA PSH | 312 Resource Road | Dunlap | 37327 | 1,425,333
Volunteer Behavioral Health Care System/VolPH-Hamilton | 413 Spring Street | Chattanooga | 37405 | 198,839
Agape Child & Family Services, Inc./Agape Access for All Phase II | 3160 Directors Row | Memphis | 38131 | 461,608
Agape Child & Family Services, Inc./Agape Access for All Phase II FY2018 | 3160 Directors Row | Memphis | 38131 | 115,472
Alliance Healthcare Services/2018 North Hill Woods | 2150 Whitney Avenue | Memphis | 38127 | 244,396
Alliance Healthcare Services/2018 STAY 1 | 2150 Whitney Avenue | Memphis | 38127 | 254,751
Alliance Healthcare Services/2018 STAY 2 | 2150 Whitney Avenue | Memphis | 38127 | 240,079
Alpha Omega Veterans Services, Inc./2018 AOVS Depot SRO | 1183 Madison | Memphis | 38104 | 157,668
Alpha Omega Veterans Services, Inc./2018 AOVS Depot Town homes Phase 1 | 1183 Madison | Memphis | 38104 | 115,698
Alpha Omega Veterans Services, Inc./2018 AOVS Lease Program | 1183 Madison | Memphis | 38104 | 173,282
Alpha Omega Veterans Services, Inc./2018 AOVS Permanent Supportive Housing | 1183 Madison | Memphis | 38104 | 181,216
Behavioral Health Initiatives, Inc./Phoenix Project FY2018 | 15 Executive Drive | Jackson | 38305 | 92,286
Case Management Incorporated/Alice Avenue Project | 3171 Directors Row | Memphis | 38131 | 15,865
Case Management Incorporated/Family Haven Apartments | 3171 Directors Row | Memphis | 38131 | 97,857
Case Management Incorporated/Home Plus Care | 3171 Directors Row | Memphis | 38131 | 369,211
Catholic Charities, Inc/Genesis Homeless Services FY18 | 1325 Jefferson Avenue | Memphis | 38104 | 456,320
City of Memphis, Tennessee/Aloysius Commons Shelter Plus Care | 701 North Main Street | Memphis | 38107 | 125,861
City of Memphis, Tennessee/Breaking the Cycle Shelter Plus Care | 701 North Main Street | Memphis | 38107 | 213,646
Community Alliance for the Homeless/DV Coordinated Entry System | 44 North 2nd Street, Suite 302 | Memphis | 38103 | 61,875
Community Alliance for the Homeless/HMIS Consolidated Grant FY2018 | 44 North 2nd Street, Suite 302 | Memphis | 38103 | 264,446
Community Alliance for the Homeless/Memphis/Shelby County Coordinated Entry System 2018 | 44 North 2nd Street, Suite 302 | Memphis | 38103 | 100,000
Community Alliance for the Homeless/TN-501 CoC Planning Application FY2018 | 44 North 2nd Street, Suite 302 | Memphis | 38103 | 196,733
Door of Hope, Inc./245 N Bellevue FY2018 | 245 N Bellevue | Memphis | 38105 | 176,262
Door of Hope, Inc./One Door at a Time FY2018 | 245 N Bellevue | Memphis | 38105 | 241,632
Door of Hope, Inc./One Door at a Time Phase Two FY2018 | 245 N Bellevue | Memphis | 38105 | 350,825
Friends For Life Corporation/Aloysius New Beginnings FY2018 | 43 N Cleveland | Memphis | 38104 | 189,535
Friends For Life Corporation/AloysiusScattered Sites Renewal 2018 | 43 N Cleveland | Memphis | 38104 | 199,405
Metropolitan Inter-Faith Association/MIFA RRH Program Expansion | 910 Vance Avenue | Memphis | 38126 | 265,597
OUTMemphis/The Metamorphosis Project | 892 South Cooper St | Memphis | 38104 | 92,280
Promise Development Corporation/MSF Renewal Project Application FY2018 | 40 S Main Street Suite 2560 | Memphis | 38103 | 529,955
Promise Development Corporation/Promise Leasing Renewal Project Application FY2018 | 40 S Main Street Suite 2560 | Memphis | 38103 | 789,717
Helen Ross McNabb Center/Helen Ross McNabb Supportive Housing | 201 West Springdale Ave | Knoxville | 37917 | 383,263
Knoxville-Knox County Community Action Committee/Elizabeth's Home Rapid Rehousing | P.O. Box 51650 2247 Western Av | Knoxville | 37950 | 124,359
Knoxville-Knox County Community Action Committee/Homeward Bound Families' Rapid Rehousing | P.O. Box 51650 2247 Western Av | Knoxville | 37950 | 231,582
Knoxville-Knox County Community Action Committee/REACH | P.O. Box 51650 2247 Western Av | Knoxville | 37950 | 104,580
Positively Living /Parkridge Harbor FY 2018 | 1501 East Fifth Avenue | Knoxville | 37917 | 82,299
Southeastern Housing Foundation II, Inc./Flenniken Housing | The Regas Building 318 N Gay Street, Suite 210 | Knoxville | 37917 | 72,749
The Salvation Army, A Georgia Corporation/Operation Bootstrap Transitional Housing Program | 409 N Broadway | Knoxville | 37917 | 67,936
The Salvation Army, A Georgia Corporation/Operation Bootstrap Transitional Housing Rapid-Rehousing Program | 409 N Broadway | Knoxville | 37917 | 150,716
The University of Tennessee/UT KnoxHMIS | 1534 White Avenue | Knoxville | 37996 | 132,282
Volunteer Ministry Center, Inc./Minvilla Manor FY 2018 | 511 North Broadway | Knoxville | 37917 | 62,993
Buffalo Valley, Inc./HNM C TN0045L4J031710 | 501 Park Avenue South P.O. Box 879 | Hohenwald | 38462 | 746,931
Buffalo Valley, Inc./HNM HMIS TN0265L4J031701 | 501 Park Avenue South P.O. Box 879 | Hohenwald | 38462 | 157,500
Buffalo Valley, Inc./HNM Maury County (Precious Chosen) TN0128L4J031706 | 501 Park Avenue South P.O. Box 879 | Hohenwald | 38462 | 361,336
Buffalo Valley, Inc./HNM Permanent Supportive Housing TN0266L4J031701 | 501 Park Avenue South P.O. Box 879 | Hohenwald | 38462 | 299,468
Buffalo Valley, Inc./HNM Planning Grant 2018 | 501 Park Avenue South P.O. Box 879 | Hohenwald | 38462 | 53,494
Center of Hope/Center of Hope Against DV Transitional HousingTN0052L4J031710 | 2441 Park Plus Drive P.O. Box 1961 | Columbia | 38401 | 70,486
City of Clarksville/City of Clarksville S+C TN0113L4J031709 | One Public Square | Clarksville | 37040 | 118,796
Robertson County/Robertson County S+C TN0177L4J031707 | 523 S Brown Street | Springfiled | 37172 | 37,404
South Central Family Center/Family Life RRH (Marshall Co S+C) | 921 S Beckett | Columbia | 38401 | 17,294
Campus for Human Development/Omega COC 2018 Room In The Inn | 705 Drexel Street | Nashville | 37203 | 36,919
Metropolitan Development & Housing Agency/HMIS Expansion: FY18: MDHA | 701 South Sixth Street | Nashville | 37206 | 88,000
Metropolitan Development & Housing Agency/MDHA HMIS Renewal 2018 | 701 South Sixth Street | Nashville | 37206 | 53,508
Metropolitan Development & Housing Agency/MDHA Shelter Plus Care Consolidated Renewal 2018 | 701 South Sixth Street | Nashville | 37206 | 1,715,920
Metropolitan Development & Housing Agency/TN-504 CoC Planning Application FY 2018 | 701 South Sixth Street | Nashville | 37206 | 110,171
Safe Haven Family Shelter /Nashville CES 2018 | 1234 3rd Avenue South | Nashville | 37210 | 128,000
Safe Haven Family Shelter /Safe Haven Family Shelter RRH Consolidation 2018 | 1234 3rd Avenue South | Nashville | 37210 | 202,080
The Mary Parrish Center/The Mary Parrish Center Joint TH and PH-RRH FY18 | P.O. Box 60009 | Nashville | 37206 | 200,416
The Mary Parrish Center/The Mary Parrish Center RRH FY18 | P.O. Box 60009 | Nashville | 37206 | 70,782
The Mary Parrish Center/The Mary Parrish Center SSO-CE FY18 | P.O. Box 60009 | Nashville | 37206 | 103,120
The Mary Parrish Center/The Mary Parrish Center Transitional Housing Program Renewal Project FY2018 | P.O. Box 60009 | Nashville | 37206 | 23,688
The Next Door, Inc./The Next Door Freedom Recovery Program 2018 Renewal | 2100 Clifton Avenue | Nashville | 37203 | 98,657
The Salvation Army, a Georgia Corporation/The Salvation Army Joint TH/RRH 2018 | 631 Dickerson Road | Nashville | 37207 | 210,944
Urban Housing Solutions, Inc./UHS Homeless recovery Program Renewal FY2018 | 822 Woodland St | Nashville | 37206 | 551,833
Housing Opportunities and People Enterprises, Inc./HOPE Permanent Housing Project #3 | 591 E Monticello Pike | Huntsville | 37756 | 37,184
The Crossville Housing Development Corporation/2018 CES TN-506 | 67 Irwin Ave | Crossville | 38555 | 46,151
The Crossville Housing Development Corporation/2018 CES TN-506 Expansion | 67 Irwin Ave | Crossville | 38555 | 28,973
The Crossville Housing Development Corporation/2018 HMIS TN-506 | 67 Irwin Ave | Crossville | 38555 | 110,000
The Crossville Housing Development Corporation/2018 Planning Project TN-506 | 67 Irwin Ave | Crossville | 38555 | 34,638
Town of Crossville Housing Authority/Community Supportive Housing 2018 | 67 Irwin Ave | Crossville | 38555 | 62,993
Town of Crossville Housing Authority/Iris Cottage 2018 | 67 Irwin Ave | Crossville | 38555 | 60,491
Town of Crossville Housing Authority/Pathways RRH 2018 | 67 Irwin Ave | Crossville | 38555 | 47,159
Town of Crossville Housing Authority/Shelter Plus Care Five 2018 | 67 Irwin Ave | Crossville | 38555 | 48,557
Town of Crossville Housing Authority/Shelter Plus Care Group 2018 | 67 Irwin Ave | Crossville | 38555 | 274,587
Area Relief Ministries, Inc./Madison County Rapid ReHousing Project | P.O. Box 7 | Jackson | 38302 | 37,350
Area Relief Ministries, Inc./The Turning Point | P.O. Box 7 | Jackson | 38302 | 73,895
Carey Counseling Center, Inc./CAREY Rental Assistance | 408 Virginia Street P.O. Box 30 | Paris | 38242 | 373,796
Carey Counseling Center, Inc./Herrington Place | 408 Virginia Street P.O. Box 30 | Paris | 38242 | 115,027
Community Action Network, Inc/Community Rental Assistance | 3975 Copper Springs Road | Springville | 38256 | 26,542
Damascus Road, Inc./Curtis Street | P.O. Box 1075 | Paris | 38242 | 127,713
Damascus Road, Inc./Waverly Home | P.O. Box 1075 | Paris | 38242 | 84,686
Fayette Cares, Inc./Fayette Rapid ReHousing Project | 13300 N Main Street | Somerville | 38068 | 103,820
Jackson Area Council on Alcoholism and Drug Dependency/Housing the Indigent | 900 East Chester Street | Jackson | 38301 | 73,393
Professional Care Services Of West Tn.,Inc./PCS Brownsville Duplexes | 1997 Hwy 51 South | Covington | 38019 | 10,141
Quinco Community Mental Health Center, Inc./Fairways Project | 10710 Old Highway 64 | Bolivar | 38008 | 76,125
Quinco Community Mental Health Centers/Quinco Rental Assistance | 10710 Old Highway 64 | Bolivar | 38008 | 59,574
T.A.M.B. of Jackson, Inc./McCowat House | 110 McCowat Street | Jackson | 38301 | 63,667
Tennessee Homeless Solutions/Coordinated Entry | 100 Federal Drive #2 | Jackson | 38305 | 42,561
Tennessee Homeless Solutions/Current Existing HMIS | 100 Federal Drive #2 | Jackson | 38305 | 100,973
Tennessee Homeless Solutions/Decatur County Rental Assistance | 100 Federal Drive #2 | Jackson | 38305 | 98,094
Tennessee Homeless Solutions/Henderson County Rapid Rehousing 2017 | 100 Federal Drive #2 | Jackson | 38305 | 93,919
West Tennessee Healthcare Foundation/FY 2018 Planning Application | 620 Skyline Drive | Jackson | 38301 | 44,023
Wo/Men's Resource and Rape Assistance Program/WRAP Housing | 512 Roland Avenue | Jackson | 38301 | 74,379
A Safe Harbor Home, Inc./CoC RRH Bonus Project | 6440 Old Stage Road | Chuckey | 37641 | 86,756
Abuse Alternatives, Inc./Abuse Alternatives 2018 DV Bonus | 104 Memorial Drive | Bristol | 37620 | 41,690
Appalachian Regional Coalition on Homelessness/2018 DV Bonus Project | 321 West Walnut Street | Johnson City | 37604 | 74,000
Appalachian Regional Coalition on Homelessness/2018 HMIS Renewal & Consolidation Project | 321 West Walnut Street | Johnson City | 37604 | 156,668
Appalachian Regional Coalition on Homelessness/2018 PSH 1 Renewal Project | 321 West Walnut Street | Johnson City | 37604 | 98,455
Appalachian Regional Coalition on Homelessness/ARCH 2018 Planning Project | 321 West Walnut Street | Johnson City | 37604 | 44,890
Appalachian Regional Coalition on Homelessness/PSH 2 Renewal 2018 | 321 West Walnut Street | Johnson City | 37604 | 90,570
Fairview Housing Management Corporation/Appalachian Family Housing | 100 East Millard Street | Johnson City | 37601 | 157,415
Fairview Housing Management Corporation/The Manna House Renewal 2018 | 116 W Walnut Street P.O. Box 5746 | Johnson City | 37604 | 119,416
Kingsport Housing & Redevelopment Authority /2018 CoC Grant | 906 E Sevier Avenue P.O. Box 44 | Kingsport | 37662 | 820,423
City of Murfreesboro/TN-510 CoC Planning Application FY2018 | 211 Bridge Avenue | Murfreesboro | 37129 | 17,895
Greenhouse Ministries/Cottage Program Renewal FY2018 | 309 South Spring Street | Murfreesboro | 37130 | 54,915
Murfreesboro Housing Authority/MHA Supportive Care FY2018 | 415 North Maple Street | Murfreesboro | 37130 | 446,724
The Journey Home, Inc/2018 Chronic Leasing Renewal | P.O. Box 331025 NA | Murfreesboro | 37133 | 9,876
The Journey Home, Inc/2018 Family Leasing Renewal | P.O. Box 331025 NA | Murfreesboro | 37133 | 59,137
The Journey Home, Inc/2018 LOV (Assumed) Leasing Renewal | P.O. Box 331025 NA | Murfreesboro | 37133 | 14,137
The Journey Home, Inc/2018 Older Youth Renewal | P.O. Box 331025 NA | Murfreesboro | 37133 | 19,290
The Journey Home, Inc/2018 Smyrna (Assumed) Leasing Renewal | P.O. Box 331025 NA | Murfreesboro | 37133 | 13,942
CEASE Domestic Violence and Sexual Assault Inc./Safe at Home | 929 W First North St, P.O. Box 3359 | Morristown | 37814 | 104,155
Tennessee Valley Coalition to End Homelessness, Inc./CoC Planning Project FY2018 | 4313 Ball Camp Pike Suite 201 | Knoxville | 37921 | 35,000
Tennessee Valley Coalition to End Homelessness, Inc./Family Services 2018 | 4313 Ball Camp Pike Suite 201 | Knoxville | 37921 | 101,408
Tennessee Valley Coalition to End Homelessness, Inc./HMIS Renewal 2018 | 4313 Ball Camp Pike Suite 201 | Knoxville | 37921 | 68,886
Tennessee Valley Coalition to End Homelessness, Inc./HMIS System 2018 | 4313 Ball Camp Pike Suite 201 | Knoxville | 37921 | 100,757
Tennessee Valley Coalition to End Homelessness, Inc./Operation Restore 2018 | 4313 Ball Camp Pike Suite 201 | Knoxville | 37921 | 121,111
American GI Forum National Veterans Outreach Program, Inc./AGIF-NVOP FY 2018 Permanent Housing | 611 N Flores Suite 200 | San Antonio | 78205 | 783,222
American GI Forum National Veterans Outreach Program, Inc./AGIF-NVOP FY 2018 Rapid Rehousing II | 611 N Flores Suite 200 | San Antonio | 78205 | 609,280
Bexar County Board of Trustees for Mental Health Mental Retardation Services d/b/a The Center for Health Care Services/Permanent Supportive Housing | 6800 Park Ten Blvd. Ste. 200-S | San Antonio | 78213 | 1,196,960
Family Endeavors, Inc./Family Endeavors Fairweather Family Lodge 2018 | 535 Bandera Road | San Antonio | 78228 | 472,609
Family Violence Prevention Services, Inc. /FVPS DV Bonus TH-RRH 2018 | 7911 Broadway | San Antonio | 78209 | 71,228
Family Violence Prevention Services, Inc. /FVPS Rapid Re Housing 2018 Consolidation | 7911 Broadway | San Antonio | 78209 | 280,486
Family Violence Prevention Services, Inc. /La Paloma Transitional Housing 2018 | 7911 Broadway | San Antonio | 78209 | 149,250
Haven for Hope of Bexar County/2018 HMIS Expansion | 1 Haven for Hope Way | San Antonio | 78207 | 145,200
Haven for Hope of Bexar County/HMIS 2018 | 1 Haven for Hope Way | San Antonio | 78207 | 463,475
San Antonio AIDS Foundation/SAAF PSH FY-2018 | 818 E Grayson St | San Antonio | 78208 | 186,923
San Antonio Metropolitan Ministry Inc./2018 SAMM Rapid ReHousing | 1919 NW Loop 410 Ste 100 | San Antonio | 78213 | 157,748
San Antonio Metropolitan Ministry Inc./2018 SAMMinistries Housing First | 1919 NW Loop 410 Ste 100 | San Antonio | 78213 | 1,216,817
San Antonio Metropolitan Ministry Inc./2018 SAMMinistries Housing First 2 | 1919 NW Loop 410 Ste 100 | San Antonio | 78213 | 260,228
San Antonio Metropolitan Ministry Inc./2018 SAMMinistries Housing First 3 | 1919 NW Loop 410 Ste 100 | San Antonio | 78213 | 442,843
San Antonio Metropolitan Ministry Inc./2018 SAMMinistries Housing First 4 | 1919 NW Loop 410 Ste 100 | San Antonio | 78213 | 529,934
San Antonio Metropolitan Ministry Inc./2018 SAMMinistries Permanent Supportive Housing | 1919 NW Loop 410 Ste 100 | San Antonio | 78213 | 247,909
San Antonio Metropolitan Ministry Inc./2018 SAMMinistries Transitional Housing Program | 1919 NW Loop 410 Ste 100 | San Antonio | 78213 | 488,413
South Alamo Regional Alliance for the Homeless/2018 SARAH Coordinated Access | P.O. Box 7613 | San Antonio | 78207 | 100,000
South Alamo Regional Alliance for the Homeless/2018 SARAH Coordinated Access DV Bonus | P.O. Box 7613 | San Antonio | 78207 | 54,165
South Alamo Regional Alliance for the Homeless/2018 SARAH Coordinated Access Expansion | P.O. Box 7613 | San Antonio | 78207 | 383,717
South Alamo Regional Alliance for the Homeless/SARAH—CoC Planning Project Application—FY2018 | P.O. Box 7613 | San Antonio | 78207 | 329,560
The Salvation Army/Scattered Sites Permanent Supportive Housing | 521 W Elmira | San Antonio | 78212 | 411,349
The Salvation Army/The Salvation Army Rapid-Rehousing | 521 W Elmira | San Antonio | 78212 | 382,947
Thrive Youth Center, Inc. /Thrive Rapid Rehousing Program Renewal FY2018 | 1 Haven for Hope Way | San Antonio | 78207 | 364,880
Austin Travis County Mental Health Mental Retardation Center DBA Integral Care/Fresh Start | 1430 Collier Street | Austin | 78704 | 417,192
Caritas of Austin/MyHome—Consolidated | 611 Neches | Austin | 78701 | 1,619,715
Community Partnership for the Homeless DBA Green Doors/Renewal SHP—PSH for Families with Disabilities (Glen Oaks Corner) (TX0234L6J031608) | P.O. Box 685065 | Austin | 78768 | 85,166
Ending Community Homelessness Coalition, Inc./HMIS Project 1 | 300 E Highland Mall Blvd Suite 200 | Austin | 78752 | 150,234
Ending Community Homelessness Coalition, Inc./TX-503 CoC Planning Project Application FY2018 | 300 E Highland Mall Blvd Suite 200 | Austin | 78752 | 171,880
Front Steps, Inc./Front Steps Housing—Consolidated | 500 E 7th Street | Austin | 78701 | 434,972
Housing Authority of the City of Austin/Onward FY2018 | 1124 South IH-35 | Austin | 78704 | 672,858
The Housing Authority of Travis County/Upward FY 2018 | 502 E Highland Mall Blvd., Ste. 106 B | Austin | 78752 | 957,303
The SAFE Alliance/SAFE DV Rapid Rehousing | 1515 Grove Boulevard | Austin | 78741 | 633,150
The SAFE Alliance/SAFE Supportive Housing Program | 1515 Grove Boulevard | Austin | 78741 | 624,678
The Salvation Army, A Georgia Corporation/Passages II Rapid Rehousing Collaboration | 501 E 8th Street | Austin | 78701 | 596,462
Youth and Family Alliance dba LifeWorks/Housing Options for Youth—renewal yr. 3 | 3700 South 1st Street | Austin | 78704 | 416,928
Catholic Charities Dallas/Catholic Charities St Jude Permanent Supportive Housing | 1421 W Mockingbird Lane | Dallas | 75234 | 99,337
City of Dallas/Gateway to Permanent Supportive Housing | 1500 Marilla St. Ste 6BN | Dallas | 75201 | 739,943
City of Dallas/My Residence Program | 1500 Marilla St. Ste 6BN | Dallas | 75201 | 384,395
City of Dallas/Shelter Plus Care | 1500 Marilla St. Ste 6BN | Dallas | 75201 | 1,584,610
City of Dallas/Shelter Plus Care ORC | 1500 Marilla St. Ste 6BN | Dallas | 75201 | 99,295
CitySquare /Community Life | 4000 Eastside Avenue | Dallas | 75226 | 55,000
CitySquare /Destination Home Consolidation | 4000 Eastside Avenue | Dallas | 75226 | 3,156,677
CitySquare /OnTRAC Dallas TH/RRH | 4000 Eastside Avenue | Dallas | 75226 | 181,230
CitySquare /OnTRAC Permanent Housing | 4000 Eastside Avenue | Dallas | 75226 | 224,129
CitySquare /St Jude PSH | 4000 Eastside Avenue | Dallas | 75226 | 86,205
Family Gateway, Inc./PSH 18 | 711 S St Paul Street | Dallas | 75201 | 273,302
Hope's Door Inc./TH-RRH Project FY2018—Hope's Door Inc | 860 F Ave Suite 100 | Plano | 75074 | 388,412
Housing Crisis Center, Inc./Home Again | 4210 Junius Street | Dallas | 75246 | 565,400
Housing Crisis Center, Inc./Permanent Housing (Family) | 4210 Junius Street | Dallas | 75246 | 349,856
Housing Crisis Center, Inc./Permanent Housing Services | 4210 Junius Street | Dallas | 75246 | 345,358
Housing Crisis Center, Inc./Veterans Housing Partnership | 4210 Junius Street | Dallas | 75246 | 438,641
Irving, City of/City of Irving S + C 2018 Renewal | 825 W Irving Blvd | Irving | 75060 | 111,184
Metro Dallas Homeless Alliance/CAS 2018 | 2816 Swiss Avenue | Dallas | 75204 | 332,256
Metro Dallas Homeless Alliance/CoC Planning FY2018 | 2816 Swiss Avenue | Dallas | 75204 | 526,121
Metro Dallas Homeless Alliance/HMIS 2018 | 2816 Swiss Avenue | Dallas | 75204 | 409,588
Metrocare Services/Leasing (Consolidated) | 1345 River Bend Dr | Dallas | 75247 | 3,392,305
Metrocare Services/Safe Haven | 1345 River Bend Dr | Dallas | 75247 | 420,901
Promise House, Inc./Promise House Rapid Rehousing Program | 224 W Page Avenue | Dallas | 75208 | 169,778
Promise House, Inc./Promise House Wesley Inn | 224 W Page Avenue | Dallas | 75208 | 191,440
PWA Coalition of Dallas, Inc. d/b/a AIDS Services of Dallas/Hillcrest House 2018 | 400 South Zang Boulevard, Suite 210 | Dallas | 75208 | 924,916
Texas Muslim Women's Foundation, Inc./Texas Muslim Women's Foundation Transitional Housing and Rapid Rehousing FY2018 | P.O. Box 863388 | Plano | 75086 | 262,069
The Family Place/2018 Family Place Renewal Application | P.O. Box 7999 | Dallas | 75209 | 849,941
Catholic Charities, Diocese of Fort Worth, Inc./Hope Today! Combined | 249 West Thornhill Drive | Fort Worth | 76115 | 251,991
Center for Transforming Lives/CTL Rapid Rehousing Expansion 1704 | 512 W 4th St | Fort Worth | 76102 | 240,638
Center for Transforming Lives/CTL Rapid Rehousing Renewal 1704 | 512 W 4th St | Fort Worth | 76102 | 480,988
CitySquare /OnTRAC Tarrant TH/RRH | 4000 Eastside Avenue | Dallas | 75226 | 109,655
Fort Worth Housing Solutions/CHANGES 2018-2019 | 1201 E 13th Street | Fort Worth | 76102 | 177,895
Fort Worth Housing Solutions/SPC 1 2018-2019 | 1201 E 13th Street | Fort Worth | 76102 | 1,618,249
Fort Worth Housing Solutions/SPC 2 2018-2019 | 1201 E 13th Street | Fort Worth | 76102 | 1,197,611
Fort Worth Housing Solutions/SPC 6 2018-2019 | 1201 E 13th Street | Fort Worth | 76102 | 181,151
Hearts Full of Love/HFOL RRH 2018 | 218 Sanchez Creek Court | Weatherford | 76088 | 240,609
Housing Authority of the City of Arlington/2018 AHA SPC Expansion | 501 W Sanford Street Suite 20 | Arlington | 76011 | 348,508
Housing Authority of the City of Arlington/Arlington Housing Rapid Rehousing | 501 W Sanford Street Suite 20 | Arlington | 76011 | 353,700
MHMR of Tarrant County/Gateway to Housing | 3840 S Hulen Street, North Tower | Fort Worth | 76107 | 351,517
Presbyterian Night Shelter/Housing Solutions Combined | 2400 Cypress | Fort Worth | 76102 | 1,408,603
Presbyterian Night Shelter/Housing Solutions Combined Expansion II | 2400 Cypress | Fort Worth | 76102 | 216,796
Presbyterian Night Shelter/Mimi Hunter Fitzgerald Safe Haven | 2400 Cypress | Fort Worth | 76102 | 184,526
Recovery Resource Council/Project New Start | 2700 Airport Freeway | Fort Worth | 76111 | 486,459
SafeHaven of Tarrant County/SafeFoundations for Rapid Rehousing | 1100 Hemphill Street #303 | Fort Worth | 76104 | 213,300
SafeHaven of Tarrant County/SafeSolutions for Rapid Rehousing | 1100 Hemphill Street #303 | Fort Worth | 76104 | 126,000
SafeHaven of Tarrant County/Supporting SafeSolutions | 1100 Hemphill Street #303 | Fort Worth | 76104 | 93,511
Tarrant County/CEC 3CP | 1509B S University Dr Ste 276 | Fort Worth | 76107 | 338,837
Tarrant County/Housing SPC | 1509B S University Dr Ste 276 | Fort Worth | 76107 | 83,100
Tarrant County/SafeTomorrows | 1509B S University Dr Ste 276 | Fort Worth | 76107 | 127,344
Tarrant County/Salvation Army Veterans PSH Program | 1509B S University Dr Ste 276 | Fort Worth | 76107 | 380,795
Tarrant County/Samaritan House Grace Village | 1509B S University Dr Ste 276 | Fort Worth | 76107 | 105,021
Tarrant County/TBLA 114 Tarrant County | 1509B S University Dr Ste 276 | Fort Worth | 76107 | 1,121,531
Tarrant County/TBLA 13 MHMR | 1509B S University Dr Ste 276 | Fort Worth | 76107 | 145,469
Tarrant County/TBLA 15 Samaritan House | 1509B S University Dr Ste 276 | Fort Worth | 76107 | 99,798
Tarrant County/TBLA 17 MHMR | 1509B S University Dr Ste 276 | Fort Worth | 76107 | 180,039
Tarrant County/TSA Housing First PSH | 1509B S University Dr Ste 276 | Fort Worth | 76107 | 207,152
Tarrant County/TSA Housing First PSH II | 1509B S University Dr Ste 276 | Fort Worth | 76107 | 226,786
Tarrant County/TSA Housing First PSH III | 1509B S University Dr Ste 276 | Fort Worth | 76107 | 220,968
Tarrant County/TSA SIMON PSH | 1509B S University Dr Ste 276 | Fort Worth | 76107 | 569,023
Tarrant County Homeless Coalition/CoC Coordinated Entry System | 1201 E 13th Street | Fort Worth | 76102 | 491,048
Tarrant County Homeless Coalition/CoC HMIS | 1201 E 13th Street | Fort Worth | 76102 | 88,000
Tarrant County Homeless Coalition/CoC HMIS | 1201 E 13th Street | Fort Worth | 76102 | 282,122
Tarrant County Homeless Coalition/TX-601 CoC Planning Application FY2018 | 1201 E 13th Street | Fort Worth | 76102 | 357,704
Center Against Sexual and Family Violence/Coordinated Entry | 580 Giles | El Paso | 79915 | 42,000
Center Against Sexual and Family Violence/RRH | 580 Giles | El Paso | 79915 | 186,992
Center Against Sexual and Family Violence/SAFE TH PH-RRH | 580 Giles | El Paso | 79915 | 127,855
El Paso Center for Children, Inc./EPCC Rapid Rehousing | 2200 N Stevens St | El Paso | 79930 | 199,304
El Paso Coalition for the Homeless/CoC Planning Project Application FY2018 | 6044 Gateway East, Suite 211 | El Paso | 79905 | 164,143
El Paso Coalition for the Homeless/Homeless Management Information System | 6044 Gateway East, Suite 211 | El Paso | 79905 | 136,207
El Paso County/Coordinated Assessment | 500 E San Antonio Suite 301 | El Paso | 79901 | 160,000
El Paso Human Services, Inc./PSH Youth | 1001 Montana | El Paso | 79902 | 156,716
Emergence Health Network/EHN Supportive Housing | 1600 Montana | El Paso | 79902 | 207,275
Emergence Health Network/EHN RRH | 1600 Montana | El Paso | 79902 | 299,369
Housing Authority of the City of El Paso/Siesta Gardens | 5300 E Paisano | El Paso | 79905 | 151,987
Housing Authority of the City of El Paso/Veterans Lodge | 5300 E Paisano | El Paso | 79905 | 131,243
Opportunity Center for the Homeless/Opportunity Center PSH | 1208 Myrtle Avenue | El Paso | 79901 | 200,908
Opportunity Center for the Homeless/Opportunity Center Rapid Re Housing | 1208 Myrtle Avenue | El Paso | 79901 | 212,676
Project Vida/Project Vida PSH | 3607 Rivera | El Paso | 79905 | 140,350
The Salvation Army, a Georgia Corporation/The Salvation Army, a Georgia Corporation | 4300 E Paisano | El Paso | 79905 | 294,604
YWCA El Paso del Norte Region/YWCA Rapid Re-housing | 201 E Main, Suite 400 NA | El Paso | 79901 | 286,895
City of Waco/Heart of Texas HMIS 2018 | 300 Austin Avenue | Waco | 76701 | 62,653
Family Abuse Center, Inc./Permanent Supportive Housing Program | P.O. Box 20395 | Waco | 76702 | 51,367
Family Abuse Center, Inc./Rapid Re-Housing Program | P.O. Box 20395 | Waco | 76702 | 85,655
Family Abuse Center, Inc./Transitional Housing Program | P.O. Box 20395 | Waco | 76702 | 131,816
Heart of Texas Homeless Coalition/TX-604 CoC Planning Application FY2018 | 300 Austin Ave | Waco | 76701 | 49,923
Heart of Texas Region Mental Health And Mental Retardation /COC Housing Navigator Grant FY2018 | 110 South 12th Street | Waco | 76703 | 173,048
Heart of Texas Region Mental Health And Mental Retardation /COC Permanent Supported Housing Grant 1 FY2018 | 110 South 12th Street | Waco | 76703 | 135,803
Heart of Texas Region Mental Health And Mental Retardation /COC Permanent Supported Housing Grant 2 FY2018 | 110 South 12th Street | Waco | 76703 | 121,502
Heart of Texas Region Mental Health And Mental Retardation /COC Rapid Rehousing Grant 1 FY2018 | 110 South 12th Street | Waco | 76703 | 78,662
The Salvation Army a Georgia Corporation—Waco/FY 2018 The Salvation Army—Waco Consolidation RRH Renewal | 4721 W Waco Dr | Waco | 76710 | 94,077
The Salvation Army a Georgia Corporation—Waco/FY 2018 The Salvation Army—Waco SSO Coordinated Entry | 4721 W Waco Dr | Waco | 76710 | 43,590
The Salvation Army a Georgia Corporation—Waco/FY18 The Salvation Army-Waco SSO CE Expansion New | 4721 W Waco Dr | Waco | 76710 | 15,211
Abilene Hope Haven, Inc./Hope Housing Services | 801 S Treadaway Blvd. | Abilene | 79602 | 243,599
Abilene Hope Haven, Inc./Hope Housing Services-PSH | 801 S Treadaway Blvd. | Abilene | 79602 | 212,905
City of Beaumont/City of Beaumont | 801 Main Street | Beaumont | 77701 | 154,808
City of Longview/City of Longview CoC 2018 Renewal | P. O. Box 1952 | Longview | 75606 | 394,714
City of Texarkana/Texarkana Homeless Coalition: Doorways Home | 220 Texas Blvd | Texarkana | 75501 | 338,705
Denton County MHMR Center/Connections PSH FY2018 | 2519 Scripture St N/A | Denton | 76201 | 304,045
Families In Crisis, Inc./FIC RRH Killeen FY18 | 1305 East Rancier Avenue | Killeen | 76541 | 429,652
Giving HOPE, Inc./Turning Point | 117 W Sycamore St | Denton | 76201 | 232,017
Homeless Network of Texas (dba Texas Homeless Network)/TX BoS CoC HMIS Project FY 2018 | 1713 Fortview Road | Austin | 78704 | 363,018
Homeless Network of Texas (dba Texas Homeless Network)/TX BoS CoC HMIS Project FY 2018 Expansion | 1713 Fortview Road | Austin | 78704 | 70,000
Homeless Network of Texas (dba Texas Homeless Network)/TX-607 CoC Planning Project FY2018 | 1713 Fortview Road | Austin | 78704 | 1,142,236
Lubbock Open Door/Lubbock Open Door PSH | 1918 13th St | Lubbock | 79401 | 567,365
Mid-Coast Family Services, Inc./Next Step-Consolidated | 120 S Main, Suite 175 | Victoria | 77901 | 509,549
Neighborhood Development Corp/Homeless to Homes Program | 520 Decatur Ave | Orange | 77630 | 183,013
Odessa Links, Inc./Project Hope FY 2018 | 119 West 4th; Suite 201 | Odessa | 79761 | 304,944
Sabine Valley Regional MHMR Center dba Community Healthcore/Fredonia Homeless and Disabled Women and Children Rapid Rehousing | 107 Woodbine Place | Longview | 75601 | 135,790
Shelter Agencies For Families in East Texas, Inc/HUD Rapid Rehousing 3 | 204 Patrick Street | Mount Pleasant | 75455 | 172,601
The Gulf Coast Center/FY18 GCC Permanent Housing | 10000 Emmett F. Lowry Ste. 1220 | Texas City | 77591 | 586,191
The Salvation Army—Temple, TX/The Salvation Army—CoC Permanent Supportive Housing Program | 419 West Ave G | Temple | 76504 | 142,541
The Salvation Army—Temple, TX/The Salvation Army—CoC Rapid Rehousing Program | 419 West Ave G | Temple | 76504 | 160,550
The Salvation Army, a Georgia Corporation/Project Bridge Rapid Rehousing | 521 Josephine | Corpus Christi | 78401 | 299,962
The Salvation Army, a Georgia Corporation/Transforming Lives | 521 Josephine | Corpus Christi | 78401 | 153,944
United Way of Denton County, Inc./Denton County Coordinated Entry | 1314 Teasley Lane | Denton | 76205 | 123,926
Women Opting for More Affordable Housing Now,Inc.(WOMAN,Inc./WOMAN, Inc. Rapid Re-Housing | 1919 Decatur P.O.B 571898 | Houston | 77257 | 116,712
City of Amarillo/Permanent Supportive Housing |  |  |  | 302,712
City of Amarillo/TPC Supported Housing-A Forever Home |  |  |  | 91,622
City of Amarillo/HMIS |  |  |  | 203,612
City of Amarillo/CoC Planning |  |  |  | 35,272
Nortex Regional Planning Commissiom/My Walls | 4309 Jacksboro Hwy #200 | Wichita Falls | 76302 | 312,823
Nortex Regional Planning Commissiom/Planning Grant | 4309 Jacksboro Hwy #200 | Wichita Falls | 76302 | 20,500
AIDS Foundation Houston, Inc./A Friendly Haven | 6260 Westpark Dr Suite 100 | Houston | 77057 | 675,468
AIDS Foundation Houston, Inc./First Responders | 6260 Westpark Dr Suite 100 | Houston | 77057 | 795,062
AIDS Foundation Houston, Inc./T.EX.T.M.S.G. | 6260 Westpark Dr Suite 100 | Houston | 77057 | 602,524
Catholic Charities of the Archdiocese Galveston-Houston/Lotus Project | 2900 Louisiana Street | Houston | 77006 | 1,268,199
Change Happens!/Rescue in Motion Permanent Housing Program 2.0 | 3353 Elgin Street | Houston | 77004 | 1,006,598
Coalition for the Homeless of Houston/Harris County/CoC Planning Funds FY2018 | 2000 Crawford Suite 700 | Houston | 77002 | 994,782
Coalition for the Homeless of Houston/Harris County/Coordinated Access 2 FY18 | 2000 Crawford Suite 700 | Houston | 77002 | 220,887
Coalition for the Homeless of Houston/Harris County/Coordinated Access Expansion FY18 | 2000 Crawford Suite 700 | Houston | 77002 | 115,632
Coalition for the Homeless of Houston/Harris County/Coordinated Access FY18 | 2000 Crawford Suite 700 | Houston | 77002 | 293,833
Coalition for the Homeless of Houston/Harris County/HMIS Renewal FY18 | 2000 Crawford Suite 700 | Houston | 77002 | 646,035
Crisis Assistance Center, Inc/CAC PSH FY18 (2019-20) TX0214L6E001811 | 1022 McCall Ave | Conroe | 77301 | 129,946
Fort Bend County Women's Center, Inc./FY18 Aftercare Expansion Project (CoC RRH) renewal | 501 Hwy 90 A East | Richmond | 77406 | 874,034
Fort Bend County Women's Center, Inc./FY18 Shelter Plus Care Consolidated renewal | 501 Hwy 90 A East | Richmond | 77406 | 517,531
Harmony House, Inc./Harmony House New Beginnings FY18 (TX0160L6E001808) | 602 Girard Street | Houston | 77007 | 748,318
Harmony House, Inc./Harmony House Permanent Solutions FY18 (TX0422L6E001803 | 602 Girard Street | Houston | 77007 | 2,379,076
Harris County/Northline | 8410 Lantern Point Dr | Houston | 77054 | 873,778
HCDVCC/HCDVCC FY18 Domestic Violence Coordinated Access | 2990 Richmond Ave Suite 550 | Houston | 77098 | 394,070
HCDVCC/HCDVCC FY18 Domestic Violence RRH 15-16 consolidated | 2990 Richmond Ave Suite 550 | Houston | 77098 | 1,712,696
HCDVCC/HCDVCC FY18 Domestic Violence RRH 2018 | 2990 Richmond Ave Suite 550 | Houston | 77098 | 1,542,656
Houston Area Community Services, Inc./ACE | 2150 W 18th St, Suite 300 | Houston | 77008 | 1,203,657
Houston Area Community Services, Inc./START | 2150 W 18th St, Suite 300 | Houston | 77008 | 742,142
Houston Area Community Services, Inc./YEAH! | 2150 W 18th St, Suite 300 | Houston | 77008 | 2,739,560
Houston Area Women's Center/HAWC FY2018 Housing Advocacy Renewal TX0179 | 1010 Waugh Dr | Houston | 77019 | 431,909
Houston HELP, Inc/Corder Place Apartments | 2211 Norfolk Suite 740 | Houston | 77098 | 497,540
Houston Housing Authority/FY18 Houston Housing Authority RRH Renewal TX0366L6E001805 | 2640 Fountainview Suite 300 | Houston | 77057 | 2,836,904
Houston Housing Authority/FY2018 HHA RRH TAY Renewal TX0428L6E001803 | 2640 Fountainview Suite 300 | Houston | 77057 | 1,387,136
Northwest Assistance Ministries/NAM Permanent SHP Expansion | 15555 Kuykendahl Road | Houston | 77090 | 772,341
Santa Maria Hostel, Inc./The Hope Housing Project | 2605 Parker Road | Houston | 77093 | 487,280
SEARCH Homeless Services/Case Management for Permanent Supportive Housing | 2015 Congress | Houston | 77002 | 452,741
SEARCH Homeless Services/Harrisburg Case Management Services | 2015 Congress | Houston | 77002 | 859,569
SEARCH Homeless Services/Mobile Outreach to Chronic Street Homeless | 2015 Congress | Houston | 77002 | 96,520
SEARCH Homeless Services/SEARCH Housing Plus | 2015 Congress | Houston | 77002 | 1,061,902
SEARCH Homeless Services/Supportive Services at Temenos II | 2015 Congress | Houston | 77002 | 641,030
Star of Hope Mission/Star of Hope Mission New Haven | 4848 Loop Central Suite 500 | Houston | 77081 | 1,085,769
Temenos Community Development Corporation/FY2018 Knowles-Temenos Place Apartments | 2200 Jefferson Street | Houston | 77003 | 713,115
Temenos Community Development Corporation/FY2018 Temenos Place Apartments III | 2200 Jefferson Street | Houston | 77003 | 522,418
The Bridge Over Troubled Waters, Inc./The Bridge Permanent Housing Project for Women with Disabilities | 3811 Allen Genoa | Pasadena | 77504 | 1,021,947
The Bridge Over Troubled Waters, Inc./The Bridge Permanent Housing Project for Women with Disabilities—Expansion | 3811 Allen Genoa | Pasadena | 77504 | 544,288
The Montrose Center/LGBT Domestic Violence Services | 401 Branard Street, 2nd Floor | Houston | 77006 | 120,517
The Salvation Army, A Georgia Corporation/Salvation Army Social Services | 1500 Austin Street | Houston | 77002 | 366,398
The Salvation Army, A Georgia Corporation/The Salvation Army—Mission Advance FY17 | 1500 Austin Street | Houston | 77002 | 547,135
The Salvation Army, A Georgia Corporation/The Salvation Army Social Services (YA) FY17 | 1500 Austin Street | Houston | 77002 | 573,259
The Women's Home/Transitional Housing Two | 607 Westheimer | Houston | 77006 | 207,406
United States Veterans Initiative/Permanent Housing for Chronically Homeless FY18 (2019-2020) U.S. VETS | 4640 Main Street | Houston | 77002 | 504,858
United States Veterans Initiative/Permanent Housing for Disabled Veterans FY18 (2019-2020) U.S. VETS | 4640 Main Street | Houston | 77002 | 536,315
Volunteers of America Texas, Inc./Conroe Permanent Supportive Housing Program | 300 E Midway Drive | Euless | 76039 | 737,695
Young Women's Christian Association of Houston/Choices Permanent Supportive Housing | 6309 Martin Luther King Jr. Blvd | Houston | 77021 | 385,648
Young Women's Christian Association of Houston/YWCA of Houston Center for women | 6309 Martin Luther King Jr. Blvd | Houston | 77021 | 287,845
Twin City Mission, Inc./HMIS Expansion 2018 | 2505 South College | Bryan | 77801 | 53,269
Twin City Mission, Inc./Rapid Re-Housing 2018 | 2505 South College | Bryan | 77801 | 244,826
First Step House/FSH Rapid Rehousing Program Consolidated FY2018 | 440 South 500 East | Salt Lake City | 84102 | 222,727
Housing Assistance Management Enterprise/HAME Sunrise Metro FY2018 | 1776 South West Temple Street | Salt Lake City | 84115 | 71,328
Housing Authority of Salt Lake City/HASLC Shelter Plus Care II FY2018 | 1776 S West Temple | Salt Lake City | 84115 | 236,174
Housing Authority of Salt Lake City/HASLC Shelter Plus Care IV FY2018 | 1776 S West Temple | Salt Lake City | 84115 | 241,754
Housing Authority of Salt Lake City/HASLC Shelter Plus Care V FY2018 | 1776 S West Temple | Salt Lake City | 84115 | 97,203
Housing Authority of the County of Salt Lake/HACSL COCR Reallocated FY2018 | 3593 South Main Street | Salt Lake City | 84115 | 1,087,012
Housing Authority of the County of Salt Lake/HACSL SP Renewal FY2018 | 3593 South Main Street | Salt Lake City | 84115 | 1,067,947
Housing Authority of the County of Salt Lake/HACSL SP3 New Chronic FY2018 | 3593 South Main Street | Salt Lake City | 84115 | 544,477
Housing Authority of the County of Salt Lake/HACSL SP3e New Chronic Expansion FY2018 | 3593 South Main Street | Salt Lake City | 84115 | 442,624
Housing Authority of the County of Salt Lake/HACSL SPBB Bud Bailey FY2018 | 3593 South Main Street | Salt Lake City | 84115 | 221,633
Housing Authority of the County of Salt Lake/HACSL SPG Grace Mary Manor FY2018 | 3593 South Main Street | Salt Lake City | 84115 | 200,826
Housing Authority of the County of Salt Lake/HACSL SPK Kelly Benson FY2018 | 3593 South Main Street | Salt Lake City | 84115 | 95,416
Housing Authority of the County of Salt Lake/HACSL SPR Sponsor Based w/TRH FY2018 | 3593 South Main Street | Salt Lake City | 84115 | 82,691
Salt Lake County Government/UT-500 CoC Planning Application FY2018 | 2001 South State Street, Suite N4-930 P.O. Box 144575 | Salt Lake City | 84114 | 214,382
The Road Home/TRH CHSH Leasing FY2018 | 210 South Rio Grande Street | Salt Lake City | 84101 | 486,450
The Road Home/TRH PSH Rental Assistance Consolidated FY2018 | 210 South Rio Grande Street | Salt Lake City | 84101 | 1,494,369
The Road Home/TRH RRH for Families Consolidated FY2018 | 210 South Rio Grande Street | Salt Lake City | 84101 | 244,817
The Road Home/TRH Scattered Site Properties FY2018 | 210 South Rio Grande Street | Salt Lake City | 84101 | 17,440
Utah Department of Workforce Services/DWS Salt Lake HMIS FY2018 | 1385 South State Street 4th Floor | Salt Lake City | 84115 | 223,151
Volunteers of America, Utah/VOAUT Rapid Rehousing for Youth FY2018 | 435 West Bearcat Drive | Salt Lake City | 84115 | 265,406
Volunteers of America, Utah/VOAUT Supportive Housing for Youth FY2018 | 435 West Bearcat Drive | Salt Lake City | 84115 | 290,967
Young Womens Christian Assn of Utah/YWCA TH Residential Self-Sufficiency FY2018 | 322 E 300 S | Salt Lake City | 84111 | 38,733
Bear River Association of Governments/BRAG Rapid Re-housing Program | 170 N Main | Logan | 84321 | 136,724
Family Connection Center/Open Doors Rapid Re Housing | 1360 East 1450 South | Clearfield | 84015 | 187,542
Five County Association of Governments/Five County/Dove/CCWCC RRH Expansion Renewal | 1070 W 1600 S Bldg B | Saint George | 84770 | 62,983
Five County Association of Governments/Five County/Dove Center/CCWCC RRH Renewal | 1070 W 1600 S Bldg B | Saint George | 84770 | 83,988
Friends of Switchpoint/Switchpoint Rapid Rehousing 2018 | 948 N 1300 W | Saint George | 84770 | 126,340
Housing Authority of the City of Ogden/Shelter Plus Care | 1100 Grant Avenu | Ogden | 84404 | 197,922
Iron County Care and Share/FY18 COC BOS Iron County Care and Share | P.O. Box 2241 222 West 900 North | Cedar City | 84721 | 32,164
St Anne's Center/Rapid Re-Housing | 269 West 33rd Street | Ogden | 84401 | 87,440
St Anne's Center/Rapid Rehousing for Youth | 269 West 33rd Street | Ogden | 84401 | 61,680
St George Housing Authority/SGHA Housing Matters | 975 North 1725 West # 101 | St George | 84770 | 58,797
Tooele County Housing Authoriity/Tooele S+C 2018 | 66 West Vine Street | Tooele | 84074 | 166,489
Uintah Basin Association of Governments/UBAOG Rapid Rehousing | 330 East 100 South | Roosevelt | 84066 | 69,767
Utah Department of Workforce Services/BOS CoC Planning Project Application FY2018 | 1385 South State Street 4th Floor | Salt Lake City | 84115 | 62,629
Utah Department of Workforce Services/DWS Balance of State HMIS FY2018 | 1385 South State Street 4th Floor | Salt Lake City | 84115 | 80,640
Weber Housing Authority /Shelter Plus Care 2018 Renewal | 237 26th Street, #E220 | Ogden | 84401 | 32,813
Weber Housing Authority /Supportive Housing Program 2018 Renewal | 237 26th Street, #E220 | Ogden | 84401 | 193,339
Your Community Connection of Ogden/Northern Utah/RRH Families 2018 | 2261 Adams Avenue | Ogden | 84401 | 80,342
Your Community Connection of Ogden/Northern Utah/RRH Singles 2018 | 2261 Adams Avenue | Ogden | 84401 | 70,111
Your Community Connection of Ogden/Northern Utah/RRH YOUTH 2018 | 2261 Adams Avenue | Ogden | 84401 | 25,508
Center for Women and Children in Crisis, Inc./Rapid Rehousing for Survivors of Domestic Violence | 1433 East 840 North | Orem | 84097 | 55,695
Community Action Services and Food Bank, Inc./RRH For Homeless Persons Renewal 2018 | 815 South Freedom Blvd., Suite 100 | Provo | 84601 | 81,400
Golden Spike Treatment Ranch, Inc/GSO REAP 3.0 | 869 South 170 East | Provo | 84606 | 53,670
Housing Authority of Utah County/HAUC Renewal 2018 | 240 E Center Street | Provo | 84606 | 365,317
Housing Authority of Utah County/PSH Leasing 2018 | 240 E Center Street | Provo | 84606 | 139,130
Provo City Housing Authority/PH—Rental Assistance New Project 2018 | 650 West 100 North | Provo | 84601 | 47,382
Provo City Housing Authority/PH—Rental Assistance Renewal 2018 | 650 West 100 North | Provo | 84601 | 369,359
United Way of Central and Southern Utah/UT504 Planning Project FY 2018 | 148 North 100 West | Provo | 84601 | 50,465
Utah Department of Workforce Services/DWS Mountainland HMIS FY2018 | 1385 South State Street 4th Floor | Salt Lake City | 84115 | 36,000
Emergency Shelter, Inc. DBA HomeAgain/HomeAgain RRH (InRich & Family) | P. O. Box 5222 | Richmond | 23220 | 302,511
Emergency Shelter, Inc. DBA HomeAgain/Permanent Supportive Housing Program | P. O. Box 5222 | Richmond | 23220 | 354,249
Homeward/CES Expansion FY2018 | 9221 Forest Hill Avenue Suite 200 | Richmond | 23235 | 52,250
Homeward/CoC Planning FY18 | 9221 Forest Hill Avenue Suite 200 | Richmond | 23235 | 151,459
Homeward/Coordinated Entry System FY2018 | 9221 Forest Hill Avenue Suite 200 | Richmond | 23235 | 97,500
Homeward/HCIS Richmond FY2018 | 9221 Forest Hill Avenue Suite 200 | Richmond | 23235 | 50,000
Housing Families First/Building Neighbors Rapid Re-Housing | 3900 Nine Mile Road | Henrico | 23223 | 246,639
Richmond Behavioral Health Authority/RBHA Home Connect Renewal 2018 | 107 S 5th Street | Richmond | 23219 | 251,860
St Joseph's Villa/FY18 Renewal Richmond | 8000 Brook Road Office of Grants Development | Richmond | 23227 | 310,412
Virginia Supportive Housing/Richmond HomeLink Consolidated FY 2018 | 8002 Discovery Drive Suite 201 | Henrico | 23229 | 1,164,384
Virginia Supportive Housing/Richmond Housing First Renewal FY 2018 | 8002 Discovery Drive Suite 201 | Henrico | 23229 | 541,502
Virginia Supportive Housing/Richmond Shelter Plus Care 1 Renewal FY 2018 | 8002 Discovery Drive Suite 201 | Henrico | 23229 | 760,338
Virginia Supportive Housing/Richmond Shelter Plus Care Renewal FY 2018 | 8002 Discovery Drive Suite 201 | Henrico | 23229 | 183,921
Virginia Supportive Housing/VSH FUSE Renewal FY 2018 | 8002 Discovery Drive Suite 201 | Henrico | 23229 | 287,135
City of Norfolk/Shelter Plus Care FY 18 | 225 W Olney Rd | Norfolk | 23510 | 554,026
ForKids,inc./Bridge Rapid Re-Housing FY18 | 4200 Colley Avenue P.O. Box 6044 | Norfolk | 23508 | 91,136
ForKids,inc./Elizabeth Place PSH FY18 | 4200 Colley Avenue P.O. Box 6044 | Norfolk | 23508 | 106,283
ForKids,inc./LEAP Rapid Re-Housing Consolidated Application FY18 | 4200 Colley Avenue P.O. Box 6044 | Norfolk | 23508 | 579,699
ForKids,inc./Legacy PSH FY18 | 4200 Colley Avenue P.O. Box 6044 | Norfolk | 23508 | 518,686
ForKids,inc./Regional Housing Crisis Hotline Coordinated Assessment FY18 | 4200 Colley Avenue P.O. Box 6044 | Norfolk | 23508 | 147,673
LGBT Life Center /CHAP Norfolk Renewal FY2018 | 222 West 21st Street Suite F-308 | Norfolk | 23517 | 379,176
St Columba Ecumenical Ministries, Inc./Next Step Transitional Housing | 2114 Lafayette Blvd. | Norfolk | 23509 | 103,832
The Planning Council/FY2018 SVHC HMIS Expansion | 5365 Robin Hood Road, Ste 700 | Norfolk | 23513 | 70,288
The Planning Council/FY2018 SVHC Planning | 5365 Robin Hood Road, Ste 700 | Norfolk | 23513 | 113,103
The Planning Council/FY2018 SVHC ShelterLink | 5365 Robin Hood Road, Ste 700 | Norfolk | 23513 | 51,544
Virginia Supportive Housing/Norfolk Housing First 2 Consolidated FY 2018 | 8002 Discovery Drive Suite 201 | Henrico | 23229 | 588,305
Virginia Supportive Housing/Norfolk Housing First 3 Consolidated FY 2018 | 8002 Discovery Drive Suite 201 | Henrico | 23229 | 424,455
Young Women's Christian Association of South Hampton Roads /Women In Crisis Scattered Site Transitional Housing 2018 | 500 East Plume Suite 700 | Norfolk | 23510 | 141,501
City of Roanoke/City of Roanoke Homeless Assistance Team | 215 Church Avenue | Roanoke | 24011 | 140,422
City of Roanoke/CoC Planning Project Application FY2018 | 215 Church Avenue | Roanoke | 24011 | 45,235
City of Roanoke/Coordinated Assessment System | 215 Church Avenue | Roanoke | 24011 | 49,070
Council of Community Services/HMIS | 502 Campbell Avenue, SW | Roanoke | 24016 | 96,060
Council of Community Services/HMIS Expansion | 502 Campbell Avenue, SW | Roanoke | 24016 | 33,000
Roanoke Valley Student Trouble Center, Inc. d/b/a Trust House/Healing Haven | 404 Elm Avenue, SW | Roanoke | 24016 | 387,955
Roanoke Valley Student Trouble Center, Inc. d/b/a Trust House/Heroes Haven PSH for CH Veterans | 404 Elm Avenue, SW | Roanoke | 24016 | 82,427
Roanoke Valley Student Trouble Center, Inc. d/b/a Trust House/Trust House Case Management | 404 Elm Avenue, SW | Roanoke | 24016 | 56,476
City of Virginia Beach/CoC Planning Grant | 2401 Courthouse Drive | Virginia Beach | 23456 | 49,268
Community Alternatives Management Group, Inc./CAMG 10 FY18 | 5700 Thurston Ave Suite 206 | Norfolk | 23502 | 118,010
Community Alternatives Management Group, Inc./CAMG 34 FY18 | 5700 Thurston Ave Suite 206 | Norfolk | 23502 | 403,960
Judeo-Christian Outreach Center/JCOC Affordable Housing | 1053 Virginia Beach Blvd. | Virginia Beach | 23451 | 59,410
Judeo-Christian Outreach Center/JCOC Rapid Rehousing | 1053 Virginia Beach Blvd. | Virginia Beach | 23451 | 99,976
Judeo-Christian Outreach Center/JCOC Rapid Rehousing | 1053 Virginia Beach Blvd. | Virginia Beach | 23451 | 12,176
LGBT Life Center /CHAP VB Expansion Renewal 2018 | 222 West 21st Street Suite F-308 | Norfolk | 23517 | 196,398
Samaritan House, Inc./Expansion of HUD4 Joint TH & RRH | 2620 Southern Blvd. | Virginia Beach | 23452 | 36,000
Samaritan House, Inc./Expansion of HUD5 RRH for DV | 2620 Southern Blvd. | Virginia Beach | 23452 | 140,827
Samaritan House, Inc./Rapid Re-Housing 1 | 2620 Southern Blvd. | Virginia Beach | 23452 | 33,887
Samaritan House, Inc./Rapid Re-Housing 2 | 2620 Southern Blvd. | Virginia Beach | 23452 | 109,848
Samaritan House, Inc./Rapid Re-Housing 3 | 2620 Southern Blvd. | Virginia Beach | 23452 | 276,392
Samaritan House, Inc./Rapid Re-Housing 5 | 2620 Southern Blvd. | Virginia Beach | 23452 | 89,977
Samaritan House, Inc./Transitional Housing Program (HUD4) | 2620 Southern Blvd. | Virginia Beach | 23452 | 85,150
The Planning Council/FY2018 ShelterLink BEACH | 5365 Robin Hood Road, Ste 700 | Norfolk | 23513 | 62,721
Virginia Beach Community Development Corporation/New Haven | 2400 Potters Road | Virginia Beach | 23454 | 5,210
Virginia Beach Community Development Corporation/New Haven | 2400 Potters Road | Virginia Beach | 23454 | 7,500
Virginia Beach Community Development Corporation/Veterans First | 2400 Potters Road | Virginia Beach | 23454 | 71,521
Region Ten Community Services Board/PSH Consolidation 2018 | 500 Old Lynchburg Road | Charlottesville | 22903 | 369,350
Thomas Jefferson Area Coalition for the Homeless/VA-504 CoC Planning Application FY2018 | P.O. Box 34 | Charlottesville | 22902 | 10,969
City of Hampton Department of Human Services/FY2018 GVPHC Planning Project | 1320 Lasalle Ave | Hampton | 23369 | 58,672
ForKids,inc./Regional Housing Crisis Hotline Coordinated Assessment GVPHC FY18 | 4200 Colley Avenue P.O. Box 6044 | Norfolk | 23508 | 65,682
Hampton-Newport News Community Services Board/Safe Harbors Consolidated | 300 Medical Drive | Hampton | 23666 | 484,463
LGBT Life Center /CHAP Peninsula Renewal 2018 | 222 West 21st Street Suite F-308 | Norfolk | 23517 | 298,809
Link of Hampton Roads, Inc./CANLINK I FY 2018 | 10413 Warwick Blvd. | Newport News | 23601 | 731,607
Link of Hampton Roads, Inc/CANLINK IV FY 2018 | 10413 Warwick Blvd. | Newport News | 23601 | 63,705
Newport News Redevelopment and Housing Authority/Shelter Plus Care | 227 27th Street | Newport News | 23607 | 115,630
The Planning Council/FY2018 GVPHC ShelterLink | 5365 Robin Hood Road, Ste 700 | Norfolk | 23513 | 55,172
Transitions Family Violence Services/Next Step to Home | P.O. Box 561 | Hampton | 23669 | 140,670
City of Portsmouth Virginia/FY 2018 CoC Project Competition | 1811 King St | Portsmouth | 23704 | 527,449
Portsmouth Area Resources Coalition, Inc./2018 CoC Planning Project Application | P.O. Box 1183 | Portsmouth | 23705 | 35,058
Portsmouth Area Resources Coalition, Inc./Families Succeed with Housing (FaSH) | P.O. Box 1183 | Portsmouth | 23705 | 53,071
Portsmouth Area Resources Coalition, Inc./Single Adult Barrier Reduction Exchange 2(SABRE 2) | P.O. Box 1183 | Portsmouth | 23705 | 145,133
Portsmouth Area Resources Coalition, Inc./Step Up To Responsibility (SUTR) | P.O. Box 1183 | Portsmouth | 23705 | 81,346
Portsmouth Christian Outreach Ministries/Chronic Homeless Resource and Opportunity Network (CHRON) | 910 Seventh St | Portsmouth | 23704 | 49,348
Portsmouth Christian Outreach Ministries/Transitional Housing | 910 Seventh St | Portsmouth | 23704 | 75,533
Virginia Supportive Housing/Portsmouth Housing First 1 Consolidated FY 2018 | 8002 Discovery Drive Suite 201 | Henrico | 23229 | 233,999
Lynchburg Redevelopment & Housing Authority/Housing First Lynchburg | 918 Commerce Street | Lynchburg | 24504 | 225,576
Miriam's House, Inc./Community First Rapid Re-Housing | 409 Magnolia Street | Lynchburg | 24503 | 31,008
Miriam's House, Inc./Magnolia St Supportive Housing Con | 409 Magnolia Street | Lynchburg | 24503 | 80,434
Miriam's House, Inc./Miriam's House HMIS | 409 Magnolia Street | Lynchburg | 24503 | 21,357
Miriam's House, Inc./VA 508 CoC Planning Application FY2018 | 409 Magnolia Street | Lynchburg | 24503 | 13,546
Harrisonburg Redevelopment and Housing Authority/HMIS Renewal Project FY2018 | 286 Kelley Street | Harrisonburg | 22802 | 84,072
Northern Shenandoah Valley Regional Commission/FY2018 Planning Project | 400E Kendrick Lane | Front Royal | 22630 | 20,619
Northwestern Community Services/NWCS—PSH Program for Chronically Homeless 2 | 209 West Criser Road, Suite 300 | Front Royal | 22630 | 17,833
Northwestern Community Services/NWCS—Shelter Plus Care | 209 West Criser Road, Suite 300 | Front Royal | 22630 | 248,807
George Washington Regional Commission/VA-514 CoC HMIS Renewal FY2018 | 406 Princess Anne St | Fredericksburg | 22401 | 55,125
George Washington Regional Commission/VA-514 CoC Planning Application FY2018 | 406 Princess Anne St | Fredericksburg | 22401 | 11,970
Micah Ecumenical Ministries/FY18-Journey Supportive Housing (FISH) | P.O. Box 3277 | Fredericksburg | 22402 | 168,006
Micah Ecumenical Ministries/FY18-Journey Supportive Housing (FUSE) | P.O. Box 3277 | Fredericksburg | 22402 | 85,280
Commonwealth Catholic Charities/Crater PSH | 1601 Rolling Hills Drive | Richmond | 23229 | 125,061
Commonwealth of Virginia/HMIS FY2018 | 600 East Main Street Suite 300 | Richmond | 23219 | 141,301
Commonwealth of Virginia/VA-521 CoC Planning Application FY2018 | 600 East Main Street Suite 300 | Richmond | 23219 | 110,298
Helping Overcome Poverty's Existence, Inc./FY 18 HOPE PSH | 680 W Main Street P.O. Box 743 | Wytheville | 24382 | 56,963
Helping Overcome Poverty's Existence, Inc./FY HOPE RRH | 680 W Main Street P.O. Box 743 | Wytheville | 24382 | 71,859
New River Community Action Inc/2018 Balance of State HUD CoC Application | 1093 E Main St | Radford | 24141 | 158,956
People Incorporated of Virginia/Bristol Permanent Supportive Housing FY18 | 1173 West Main Street | Abingdon | 24210 | 27,038
People Incorporated of Virginia/Foothills Housing Network RR Renewal 2018 | 1173 West Main Street | Abingdon | 24210 | 49,054
St Joseph's Villa/FY18 Renewal HRC CACH-LPG | 8000 Brook Road Office of Grants Development | Richmond | 23227 | 322,408
Arlington County Government/Arlington CoC Planning Project Application 2018 | 2100 Washington Blvd. Third Floor | Arlington | 22204 | 78,360
Arlington Street People's Assistance Network,INC./Home Bound | 2020A N 14th Street | Arlington | 22201 | 452,844
Arlington Street People's Assistance Network,INC./Homeward | 2020A N 14th Street | Arlington | 22201 | 65,891
Arlington Street People's Assistance Network,INC./Homeward Expansion 1 | 2020A N 14th Street | Arlington | 22201 | 80,064
Arlington Street People's Assistance Network,INC./Turning Keys | 2020A N 14th Street | Arlington | 22201 | 661,626
Arlington Street People's Assistance Network,INC./Westover | 2020A N 14th Street | Arlington | 22201 | 580,221
Bridges to Independence/Arlington Rapid Re-Housing FY2018 | 3103 9th Road, North | Arlington | 22201 | 340,539
New Hope Housing, Inc./Just Home | 8407-E Richmond Highway | Alexandria | 22309 | 56,603
New Hope Housing, Inc./Susan's Place | 8407-E Richmond Highway | Alexandria | 22309 | 217,615
Volunteers of America Chesapeake, Inc./Arlington Master Lease PSH Program | 7901 Annapolis Road | Lanham | 20706 | 84,769
Volunteers of America Chesapeake, Inc./HOME RRH Program | 7901 Annapolis Road | Lanham | 20706 | 214,066
Abused and Homeless Children's Refuge /Rapid Rehousing for Transition Age Youth | 8221 Old Courthouse Road Suite 207 | Vienna | 22182 | 214,880
FACETS/Linda's Gateway Permanent Supportive Housing | 10640 Page Avenue Suite 300 | Fairfax | 22030 | 444,555
FACETS/TRIUMPH III Permanent Supportive Housing | 10640 Page Avenue Suite 300 | Fairfax | 22030 | 604,926
FACETS/TRIUMPH III Permanent Supportive Housing | 10640 Page Avenue Suite 300 | Fairfax | 22030 | 86,818
FACETS/TRIUMPH Permanent Supportive Housing | 10640 Page Avenue Suite 300 | Fairfax | 22030 | 189,160
Fairfax County Department of Housing and Community Development/DHCD/Pathway Homes SPC 10C | 3700 Pender Dr Suite 300 | Fairfax | 22030 | 954,151
Fairfax County Department of Housing and Community Development/DHCD/Pathway Homes SPC 1C | 3700 Pender Dr Suite 300 | Fairfax | 22030 | 587,089
Fairfax County Department of Housing and Community Development/DHCD/Pathway Homes SPC 9C | 3700 Pender Dr Suite 300 | Fairfax | 22030 | 423,290
Fairfax County Office to Prevent and End Homelessness/VA-601 CoC Planning Application FY2018 | 12000 Government Center Parkway Suite 333 | Fairfax | 22035 | 130,000
New Hope Housing, Inc./PSH Group Homes | 8407-E Richmond Highway | Alexandria | 22309 | 368,838
Pathway Homes, Inc./1991 CRSC/Pathway Homes SHP | 10201 Fairfax Blvd., Suite 200 | Fairfax | 22030 | 153,140
Pathway Homes, Inc./1991 Pathway Homes SHP Expansion | 10201 Fairfax Blvd., Suite 200 | Fairfax | 22030 | 235,845
Pathway Homes, Inc./1994 CRSVA/PH/PRS SHP | 10201 Fairfax Blvd., Suite 200 | Fairfax | 22030 | 239,515
Pathway Homes, Inc./1995 CRSVA/PH/PRS SHP | 10201 Fairfax Blvd., Suite 200 | Fairfax | 22030 | 319,499
Pathway Homes, Inc./2007 Pathway Homes SHP | 10201 Fairfax Blvd., Suite 200 | Fairfax | 22030 | 189,428
Pathway Homes, Inc./2009 Pathway Homes SHP | 10201 Fairfax Blvd., Suite 200 | Fairfax | 22030 | 189,079
Pathway Homes, Inc./2011 Pathway Homes SHP | 10201 Fairfax Blvd., Suite 200 | Fairfax | 22030 | 384,386
Pathway Homes, Inc./2014 Pathway Homes SHP | 10201 Fairfax Blvd., Suite 200 | Fairfax | 22030 | 1,383,177
Pathway Homes, Inc./2015 Pathway Homes SHP | 10201 Fairfax Blvd., Suite 200 | Fairfax | 22030 | 590,776
Shelter House, Inc/Domestic Violence Rapid Re-Housing Project | 12310 Pinecrest Road Suite 304 | Reston | 20191 | 405,006
Shelter House, Inc/Rapid Re-Housing Project | 12310 Pinecrest Road Suite 304 | Reston | 20191 | 467,630
Shelter House, Inc/RISE | 12310 Pinecrest Road Suite 304 | Reston | 20191 | 565,668
County of Loudoun/Permanent Supportive Housing Program | 102 Heritage Way NE P.O. Box 7400 | Leesburg | 20177 | 25,920
County of Loudoun/Permanent Supportive Housing Reallocation Project | 102 Heritage Way NE P.O. Box 7400 | Leesburg | 20177 | 156,020
Alexandria Community Services Board/Notabene & Family Permanent Housing | 2525 Mt. Vernon Ave | Alexandria | 22301 | 151,007
Bridges to Independence/Alexandria City Rapid Re-housing FY 2018 | 3103 9th Road, North | Arlington | 22201 | 266,457
City of Alexandria, a municipal corporation of Virginia/CoC Planning Project FY18 | 2525 Mt. Vernon Ave | Alexandria | 22301 | 24,794
City of Alexandria, a municipal corporation of Virginia/HMIS Management Analyst | 2525 Mt. Vernon Ave | Alexandria | 22301 | 55,225
New Hope Housing, Inc./Alexandria Housing First | 8407-E Richmond Highway | Alexandria | 22309 | 182,418
Sheltered Homes of Alexandria/SHA Permanent Housing Program | 720 North Saint Asaph Street | Alexandria | 22314 | 187,931
Prince William County Department of Social Services /CoC Planning 2018 | 7987 Ashton Avenue | Manassas | 20109 | 52,092
Prince William County Department of Social Services /PASS-Permanent Supportive Housing | 7987 Ashton Avenue | Manassas | 20109 | 151,907
Prince William County Department of Social Services /PWA- HMIS FY 18 | 7987 Ashton Avenue | Manassas | 20109 | 36,230
Prince William County Department of Social Services /PWA -Leasing | 7987 Ashton Avenue | Manassas | 20109 | 159,035
Prince William County Department of Social Services /PWA PSH HOUSE I | 7987 Ashton Avenue | Manassas | 20109 | 9,052
Prince William County Department of Social Services /PWA Rapid Rehousing FY 18 | 7987 Ashton Avenue | Manassas | 20109 | 206,648
Prince William County Department of Social Services /PWA-PSH Leasing | 7987 Ashton Avenue | Manassas | 20109 | 106,550
Methodist Training & Outreach Center, Inc. /Methodist Training & Outreach Center Permanent Housing | #4-A Kronprindsens Gade | St Thomas | 00802 | 56,672
Methodist Training & Outreach Center, Inc. /VI-HMIS Homeless Management Information System | #4-A Kronprindsens Gade | St Thomas | 00802 | 68,474
V.I. Housing Finance Authority/VI-500 CoC Planning Application FY2018 | 3202 Demarara Plaza Suite 200 | St Thomas | 00802 | 28,184
VI Department of Human Services/DHS PHB Renewal 2018 | 1303 Hospital Ground Ste 1 | St Thomas | 00802 | 39,552
Brattleboro Housing Authority/BraHAFY2018 | 224 Melrose Street | Brattleboro | 05301 | 248,926
Institute for Community Alliances/Vermont BoS HMIS | 1111 9th Street Suite 380 | Des Moines | 50314 | 59,382
State of Vermont/Coordinated Entry Consolidated Renewal FFY18 | 280 State Drive | Waterbury | 05671 | 305,639
State of Vermont/Coordinated Entry Expansion FFY2018 | 280 State Drive | Waterbury | 05671 | 50,000
Vermont State Housing Authority/VSHA RRH Statewide FY18 | One Prospect Street | Montpelier | 05602 | 969,071
Vermont State Housing Authority/VSHA RRH6-DV FY18 | One Prospect Street | Montpelier | 05602 | 163,909
Vermont State Housing Authority/VSHA S+C SW FY18 | One Prospect Street | Montpelier | 05602 | 1,566,758
Vermont State Housing Authority/VSHA S+C WWW FY18 | One Prospect Street | Montpelier | 05602 | 204,472
Vermont State Housing Authority/VT BoS CoC Planning Project FY18 | One Prospect Street | Montpelier | 05602 | 100,922
Champlain Valley Office of Economic Opportunity/Chittenden Coordinated Entry Assessment Services |  |  |  | 50,000
Burlington Housing Authority/Beacon Place Apartments | 65 Main Street | Burlington | 05401 | 120,048
Burlington Housing Authority/ECHO-Expanding Chronically Homeless Options | 65 Main Street | Burlington | 05401 | 157,116
Burlington Housing Authority/Shelter Plus Care—New Horizons | 65 Main Street | Burlington | 05401 | 179,603
Burlington Housing Authority/Shelter Plus-Housing First | 65 Main Street | Burlington | 05401 | 139,140
Champlain Valley Office of Economic Opportunity/Chittenden Coordinated Entry Consolidated Project | 255 South Champlain Street | Burlington | 05401 | 79,999
City of Burlington/VT-501 CoC Planning Project FY 2018 | 149 Church Street Room 32 | Burlington | 05401 | 34,202
Institute for Community Alliances/Chittenden CoC HMIS | 1111 9th Street Suite 380 | Des Moines | 50314 | 65,000
Pathways Vermont, INC/Pathways Vermont Housing First Rapid Re-Housing Program (HF-RRH) | 125 College St Floor 2 | Burlington | 05401 | 73,147
Pathways Vermont, INC/Pathways Vermont Rapid Rehousing Project Expansion | 125 College St Floor 2 | Burlington | 05401 | 69,645
Spectrum Youth and Family Services/Rapid Rehousing for Homeless Youth | 31 Elmwood Avenue | Burlington | 05401 | 81,550
Steps to End Domestic Violence, Inc. /Domestic Violence Housing First | P.O. Box 1535 | Burlington | 05402 | 156,442
Archdiocesan Housing Authority/Rose of Lima House | 100 23rd Ave South | Seattle | 98144 | 108,487
Archdiocesan Housing Authority/St Martin's on Westlake | 100 23rd Ave South | Seattle | 98144 | 197,739
City of Seattle Human Services Department/Avalon Place | P.O. Box 34215 700 5th Avenue, Suite 5800 | Seattle | 98124 | 35,142
City of Seattle Human Services Department/Cascade Women's Supportive Housing | P.O. Box 34215 700 5th Avenue, Suite 5800 | Seattle | 98124 | 116,182
City of Seattle Human Services Department/Coming Home | P.O. Box 34215 700 5th Avenue, Suite 5800 | Seattle | 98124 | 488,420
City of Seattle Human Services Department/DESC 22nd Avenue PSH #1 | P.O. Box 34215 700 5th Avenue, Suite 5800 | Seattle | 98124 | 509,572
City of Seattle Human Services Department/DESC Consolidated PSH Portfolio #1 | P.O. Box 34215 700 5th Avenue, Suite 5800 | Seattle | 98124 | 3,165,747
City of Seattle Human Services Department/DESC Consolidated PSH Portfolio #2 | P.O. Box 34215 700 5th Avenue, Suite 5800 | Seattle | 98124 | 1,908,055
City of Seattle Human Services Department/Dorothy Day House | P.O. Box 34215 700 5th Avenue, Suite 5800 | Seattle | 98124 | 25,422
City of Seattle Human Services Department/ECR Transitional Housing | P.O. Box 34215 700 5th Avenue, Suite 5800 | Seattle | 98124 | 17,603
City of Seattle Human Services Department/Hickman House Joint Component RRH/TH | P.O. Box 34215 700 5th Avenue, Suite 5800 | Seattle | 98124 | 328,566
City of Seattle Human Services Department/Home Safe Rapid Rehousing | P.O. Box 34215 700 5th Avenue, Suite 5800 | Seattle | 98124 | 397,988
City of Seattle Human Services Department/Kerner Scott House | P.O. Box 34215 700 5th Avenue, Suite 5800 | Seattle | 98124 | 443,471
City of Seattle Human Services Department/Martin Court | P.O. Box 34215 700 5th Avenue, Suite 5800 | Seattle | 98124 | 105,000
City of Seattle Human Services Department/Noel House at Bakhita Gardens | P.O. Box 34215 700 5th Avenue, Suite 5800 | Seattle | 98124 | 163,581
City of Seattle Human Services Department/Nyer Urness | P.O. Box 34215 700 5th Avenue, Suite 5800 | Seattle | 98124 | 520,542
City of Seattle Human Services Department/Ozanam House Consolidated PSH | P.O. Box 34215 700 5th Avenue, Suite 5800 | Seattle | 98124 | 346,328
City of Seattle Human Services Department/Patrick Place | P.O. Box 34215 700 5th Avenue, Suite 5800 | Seattle | 98124 | 144,900
City of Seattle Human Services Department/PHG 7th and Cherry | P.O. Box 34215 700 5th Avenue, Suite 5800 | Seattle | 98124 | 265,297
City of Seattle Human Services Department/Rapid Rehousing for Young Adults | P.O. Box 34215 700 5th Avenue, Suite 5800 | Seattle | 98124 | 1,494,659
City of Seattle Human Services Department/Ronald Commons | P.O. Box 34215 700 5th Avenue, Suite 5800 | Seattle | 98124 | 147,653
City of Seattle Human Services Department/Salvation Army William Booth | P.O. Box 34215 700 5th Avenue, Suite 5800 | Seattle | 98124 | 253,988
City of Seattle Human Services Department/Sandpoint Families Supportive Housing | P.O. Box 34215 700 5th Avenue, Suite 5800 | Seattle | 98124 | 393,823
City of Seattle Human Services Department/Sandpoint Youth Group Homes | P.O. Box 34215 700 5th Avenue, Suite 5800 | Seattle | 98124 | 324,869
City of Seattle Human Services Department/Scattered Site Leasing | P.O. Box 34215 700 5th Avenue, Suite 5800 | Seattle | 98124 | 606,035
City of Seattle Human Services Department/Seattle Rapid Rehousing for Families Consolidated Project | P.O. Box 34215 700 5th Avenue, Suite 5800 | Seattle | 98124 | 1,795,553
City of Seattle Human Services Department/Williams Apartments | P.O. Box 34215 700 5th Avenue, Suite 5800 | Seattle | 98124 | 523,679
City of Seattle Human Services Department/YWCA Supportive Housing | P.O. Box 34215 700 5th Avenue, Suite 5800 | Seattle | 98124 | 231,080
Community Psychiatric Clinic/Harbor House—Safe Haven | 11000 Lake City Way NE | Seattle | 98125 | 348,156
Downtown Emergency Service Center/Lyon Building | 515 3rd Ave | Seattle | 98104 | 421,199
Friends of Youth/Arbor House (New Ground Bothell) project renewal 2018 | 13116 NE 132nd St | Kirkland | 98034 | 123,062
Kent Youth and Family Services/Watson Manor Transitional Living Program | 232 2nd Avenue S Suite 201 | Kent | 98032 | 38,134
King, County of/Family Village Redmond PSH for Families | 401 5th Avenue Suite 500 | Seattle | 98104 | 104,651
King, County of/King County Consolidated Rapid Rehousing Program | 401 5th Avenue Suite 500 | Seattle | 98104 | 1,051,717
King, County of/King County Consolidated Scattered Sites Supportive Housing | 401 5th Avenue Suite 500 | Seattle | 98104 | 6,628,495
King, County of/King County Shelter Plus Care Program—SRA | 401 5th Avenue Suite 500 | Seattle | 98104 | 1,438,286
King, County of/King County Shelter Plus Care Program—TRA | 401 5th Avenue Suite 500 | Seattle | 98104 | 9,122,155
King, County of/Mi Casa | 401 5th Avenue Suite 500 | Seattle | 98104 | 64,613
King, County of/My Friend's Place TH/RRH | 401 5th Avenue Suite 500 | Seattle | 98104 | 391,800
King, County of/Regional RRH for DV | 401 5th Avenue Suite 500 | Seattle | 98104 | 1,097,205
King, County of/Severson Program | 401 5th Avenue Suite 500 | Seattle | 98104 | 123,286
King, County of/Valley Cities Landing | 401 5th Avenue Suite 500 | Seattle | 98104 | 164,090
King, County of/WA-500 CoC Planning | 401 5th Avenue Suite 500 | Seattle | 98104 | 1,017,954
King, County of/WA-500 Coordinated Entry | 401 5th Avenue Suite 500 | Seattle | 98104 | 1,872,500
King, County of/WA-500 Coordinated Entry—DV | 401 5th Avenue Suite 500 | Seattle | 98104 | 173,000
King, County of/WA-500 HMIS | 401 5th Avenue Suite 500 | Seattle | 98104 | 403,714
Multi-Service Center/Homeless Families Transitional Housing | 1200 S 336th Street | Federal Way | 98003 | 26,724
Solid Ground Washington/Broadview Transitional Housing Program | 1501 N 45th Street | Seattle | 98103 | 158,620
YouthCare/Ravenna House | 2500 NE 54th Street | Seattle | 98105 | 151,856
YouthCare/Straley House | 2500 NE 54th Street | Seattle | 98105 | 105,602
YWCA of Seattle-King County-Snohomish County/Anita Vista | 1118 Fifth Avenue | Seattle | 98101 | 57,319
YWCA of Seattle-King County-Snohomish County/Auburn Transitional Housing | 1118 Fifth Avenue | Seattle | 98101 | 42,540
Agape Unlimited/Sisyphus II Housing Project-Agape Unlimited CoC Program-PSH-Sponsor Base Rental Assistance (PSH SRA) | 4841 Auto Center Way Suite 101 | Bremerton | 98312 | 220,502
Bellingham Housing Authority/Shelter Plus Care Tenant Based | 208 Unity Street | Bellingham | 98225 | 1,309,933
Benton and Franklin Counties Department of Human Services/Shelter Plus Care | 7102 W Okanogan Pl. Ste. 201 | Kennewick | 99336 | 101,703
Benton Franklin Community Action Committee/Bateman House Project | 720 W Court Street | Pasco | 99301 | 287,988
Benton Franklin Community Action Committee/Home Choices | 720 W Court Street | Pasco | 99301 | 298,510
Blue Mountain Action Council/The Next Step | 1520 Kelly Place Suite #140 | Walla Walla | 99362 | 259,680
Catholic Community Services/Drexel House | 100 23rd Ave South | Seattle | 98144 | 129,192
Columbia Gorge Housing Authority/Shelter Plus Care | 500 E 2nd Street | The Dalles | 97058 | 51,842
Community Action of Skagit County/Skagit ACT Housing | 330 Pacific Place | Mount Vernon | 98273 | 16,702
Community Action of Skagit County/Skagit Family Development | 330 Pacific Place | Mount Vernon | 98273 | 49,527
Community Action of Skagit County/Skagit Housing Solutions | 330 Pacific Place | Mount Vernon | 98273 | 76,219
Community Youth Services/ECHO Rapid Rehousing | 711 State Ave NE | Olympia | 98506 | 114,514
Community Youth Services/RISE Transitional Housing | 711 State Ave NE | Olympia | 98506 | 151,564
Crossroads Housing/Mason County Shelter Transitional Housing Program | P O Box 1777 71 Sargison Loop | Shelton | 98584 | 98,318
Grays Harbor County/Grays Harbor Permanent Supportive Housing Project | 2109 Sumner Avenue | Aberdeen | 98520 | 184,428
HopeSource/HopeSource Rapid Rehousing Project | 700 E Mountain View Ave, Suite 501 | Ellensburg | 98926 | 48,305
Housing Authority of Island County/Island County Shelter Plus Care | 7 NW 6th Street | Coupeville | 98239 | 27,352
Housing Authority of the City of Bremerton/Transitional Housing—Permanent Housing/Rapid re-Housing. | 600 Park ave | Bremerton | 98310 | 323,113
Housing Authority of Thurston County/Housing and Transitional Services (HATS) | 1206 12th Avenue SE | Olympia | 98501 | 133,921
Lewis County/Lewis County Transitional Housing Project | 360 NW North St Second floor Health | Chehalis | 98532 | 151,215
Low Income Housing Institute/Arbor Manor | 2407 1st Ave Suite 200 | Seattle | 98121 | 58,027
Low Income Housing Institute/Fleetwood Tenant Stabilization | 2407 1st Ave Suite 200 | Seattle | 98121 | 31,500
Lower Columbia Community Action Council/Home Again DV Bonus | 1526 Commerce Avenue | Longview | 98632 | 213,545
Next Step Housing/Pear Tree Place III | 2900 Powerhouse Road Leasing Office | Yakima | 98902 | 47,577
Next Step Housing/Sommerset Apartments | 2900 Powerhouse Road Leasing Office | Yakima | 98902 | 53,293
Northwest Youth Services/Skagit County Transitional Living Program; Step Up | 1020 North State Street n/a | Bellingham | 98225 | 261,787
Okanogan Behavioral HealthCare/The Shove House | 1007 Koala Drive | Omak | 98841 | 61,712
Olympic Community Action Programs/Crossroads Permanent Solutions | 823 Commerce Loop | Port Townsend | 98368 | 138,823
Opportunity Council/22 North | 1111 Cornwall Ave 1111 Cornwall Ave | Bellingham | 98225 | 92,664
Opportunity Council/Dorothy Place PSH | 1111 Cornwall Ave 1111 Cornwall Ave | Bellingham | 98225 | 146,760
Opportunity Council/Whatcom Rapid Rehousing | 1111 Cornwall Ave 1111 Cornwall Ave | Bellingham | 98225 | 229,690
Opportunity Council/WHSC Master Leasing | 1111 Cornwall Ave 1111 Cornwall Ave | Bellingham | 98225 | 406,180
Pacific County /Pacific County Supported Housing Collaborative | 1216 West Robert Bush Drive | South Bend | 98586 | 236,127
Serenity House of Clallam County/Clallam Families Rapid Re-Housing | 2203 West 18th P.O. Box 4047 | Port Angeles | 98363 | 91,452
Serenity House of Clallam County/SunBelt Apartments | 2203 West 18th P.O. Box 4047 | Port Angeles | 98363 | 131,434
Serenity House of Clallam County/Tempest | 2203 West 18th P.O. Box 4047 | Port Angeles | 98363 | 87,629
The Family Support Center of South Sound/FSC Rapid Rehousing | P.O. Box 784 | Olympia | 98507 | 244,294
The Family Support Center of South Sound/Rapid Rehousing For Survivors of Violence Project | P.O. Box 784 | Olympia | 98507 | 354,448
WA State Department of Commerce/WA-501 CoC Planning Application FY2018 | 1011 Plum Street SE | Olympia | 98504 | 207,120
WA State Department of Commerce/Washington State Rural Continuum of Care HMIS | 1011 Plum Street SE | Olympia | 98504 | 143,082
Walla Walla County/Permanent Supportive Housing for the Severely Mentally Ill | 314 W Main Street P.O. Box 1753 | Walla Walla | 99362 | 70,363
Washington Gorge Action Programs/Turning Point Rapid Re-Housing Program | 115 W Steuben | Bingen | 98605 | 121,525
Womens Resource Center of North Central Washington/HomeSafe | 202 Palouse Street | Wenatchee | 98801 | 45,442
Yakima Neighborhood Health Services/Bienestar—PSH | 12 South 8th Street P.O. Box 2605 | Yakima | 98907 | 76,393
Yakima Neighborhood Health Services/Bright Futures Neighborhood | 12 South 8th Street P.O. Box 2605 | Yakima | 98907 | 216,476
Yakima Neighborhood Health Services/Futuros Brilliantes—PSH | 12 South 8th Street P.O. Box 2605 | Yakima | 98907 | 108,814
Yakima Neighborhood Health Services/YNHS HealthyHousing Consolidated | 12 South 8th Street P.O. Box 2605 | Yakima | 98907 | 112,563
YWCA of Kitsap County/Permanent Supportive Housing For Families with Children | 905 Pacific Avenue | Bremerton | 98337 | 25,817
City of Spokane/CCEW PSH II CoC 2018 | 808 W Spokane Falls Blvd. | Spokane | 99201 | 110,270
City of Spokane/City of Spokane CoC Planning Project CoC 2018 | 808 W Spokane Falls Blvd. | Spokane | 99201 | 110,152
City of Spokane/WA0109 Catholic Charities SMS TH CoC 18 | 808 W Spokane Falls Blvd. | Spokane | 99201 | 64,529
City of Spokane/WA0111 VOA PSH Off Site CoC 2018 | 808 W Spokane Falls Blvd. | Spokane | 99201 | 299,844
City of Spokane/WA0119 SNAP Small Cities Rapid Rehousing CoC 2018 | 808 W Spokane Falls Blvd. | Spokane | 99201 | 159,964
City of Spokane/WA0125 Transitions/Women's Hearth CoC 2018 | 808 W Spokane Falls Blvd. | Spokane | 99201 | 21,861
City of Spokane/WA0126 VOA Alexandria's House CoC 2018 | 808 W Spokane Falls Blvd. | Spokane | 99201 | 75,144
City of Spokane/WA0127 VOA Crosswalk CoC 2018 | 808 W Spokane Falls Blvd. | Spokane | 99201 | 22,555
City of Spokane/WA0128 VOA Hope House CoC 2018 | 808 W Spokane Falls Blvd. | Spokane | 99201 | 55,665
City of Spokane/WA0129 VOA Off-Site PSH CoC 2018 | 808 W Spokane Falls Blvd. | Spokane | 99201 | 302,665
City of Spokane/WA0130 VOA/Samaritan 05-06 CoC 2018 | 808 W Spokane Falls Blvd. | Spokane | 99201 | 216,226
City of Spokane/WA0218 VOA Samaritan III CoC 2018 | 808 W Spokane Falls Blvd. | Spokane | 99201 | 136,888
City of Spokane/WA0285 CCEW PSH Consolidation CoC 2018 | 808 W Spokane Falls Blvd. | Spokane | 99201 | 347,186
City of Spokane/WA0288 CCEW RRH for Families Consolidation CoC 2018 | 808 W Spokane Falls Blvd. | Spokane | 99201 | 457,876
City of Spokane/WA0329 City of Spokane HMIS Project CoC 2018 | 808 W Spokane Falls Blvd. | Spokane | 99201 | 177,489
City of Spokane/WA0330 Coordinated Assessment—SHCA CoC 2018 | 808 W Spokane Falls Blvd. | Spokane | 99201 | 148,000
City of Spokane/WA0331 Rapid Rehousing for Households without Children CoC 2018 | 808 W Spokane Falls Blvd. | Spokane | 99201 | 216,655
City of Spokane/WA0332 VOA Scattered Site 2 CoC 2018 | 808 W Spokane Falls Blvd. | Spokane | 99201 | 177,491
City of Spokane/WA0353 Rapid Rehousing for Households with Children CoC 2018 | 808 W Spokane Falls Blvd. | Spokane | 99201 | 315,747
City of Spokane/WA0373 Homeless Families Coordinated Assessment (HFCA) CoC 2018 | 808 W Spokane Falls Blvd. | Spokane | 99201 | 80,000
City of Spokane/YWCA RRH for Survivors of Domestic Violence CoC 2018 | 808 W Spokane Falls Blvd. | Spokane | 99201 | 282,140
Pierce County/A Place for Us Too | 1305 Tacoma Avenue South Suite 104 | Tacoma | 98402 | 176,806
Pierce County/Bright Futures | 1305 Tacoma Avenue South Suite 104 | Tacoma | 98402 | 223,305
Pierce County/CCS Rapid Rehousing Project | 1305 Tacoma Avenue South Suite 104 | Tacoma | 98402 | 76,214
Pierce County/CoC Planning Project Application FY2018 | 1305 Tacoma Avenue South Suite 104 | Tacoma | 98402 | 106,761
Pierce County/Collaborative Housing | 1305 Tacoma Avenue South Suite 104 | Tacoma | 98402 | 572,341
Pierce County/Collaborative Housing Expansion | 1305 Tacoma Avenue South Suite 104 | Tacoma | 98402 | 167,650
Pierce County/Discover Independence | 1305 Tacoma Avenue South Suite 104 | Tacoma | 98402 | 324,872
Pierce County/Housing First | 1305 Tacoma Avenue South Suite 104 | Tacoma | 98402 | 528,535
Pierce County/Independence Housing Opportunity | 1305 Tacoma Avenue South Suite 104 | Tacoma | 98402 | 36,321
Pierce County/Manresa Permanent Supportive Housing | 1305 Tacoma Avenue South Suite 104 | Tacoma | 98402 | 37,429
Pierce County/Nativity House Apartments | 1305 Tacoma Avenue South Suite 104 | Tacoma | 98402 | 177,665
Pierce County/Pathway Home | 1305 Tacoma Avenue South Suite 104 | Tacoma | 98402 | 302,440
Pierce County/Pierce County HMIS Project | 1305 Tacoma Avenue South Suite 104 | Tacoma | 98402 | 63,261
Pierce County/Rural Bright Futures | 1305 Tacoma Avenue South Suite 104 | Tacoma | 98402 | 51,515
Pierce County/Safe Choices | 1305 Tacoma Avenue South Suite 104 | Tacoma | 98402 | 171,990
Pierce County/Safe Choices Expansion | 1305 Tacoma Avenue South Suite 104 | Tacoma | 98402 | 151,064
Pierce County/SCH Sponsor Based Rental Assistance | 1305 Tacoma Avenue South Suite 104 | Tacoma | 98402 | 181,169
Pierce County/Spanaway Commons | 1305 Tacoma Avenue South Suite 104 | Tacoma | 98402 | 100,079
Snohomish, County of/Beachwood North | 3000 Rockefeller Avenue, M/S 305 | Everett | 98201 | 33,249
Snohomish, County of/CCS Everett Safe Streets Supportive Housing | 3000 Rockefeller Avenue, M/S 305 | Everett | 98201 | 439,072
Snohomish, County of/CCS Home Connection | 3000 Rockefeller Avenue, M/S 305 | Everett | 98201 | 443,804
Snohomish, County of/CCS Homeless Families, Home at Last | 3000 Rockefeller Avenue, M/S 305 | Everett | 98201 | 208,759
Snohomish, County of/CCS Journey Home | 3000 Rockefeller Avenue, M/S 305 | Everett | 98201 | 327,701
Snohomish, County of/CCS Meadowdale | 3000 Rockefeller Avenue, M/S 305 | Everett | 98201 | 188,013
Snohomish, County of/CCS The Road Home | 3000 Rockefeller Avenue, M/S 305 | Everett | 98201 | 295,080
Snohomish, County of/CCS Veterans Permanent Housing | 3000 Rockefeller Avenue, M/S 305 | Everett | 98201 | 101,448
Snohomish, County of/Coordinated Entry | 3000 Rockefeller Avenue, M/S 305 | Everett | 98201 | 136,855
Snohomish, County of/Domestic Violence Rapid Rehousing | 3000 Rockefeller Avenue, M/S 305 | Everett | 98201 | 165,367
Snohomish, County of/Domestic Violence Rapid Rehousing Non-CoC Expansion | 3000 Rockefeller Avenue, M/S 305 | Everett | 98201 | 287,601
Snohomish, County of/HMIS Lead | 3000 Rockefeller Avenue, M/S 305 | Everett | 98201 | 212,216
Snohomish, County of/Homeless Youth Rapid Rehousing | 3000 Rockefeller Avenue, M/S 305 | Everett | 98201 | 118,189
Snohomish, County of/Housing Hope Village (PSH) | 3000 Rockefeller Avenue, M/S 305 | Everett | 98201 | 134,623
Snohomish, County of/Interfaith Rapid Rehousing | 3000 Rockefeller Avenue, M/S 305 | Everett | 98201 | 285,743
Snohomish, County of/Long Term Leasing for the Chronically Homeless Disabled | 3000 Rockefeller Avenue, M/S 305 | Everett | 98201 | 355,800
Snohomish, County of/Long Term Leasing for the Disabled | 3000 Rockefeller Avenue, M/S 305 | Everett | 98201 | 318,659
Snohomish, County of/Monte Cristo | 3000 Rockefeller Avenue, M/S 305 | Everett | 98201 | 62,734
Snohomish, County of/Pathways Home (PSH) | 3000 Rockefeller Avenue, M/S 305 | Everett | 98201 | 254,018
Snohomish, County of/Pathways Home (RRH) | 3000 Rockefeller Avenue, M/S 305 | Everett | 98201 | 262,137
Snohomish, County of/Shelter Plus Care #5 | 3000 Rockefeller Avenue, M/S 305 | Everett | 98201 | 4,846,634
Snohomish, County of/Snohomish County Collaborative Planning Project | 3000 Rockefeller Avenue, M/S 305 | Everett | 98201 | 234,712
Snohomish, County of/Snohomish County UFA Project | 3000 Rockefeller Avenue, M/S 305 | Everett | 98201 | 156,474
Community Services Northwest/PSH Northwest FY2018 | P.O. Box 1845 | Vancouver | 98668 | 71,266
Community Services Northwest/PSH Northwest II FY2018 | P.O. Box 1845 | Vancouver | 98668 | 92,000
Community Services Northwest/The Way Home III FY2018 | P.O. Box 1845 | Vancouver | 98668 | 176,875
Community Services Northwest/The Way Home Too FY2018 | P.O. Box 1845 | Vancouver | 98668 | 292,884
Community Services Northwest/Way Home 4 | P.O. Box 1845 | Vancouver | 98668 | 174,399
Council for the Homeless/HMIS Expansion | 2500 Main St | Vancouver | 98660 | 100,602
Council for the Homeless/WA-508 CoC Planning Application FY2018 | 2500 Main St | Vancouver | 98660 | 35,752
Impact NW/Impact NW Permanent Supportive Housing (Clark) | 10055 E Burnside St | Portland | 97216 | 188,517
Janus Youth Programs, Inc./Connections | 1501 Columbia | Vancouver | 98660 | 174,116
Share/Bridges to Housing Renewal 2018 | 2306 NE Andresen Rd | Vancouver | 98661 | 52,663
Share/Bridging the Gap Expansion 2018 Renewal | 2306 NE Andresen Rd | Vancouver | 98661 | 196,604
Share/Step Forward Renewal 2018 | 2306 NE Andresen Rd | Vancouver | 98661 | 269,942
Share/Story Street II Renewal 2018 | 2306 NE Andresen Rd | Vancouver | 98661 | 353,215
ADVOCAP, Inc./ADVOCAP Fond du Lac Rapid Rehousing | 19 West First Street | Fond du Lac | 54936 | 95,136
ADVOCAP, Inc./CoC Winnebagoland Rapid Rehousing | 19 West First Street | Fond du Lac | 54936 | 118,748
ADVOCAP, Inc./Winnebagoland PSH | 19 West First Street | Fond du Lac | 54936 | 132,186
ADVOCAP, Inc./Winnebagoland Rapid Rehousing | 19 West First Street | Fond du Lac | 54936 | 265,936
Central Wisconsin Community Action Council, Inc./Project Chance Rapid Re-Housing | 1000 Hwy 13 | Wisconsin Dells | 53965 | 271,348
City of Appleton/Fox Cities Housing Coalition RRH Program | 100 N Appleton Street Sixth Floor | Appleton | 54911 | 187,128
City of Appleton/Fox Cities Housing Coalition RRH Program Expansion | 100 N Appleton Street Sixth Floor | Appleton | 54911 | 83,447
City of Appleton/Fox Cities HP Rapid Re-Housing Program | 100 N Appleton Street Sixth Floor | Appleton | 54911 | 60,896
Community Action Coalition For South Central Wisconsin, Inc./Jefferson County Transitional Housing | 1717 N Stoughton Road | Madison | 53704 | 168,164
Community Action Coalition For South Central Wisconsin, Inc./Project WISH | 1717 N Stoughton Road | Madison | 53704 | 191,767
Community Action, Inc. of Rock & Walworth Counties/CAI_PSH | 20 Eclipse Center | Beloit | 53511 | 219,552
Community Action, Inc. of Rock & Walworth Counties/CAI_RRH | 20 Eclipse Center | Beloit | 53511 | 459,945
Couleecap, Inc./Couleecap Housing First II PSH | 201 Melby St | Westby | 54667 | 375,413
Couleecap, Inc./Couleecap Housing First Permanent Housing Program | 201 Melby St | Westby | 54667 | 229,508
Family Services of Northeast Wisconsin/Brown County Rapid ReHousing | P.O. Box 22308 300 Crooks Street | Green Bay | 54305 | 166,394
Hebron House of Hospitality, Inc/Jeremy House Safe Haven | 111 E Main Street | Waukesha | 53186 | 118,755
Housing Partnership of the Fox Cities, Inc./It Takes A Village Permanent Supportive Housing Program | 605 E Hancock Street | Appleton | 54911 | 180,359
Institute for Community Alliances/Wisconsin HMIS Project Renewal | 1111 9th Street Suite 380 | Des Moines | 50314 | 371,429
Kenosha Human Development Services, Inc./Kenosha Permanent Housing Connections | 5407 8th Avenue | Kenosha | 53140 | 393,634
Kenosha Human Development Services, Inc./KYF Rapid Rehousing Project | 5407 8th Avenue | Kenosha | 53140 | 129,783
Kenosha Human Development Services, Inc./MyHOME Rapid Rehousing Project | 5407 8th Avenue | Kenosha | 53140 | 143,963
Lakeshore CAP Inc. of Wisconsin/RRH | 702 State Street P.O. Box 2315 | Manitowoc | 54221 | 131,127
Lutheran Social Services of Wisconsin and Upper Michigan, In/Welcome Home Eau Claire | 6737 W Washington Street, Suite 2275 | West Allis | 53214 | 86,692
Newcap, Inc./Brown County PSH | 1201 Main St | Oconto | 54153 | 543,194
Newcap, Inc./Brown County PSH Individuals Expansion | 1201 Main St | Oconto | 54153 | 345,301
Newcap, Inc./Brown County Youth RRH Project | 1201 Main St | Oconto | 54153 | 350,386
Newcap, Inc./SHP Housing First | 1201 Main St | Oconto | 54153 | 197,118
North Central Community Action Program, Inc./NCCAP Permanent Supportive Housing | 2111 8th Street South, Suite 102 | Wisconsin Rapids | 54494 | 181,320
Northwest Wisconsin Community Services Agency Inc./NWCSA PSH | 1118 Tower Avenue | Superior | 54880 | 116,517
The Salvation Army/Permanent Supportive Housing | 504 W 8th St | New Richmond | 54016 | 260,426
Walworth County Housing Authority/Hartwell Street Apartments | 735 N Wisconsin Street Suite 100 | Elkhorn | 53121 | 70,810
West Central Wisconsin Community Action Agency, Inc./West CAP Permanent Supportive Housing | 525 Second Street P.O. Box 308 | Glenwood City | 54013 | 157,883
West Central Wisconsin Community Action Agency, Inc./West CAP Permanent Supportive Housing II | 525 Second Street P.O. Box 308 | Glenwood City | 54013 | 241,582
West Central Wisconsin Community Action Agency, Inc./West CAP Permanent Supportive Housing II Expansion | 525 Second Street P.O. Box 308 | Glenwood City | 54013 | 385,950
West Central Wisconsin Community Action Agency, Inc./West CAP Rapid Re-Housing | 525 Second Street P.O. Box 308 | Glenwood City | 54013 | 346,612
Western Dairyland Economic Opportunity Council, Inc./Housing First | 23122 Whitehall Road P. O. Box 125 | Independence | 54747 | 188,951
Western Dairyland Economic Opportunity Council, Inc./Permanent Supportive Housing | 23122 Whitehall Road P. O. Box 125 | Independence | 54747 | 260,542
Western Dairyland Economic Opportunity Council, Inc./Permanent Supportive Housing Program | 23122 Whitehall Road P. O. Box 125 | Independence | 54747 | 125,994
Wisconsin Balance of State Continuum of Care, Inc./WIBOSCOC Planning Grant FY2018 | P.O. Box 272 | Eau Claire | 54702 | 294,945
Wisconsin Balance of State Continuum of Care, Inc./WIBOSCOC RRH Project | P.O. Box 272 | Eau Claire | 54702 | 1,002,663
Wisconsin Balance of State Continuum of Care, Inc./WIBOSCOC Supportive Services for Coordinated Entry | P.O. Box 272 | Eau Claire | 54702 | 404,506
Wisconsin Balance of State Continuum of Care, Inc./WIBOSCOC Supportive Services for Coordinated Entry Expansion | P.O. Box 272 | Eau Claire | 54702 | 235,963
YWCA La Crosse/YWCA Rapid Rehousing | 3219 Commerce Street | La Crosse | 54603 | 73,290
Center for Veterans Issues, Ltd./OTP/PSH Milwaukee | 315 W Court Street 2nd Floor | Milwaukee | 53212 | 444,076
Center for Veterans Issues, Ltd./Veterans Gardens | 315 W Court Street 2nd Floor | Milwaukee | 53212 | 285,150
City of Milwaukee/WI-501 CoC Planning Application FY2018 | 200 E Wells Street Room 606 | Milwaukee | 53202 | 382,747
Community Advocates, Inc./Autumn West Permanent Housing | 728 N James Lovell Street | Milwaukee | 53233 | 1,139,448
Community Advocates, Inc./Autumn West Safe Haven | 728 N James Lovell Street | Milwaukee | 53233 | 411,322
Friends of Housing Corporation/PH Renewal | 455 E Ogden Avenue #200 | Milwaukee | 53202 | 104,737
Guest House of Milwaukee, Inc./Homelinc | 1216 N 13th St | Milwaukee | 53205 | 1,514,397
Hope House of Milwaukee, Inc./Hope House Joint TH-RRH Project | 209 West Orchard Street | Milwaukee | 53204 | 578,721
Hope House of Milwaukee, Inc./Hope House PSH for Families | 209 West Orchard Street | Milwaukee | 53204 | 198,104
IMPACT Alcohol and Other Drug Abuse Services, Inc./Community Based Coordinated Entry | 6737 W Washington, Suite 2225 | Milwaukee | 53214 | 61,498
Institute for Community Alliances/Milwaukee CoC HMIS | 1111 9th Street Suite 380 | Des Moines | 50314 | 144,112
Mercy Housing Lakefront/Johnston Center | 120 S LaSalle Suite 1850 | Chicago | 60603 | 34,139
Milwaukee County of/Milwaukee County—Housing First Tenant-Based Rent Assistance | 600 W Walnut St, Suite 100 | Milwaukee | 53212 | 594,338
Milwaukee County of/Milwaukee County Housing First TBRA II | 600 W Walnut St, Suite 100 | Milwaukee | 53212 | 397,279
Milwaukee County of/Milwaukee County Housing First TBRA III | 600 W Walnut St, Suite 100 | Milwaukee | 53212 | 131,248
Milwaukee County of/Milwaukee County Shelter + Care/TRA (My Home Housing Program) | 600 W Walnut St, Suite 100 | Milwaukee | 53212 | 2,840,811
Milwaukee County of/Milwaukee County/Heartland Housing S+C | 600 W Walnut St, Suite 100 | Milwaukee | 53212 | 93,820
Milwaukee County of/Milwaukee County/Mercy Housing SPC—Milwaukee South | 600 W Walnut St, Suite 100 | Milwaukee | 53212 | 246,229
Outreach Community Health Centers, Inc./Rapid Rehousing towards Recovery | 711 West Capitol Drive | Milwaukee | 53206 | 452,286
St Catherine Residence, Inc./St Catherine Residence | 1032 E Knapp Street | Milwaukee | 53202 | 152,852
The Salvation Army/ROOTS Permanent Housing | 1730 N 7th Street | Milwaukee | 53205 | 163,177
Walker's Point Youth and Family Center/Rapid Rehousing for Youth | 2030 West National Ave | Milwaukee | 53204 | 270,818
Center for Veterans Issues, Ltd./PSH Racine | 315 W Court Street 2nd Floor | Milwaukee | 53212 | 202,629
Homeless Assistance Leadership Organization, Inc./A Place of My Own Housing Initiative | 2000 DeKoven Avenue, Unit 1 | Racine | 53403 | 448,503
Homeless Assistance Leadership Organization, Inc./CoC Planning Project FY2018 | 2000 DeKoven Avenue, Unit 1 | Racine | 53403 | 48,377
HOPES Center of Racine, INC/HOPES Center Rapid Rehousing | 521 Sixth Street | Racine | 53403 | 99,805
Institute for Community Alliances/Racine CoC HMIS | 1111 9th Street Suite 380 | Des Moines | 50314 | 15,000
Institute for Community Alliances/Racine CoC ICA Coordinated Entry | 1111 9th Street Suite 380 | Des Moines | 50314 | 37,525
SAFE Haven of Racine, Inc./SAFE Passage Housing Project | 1030 Washington Avenue | Racine | 53403 | 64,162
Women's Resource Center of Racine/2018 Purple Ribbon | P.O. Box 1764 | Racine | 53401 | 61,862
City of Madison/WI-503 CoC Planning Application FY2018 | 215 Martin Luther King Jr. Blvd Suite 300 | Madison | 53703 | 93,543
Community Action Coalition For South Central Wisconsin, Inc./CAC Dane County SHP | 1717 N Stoughton Road | Madison | 53704 | 324,927
Dane County, WI/Rental Assistance | 1202 Northport Dr | Madison | 53704 | 1,055,278
Institute for Community Alliances/Madison/Dane CoC Coordinated Entry | 1111 9th Street Suite 380 | Des Moines | 50314 | 267,611
Institute for Community Alliances/Madison/Dane CoC HMIS Expansion | 1111 9th Street Suite 380 | Des Moines | 50314 | 44,500
Lutheran Social Services of Wisconsin and Upper Michigan, In/LSS Housing First | 6737 W Washington Street, Suite 2275 | West Allis | 53214 | 96,244
Porchlight, Inc./Housing First Leasing Project | 306 N Brooks Street | Madison | 53715 | 138,347
Porchlight, Inc./Housing Opportunities and Supportive Team-Focused Services | 306 N Brooks Street | Madison | 53715 | 236,344
Tellurian, Inc./Permanent Housing Program Consolidation | 5900 Monona Dr Suite 300 | Monona | 53716 | 398,672
Tellurian, Inc./Willy Streeet SRO | 5900 Monona Dr Suite 300 | Monona | 53716 | 76,233
Tenant Resource Center, Inc./Rapid ReHousing Renewal | 1202 Williamson St, Suite 101 | Madison | 53703 | 84,739
The Road Home Dane County/Second Chance Apartment Project | 890 W Wingra Dr | Madison | 53715 | 54,009
The Salvation Army/RISE: Rehousing Into Supportive Environments | 630 East Washington Avenue | Madison | 53703 | 263,440
YWCA of Madison, Inc./House-ability | 101 E Mifflin St, Suite 100 | Madison | 53703 | 438,201
Greater Wheeling Coalition for the Homeless/FY2018 Residential Housing | 84 Fifteenth Street | Wheeling | 26003 | 268,033
Greater Wheeling Coalition for the Homeless/FY2018 Supportive Services Only | 84 Fifteenth Street | Wheeling | 26003 | 135,796
Greater Wheeling Coalition for the Homeless/WV-500 CoC Planning Application FY2018 | 84 Fifteenth Street | Wheeling | 26003 | 20,371
Branches Domestic Violence Shelter/Branches (PH)—RRH App 2018 | P.O. Box 403 | Huntington | 25708 | 125,678
Cabell-Huntington Coalition for the Homeless, Inc./CoC Planning 2018 | 627 Fourth Avenue | Huntington | 25701 | 33,500
Cabell-Huntington Coalition for the Homeless, Inc./Coordinated Entry 2018 | 627 Fourth Avenue | Huntington | 25701 | 28,240
Cabell-Huntington Coalition for the Homeless, Inc./Coordinated Entry Expansion 2018 | 627 Fourth Avenue | Huntington | 25701 | 102,344
Cabell-Huntington Coalition for the Homeless, Inc./Housing First (SSO) Renewal 2018 | 627 Fourth Avenue | Huntington | 25701 | 107,595
Cabell-Huntington Coalition for the Homeless, Inc./RRH Consolidated 2018 | 627 Fourth Avenue | Huntington | 25701 | 191,849
Cabell-Huntington Coalition for the Homeless, Inc./Safe Quarters Renewal 2018 | 627 Fourth Avenue | Huntington | 25701 | 127,066
Cabell-Huntington Coalition for the Homeless, Inc./Targeted Rapid Rehousing 2018 | 627 Fourth Avenue | Huntington | 25701 | 188,947
Huntington West Virginia Housing Authority/SNAP 2018 Consolidation 13—15 | 300 West Seventh Avenue | Huntington | 25701 | 104,269
Huntington West Virginia Housing Authority/SNAP 2018 Consolidation 16—18 | 300 West Seventh Avenue | Huntington | 25701 | 83,615
Huntington West Virginia Housing Authority/SNAP 2018 Renewal 5—7—11—21 | 300 West Seventh Avenue | Huntington | 25701 | 247,582
Huntington West Virginia Housing Authority/SNAP 2018 Renewal 10 | 300 West Seventh Avenue | Huntington | 25701 | 29,230
Huntington West Virginia Housing Authority/SNAP 2018 Renewal 12 | 300 West Seventh Avenue | Huntington | 25701 | 13,800
Huntington West Virginia Housing Authority/SNAP 2018 Renewal 2—3 | 300 West Seventh Avenue | Huntington | 25701 | 628,416
Huntington West Virginia Housing Authority/SNAP 2018 Renewal 23 | 300 West Seventh Avenue | Huntington | 25701 | 58,634
Huntington West Virginia Housing Authority/SNAP 2018 Renewal 6 | 300 West Seventh Avenue | Huntington | 25701 | 82,629
Huntington West Virginia Housing Authority/SNAP 2018 Renewal 8 | 300 West Seventh Avenue | Huntington | 25701 | 132,107
Huntington West Virginia Housing Authority/SNAP 2018 Renewal 9—11A -22 | 300 West Seventh Avenue | Huntington | 25701 | 175,542
Prestera Center for Mental Health Services/Balen Renewal 2018 | 3375 U.S Route 60 East | Huntington | 25705 | 48,885
Prestera Center for Mental Health Services/HMIS Reallocation 2018 | 3375 U.S Route 60 East | Huntington | 25705 | 63,888
Prestera Center for Mental Health Services/HMIS Renewal Consolidation 2018 | 3375 U.S Route 60 East | Huntington | 25705 | 41,112
Charleston-Kanawha Housing Authority/Shelter + Care Consolidated Renewal | 1525 Washington Street, West | Charleston | 25387 | 215,206
City of Charleston/Centralized Assessment Team | 105 McFarland Street | Charleston | 25301 | 91,713
Covenant House, Inc./Housing First Consolidation | 600 Shrewsbury Street | Charleston | 25301 | 334,253
Covenant House, Inc./Rapid Re-Housing 2018 | 600 Shrewsbury Street | Charleston | 25301 | 36,490
Kanawha Valley Colective, Inc./HMIS | 600 Shrewsbury Street c/o Covenant House | Charleston | 25301 | 63,999
Kanawha Valley Colective, Inc./HMIS Reallocation 2018 | 600 Shrewsbury Street c/o Covenant House | Charleston | 25301 | 34,000
Kanawha Valley Collective/KVC Planning Project 2018 | 600 Shrewsbury Street Suite 1 | Charleston | 25301 | 44,700
Roark-Sullivan Lifeway Center/Twin Cities Center | 505 Leon Sullivan Way | Charleston | 25301 | 247,942
YWCA of Charleston/Shanklin Center for Senior Enrichment Consolidated | 1426 Kanawha Boulevard East | Charleston | 25301 | 113,815
YWCA of Charleston/YWCA Resolve's Rapid Re-Housing | 1426 Kanawha Boulevard East | Charleston | 25301 | 154,323
Bartlett House, Inc/West Run Bridge & RRH Housing 2018 | 1110 University Ave | Morgantown | 26505 | 222,887
Bartlett House, Inc/West Run Permanent Supportive Housing 2018 | 1110 University Ave | Morgantown | 26505 | 120,760
Clarksburg Housing Authority/PSH-1 | 433 Baltimore Avenue | Clarksburg | 26301 | 413,056
Family Refuge Center/Greenbrier Valley DV Bonus | 213 Coleman Dr. Suite B | Lewisburg | 24901 | 186,872
North Central WV Community Action, Inc. /North Central WV Community Action Agency, INC SHP Permanent Project | 1304 Goose Run Road | Fairmont | 26554 | 57,363
North Central WV Community Action, Inc. /North Central WV Community Action Agency, Inc. SHP Permanent Project II | 1304 Goose Run Road | Fairmont | 26554 | 43,158
Raleigh County Community Action Association, Incorporated/Greenbrier PSH 2018 Renewal | 111 Willow Lane | Beckley | 25801 | 207,909
Raleigh County Community Action Association, Incorporated/RCCAA CoC Rapid Re-Housing Program FY2018 | 111 Willow Lane | Beckley | 25801 | 192,483
Raleigh County Community Action Association, Incorporated/RCCAA Leasing Expansion FY2018 | 111 Willow Lane | Beckley | 25801 | 170,908
Raleigh County Community Action Association, Incorporated/Renewal RCCAA Supportive Housing FY2018 | 111 Willow Lane | Beckley | 25801 | 147,444
Raleigh County Community Action Association, Incorporated/RRH 2018 Renewal | 111 Willow Lane | Beckley | 25801 | 132,843
Southwestern Community Action Council, Inc./FY 2018—Simms Housing | 540 5th Avenue | Huntington | 25701 | 70,287
Telamon Corporation/Hearthstone Permanent Supportive Housing | 5560 Munford Road Suite 201 | Raleigh | 27612 | 172,392
Telamon Corporation/Potomac Highlands Permanent Supportive Housing | 5560 Munford Road Suite 201 | Raleigh | 27612 | 173,840
Telamon Corporation/Reliable Housing Permanent Supportive Housing | 5560 Munford Road Suite 201 | Raleigh | 27612 | 168,013
WV Coalition to End Homelessness, Inc. /HMIS Renewal FY2018 | 527 East Main Street Suite 104 | Bridgeport | 26330 | 437,846
WV Coalition to End Homelessness, Inc. /WV BoS Coordinated Entry Consolidation | 527 East Main Street Suite 104 | Bridgeport | 26330 | 172,863
WV Coalition to End Homelessness, Inc. /WV-508 CoC Planning Application FY2018 | 527 East Main Street Suite 104 | Bridgeport | 26330 | 126,309
WV Coalition to End Homelessness, Inc. /WVCEH PSH Consolidated Application FY2018 | 527 East Main Street Suite 104 | Bridgeport | 26330 | 569,000
WV Coalition to End Homelessness, Inc. /WVCEH Rapid Rehousing Consolidated FY2018 | 527 East Main Street Suite 104 | Bridgeport | 26330 | 589,677
Community Action Partnership of Natrona County/Expansion Life Steps PSH | 800 Werner Court, Suite 201 | Casper | 82601 | 58,587
Council of Community Services/Permanent Supportive Housing for Chronically Homeless Families FY2018 | 114 4J Road | Gillette | 82716 | 55,819
Department of Family Services/WY-500 Planning Project FY2018 | 2300 Capitol Ave, 3rd Floor | Cheyenne | 82002 | 30,570
Institute for Community Alliances/DFS to ICA 1 HMIS Renewal | 1111 9th Street Suite 380 | Des Moines | 50314 | 61,539
Institute for Community Alliances/DFS to ICA HMIS Expansion Renewal | 1111 9th Street Suite 380 | Des Moines | 50314 | 82,275
Total |  |  |  | 2,167,075,776

Appendix C

FY2018 Choice Neighborhoods Implementation Grants

Contact: Mindy Turbov, (202) 402-4191.

Lead grantee | Address | City | State | ZIP code | Amount
Newport News Redevelopment and Housing Authority | P.O. Box 797 | Newport News | VA | 23607 | $30,000,000
Norfolk Redevelopment and Housing Authority | 555 E Main Street | Norfolk | VA | 23510 | 30,000,000
City of Omaha | 1819 Farnam Street | Omaha | NE | 68102 | 25,000,000
|  |  |  |  | 85,000,000

Appendix D

FY2018 Veterans Housing Rehabilitation Modification Pilot Program

Contact: Jackie L. Williams, Ph.D. (202) 708-2290.

Recipient | Address | City | Zip code | Grant type | Amount
Rural Alaska Community Action Program, Inc | 731 East 8th Avenue | Anchorage | 99501-3772 | Competitive | $1,000,000
The New Mexico Affordable Housing Charitable Trust | 344 4th St. SW | Albuquerque | 87102-3206 | Competitive | 1,000,000
Housing Assistance Council | 1025 Vermont Ave. NW, Ste. 606 | Washington DC | 20005-3516 | Competitive | 1,000,000
Habitat for Humanity International | 322 West Lamar Street | Americus | 31709-3423 | Competitive | 1,000,000
Easter Seal Central Texas, Inc | 8505 Cross Park Drive | Austin | 78754-4552 | Competitive | 1,000,000
Veterans Inc | 69 Grove St | Worcester | 01605-2600 | Competitive | 1,000,000
Revitalize CDC | 1145 Maine St., Suite 107 | Springfield | 01103-2152 | Competitive | 730,000
Rebuilding Together, Inc | 999 N Capitol St. NE, Suite 701 | Washington DC | 20002-4684 | Competitive | 700,000
Total |  |  |  |  | $7,430,000

[FR Doc. 2019-18267 Filed 8-27-19; 8:45 am]

BILLING CODE 4210-67-P